DEPARTMENT OF THE INTERIOR

Fish and Wildlife Service

50 CFR Part 17

RIN-1018-AJ16

Endangered and Threatened Wildlife and Plants; Revised Proposed Designation of Critical Habitat for the California Red-Legged Frog (Rana aurora draytonii)

AGENCY: Fish and Wildlife Service, Interior.

ACTION: Proposed rule; revised proposed designation of critical habitat, special rule, reopening of comment period, and notice of availability of the draft economic analysis.

SUMMARY: We, the U.S. Fish and Wildlife Service (Service), announce the reopening of a 90-day public comment period for the proposed rule to designate critical habitat for the California red-legged frog (Rana aurora draytonii), pursuant to the Endangered Species Act of 1973, as amended (Act), and a concurrent 90-day comment period for the draft economic analysis for this proposed rule. A previous proposed rule to designate critical habitat was published on April 13, 2004 (69 FR 19620). We herein revise those critical habitat boundaries to better reflect lands containing essential features for the California red-legged frog, and we now propose to designate approximately 737,912 acres (ac) (298,622 hectares (ha)) of critical habitat in 23 California counties.

Section 4 of the Act requires us to consider the economic and other relevant impacts of specifying any area as critical habitat. We hereby solicit data and comments from the public on all aspects of this proposal, including data on the economic and other impacts of the designation. We have conducted an analysis of the economic impacts of designating these areas as critical habitat and are announcing the availability of the draft economic analysis for public review.

A special rule is also being proposed to exempt existing routine ranching activities from the prohibitions of the Act because these practices have neutral or beneficial effects on the California red-legged frog. We solicit additional data and information that may assist us in making a final decision on this proposed action.

DATES: We will accept comments from all interested parties until February 1, 2006. We must receive requests for public hearings, in writing, at the address shown in the ADDRESSES section by December 19, 2005.

ADDRESSES: If you wish to comment on this proposed rule and/or the draft economic analysis, you may submit your comments and materials by any one of several methods:

1. You may submit written comments and information to the Field Supervisor, Sacramento Fish and Wildlife Office, U.S. Fish and Wildlife Service, 2800 Cottage Way, Suite W. 2605, Sacramento, CA 95825.

2. You may hand-deliver written comments and information to our Sacramento Fish and Wildlife Office, at the above address, or fax your comments to 916/414-6712.

3. You may send your comments by electronic mail (e-mail) to fw1crlf@fws.gov. For directions on how to submit electronic filing of comments, see the “Public Comments Solicited” section below. In the event that our Internet connection is not functional, please submit comments by the alternate methods mentioned above.

All comments and materials received, as well as supporting documentation used in preparation of this proposed rule, will be available for public inspection, by appointment, during normal business hours at the above address.

FOR FURTHER INFORMATION CONTACT: For general information, information on the special rule, and information about the proposed designation in Alameda, Butte, Calaveras, Contra Costa, El Dorado, Kern, Marin, Merced, Napa, Nevada, San Mateo, Santa Clara, Solano, Stanislaus, and Yuba counties, contact Wayne White, Field Supervisor, Sacramento Fish and Wildlife Office, U.S. Fish and Wildlife Service, 2800 Cottage Way, Suite W. 2605, Sacramento, CA 95825 (telephone 916/414-6600; facsimile 916/414-6712).

For information about the proposed designation in Los Angeles, Monterey, San Benito, San Luis Obispo, Santa Barbara, Santa Cruz, and Ventura counties, contact Diane Noda, Field Supervisor, Ventura Fish and Wildlife Office, U.S. Fish and Wildlife Service, 2394 Portola Road, Suite B, Ventura, CA 93003 (telephone 805/644-1766; facsimile 805/644-3958).

For information about the proposed designation in the San Gabriel Mountains of Los Angeles County or Riverside County, contact Jim Bartel, Field Supervisor, Carlsbad Fish and Wildlife Office, U.S. Fish and Wildlife Service, 2730 6010 Hidden Valley Road, Carlsbad, CA 92009 (telephone 760/431-9440; facsimile 760/431-9624).

SUPPLEMENTARY INFORMATION:

Public Comments Solicited

It is our intent that any final action resulting from this proposal will be as accurate as possible. Therefore, we solicit comments or suggestions from the public, other concerned governmental agencies, the scientific community, industry, or any other interested party concerning this proposed rule and its associated draft economic analysis. On the basis of public comment, during the development of the final rule we may find that areas proposed do not have the essential features, are appropriate for exclusion under section 4(b)(2), or are not appropriate for exclusion, in which case they would either be removed from or made part of the final designation. We particularly seek comments concerning:

(1) The reasons why any areas should or should not be determined to be critical habitat as provided by section 4 of the Act, including whether the benefits of designation will outweigh any threats to the subspecies resulting from the designation;

(2) Specific information on the amount and distribution of California red-legged frog and its habitat, and which habitat or habitat components (i.e., physical and biological features) are essential to the conservation of this subspecies and why;

(3) Whether the primary constituent elements for the California red-legged frog as defined in this proposal are biologically and scientifically accurate, specifically;

(a) Whether the requirement for two or more suitable breeding sites within 0.7 mi (1.2 km) is a feature essential to the conservation of the subspecies;

(b) Whether providing 200 ft (60 m) surrounding aquatic and wetland habitat for shelter, forage and predator avoidance is sufficient for conservation of the subspecies;

(4) Land use designations and current or planned activities in or adjacent to the areas proposed and their possible impacts on proposed critical habitat;

(5) Not all of the lands that may contribute to the conservation of the red-legged frog are being proposed as critical habitat. We specifically solicit comment as to whether any other areas should be included and why;

(6) With specific reference to sections 4(a)(3) and 4(b)(2) of the Act, we request information from the Department of Defense (DOD) to assist the Secretary of the Interior in excluding critical habitat on lands administered by, or under the control of, the DOD based on the benefit of an Integrated Natural Resources Management Plan (INRMP) to the conservation of the subspecies; and information regarding impacts to national security associated with proposed designation of critical habitat; and

(7) Whether the proposed critical habitat unit in southern California with older occurrence records, RIV-2 Arroyo Seco Creek, (see Proposed Critical Habitat designation below) contains features essential to the conservation of the subspecies, and should be designated as critical habitat;

(8) Whether the currently existing unoccupied critical habitat units as identified in the previous Federal Register (69 FR 19620; April 13, 2004) (Unit 5) in Tuolumne and Mariposa Counties, and (Unit 31) in Los Angeles County, should remain as critical habitat; and,

(9) Additional information pertaining to the promulgation of a special rule for the California red-legged frog to exempt from take prohibitions under section 9 of the Act existing routine ranching practices located on private and Tribal lands.

(10) Information on how many of the State and local environmental protection measures referenced in the draft economic analysis were adopted largely as a result of the listing of the California red-legged frog, and how many were either already in place or enacted for other reasons;

(11) Whether the draft economic analysis identifies all State and local costs attributable to the proposed critical habitat designation, and information on any costs that have been inadvertently overlooked;

(12) Whether the draft economic analysis makes appropriate assumptions regarding current practices and likely regulatory changes imposed as a result of the designation of critical habitat;

(13) Whether the draft economic analysis correctly assesses the effect on regional costs associated with land use controls that derive from the designation of critical habitat;

(14) The economic analysis indicated potentially disproportionate impacts to areas within San Luis Obispo, Alameda, Contra Costa, Santa Barbara, and San Mateo Counties. Based on this information, we are considering excluding portions of these areas from the final designation per our discretion under section 4(b)(2) of the Act. We are specifically seeking comment along with additional information concerning our final determination for these five areas along with any other areas with potentially disproportionate impacts.

(15) Whether the economic analysis appropriately identifies all costs that could result from the designation, in particular, any impacts on small entities or families; and whether it is appropriate that the analysis does not include the cost of project modifications that are the result of informal consultation only;

(16) Whether there is information about alternate areas that could be used as substitutes for the economic activities planned in areas proposed as critical habitat that would offset the costs and allow for the conservation of critical habitat areas; and

(17) Whether our approach to designating critical habitat could be improved or modified in any way to provide for greater public participation and understanding, or to assist us in accommodating public concerns and comments.

If you wish to comment on this proposed rule and/or the draft economic analysis, you may submit your comments and materials concerning this proposal and its associated draft economic analysis by any one of several methods (see ADDRESSES section). Please submit electronic comments in ASCII file format and avoid the use of special characters or any form of encryption. Please also include “Attn: RIN 1018-AJ16” in your e-mail subject header and your name and return address in the body of your message. If you do not receive a confirmation from the system that we have received your Internet message, contact us directly by calling our Sacramento Fish and Wildlife Office at phone number 916/414-6600. Please note that the e-mail address fw1crlf@fws.gov will be closed out at the termination of the public comment period. In the event that our internet connection is not functional, please submit comments by the alternate methods mentioned above.

Our practice is to make comments, including names and home addresses of respondents, available for public review. Individual respondents may request that we withhold their home addresses from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. Comments and materials received will be available for public inspection, by appointment, during normal business hours at the above address.

Copies of the proposed rule, draft economic analysis, and information regarding this proposed critical habitat designation are available on the Internet at http://www.fws.gov/pacific/sacramento.

Designation of Critical Habitat Provides Little Additional Protection to Species

In 30 years of implementing the Act, (16 U.S.C. 1531 et seq.), we have found that the designation of statutory critical habitat provides little additional protection to most listed species, while consuming significant amounts of available conservation resources. Our present system for designating critical habitat has evolved since its original statutory prescription into a process that provides little real conservation benefit, is driven by litigation and the courts rather than biology, limits our ability to fully evaluate the science involved, consumes enormous agency resources, and imposes huge social and economic costs). We believe that additional agency discretion would allow our focus to return to those actions that provide the greatest benefit to the species most in need of protection.

Role of Critical Habitat in Actual Practice of Administering and Implementing the Act

While attention to and protection of habitat is paramount to successful conservation actions, we have consistently found that, in most circumstances, the designation of critical habitat is of little additional value for most listed species, yet it consumes large amounts of conservation resources. Sidle (1987) stated, “Because the Act can protect species with and without critical habitat designation, critical habitat designation may be redundant to the other consultation requirements of section 7.” Currently, only 470 species or 37 percent of the 1,264 listed species in the U.S. under our jurisdiction have designated critical habitat.

We address the habitat needs of all 1,264 listed species through conservation mechanisms such as listing, section 7 consultations, the section 4 recovery planning process, the section 9 protective prohibitions of unauthorized take, section 6 funding to the States, and the section 10 incidental take permit process. We believe that it is these measures that may make the difference between extinction and survival for many species.

We note, however, that the August 6, 2004, Ninth Circuit judicial opinion, Gifford Pinchot Task Force v. United State Fish and Wildlife Service) found our definition of adverse modification was invalid. In response to the decision, the Director has provided guidance to the Service based on the statutory language.

Procedural and Resource Difficulties in Designating Critical Habitat

We have been inundated with lawsuits for our failure to designate critical habitat, and we face a growing number of lawsuits challenging critical habitat determinations once they are made. These lawsuits have subjected us to an ever-increasing series of court orders and court-approved settlement agreements, compliance with which now consumes nearly the entire listing program budget. This leaves us with little ability to prioritize its activities to direct scarce listing resources to the listing program actions with the most biologically urgent species conservation needs.

The consequence of the critical habitat litigation activity is that limited listing funds are used to defend active lawsuits, to respond to Notices of Intent (NOIs) to sue relative to critical habitat, and to comply with the growing number of adverse court orders. As a result, listing petition responses, our own proposals to list critically imperiled species, and final listing determinations on existing proposals are all significantly delayed.

The accelerated schedules of court ordered designations have left us with almost no ability to provide for adequate public participation or to ensure a defect-free rulemaking process before making decisions on listing and critical habitat proposals due to the risks associated with noncompliance with judicially-imposed deadlines. This in turn, fosters a second round of litigation in which those who fear adverse impacts from critical habitat designations challenge those designations. The cycle of litigation appears endless, is very expensive, and in the final analysis provides relatively little additional protection to listed species.

The costs resulting from the designation include legal costs, the cost of preparation and publication of the designation, the analysis of the economic effects and the cost of requesting and responding to public comment, and in some cases the costs of compliance with the National Environmental Policy Act (NEPA). None of these costs result in any benefit to the species that is not already afforded by the protections of the Act enumerated earlier, and they directly reduce the funds available for direct and tangible conservation actions.

Background

This rule focuses on the reanalysis and re-proposal of critical habitat for the California red-legged frog (Rana aurora draytonii). For that reason, much of the information contained in previously published rules has not been included within this notice. For additional information on the biology and habitat requirements of the California red-legged frog, please refer to the following published rules: (59 FR 4888; 61 FR 25813; 65 FR 54891; 66 FR 14626; 69 FR 19619).

Subspecies Description

The California red-legged frog is the largest native frog in the western United States. It is endemic (native and restricted) to California and Baja California, Mexico, at elevations ranging from sea level to approximately 5,000 feet (ft) (1,500 meters (m)). The California red-legged frog gains its name from the typically red or pink color of its posterior abdomen and hind legs. The California red-legged frog is one of two subspecies of the red-legged frog (Rana aurora). For a detailed description of the subspecies, see the Recovery Plan for the California Red-legged Frog (Service 2002) and references identified within the plan as well as information in previous Federal Register notices (69 FR 19620; 66 FR 14626; 61 FR 25813).

Life History

During breeding season, which typically runs from November through April, males call to females from the margins of ponds and slow streams (Jennings et al., in litt. 1992). Actual mating most commonly occurs in March, but can vary depending on seasonal climatic patterns. Mating pairs enter a breeding position called amplexus, during which the female lays a jellylike mass of 2,000 to 5,000 reddish brown eggs in the water attached to some brace such as emergent vegetation. The eggs are immediately fertilized by the male, and hatch in 6 to 14 days depending on water temperatures (Jennings 1988). The resulting tadpoles, which likely feed on algae (Dickman, 1968 ), metamorphose into adult California red-legged frogs from July to September (Storer 1925; Wright and Wright 1949; N. Scott, in litt. 1998), although some tadpoles have been observed to delay metamorphosis until the following March or April (Bobzien et al. 2000; Fellers et al. 2001; R. Smith, in litt. 2004). Adults tend to be nocturnal, while juveniles can be active at any time of day (Hayes and Tennant 1985).

Geographic Range

The historic range of the California red-legged frog extended from Marin County, California, south along the coast to northwestern Baja California, Mexico, and inland as far as the vicinity of Redding in Shasta County, California (Jennings and Hayes 1985; Hayes and Krempels 1986). Recent genetic studies have identified that the subspecies may extend north along the coast into Mendocino County, California (Shaffer et al. 2004). The range of the California red-legged frog has declined since being described by Storer (1925). Through comparison of historical museum records (1890-1980) and field surveys (1990-1992), Fisher and Shaffer (1996) present evidence of the extirpation (local extermination) of California red-legged frogs from 24 of 28 counties in a limited portion of its historical range. In 1996 when the subspecies was listed, 243 streams or drainages in 22 California counties were documented to contain populations of California red-legged frogs (California Natural Diversity Database (CNDDB) 2004). At the time of listing, California red-legged frogs were believed to have been extirpated from most of the southern Coastal Mountains from Santa Barbara south to Baja California and east along the Transverse (San Gabriel, San Bernadino, Santa Ynez, and Santa Monica Mountains) and Peninsular Ranges (San Jacinto, Santa Rosa, Agua Tibia, Laguna, Santa Ana Mountains). Since listing, two additional occurrences have been discovered south of the Tehachapi Mountains (CNDDB 2005) but may no longer be extant. Four additional occurrences have been recorded in the Sierra Nevada foothills, bringing the total to five known populations, compared to approximately 26 historical records (Berkeley Museum of Vertebrate Zoology 2004; CNDDB 2004; California Academy of Sciences 2004; Barry in litt. 2005). Currently California red-legged frogs are only known from 3 disjunct regions in 26 California counties and is still present in Baja California, Mexico (Grismer 2002; Fidenci 2004; R. Smith and D. Krofta, in litt. 2005).

Threats

For information regarding threats to the subspecies, refer to the previous final listing of the subspecies as well as the previous critical habitat proposal (61 FR 25813; 69 FR 19620). Our understanding of the threats of livestock grazing and stock pond development described in the previous final listing of the subspecies has changed.

Stock pond and small reservoir impoundments can provide suitable breeding habitat for the California red-legged frog. In many areas the presence of California red-legged frogs is due solely to these small ponded habitats. For example, at the Point Reyes National Seashore in Marin County, an area where there are more than 120 breeding sites with an estimated total adult population of several thousand California red-legged frogs, the majority of the breeding sites are artificial stockponds constructed on lands that have been grazed by cattle for over 150 years (Fellers and Guscio 2004). In the Eastbay Regional Park District lands in Contra Costa and Alameda Counties, 43 of 179 ponds surveyed which were exposed to grazing, and were characterized with and without emergent vegetation, supported successful breeding frog populations often exhibiting high rates of annual breeding (Bobzien et al. 2000). For more information concerning the importance of stock ponds to the subspecies see the Special Rule section below.

The Service now recognizes that managed livestock grazing at low to moderate levels has a neutral or beneficial effect on California red-legged frog habitat (Bobzien et al. 2000) by keeping a mix of open water habitat and emergent vegetation which is beneficial to the subspecies. In some cases, without managed grazing, stock ponds would quickly fill with emergent vegetation resulting in habitat loss (Bobzien pers. comm. 2005).

However, numerous studies, summarized by Kauffman and Krueger (1984) and Belsky et al. (1999), have shown that unmanaged livestock grazing (overgrazing) can negatively affect riparian and instream aquatic habitat. Some of the effects of unmanaged grazing include: Higher instream water temperatures resulting from reduction or removal vegetation, channel down cutting, lowered water tables and loss of plunge pools which results in direct loss of pool habitats for the California red-legged frog (Patla and Keinath 2005), as well as diminished water quality through increased sediment loads and nutrient levels (Belsky et al. 1999).

Habitat

California red-legged frogs live in a Mediterranean climate, which is characterized by temporal and spatial changes in habitat quality. During a period of abundant rainfall, almost the entire landscape, including breeding ponds and streams may become suitable habitat for the adults. Conversely, habitat use may be drastically confined during periods of prolonged drought. Due to this variability, population sizes can vary widely from year to year. During favorable years, California red-legged frogs can produce large numbers of dispersing young, resulting in an increase in the number of occupied sites. In contrast, California red-legged frogs may temporarily disappear from an area during periods of extended drought. Therefore, it is essential to provide for sites that can be recolonized by dispersing individuals (Semlitsch 2000).

The habitats used by this subspecies typically change in extent and suitability in response to the dynamic nature of floodplain and fluvial processes (i.e., natural water flow and sedimentation regimes that, in flux, create, modify, and eliminate deep pools, backwater areas, ponds, marshes, and other aquatic habitats). Rangewide, and even within local populations, the California red-legged frog uses a variety of areas, including various aquatic, riparian, and upland habitats. In some cases, they may complete their entire life cycle in a particular habitat (i.e., a pond is suitable for all life stages), and in other cases, they may seek multiple habitat types depending on climatic conditions or distance between and availability of wetland and hydric environments.

Despite the California red-legged frog's ability to utilize multiple habitat types, there are certain habitat features they require. Most important is a breeding pond or slow flowing stream reach or plunge pool within a stream with some type of vegetative or other material to attach their egg masses, that holds water long enough for tadpoles to complete their metamorphoses and juveniles able to survive outside of water. California red-legged frogs often disperse from their breeding habitat to utilize various aquatic, riparian, and upland summer habitats during their migrations from one area to another. However, it is also common for individuals to remain in the breeding area on a year-round basis.

Aquatic breeding habitat must remain hydrated until at least July, and preferably September, so the tadpoles can complete their metamorphoses. Drydowns after that time can be beneficial because they help prevent the establishment of predatory fish or bullfrogs (Hayes and Jennings 1989; Cook 1997; N. Scott, in litt. 1998). Water quality requirements for eggs and tadpoles include low salinity (below 4.5 parts per thousand (ppt) for eggs, up to 7.0 ppt for tadpoles) (Jennings and Hayes 1990; M. Jennings, in litt. 1994), and temperatures below about 73° Fahrenheit (23° Celsius) (Cook 1997; Nussbaum et al. 1983). Water bodies free of bullfrogs and nonnative predatory fish, are optimal but California red-legged frog populations can persist in the presence of one or the other of these predators (Kiesecker and Blaustein 1998; Lawler et al. 1999).

In Northern California, few California red-legged frog populations occupy naturally occurring wetland environments. Historically, as natural wetlands and streams were converted for agriculture, flood control, and urban development, California red-legged frogs colonized small artificial impoundments created by cattle ranchers for the purpose of providing water for their cattle. Our understanding of the role of stock ponds in the conservation of the California red-legged frog has evolved since listing. Without these stock ponds, the range of the California red-legged frog would be limited further in this region.

Dispersal

Adult California red-legged frogs may disperse from breeding sites at any time of year. Dispersing adult California red-legged frogs in northern Santa Cruz County traveled distances from 0.25 miles (mi) (0.4 kilometers (km)) to more than 2.0 mi (3.2 km) without apparent regard to topography, vegetation type, or riparian corridors (Bulger et al. 2003). California red-legged frogs have also been radio tracked in East Las Virgenes Creek, Ventura County which has a Mediterranean climate characterized by highly variable rainfall (R. Smith, in litt. 2005). Habitat includes a well-defined creek and riparian zone with permanent deep pools. In contrast to California red-legged frog movements in Santa Cruz County, Smith et al. have found movements of California red-legged frogs to be substantially less, with typical movements of 9—16 feet (3—5 meters) from the water's edge. Maximum distance moved was 48 feet (15 meters) (R. Smith, in litt. 2005). Many newly metamorphosed juveniles tend to disperse short distances initially from July through September, and then move farther away from the breeding habitat during warm rain events (Monk 1997; M. Jennings, in litt. 2000). Bobzien et al. (2000) observed juveniles inhabiting a wide variety of habitats while adults primarily inhabited deep pools. They postulated that juveniles might segregate themselves away from adults to escape predation and competition.

For reasons that are currently unclear, juveniles tend to disperse away from aquatic habitat occupied by adults. Juvenile dispersal is essential for recolonizing temporarily extirpated habitat and preventing genetic isolation because juveniles disperse in more directions, and for longer distances than do migrating adults (Wright, in litt. 1999; Bulger et al. 2003). Dispersal habitat for juveniles can be almost anything that provides sheltering vegetation or scattered wetlands or streams. This includes forested areas, nonnative grasslands, and even croplands, but is not known to include urbanized or suburban areas, suburban developments, or areas separated from breeding habitat by impassible barriers. Impassible barriers include wide or fast flowing rivers and streams, lakes greater than 50 ac (20 ha), and heavily traveled roads without underpasses or culverts (Reh and Seitz 1990; Fahrig et al. 1995). Juveniles dispersing along riparian corridors may have higher survivorship, as sheltering vegetation and suitable aquatic habitat are both more common in such corridors (M. Jennings, in litt. 2000). Juveniles appear to have less strict requirements for aquatic habitat than adults, and tend to segregate away from adults in water bodies that are shallower or faster moving than those typically used for breeding (Hayes and Jennings 1989; Bobzien pers. comm. 2000; M. Jennings, in litt. 2000).

The long-term probability of the survival and recovery of California red-legged frogs is dependent upon the protection of existing breeding habitat and associated uplands (Fellers and Kleeman 2005), the movements of individuals between aquatic patches, and the ability to recolonize newly created or vacated habitats. Recolonization, which is vital to the recovery of this subspecies, is dependent upon landscape characteristics including the distance between suitable breeding and non-breeding aquatic habitat, and fragmentation of interconnecting habitat (Vos and Chardon 1998).

Previous Federal Action

On June 8, 2001, various homebuilding and commerce organizations filed a lawsuit in the U.S. District Court for the District of Columbia challenging our designation of critical habitat for the California red-legged frog (Home Builders Ass'n of Northern California, et al. v. Norton, et al., Civ. No. 01-1291 (RJL) (D. D.C.)). On November 6, 2002, the court entered a consent decree remanding the designation to the Service to conduct a new economic analysis. The consent decree vacated the critical habitat designation for the California red-legged frog with the exception of Units 5 and 31, which were not known to be occupied by the California red-legged frog, and ordered us to promulgate a proposed revised designation by March 2004, and a final revised rule by November 2005. We published a revised critical habitat proposal on April 13, 2004 (69 FR 19620), which proposed the re-designation of the previously established units. Due to comments received, our own re-evaluation of our selection criteria and the primary constituent elements required by the California red-legged frog (see below), we now issue this revised proposed critical habitat designation and its associated draft economic analysis.

Critical Habitat

Critical habitat is defined in section 3 of the Act as—(i) the specific areas within the geographical area occupied by the species, at the time it is listed in accordance with the provisions of section 4 of this Act, on which are found those physical or biological features (I) essential to the conservation of the species and (II) that may require special management considerations or protection; and (ii) specific areas outside the geographical area occupied by the species at the time it is listed in accordance with the provisions of section 4 of this Act, upon a determination by the Secretary that such areas are essential for the conservation of the species.

Critical habitat receives protection under section 7 of the Act through the prohibition against destruction or adverse modification of critical habitat with regard to actions carried out, funded, or authorized by a Federal agency. Section 7 requires consultation on Federal actions that may result in the destruction or adverse modification of critical habitat. The designation of critical habitat does not affect land ownership or establish a refuge, wilderness, reserve, preserve, or other conservation area. Such designation does not allow government or public access to private lands.

To be included in a critical habitat designation, the habitat within the geographical area occupied by the species must first have features that are “essential to the conservation of the species.” Critical habitat designations identify, to the extent known using the best scientific data available, habitat areas that provide essential life cycle needs of the species (i.e., areas on which are found the primary constituent elements, as defined at 50 CFR 424.12(b)).

Specific areas within the geographical area occupied by the species at the time of listing may be included in critical habitat only if the essential features thereon may require special management or protection. Thus, we do not include areas where existing management is sufficient to conserve the species. (As discussed below, such areas may also be excluded from critical habitat pursuant to section 4(b)(2) of the Act.) Accordingly, when the best available scientific data do not demonstrate that the conservation needs of the species so require, we will not designate critical habitat in areas outside the geographic area occupied by the species at the time of listing. An area currently occupied by the species, but was not known to be occupied at the time of listing, will likely be essential to the conservation of the species and, therefore, included in the critical habitat designation.

Our Policy on Information Standards Under the Endangered Species Act, published in the Federal Register on July 1, 1994 (59 FR 34271), and section 515 of the Treasury and General Government Appropriations Act for Fiscal Year 2001 (Pub. L. 106-554; H.R. 5658) and the associated Information Quality Guidelines issued by the Service, provide criteria, establish procedures, and provide guidance to ensure that our decisions represent the best scientific data available. They require our biologists, to the extent consistent with the Act and with the use of the best scientific data available, to use primary and original sources of information as the basis for recommendations to designate critical habitat. When determining which areas contain features essential to the conservation of a species, a primary source of information is generally the listing package for the species. Additional information sources include the recovery plan for the species, articles in peer-reviewed journals, conservation plans developed by States and Counties, scientific status surveys and studies, biological assessments, or other unpublished materials and expert opinion or personal knowledge. All information is used in accordance with the provisions of section 515 of the Treasury and General Government Appropriations Act for Fiscal Year 2001 (Pub. L. 106-554; H.R. 5658) and the associated Information Quality Guidelines issued by the Service.

Section 4 of the Act requires that we designate critical habitat on the basis of what we know at the time of designation. Habitat is often dynamic, and species may move from one area to another over time. Furthermore, we recognize that designation of critical habitat may not include all of the habitat areas that may eventually be determined to be necessary for the recovery of the species. For these reasons, critical habitat designations do not signal that habitat outside the designation is unimportant or may not be required for recovery.

Areas that support populations, but are outside the critical habitat designation, will continue to be subject to conservation actions implemented under section 7(a)(1) of the Act, to the regulatory protections afforded by the section 7(a)(2) of the Act jeopardy standard, and take under sections 9 and 10 of the Act if they support populations, as determined on the basis of the best available information at the time of the action. Federally funded or permitted projects affecting listed species outside their designated critical habitat areas may still result in jeopardy findings in some cases. Similarly, critical habitat designations made on the basis of the best available information at the time of designation will not control the direction and substance of future recovery plans, habitat conservation plans, or other species conservation planning efforts if new information available to these planning efforts calls for a different outcome.

Methods

As required by section 4(b)(1)(A) of the Act, we use the best scientific data available in determining areas that contain the features that are essential to the conservation of the California red-legged frog. The sources of data used in identifying critical habitat include information in our files regarding habitat requirement of the subspecies including the data sources mentioned in the previous proposal (69 FR 19620), as well as information provided by commenters to that proposal. We also reviewed available information that pertains to the habitat requirements of this subspecies including data in reports submitted during section 7 consultations and by biologists holding section 10(a)(1)(A) recovery permits; research published in peer-reviewed articles and presented in academic theses and agency reports; and regional Geographic Information System (GIS) coverages. We designated no areas outside the geographic area presently occupied by the subspecies.

In re-proposing critical habitat for the California red-legged frog, we changed our previous methodology of using the watershed as our primary mapping unit for the subspecies. Our current methodology includes a more precise mapping of the physical and biological features essential to the conservation of the California red-legged frog (i.e., primary constituent elements (PCEs)) (see below). This has resulted in significant differences between the units we proposed in April, 2004 (69 FR 19620) and those we are proposing here. Additional changes have resulted from minor adjustments to the PCEs, and from an increased emphasis in the criteria on establishing the likely limits of occupied areas. See the section below, Criteria Used to Identify Critical Habitat, for a detailed listing of our selection criteria.

Primary Constituent Elements

In accordance with section 3(5)(A)(i) of the Act and regulations at 50 CFR 424.12, in determining which areas to designate as critical habitat, we are required to consider those physical and biological features (PCEs) that are essential to the conservation of the species, within areas occupied by the species at the time of listing, and that may require special management considerations and protection. These include, but are not limited to: space for individual and population growth and for normal behavior; food, water, air, light, minerals, or other nutritional or physiological requirements; cover or shelter; sites for breeding, reproduction, rearing (or development) of offspring; and habitats that are protected from disturbance or are representative of the historic geographical and ecological distributions of a species.

Each of the areas designated in this rule have been determined to contain sufficient PCEs to provide for one or more of the life history functions of the California red-legged frog. As a result, the existing conditions at the time of designation will be included in the baseline in any consultation conducted subsequent to this designation. Federal actions that may result in alteration of these conditions will be subject to an analysis to determine whether adverse modification or destruction of critical habitat has occurred.

Aquatic Breeding Habitat

California red-legged frogs typically lay eggs between December and early April. Eggs hatch within 6 to 14 days depending on water temperatures and require approximately 20 days to develop into tadpoles. Tadpoles in turn require anywhere between 11-20 weeks to develop into terrestrial frogs (Bobzien et al. 2000; Storer 1925; Wright and Wright 1949). Water bodies suitable for tadpole rearing must remain watered at least until the tadpoles metamorphose into adults, typically between July and September. Adult California red-legged frogs can survive in moist upland areas after breeding habitat has dried, and can live several years to make new breeding attempts. Therefore, aquatic breeding habitat need not be available every year, but it must do so often enough to maintain a California red-legged frog population during most years.

Aquatic habitat is essential for providing space, food, and cover, necessary to sustain all life stages of California red-legged frogs. It consists of virtually all low-gradient fresh water bodies, including natural and manmade (e.g., stock) ponds, backwaters within streams and creeks, marshes, lagoons, and dune ponds. It does not include deep lacustrine water habitat (e.g., deep lakes and reservoirs 50 ac (20 ha) or larger in size).

The aquatic habitat described as the first PCE is essential for frog breeding and for providing space, food, and cover necessary to sustain early life history stages of larval and juvenile California red-legged frogs. To be considered essential breeding habitat, the aquatic feature must have the capability to hold water for a minimum of 15 weeks in all but the driest of years. This is the average amount of time needed for larvae to grow into metamorphosed juveniles so they can become capable of surviving in upland habitats. California red-legged frogs usually have completed metamorphosis between July and September. During periods of drought or less-than-average rainfall, these sites may not hold water long enough for individuals to complete metamorphosis. However, these sites would still contain features that are essential because they constitute breeding habitat in years of average rainfall. Without aquatic breeding habitats, the California red-legged frog would not survive, reproduce, develop juveniles, and grow into adult individual California red-legged frogs that can complete their life cycles.

Non-Breeding Aquatic Habitat

The aquatic habitat described as the second PCE is essential for providing the space, food, and cover necessary to sustain California red-legged frogs. Non-breeding habitat consists of those aquatic elements identified above, but would also include, but not be limited to, other wetland habitats such as intermittent creeks, seeps, and springs. California red-legged frogs can use large cracks in the bottom of dried ponds as refugia to maintain moisture and avoid heat and solar exposure (Alvarez 2004). Without these non-breeding aquatic features California red-legged frogs would not be able to survive drought periods, or be able to disperse to other breeding habitat.

Upland Habitat

Upland and riparian habitats associated with aquatic habitat is essential to maintain California red-legged frog populations associated with essential aquatic habitat. The associated upland and riparian habitat provide food and shelter sites for California red-legged frogs and assist in maintaining the integrity of aquatic sites by protecting them from disturbance and supporting the normal functions of the aquatic habitat. Upland habitat associated with occupied wetland habitat often contains blackberry (Rubus sp.) and other upland perennial species that provide for shelter from predatory species and forage habitat (Service 2002).

Upland habitat that contains the features essential to the conservation of the species consists of natural areas within 200 ft (60 m) of the edge of the riparian vegetation or dripline, or no further than the watershed boundary. This is based on the dispersal capabilities of the subspecies (see Dispersal Habitat below), and also research that has found in one study that the subspecies was capable of inhabiting upland habitats within 200 ft (60 m) of aquatic habitat for continuous durations exceeding 20 days (Bulger et al. 2003), and in another study, California red-legged frogs were observed inhabiting riparian habitat for durations up to 77 days (Rathbun et al. 1993). California red-legged frogs often disperse from their breeding habitat to forage and seek upland habitat if aquatic habitat is not available. Upland habitat includes structure that provides shade, moisture, and cooler temperatures. This structure may be natural such as the spaces under boulders or rocks and organic debris such as downed trees or logs; or it could be manmade including industrial debris and agricultural features, such as drains, watering troughs, abandoned sheds, or under stacks of hay or other vegetation. California red-legged frogs also use small mammal burrows and moist leaf litter (Jennings and Hayes 1994; Fellers and Kleeman 2005).

Dispersal Habitat

Dispersal habitat provides connectivity among California red-legged frog breeding habitat (and associated upland) patches. While California red-legged frogs can pass many obstacles, and do not require a particular type of habitat for dispersal, the habitat connecting breeding locations and other aquatic habitat must be free of barriers that prevent California red-legged frogs from dispersing. Dispersal habitat that is designated in this rule consists of upland and wetland habitat contiguous with breeding and non-breeding habitat which is free of barriers that connect two or more patches of breeding habitat within 0.7 mi (1.2 km) of one another. Dispersal barriers include heavily traveled roads (Vos and Chardon 1998) that possess no bridges or culverts; moderate to high density urban or industrial developments with large expanses of asphalt or concrete that do not contain the PCEs or features essential to the subspecies; and large reservoirs over 50 ac (20 ha) in size that contains predatory fish. Agricultural lands such as row crops, orchards, vineyards, and pastures do not constitute barriers to California red-legged frog dispersal.

California red-legged frogs have been documented to travel 2.2 mi (3.6 km) from nonbreeding to breeding habitats (Bulger et al. 2003). These long distance movements are migrations rather than use of corridors for moving between habitats (N. Scott and G. Rathbun, in litt. 1998). These movements have also been found to be with apparent disregard to topography, vegetation type, or riparian corridors (Bulger et al. 2003; Fellers and Kleeman 2005). We conclude the 2.2 mi (3.6 km) is likely the upward limit of dispersal capability for the California red-legged frog and that the 0.7 mi (1.2 km) dispersal element will ensure that connectivity between breeding habitats will be maintained within areas designated as critical habitat. This 0.7 mi (1.2 km) dispersal element also includes elements of non-aquatic habitat (i.e., summer habitat) for shelter.

Primary Constituent Elements for the California Red-Legged frog

Based on our current knowledge of the life history, biology, and ecology of the California red-legged frog and the requirements of the habitat necessary to sustain the essential life history functions of the subspecies, we have determined that the primary constituent elements for the California red-legged frog are:

(1) Aquatic Breeding Habitat. Standing bodies of fresh water (with salinities less than 7.0 ppt), including natural and manmade (e.g., stock) ponds, slow moving streams or pools within streams, and other ephemeral or permanent water bodies that typically become inundated during winter rains and hold water for a minimum of 15 weeks in all but the driest of years. This would be the time necessary for the subspecies to complete the aquatic portion of its life cycle.

(2) Non-Breeding Aquatic Habitat. Fresh water habitats as described above which may or may not hold water long enough for the subspecies to hatch and complete its aquatic lifecycle but which does provide for shelter, foraging, predator avoidance, and aquatic dispersal habitat for juvenile and adult California red-legged frogs. Other wetland habitat which would be considered to meet these elements would include, but are not limited to, plunge pools within intermittent creeks, seeps, quiet water refugia during high water flows, and springs of sufficient flow to withstand the summer dry period.

(3) Upland Habitat. Upland areas within 200 ft (60m) of the surrounding aquatic and wetland habitat comprised of various vegetational series such as grasslands, woodlands, and/or wetland/riparian plant species. Upland habitat includes natural or manmade structures such as the spaces under boulders or rocks and organic debris such as downed trees or logs; as well as agricultural features and light construction debris, such as drains, watering troughs, abandoned sheds, or under stacks of hay, brush piles, or other vegetation. California red-legged frogs also use small mammal burrows and moist leaf litter as cover (Jennings and Hayes 1994; Fellers and Kleeman 2005). This upland habitat provides the California red-legged frog shelter and shade, moisture, cooler temperatures, prey base, foraging opportunities, and predator avoidance.

(4) Dispersal Habitat. Accessible upland or wetland dispersal habitat within designated units and between occupied locations within 0.7 mi (1.2 km) of each other that allow for movement between such sites. Dispersal habitat includes various natural habitats and altered habitats such as agricultural fields, which also do not contain barriers to dispersal, such as heavily traveled roads (Vos and Chardon 1998) that possess no bridges or culverts. Dispersal habitat does not include moderate to high density urban or industrial developments with large expanses of asphalt or concrete and large reservoirs over 50 ac (20 ha) in size, which do not contain those features identified in PCE 1, 2, or 3. Accessible dispersal habitat provides opportunities for the California red-legged frog to move freely across the landscape in search of adjacent breeding and non-breeding habitats. Accessible dispersal habitat is considered essential and provides for: (1) Opportunities for movement and establishment of home ranges by juvenile recruits, (2) maintaining gene flow by the movement of both juveniles and adults between subpopulations, and (3) recolonization of or recruitment into breeding habitat after local extirpations.

Criteria Used To Identify Critical Habitat

In our proposed designation of critical habitat for the California red-legged frog, we selected areas based on the best scientific data available that possess those physical and biological features essential to the conservation of the subspecies, and that may require special management considerations or protection. We included areas which were occupied at the time of listing as well as some areas subsequently identified as occupied. We found that the majority of newer occurrence records were within areas already known to support the California red-legged frog. We identified proposed critical habitat units that have the highest likelihood to be self-sustaining on the basis of density of California red-legged frog occurrences, and based our definition of the primary constituent elements on the kind, amount, and quality of habitat associated with those occurrences. The proposed units contain sufficient PCEs to support behaviors we have determined are essential to the conservation of the subspecies.

Throughout the development process, we avoided identifying areas with single occurrences for designation unless such areas were considered unique or had other biological significance. Further, we made an effort to avoid developed areas, such as housing and commercial developments, that are unlikely to contribute to the conservation of the California red-legged frog. We also avoided fragmented areas such as those surrounded by development. Areas within the boundaries of the mapped units, such as buildings, roads, parking lots, railroads, canals, levees, airport runways and other paved areas, lawns, and other urban landscaped areas are not critical habitat and are not included in this designation. Federal actions limited to these areas would not trigger a section 7 consultation, unless they affect the subspecies and/or the PCEs in adjacent critical habitat. We avoided known areas of intensive agriculture. Agricultural lands may have been included if they were within areas identified as necessary for dispersal or connectivity between known occurrences.

We considered several criteria in the selection of areas which contain the essential features for the California red-legged frog and focused on designating units: (1) Throughout the current geographic, elevational, and ecological distribution of the subspecies; (2) which would maintain the current population structure across the subspecies' range; (3) that retain or provide for connectivity between breeding sites that allows for the continued existence of viable and essential metapopulations, despite fluctuations in the status of subpopulations; (4) that possess large continuous blocks of occupied habitat, representing source populations and/or unique ecological characteristics; and (5) contain sufficient upland habitat around each breeding location to allow for sufficient survival and recruitment to maintain a breeding population over the long term.

We first determined the occupancy status of areas. Areas were considered to possess extant populations if California red-legged frogs have been documented in that area since 1976. We used the final listing rule to establish occupancy at the time of listing. All other designations were based on occupancy data collected since listing. Our designation does not include all occupied areas. However those areas occupied takes into consideration theories of metapopulation persistence, on-the-ground survey data, and California red-legged frog longevity. We believe that persistence of individual populations is critical to the viability of a metapopulation structure. Bulger et al. (2003) found more than 75 percent of California red-legged frogs are resident at permanent aquatic habitats over the course of a year, thereby providing local population stability. Survey data provided to us during the development of this proposed critical habitat rule show an average persistence of 19 years for California red-legged frog populations. Additionally, maximum longevity of male and female California red-legged frogs is 8 and 10 years respectively (Jennings et al. 1992) which also contributes to generational and metapopulation stability.

The extant occurrences within the proposed critical habitat units comprise approximately 63 percent of extant occurrences within the range of the subspecies. We critically evaluated records in which the exact site location was not precisely identified or could not be confirmed, and removed those locations from our analysis. We then selected areas that are inhabited by populations (source populations) that are capable of maintaining their current population levels and capable of providing individuals to recruit into subpopulations found in adjacent areas. We also selected several areas which have other unique ecological significance, with the goal of maintaining the full range of the habitat variability and evolutionary adaptation in the subspecies. These include areas on the periphery of the current range and elsewhere that represents the distribution of the subspecies, and areas that provide connectivity among source populations or between source populations.

The proposed critical habitat units were delineated by creating approximate areas for the units by screen digitizing polygons (map units) using ArcMap (Environmental Systems Research Institute, Inc.), a computer GIS program. The polygons were created by overlaying extant at time of listing and subsequent to listing California red-legged frog occurrence locations with a 0.7 mi (1.2 km) radius. This distance was used as a guide for mapping the essential features around locations where California red-legged frog populations are present (see Dispersal Habitat above). As stated above, California red-legged frogs have been documented to disperse from ponds and streams a distance over 2.0 mi (3.2 km) (Bulger et al. 2003). However, based on a review of the most current literature and information gathered in development of the Recovery Plan for the subspecies, we have determined that the 2.0 mi (3.2 km) distance is toward the maximum dispersal distance for the subspecies during a single season, and that the 0.7 mi (1.2 km) distance is more reflective of the average dispersal distance for the California red-legged frog (Rathbun et al. 1993; Scott and Rathbun, in litt 1998; Wright, in litt. 1999; Bulger et al. 2003; T. Tatarian, in litt. 2005; Fellers and Kleeman 2005). Although the studies discussed above provide an approximation of the distances that California red-legged frogs can move from their aquatic habitats, breeding ponds, and other wetland habitats in search of suitable upland refugia or other breeding locations, we recognize that upland habitat features will influence California red-legged frog movements in a particular landscape. As a result, we made adjustments to the upland areas to include additional areas up to the watershed boundaries or to include habitat containing the PCEs beyond the 0.7 mi (1.2 km) distance where appropriate to aggregate clumps of occurrences. In other some instances, we reduced the areas to remove non-habitat (those not exhibiting the PCEs) from the proposed designation including agricultural, developed, disturbed, or fragmented lands.

We evaluated the resulting units (delineating geographic range and potential suitable habitat), refined elevation and hydrologic ranges, and identified areas not containing the essential features (i.e., not containing PCEs) (see Primary Constituent Elements section). We excluded areas that do not contain sufficient PCEs to support one or more of the species' life processes or which had low quality PCEs because: (1) The area is highly degraded and is likely not restorable; (2) the area is small, highly fragmented, or isolated and may provide little or no long-term conservation value; and (3) other areas within the geographic region were determined to be sufficient to meet the conservation needs of the subspecies.

Throughout the designation process, when selecting areas of critical habitat, we made an effort to avoid developed areas, such as housing developments and commercial developments that are unlikely to contribute to the conservation of the California red-legged frog. However, we were not able to map critical habitat in sufficient detail to exclude all developed areas, or other lands unlikely to contain the PCEs.

Further refinement of the preliminary areas as described above was based on the extent of aquatic habitat extent, stream reach, upland dispersal distance and watershed boundaries. We focused on areas of high California red-legged frog abundance, areas to maintain connectivity, and/or areas of unique ecological significance. Refined unit boundaries were delineated using watershed boundaries from the State of California's CALWATER watershed classification system (version 2.2) using the smallest (planning watersheds) watershed designation. Visual inspection of mapped California red-legged frog occurrence records revealed un-surveyed regions surrounded by surveyed regions, mostly in highly developed areas. Rather than designating critical habitat in the development fringe, we designated in areas where fewer surveys have been conducted but where California red-legged frogs are likely to occur based on similarity of habitat and presence of PCEs. In areas where planning watersheds were large and/or had significantly altered hydrologically, we used alternative structural, political, or topographic boundaries (e.g., roads, county boundaries, ridgeline features, elevation contour lines) as critical habitat boundaries because in these areas the benefits of using planning watersheds were limited in that they included areas outside the subspecies' dispersal distance or were of little conservation value for the California red-legged frog.

Summary of Changes From Previous Proposed Critical Habitat

Following the publication of the previous proposed rule (69 FR 19620), we revised this current proposed critical habitat based on new information, re-evaluation of existing information, and public comments. We also revised the methodology for determining the specific features that are essential to the conservation of the California red-legged frog and mapping them to areas. Our previous proposal utilized aggregations of watersheds that contained areas of high California red-legged frog abundance and that maintained connectivity and/or included areas of unique ecological significance. Portions of these areas were outside the dispersal capabilities of the frog and not all the areas within the designation contained the features considered essential to the California red-legged frog. This has resulted in a complete re-analysis of the areas previously proposed and new areas where the frog had been recently documented to ensure a more thorough and scientifically sound designation of critical habitat. This re-analysis resulted in the removal of specific lands determined not to contain features essential to the conservation of the frog, and the inclusion of additional areas. The Service believes that this task was necessary to ensure compliance with recent court decisions on critical habitat and to ensure appropriate consideration of public comments and new information in the rulemaking process. Upon identification of lands containing features essential to the conservation of the frog following the revised methodology, the Service began to refine its mapping methodology from using a landscape-level watershed as the primary mapping unit in the previous proposal to a methodology that is more precise in delineating areas that contain the physical and biological features essential to the frog and thus meet the statutory definition of critical habitat. This new methodology employs an average dispersal distance of 0.7 miles around extant populations of frogs to capture the features essential to their conservation.

In this proposal we have eliminated areas that do not have essential features and refined unit boundaries in accordance with the criteria for determining the essential features described above. Our criteria for determining essential features targeted areas known to be occupied by California red-legged frog at the time of listing or determined to be occupied since the time of listing, or areas of high-quality habitat likely to be occupied based on proximity to known occurrences, contiguous habitat, and dispersal capabilities of the California red-legged frog. Our refined proposal includes large blocks of contiguous habitat that provide geographic distribution across the range of the subspecies, contains high-quality habitat, allows for the long-term viability of the subspecies, represents the full range of habitat and environmental variability the subspecies occupies, avoids conflict with existing commercial and residential development, focuses on public lands where available, and, where possible, overlaps with other critical habitat designations.

As a result of our refined approach, the current proposal includes units that more accurately reflect the requirements and known distribution of the California red-legged frog. Based on our refined approach, some areas previously proposed as critical habitat are no longer included in this new proposed designation, and based on new occurrence records, several areas where units did not exist in the previous designation we have determined contain the features that are essential and we are now proposing for designation as critical habitat. We are proposing to not designate two currently designated unoccupied units (Unit 5 in Tuolumne and Mariposa Counties and Unit 31 in Los Angeles County) identified in our previous designation (66 FR 14626) and proposal (69 FR 19620). The criteria used in the current proposal identified areas across the known range of the subspecies and included areas which are essential for the conservation of the subspecies. We consider that the currently occupied proposed critical habitat units would be sufficient to conserve the species and that the non-occupied units would only supplement areas needed for conservation of the subspecies. We are seeking comment on the status of these units, whether they should remain as critical habitat and whether these areas contain the features which are essential to the conservation of the subspecies.

In our re-evaluation of our April 13, 2004 (69 FR 19620), proposed critical habitat, we identified that a technical error was present in 50 CFR 17.11 concerning the extent of the geographic range for which the California red-legged frog is listed. The extent of the geographic range has been corrected to reflect the entire range of the subspecies.

Special Management Considerations or Protections

When designating critical habitat, we assess whether the areas determined to be occupied at the time of listing and contain the PCEs may require special management considerations or protections. As we undertake the process of designating critical habitat for a species, we first evaluate lands defined by those physical and biological features essential to the conservation of the species for inclusion in the designation pursuant to section 3(5)(A) of the Act. Secondly, we evaluate those features to assess whether they may require special management considerations or protections. As discussed throughout this proposed rule, our previous final designation of critical habitat for the California red-legged frog (66 FR 14626, March 13, 2001) and in our final recovery plan for the subspecies (Service 2002), threats to those features that define important habitat (primary constituent elements) for the California red-legged frog include but are not limited to: trematode and chytrid fungus disease, direct and indirect impacts from some human recreational activities, flood control maintenance activities, water diversions, unmanaged overgrazing activities, competition and predation by nonnative species, and habitat removal and alteration by urbanization.

Pathogens and parasites have been implicated in the decline of other frog species, but there has not been a systematic examination of how disease may adversely affect California red-legged frog populations. Trematode-induced malformations and chytrid fungus disease have been identified in some California red-legged frogs in Elkhorn Slough National Estuarine Research Reserve and in frogs within East Bay Regional Park District (Bobzien pers. comm. 2005). It has been suggested that increased levels of UV-B radiation or air pollutants cause a weakening of the immune system which could increase the susceptibility of frogs to natural diseases (Kiesecker et al. 2001; Blaustein et al. 2003).

Routine road maintenance, trail development, and facilities construction associated with parks and other public lands, in or adjacent to California red-legged frog habitat can degrade habitat quality. Heavy recreational use of parks (e.g., fishing, hiking, use of developed sites, dispersed camping) can also degrade habitat for the California red-legged frog. People tend to congregate around aquatic areas and can trample vegetation, trample frog eggs and tadpoles, increase noise levels, and change the environment.

Routine flood control maintenance, which typically includes vegetation removal, herbicide spraying, shaping and riprapping of banks to control erosion, and dredging of creeks and rivers, can result in degradation of California red-legged frog habitat. Widespread channelization of watercourses for flood control and water diversion has eliminated habitat along small to medium-sized watercourses (Harding 1960), and has allowed the proliferation of non-native aquatic species. Management of water flows for flood control also has the potential to adversely impact California red-legged frogs. For example, in San Mateo County, poorly timed releases of storm water flows from Horse Stable Pond at Sharp Park in February 1992, resulted in exposure and desiccation of 62 California red-legged frog egg masses (T. Steiner in litt. 1994).

Water diversion and impoundment for irrigation, can reduce the flows necessary to support adequate aquatic habitat for frogs and other species. The California coast supports several agricultural activities including artichoke production, flower nurseries, and other irrigated crops that require the use of irrigation ponds. Water is collected during the winter months from rainfall and is also pumped out of coastal drainages into ponds. These ponds typically grow shoreline vegetation such as cattails, tules (Scirpus spp.) and horsetails (Equisetum spp.), and with proper water management can provide high quality breeding habitat. However, farmers often start irrigating crops during the late spring, and continue through summer. As water is drawn down, egg masses can be exposed and desiccate. Although the outlets may be screened, the pumps used are powerful enough to suck tadpoles and juveniles against the screen and can crush individuals. Depending upon the size of ponds, they also may be drawn down to such an extent that they completely dry out or are shallow enough to allow significant predation of frogs (particularly tadpoles that have not fully metamorphosized).

Continued colonization of existing habitat by, and competition with, predatory nonnative species (Fisher and Shaffer 1996; Lawler et al. 1999) is one of the most significant threats to California red-legged frogs. Twedt (1993) analyzed stomach contents of 22 bullfrogs in Humboldt County, California and found 9.1 percent of the prey items consisted of northern red-legged frog juveniles. Cook (1997) also analyzed stomach contents of eight bullfrogs collected in Sonoma County and found California red-legged frog tadpoles in two of them. However, predation of California red-legged frogs by bullfrogs is likely to be dependant on the density of bullfrogs (Cook1997) and habitat segregation may lessen the impact of predation on California red-legged frogs (Twedt 1993). Bobzien et al. (2000) suggest the presence of nonnative predators adversely affects the distribution of California red-legged frogs within East Bay Regional Park lands, leading to local extirpation in some areas. Lawler et al. (1999) found mosquitofish did not affect the survival of California red-legged frog tadpoles, however tadpoles weighed 34 percent less at metamorphosis than did tadpoles that developed in absence of mosquitofish competition.

Urban and suburban developments often leave isolated habitat fragments and create barriers to frog dispersal. Another consequence of urbanization is the change in hydroperiod of historically ephemeral drainages to perennial streams (often due to wastewater outflows), which allows the proliferation of non-native predators (M. Moore and M. Westphal in litt. 1997). Other consequences include channelization of creeks (which reduces or eliminates breeding sites), increased potential for toxic runoff from developments, and increased suitability for predators such as raccoons.

We believe that the features essential to the conservation of the subspecies in each area proposed for designation as critical habitat may require some level of special management and/or protection to address the current and future threats to the California red-legged frog to ensure the conservation of the subspecies.

Proposed Critical Habitat Designation

The areas we are proposing as critical habitat currently provide all of those habitat components necessary to meet the primary biological needs of the California red-legged frog. We did not include all areas currently occupied by California red-legged frogs, only areas possessing large populations, that represent unique ecological characteristics or adaptations, or that represent the historic geographic area where California red-legged frogs can be re-established. No unoccupied habitat is being proposed as critical habitat.

Table 1. Approximate area exempt from proposed critical habitat for the California red-legged frog pursuant to sections 4(a)(3) of the Act.

Location (unit) Vandenberg Air Force Base | Lands containing essential features: ac | Lands containing essential features: ha | Area exempt from critical habitat designation: ac | Area exempt from critical habitat designation: ha
STB-2 | 4,922 | 1,992 | 4,922 | 1,992
STB-4 | 8,691 | 3,517 | 1,011 | 409

Table 2. Approximate area (acres (as) (hectares ha)) of locations supporting features essential to conservation of the California red-legged frog fitting the selection criteria for proposed critical habitat and (first column), areas excluded from critical habitat pursuant to section 4(b)(2) of the Act (second column), and areas proposed as critical habitat (third column) for the California red-legged frog.

Areas with essential features: ac | Areas with essential features: ha | Excluded areas: ac | Excluded areas: ha | Total proposed critical habitat: ac | Total proposed critical habitat: ha
743,845 | 301,023 | 5,933 | 2,401 | 737,912 | 298,622

Table 3. Critical Habitat Units Proposed for the California red-legged frog [Area estimates (acres (ac) (hectares ha)) reflect the entire area within the proposed critical habitat unit boundaries, areas supporting PCEs may be less within each unit.]

Unit | Federal: ac | Federal: ha | State: ac | State: ha | Local: ac | Local: ha | Private: ac | Private: ha | Military: ac | Military: ha
BUT-1 | 3,234 | 1,309 | 137 | 56 |  |  | 1,922 | 778 |  |
YUB-1 | 2,489 | 1,007 |  |  |  |  | 3,833 | 1,551 |  |
NEV-1 | 3,158 | 1,278 | 90 | 36 |  |  | 5,038 | 2,039 |  |
ELD-1 | 463 | 188 |  |  |  |  | 8,791 | 3,558 |  |
CAL-1 | 7 | 3 |  |  |  |  | 4,442 | 1,798 |  |
NAP-1 |  |  |  |  |  |  | 2,524 | 1,022 |  |
MRN-1 |  |  |  |  | 1,046 | 423 | 21,513 | 8,706 |  |
MRN-2 | 25,995 | 10,520 |  |  |  |  |  |  |  |
SOL-1 |  |  |  |  |  |  | 9,245 | 3,741 |  |
CCS-1A |  |  |  |  | 3,475 | 1,406 | 730 | 296 |  |
CCS-1B |  |  |  |  | 3,297 | 1,334 | 16,437 | 6,652 |  |
ALA-1A |  |  | 1,276 | 516 | 16,389 | 6,632 | 40,753 | 16,492 |  |
ALA-1B |  |  |  |  |  |  | 3,679 | 1,489 |  |
ALA-1C |  |  |  |  | 15,357 | 6,215 | 22,135 | 8,958 |  |
SNM-1A | 52 | 21 |  |  |  |  | 14,691 | 5,945 |  |
SNM-1B |  |  |  |  |  |  | 3,327 | 1,346 |  |
SNM-1C |  |  | 1,0214 | 413 | 117 | 48 | 4,978 | 2,015 |  |
SNM-2A |  |  |  |  |  |  | 10,200 | 4,128 |  |
SNM-2B |  |  | 2,099 | 849 |  |  | 14,672 | 5,937 | 358 | 145
SNM-2C |  |  | 3,722 | 1,506 |  |  | 4,056 | 1,641 |  |
STC-1A |  |  |  |  | 8,384 | 3,393 | 19,671 | 7,961 |  |
STC-1B |  |  | 27,983 | 11,324 |  |  | 1,746 | 707 |  |
SCZ1 |  |  | 297 | 120 |  |  | 12,807 | 5,183 |  |
SCZ2 | 120 | 49 | 601 | 243 |  |  | 3,326 | 1,346 |  |
MER-1 |  |  | 10,153 | 4,109 |  |  | 2,349 | 951 |  |
MNT-1 |  |  | 525 | 213 |  |  |  |  |  |
MNT-2 | 1,233 | 499 | 544 | 220 |  |  | 43,632 | 17,657 |  |
SNB-1 |  |  | 5,418 | 2,193 |  |  | 8,861 | 3,586 |  |
SNB-2 | 13 | 5 |  |  |  |  | 9,644 | 3,903 |  |
SNB-3 | 13,979 | 5,657 |  |  |  |  | 6,070 | 2,457 |  |
SLO-1 | 176 | 71 |  |  |  |  | 18,011 | 7,289 |  |
SLO-2 | 19 | 8 |  |  |  |  | 4,602 | 1,863 |  |
SLO-3 |  |  | 524 | 212 |  |  | 9,972 | 4,035 |  |
SLO-4 |  |  | 52 | 21 |  |  | 8,097 | 3,277 |  |
SLO-5 |  |  | 511 | 207 |  |  | 10,269 | 4,156 |  |
SLO-6 | 840 | 340 |  |  |  |  | 8,989 | 3,638 |  |
SLO-7 | 2,004 | 811 | 4,393 | 1,778 |  |  | 15,950 | 6,455 |  |
SLO-8 | 9,443 | 3,822 |  |  |  |  | 6,837 | 2,767 |  |
STB-1 | 21,181 | 8,572 |  |  |  |  | 3,921 | 1,587 |  |
STB-2 |  |  |  |  |  |  |  |  | 4,922 | 1,992
STB-3 | 40,038 | 16,203 |  |  |  |  | 7,394 | 2,992 |  |
STB-4 |  |  |  |  |  |  | 7,681 | 3,108 | 1,011 | 409
STB-5 | 1,558 | 630 | 1,844 | 746 |  |  | 9,486 | 3,839 |  |
STB-6 | 1,867 | 756 | 76 | 31 |  |  | 10,042 | 4,064 |  |
STB-7 | 32,419 | 13,120 |  |  |  |  | 3,805 | 1,540 |  |
VEN-1 | 5,300 | 2,145 |  |  |  |  | 1,382 | 559 |  |
VEN-2 |  |  |  |  |  |  | 2,936 | 1,188 |  |
VEN-3 | 8,521 | 3,448 |  |  |  |  | 305 | 124 |  |
VEN-4 |  |  | 2,784 | 1,127 |  |  |  |  |  |
LOS-1 | 3,907 | 1,581 |  |  |  |  | 321 | 130 |  |
RIV-1 |  |  | 3,002 | 1,215 |  |  | 7,416 | 3,001 |  |
Total | 178,016 | 72,043 | 67,052 | 27,135 | 48,065 | 19,451 | 438,488 | 177,450 | 6,291 | 2,546

Presented below are brief descriptions of all units. The units are listed in order geographically north to south and west to east, with exception of the units in the Sierra foothills which are listed first, north to south.

BUT-1, Hughes Place Pond (5,294 ac (2,142 ha))

This unit is located in east-central Butte County, east of State Highway 70 and west of Oroville-Quincy Highway. BUT-1 is essential for the conservation of the subspecies because the area contains aquatic habitat for breeding and non-breeding activities (PCE 1 and PCE 2), and upland habitat for foraging and dispersal activities (PCE 3 and PCE 4) and is occupied by the species. This unit encompasses one of five known extant Sierra Foothill populations identified since the time of listing and is located in the eastern most portion of the subspecies historic range. This unit represents the California red-legged frog's adaptation to a wide range of habitat and ecological variability, is known to be occupied, contains high quality habitat, and contains the features essential for the conservation of the subspecies. The unit consists of 1,922 ac (778 ha) of private land, 137 ac (56 ha) of State land and 3,234 ac (1,309 ha) of Federal land and is mapped entirely from occurrence records subsequent to the time of listing. Threats that may require special management in this unit include necessary wildland fire suppression activities which may dewater aquatic habitats resulting in the desiccation of egg masses or direct death of adults from water drafting, timber harvest activities which can alter or remove upland habitat, and predation by nonnative species. We are proposing to exclude 3,234 ac (1,309 ha) of land from the final designation of critical habitat which is managed under the Sierra Nevada Forest Plan by the Plumas National Forest. For a further discussion of this proposed exclusion see the Relationship of Critical Habitat to Other Land—Exclusions Under Section 4(b)(2) of the Act section below.

YUB-1, Little Oregon Creek (6,322 ac (2,558 ha))

This unit is located in northeastern Yuba County, north of Marysville Road and south of La Porte Road. YUB-1 is considered an area that is essential for the conservation of the subspecies because it contains aquatic habitat for breeding and non-breeding activities (PCE 1 and PCE 2), and upland habitat for foraging and dispersal activities (PCE 3 and PCE 4) and is occupied by the species. YUB-1 is one of five known extant Sierra Foothill populations identified since the time of listing and is located in the eastern most portion of the subspecies historic range. This unit represents the California red-legged frog's adaptation to a wide range of habitat and ecological variability, is known to be occupied, contains high quality habitat, and contains the features essential for the conservation of the subspecies. This unit consists of 3,833 ac (1,551 ha) of private land and 2,489 ac (1,007 ha) of Federal land and is mapped entirely from occurrence records subsequent to the time of listing. Threats that may require special management in this unit include necessary wildland fire suppression activities which may dewater aquatic habitats resulting in the desiccation of egg masses or direct death of adults from water drafting, timber harvest activities which can alter or remove upland habitat, and predation by nonnative species. We are proposing to exclude 2,489 ac (1,007 ha) of land from the final designation of critical habitat which is managed under the Sierra Nevada Forest Plan by the Plumas National Forest. For a further discussion of this proposed exclusion see the Relationship of Critical Habitat to Other Land—Exclusions Under Section 4(b)(2) of the Act section below.

NEV-1, Sailor Flat (8,285 ac (3,353 ha))

This unit is located in central Nevada County, approximately three miles (five kilometers) northeast of Nevada City, south of Tyler Foote Road and north of State Highway 20. NEV-1 is considered an area that is essential for the conservation of the subspecies because it contains aquatic habitat for breeding and non-breeding activities (PCE 1 and PCE 2), and upland habitat for foraging and dispersal activities (PCE 3 and PCE 4) and is occupied by the species. NEV-1 is one of five known extant Sierra Foothill populations and is located in the eastern most portion of the subspecies historic range. This unit represents the California red-legged frog's adaptation to a wide range of habitat and ecological variability, is known to be occupied, contains high quality habitat, and contains the features essential for the conservation of the subspecies. This unit consists of 5,038 ac (2,039 ha) of private land, 90 ac (36 ha) of State land and 3,158 ac (1,278 ha) of Federal land and is mapped entirely from occurrence records subsequent to the time of listing. Threats that may require special management in this unit include timber harvest activities, removal and alteration of habitat due to potential urban development, necessary wildland fire suppression activities which may dewater aquatic habitats resulting in the desiccation of egg masses or direct death of adults from water drafting and predation by nonnative species. We are proposing to exclude 1,512 ac (612 ha) of land from the final designation of critical habitat which is managed under the Sierra Nevada Forest Plan by the Tahoe National Forest. For a further discussion of this proposed exclusion see the Relationship of Critical Habitat to Other Land—Exclusions Under Section 4(b)(2) of the Act section below.

ELD-1, Spivey Pond (9,254 ac (3,745 ha))

This unit is located in central El Dorado County, south of State Highway 50 and east of Newton Road. ELD-1 is essential for the conservation of the subspecies because it contains aquatic habitat for breeding and non-breeding activities (PCE 1 and PCE 2), upland habitat for foraging and dispersal activities (PCE 3 and PCE 4), and is occupied by the species. ELD-1 is one of five known extant Sierra Foothill populations and is located in the eastern most portion of the subspecies historic range. This unit represents the California red-legged frog's adaptation to a wide range of habitat and ecological variability, is known to be occupied, contains high quality habitat, and contains the features essential for the conservation of the subspecies. The unit consists of 8,791 ac (3,558 ha) of private land and 463 ac (188 ha) of Federal land and is mapped entirely from occurrence records subsequent to the time of listing. Threats that may require special management in this unit include necessary wildland fire suppression activities which may dewater aquatic habitats resulting in the desiccation of egg masses or direct death of adults from water drafting, timber harvest activities, and predation by nonnative species. We are proposing to exclude 409 ac (166 ha) of land from the final designation of critical habitat which is managed under the Sierra Nevada Forest Plan by the El Dorado National Forest. For a further discussion of this proposed exclusion see the Relationship of Critical Habitat to Other Land—Exclusions Under Section 4(b)(2) of the Act section below.

CAL-1, Young's Creek (4,450 ac (1,801 ha))

This unit is located in northwestern Calaveras County, north of State Highway 26 and south of Paloma Road. CAL-1 is essential for the conservation of the subspecies because it contains aquatic habitat for breeding and non-breeding activities (PCE 1 and PCE 2), and upland habitat for foraging and dispersal activities (PCE 3 and PCE 4) and is occupied by the species. This unit encompasses one of five known extant Sierra Foothill populations identified since the time of listing and is located in the eastern most portion of the subspecies historic range. This unit represents the California red-legged frog's adaptation to a wide range of habitat and ecological variability, is known to be occupied, contains high quality habitat, and contains the features essential for the conservation of the subspecies. The unit consists of 4,442 ac (1,798 ha) of private land and 7 ac (3 ha) of Federal land and is mapped entirely from occurrence records subsequent to the time of listing. The main threats that may require special management in this unit include overgrazing of aquatic and riparian habitats and predation by nonnative species.

NAP-1, Wragg Creek (2,524 ac (1,022 ha))

This unit is located in east-central Napa County and is bisected by State Highway 128 and lies largely to the west of State Highway 121. NAP-1 contains the following features that are essential for the conservation for the subspecies: Aquatic habitat for breeding and non-breeding activities (PCE 1 and PCE 2) and upland habitat for foraging and dispersal activities (PCE 3 and PCE 4). NAP-1 was known to be occupied at time of listing and is currently occupied, contains permanent and ephemeral aquatic habitats suitable for breeding, upland areas for dispersal, shelter and food, provides for connectivity between populations, provides representation of a portion of the geographic range of the subspecies and contains high quality habitat. The unit consists of 2,524 ac (1,022 ha) of private land and is mapped from occurrence records at time of listing and subsequent to the time of listing. Threats that may require special management in this unit include predation by nonnative species.

MRN-1, Salmon Creek (22,559 ac (9,129 ha))

This unit is located in northcentral Marin County, east of State Highway 1 and north of Point Reyes Petaluma Road. MRN-1 is occupied and contains occurrence records subsequent to the time of listing. The area is essential for the conservation for the subspecies because it contains aquatic habitat for breeding and non-breeding activities (PCE 1 and PCE 2), upland habitat for foraging and dispersal activities (PCE 3 and PCE 4) and is occupied by the species. MRN-1 also provides for connectivity between populations, provides representation of a portion of the geographic range of the subspecies, contains permanent and ephemeral aquatic habitats suitable for breeding, upland areas for dispersal, shelter and food, and contains high quality habitat. The unit consists of 21,513 ac (8,706 ha) of private land and 1,046 ac (423 ha) of local government land and is mapped from occurrence records subsequent to the time of listing. Threats that may require special management in this unit include overgrazing of aquatic and riparian habitats and predation by nonnative species.

SOL-1, Sky Valley (9,245 ac (3,741 ha))

This unit is located in southwestern Solano County and a portion of extreme southeastern Napa County, south of Interstate 80 and west of Interstate 680. SOL-1 contains the following features that are essential for the conservation for the subspecies: aquatic habitat for breeding and non-breeding activities (PCE 1 and PCE 2) and upland habitat for foraging and dispersal activities (PCE 3 and PCE 4). SOL-1 was known to be occupied at time of listing and is currently occupied, contains permanent and ephemeral aquatic habitats suitable for breeding, upland areas for dispersal, shelter and food, provides for connectivity between populations, provides representation of a portion of the geographic range of the subspecies and contains high quality habitat. The unit consists of 9,245 ac (3,741 ha) of private land and is mapped from occurrence records at time of listing and subsequent to the time of listing. Threats that may require special management in this unit include overgrazing of aquatic and riparian habitats, and removal and alteration of habitat due to urbanization.

MRN-2, Point Reyes Peninsula (25,995 ac (10,520 ha))

This unit is located in western Marin County, west of State Highway 1. MRN-2 contains the following features that are essential for the conservation for the subspecies: Aquatic habitat for breeding and non-breeding activities (PCE 1 and PCE 2) and upland habitat for foraging and dispersal activities (PCE 3 and PCE 4). MRN-2 was known to be occupied at time of listing and is currently occupied, contains permanent and ephemeral aquatic habitats suitable for breeding, upland areas for dispersal, shelter and food, provides for connectivity between populations, provides representation of a portion of the geographic range of the subspecies and contains high quality habitat. The unit consists of 25,995 ac (10,520 ha) of Federal land and is mapped from occurrence records at time of listing and subsequent to the time of listing. Threats that may require special management in this unit include overgrazing of aquatic and riparian habitats and predation by nonnative species.

CCS-1A, Berkeley Hills (4,205 ac (1,702 ha))

This unit is located in western Contra Costa County, south of Alhambra Valley Road and north of Bear Creek Road. CCS-1A contains the following features that are essential for the conservation for the subspecies: Aquatic habitat for breeding and non-breeding activities (PCE 1 and PCE 2) and upland habitat for foraging and dispersal activities (PCE 3 and PCE 4). CCS-1A was known to be occupied at time of listing and is currently occupied, contains permanent and ephemeral aquatic habitats suitable for breeding, upland areas for dispersal, shelter and food, provides for connectivity between populations, provides representation of a portion of the geographic range of the subspecies, and contains high quality habitat. The unit consists of 730 ac (296 ha) of private land and 3,475 ac (1,406 ha) of local government land and is mapped from occurrence records at time of listing and subsequent to the time of listing. Threats that may require special management in this unit include removal and alteration of habitat due to urbanization, overgrazing of aquatic and riparian habitats, and predation by nonnative species. We are proposing to exclude 3,475 ac (1,406 ha) of land from the final designation of critical habitat which is managed by the East Bay Regional Park District. For a further discussion of this proposed exclusion see the Relationship of Critical Habitat to Other Land—Exclusions Under Section 4(b)(2) of the Act section below.

CCS-1B, Mulligan Hill (19,734 ac (7,986 ha))

This unit is located in northern Contra Costa County, south of State Highway 4 and north of Marsh Creek Road. CCS-1B contains the following features that are essential for the conservation for the subspecies: Aquatic habitat for breeding and non-breeding activities (PCE 1 and PCE 2) and upland habitat for foraging and dispersal activities (PCE 3 and PCE 4). CCS-1B was known to be occupied at time of listing and is currently occupied, contains permanent and ephemeral aquatic habitats suitable for breeding, upland areas for dispersal, shelter and food, provides for connectivity between populations, provides representation of a portion of the geographic range of the subspecies, and contains high quality habitat. The unit consists of 16,437 ac (6,652 ha) of private land and 3,297 ac (1,334 ha) of local government land and is mapped from occurrence records at time of listing and subsequent to the time of listing. Threats that may require special management in this unit include removal and alteration of habitat due to urbanization, overgrazing of aquatic and riparian habitats, erosion and siltation due to flooding, and predation by nonnative species. We are proposing to exclude this entire unit from the final designation of critical habitat because it falls within the draft East Contra Costa County Natural Communities Conservation Plan / Habitat Conservation Plan. For a further discussion of this proposed exclusion see the Relationship of Critical Habitat to Habitat Conservation Plan Lands—Exclusions Under Section 4(b)(2) of the Act section below.

ALA-1A, Los Vaqueros (58,417 ac (23,640 ha))

This unit is located in southeastern Contra Costa and northeastern Alameda Counties, south of Marsh Creek Road and west of the junction of Interstates 205 and 580. ALA-1A contains the following features that are essential for the conservation for the subspecies: Aquatic habitat for breeding and non-breeding activities (PCE 1 and PCE 2) and upland habitat for foraging and dispersal activities (PCE 3 and PCE 4). ALA-1A was known to be occupied at time of listing and is currently occupied, contains permanent and ephemeral aquatic habitats suitable for breeding, upland areas for dispersal, shelter and food, provides for connectivity between populations, provides representation of a portion of the geographic range of the subspecies, and contains high quality habitat. The unit consists of 40,753 ac (16,492 ha) of private land, 1,276 ac (516 ha) of State land, and 16,389 ac (6,632 ha) of local government land and is mapped from occurrence records at time of listing and subsequent to the time of listing. Threats that may require special management in this unit include overgrazing of aquatic and riparian habitat and predation by nonnative species. We are proposing to exclude 18,359 ac (7,430 ha) of land from the final designation of critical habitat because it falls within the draft East Contra Costa County Natural Communities Conservation Plan/Habitat Conservation Plan. For a further discussion of this proposed exclusion see the Relationship of Critical Habitat to Habitat Conservation Plan Lands—Exclusions Under Section 4(b)(2) of the Act section below.

ALA-1B, San Antonio Creek (3,679 ac (1,489 ha))

This unit is located in north-central Alameda County, north of Interstate 580, west of Livermore Avenue and east of Tassajara Road. ALA-1B contains the following features that are essential for the conservation for the subspecies: Aquatic habitat for breeding and non-breeding activities (PCE 1 and PCE 2) and upland habitat for foraging and dispersal activities (PCE 3 and PCE 4). ALA-1B is essential for the conservation of the California red-legged frog since the unit is currently occupied, contains permanent and ephemeral aquatic habitats suitable for breeding, upland areas for dispersal, shelter and food, provides for connectivity between populations, provides representation of a portion of the geographic range of the subspecies, and contains high quality habitat. The unit consists of 3,679 ac (1,489 ha) of private land. Threats that may require special management in this unit include removal and alteration of habitat due to urbanization, overgrazing of aquatic and riparian habitats, and predation by nonnative species.

ALA-1C, San Antonio Reservoir (37,491 ac (15,172 ha))

This unit is located in south central Alameda County, southeast of Vallecitos Road and north of Oakridge Road. ALA-1C contains the following features that are essential for the conservation for the subspecies: Aquatic habitat for breeding and non-breeding activities (PCE 1 and PCE 2) and upland habitat for foraging and dispersal activities (PCE 3 and PCE 4). ALA-1C was known to be occupied at time of listing and is currently occupied, contains permanent and ephemeral aquatic habitats suitable for breeding, upland areas for dispersal, shelter and food, provides for connectivity between populations, provides representation of a portion of the geographic range of the subspecies, and contains high quality habitat. The unit consists of 22,135 ac (8,958 ha) of private land and 15,357 ac (6,215 ha) of local government land and is mapped from occurrence records at time of listing and subsequent to the time of listing. Threats that may require special management in this unit include overgrazing of aquatic and riparian habitats and predation by nonnative species. We are proposing to exclude 15,292 ac (6,189 ha) of land from the final designation of critical habitat which is managed by the East Bay Regional Park District. For a further discussion of this proposed exclusion see the Relationship of Critical Habitat to Other Land—Exclusions Under Section 4(b)(2) of the Act section below.

SNM-1A, Cahill Ridge (14,743 ac (5,966 ha))

This unit is located in northwestern San Mateo County, west of Interstate 280 and east of U.S. Route 1. SNM-1A contains the following features that are essential for the conservation for the subspecies: Aquatic habitat for breeding and non-breeding activities (PCE 1 and PCE 2) and upland habitat for foraging and dispersal activities (PCE 3 and PCE 4). SNM-1A was known to be occupied at time of listing and is currently occupied, contains permanent and ephemeral aquatic habitats suitable for breeding, upland areas for dispersal, shelter and food, provides representation of a portion of the geographic range of the subspecies, and contains high quality habitat. The unit consists of 14,691 ac (5,945 ha) of private land and 52 ac (21 ha) of local government land and is mapped from occurrence records at time of listing and subsequent to the time of listing. Threats that may require special management in this unit include predation by nonnative species.

SNM-2A, Gordon Ridge (10,200 ac (4,128 ha))

This unit is located in west-central San Mateo County, north of La Honda Road and east of U.S. Route 1. SNM-2A contains the following features that are essential for the conservation for the subspecies: Aquatic habitat for breeding and non-breeding activities (PCE 1 and PCE 2) and upland habitat for foraging and dispersal activities (PCE 3 and PCE 4). SNM-2A was known to be occupied at time of listing and is currently occupied, contains permanent and ephemeral aquatic habitats suitable for breeding, upland areas for dispersal, shelter and food, provides for connectivity between populations along the coast and inland, provides representation of a portion of the geographic range of the subspecies and contains high quality habitat. This unit consists of 10,200 ac (4,128 ha) of private land and is mapped from occurrence records at time of listing and subsequent to the time of listing. Threats that may require special management in this unit include overgrazing of aquatic and riparian habitat and predation by nonnative species.

STC-1A, Cañada de Pala (28,055 ac (11,353 ha))

This unit is located in north-central Santa Clara County, south of Sierra Road and west of Mount Hamilton. STC-1A contains the following features that are essential for the conservation for the subspecies: Aquatic habitat for breeding and non-breeding activities (PCE 1 and PCE 2) and upland habitat for foraging and dispersal activities (PCE 3 and PCE 4). STC-1A was known to be occupied at time of listing and is currently occupied, contains permanent and ephemeral aquatic habitats suitable for breeding, upland areas for dispersal, shelter and food, provides for connectivity between populations along the coast and inland, provides representation of a portion of the geographic range of the subspecies and contains high quality habitat. This unit consists of 19,671 ac (7,961 ha) of private land, and 8,384 ac (3,393 ha) of local government land and is mapped from occurrence records at the time of listing and subsequent to the time of listing. Threats that may require special management in this unit include removal and alteration of habitat due to urbanization, overgrazing of aquatic and riparian habitats, and predation by nonnative species.

SNM-1B, Langley Hill (3,327 ac (1,346 ha))

This unit is located in east-central San Mateo County, east of La Honda Road and west of State Highway 35. SNM-1B contains the following features that are essential for the conservation for the subspecies: Aquatic habitat for breeding and non-breeding activities (PCE 1 and PCE 2) and upland habitat for foraging and dispersal activities (PCE 3 and PCE 4). SNM-1B was known to be occupied at time of listing, contains permanent and ephemeral aquatic habitats suitable for breeding, upland areas for dispersal, shelter and food, provides for connectivity between populations, provides representation of a portion of the geographic range of the subspecies and contains high quality habitat. The unit consists of 3,327 ac (1,346 ha) of private land and is mapped entirely from occurrence records at time of listing. Threats that may require special management in this unit include overgrazing of aquatic and riparian habitat and predation by nonnative species.

SNM-2B, Pescadero Creek (17,129 ac (6,932 ha))

This unit is located in southwestern San Mateo County, south of SNM-2A and north of SNM-2C, east of Highway 1. SNM-2B contains the following features that are essential for the conservation for the subspecies: Aquatic habitat for breeding and non-breeding activities (PCE 1 and PCE 2) and upland habitat for foraging and dispersal activities (PCE 3 and PCE 4). SNM-2B was known to be occupied at time of listing and is currently occupied, contains permanent and ephemeral aquatic habitats suitable for breeding, upland areas for dispersal, shelter and food, provides for connectivity between populations, provides representation of a portion of the geographic range of the subspecies, and contains high quality habitat. The unit consists of 14,672 ac (5,937 ha) of private land, 2,099 ac (849 ha) of State land, and 358 ac (145 ha) of military land and is mapped from occurrence records at time of listing and subsequent to the time of listing. Threats that may require special management in this unit include overgrazing of aquatic and riparian habitat and predation by nonnative species.

SNM-1C, Peter's Creek (6,117 ac (2,476 ha))

This unit is located in southeastern San Mateo County, west of State Highway 35 and south of SNM-1B. SNM-1C contains the following features that are essential for the conservation for the subspecies: Aquatic habitat for breeding and non-breeding activities (PCE 1 and PCE 2) and upland habitat for foraging and dispersal activities (PCE 3 and PCE 4). SSNM-1C was known to be occupied at time of listing and is currently occupied, contains permanent and ephemeral aquatic habitats suitable for breeding, upland areas for dispersal, shelter and food, provides for connectivity between populations, provides representation of a portion of the geographic range of the subspecies and contains high quality habitat. The unit consists of 4,978 ac (2,015 ha) of private land, 1,021 ac (413 ha) of State land and 117 ac (48 ha) of local government land and is mapped from occurrence records at time of listing and subsequent to the time of listing. Threats that may require special management in this unit include overgrazing of aquatic and riparian habitat and predation by nonnative species.

SNM-2C, Año Nuevo (7,777 ac (3,147 ha))

This unit is located in southern San Mateo and extreme northwestern Santa Cruz Counties. SNM-2C contains the following features that are essential for the conservation for the subspecies: Aquatic habitat for breeding and non-breeding activities (PCE 1 and PCE 2) and upland habitat for foraging and dispersal activities (PCE 3 and PCE 4). SNM-2C was known to be occupied at time of listing and is currently occupied, contains permanent and ephemeral aquatic habitats suitable for breeding, upland areas for dispersal, shelter and food, provides for connectivity between populations, provides representation of a portion of the geographic range of the subspecies, and contains high quality habitat. The unit consists of 4,056 ac (1,641 ha) of private land and 3,722 ac (1,506 ha) of State land and is mapped from occurrence records at time of listing and subsequent to the time of listing. Threats that may require special management in this unit include predation by nonnative species.

STC-1B, Henry Coe State Park (29,729 ac (12,031 ha))

This unit is located in southeastern Santa Clara County, east of Anderson Lake and north of State Highway 152. STC-1B contains the following features that are essential for the conservation for the subspecies: Aquatic habitat for breeding and non-breeding activities (PCE 1 and PCE 2) and upland habitat for foraging and dispersal activities (PCE 3 and PCE 4). STC-1B was known to be occupied at time of listing and is currently occupied, contains permanent and ephemeral aquatic habitats suitable for breeding, upland areas for dispersal, shelter and food, provides for connectivity between populations, provides representation of a portion of the geographic range of the subspecies, and contains high quality habitat. The unit consists of 1,746 ac (707 ha) of private land and 27,983 ac (11,324 ha) of State land and is mapped from occurrence records at time of listing and subsequent to the time of listing. Threats that may require special management in this unit include predation by nonnative species.

SCZ-1, North Coastal Santa Cruz County (13,104 ac (5,303 ha))

This unit is located along the coastline of Santa Cruz County, from approximately Waddell Creek to Yellow Bank Creek. It includes locations within several watersheds which drain into the Pacific Ocean, and is mapped from occurrence records at time of listing and subsequent to the time of listing. SCZ-1 contains the following features that are essential for the conservation for the subspecies: Aquatic habitat for breeding and non-breeding activities (PCE 1 and PCE 2) and upland habitat for foraging and dispersal activities (PCE 3 and PCE 4). SCZ-1 provides connectivity between occupied sites along the coast and further inland. In addition, it contains high quality habitat, indicated by high density of extant occurrences, permanent and ephemeral aquatic habitat suitable for breeding, and accessible upland areas for dispersal, shelter and food. The unit consists of 12,807 ac (5,183 ha) of private land, and 297 ac (120 ha) of State land. Threats that may require special management in this unit include water diversions which could dewater portions of aquatic habitat leading to desiccation of egg masses or temporal loss of aquatic habitat. We are proposing to exclude 4.9 ac (2 ha) of land from the final designation of critical habitat which is managed under the Bonny Doon Habitat Conservation Plan. For a further discussion of this proposed exclusion see the Relationship of Critical Habitat to Habitat Conservation Plan Lands—Exclusions Under Section 4(b)(2) of the Act section below.

MER-1, Pacheco Pass (12,502 ac (5,059 ha))

This unit is located in southwestern Merced County and a small portion of southeastern Santa Clara County, west of San Luis Reservoir. MER-1 is essential for the conservation of the subspecies because it contains aquatic habitat for breeding and non-breeding activities (PCE 1 and PCE 2), and upland habitat for foraging and dispersal activities (PCE 3 and PCE 4), and is occupied by the species. MER-1 is an area determined to be occupied since the time of listing and is currently occupied, provides for connectivity between populations, provides representation of a portion of the geographic range of the subspecies, and contains high quality habitat. The unit consists of 2,349 ac (951 ha) of private land and 10,153 ac (4,109 ha) of State land and is mapped entirely from occurrence records subsequent to time of listing. Threats that may require special management in this unit include overgrazing of aquatic and riparian habitat and predation by nonnative species.

SCZ-2, Watsonville Slough (4,046 ac (1,637 ha))

This unit is located along the coastal plain in southern Santa Cruz County, north of the mouth of the Pajaro River and seaward of California Highway 1. It includes locations in the Watsonville Slough system, including all or portions of Gallighan, Hanson, Harkins, Watsonville, Struve, and the West Branch of Struve Sloughs. The unit is mapped from occurrence records at time of listing and subsequent to the time of listing. SCZ-2 contains the following features that are essential for the conservation for the subspecies: Aquatic habitat for breeding and non-breeding activities (PCE 1 and PCE 2) and upland habitat for foraging and dispersal activities (PCE 3 and PCE 4). SCZ-2 provides connectivity between occupied sites along the coast and further inland. In addition, it contains permanent and ephemeral aquatic habitats suitable for breeding, and upland areas for dispersal, shelter and food. The unit consists of 3,326 ac (1,346 ha) of private land, 601 ac (243 ha) of State land, and 120 ac (49 ha) of Federal land. Threats that may require special management in this unit include mortality due to agricultural pollution, conversion of habitat by introduced invasive plants, removal and alteration of aquatic and upland habitat due to urbanization and predation by nonnative species.

MNT-1, Elkhorn Slough (525 ac (213 ha))

This unit is located along the coastal plain in northern Monterey County inland from the town of Moss Landing, and is mapped from occurrence records at time of listing and subsequent to the time of listing. MNT-1 contains the following features that are essential for the conservation for the subspecies: Aquatic habitat for breeding and non-breeding activities (PCE 1 and PCE 2) and upland habitat for foraging and dispersal activities (PCE 3 and PCE 4). MNT-1 provides connectivity from the coastal plain and outer Coast Ranges to the inner Coast Ranges, contains permanent and ephemeral aquatic habitats suitable for breeding, contains upland areas for dispersal, shelter and food which we have determined are essential to the conservation of the subspecies. Elkhorn Slough is unique in that it is a large estuary/freshwater slough system not typically found on the California coast. The unit consists of 525 ac (213 ha) of State land. Threats that may require special management in this unit include mortality due to agricultural pollution, trematode infestation and chytrid fungus infection, and predation by nonnative species.

SNB-1, Hollister Hills (14, 279 ac (5,779 ha))

This unit is located in northwestern San Benito County in the foothills of the Gabilan Range. It is mapped from occurrence records at time of listing and subsequent to the time of listing near Saint Frances Retreat, San Juan Oaks, Azalea Canyon, Bird Creek, and the Hollister Hills State Vehicle Recreation Area. SNB-1 contains the following features that are essential for the conservation for the subspecies: Aquatic habitat for breeding and non-breeding activities (PCE 1 and PCE 2) and upland habitat for foraging and dispersal activities (PCE 3 and PCE 4). SNB-1 is occupied by the species and provides connectivity between sites between the coast plain and inner Coast Ranges, and contains permanent and ephemeral aquatic habitats suitable for breeding, and accessible upland areas for dispersal, shelter and food. The unit consists of 8,861 ac (3,586 ha) of private land, and 5,418 ac (2,193 ha) of State land. Threats that may require special management in this unit include removal and alteration of aquatic and upland habitat due to recreational and residential development, off-road vehicular activities, and predation by nonnative species.

SNB-2, Paicines Reservoir and Tres Pinos Creek (9,657 ac (3,908 ha))

This unit is located in northwestern San Benito County, approximately 8 mi (13 km) southeast of the City of Hollister and is mapped from occurrence records subsequent to listing in and near Paicines Reservoir and Tres Pinos Creek. SNB-2 is considered an area that is essential for the conservation of the subspecies. The area contains aquatic habitat for breeding and non-breeding activities (PCE 1 and PCE 2), and upland habitat for foraging and dispersal activities (PCE 3 and PCE 4). SNB-2 is essential to the conservation of the subspecies because it provides connectivity between sites on the coast plain and inner Coast Range, it contains permanent and ephemeral aquatic habitats suitable for breeding, and upland areas for dispersal, shelter and food. The unit consists of 9,644 ac (3,903 ha) of private land, and 13 ac (5 ha) of Federal land. Threats that may require special management in this unit include removal and alteration of aquatic and upland habitat due to urbanization and predation by nonnative species.

MNT-2, Carmel River (45, 408 ac (18,376 ha))

This unit is located about 3 mi (5 km) south to about 22 mi (35 km) southeast of the city of Monterey and includes locations in the Carmel River Valley and nearby San Jose Creek. It is mapped from occurrence records at time of listing and subsequent to the time of listing at the Carmel River, and at Las Garzas, San Jose, and San Clemente creeks. MNT-2 contains the following features that are essential for the conservation for the subspecies: Aquatic habitat for breeding and non-breeding activities (PCE 1 and PCE 2) and upland habitat for foraging and dispersal activities (PCE 3 and PCE 4). MNT-2 is occupied by the species and contains permanent and ephemeral aquatic habitats suitable for breeding, contains sufficient PCEs to support behaviors we have determined are essential to the conservation of the subspecies, and accessible upland areas for dispersal, shelter and food. The unit consists of 43, 632 ac (17,657 ha) of private land, 544 ac (220 ha) of State land, and 1,233 ac (499 ha) of Federal land. Threats that may require special management in this unit include removal and alteration of aquatic and upland habitat due to urbanization, dewatering of aquatic habitat due to water pumping and water diversions, reservoir maintenance activities, and predation by nonnative species.

SNB-3, Pinnacles National Monument (20,049 ac (8,114 ha))

This unit is located in the Gabilan Range at Pinnacles National Monument, about 3.5 mi (5.6 km) west of the town of San Benito, in southern San Benito County, and is mapped from occurrence records at time of listing and subsequent to the time of listing. SNB-3 contains the following features that are essential for the conservation for the subspecies: Aquatic habitat for breeding and non-breeding activities (PCE 1 and PCE 2) and upland habitat for foraging and dispersal activities (PCE 3 and PCE 4). SNB-3 provides connectivity between sites between the coast plain and inner Coast Ranges, and contains permanent and ephemeral aquatic habitat suitable for breeding, and accessible upland areas for dispersal, shelter and food, and is occupied by the species. The unit consists of 6,070 ac (2,457 ha) of private land and 13,979 ac (5,657 ha) of Federal land. Threats that may require special management in this unit include overgrazing and trampling of aquatic and upland habitat by feral pigs, recreational activities, and predation by nonnative species.

SLO-1, Cholame (18,187 ac (7,360 ha))

This unit is located in northeastern San Luis Obispo and northwestern Kern Counties, includes locations in the Cholame Creek watershed, and is mapped from occurrence records at time of listing and subsequent to the time of listing. SLO-1 contains the following features that are essential for the conservation for the subspecies: Aquatic habitat for breeding and non-breeding activities (PCE 1 and PCE 2) and upland habitat for foraging and dispersal activities (PCE 3 and PCE 4). SLO-1 contains permanent and ephemeral aquatic habitats suitable for breeding, and contains accessible upland areas for dispersal, shelter and food, and is occupied by the species. The unit consists of 18,011 ac (7,289 ha) of private land, and 176 ac (71 ha) of Federal land. Threats that may require special management in this unit include highway construction which may remove upland or aquatic habitat, overgrazing of aquatic and riparian habitats, and dewatering of aquatic habitats due to water diversions.

SLO-2, Piedras Blancas (4,621 ac (1,870 ha))

This unit is located along the coast in northwestern San Luis Obispo County, extends from Arroyo de Los Chinos south to Point Piedras Blancas, and is mapped from occurrence records at time of listing. SLO-2 contains the following features that are essential for the conservation for the subspecies: Aquatic habitat for breeding and non-breeding activities (PCE 1 and PCE 2) and upland habitat for foraging and dispersal activities (PCE 3 and PCE 4). SLO-2 provides connectivity within the Santa Lucia Range, and between this range and the inner Coast Ranges in San Luis Obispo County, and is occupied by the species. The unit contains high quality habitat, indicated by high density of extant occurrences, permanent and ephemeral aquatic habitats suitable for breeding, and accessible upland areas for dispersal, shelter and food. The unit consists of 4,602 ac (1,863 ha) of private land, and 19 ac (8 ha) of Federal land. Threats that may require special management in this unit include dewatering of aquatic habitats due to water diversion and predation by nonnative species.

SLO-3, San Simeon (10,496 ac (4,248 ha))

This unit is located along the coast in northwestern San Luis Obispo County, extends from Arroyo del Puerto south to San Simeon Creek, and is mapped from occurrence records at time of listing and subsequent to the time of listing. SLO-3 contains the following features that are essential for the conservation for the subspecies: Aquatic habitat for breeding and non-breeding activities (PCE 1 and PCE 2) and upland habitat for foraging and dispersal activities (PCE 3 and PCE 4). SLO-3 provides connectivity within the Santa Lucia Range, and between this range and the inner Coast Ranges in San Luis Obispo County, and contains permanent and ephemeral aquatic habitats suitable for breeding, upland areas for dispersal, shelter and food which we have determined are essential to the conservation of the subspecies, and is occupied by the species. The unit consists of 9,972 ac (4,035 ha) of private land and 524 ac (212 ha) of State land. Threats that may require special management in this unit include dewatering of aquatic habitats due to water diversion, overgrazing of aquatic and riparian habitats, and predation by nonnative species.

SLO-4, Santa Rosa Creek (8,150 ac (3,298 ha))

This unit is located along the coast in northwestern San Luis Obispo County and is mapped from occurrence records at the time of listing and subsequent to time of listing. SLO-4 contains the following features that are essential for the conservation for the subspecies: Aquatic habitat for breeding and non-breeding activities (PCE 1 and PCE 2) and upland habitat for foraging and dispersal activities (PCE 3 and PCE 4). SLO-4 provides connectivity within the Santa Lucia Range, and between this range and the inner Coast Ranges in San Luis Obispo County, contains permanent and ephemeral aquatic habitats suitable for breeding, upland areas for dispersal, shelter and food and is occupied by the species. This unit consists of 8,097 ac (3,277 ha) of private land, and 52 ac (21 ha) of State land. Threats that may require special management in this unit include dewatering of aquatic habitats due to water diversion, overgrazing of aquatic and riparian habitats, and predation by nonnative species.

SLO-5, Point Estero to Cayucos Creek (10,780 ac (4,363 ha))

This unit is located along the coast in central San Luis Obispo County, west of the town of Cayucos, and is mapped from occurrence records at time of listing and subsequent to the time of listing. SLO-5 contains the following features that are essential for the conservation for the subspecies: Aquatic habitat for breeding and non-breeding activities (PCE 1 and PCE 2) and upland habitat for foraging and dispersal activities (PCE 3 and PCE 4). SLO-5 provides connectivity within the Santa Lucia Range, and between this range and the inner Coast Ranges in San Luis Obispo County, contains permanent and ephemeral aquatic habitats suitable for breeding, upland areas for dispersal, shelter and food, and is occupied by the species. This unit consists of 10,269 ac (4,156 ha) of private land and 511 ac (207 ha) of State land. Threats that may require special management in this unit include removal and alteration of aquatic and upland habitat due to urbanization, dewatering of aquatic habitats due to water diversion, overgrazing of aquatic and riparian habitats, and predation by nonnative species.

SLO-6, Willow and Toro Creeks (9,829 ac (3,978 ha))

This unit is located near the coast in central San Luis Obispo County, about 1.9 mi (3 km) north of the town of Morro Bay, and is mapped from occurrence records at time of listing and subsequent to the time of listing. SLO-6 contains the following features that are essential for the conservation for the subspecies: Aquatic habitat for breeding and non-breeding activities (PCE 1 and PCE 2) and upland habitat for foraging and dispersal activities (PCE 3 and PCE 4). SLO-6 provides connectivity within the Santa Lucia Range, and between this range and the inner Coast Ranges in San Luis Obispo County, contains permanent and ephemeral aquatic habitats suitable for breeding, upland areas for dispersal, shelter and food, and is occupied by the species. This unit consists of 8,989 ac (3,638 ha) of private land and 840 ac (340 ha) of Federal land. Threats that may require special management in this unit include removal and alteration of aquatic and upland habitat due to urbanization, dewatering of aquatic habitats due to water diversion, and predation by nonnative species.

SLO-7, San Luis Obispo (22,347 ac (9,043 ha))

This unit is located north and east of the City of San Luis Obispo, and is mapped from occurrence records at time of listing and subsequent to the time of listing. SLO-7 contains the following features that are essential for the conservation for the subspecies: Aquatic habitat for breeding and non-breeding activities (PCE 1 and PCE 2) and upland habitat for foraging and dispersal activities (PCE 3 and PCE 4). SLO-7 provides connectivity between the Santa Lucia Range and populations further inland, contains permanent and ephemeral aquatic habitats suitable for breeding, upland areas for dispersal, shelter and food which we have determined are essential to the conservation of the subspecies, and is occupied by the species. This unit consists of 15,950 ac (6,455 ha) of private land, 4,393 ac (1,778 ha) of State land, and 2,004 ac (811 ha ) of Federal land. Threats that may require special management in this unit include removal and alteration of aquatic and upland habitat due to urbanization, dewatering of aquatic habitats due to water diversion, overgrazing of aquatic and riparian habitats, and predation by nonnative species.

SLO-8, Upper Salinas River (16,281 ac (6,589 ha))

This unit is located at the base of Garcia Mountain about 17 mi (27 km) east of the City of San Luis Obispo, and is mapped from occurrence records subsequent to time of listing. SLO-8 contains the following features that are essential for the conservation for the subspecies: Aquatic habitat for breeding and non-breeding activities (PCE 1 and PCE 2) and upland habitat for foraging and dispersal activities (PCE 3 and PCE 4). SLO-8 provides connectivity between populations in the outer Coast Ranges and populations further inland, and is occupied by the species. In addition, it contains permanent and ephemeral aquatic habitats suitable for breeding, and contains accessible upland areas for dispersal, shelter and food. This unit consists of 6,837 ac (2,767 ha) of private land and 9,443 ac (3,822 ha) of Federal land. Threats that may require special management in this unit include alteration of aquatic and upland habitat by recreational activities and predation by nonnative species.

STB-1, La Brea Creek (25,103 ac (10,159 ha))

This unit is located in Los Padres National Forest in northern Santa Barbara County, and is mapped from occurrence records at time of listing and subsequent to the time of listing. STB-1 contains the following features that are essential for the conservation for the subspecies: Aquatic habitat for breeding and non-breeding activities (PCE 1 and PCE 2) and upland habitat for foraging and dispersal activities (PCE 3 and PCE 4). STB-1 provides connectivity between coastal populations and populations in the Transverse Ranges, and contains permanent and ephemeral aquatic habitats suitable for breeding, contains sufficient PCEs to support behaviors we have determined are essential to the conservation of the subspecies, and accessible upland areas for dispersal, shelter and food, and is occupied by the species. The unit consists of 3,921 ac (1,587 ha) of private land, and 21,181 ac (8,572 ha) of Federal land. Threats that may require special management in this unit include alteration of aquatic and upland habitat by recreational activities.

STB-2, San Antonio Terrace (4,922 ac (1,992 ha))

This unit is located in northwestern Santa Barbara County near the coast, and extends from about Casmalia south to the Santa Lucia Canyon near the Purisima Hills and is mapped from occurrence records subsequent to time of listing. STB-2 contains aquatic habitat for breeding and non-breeding activities (PCE 1 and PCE 2), and upland habitat for foraging and dispersal activities (PCE 3 and PCE 4), and is occupied by the species. STB-2 provides connectivity between coastal populations and populations in the Transverse Ranges, and contains permanent and ephemeral aquatic habitats suitable for breeding and accessible upland areas for dispersal, shelter and food. The unit consists of 4,922 ac (1,992 ha) of military land and is being excluded under section 4(a)(3) of the Act (see Application of Section 4(a)(3) and Exclusions Under Section 4(b)(2) of the Act). Special management which may be required in this unit includes management of construction and other activities which may contaminate or cause sedimentation of aquatic habitats.

STB-3, Sisquoc River (47,431 ac (19,195 ha))

This unit occurs in northern Santa Barbara County and includes locations in the Sisquoc River watershed and is mapped from occurrence records at time of listing and subsequent to the time of listing. STB-3 contains the following features that are essential for the conservation for the subspecies: Aquatic habitat for breeding and non-breeding activities (PCE 1 and PCE 2) and upland habitat for foraging and dispersal activities (PCE 3 and PCE 4). STB-3 is occupied by the species and provides connectivity between locations along the coast and the Transverse Ranges, it is essential in stabilizing populations of the subspecies in tributaries to the Santa Ynez River, and contains permanent and ephemeral aquatic habitats suitable for breeding, upland areas for dispersal, shelter and food. The unit consists of 7,394 ac (2,992 ha) of private land and 40,038 ac (16,203 ha) of Federal land. Threats that may require special management in this unit include alteration of aquatic and upland habitat by recreational activities, predation by nonnative species, and water management practices which could be detrimental to California red-legged frog aquatic habitat.

STB-4, Jalama Creek (8,691 ac (3,517 ha))

This unit is located along the coast in southwestern Santa Barbara County about 4.4 mi (7 km) south of the City of Lompoc, and is mapped from occurrence records at time of listing and subsequent to the time of listing. STB-4 contains the following features that are essential for the conservation for the subspecies: Aquatic habitat for breeding and non-breeding activities (PCE 1 and PCE 2) and upland habitat for foraging and dispersal activities (PCE 3 and PCE 4). STB-4 is occupied by the species and provides connectivity between locations along the coast and the Santa Ynez River watershed, and contains permanent and ephemeral aquatic habitats suitable for breeding, and upland areas for dispersal, shelter and food. This unit consists of 7,681 ac (3,108 ha) of private land and 1,011 ac (409 ha) of military land. The military land is being excluded under section 4(a)(3) of the Act (see below). Threats that may require special management in this unit include predation by nonnative species and water management practices which could negatively affect California red-legged frog aquatic habitat. Populations in this unit may also require special management or protection due to their potential importance in stabilizing populations in tributaries to the Santa Ynez River.

STB-5, Gaviota Creek (12,888 ac (5,216 ha))

This unit is located along the coast in southern Santa Barbara County about 3 mi (5 km) southwest of the town of Buellton, and is mapped from occurrence records at time of listing and subsequent to the time of listing. STB-5 contains the following features that are essential for the conservation for the subspecies: Aquatic habitat for breeding and non-breeding activities (PCE 1 and PCE 2) and upland habitat for foraging and dispersal activities (PCE 3 and PCE 4). STB-5 is occupied by the species and provides connectivity between locations along the coast and the Santa Ynez River watershed, and contains upland areas for dispersal, shelter and food. The unit consists of 9,486 ac (3,839 ha) of private land, 1,844 ac (746 ha) of State land, and 1,558 ac (630 ha) of Federal land. Threats that may require special management in this unit include predation by nonnative species and water management practices which could negatively affect California red-legged frog aquatic habitat. Populations in this unit may also require special management or protection due to their potential importance in stabilizing populations in tributaries to the Santa Ynez River.

STB-6, Arroyo Quemado to Refugio Creek (11,985 ac (4,850 ha))

This unit occurs along the coast in southern Santa Barbara County about 5 mi (8 km) south of the town of Solvang, and is mapped from occurrence records at time of listing and subsequent to the time of listing. STB-6 contains the following features that are essential for the conservation for the subspecies: Aquatic habitat for breeding and non-breeding activities (PCE 1 and PCE 2) and upland habitat for foraging and dispersal activities (PCE 3 and PCE 4). STB-6 is occupied by the species and provides connectivity between locations along the coast and the Santa Ynez River watershed, and contains permanent and ephemeral aquatic habitats suitable for breeding, and upland areas for dispersal, shelter and food. The unit consists of 10,042 ac (4,064 ha) of private land, 76 ac (31 ha) State land, and 1,867 ac (756 ha) Federal land. Threats that may require special management in this unit include predation by nonnative species and water management practices which could negatively affect California red-legged frog aquatic habitat. Populations in this unit may also require special management or protection due to their potential importance in stabilizing populations in tributaries to the Santa Ynez River.

STB-7, Upper Santa Ynez River (36,224 ac (14,659 ha))

This unit is located in southeastern Santa Barbara County about 5 mi (8 km) north of the City of Santa Barbara. It includes locations in the middle and upper Santa Ynez River watershed, and is mapped from occurrence records at time of listing and subsequent to the time of listing. STB-7 contains the following features that are essential for the conservation for the subspecies: Aquatic habitat for breeding and non-breeding activities (PCE 1 and PCE 2) and upland habitat for foraging and dispersal activities (PCE 3 and PCE 4). STB-7 is occupied by the species and provides connectivity between locations along the coast, in the Sierra Madre Mountains, and in the Ventura River watershed. It contains high quality habitat, indicated by high density of extant occurrences, permanent and ephemeral aquatic habitats suitable for breeding, and accessible upland areas for dispersal, shelter and food. The unit consists of 3,805 ac (1,540 ha) of private land, and 32,419 ac (13,120 ha) of Federal land. Threats that may require special management in this unit include flood control and road maintenance activities which could cause siltation in and reduce available aquatic habitat, and directly remove upland habitat. Additional threats that may require special management include recreational activities and predation by nonnative species.

VEN-1, Matilija Creek (6,682 ac (2,704 ha))

This unit is located in western Ventura County at Matilija Creek and is mapped from occurrence records at time of listing and subsequent to the time of listing. VEN-1 contains the following features that are essential for the conservation for the subspecies: Aquatic habitat for breeding and non-breeding activities (PCE 1 and PCE 2) and upland habitat for foraging and dispersal activities (PCE 3 and PCE 4). VEN-1 is occupied by the species and important to species conservation in that persistence of the species in this area will prevent further isolation of breeding locations near the limit of the geographic range of the subspecies, contains permanent and ephemeral aquatic habitats suitable for breeding, upland areas for dispersal, shelter and food, and because it provides connectivity between populations within the Transverse Ranges. The unit consists of 1,382 ac (559 ha) of private land and 5,300 ac (2,145 ha) of Federal land. Threats that may require special management in this unit include alteration of aquatic and upland habitat by recreational activities and predation by nonnative species.

VEN-2, San Antonio Creek (2,936 ac (1,188 ha))

This unit is located in western Ventura County at San Antonio Creek and is mapped from occurrence records at time of listing and subsequent to the time of listing. VEN-2 contains the following features that are essential for the conservation for the subspecies: Aquatic habitat for breeding and non-breeding activities (PCE 1 and PCE 2) and upland habitat for foraging and dispersal activities (PCE 3 and PCE 4). VEN-2 is occupied by the species. Persistance of the species in this area will prevent further isolation of breeding locations near the limit of the geographic range of the subspecies, contains permanent and ephemeral aquatic habitats suitable for breeding and accessible upland areas for dispersal, shelter and food, and because it provides connectivity between populations within the Transverse Ranges. The unit consists of 2,936 ac (1,188 ha) of private land. Threats that may require special management in this unit include alteration of aquatic and upland habitat by recreational activities, sedimentation of aquatic habitats, and predation by nonnative species.

VEN-3, Piru Creek (8,826 ac (3,572 ha))

This unit is located in eastern Ventura County and northwestern Los Angeles County and is mapped from occurrence records at time of listing at Piru Creek. VEN-3 contains the following features that are essential for the conservation for the subspecies: Aquatic habitat for breeding and non-breeding activities (PCE 1 and PCE 2) and upland habitat for foraging and dispersal activities (PCE 3 and PCE 4). VEN-3 is occupied by the species. Persistence of the species in this area is important to prevent further isolation of breeding locations near the limit of the geographic range of the subspecies, and it contains permanent and ephemeral aquatic habitats suitable for breeding, upland areas for dispersal, shelter and food. The unit consists of 305 ac (124 ha) of private land and 8,512 ac (3,448 ha) of Federal land. Threats that may require special management in this unit include alteration of aquatic and upland habitat by off-road vehicle use, conversion of native habitat by introduced invasive plant species, and predation by nonnative species.

VEN-4, Upper Las Virgenes Canyon Open Space Preserve (2,784 ac (1,127 ha))

This unit is located in southeastern Ventura County and is mapped from occurrence records subsequent to the time of listing. VEN-4 is considered an area that is essential for the conservation of the subspecies because it is currently occupied by the species and contains aquatic habitat for breeding and non-breeding activities (PCE 1 and PCE 2), and upland habitat for foraging and dispersal activities (PCE 3 and PCE 4). Further, VEN-4 provides connectivity between coastal populations and populations in the Transverse Ranges, and contains permanent and ephemeral aquatic habitats suitable for breeding and accessible upland areas for dispersal, shelter and food. The unit consists of 2,784 ac (1,127 ha) of State land, managed by the Santa Monica Mountains Conservancy. Threats that may require special management in this unit include habitat degradation by recreational activities and the potential threat of predation by nonnative species.

LOS-1, San Francisquito Creek (4,228 ac (1,711 ha))

This unit is located in northwestern Los Angeles County and is mapped from occurrence records at time of listing. LOS-1 contains the following features that are essential for the conservation for the subspecies: Aquatic habitat for breeding and non-breeding activities (PCE 1 and PCE 2) and upland habitat for foraging and dispersal activities (PCE 3 and PCE 4). LOS-1 contains permanent and ephemeral aquatic habitats suitable for breeding and accessible upland areas for dispersal, shelter and food. The unit consists of 321 ac (130 ha) of private land and 3,907 ac (1,581 ha) of Federal land. Threats that may require special management in this unit include alteration and removal of aquatic and upland habitat by residential development, degradation of habitat by recreational activities, sedimentation of aquatic habitats, conversion of native habitats by introduced invasive plants and predation by African clawed frogs (Xenopus laevis) and other nonnative species.

RIV-1, Cole Creek (10,418 ac (4,216 ha))

This unit is located in southwestern Riverside County along Cole Creek, partially within the Santa Rosa Plateau Ecological Reserve. RIV-1 contains the following features that are essential for the conservation for the subspecies: Aquatic habitat for breeding and non-breeding activities (PCE 1 and PCE 2) and upland habitat for foraging and dispersal activities (PCE 3 and PCE 4). The unit was known to be occupied at time of listing and is currently occupied. It contains permanent and ephemeral aquatic habitats suitable for breeding and accessible upland areas for dispersal, shelter and food, provides for connectivity between populations, provides representation of the southern-most extent of the geographic range of the subspecies in the United States, and contains high quality habitat. Further, based on recent genetics work (Shaffer et al. 2004), it is believed that this population represents a unique genetic lineage of the subspecies that is closely related to the populations found in Baja California, Mexico, and may be representative of the genetic lineage that once occupied the southern California basin in Riverside, Orange, and San Diego counties. This unit consists of 7,416 ac (3,001 ha) of private land, and 3,002 ac (1,215 ha) of State land. Threats that may require special management in this unit include removal and alteration of habitat due to urbanization, and predation by nonnative species. We are proposing to exclude this entire unit from the final designation of critical habitat because it is covered under the Western Riverside Multiple Species Habitat Conservation Plan. For a further discussion of this proposed exclusion see the Relationship of Critical Habitat to Habitat Conservation Plan Lands—Exclusions Under Section 4(b)(2) of the Act section below.

Effect of Critical Habitat Designation

Section 7 Consultation

Section 7 of the Act requires Federal agencies, including the Service, to ensure that actions they fund, authorize, or carry out are not likely to destroy or adversely modify critical habitat. In our regulations at 50 CFR 402.2, we define destruction or adverse modification as “a direct or indirect alteration that appreciably diminishes the value of critical habitat for both the survival and recovery of a listed species. Such alterations include, but are not limited to: Alterations adversely modifying any of those physical or biological features that were the basis for determining the habitat to be critical.” We are currently reviewing the regulatory definition of adverse modification in relation to the conservation of the species, and are relying on the statutory provisions of the Act in evaluating the effects of Federal actions on proposed critical habitat, pending further regulatory guidance.

Section 7(a) of the Act requires Federal agencies, including the Service, to evaluate their actions with respect to any species that is proposed or listed as endangered or threatened and with respect to its critical habitat, if any is proposed or designated. Regulations implementing this interagency cooperation provision of the Act are codified at 50 CFR part 402.

Section 7(a)(4) of the Act requires Federal agencies to confer with us on any action that is likely to jeopardize the continued existence of a proposed species or result in destruction or adverse modification of proposed critical habitat. Conference reports provide conservation recommendations to assist the agency in eliminating conflicts that may be caused by the proposed action. We may issue a formal conference report if requested by a Federal agency. Formal conference reports on proposed critical habitat contain an opinion that is prepared according to 50 CFR 402.14, as if critical habitat were designated. We may adopt the formal conference report as the biological opinion when the critical habitat is designated, if no substantial new information or changes in the action alter the content of the opinion (see 50 CFR 402.10(d)). The conservation recommendations in a conference report are advisory.

If a species is listed or critical habitat is designated, section 7(a)(2) requires Federal agencies to ensure that activities they authorize, fund, or carry out are not likely to jeopardize the continued existence of such a species or to destroy or adversely modify its critical habitat. If a Federal action may affect a listed species or its critical habitat, the responsible Federal agency (action agency) must enter into consultation with us. Through this consultation, the action agency ensures that their actions do not destroy or adversely modify critical habitat.

When we issue a biological opinion concluding that a project is likely to result in the destruction or adverse modification of critical habitat, we also provide reasonable and prudent alternatives to the project, if any are identifiable. “Reasonable and prudent alternatives” are defined at 50 CFR 402.02 as alternative actions identified during consultation that can be implemented in a manner consistent with the intended purpose of the action, that are consistent with the scope of the Federal agency's legal authority and jurisdiction, that are economically and technologically feasible, and that the Director believes would avoid destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions in instances where critical habitat is subsequently designated and the Federal agency has retained discretionary involvement or control over the action or such discretionary involvement or control is authorized by law. Consequently, some Federal agencies may request reinitiation of consultation or conference with us on actions for which formal consultation has been completed, if those actions may affect designated critical habitat or adversely modify or destroy proposed critical habitat.

Federal activities that may affect the California red-legged frog, occupied habitat, or its proposed critical habitat will require consultation under section 7. Activities on private, State, County, or lands under local jurisdictions requiring a permit from a Federal agency, such as Federal Highway Administration (FHA) or Federal Emergency Management Act (FEMA) funding, or a permit from the U.S. Army Corps of Engineers (Corps) under section 404 of the Clean Water Act, will continue to be subject to the section 7 consultation process. Federal actions not affecting listed species or critical habitat, and actions on non-Federal lands that are not federally funded, authorized, or permitted do not require section 7 consultation.

Section 4(b)(8) of the Act requires us to evaluate briefly and describe, in any proposed or final regulation that designates critical habitat, those activities involving a Federal action that may adversely modify such habitat, or that may be affected by such designation. We note that such activities may also jeopardize the continued existence of the species. All areas proposed as critical habitat and unoccupied at the time of listing are determined to be essential to the conservation of the California red-legged frog.

Activities that may destroy or adversely modify critical habitat are those that alter the PCEs to an extent that the conservation value of critical habitat for the California red-legged frog is appreciably reduced. Activities that, when carried out, funded, or authorized by a Federal agency may directly or indirectly destroy or adversely modify critical habitat for California red-legged frog include, but are not limited to:

(1) Activities affecting waters of the United States by the Corps under section 404 of the Clean Water Act;

(2) Water flows, damming, diversion, and channelization implemented or licensed by Federal agencies;

(3) Timber harvest, grazing, mining, and recreation by the U.S. Forest Service and BLM;

(4) Road construction and maintenance, right-of-way designation, and regulation of agricultural activities;

(5) Hazard mitigation and post-disaster repairs funded by the Federal Emergency Management Agency; and

(6) Activities funded by the Environmental Protection Agency, U.S. Department of Energy, or any other Federal agency.

All lands proposed for designation as critical habitat are within the geographic range of the California red-legged frog and are occupied by the subspecies, and/or are likely to be used by the subspecies, whether for foraging, breeding, growth of larvae and juveniles, intra-specific communication, dispersal, migration, genetic exchange and sheltering. Federal agencies already consult with us on activities in areas currently occupied by the subspecies, or if the subspecies may be affected by the action, to ensure that their actions do not jeopardize the continued existence of the subspecies. Thus, we do not anticipate substantial additional regulatory protection will result from the proposed critical habitat designation.

If you have questions regarding whether specific activities may constitute adverse modification of critical habitat in California, contact the Field Supervisor, Sacramento Fish and Wildlife Office (see ADDRESSES section). Requests for copies of the regulations on listed plants and wildlife and inquiries about prohibitions and permits may be addressed to the U.S. Fish and Wildlife Service, Branch of Endangered Species, 911 NE 11th Ave, Portland, OR 97232 (telephone 503/231-2063; facsimile 503/231-6243).

Application of Section 4(a)(3) and Exclusions Under Section 4(b)(2) of the Act

The Sikes Act Improvement Act of 1997 (Sikes Act) (16 U.S.C. 670a) required each military installation that includes land and water suitable for the conservation and management of natural resources to complete, by November 17, 2001, an Integrated Natural Resource Management Plan (INRMP). An INRMP integrates implementation of the military mission of the installation with stewardship of the natural resources found on the base. Each INRMP includes an assessment of the ecological needs on the installation, including the need to provide for the conservation of listed species; a statement of goals and priorities; a detailed description of management actions to be implemented to provide for these ecological needs; and a monitoring and adaptive management plan. We consult with the military on the development and implementation of INRMPs for installations with listed species.

Section 318 of Fiscal Year 2004 the National Defense Authorization Act (Public Law No. 108-136) amended the Endangered Species Act to address the relationship of INRMPs to critical habitat by adding a new section 4(a)(3)(B). This provision prohibits us from designating as critical habitat any lands or other geographical areas owned or controlled by the DOD, or designated for its use, that are subject to an INRMP prepared under section 101 of the Sikes Act (16 U.S.C. 670a), if the Secretary of the Interior determines, in writing, that such plan provides a benefit to the species for which critical habitat is proposed for designation. Vandenberg Air Force Base has an approved INRMP that provides additional conservation benefit for the California red-legged frog. Thus, in the development of identifying specific areas for designation as critical habitat, we evaluate whether areas determined to contain the features essential to the conservation of the subject species are covered by and approved INRMP that provides a benefit to the species. If the area is covered by an approved INRMP that provides a benefit to the species, then the area is exempt from designation pursuant to section 4(a)(3) of the Act.

In our critical habitat designations, we use the provision outlined in section 4(b)(2) of the Act to evaluate those specific areas that we consider designating as critical habitat. Lands that may be excluded from the final designation of critical habitat for this species pursuant to section 4(b)(2) of the Act may include those covered by the following types of plans if they provide assurances that the conservation measures they outline will be implemented and effective: (1) Legally operative approved HCPs that cover the species; (2) draft HCPs that cover the species and have undergone public review and comment (i.e., pending HCPs); (3) Tribal conservation plans that cover the species; (4) State conservation plans that adequately cover the species; and (5) National Wildlife Refuge System Comprehensive Conservation Plans.

Relationship of Critical Habitat to Section 4(a)(3) of the Act—Approved Integrated Natural Resource Management Plans (INRMPs)

Vandenberg Air Force Base

Vandenberg Air Force Base completed an INRMP in 1997 prior to the passage and implementation of the Sikes Act Improvements Act of 1997. While we did not specifically participate in its development, this older plan does provide conservation measures for the California red-legged frog, as well as for the management of important wetland habitats across the base. The INRMP provides management direction on conserving listed and imperiled species and their habitats on the base. Sites with known populations of the California red-legged frog are protected from disturbance from human activities and grazing through measures appropriate to the given situation. Vandenberg's INRMP specifies monitoring of California red-legged frog populations on the base, and periodic surveys to provide continuous evaluation of the subspecies' status at known and new sites identified on the base. In addition, Vandenberg actively consults with us on all actions that may affect California red-legged frogs on the base, and has implemented conservation measures as recommended. Vandenberg Air Force Base is currently in the process of updating their INRMP. We have reviewed the draft update, and we are working together to ensure that appropriate measures are included in their final INRMP to provide additional conservation benefit to the California red-legged frog. The updated version of the INRMP as currently drafted provides for an equal or greater level of benefit to the California red-legged frog. Based on Vandenberg's commitment to working with us on frog conservation, we believe that the final version of the INRMP will continue to provide a benefit for the subspecies. Therefore, we have determined that the INRMP as drafted and implemented for Vandenberg Air Force Base provides a benefit to the California red-legged frog. As such, the lands that contain the features essential to the conservation of the California red-legged frog on Vandenberg Air Force Base are exempt from inclusion in this proposed designation of critical habitat for the subspecies pursuant to section 4(a)(3) of the Act.

Relationship of Critical Habitat to Habitat Conservation Plan Lands—Exclusions Under Section 4(b)(2) of the Act

Section 4(b)(2) of the Act requires us to consider other relevant impacts, in addition to economic impacts, when designating critical habitat. Section 10(a)(1)(B) of the Act authorizes us to issue permits for the take of listed wildlife species incidental to otherwise lawful activities. Development of an HCP is a prerequisite for the issuance of an incidental take permit pursuant to section 10(a)(1)(B) of the Act. An incidental take permit application must be supported by an HCP that identifies conservation measures that the permittee agrees to implement for the species to minimize and mitigate the impacts of the permitted incidental take. HCPs vary in size and may provide for incidental take coverage and conservation management for one or many federally-listed species. Additionally, more than one applicant may participate in the development and implementation of an HCP. Large regional HCPs expand upon the basic requirements set forth in section 10(a)(1)(B) of the Act because they reflect a voluntary, cooperative approach to large-scale habitat and species conservation planning. Many of the large regional HCPs in southern California have been, or are being, developed to provide for the conservation of numerous federally-listed species and unlisted sensitive species and the habitat that provides for their biological needs. These HCPs are designed to proactively implement conservation actions to address future projects that are anticipated to occur within the planning area of the HCP. However, given the broad scope of these regional HCPs, not all projects envisioned to potentially occur may actually take place. The State of California also has a NCCP process that is very similar to the federal HCP process and is often completed in conjunction with the HCP process. We recognize that many of the projects with HCPs also have State-issued NCCPs. In the case of approved regional HCPs and accompanying Implementing Agreements (IAs) (e.g., those sponsored by cities, counties, or other local jurisdictions) that provide for incidental take coverage, a primary goal of these regional plans is to provide for the protection and management of the habitat features essential for species conservation, while directing development to other areas. We are considering whether to exclude from the critical habitat designation lands within the Bonny Doon Quarries Settlement Ponds HCP, Western Riverside Multiple Species HCP, and the Draft East Contra Costa County HCP under section 4(b)(2) of the Act.

Bonny Doon Quarries Settlement Ponds Habitat Conservation Plan (Bonny Doon HCP)

Section 4(b)(2) of the Act states that critical habitat shall be designated, and revised, on the basis of the best available scientific data available after taking into consideration the economic impact, impact on national security, and any other relevant impact, of specifying any particular area as critical habitat. An area may be excluded from critical habitat if it is determined that the benefits of such exclusion outweigh the benefits of specifying a particular area as critical habitat, unless the failure to designate such area as critical habitat will result in the extinction of the species. Consequently, we may exclude an area from critical habitat based on economic impacts, impacts on national security, or other relevant impacts such as preservation of conservation partnerships, if we determine the benefits of excluding an area from critical habitat outweigh the benefits of including the area in critical habitat, provided the action of excluding the area will not result in the extinction of the species.

Below we first provide some general background information on the Bonny Doon HCP, followed by an analysis pursuant to section 4(b)(2) of the Act of the benefits of including Bonny Doon HCP land within the critical habitat designation, an analysis of the benefits of excluding this area, and an analysis of why we believe the benefits of exclusion are greater than those of inclusion. We are proposing to exclude the 4.9 ac (2 ha) Bonny Doon HCP located within proposed critical habitat unit SCZ-1.

The Bonny Doon HCP encompasses 4.9 ac (2 ha) of privately-owned lands in the Santa Cruz Mountains near the town of Davenport, Santa Cruz County, California. California red-legged frogs are present in both of the watersheds (San Vicente Creek and Liddell Creek) where settlement ponds were constructed at the Bonny Doon Quarries. The Bonny Doon HCP was completed and finalized in 1998 concurrently with a final environmental assessment on the HCP pursuant to NEPA. We issued a non-jeopardy biological opinion under section 7 of the Act on the Bonny Doon HCP in August 1999. The Bonny Doon HCP contains measures to minimize and mitigate impacts from the operations, maintenance, and possible reclamation activities to the California red-legged frog and its habitat and to further the conservation of the species. The primary components of the minimization and mitigation include: Developing and implementing an employee training program and a community outreach program; conducting annual breeding and pre-activity surveys at all settlement and mitigation ponds for California red-legged frogs; avoiding or relocating California red-legged frogs and their tadpoles and eggs during maintenance activities; minimizing impacts of water releases to breeding populations of California red-legged frogs; inspecting the ground under vehicles for California red-legged frogs prior to use; establishing a speed limit of ten miles per hour on roads within the operational area (although the incidental take permit will only authorize incidental take associated with the proposed operation, maintenance, and reclamation activities in the project area; not the entire operational area); using pesticides and herbicides that do not affect aquatic organisms and applying them in accordance with label precautions; disposing of all food-related trash in closed containers; controlling exotic predators; and enhancing habitat suitability of the mitigation ponds and Settlement Pond 1 for the California red-legged frog. The Bonny Doon HCP and its accompanying Implementing Agreement, which delineates the responsibilities of the Service and the permittee for the implementation of the HCP, are designed to allow the operation and maintenance activities of up to seven settlement ponds and the reclamation of two of the Bonny Doon Quarries Settlement Ponds in a manner that will result in conservation of the California red-legged frog and its habitat.

(1) Benefits of Inclusion

The primary benefit to designation of critical habitat is the requirement that Federal agencies consult with the Service to ensure that their actions are not likely to result in the destruction or adverse modification of critical habitat. If critical habitat were designated in these areas, primary constituent elements in these areas would be protected from destruction or adverse modification by Federal actions using a conservation standard based on the Ninth Circuit's decision in Gifford Pinchot. This requirement would be in addition to the requirement that proposed Federal actions would not be likely to jeopardize the species' continued existence. However, inasmuch as these areas currently are occupied by the subspecies, consultation for activities which might adversely impact the subspecies, including possibly significant habitat modification (see definition of “harm” at 50 CFR 17.3) would be required, even without the critical habitat designation. The requirement to conduct such consultation would occur regardless of whether the authorization for incidental take occurs under either section 7 or section 10 of the Act.

As discussed above, we expect the Bonny Doon HCP to provide substantial protection of the PCEs and special management of essential habitat features for the California red-legged frog on Bonny Doon HCP conservation lands. We expect the Bonny Doon HCP to provide a greater level of management for the California red-legged frog on private lands than would designation of critical habitat on private lands. Moreover, inclusion of these non-Federal lands as critical habitat would not necessitate additional management and conservation activities that would exceed the approved Bonny Doon HCP and its implementing agreement. As a result, we do not anticipate any action on these lands would destroy or adversely modify the areas proposed as critical habitat. Therefore, we do not expect that including those areas in the final designation will lead to any changes to actions on the conservation lands to avoid destroying or adversely modifying that habitat.

A benefit of including an area as critical habitat designation is the education of landowners and the public regarding the potential conservation value of these areas. The inclusion of an area as critical habitat may focus and contribute to conservation efforts by other parties by clearly delineating areas of high conservation values for certain species. However, we believe that there are informational benefits gained from including the Bonny Doon HCP within the designation because this area is included in this proposed rule. Additionally, the purpose of the Bonny Doon HCP is to provide protection and enhancement of habitat for the California red-legged frog is already well established among State and local governments, and Federal agencies. Consequently, we believe that the informational benefits are already provided even though this area is not designated as critical habitat.

(2) Benefits of Exclusion

The benefits of excluding lands within HCPs from critical habitat designation include relieving landowners, communities, and counties of any additional regulatory burden that might be imposed by a critical habitat designation. Many HCPs such as the Bonny Doon HCP take many years to develop and, upon completion, become regional conservation plans that are consistent with the recovery objectives for listed species that are covered within the plan area. In fact, designating critical habitat in areas covered by a pending HCP could result in the loss of some species' benefits if participants abandon the HCP process, in part because of the strength of the perceived additional regulatory compliance that such designation would entail. The time and cost of regulatory compliance for a critical habitat designation do not have to be quantified for them to be perceived as additional Federal regulatory burden sufficient to discourage continued participation in plans targeting listed species conservation.

Furthermore, an HCP or NCCP/HCP application must itself be consulted upon. Such a consultation would review the effects of all activities covered by the HCP which might adversely impact the species under a jeopardy standard, including possibly significant habitat modification (see definition of “harm” at 50 CFR 17.3), even without the critical habitat designation. In addition, Federal actions not covered by the HCP in areas occupied by listed species would still require consultation under section 7 of the Act and would be reviewed for possibly significant habitat modification in accordance with the definition of harm referenced above.

(3) Benefits of Exclusion Outweigh Benefits of Inclusion

We have reviewed and evaluated benefits of inclusion and exclusion of critical habitat for the California red-legged frog. Based on this evaluation, we find that the benefits of exclusion of the lands in the planning area for the Bonny Doon HCP outweigh the benefits of including a portion of proposed critical habitat unit SCZ-1 as critical habitat.

The exclusion of these lands from critical habitat will help preserve the partnerships that we have developed with the local jurisdiction and project proponent in the development of the Bonny Doon HCP, which provides for red-legged frog conservation. The educational benefits of critical habitat, including informing the public of areas important for the long term conservation of the subspecies, are still accomplished from material provided on our website and through public notice and comment procedures required to establish the Bonny Doon HCP. The public also has been informed through the public participation that occurs during the development of this HCP. Further, many educational benefits of critical habitat designation will be achieved through the overall designation, and will occur whether or not this particular location is designated. For these reasons, we believe that designating critical habitat has little benefit in areas covered by the Bonny Doon HCP. We do not believe that this exclusion would result in the extinction of the species because the Bonny Doon HCP provides for species conservation in this area by: Developing and implementing an employee training program and a community outreach program; conducting annual breeding and pre-activity surveys at all settlement and mitigation ponds for California red-legged frogs; avoiding or relocating California red-legged frogs and their tadpoles and eggs during maintenance activities; minimizing impacts of water releases to breeding populations of California red-legged frogs; inspecting the ground under vehicles for California red-legged frogs prior to use; establishing a speed limit of ten miles per hour on roads within the operational area (although the incidental take permit will only authorize incidental take associated with the proposed operation, maintenance, and reclamation activities in the project area; not the entire operational area); using pesticides and herbicides that do not affect aquatic organisms and applying them in accordance with label precautions; disposing of all food-related trash in closed containers; controlling exotic predators; and enhancing habitat suitability of the mitigation ponds and Settlement Pond 1 for the California red-legged frog.

Maps delineating the essential habitat features for the California red-legged frog, overlaid with the planning area for the Bonny Doon HCP, are available for public review and comment at the Ventura Fish and Wildlife Office (see ADDRESSES section). These maps are provided to allow the public the opportunity to adequately comment on these proposed exclusions.

Western Riverside Multiple Species Habitat Conservation Plan

Below we first provide some general background information on the Western Riverside Multiple Species Habitat Conservation Plan (MSHCP), followed by an analysis pursuant to section 4(b)(2) of the Act of the benefits of including MSHCP land within the critical habitat designation, an analysis of the benefits of excluding this area, and an analysis of why we believe the benefits of exclusion are greater than those of inclusion. We are proposing to exclude all of proposed critical habitat unit RIV-1 (10,416 ac (4,216 ha)).

The Western Riverside Multiple Species Habitat Conservation Plan (MSHCP) was finalized and approved on June 22, 2004. Participants in this HCP include 14 cities; the County of Riverside, including the Riverside County Flood Control and Water Conservation Agency, Riverside County Transportation Commission, Riverside County Parks and Open Space District, and Riverside County Waste Department; the California Department of Parks and Recreation; and the California Department of Transportation. The Western Riverside MSHCP is a subregional plan under the State's NCCP and was developed in cooperation with the California Department of Fish and Game. Within the 1.26 million-acre (510,000 ha) planning area of the MSHCP, approximately 153,000 ac (62,000 ha) of diverse habitats are being conserved. The conservation of 153,000 ac (62,000 ha) complements other existing natural and open space areas that are already conserved through other means (e.g., State parks, USFS, and County park lands).

Conservation measures specific to the California red-legged frog in the MSHCP include the conservation of 766 ac (310 ha) of occupied and historic breeding habitat, the conservation of 39,992 ac (16,184 ha) of intervening lands which shall provide movement between core areas, the conservation of 39,147 ac (15,842 ha) of upland habitat adjacent to occupied or suitable breeding habitat, surveys in suitable habitat within the plan area, and maintenance and, where feasible, restoration of ecological processes within occupied and suitable habitat.

Unit RIV-1 is located at the Santa Rosa Plateau Ecological Reserve, which is cooperatively managed by the Riverside County Regional Park and Open Space District, the Metropolitan Water District of Southern California, and The Nature Conservancy. The reserve contains riparian habitat that considered necessary to establish persistence of the subspecies in Southern California. Current management activities for the subspecies on the Santa Rosa Plateau include surveys, habitat restoration, and annual removal of exotic species (particularly bullfrogs). Additional efforts to recover this species are currently underway, including a joint project by the Service, the Los Angeles Zoo, The Nature Conservancy, and the Mexican government to augment and reestablish the population on the Santa Rosa Plateau.

(1) Benefits of Inclusion

The primary benefit to designation of critical habitat is the requirement that federal agencies consult with the Service to ensure that their actions are not likely to result in the destruction or adverse modification of critical habitat. If critical habitat were designated in these areas, primary constituent elements in these areas would be protected from destruction or adverse modification by federal actions using a conservation standard based on the Ninth Circuit's decision in Gifford v. Pinchot. This requirement would be in addition to the requirement that proposed Federal actions would not be likely to jeopardize the species' continued existence. However, inasmuch as these areas currently are occupied by the subspecies, consultation for activities which might adversely impact the subspecies, including possibly significant habitat modification (see definition of “harm” at 50 CFR 17.3) would be required, even without the critical habitat designation. The requirement to conduct such consultation would occur regardless of whether the authorization for incidental take occurs under either section 7 or section 10 of the Act.

As discussed above, we expect the MSHCP to provide substantial protection of the PCEs and special management of essential habitat features for the California red-legged frog on MSHCP conservation lands. We expect the MSHCP to provide a greater level of management for the California red-legged frog on private lands than would designation of critical habitat on private lands. Moreover, inclusion of these non-Federal lands as critical habitat would not necessitate additional management and conservation activities that would exceed the approved MSHCP and its implementing agreement. As a result, we do not anticipate any action on these lands would destroy or adversely modify the areas proposed as critical habitat. Therefore, we do not expect that including those areas in the final designation will lead to any changes to actions on the conservation lands to avoid destroying or adversely modifying that habitat.

A benefit of including an area as critical habitat designation is the education of landowners and the public regarding the potential conservation value of these areas. The inclusion of an area as critical habitat may focus and contribute to conservation efforts by other parties by clearly delineating areas of high conservation values for certain species. However, we believe that there would be little additional informational benefit gained from including the MSHCP within the designation because this area is included in this proposed rule. Additionally, the purpose of the MSHCP is to provide protection and enhancement of habitat for the California red-legged frog is already well established among State and local governments, and Federal agencies. Consequently, we believe that the informational benefits are already provided even though this area is not designated as critical habitat.

(2) Benefits of Exclusion

The benefits of excluding lands within HCPs from critical habitat designation include relieving landowners, communities, and counties of any additional regulatory burden that might be imposed by a critical habitat designation. Many HCPs, particularly large regional HCPs such as the MSHCP, take many years to develop and, upon completion, become regional conservation plans that are consistent with the recovery objectives for listed species that are covered within the plan area. In fact, designating critical habitat in areas covered by a pending HCP could result in the loss of species' benefits if participants abandon the HCP process, in part because of the strength of the perceived additional regulatory compliance that such designation would entail. The time and cost of regulatory compliance for a critical habitat designation do not have to be quantified for them to be perceived as additional Federal regulatory burden sufficient to discourage continued participation in plans targeting listed species conservation.

Furthermore, an HCP or NCCP/HCP application must itself be consulted upon. Such a consultation would review the effects of all activities covered by the HCP which might adversely impact the species, including possibly significant habitat modification (see definition of “harm” at 50 CFR 17.3), under the jeopardy standard, even without the critical habitat designation. In addition, Federal actions not covered by the HCP in areas occupied by listed species would still require consultation and a determination whether the project would jeopardize the continued existence of the species under section 7 of the Act and would be reviewed for possibly significant habitat modification in accordance with the definition of harm referenced above.

(3) Benefits of Exclusion Outweigh Benefits of Inclusion

We have reviewed and evaluated the benefits of inclusion and exclusion of critical habitat in unit RIV-1 for the California red-legged frog. Based on this evaluation, we find that the benefits of exclusion of the lands in the planning area for the MSHCP outweigh the benefits of including all of proposed critical habitat units RIV-1 as critical habitat.

The exclusion of these lands from critical habitat will help preserve the partnerships that we have developed with the local jurisdiction and project proponent in the development of the MSHCP. The educational benefits of critical habitat, including informing the public of areas that have the features that are essential for the long term conservation of the subspecies, are still accomplished from material provided on our Web site and through public notice and comment procedures required to establish the MSHCP. The public also has been informed through the public participation that occurs during the development of this HCP. In addition, many educational benefits of critical habitat designation will be achieved through the overall designation, and will occur whether or not this particular unit is designated. For these reasons, we believe that designating critical habitat has little benefit in areas covered by the MSHCP. We do not believe that this exclusion would result in the extinction of the species because the MSHCP seeks to: Include the conservation of 766 acres of occupied and historic breeding habitat, the conservation of 39,992 acres of intervening lands which shall provide movement between core areas, the conservation of 39,147 acres of upland habitat adjacent to occupied or suitable breeding habitat, surveys in suitable habitat within the plan area, and maintenance and, where feasible, restoration of ecological processes within occupied and suitable habitat. Further, unit RIV-1 in particular is being conserved and managed for, among other species, the California red-legged frog.

Maps delineating the essential habitat features for the California red-legged frog, overlaid with the planning area for the Western Riverside MSHCP area, are available for public review and comment at the Carlsbad Fish and Wildlife Office (see ADDRESSES section). These maps are provided to allow the public the opportunity to adequately comment on these proposed exclusions.

East Contra Costa County Natural Communities Conservation Plan / Habitat Conservation Plan (ECCHCP)

The notice of availability for the draft ECCHCP was published in the Federal Register on September 2, 2005 (70 FR 52434). The draft ECCHCP is currently under review and open for public comment until December 1, 2005. The document is available at the following Web site: http://www.cocohcp.org. The document will also be available for public inspection, by appointment, during normal business hours at the Sacramento Fish and Wildlife Office [see ADDRESSES]. We expect a finalized plan before the end of 2006. Participants in this HCP include the County of Contra Costa; the cities of Brentwood, Clayton, Oakley, and Pittsburg, California; the Contra Costa Water District; and the East Bay Regional Park District. The draft ECCHCP encompasses the eastern portion of Contra Costa County from approximately west of Concord to Sand Mound Slough and Clifton Court Forebay on the east. The draft ECCHCP is also a subregional plan under the State's Natural Community Conservation Planning (NCCP) process and was developed in cooperation with the California Department of Fish and Game. The draft ECCHCP identifies the California red-legged frog as a covered species and has identified areas where growth and development are expected to occur, as well as several conservation measures, including (1) protection of 28 to 36 acres of pond habitat, 85 to 98 miles of stream habitat, and 24,455 to 29,467 acres of upland habitat; (2) acquisition of aquatic habitat to compensate for habitat loss; (3) creation of aquatic habitat for compensation of habitat and to contribute to recovery; (4) stream restoration to enhance aquatic habitat. When the conservation measures are implemented they will benefit California red-legged frog conservation by preserving and restoring existing aquatic and upland habitat and creating new aquatic habitat for the species. We expect that the draft ECCHCP will provide substantial protection for all four of the primary constituent elements for the Central population of the California red-legged frog, and that protected lands will receive special management they require through funding mechanisms that will be implemented under the ECCHCP.

All of proposed critical habitat unit CCS-1B and a portion of proposed critical habitat unit ALA-1A are within the proposed ECCHCP. A total of 38,093 ac (15,416 ha) may be considered for exclusion if the HCP has reached the threshold of being considered a “pending HCP” prior to the completion of the final critical habitat designation. East Bay Regional Park District (EBRPD) lands are covered under the ECCHCP. However, they are not included in the total area here, rather they are addressed as a group below.

(1) Benefits of Inclusion

The primary benefit to designation of critical habitat is the requirement that federal agencies consult with the Service to ensure that their actions are not likely to result in the destruction or adverse modification of critical habitat. If critical habitat were designated in these areas, primary constituent elements in these areas would be protected from destruction or adverse modification by Federal actions using a conservation standard based on the Ninth Circuit's decision in Gifford Pinchot. This requirement would be in addition to the requirement that proposed Federal actions would not be likely to jeopardize the species' continued existence. However, inasmuch as these areas currently are occupied by the subspecies, consultation for activities which might adversely impact the subspecies, including possibly significant habitat modification (see definition of “harm” at 50 CFR 17.3) would be required, even without the critical habitat designation. The requirement to conduct such consultation would occur regardless of whether the authorization for incidental take occurs under either section 7 or section 10 of the Act.

As discussed above, we expect the ECCHCP to provide substantial protection of the PCEs and special management of essential habitat features for the California red-legged frog on ECCHCP conservation lands. We expect the ECCHCP to provide a greater level of management for the California red-legged frog on private lands than would designation of critical habitat on private lands. Moreover, inclusion of these non-Federal lands as critical habitat would not necessitate additional management and conservation activities that would exceed an approved ECCHCP and its implementing agreement. As a result, we do not anticipate any action on these lands would destroy or adversely modify the areas proposed as critical habitat. Therefore, we do not expect that including those areas in the final designation will lead to any changes to actions on the conservation lands to avoid destroying or adversely modifying that habitat.

A benefit of including an area as critical habitat designation is the education of landowners and the public regarding the potential conservation value of these areas. The inclusion of an area as critical habitat may focus and contribute to conservation efforts by other parties by clearly delineating areas of high conservation values for certain species. However, we believe that this conservation benefit has largely been achieved for the California red-legged frog through the hearings and workshops that have been held in the East Bay area associated with the listing of the subspecies and previous proposal to designate critical habitat.

(2) Benefits of Exclusion

The benefits of excluding lands within HCPs from critical habitat designation include relieving landowners, communities, and counties of any additional regulatory burden that might be imposed by a critical habitat designation. Many HCPs, particularly large regional HCPs such as the ECCHCP, take many years to develop and, upon completion, become regional conservation plans that are consistent with the recovery objectives for listed species that are covered within the plan area. In fact, designating critical habitat in areas covered by a pending HCP could result in the loss of species' benefits if participants abandon the HCP process, in part because of the strength of the perceived additional regulatory compliance that such designation would entail. The time and cost of regulatory compliance for a critical habitat designation do not have to be quantified for them to be perceived as additional Federal regulatory burden sufficient to discourage continued participation in plans targeting listed species conservation.

Furthermore, an HCP or NCCP/HCP application must itself be consulted upon. Such a consultation would review the effects of all activities covered by the HCP which might adversely impact the species, including possibly significant habitat modification (see definition of “harm” at 50 CFR 17.3), even without the critical habitat designation. In addition, Federal actions not covered by the HCP in areas occupied by listed species would still require consultation under section 7 of the Act and would be reviewed for possibly significant habitat modification in accordance with the definition of harm referenced above. This standard also would apply to all consultation conducted in the interim period prior to finalization of the ECCHCP, whether incidental take exemption is provided under section 7 or section 10 of the Act.

(3) Benefits of Exclusion Outweigh the Benefits of Inclusion

We have reviewed and evaluated the benefits of both including and excluding critical habitat in this location for the California red-legged frog. Based on this evaluation, we believe that the benefits of exclusion of the lands in the planning area for the draft ECCHCP would outweigh the benefits of including all of proposed critical habitat unit CCS-1B and a portion of proposed critical habitat unit ALA-1A as critical habitat.

The proposed exclusion of these lands from critical habitat would help preserve the partnerships that we have developed with the local jurisdiction and project proponent in the development of the ECCHCP. The educational benefits of critical habitat, including informing the public of areas that have the features that are essential for the long term conservation of the subspecies, would still be accomplished from material provided on our website and through public notice and comment procedures required to establish the ECCHCP. The public also has been informed through the public participation that occurs during the development of this regional HCP. For these reasons, we believe that designating critical habitat would have little benefit in areas covered by the draft ECCHCP. We do not believe that this proposed exclusion would result in the extinction of the species because the draft ECCHCP seeks to: (1) Protect 28-36 acres of pond habitat, 85-98 miles of stream habitat, and 24,455-29,467 acres of upland habitat; (2) acquire aquatic habitat to compensate for habitat loss; (3) create aquatic habitat for compensation of habitat loss and for contribution to recovery; (4) restore streams to enhance aquatic habitat.

Maps delineating the essential habitat features for the California red-legged frog, overlaid with the planning area for the ECCHCP will be available for public review and comment at the Sacramento Fish and Wildlife Office (see ADDRESSES section). These maps are provided to allow the public the opportunity to adequately comment on these proposed exclusions.

Relationship of Critical Habitat to Other Land—Exclusions Under Section 4(b)(2) of the Act

East Bay Regional Park District, Master Plan 1997

Below, we first provide some general background information on the East Bay Regional Park District (EBRPD), followed by an analysis pursuant to section 4(b)(2) of the Act of the benefits of including EBRPD land within the critical habitat designation, an analysis of the benefits of excluding this area, and an analysis of why we believe the benefits of exclusion are greater than those of inclusion. We are proposing to exclude a total of 18,867 ac (7,595 ha) from portions of proposed critical habitat units CCS-1A and ALA-1C.

The East Bay Regional Park District (EBRPD) manages 65 regional parks, recreation areas, wilderness, shorelines, preserves and land bank areas covering over 95,000 ac (34,446 ha) in Alameda and Contra Costa Counties. The EBRPD Board of Directors adopted the Master Plan 1997 on December 17, 1996 under Resolution Number 1996-12-349. The master plan provides for monitoring and conservation of rare, threatened, and endangered species. Species conservation efforts take precedence over other park activities if EBRPD activities are determined to have a significant adverse effect on rare, threatened or endangered species (EBRPD, 1997). EBRPD has been actively conducting California red-legged frog surveys and research over the last 15 years under U.S. Fish and Wildlife Service recovery permit number 817400. During the years of 1996, 2000 and 2004 EBRPD conducted California red-legged frog surveys across all park lands for the purpose of population trend monitoring and habitat assessment. Research has also focused on California red-legged frog habitat requirements, tolerances related to water quality, adult and juvenile movements, as well as the effect of livestock grazing on habitat and frog reproduction. EBRPD provides educational outreach through park interpretive programs, presentation of California red-legged frog research findings at scientific conferences and in peer reviewed journals. Habitat restoration and non-native predator control are special management actions the EBRPD has used and continues to use for the conservation of the California red-legged frog. Nearly 90 percent of the EBRPD land holdings are protected and managed as natural parklands thereby providing protection for the PCEs (Bobzien, pers com. 2005).

(1) Benefits of Inclusion

We believe that there is minimal benefit from designating critical habitat for the California red-legged frog within EBRPD because, as explained in detail above, these lands are already managed for the conservation of the subspecies. Further, lands contained within EBRPD within this proposal are currently occupied by the California red-legged frog and contain wetlands regulated by the Corps pursuant to the Clean Water Act. Thus, Federal actions agencies would be required to consult with us pursuant to section 7 of the Act for activities that may affect the subspecies or wetlands within this area.

Critical habitat receives protection from destruction or adverse modification through required consultation under section 7 of the Act. The section 7 consultation process is triggered when a Federal agency determines that its proposed Federal action (i.e., an action that it funds, carries out, or authorizes) may affect a listed species or its critical habitat. Thus, the principal benefit of any designated critical habitat is that Federal activities that may affect critical habitat require consultation under section 7 of the Act.

Once consultation under section 7 of the Act is triggered, the process may conclude informally when the Service concurs in writing that the proposed Federal action is not likely to adversely affect the listed species or its critical habitat. However, if the Service determines through informal consultation that adverse impacts may occur, then formal consultation is initiated. Formal consultation concludes with a biological opinion issued by the Service on whether the proposed Federal action is likely to jeopardize the continued existence of a listed species or result in destruction or adverse modification of critical habitat, with separate analyses being made under both the jeopardy and the adverse modification standards. For critical habitat, a biological opinion that concludes in a determination of no destruction or adverse modification may contain discretionary conservation recommendations to minimize adverse effects to primary constituent elements, but it would not contain any mandatory reasonable and prudent measures or terms and conditions. Mandatory reasonable and prudent alternatives to the proposed Federal action would only be issued when the biological opinion results in a jeopardy or adverse modification conclusion.

In Sierra Club v. Fish and Wildlife Service, 245 F.3d 434 (5th Cir. 2001), the Fifth Circuit Court of Appeals stated that the identification of the habitat with features essential to the conservation of the species can provide informational benefits to the public, State and local governments, scientific organizations, and Federal agencies. The court also noted that heightened public awareness of the plight of listed species and their habitats may facilitate conservation efforts. However, we believe that there would be little additional informational benefit gained from including the EBRPD lands within the designation because this area is included in this proposed rule. Consequently, we believe that the informational benefits are already provided even though this area is not designated as critical habitat. EBRPD lands are well known as publicly protected park lands to the public and scientific community and have an active public outreach program. Given that EBRPD lands are managed as protected park lands, it is unlikely that EBRPD would consider undertaking any projects that would result in a reduction of the capability of the existing habitat to sustain the subspecies.

(2) Benefits of Exclusion

As mentioned above, EBRPD provides more benefits for the conservation of the California red-legged frog than critical habitat would. Not only does EBRPD lands provide for protection of the PCEs, activities conducted under the Master Plan also addresses special management needs such as non-native predator control and habitat restoration. Continued research in the area of California red-legged frog habitat requirements and environmental tolerances will undoubtedly lead to applied conservation measures which will enhance the survival and recovery of the subspecies. Exclusion of EBRPD lands would provide a measure of public and agency confidence in the applied research, conservation activities, and recovery actions conducted by EBRPD.

(3) Benefits of Exclusion Outweigh Benefits of Inclusion

In summary, we believe that the benefits of excluding portions of EBRPD from the designation of critical habitat for the California red-legged frog outweighs the benefits of including EBRPD lands in critical habitat. We find that including EBRPD would result in very minimal, if any additional, benefits to the California red-legged frog, as explained above. EBRPD lands provide protections of the PCEs and additional benefits such as non-native predator control and habitat restoration.

We also find that the exclusion of these lands will not lead to the extinction of the subspecies, nor hinder its recovery because EBRPD actively conducts research and engages in recovery activities. Furthermore, EBRPD lands are protected and managed as open park lands thereby providing protection of the PCEs for the California red-legged frog.

Maps delineating the essential habitat features for the California red-legged frog, overlaid with the planning area for EBRPD, are available for public review and comment at the Sacramento Fish and Wildlife Office (see ADDRESSES section). These maps are provided to allow the public the opportunity to adequately comment on these exclusions.

Spivey Pond Management Area

Below we first provide some general background information on the Spivey Pond Management Area (SPMA) and the Spivey Pond Management Plan (SPMP), followed by an analysis pursuant to section 4(b)(2) of the Act of the benefits of including SPMA land within the critical habitat designation, an analysis of the benefits of excluding this area, and an analysis of why we believe the benefits of exclusion are greater than those of inclusion. We are proposing to exclude the entire 54 ac (22 ha) SPMA located within proposed critical habitat unit ELD-1.

The SPMA encompasses 54 ac (22 ha) of Bureau of Land Management (BLM) owned lands surrounding Spivey Pond, in El Dorado County, California. Spivey Pond is one of five known extant California red-legged frog breeding populations in the Sierra foothills. In July 2004 a management plan for the California red-legged frog was approved and signed by the Bureau of Land Management, Bureau of Reclamation, California Department of Fish and Game, El Dorado County, El Dorado Irrigation District, the American River Conservancy, the U.S. Fish and Wildlife Service, and the El Dorado National Forest. The Spivey Pond Management Plan (SPMP) consists of six management objectives specifically for the conservation of the California red-legged frog: control of bullfrogs and predatory fish, monitoring of water quality, maintenance of the pond's integrity and habitat/water quality, creation and management of additional California red-legged frog breeding habitat, promotion of research and maintenance of a GIS database, and providing input for watershed level planning and activities which may benefit Spivey Pond.

In 1997, during a review of a proposed timber harvest plan U.S. Fish and Wildlife Service (Service) staff discovered a population of a reproducing California red-legged frog in Spivey Pond on the north fork of Webber Creek. The previous confirmed sightings of a California red-legged frog in the Webber Creek watershed were in 1972 and 1975 for the entire Sierra Nevada foothill region. At the time of discovery, the Spivey Pond parcel was privately owned and slated for timber harvest and subdivision development. The Service urged the American River Conservancy (ARC) to initiate negotiations with the owners of the Spivey Pond for purchase of the property. With financial assistance from the Service and the United States Bureau of Reclamation (USBR) ARC succeeded in purchasing the 54 acre Spivey Pond parcel on April 28, 1998. Additional grant funding from the National Fish and Wildlife foundation was received on September 15, 1998 which allowed for initial pond stabilization and restoration work. On May 3, 1999 all preliminary acquisition and restoration activities were completed and the parcel was transferred to the BLM to be managed as a wildlife reserve specifically for the benefit of the California red-legged frog.

(1) Benefits of Inclusion

We believe that there is minimal benefit from designating critical habitat for the California red-legged frog within the SPMA because, as explained in detail above, these lands are already expressly managed for the conservation of the subspecies.

Critical habitat receives protection from destruction or adverse modification through required consultation under section 7 of the Act. The section 7 consultation process is triggered when a Federal agency determines that its proposed Federal action (i.e., an action that it funds, carries out, or authorizes) may affect a listed species or its critical habitat. Thus, the primary benefit to designation of critical habitat is the requirement that federal agencies consult with the Service to ensure that their actions are not likely to result in the destruction or adverse modification of critical habitat. If critical habitat were designated in these areas, primary constituent elements in these areas would be protected from destruction or adverse modification by federal actions using a conservation standard based on the Ninth Circuit's decision in Gifford Pinchot.

Once consultation under section 7 of the Act is triggered, the process may conclude informally when the Service concurs in writing that the proposed Federal action is not likely to adversely affect the listed species or its critical habitat. However, if the Service determines through informal consultation that adverse impacts are likely to occur, then formal consultation is initiated. Formal consultation concludes with a biological opinion issued by the Service on whether the proposed Federal action is likely to jeopardize the continued existence of a listed species or result in destruction or adverse modification of critical habitat, with separate analyses being made under both the jeopardy and the adverse modification standards. For critical habitat, a biological opinion that concludes in a determination of no destruction or adverse modification may contain discretionary conservation recommendations to minimize adverse effects to primary constituent elements, but it would not contain any mandatory reasonable and prudent measures or terms and conditions. Mandatory reasonable and prudent alternatives to the proposed Federal action would only be issued when the biological opinion results in a jeopardy or adverse modification conclusion.

In Sierra Club v. Fish and Wildlife Service, 245 F.3d 434 (5th Cir. 2001), the Fifth Circuit Court of Appeals stated that the identification of habitat with features essential to the conservation of the species can provide informational benefits to the public, State and local governments, scientific organizations, and Federal agencies. The court also noted that heightened public awareness of the plight of listed species and their habitats may facilitate conservation efforts. However, we believe that there would be little additional informational benefit gained from including the SPMA within the designation because this area is included in this proposed rule. Additionally, the purpose of the SPMA is to provide protection and enhancement of habitat for the California red-legged frog is already well established State and local governments, and Federal agencies. Consequently, we believe that informational benefits are already provided even though this area is not designated as critical habitat.

(2) Benefits of Exclusion

As mentioned above, the SPMP provides more benefits for the conservation of the California red-legged frog than critical habitat would. Not only does the SPMP provide for protection of the PCEs, it also addresses special management needs such as non-native predator control, pollution monitoring and additional habitat creation. All activities which occur within the SPMA are required to undergo consultation under section 7 of the Act since the SPMA is owned by the BLM. For instance, in March of 2004 a biological opinion (Service number 1-1-03-F-0289) with a finding of “not likely to jeopardize the continued existence of the California red-legged frog” was issued by the Service as a result of consultation on the construction of a new breeding pond for the California red-legged frog within the SPMA. Exclusion from critical habitat provides a measure of confidence in the interagency management plan and indirectly in the signers of the plan. Critical habitat designation would remain in the watershed area around SPMA, thereby providing a measure of protection for the PCEs upstream of SPMA.

(3) Benefits of Exclusion Outweigh Benefits of Inclusion

In summary, we believe that the benefits of excluding the entire 54 ac (22 ha) SPMA from the designation of critical habitat for the California red-legged frog outweighs the benefits of including the SPMA in critical habitat. We find that including the SPMA would result in very minimal, if any additional, benefits to the California red-legged frog, as explained above. Proposed critical habitat designation would remain surrounding SPMA thereby providing a measure of protection of the PCEs outside of the area, while the management plan would provide protections of the PCEs and additional benefits of non-native predator control, habitat management and creation and pollution monitoring within the area.

We also find that the exclusion of these lands will not lead to the extinction of the subspecies, nor hinder its recovery because the management emphasis of the SPMA is to protect and enhance habitat for the California red-legged frog.

Maps delineating the essential habitat features for the California red-legged frog, overlaid with the planning area for the Spivey Pond Management Area, are available for public review and comment at the Sacramento Fish and Wildlife Office (see ADDRESSES section). These maps are provided to allow the public the opportunity to adequately comment on these exclusions.

Sierra Nevada National Forest Lands

Below we first provide some general background information on the Sierra Nevada Forest Plan Amendment (SNFPA) and the Herger-Feinstein Quincy Library Group Forest Recovery Act (HFQLG), followed by an analysis pursuant to section 4(b)(2) of the Act of the benefits of including U.S. Forest Service (USFS) lands managed under the SNFPA and the HFQLG within the critical habitat designation, an analysis of the benefits of excluding these areas, and an analysis of why we believe the benefits of exclusion are greater than those of inclusion. We are proposing to exclude those portions of proposed critical habitat units BUT-1, YUB-1, NEV-1 and ELD-1 that are managed by the Plumas, Tahoe and El Dorado National Forests (Forests) from the final designation of critical habitat for the California red-legged frog pursuant to section 4(b)(2) of the Act because those portions are managed under the SNFPA (NEV-1 and ELD-1) and HFQLG (YUB-1 and NEV-1).

Of the five known Sierra foothill California red-legged frog populations, only Hughes Place (BUT-1) and Little Oregon Creek (YUB-1) breeding populations are located on land managed by the USFS (Plumas National Forest). The other three known Sierra foothill population breeding ponds are located on private (CAL-1 and NEV-1) or other federally owned land (ELD-1). However, portions of (i.e., dispersal habitat and/or non-breeding aquatic habitat) two of the three (NEV-1 and ELD-1) proposed critical habitat units are on Sierra Nevada National Forest Lands. The Plumas NF is taking an active role in the conservation and management of the California red-legged frog population at Hughes Place pond through direct land acquisition and research concerning frog movement in the Sierra. We are proposing to exclude a total of 7,644 ac (3,094 ha) from proposed critical habitat units BUT-1, YUB-1, NEV-1 and ELD-1.

Management of the El Dorado and Tahoe National Forests is guided by the SNFPA, and aquatic species management is specifically guided by the Aquatic Management Strategy (AMS) within the SNFPA. The AMS contains nine broad goals, or endpoints, toward which management should move watershed functions and processes, populations, attributes and habitats. Several of these nine goals directly relate to the protection of the PCEs and the conservation of the California red-legged frog include; the maintenance and restoration of habitats that support viable populations of native vertebrate riparian dependent species, prevention of new invasive species introductions and reduction of the impacts of invasive species on native populations; the maintenance and restoration of spatial and temporal watershed connectivity for aquatic riparian species within and between watersheds to provide for unobstructed movement related to migration, reproduction and survival; and maintenance and restoration of stream flow to sustain desired conditions of wetland and meadow habitats and keep sediment regimes close to those in which aquatic species evolved.

Management of the Plums National Forest is guided by the HFQLG Act of 1998. A major component of the HFQLG is the construction of defensible fuel profile zones (DFPZ) which are typically constructed along road corridors to break up fuel continuity across the landscape as to provide a defensible zone for fire suppression activities. Under the selected alternative, the construction and maintenance of DFPZ are not expected to adversely affect the California red-legged frog. Avoidance zones would be implemented during DFPZ maintenance activities. A 300 foot (90 meter) avoidance zone would be implemented along all waterways and ephemeral wetlands and a 500 foot (150 meter) avoidance zone would be implemented along known occupied California red-legged frog sites. Six critical aquatic refuges (CARs) will be placed on the Plumas NF after completion of the HFQLG pilot project. CARs are used to protect known locations of threatened, endangered or sensitive species dependent on aquatic or riparian habitats.

(1) Benefits of Inclusion

We believe that there is minimal benefit from designating critical habitat for the California red-legged frog on USFS lands managed under the SNFPA and HFQLG, as explained in detail above, these lands are already managed for the conservation of the subspecies.

Critical habitat receives protection from destruction or adverse modification through required consultation under section 7 of the Act. The section 7 consultation process is triggered when a Federal agency determines that its proposed Federal action (i.e., an action that it funds, carries out, or authorizes) may affect a listed species or its critical habitat. Thus, the principal benefit of any designated critical habitat is that Federal activities that may affect critical habitat require consultation under section 7 of the Act.

Once consultation under section 7 of the Act is triggered, the process may conclude informally when the Service concurs in writing that the proposed Federal action is not likely to adversely affect the listed species or its critical habitat. However, if the Service determines through informal consultation that adverse impacts are likely to occur, then formal consultation is initiated. Formal consultation concludes with a biological opinion issued by the Service on whether the proposed Federal action is likely to jeopardize the continued existence of a listed species or result in destruction or adverse modification of critical habitat, with separate analyses being made under both the jeopardy and the adverse modification standards. For critical habitat, a biological opinion that concludes in a determination of no destruction or adverse modification may contain discretionary conservation recommendations to minimize adverse effects to primary constituent elements, but it would not contain any mandatory reasonable and prudent measures or terms and conditions. Mandatory reasonable and prudent alternatives to the proposed Federal action would only be issued when the biological opinion results in a jeopardy or adverse modification conclusion.

In Sierra Club v. Fish and Wildlife Service, 245 F.3d 434 (5th Cir. 2001), the Fifth Circuit Court of Appeals stated that the identification of habitat with features essential to the conservation of the species can provide informational benefits to the public, State and local governments, scientific organizations, and Federal agencies. The court also noted that heightened public awareness of the plight of listed species and their habitats may facilitate conservation efforts. However, we believe that there would be little additional informational benefit gained from including the lands managed under the SNFPA and HFQLG within the designation because this area is included in this proposed rule. Consequently, we believe that the informational benefits are already provided even though this area is not designated as critical habitat. Additionally, the status of California red-legged frogs in the Sierra foothills is well known and it is unlikely that the USFS would consider undertaking any projects which would reduce the capability of the habitat to sustain existing populations.

(2) Benefits of Exclusion

As mentioned above, the SNFPA and the AMS provide more benefits for the conservation of the California red-legged frog than critical habitat would. Not only do the SNFPA and AMS provide for protection of the PCEs, they also provide for implementation of actions which could addresses special management needs such as habitat restoration, non-native predator control and land acquisitions. Activities conducted under the HFQLG Act provide for the use of avoidance zones around known occupied California red-legged frog sites and all other aquatic areas. Furthermore, all actions which occur on USFS lands require consultation under section 7 of the Act. In 2003, we issued a biological opinion on the SNFPA Supplemental Environmental Impact Statement and concluded that the proposed alternative action was not likely to jeopardize the continued existence of the California red-legged frog (Service number 1-1-03-F-2638).

(3) Benefits of Exclusion Outweigh Benefits of Inclusion

In summary, we believe that the benefits of excluding USFS lands managed under the SNFPA and HFQLG from the designation of critical habitat for the California red-legged frog outweighs the benefits of including those lands in critical habitat. We find that including the USFS lands that are managed under the SNFPA and HFQLG would result in very minimal, if any additional, benefits to the California red-legged frog, as explained above. Proposed critical habitat designation would remain on private lands adjacent to USFS lands thereby providing a measure of protection of the PCEs outside of the area.

We also find that the exclusion of these lands will not lead to the extinction of the subspecies, nor hinder its recovery because the SNFPA and HFGLQ have provisions for the conservation of the California red-legged frog.

Maps delineating the essential habitat features for the California red-legged frog, overlaid with the management areas for the SNFPA and HFQLG, are available for public review and comment at the Sacramento Fish and Wildlife Office (see ADDRESSES section). These maps are provided to allow the public the opportunity to adequately comment on these exclusions.

Economic Analysis

Section 4(b)(2) of the Act requires us to designate critical habitat on the basis of the best scientific data available, and to consider the economic, national security, and other relevant impacts of designating a particular area as critical habitat. We may exclude areas from critical habitat upon a determination that the benefits of such exclusions outweigh the benefits of specifying such areas as critical habitat. We cannot exclude such areas from critical habitat when such exclusion will result in the extinction of the species.

An analysis of the economic impacts of the revised proposal of critical habitat for California red-legged frog is available for review and comment. The comment period for the draft economic analysis runs concurrently with the comment period for this proposed rule. Copies of the draft economic analysis are available by contacting the Sacramento Fish and Wildlife Office directly (see ADDRESSES section) or available for downloading from the Internet at http://www.fws.gov/pacific/sacramento/.

The draft economic analysis addresses the impacts of California red-legged frog conservation efforts on activities occurring on lands proposed for designation as well as those proposed for exclusion. The analysis measures lost economic efficiency associated with residential and commercial development; Federal land management; Federal and State agencies; recreation; agriculture; road maintenance and transportation; and administrative consultation costs.

The draft economic analysis considers the potential economic effects of actions relating to the conservation of the California red-legged frog, including costs associated with sections 4, 7, and 10 of the Act, and including those attributable to designating critical habitat. It further considers the economic effects of protective measures taken as a result of other Federal, State, and local laws that aid habitat conservation for the California red-legged frog in habitat areas with features essential to the conservation of this subspecies. The analysis considers both economic efficiency and distributional effects. In the case of habitat conservation, efficiency effects generally reflect the “opportunity costs” associated with the commitment of resources to comply with habitat exclude other areas based on the information in the economic analysis and public comments.

Costs related to conservation activities for the proposed California red-legged frog critical habitat pursuant to sections 4, 7, and 10 of the Act are estimated to be approximately $326 to $498 million from 2005 to 2025. Overall, the residential and commercial industry is calculated to experience the highest of estimated costs. Of the 23 counties that are part of this current proposal, more than 80 percent of the costs occur in the five counties of San Luis Obispo ($166 million), Alameda ($91 million). Contra Costa ($88 million), Santa Barbara ($41 million), and San Mateo ($19 million). Annualized impacts of costs attributable to the designation of critical habitat are projected to be between approximately $16.3 and $25.1 million.

Special Rule

Section 4(d) of the Act provides authority for us to promulgate special rules for threatened species that would relax specific prohibitions against taking pursuant to section 9 of the Act and defined in section 3 of the Act. As a means to promote conservation efforts of the California red-legged frog, we are proposing a special rule under section 4(d) of the Act. In the case of a special rule, the general regulations (50 CFR 17.31 and 17.71) applying most prohibitions under section 9 of the Act to threatened species do not apply to that species, and the special rule contains the prohibitions necessary and appropriate to conserve that species. Under the proposed special rule, take of the threatened California red-legged frog caused by existing routine ranching activities on private or Tribal lands that do not have a Federal nexus would be exempt from section 9 of the Act. We believe that this special rule will encourage landowners and ranchers operating on non-Federal land to continue their livestock-related practices that are not only important for livestock operations, but also provide habitat for the California red-legged frog. Livestock use on Federal lands will be addressed through the section 7 process. The proposed special rule would follow the general outline of the special rule finalized for the California tiger salamander (Ambystoma californiense) (69 FR 47211; August 4, 2004).

We are proposing this special rule under the authority of section 4(d) of the Act containing the actions and prohibitions necessary to provide for the conservation of the California red-legged frog. The prohibitions outlined in the listing of the California red-legged frog do not include the take of California red-legged frog during existing routine ranching practices. If this proposed special rule is finalized, the general regulations at 50 CFR 17.31 would not apply to the California red-legged frog where it is designated as threatened. Our rationale for a proposed special rule follows.

The rule to list the California red-legged frog as a threatened subspecies identifies the take of the subspecies in upland and aquatic habitats as one of many possible reasons for the decline of the animal. The listing describes the potential loss of California red-legged frogs to activities routinely occurring on private and Tribal lands. The specific focus of this proposed special rule is routine activities occurring on private and Tribal lands currently in or that may become subject to ranching practices, such as livestock grazing, stock pond management, and noxious weed control.

In areas where seasonal or permanent water bodies (e.g., streams or ponds) no longer exist due to landscape changes or alteration of local hydrologic conditions, the California red-legged frog utilizes manmade water supplies such as stock ponds for breeding (Hayes and Jennings 1989; Bobzein et al. 2000; Fellers and Guscio 2004). The creation and maintenance of these ponds provides not only an alternate breeding site for California red-legged frog, in the absence of naturally occurring sites, but also provides additional breeding habitat as well. Routine management practices on manmade water supplies such as stock ponds must be performed in order to protect water supplies and protect the integrity of the water storage system. Management typically includes periodic dredging, dam and levee repair, the introduction of fish species to control aquatic vegetation and pests, and the chemical control of aquatic vegetation.

Justification

This special rule will apply to land primarily used for livestock grazing. Two beneficial effects to California red-legged frogs that would occur as a result of exempting livestock grazing in this special rule: The maintenance of open rangelands and oak woodlands that are utilized by the California red-legged frog, and the construction and maintenance of stockponds that are used for breeding by the subspecies. It has not been demonstrated in the scientific literature, nor do we expect, that continued moderate intensity livestock grazing will destroy wetland or upland habitats to such an extent that California red-legged frogs cannot use them as habitat.

In addition to streams and seasonal ponds, the California red-legged frog also uses small artificial water bodies (stockponds) for breeding (Hayes and Jennings 1989; Bobzein et al. 2000; Fellers and Guscio 2004). Stockponds for cattle (Bos taurus), sheep (Ovies aries), horses (Equus caballus) and other livestock have been, and continue to be, built to supply local water needs, especially in rural grazing lands in coastal and Sierra foothill areas where inexpensive public water or ground water is not available (Bennett 1970). Stockponds, constructed as water sources for livestock, are important habitats for the California red-legged frog throughout its range. For example, at the Point Reyes National Seashore in Marin County, an area where there are more than 120 breeding sites with an estimated total adult population of several thousand California red-legged frogs, the majority of the breeding sites are artificial stockponds constructed on lands that have been grazed by cattle for over 150 years (Fellers and Guscio 2004). In the Eastbay Regional Park District lands in Contra Costa and Alameda Counties, 43 of 179 ponds surveyed which were exposed to grazing, and were characterized with and without emergent vegetation, supported successful breeding frog populations, often exhibiting high rates of annual breeding (Bobzien et al. 2000). In some areas, stockponds have largely replaced natural seasonal ponds and provide important habitat for the subspecies. For instance, of the 12 California red-legged frog locality records in the Livermore area where the wetland type was identified, 50 percent (6 sites) are located in stockponds (CNDDB 2004).

However, stockponds often are poorer habitat for California red-legged frogs than natural ponds. Hydroperiods (amount of time the stockpond contains water) may be so short that larvae and tadpoles cannot metamorphose (e.g., when early drawdown of irrigation ponds occurs). Artificial ponds also require ongoing maintenance and are often temporary structures. Natural soil erosion, sometimes increased by pond breaching, stock animal impacts, and off-road vehicle (ORV) use, can cause ponds to silt in after a few decades (Hamilton and Jepson 1940), thereby reducing their quality as frog habitat. Often ponds are not maintained because it may be more economical to construct a new pond when the old pond fills with silt and is no longer functional (Hamilton and Jepson 1940). Stockponds are often geographically isolated from other seasonal wetlands and colonization of newly created ponds beyond the normal dispersal range may be slow or nonexistent (Pechmann et al. 1989).

Although stockponds can provide refugia for frog populations and are important for the subspecies, these habitats may be dynamic. Stockponds often dry out during drought, and flooding may destroy downstream impoundments or cause siltation, either of which may result in loss of aquatic habitat and extirpation of frog populations. Periodic maintenance to remove silt from stockponds may also cause a temporary loss of habitat. Some eggs and tadpoles of the California red-legged frog are probably trampled by livestock on the perimeters of the stockponds. Populations of nonnative introduced predaceous fish and bullfrogs, although less prevalent than in natural habitats, sometimes become established in stockponds and have been implicated in the decline of other amphibian species (Fisher and Shaffer 1996; Hayes and Jennings 1986; Moyle 1973).

Stockponds may also facilitate spread of nonnative organisms by providing aquatic habitats in arid landscapes that otherwise may have served as barriers to the spread of such organisms. Despite these adverse impacts, the long-term effect of ranching on the subspecies is either neutral or beneficial, because the California red-legged frog would have likely been extirpated from many areas if stockponds had not been built and maintained for livestock production.

In the final rule listing the California red-legged frog as threatened we stated that livestock grazing is one form of habitat alteration that is contributing to the decline of California red-legged frog (61 FR 25813). However, no site specific studies have been done that document the decline and disappearance of California red-legged frogs once grazing is introduced into an area. Most evidence on the effects of grazing on the California red-legged frog is circumstantial. However, extensive research has been done on the effects of livestock grazing on the aquatic environment. As stated in the proposed rule to list the subspecies (59 FR 4888), the petitioners found that grazing occurred at all historic sites known to support California red-legged frogs in the Central Valley hydrologic basin. Combining this information with information about the habitat preferences of the California red-legged frog leads to the logical conclusion that grazing, where it has dramatically altered California red-legged frog habitat, has played a role in the decline of the subspecies. The majority of our concerns regarding cattle grazing pertain to the resulting habitat alteration of riparian stream corridors and to a lesser degree sedimentation and alteration to natural pond habitats. In the final rule to list the subspecies several commenters stated that housing and urban development and introduced predators were the major factors which lead to the decline of the California red-legged frog. In our response to comments in the final rule we stated that properly managed livestock grazing operations can be compatible with the preservation of California red-legged frog populations. California red-legged frogs and cattle grazing are able to co-occur in areas where grazing pressure is managed in such a way as to avoid detrimental habitat alteration. We acknowledge that preservation and proper management of open space, especially in riparian areas, is a fundamental requirement in the survival and recovery of the California red-legged frog.

California red-legged frogs may be subject to take during routine control of California ground squirrel (Spermophilus beecheyi) populations on private lands. Discing and/or blading burrow complexes to destroy burrows and fill burrow openings may result in take of California red-legged frogs. Although the extent of this practice has not been documented, conversations with landowners lead us to believe this activity generally does not occur over widespread areas on any given parcel of land. Generally, this type of activity is limited to areas in or near ranch buildings, and in areas where livestock tend to be concentrated (e.g., corrals and watering areas). Poisonous grains such as Chlorophacinone® and toxic and suffocating gases (e.g., Phostoxin®) are regulated by the EPA, California Department of Pesticide Regulation (CDPR), and other county and local ordinances. Toxic and suffocating gases also may result in high levels of frog mortality. In areas where federally listed species are known to occur, regulations on the use of toxicants to control California ground squirrels are more restrictive, and these restrictions should provide an “umbrella” protection for California red-legged frogs from take associated with routine ground squirrel control. In counties where more stringent guidelines are not in place to protect listed species, we will continue to work with agencies to develop use guidelines for these products and activities.

California's annual precipitation ranges from less than 8 in (20 cm) in the San Joaquin Valley to more than 50 in (127 cm) along the northern coast range, western slope of the Sierra Nevada mountains, and parts of the Cascade Range (National Climatic Data Center 2003). Summers are dry with little or no rainfall, and abnormally dry winters can be disastrous on both summer water supplies and the quality of feeding ranges for domestic livestock. In some areas of California, spring/summer range usually does not support more than one cow-calf unit per 10 to 20 ac (4 to 8 ha) of range, with each cow being able to consume up to 15 gallons (57 liters) of water per day per 1,000 lbs (454 kg) of body weight (Ohlenbusch et al. 1995). Considering the limited availability of naturally occurring water across California's rangeland, routine management of stock ponds is critical to the economic success of ranching operations. During heavy winter rain events, stock pond dams and levees may be subject to overflows that cause severe erosion (head-cutting) of the dam faces and containment levees. Without immediate repair, critical summer water supplies will be lost. Pond vegetation is typically controlled by grazing animals using the water supply. However, at times the vegetation must be controlled through mechanical means or herbicide applications to prevent excess loss of water supply through evapotranspiration, and to prevent aquatic vegetation from completely dominating the pond. In some ponds, fish are introduced to help control vegetation and insects. This practice, although potentially harmful to local frog populations, would not be as detrimental to the entire frog population if the land were to be converted to housing or other non-compatible land uses.

We propose to include in the final rule an exemption for incidental take of California red-legged frogs during routine ranching activities by non-Federal entities on private and Tribal lands for the following activities: (1) Livestock grazing according to normally acceptable and established levels of intensity in terms of the number of head of livestock per acre of rangeland; (2) control of ground-burrowing rodents using poisonous grain according to the labeled directions and local, State and Federal regulations and guidelines. The use of toxic or suffocating gases is not exempt from the prohibitions due to its non-target specific mode of action; (3) control and management of burrow complexes using discing and grading to destroy burrows and fill openings is exempt. This exemption does not apply to large-scale discing or grading of rangeland (more than 10 ac (4 ha)) within any one-quarter section for burrow control and management; (4) routine management and maintenance of stock ponds and berms to maintain livestock water supplies at levels present at the time of the finalization of this special rule; but not including the introduction of species into the stock pond that may prey on California red-legged frog adult, tadpoles, or eggs; or the introduction of chemicals into the stock pond during the general breeding season of the California red-legged frog that would result in the take of California red-legged frog adults, tadpoles, or eggs, or result in decreased reproductive success; and (5) control and management of noxious weeds.

Provisions of the Proposed Special Rule

Other than as described above, we propose to exempt existing routine ranching practices from the prohibitions on take (see 50 CFR 17.31) for the California red-legged frog. This proposal will not be finalized until we have reviewed comments from the public and peer reviewers. Exempted activities include existing routine ranching practices as outlined above by non-Federal entities on existing rangeland (as defined by U.S. Department of Agriculture, National Agricultural Statistics Service 2002 Census of Agriculture—Appendix (1)).

Take Prohibitions

Except as exempted by this proposal, the prohibitions under section 9 of the Act that apply to threatened species would continue to apply to all California red-legged frogs if our proposed special rule is finalized, to the same extent that they apply to other threatened species under our general regulations at 50 CFR 17.31.

Effects of the Special Rule on Future Section 7 Consultations

This special rule does not change the obligation of Federal agencies to consult with us under section 7 of the Act concerning actions they authorize, fund, or carry out that may affect listed species, including the California red-legged frog.

Section 10(a)(1)(B) authorizes us to issue permits for the take of listed species incidental to otherwise lawful activities, such as agriculture, surface mining, and urban development. Incidental take permits must be supported by an HCP that identifies conservation measures that the permittee agrees to implement to conserve the species, usually on the permittee's lands. Such conservation measures may, for example, minimize the reduction in the number of California ground squirrels whose burrows are used by resting California red-legged frogs. These and other techniques to avoid take of California red-legged frogs or protect the subspecies can be examined in the development of an HCP. A key element in our review of each of these conservation strategies is a determination of the plan's effect upon the long-term conservation of the subspecies. We would approve an HCP, and issue a section 10(a)(1)(B) permit, as appropriate, if the plan would minimize and mitigate the impacts of the take to the maximum extent practicable and would not appreciably reduce the likelihood of the survival and recovery of that species in the wild.

We also are exploring other opportunities to permit conservation activities for the California red-legged frog. In particular, we encourage the public to comment on the desirability of promulgating a special rule under section 4(d) of the Act that would exempt from the section 9 take prohibition activities associated with conservation plans for the California red-legged frog. Eligible conservation plans would need to promote recovery and be approved by the Service. Activities potentially addressed under such a plan, and which would be exempt from the section 9 take provisions, could include, but are not limited to, construction of new breeding and upland habitats, fencing, and removal of bullfrogs or other exotic animals.

Peer Review

In accordance with our joint policy published in the Federal Register on July 1, 1994 (59 FR 34270), we will seek the expert opinions of at least three appropriate and independent specialists regarding this proposed rule. The purpose of this review is to ensure that our critical habitat designation is based on scientifically sound data, assumptions, and analyses. Peer reviewers will also be asked to review and comment on the special rule. We will send these peer reviewers a copy of this proposed rule immediately following publication in the Federal Register. We will invite the selected peer reviewers to comment, during the public comment period, on the specific assumptions and conclusions regarding the proposed designation of critical habitat and special rule.

We will consider all comments and information received during the public comment periods on this proposed rule during the preparation of a final rulemaking. Accordingly, the decision may differ from this proposal.

Public Hearings

The Act provides for one or more public hearings on this proposal, if requested. Requests for public hearings must be made in writing at least 15 days prior to the close of the public comment period. We will schedule public hearings on this proposal, if any are requested, and announce the dates, times, and places of those hearings in the Federal Register and local newspapers at least 15 days prior to the first hearing.

Clarity of the Rule

Executive Order 12866 requires each agency to write regulations and notices that are easy to understand. We invite your comments on how to make this proposed rule easier to understand, including answers to questions such as the following: (1) Are the requirements in the proposed rule clearly stated? (2) Does the proposed rule contain technical jargon that interferes with the clarity? (3) Does the format of the proposed rule (groupings and order of the sections, use of headings, paragraphing, and so forth) aid or reduce its clarity? (4) Is the description of the notice in the SUPPLEMENTARY INFORMATION section of the preamble helpful in understanding the proposed rule? What else could we do to make this proposed rule easier to understand?

Send a copy of any comments on how we could make this proposed rule easier to understand to: Office of Regulatory Affairs, Department of the Interior, Room 7229, 1849 C Street, NW., Washington, DC 20240. You may e-mail your comments to this address: Exsec@ios.doi.gov.

Required Determinations

Regulatory Planning and Review

In accordance with Executive Order 12866, this proposed designation of critical habitat is a significant rule in that it may raise novel legal and policy issues, but it is not anticipated to have an annual effect on the economy of $100 million or more or affect the economy in a material way. Due to the tight timeline for publication in the Federal Register, the Office of Management and Budget (OMB) has not formally reviewed this rule. We have prepared a draft economic analysis of this proposed action, which is currently available for public comment, to determine the economic consequences of designating the specific areas as critical habitat. The draft economic analysis estimates that potential economic impact from this revised proposed designation of critical habitat for the red-legged frog to range from $326 to $498 million over a 20-year time period. As such, this proposed regulation will not have an annual effect on the economy of $100 million or more. This economic analysis also will be used to determine compliance with Regulatory Flexibility Act, Small Business Regulatory Enforcement Fairness Act, and Executive Order 12630.

Further, Executive Order 12866 directs Federal Agencies promulgating regulations to evaluate regulatory alternatives (Office of Management and Budget, Circular A-4, September 17, 2003). Pursuant to Circular A-4, once it has been determined that the Federal regulatory action is appropriate, then the agency will need to consider alternative regulatory approaches. Since the determination of critical habitat is a statutory requirement pursuant to the Endangered Species Act of 1973, as amended (Act) (16 U.S.C. 1531 et seq.), we must then evaluate alternative regulatory approaches, where feasible, when promulgating a designation of critical habitat.

In developing our designations of critical habitat, we consider economic impacts, impacts to national security, and other relevant impacts pursuant to section 4(b)(2) of the Act. Based on the discretion allowable under this provision, we may exclude any particular area from the designation of critical habitat providing that the benefits of such exclusion outweighs the benefits of specifying the area as critical habitat and that such exclusion would not result in the extinction of the species. As such, we believe that the evaluation of the inclusion or exclusion of particular areas, or combination thereof, in a designation constitutes our regulatory alternative analysis.

Within these areas, the types of Federal actions or authorized activities that we have identified as potential concerns are listed above in the section on Section 7 Consultation. The draft economic analysis is available concurrently with this proposed rule and has been announced in the Federal Register and in local newspapers so that it is available for public review and comments. The draft economic analysis can be obtained from the Internet Web site at http://www.fws.gov/pacific/sacramento/ or by contacting the Sacramento Fish and Wildlife Office directly (see ADDRESSES section).

Regulatory Flexibility Act (5 U.S.C. 601 et seq.)

Our assessment of economic effect will be completed prior to final rulemaking based upon review of the draft economic analysis prepared pursuant to section 4(b)(2) of the Act and Executive Order 12866. This analysis is for the purposes of compliance with the Regulatory Flexibility Act and does not reflect our position on the type of economic analysis required by New Mexico Cattle Growers Assn. v. U.S. Fish & Wildlife Service 248 F.3d 1277 (10th Cir. 2001).

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the Regulatory Flexibility Act (RFA) to require Federal agencies to provide a statement of the factual basis for certifying that the rule will not have a significant economic impact on a substantial number of small entities.

According to the Small Business Administration (SBA), small entities include small organizations, such as independent nonprofit organizations, and small governmental jurisdictions, including school boards and city and town governments that serve fewer than 50,000 residents, as well as small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we considered the types of activities that might trigger regulatory impacts under this designation as well as types of project modifications that may result. In general, the term significant economic impact is meant to apply to a typical small business firm's business operations.

To determine if this proposed designation of critical habitat for the California red-legged frog would affect a substantial number of small entities, we considered the number of small entities affected within particular types of economic activities (e.g., residential and commercial development). We considered each industry or category individually to determine if certification is appropriate. In estimating the numbers of small entities potentially affected, we also considered whether their activities have any Federal involvement; some kinds of activities are unlikely to have any Federal involvement and so will not be affected by the designation of critical habitat. Designation of critical habitat only affects activities conducted, funded, permitted, or authorized by Federal agencies; non-Federal activities are not affected by the designation. Typically, when proposed critical habitat designations are made final, Federal agencies must consult with us if their activities may affect that designated critical habitat. Consultations to avoid the destruction or adverse modification of critical habitat would be incorporated into the existing consultation process.

We determined that the critical habitat designation is expected to have the largest impacts on the market for developable land. Critical habitat for California red-legged frog occurs in a number of rapidly growing communities. Regulatory requirements to avoid onsite impacts and mitigate offsite impacts affect the welfare of both producers and consumers. Two scenarios are considered. In the first scenario, avoidance requirements are assumed to reduce the stock of new housing. Given the importance of regulation of housing development even in the absence of critical habitat, this scenario is taken as the base case. In this scenario, critical habitat is expected to impose losses of over $498 million over the 20-year study period. An alternative scenario is constructed in which all avoidance requirements are accommodated through densification. In this case, welfare losses from critical habitat are $326 million over the 20-year study period.

These economic impacts of critical habitat designation vary widely among the 23 affected counties, and even within counties. The counties most impacted by the critical habitat designation include; San Luis Obispo ($166 million), Alameda ($91 million), Contra Costa ($88 million), Santa Barbara ($41 million), and San Mateo ($19 million). Further, economic impacts are unevenly distributed within counties. The analysis was conducted at the census tract level, resulting in a high degree of spatial precision. Please refer to our draft economic analysis of this designation for a more detailed discussion of potential economic impacts.

Executive Order 13211

On May 18, 2001, the President issued an Executive Order (E.O. 13211) on regulations that significantly affect energy supply, distribution, and use. Executive Order 13211 requires agencies to prepare Statements of Energy Effects when undertaking certain actions. This proposed rule to designate critical habitat for the California red-legged frog is a significant rule in that it may raise novel legal and policy issues, but it is not anticipated to have an annual effect on the economy of $100 million or more or affect the economy in a material way. It is not expected to significantly affect energy supplies, distribution, or use. Therefore, this action is not a significant energy action and no Statement of Energy Effects is required. However, we will further evaluate the potential effects on energy supplies, distribution, or use as we conduct our economic analysis of the proposed designation, and as appropriate, will review and revise this assessment as warranted.

Unfunded Mandates Reform Act (2 U.S.C. 1501 et seq.)

In accordance with the Unfunded Mandates Reform Act (2 U.S.C. 1501), the Service makes the following findings:

(a) This rule will not produce a Federal mandate. In general, a Federal mandate is a provision in legislation, statute or regulation that would impose an enforceable duty upon State, local, Tribal governments, or the private sector and includes both “Federal intergovernmental mandates” and “Federal private sector mandates.” These terms are defined in 2 U.S.C. 658(5)-(7). “Federal intergovernmental mandate” includes a regulation that “would impose an enforceable duty upon State, local, or Tribal governments” with two exceptions. It excludes “a condition of Federal assistance.” It also excludes “a duty arising from participation in a voluntary Federal program,” unless the regulation “relates to a then-existing Federal program under which $500,000,000 or more is provided annually to State, local, and Tribal governments under entitlement authority,” if the provision would “increase the stringency of conditions of assistance” or “place caps upon, or otherwise decrease, the Federal Government's responsibility to provide funding,” and the State, local, or Tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above on to State governments.

(b) Due to current public knowledge of the subspecies' protection through the listing of the species, the final recovery plan, and the previous designation of critical habitat, we do not anticipate that this rule will significantly or uniquely affect small governments. As such, Small Government Agency Plan is not required.

Federalism

In accordance with Executive Order 13132, the rule does not have significant Federalism effects. A Federalism assessment is not required. In keeping with DOI and Department of Commerce policy, we requested information from, and coordinated development of, this proposed critical habitat designation with appropriate State resource agencies in California. The designation may have some benefit to these governments in that the areas with features that are essential to the conservation of the subspecies are more clearly defined, and the PCEs of the habitat necessary to the conservation of the subspecies are specifically identified. While making this definition and identification does not alter where and what federally sponsored activities may occur, it may assist these local governments in long-range planning (rather than waiting for case-by-case section 7 consultations to occur).

Civil Justice Reform

In accordance with Executive Order 12988, the Office of the Solicitor has determined that the rule does not unduly burden the judicial system and meets the requirements of sections 3(a) and 3(b)(2) of the Order. We have proposed designating critical habitat in accordance with the provisions of the Endangered Species Act. This proposed rule uses standard property descriptions and identifies the PCEs within the designated areas to assist the public in understanding the habitat needs of the California red-legged frog.

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor, and a person is not required to respond to, a collection of information unless it displays a currently valid OMB control number.

National Environmental Policy Act

It is our position that, outside the Tenth Circuit, we do not need to prepare environmental analyses as defined by the NEPA in connection with designating critical habitat under the Endangered Species Act of 1973, as amended. We published a notice outlining our reasons for this determination in the Federal Register on October 25, 1983 (48 FR 49244). This assertion was upheld in the courts of the Ninth Circuit (Douglas County v. Babbitt, 48 F.3d 1495 (9th Cir. Ore. 1995), cert. denied 116 S. Ct. 698 (1996).

References Cited

A complete list of all references cited in this rulemaking is available upon request from the Field Supervisor, Sacramento Fish and Wildlife Office (see ADDRESSES section).

Author(s)

The primary authors of this notice are staff from the Sacramento, Ventura, and Carlsbad Fish and Wildlife Offices (see ADDRESSES section).

List of Subjects in 50 CFR Part 17

Endangered and threatened species, Exports, Imports, Reporting and recordkeeping requirements, Transportation.

Proposed Regulation Promulgation

For the reasons outlined in the preamble, we propose to amend part 17, subchapter B of chapter I, title 50 of the Code of Federal Regulations, as follows:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.11(h) revise the entry for “Frog, California red-legged,” under “AMPHIBIANS,” to read as follows:

17.11 Endangered and threatened wildlife.

* * * * *

(h) * * *

Species: Common name | Species: Scientific name | Historic range | Vertebrate population where endangered or threatened | Status | When listed | Critical habitat | Special rules
* * * * * * *
Amphibians
* * * * * * *
Frog, California red-legged | Rana aurora draytonii | U.S.A. (CA), Mexico | Entire | T | 583 | 17.95(d) | 17.43
* * * * * * *

3. Amend § 17.43 by adding a new paragraph (d) to read as follows:

§ 17.43 Special rules-amphibians.

* * * * *

(d) California red-legged frog (Rana aurora draytonii).

(1) Which populations of the California red-legged frog are covered by this special rule? This rule covers the California red-legged frog (Rana aurora draytonii) rangewide.

(2) What activities are prohibited? Except as noted in paragraph (d)(3) of this section, all prohibitions of § 17.31 will apply to the California red-legged frog.

(3) What activities are allowed on private or Tribal land? Incidental take of the California red-legged frog will not be a violation of section 9 of the Act, if the incidental take results from routine ranching activities located on private or Tribal lands. Routine ranching activities include, but are not limited to, the following:

(i) Livestock grazing according to normally acceptable and established levels of intensity in terms of the number of head of livestock per acre of rangeland;

(ii) Control of ground-burrowing rodents using poisonous grain according to the labeled directions and local, State, and Federal regulations and guidelines (The use of toxic or suffocating gases is not exempt from the prohibitions due to their nontarget-specific mode of action.);

(iii) Control and management of burrow complexes using discing and grading to destroy burrows and fill openings;

(iv) Routine management and maintenance of stock ponds and berms to maintain livestock water supplies (This exemption does not include the intentional introduction of species into a stock pond that may prey on California red-legged frog adults, larvae, or eggs.); and

(v) Control and management of noxious weeds.

4. Amend § 17.95(d) by revising critical habitat for the California red-legged frog (Rana aurora draytonii) to read as follows:

§ 17.95 Critical habitat—fish and wildlife.

* * * * *

(d) Amphibians.

* * * * *

California red-legged frog (Rana aurora draytonii)

(1) Critical habitat units are depicted for Alameda, Butte, Calaveras, Contra Costa, El Dorado, Kern, Los Angeles, Marin, Merced, Monterey, Napa, Nevada, Riverside, San Benito, San Luis Obispo, San Mateo, Santa Barbara, Santa Clara, Santa Cruz, Solano, Stanislaus, Ventura and Yuba Counties, California, on the maps below.

(2) Within these areas, the primary constituent elements for the California red-legged frog consist of four components:

(i) Aquatic breeding habitat. Standing bodies of fresh water (with salinities less than 7.0 ppt), including natural and manmade (e.g., stock) ponds, slow-moving streams or pools within streams, and other ephemeral or permanent water bodies that typically become inundated during winter rains and hold water for a minimum of 15 weeks in all but the driest of years. This would be the time necessary for the subspecies to complete the aquatic portion of its life cycle.

(ii) Aquatic non-breeding habitat. Fresh water habitats as described above which may or may not hold water long enough for the subspecies to hatch and complete its aquatic lifecycle but do provide for shelter, foraging, predator avoidance, and aquatic dispersal habitat for juvenile and adult California red-legged frogs. Other wetland habitat that would be considered to meet these elements would include, but are not limited to, plunge pools within intermittent creeks, seeps, quiet water refugia during high water flows, and springs of sufficient moisture to withstand the summer dry period.

(iii) Upland Habitat. Upland areas within 200 ft (60m) of the surrounding aquatic and wetland habitat comprised of various vegetational series such as grasslands, woodlands, and/or wetland/riparian plant species. Upland habitat includes natural or manmade structures such as the spaces under boulders or rocks and organic debris such as downed trees or logs; as well as agricultural features and light construction debris, such as drains, watering troughs, abandoned sheds, or under stacks of hay, brush piles, or other vegetation. California red-legged frogs also use small mammal burrows and moist leaf litter as cover (Jennings and Hayes 1994; Fellers and Kleeman 2005). This upland habitat provides the California red-legged frog shelter and shade, moisture, cooler temperatures, prey base, foraging opportunities, and predator avoidance.

(iv) Dispersal Habitat. Accessible upland or wetland dispersal habitat within designated units and between occupied locations within 0.7 mi (1.2 km) of each other that allow for movement between such sites. Dispersal habitat includes various natural habitats and altered habitats such as agricultural fields, which also do not contain barriers to dispersal, such as heavily traveled roads (Vos and Chardon 1998) that possess no bridges or culverts. Dispersal habitat does not include moderate to high density urban or industrial developments with large expanses of asphalt or concrete and large reservoirs over 50 ac (20 ha) in size, which do not contain those features identified in PCE 1, 2, or 3.

3. Accessible dispersal habitat provides opportunities for the California red-legged frog to move freely across the landscape in search of adjacent breeding and non-breeding habitats. Accessible dispersal habitat is considered essential and provides for: opportunities for movement and establishment of home ranges by juvenile recruits, maintaining gene flow by the movement of both juveniles and adults between subpopulations, and recolonization of or recruitment into breeding habitat after local extirpations.

(3) Critical habitat does not include man-made structures existing on the effective date of this rule and not containing one or more of the primary constituent elements, such as buildings, aqueducts, airports, and roads, and the land on which such structures are located.

(4) Index map of proposed critical habitat units for California red-legged frog, follows:

BILLING CODE 4310-55-P

(5) Index map of proposed critical habitat units in southern California for California red-legged frog, follows:

BILLING CODE 4310-55-C

(6) Unit BUT-1, Butte County, California.

(i) From USGS 1:24,000 scale quadrangle Pulga, Berry Creek, Brush Creek. Land bounded by the following UTM Zone 10, NAD27 coordinates (E,N): 635284, 4400926; 635318, 4400907; 635359, 4400907; 635415, 4400907; 635453, 4400907; 635502, 4400892; 635539, 4400870; 635588, 4400900; 635603, 4400930; 635666, 4400930; 635726, 4400934; 635749, 4400956; 635749, 4400994; 635767, 4401009; 635820, 4401042; 635868, 4401042; 635906, 4401042; 635940, 4401031; 635992, 4400997; 636033, 4401012; 636074, 4401012; 636100, 4401009; 636164, 4400994; 636228, 4401012; 636299, 4401020; 636377, 4401020; 636414, 4401012; 636415, 4400967; 636824, 4400972; 636836, 4400961; 636840, 4400584; 636819, 4400561; 636453, 4400557; 636453, 4400557; 636442, 4400546; 636442, 4400546; 636032, 4400541; 636024, 4400532; 636010, 4400518; 636011, 4400485; 636009, 4400483; 636000, 4400474; 636004, 4400185; 635993, 4400174; 635993, 4400141; 635993, 4400141; 636403, 4400145; 636414, 4400157; 636790, 4400161; 636801, 4400172; 637156, 4400177; 637156, 4400177; 637167, 4400188; 637477, 4400191; 637488, 4400203; 637654, 4400205; 637654, 4400205; 637649, 4400582; 637649, 4400582; 637660, 4400593; 637658, 4400775; 637658, 4400775; 637782, 4400748; 637858, 4400708; 637961, 4400640; 638038, 4400631; 638104, 4400619; 638164, 4400598; 638230, 4400543; 638407, 4400332; 638444, 4400303; 638493, 4400300; 638587, 4400321; 638653, 4400327; 638747, 4400330; 638895, 4400346; 638951, 4400356; 639019, 4400374; 639062, 4400378; 639128, 4400351; 639174, 4400326; 639318, 4400212; 639370, 4400161; 639414, 4400098; 639495, 4400047; 639546, 4400042; 639580, 4400034; 639616, 4400002; 639645, 4399936; 639664, 4399875; 639671, 4399819; 639667, 4399772; 639648, 4399718; 639609, 4399578; 639545, 4399434; 639492, 4399337; 639492, 4399266; 639498, 4399218; 639477, 4399157; 639397, 4398995; 639398, 4398947; 639424, 4398891; 639441, 4398816; 639458, 4398689; 639477, 4398627; 639519, 4398557; 639536, 4398529; 639551, 4398505; 639628, 4398345; 639703, 4398302; 639997, 4398218; 640063, 4398195; 640086, 4398179; 640095, 4398159; 640120, 4398056; 640154, 4397979; 640189, 4397932; 640201, 4397869; 640209, 4397832; 640211, 4397826; 640243, 4397727; 640288, 4397668; 640310, 4397601; 640306, 4397510; 640290, 4397428; 640281, 4397365; 640293, 4397311; 640359, 4397255; 640423, 4397208; 640473, 4397178; 640545, 4397124; 640596, 4397057; 640533, 4396958; 640006, 4396948; 640006, 4396948; 639179, 4396957; 639179, 4396957; 639206, 4395692; 639212, 4395689; 639231, 4395681; 639231, 4395681; 639232, 4395580; 639232, 4395579; 639219, 4395546; 639219, 4395546; 639219, 4395546; 639219, 4395524; 639234, 4395513; 639234, 4395513; 639236, 4395406; 639221, 4395403; 638863, 4395399; 638678, 4395397; 638667, 4395408; 637864, 4395379; 637968, 4395351; 637962, 4395169; 637932, 4395185; 637764, 4395285; 637655, 4395303; 637670, 4395303; 637710, 4395306; 637686, 4395325; 637655, 4395331; 637616, 4395347; 637477, 4395363; 637424, 4395379; 637391, 4395396; 637232, 4395428; 637184, 4395429; 637143, 4395417; 637102, 4395392; 637070, 4395364; 636987, 4395305; 636893, 4395251; 636845, 4395236; 636813, 4395252; 636796, 4395273; 636787, 4395300; 636780, 4395348; 636787, 4395375; 636798, 4395395; 636868, 4395469; 636926, 4395560; 636949, 4395589; 636965, 4395620; 636985, 4395676; 636995, 4395733; 636998, 4395887; 636994, 4396083; 637000, 4396105; 636976, 4396168; 636948, 4396227; 636934, 4396262; 636933, 4396280; 636946, 4396295; 636952, 4396314; 636898, 4396328; 636889, 4396350; 636885, 4396372; 636862, 4396371; 636844, 4396376; 636786, 4396417; 636766, 4396452; 636724, 4396549; 636711, 4396535; 636677, 4396526; 636647, 4396547; 636629, 4396570; 636563, 4396617; 636439, 4396726; 636424, 4396791; 636397, 4396788; 636371, 4396792; 636347, 4396812; 636267, 4396951; 636254, 4396975; 636211, 4397030; 636152, 4397085; 636057, 4397151; 636021, 4397169; 635991, 4397179; 635988, 4397179; 635969, 4397181; 635947, 4397190; 635928, 4397206; 635924, 4397225; 635885, 4397279; 635707, 4397404; 635659, 4397432; 635630, 4397454; 635599, 4397508; 635579, 4397526; 635494, 4397574; 635401, 4397621; 635277, 4397695; 635249, 4397708; 635222, 4397727; 635183, 4397763; 635111, 4397800; 635070, 4397817; 634941, 4397842; 634853, 4397867; 634798, 4397867; 634758, 4397876; 634699, 4397920; 634647, 4397940; 634610, 4397948; 634540, 4397952; 634514, 4397948; 634478, 4398036; 634458, 4398087; 634391, 4398277; 634290, 4398434; 634290, 4398602; 634290, 4398815; 634318, 4398953; 634468, 4398957; 634468, 4398957; 635222, 4398966; 635218, 4399276; 635206, 4399287; 635206, 4399287; 635201, 4399676; 635190, 4399687; 635190, 4399731; 635178, 4399742; 634716, 4399737; 634716, 4399814; 634716, 4399882; 634701, 4399998; 634738, 4400050; 634701, 4400050; 634637, 4400155; 634614, 4400166; 634614, 4400185; 634584, 4400237; 634562, 4400290; 634540, 4400350; 634510, 4400417; 634517, 4400544; 634536, 4400574; 634570, 4400623; 634618, 4400645; 634626, 4400702; 634626, 4400761; 634629, 4400803; 634682, 4400840; 634730, 4400889; 634764, 4400964; 634809, 4401031; 634843, 4401080; 634843, 4401143; 634813, 4401188; 634817, 4401226; 634843, 4401222; 634899, 4401218; 634948, 4401177; 634996, 4401140; 635041, 4401095; 635086, 4401053; 635127, 4401046; 635180, 4401035; 635213, 4401009; 635251, 4400967; returning to 635284, 4400926.

(ii) Note: Unit BUT-1 (Map M3) follows:

BILLING CODE 4310-55-P

BILLING CODE 4310-55-C

(7) Unit YUB-1, Yuba County, California.

(i) From USGS 1:24,000 scale quadrangle Challenge. Land bounded by the following UTM Zone 10, NAD27 coordinates (E,N): 656776, 4370030; 656932, 4369825; 657033, 4369527; 657462, 4368370; 657472, 4368056; 657481, 4367769; 657672, 4367445; 657691, 4367430; 657890, 4367270; 658105, 4367098; 658503, 4366871; 658905, 4366554; 659124, 4366290; 659222, 4366053; 659369, 4365971; 659528, 4365883; 659624, 4365706; 659586, 4365706; 659383, 4365704; 659383, 4365704; 659383, 4365691; 659384, 4365583; 659354, 4365585; 659340, 4365600; 659305, 4365588; 659286, 4365572; 659261, 4365537; 659224, 4365531; 659182, 4365526; 659125, 4365527; 659101, 4365527; 659082, 4365536; 659075, 4365559; 659061, 4365567; 659044, 4365567; 659027, 4365567; 659017, 4365574; 658998, 4365584; 658996, 4365603; 658996, 4365620; 658991, 4365643; 658989, 4365668; 658985, 4365687; 658982, 4365690; 658974, 4365700; 658960, 4365723; 658939, 4365742; 658916, 4365757; 658894, 4365767; 658888, 4365790; 658871, 4365805; 658852, 4365805; 658827, 4365805; 658791, 4365820; 658764, 4365830; 658751, 4365849; 658751, 4365877; 658751, 4365900; 658745, 4365908; 658730, 4365919; 658726, 4365936; 658707, 4365940; 658678, 4365940; 658650, 4365940; 658627, 4365940; 658596, 4365929; 658579, 4365929; 658564, 4365921; 658551, 4365908; 658537, 4365891; 658533, 4365885; 658516, 4365868; 658490, 4365853; 658467, 4365845; 658446, 4365845; 658440, 4365847; 658419, 4365847; 658400, 4365837; 658398, 4365824; 658396, 4365801; 658396, 4365782; 658408, 4365757; 658421, 4365733; 658438, 4365721; 658465, 4365719; 658474, 4365736; 658499, 4365744; 658520, 4365769; 658538, 4365791; 658541, 4365795; 658550, 4365802; 658581, 4365826; 658606, 4365836; 658634, 4365834; 658640, 4365806; 658652, 4365775; 658664, 4365752; 658674, 4365736; 658695, 4365712; 658714, 4365694; 658741, 4365677; 658760, 4365666; 658794, 4365641; 658794, 4365568; 658794, 4365469; 658740, 4365433; 658695, 4365384; 658628, 4365353; 658552, 4365295; 658539, 4365237; 658551, 4365237; 658545, 4365228; 658543, 4365216; 658524, 4365193; 658497, 4365191; 658488, 4365186; 658465, 4365184; 658446, 4365184; 658427, 4365180; 658425, 4365167; 658431, 4365157; 658453, 4365151; 658465, 4365151; 658493, 4365144; 658520, 4365142; 658564, 4365144; 658606, 4365163; 658625, 4365178; 658642, 4365193; 658659, 4365199; 658678, 4365182; 658680, 4365161; 658688, 4365136; 658701, 4365123; 658707, 4365123; 658720, 4365127; 658730, 4365136; 658732, 4365153; 658737, 4365174; 658741, 4365201; 658743, 4365224; 658747, 4365240; 658809, 4365247; 658812, 4365243; 658817, 4365231; 658825, 4365212; 658836, 4365197; 658850, 4365176; 658867, 4365191; 658876, 4365207; 658882, 4365226; 658901, 4365233; 658920, 4365226; 658932, 4365218; 658947, 4365220; 658968, 4365226; 658974, 4365239; 658983, 4365252; 658998, 4365252; 659017, 4365245; 659040, 4365228; 659050, 4365205; 659057, 4365184; 659078, 4365182; 659103, 4365186; 659115, 4365201; 659124, 4365222; 659147, 4365239; 659164, 4365239; 659181, 4365235; 659214, 4365222; 659238, 4365207; 659248, 4365186; 659248, 4365167; 659256, 4365148; 659273, 4365132; 659290, 4365127; 659305, 4365140; 659332, 4365140; 659351, 4365125; 659368, 4365118; 659105, 4365028; 659020, 4364875; 658939, 4364572; 658735, 4364385; 658531, 4364168; 658412, 4364134; 658410, 4364131; 658410, 4364131; 658254, 4364129; 658243, 4364118; 658054, 4364117; 658043, 4364105; 657788, 4364103; 657788, 4364103; 657792, 4363648; 657826, 4363648; 657826, 4363648; 657837, 4363659; 657837, 4363659; 658070, 4363661; 658081, 4363672; 658106, 4363673; 657950, 4363548; 657655, 4363358; 657395, 4363049; 657282, 4362805; 657113, 4362469; 657087, 4362405; 657087, 4362405; 657083, 4362409; 656805, 4362407; 656794, 4362418; 656528, 4362416; 656516, 4362427; 656272, 4362425; 656261, 4362436; 656227, 4362436; 656227, 4362436; 656171, 4362531; 656051, 4362735; 655836, 4362878; 655683, 4362963; 655558, 4363109; 655427, 4363405; 655202, 4363849; 655406, 4364066; 655669, 4364315; 655690, 4364586; 655438, 4364908; 655218, 4365202; 655027, 4365526; 654779, 4365758; 654445, 4365837; 654319, 4366013; 654187, 4366370; 654149, 4366639; 653990, 4366874; 653952, 4367143; 653883, 4367381; 653710, 4367531; 653696, 4367950; 653744, 4368109; 653737, 4368319; 653751, 4368687; 653740, 4369028; 653747, 4369047; 653836, 4369294; 653990, 4369404; 654143, 4369566; 654429, 4369681; 654687, 4369794; 655104, 4369939; 655245, 4369920; 655453, 4369987; 655660, 4370113; 655896, 4370242; 656198, 4370221; 656470, 4370170; returning to 656776, 4370030.

(ii) Note: Unit YUB-1 is depicted on Map M4—Units YUB-1 and NEV-1—see paragraph (8)(ii):

(8) Unit NEV-1, Nevada County, California.

(i) From USGS 1:24,000 scale quadrangle Nevada City, North Bloomfield. Land bounded by the following UTM Zone 10, NAD27 coordinates (E,N): 676906, 4356394; 676962, 4356305; 677130, 4356317; 677131, 4356238; 677181, 4356231; 677306, 4356068; 677485, 4355987; 677670, 4355985; 677882, 4356056; 677980, 4356196; 678051, 4356296; 678137, 4356315; 678170, 4356315; 678201, 4356320; 678231, 4356310; 678224, 4356187; 678232, 4356116; 678268, 4355942; 678277, 4355825; 678274, 4355759; 678251, 4355709; 678217, 4355664; 678229, 4355623; 678337, 4355534; 678350, 4355522; 678361, 4355511; 678374, 4355498; 678418, 4355448; 678444, 4355409; 678448, 4355341; 678432, 4355290; 678417, 4355258; 678406, 4355233; 678390, 4355204; 678379, 4355182; 678354, 4355125; 678356, 4355083; 678510, 4354644; 678528, 4354561; 678540, 4354482; 678577, 4354374; 678642, 4354231; 678654, 4354168; 678649, 4354037; 678650, 4353980; 678683, 4353930; 678734, 4353879; 678783, 4353842; 678852, 4353796; 678971, 4353841; 679102, 4353875; 679178, 4353901; 679227, 4353902; 679353, 4353865; 679459, 4353818; 679563, 4353782; 679706, 4353759; 679914, 4353707; 680299, 4353648; 680349, 4353649; 680352, 4353523; 680352, 4353517; 679780, 4352799; 679437, 4352381; 679422, 4352362; 679157, 4352094; 679157, 4352094; 679148, 4352080; 678711, 4351756; 677827, 4351102; 677690, 4351000; 677303, 4350713; 677303, 4350703; 677292, 4350702; 677270, 4350680; 677256, 4350679; 677248, 4350679; 677202, 4350639; 677199, 4350636; 677198, 4350636; 676807, 4350614; 676807, 4350614; 676812, 4350531; 676440, 4350485; 676219, 4350558; 676117, 4350571; 675995, 4350556; 675823, 4350507; 675686, 4350459; 675583, 4350452; 675457, 4350453; 675362, 4350424; 675325, 4350412; 675325, 4350537; 675325, 4350616; 675293, 4350711; 675206, 4350862; 675166, 4350990; 675063, 4351133; 674920, 4351180; 674673, 4351196; 674371, 4351260; 674173, 4351284; 673807, 4351355; 673616, 4351379; 673417, 4351427; 673139, 4351467; 673020, 4351483; 672710, 4351546; 672559, 4351554; 672424, 4351562; 672281, 4351570; 672074, 4351586; 671907, 4351626; 671684, 4351705; 671534, 4351793; 671438, 4351872; 671239, 4351936; 670969, 4352039; 670738, 4352158; 670668, 4352774; 670633, 4354099; 670634, 4354099; 670679, 4354110; 670780, 4354114; 670847, 4354102; 670901, 4354084; 670960, 4354053; 670990, 4354030; 671054, 4353992; 671117, 4353941; 671174, 4353907; 671212, 4353893; 671282, 4353872; 671394, 4353858; 671435, 4353852; 671426, 4353850; 671437, 4353664; 672180, 4353672; 672208, 4353633; 672243, 4353598; 672287, 4353562; 672365, 4353550; 672450, 4353566; 672475, 4353582; 672578, 4353673; 672716, 4353754; 672766, 4353780; 672817, 4353800; 672938, 4353818; 672910, 4353887; 672900, 4353937; 673158, 4353946; 673150, 4354094; 673148, 4354137; 672855, 4354130; 672842, 4354168; 672783, 4354295; 672757, 4354434; 672799, 4354491; 672842, 4354522; 672941, 4354578; 673021, 4354593; 673084, 4354628; 673117, 4354665; 673122, 4354687; 673119, 4354745; 673140, 4354749; 673191, 4354837; 673202, 4354897; 673236, 4355028; 673247, 4355052; 673253, 4355088; 673243, 4355133; 673224, 4355185; 673201, 4355258; 673199, 4355268; 673199, 4355269; 673175, 4355379; 673188, 4355465; 673226, 4355517; 673228, 4355519; 673283, 4355581; 673391, 4355365; 673402, 4355344; 673600, 4355329; 673616, 4355327; 673903, 4355380; 674072, 4355387; 674203, 4355443; 674378, 4355543; 674440, 4355612; 674554, 4355655; 674698, 4355703; 674779, 4355812; 674843, 4355885; 674907, 4355945; 675027, 4355928; 675092, 4355868; 675272, 4355764; 675414, 4355681; 675573, 4355640; 675621, 4355628; 675622, 4355627; 675647, 4355612; 675763, 4355477; 675775, 4355358; 675775, 4355332; 675773, 4355263; 675827, 4355213; 675947, 4355175; 675947, 4355175; 676036, 4355164; 676080, 4355242; 676143, 4355418; 676255, 4355555; 676269, 4355603; 676350, 4355660; 676400, 4355681; 676445, 4355779; 676405, 4355981; 676418, 4356168; 676456, 4356381; 676581, 4356556; 676668, 4356706; 676693, 4356744; 676751, 4356738; 676818, 4356555; returning to 676906, 4356394.

(ii) Note: Unit NEV-1 is depicted on Map M4—Units YUB-1 and NEV-1—which follows:

BILLING CODE 4310-55-P

BILLING CODE 4310-55-C

(9) Unit ELD-1, El Dorado County, California.

(i) From USGS 1:24,000 scale quadrangle Pollock Pines, Camino, Sly Park. Land bounded by the following UTM Zone 10, NAD27 coordinates (E,N): 712042, 4292979; 712161, 4292902; 712243, 4292856; 712331, 4292834; 712419, 4292796; 712497, 4292718; 712540, 4292683; 712538, 4292678; 712530, 4292662; 712517, 4292599; 712511, 4292523; 712492, 4292476; 712454, 4292420; 712417, 4292357; 712384, 4292281; 712357, 4292219; 712319, 4292151; 712259, 4292082; 712201, 4292042; 712105, 4292004; 712037, 4291985; 711944, 4291952; 711866, 4291905; 711816, 4291791; 711785, 4291740; 711702, 4291628; 711680, 4291585; 711663, 4291485; 711666, 4291403; 711650, 4291319; 711576, 4291195; 711450, 4291102; 711326, 4291028; 711255, 4291003; 711182, 4290958; 711117, 4290899; 711061, 4290822; 711003, 4290754; 710956, 4290705; 710846, 4290604; 710753, 4290533; 710718, 4290493; 710718, 4290490; 710678, 4290488; 710400, 4290528; 710227, 4290581; 710054, 4290648; 709815, 4290648; 709523, 4290568; 709311, 4290303; 709152, 4290090; 708926, 4289838; 708873, 4289705; 708661, 4289533; 708515, 4289347; 708355, 4289201; 708143, 4289015; 707771, 4289015; 707493, 4288896; 707400, 4288789; 707161, 4288617; 707148, 4288404; 706922, 4288245; 706550, 4288086; 706245, 4287927; 706086, 4287714; 706033, 4287555; 705913, 4287369; 705807, 4287223; 705568, 4287037; 705422, 4286785; 705289, 4286586; 705077, 4286506; 704772, 4286413; 704559, 4286360; 704307, 4286241; 704068, 4286188; 703935, 4286055; 703696, 4286055; 703444, 4285816; 703126, 4285617; 702900, 4285564; 702754, 4285431; 702608, 4285338; 702422, 4285219; 702356, 4285365; 702369, 4285524; 702462, 4285644; 702469, 4285701; 702472, 4285702; 702584, 4285862; 702618, 4285934; 702646, 4286033; 702645, 4286101; 702683, 4286195; 702666, 4286267; 702620, 4286305; 702536, 4286352; 702509, 4286416; 702470, 4286461; 702414, 4286490; 702311, 4286453; 702221, 4286441; 702173, 4286463; 702129, 4286482; 702070, 4286506; 702006, 4286503; 701954, 4286501; 701885, 4286497; 701884, 4286555; 701935, 4286637; 701909, 4286727; 701891, 4286789; 701872, 4286814; 701793, 4286822; 701757, 4286837; 701636, 4286826; 701558, 4286841; 701518, 4286848; 701495, 4286860; 701436, 4286828; 701401, 4286809; 701334, 4286772; 701263, 4286770; 701217, 4286791; 701154, 4286796; 701087, 4286835; 701040, 4286852; 700990, 4286913; 700952, 4286930; 700874, 4286989; 700823, 4287009; 700762, 4287002; 700693, 4286995; 700620, 4286970; 700523, 4286998; 700459, 4286993; 700348, 4286953; 700301, 4286952; 700247, 4286950; 700174, 4286931; 700131, 4286910; 700042, 4286915; 699946, 4286953; 699847, 4287036; 699778, 4287035; 699668, 4287051; 699617, 4287058; 699539, 4287071; 699467, 4287109; 699426, 4287106; 699372, 4287120; 699334, 4287137; 699307, 4287150; 699249, 4287177; 699171, 4287213; 699106, 4287255; 699055, 4287289; 699016, 4287331; 699002, 4287377; 698954, 4287447; 698928, 4287502; 698899, 4287522; 698840, 4287541; 698765, 4287582; 698743, 4287641; 698739, 4287689; 698740, 4287731; 698754, 4287797; 698783, 4287845; 698814, 4287875; 698870, 4287899; 698900, 4287924; 698912, 4287957; 698937, 4288006; 698975, 4288020; 699147, 4288025; 699253, 4288022; 699302, 4288030; 699358, 4288063; 699425, 4288119; 699469, 4288169; 699587, 4288228; 699690, 4288250; 699736, 4288254; 699796, 4288271; 699956, 4288327; 700145, 4288415; 700611, 4288515; 700728, 4288545; 700848, 4288565; 700889, 4288587; 700926, 4288645; 700974, 4288702; 701105, 4288888; 701165, 4288948; 701282, 4289014; 701416, 4289067; 701543, 4289101; 701692, 4289147; 701789, 4289185; 701883, 4289217; 701973, 4289255; 702025, 4289287; 702071, 4289320; 702177, 4289402; 702222, 4289458; 702266, 4289549; 702324, 4289643; 702406, 4289714; 702560, 4289799; 702679, 4289855; 702744, 4289897; 702829, 4289991; 702883, 4290067; 702940, 4290184; 703050, 4290362; 703079, 4290429; 703075, 4290480; 703089, 4290507; 703106, 4290570; 703147, 4290632; 703210, 4290691; 703248, 4290770; 703294, 4290808; 703352, 4290850; 703419, 4290892; 703486, 4290934; 703540, 4290942; 703607, 4290942; 703683, 4290942; 703825, 4290938; 703950, 4290938; 704067, 4290938; 704214, 4290934; 704322, 4290921; 704423, 4290921; 704556, 4290984; 704673, 4291013; 704732, 4291034; 704803, 4291038; 704878, 4291038; 704899, 4290959; 704983, 4290959; 705033, 4290959; 705092, 4290959; 705129, 4290959; 705154, 4290925; 705175, 4290879; 705184, 4290833; 705217, 4290699; 705221, 4290616; 705221, 4290540; 705221, 4290478; 705246, 4290411; 705251, 4290398; 705267, 4290369; 705355, 4290336; 705422, 4290340; 705497, 4290340; 705522, 4290361; 705522, 4290423; 705493, 4290490; 705493, 4290545; 705522, 4290574; 705577, 4290574; 705648, 4290574; 705710, 4290574; 705761, 4290578; 705798, 4290616; 705798, 4290674; 705811, 4290733; 705865, 4290733; 705911, 4290733; 705953, 4290791; 705982, 4290875; 706007, 4290942; 706112, 4291025; 706162, 4291113; 706262, 4291122; 706379, 4291172; 706459, 4291235; 706513, 4291289; 706580, 4291347; 706634, 4291402; 706706, 4291435; 706806, 4291465; 706902, 4291506; 707057, 4291511; 707199, 4291531; 707291, 4291531; 707379, 4291577; 707487, 4291598; 707659, 4291644; 707818, 4291724; 708077, 4291858; 708236, 4291933; 708349, 4292004; 708441, 4292071; 708554, 4292134; 708779, 4292192; 708884, 4292234; 708989, 4292267; 709164, 4292376; 709302, 4292489; 709428, 4292568; 709561, 4292644; 709674, 4292706; 709766, 4292736; 709775, 4292665; 709816, 4292639; 709871, 4292677; 709908, 4292740; 709963, 4292782; 710126, 4292920; 710235, 4292970; 710327, 4293012; 710444, 4293024; 710640, 4293024; 710724, 4293020; 710895, 4293016; 711108, 4293016; 711141, 4293016; 711177, 4292991; 711258, 4292972; 711367, 4292964; 711501, 4292971; 711742, 4293022; 711830, 4293033; 711932, 4293020; 711991, 4293001; returning to 712042, 4292979.

(ii) Note: Unit ELD-1 (Map M5) follows:

BILLING CODE 4310-55-P

BILLING CODE 4310-55-C

(10) Unit CAL-1, Calaveras County, California.

(i) From USGS 1:24,000 scale quadrangle Valley Springs, Jackson, Mokelumne Hill. Land bounded by the following UTM Zone 10, NAD27 coordinates (E,N): 697316, 4236788; 697288, 4236702; 697239, 4236661; 697043, 4236601; 696856, 4236549; 696803, 4236489; 696681, 4236360; 696594, 4236292; 696515, 4236211; 696474, 4236132; 696437, 4236012; 696425, 4235875; 696408, 4235746; 696372, 4235657; 696295, 4235532; 696222, 4235429; 696139, 4235314; 696094, 4235249; 696061, 4235190; 696017, 4235064; 695993, 4234928; 695995, 4234790; 696002, 4234689; 696025, 4234548; 696014, 4234388; 696012, 4234247; 696012, 4234138; 696012, 4234080; 696012, 4234062; 695970, 4234021; 695881, 4233955; 695844, 4233920; 695782, 4233817; 695732, 4233779; 695673, 4233743; 695596, 4233687; 695559, 4233626; 695551, 4233577; 695561, 4233426; 695552, 4233361; 695562, 4233280; 695630, 4233225; 695729, 4233158; 695821, 4233075; 695863, 4233013; 695878, 4232967; 695875, 4232870; 695807, 4232615; 695757, 4232563; 695668, 4232520; 695598, 4232462; 695574, 4232384; 695607, 4232132; 695599, 4232090; 695588, 4232071; 695522, 4232076; 695344, 4232109; 695302, 4232111; 695277, 4232108; 695242, 4232087; 695202, 4232047; 695170, 4231994; 695143, 4231971; 695111, 4231955; 695041, 4231933; 695024, 4231930; 695000, 4231934; 694987, 4231933; 694967, 4231942; 694952, 4231956; 694930, 4231959; 694907, 4231961; 694888, 4231956; 694867, 4231943; 694835, 4231923; 694823, 4231902; 694822, 4231886; 694824, 4231874; 694831, 4231852; 694844, 4231813; 694860, 4231806; 694875, 4231784; 694873, 4231770; 694857, 4231759; 694833, 4231743; 694817, 4231735; 694770, 4231717; 694741, 4231711; 694707, 4231700; 694671, 4231674; 694618, 4231635; 694580, 4231609; 694543, 4231591; 694505, 4231581; 694449, 4231552; 694408, 4231538; 694379, 4231528; 694355, 4231522; 694328, 4231527; 694308, 4231532; 694281, 4231528; 694265, 4231515; 694251, 4231498; 694233, 4231482; 694211, 4231471; 694159, 4231465; 694118, 4231465; 694098, 4231479; 694085, 4231479; 694057, 4231494; 694033, 4231489; 694017, 4231479; 694016, 4231451; 694012, 4231420; 693971, 4231408; 693924, 4231394; 693863, 4231366; 693832, 4231349; 693787, 4231327; 693739, 4231289; 693701, 4231226; 693654, 4231174; 693651, 4231135; 693651, 4231132; 693642, 4231125; 693542, 4231021; 693414, 4230903; 693252, 4230731; 693152, 4230609; 693004, 4230419; 692822, 4230232; 692634, 4230055; 692509, 4229955; 692359, 4229874; 692231, 4229831; 692013, 4229788; 691801, 4229741; 691330, 4229637; 691394, 4229813; 691405, 4230022; 691407, 4230142; 691336, 4230385; 691319, 4230512; 691328, 4230620; 691374, 4230695; 691692, 4231006; 691745, 4231081; 691794, 4231327; 691804, 4231499; 691776, 4231683; 691751, 4231690; 691630, 4231686; 691374, 4231628; 691068, 4231614; 691056, 4231653; 691072, 4231792; 691134, 4232019; 691232, 4232170; 691498, 4232393; 691699, 4232598; 691779, 4232774; 691878, 4232931; 691900, 4233064; 691896, 4233223; 691881, 4233422; 691933, 4233485; 692046, 4233537; 692203, 4233537; 692333, 4233537; 692499, 4233537; 692646, 4233581; 692786, 4233676; 692873, 4233798; 692916, 4233981; 693081, 4234155; 693194, 4234277; 693334, 4234424; 693464, 4234572; 693655, 4234720; 693847, 4234885; 694029, 4235077; 694264, 4235390; 694360, 4235494; 694412, 4235538; 694551, 4235642; 694612, 4235781; 694812, 4235920; 694969, 4236103; 695056, 4236347; 695063, 4236421; 695102, 4236450; 695156, 4236511; 695204, 4236570; 695232, 4236613; 695249, 4236614; 695292, 4236574; 695314, 4236614; 695351, 4236655; 695702, 4236544; 695757, 4236644; 695857, 4236612; 695891, 4236559; 695920, 4236555; 695935, 4236591; 695935, 4236627; 695937, 4236656; 695961, 4236665; 695982, 4236665; 696003, 4236686; 696014, 4236707; 696018, 4236739; 696019, 4236770; 696021, 4236770; 696130, 4236778; 696239, 4236808; 696340, 4236871; 696414, 4236925; 696465, 4236970; 696533, 4237037; 696637, 4237159; 696667, 4237166; 696697, 4237159; 696824, 4237130; 697020, 4237104; 697091, 4237069; 697163, 4237060; 697251, 4237048; 697313, 4237047; 697373, 4237040; 697350, 4236929; 697342, 4236896; returning to 697316, 4236788.

(ii) Note: Unit CAL-1 (Map M6) follows:

BILLING CODE 4310-55-P

BILLING CODE 4310-55-C

(11) Unit NAP-1, Napa County, California.

(i) From USGS 1:24,000 scale quadrangle Capell Valley. Land bounded by the following UTM Zone 10, NAD27 coordinates (E,N): 571668, 4256238; 571744, 4256065; 571928, 4256108; 572003, 4256097; 572230, 4255795; 572479, 4255665; 572879, 4255676; 573030, 4255503; 573063, 4255384; 573182, 4255341; 573495, 4255265; 573603, 4255200; 573798, 4255395; 573895, 4255427; 573949, 4255535; 574100, 4255568; 574187, 4255535; 574327, 4255427; 574468, 4255395; 574630, 4255460; 574835, 4255535; 575008, 4255481; 575116, 4255438; 575278, 4255406; 575408, 4255427; 575430, 4255244; 575408, 4255017; 575505, 4254962; 575592, 4254887; 575765, 4254649; 575808, 4254465; 575581, 4254195; 575408, 4254033; 575214, 4253957; 575333, 4253892; 575419, 4253676; 575321, 4253562; 575277, 4253557; 575222, 4253545; 575199, 4253536; 575049, 4253507; 574998, 4253484; 574972, 4253480; 574953, 4253482; 574899, 4253535; 574853, 4253488; 574781, 4253445; 574705, 4253431; 574585, 4253396; 574564, 4253396; 574538, 4253391; 574508, 4253381; 574463, 4253347; 574429, 4253311; 574411, 4253302; 574385, 4253312; 574367, 4253332; 574315, 4253408; 574301, 4253437; 574279, 4253463; 574229, 4253481; 574172, 4253490; 574146, 4253508; 574118, 4253536; 573980, 4253656; 573958, 4253683; 573855, 4253754; 573831, 4253776; 573804, 4253764; 573715, 4253702; 573684, 4253697; 573634, 4253728; 573609, 4253736; 573552, 4253734; 573530, 4253730; 573386, 4253663; 573213, 4253769; 573186, 4253794; 573145, 4253809; 573088, 4253822; 573050, 4253848; 572996, 4253897; 572972, 4253911; 572925, 4253921; 572909, 4253921; 572877, 4253917; 572820, 4253898; 572766, 4253856; 572740, 4253845; 572693, 4253839; 572602, 4253837; 572582, 4253833; 572454, 4253783; 572418, 4253774; 572359, 4253765; 572328, 4253749; 572299, 4253714; 572235, 4253614; 572104, 4253461; 572073, 4253465; 572055, 4253475; 572027, 4253479; 572022, 4253461; 572020, 4253414; 571863, 4253525; 571679, 4253644; 571495, 4253784; 571420, 4254011; 571420, 4254184; 571204, 4254368; 570923, 4254379; 570652, 4254390; 570339, 4254400; 570079, 4254573; 569885, 4254638; 569593, 4254725; 569474, 4254865; 569431, 4255060; 569388, 4255179; 569344, 4255298; 569290, 4255416; 569344, 4255525; 569463, 4255568; 569669, 4255568; 569852, 4255600; 570015, 4255676; 570047, 4255643; 570207, 4255556; 570241, 4255438; 570350, 4255341; 570458, 4255211; 570641, 4255200; 570706, 4255135; 570804, 4255060; 570858, 4255060; 570966, 4255049; 571020, 4255211; 571009, 4255330; 571031, 4255449; 571009, 4255589; 571009, 4255752; 571031, 4255870; 571085, 4255968; 571117, 4256141; 571301, 4256141; 571441, 4256227; 571560, 4256281; returning to 571668, 4256238.

(ii) Note: Unit NAP-1 (Map M7) follows:

BILLING CODE 4310-55-P

BILLING CODE 4310-55-C

(12) Unit MRN-1, Marin County, California.

(i) From USGS 1:24,000 scale quadrangle Point Reyes NE, Petaluma, Inverness. Land bounded by the following UTM Zone 10, NAD27 coordinates (E,N): 512634, 4232438; 512662, 4232404; 512681, 4232407; 512698, 4232405; 512794, 4232328; 512825, 4232308; 512895, 4232271; 512927, 4232250; 512942, 4232244; 512975, 4232243; 513064, 4232286; 513098, 4232298; 513279, 4232406; 513325, 4232436; 513362, 4232450; 513452, 4232462; 513497, 4232455; 513610, 4232428; 513701, 4232401; 513734, 4232386; 513809, 4232322; 513872, 4232273; 513918, 4232251; 513934, 4232231; 513953, 4232187; 513956, 4232128; 513948, 4232059; 513939, 4232023; 513924, 4231990; 513867, 4231891; 513856, 4231862; 513849, 4231832; 513847, 4231791; 513851, 4231760; 513858, 4231739; 513860, 4231712; 513859, 4231644; 513855, 4231619; 513876, 4231594; 513885, 4231636; 513905, 4231703; 513925, 4231754; 513952, 4231792; 514013, 4231813; 514067, 4231818; 514387, 4231769; 514431, 4231744; 514466, 4231651; 514470, 4231597; 514482, 4231533; 514514, 4231516; 514620, 4231572; 514663, 4231619; 514694, 4231745; 514716, 4231792; 514738, 4231830; 514778, 4231868; 514822, 4231896; 514879, 4231915; 514935, 4231890; 514984, 4231862; 515034, 4231853; 515098, 4231846; 515164, 4231822; 515196, 4231785; 515215, 4231752; 515265, 4231703; 515305, 4231691; 515352, 4231696; 515413, 4231696; 515463, 4231671; 515480, 4231654; 515560, 4231646; 515639, 4231609; 515682, 4231600; 515700, 4231605; 515728, 4231638; 515773, 4231673; 515817, 4231732; 515857, 4231825; 515889, 4231847; 515908, 4231845; 515929, 4231815; 515942, 4231788; 515977, 4231770; 516011, 4231747; 516049, 4231654; 516062, 4231612; 516087, 4231574; 516124, 4231555; 516220, 4231529; 516258, 4231510; 516298, 4231481; 516369, 4231437; 516428, 4231423; 516551, 4231414; 516624, 4231372; 516655, 4231366; 516691, 4231364; 516733, 4231367; 516773, 4231353; 516875, 4231333; 516929, 4231317; 516965, 4231299; 517002, 4231285; 517058, 4231285; 517107, 4231304; 517346, 4231631; 517391, 4231679; 517422, 4231695; 517463, 4231696; 517486, 4231669; 517509, 4231650; 517588, 4231597; 517667, 4231496; 517692, 4231442; 517724, 4231337; 517741, 4231308; 517768, 4231273; 517767, 4231222; 517772, 4231173; 517787, 4231122; 517811, 4231094; 517847, 4231093; 517883, 4231084; 517902, 4231069; 517939, 4231058; 517980, 4231036; 518036, 4230984; 518083, 4230966; 518131, 4230991; 518200, 4231014; 518251, 4231023; 518308, 4231014; 518391, 4230977; 518419, 4230939; 518458, 4230902; 518499, 4230878; 518538, 4230841; 518602, 4230757; 518662, 4230687; 518805, 4230479; 518822, 4230448; 518823, 4230409; 518803, 4230335; 518810, 4230285; 518942, 4230355; 518992, 4230397; 519044, 4230432; 519095, 4230478; 519137, 4230506; 519175, 4230520; 519237, 4230507; 519275, 4230483; 519320, 4230466; 519367, 4230487; 519408, 4230521; 519517, 4230583; 519549, 4230605; 519594, 4230608; 519625, 4230596; 519685, 4230581; 519733, 4230582; 519775, 4230588; 519829, 4230580; 519862, 4230569; 519951, 4230525; 519999, 4230511; 520039, 4230477; 520091, 4230394; 520129, 4230359; 520194, 4230312; 520239, 4230269; 520238, 4230253; 520213, 4230209; 520162, 4230139; 520101, 4230072; 519980, 4229949; 519939, 4229916; 519902, 4229892; 519882, 4229855; 519867, 4229815; 519848, 4229664; 519840, 4229621; 519840, 4229575; 519846, 4229535; 519867, 4229461; 519868, 4229434; 519849, 4229396; 519814, 4229355; 519739, 4229280; 519692, 4229191; 519592, 4229059; 519555, 4229028; 519513, 4229017; 519476, 4228998; 519462, 4228977; 519454, 4228924; 519423, 4228881; 519397, 4228849; 519378, 4228818; 519360, 4228768; 519338, 4228688; 519315, 4228630; 519260, 4228541; 519234, 4228505; 519179, 4228408; 519154, 4228369; 519061, 4228234; 519042, 4228213; 518989, 4228192; 518884, 4228137; 518799, 4228080; 518656, 4227998; 518524, 4227945; 518464, 4227912; 518370, 4227840; 518322, 4227831; 518197, 4227891; 518123, 4227935; 518076, 4227960; 518039, 4227972; 517984, 4228020; 517943, 4228049; 517881, 4228056; 517829, 4228052; 517694, 4228069; 517641, 4228062; 517619, 4228050; 517592, 4228029; 517552, 4228023; 517504, 4228026; 517456, 4228011; 517400, 4227982; 517309, 4227916; 517268, 4227880; 517208, 4227795; 517186, 4227771; 517189, 4227691; 517199, 4227646; 517206, 4227631; 517246, 4227578; 517250, 4227548; 517245, 4227487; 517217, 4227335; 517224, 4227253; 517185, 4227094; 517194, 4227043; 517202, 4227018; 517194, 4226857; 517172, 4226789; 517174, 4226718; 517183, 4226684; 517211, 4226624; 517260, 4226469; 517280, 4226417; 517291, 4226384; 517313, 4226266; 517345, 4226172;

517375, 4226134; 517412, 4226073; 517540, 4225917; 517664, 4225822; 517778, 4225812; 517820, 4225790; 517887, 4225783; 517961, 4225789; 517996, 4225774; 518023, 4225754; 518052, 4225720; 518084, 4225646; 518119, 4225599; 518185, 4225584; 518220, 4225563; 518260, 4225558; 518324, 4225544; 518363, 4225531; 518404, 4225500; 518468, 4225441; 518498, 4225403; 518528, 4225408; 518565, 4225419; 518610, 4225441; 518644, 4225440; 518691, 4225430; 518724, 4225417; 518768, 4225408; 518804, 4225419; 518841, 4225421; 518885, 4225402; 518926, 4225401; 518968, 4225411; 519012, 4225450; 519092, 4225528; 519129, 4225553; 519190, 4225560; 519233, 4225531; 519338, 4225522; 519388, 4225502; 519427, 4225466; 519473, 4225382; 519507, 4225352; 519533, 4225342; 519594, 4225350; 519641, 4225335; 519683, 4225310; 519716, 4225284; 519749, 4225266; 519810, 4225258; 519877, 4225274; 519939, 4225298; 519974, 4225319; 520012, 4225335; 520064, 4225362; 520184, 4225514; 520277, 4225592; 520312, 4225608; 520517, 4225679; 520561, 4225703; 520630, 4225713; 520690, 4225677; 520728, 4225644; 520834, 4225600; 520875, 4225566; 520910, 4225546; 520946, 4225549; 520992, 4225569; 521041, 4225615; 521097, 4225648; 521150, 4225647; 521212, 4225596; 521237, 4225541; 521266, 4225514; 521483, 4225374; 521535, 4225362; 521560, 4225362; 521585, 4225395; 521593, 4225446; 521572, 4225609; 521576, 4225682; 521628, 4225793; 521643, 4225807; 521667, 4225821; 521696, 4225824; 521749, 4225822; 521831, 4225808; 521905, 4225813; 521971, 4225822; 522000, 4225831; 522029, 4225860; 522043, 4225897; 522041, 4225912; 522054, 4225911; 522097, 4225938; 522148, 4225958; 522179, 4225963; 522243, 4225950; 522317, 4225921; 522417, 4225897; 522456, 4225903; 522488, 4225916; 522688, 4226010; 522749, 4226030; 522803, 4226040; 522853, 4226043; 522924, 4226034; 523034, 4226041; 523183, 4225960; 523222, 4225933; 523305, 4225859; 523350, 4225840; 523473, 4225826; 523554, 4225753; 523698, 4225705; 523900, 4225560; 523999, 4225413; 524219, 4225251; 524249, 4225236; 524366, 4225189; 524417, 4225181; 524447, 4225213; 524508, 4225322; 524542, 4225340; 524595, 4225339; 524643, 4225314; 524700, 4225275; 524766, 4225223; 524810, 4225202; 524907, 4225196; 524934, 4225191; 525014, 4225167; 525064, 4225131; 525135, 4225139; 525171, 4225171; 525224, 4225249;

525269, 4225297; 525301, 4225311; 525386, 4225307; 525409, 4225321; 525437, 4225331; 525485, 4225339; 525529, 4225359; 525627, 4225413; 525703, 4225445; 525742, 4225446; 525812, 4225413; 525859, 4225363; 525981, 4225301; 526032, 4225226; 526055, 4225154; 526083, 4225122; 526161, 4225095; 526234, 4225077; 526277, 4225058; 526307, 4225022; 526328, 4224957; 526323, 4224793; 526330, 4224726; 526379, 4224635; 526452, 4224537; 526308, 4224506; 526263, 4224500; 526214, 4224486; 526144, 4224451; 526042, 4224410; 526002, 4224409; 525955, 4224419; 525929, 4224415; 525916, 4224401; 525909, 4224387; 525873, 4224347; 525842, 4224332; 525811, 4224326; 525748, 4224320; 525715, 4224336; 525667, 4224371; 525619, 4224419; 525586, 4224443; 525534, 4224449; 525296, 4224366; 525232, 4224377; 525206, 4224371; 525150, 4224295; 525133, 4224279; 525087, 4224261; 525019, 4224259; 524966, 4224252; 524936, 4224243; 524839, 4224204; 524768, 4224210; 524728, 4224224; 524694, 4224231; 524671, 4224229; 524642, 4224200; 524621, 4224150; 524597, 4224126; 524546, 4224086; 524535, 4224079; 524437, 4224038; 524376, 4224017; 524293, 4223974; 524230, 4223937; 524201, 4223938; 524153, 4223951; 524086, 4223977; 524040, 4223991; 523929, 4224002; 523845, 4224016; 523796, 4224014; 523743, 4223997; 523711, 4223981; 523685, 4223952; 523628, 4223849; 523610, 4223824; 523575, 4223803; 523518, 4223712; 523498, 4223688; 523469, 4223673; 523434, 4223663; 523375, 4223665; 523184, 4223695; 523161, 4223685; 523098, 4223624; 523023, 4223532; 523000, 4223513; 522965, 4223495; 522858, 4223457; 522819, 4223448; 522767, 4223440; 522714, 4223445; 522613, 4223424; 522565, 4223385; 522407, 4223176; 522329, 4223151; 522311, 4223143; 522295, 4223130; 522268, 4223100; 522258, 4223101; 522271, 4222993; 522264, 4222890; 522271, 4222843; 522339, 4222791; 522364, 4222760; 522387, 4222725; 522399, 4222700; 522427, 4222613; 522445, 4222581; 522473, 4222545; 522542, 4222472; 522555, 4222444; 522558, 4222424; 522577, 4222288; 522600, 4222189; 522604, 4222161; 522613, 4222102; 522607, 4222048; 522588, 4222018; 522559, 4221996; 522487, 4221970; 522407, 4221951; 522375, 4221938; 522343, 4221918; 522308, 4221884; 522278, 4221848; 522236, 4221786; 522129, 4221694; 522074, 4221660; 522055, 4221641; 522031, 4221605; 522024, 4221585; 522014, 4221491; 522004, 4221429; 521995, 4221403; 521969, 4221349; 521997, 4221158; 521996, 4221125; 521990, 4221082; 521978, 4221065; 521951, 4221039; 521897, 4220996; 521814, 4220899; 521801, 4220898; 521776, 4220885; 521763, 4220864; 521766, 4220838; 521791, 4220777; 521793, 4220754; 521853, 4220582; 521855, 4220541; 521832, 4220475; 521805, 4220422; 521793, 4220391; 521794, 4220305; 521771, 4220253; 521766, 4220221; 521768, 4220166; 521774, 4220127; 521784, 4220067; 521835, 4220038; 521848, 4220035; 521896, 4219981; 521912, 4219953; 521922, 4219925; 521924, 4219896; 521913, 4219877; 521848, 4219817; 521824, 4219825; 521801, 4219822; 521775, 4219812; 521755, 4219800; 521722, 4219755; 521669, 4219708; 521656, 4219700; 521632, 4219691; 521494, 4219662; 521460, 4219588; 521447, 4219572; 521424, 4219531; 521416, 4219489; 521401, 4219439; 521368, 4219377; 521338, 4219349; 521240, 4219304; 521152, 4219225; 521114, 4219151; 521093, 4219133; 521001, 4219070; 520978, 4219044; 520955, 4219028; 520927, 4219021; 520895, 4219004; 520863, 4218981; 520802, 4218928; 520749, 4218867; 520702, 4218807; 520678, 4218787; 520652, 4218784; 520578, 4218796; 520541, 4218809; 520443, 4218861; 520425, 4218863; 520378, 4218869; 520247, 4218872; 520173, 4218858; 520051, 4218826; 520018, 4218822; 519929, 4218819; 519872, 4218838; 519856, 4218865; 519852, 4218970; 519845, 4218996; 519782, 4219063; 519722, 4219105; 519690, 4219117; 519665, 4219131; 519642, 4219152; 519622, 4219184; 519607, 4219228; 519590, 4219263; 519555, 4219312; 519535, 4219386; 519519, 4219421; 519413, 4219515; 519358, 4219584; 519303, 4219619; 519271, 4219665; 519264, 4219684; 519233, 4219697; 519223, 4219692; 519207, 4219697; 519164, 4219690; 519036, 4219681; 518945, 4219663; 518902, 4219651; 518846, 4219667; 518801, 4219673; 518775, 4219672; 518740, 4219680; 518701, 4219690; 518666, 4219711; 518634, 4219717; 518566, 4219720; 518312, 4219719; 518147, 4219746; 518094, 4219759; 518048, 4219780; 517999, 4219816; 517958, 4219826; 517897, 4219837; 517768, 4219852; 517719, 4219868; 517653, 4219916; 517553, 4219914; 517423, 4219902; 517287, 4219900; 517225, 4219917; 517210, 4219961; 517195, 4220054; 517183, 4220084; 517154, 4220109; 517089, 4220156; 517045, 4220221; 517009, 4220242; 516989, 4220267; 516987, 4220313; 517004, 4220376; 517023, 4220409;

517074, 4220482; 517103, 4220544; 517109, 4220599; 517122, 4220629; 517181, 4220694; 517208, 4220729; 517253, 4220802; 517292, 4220885; 517300, 4220933; 517336, 4220989; 517367, 4221065; 517360, 4221093; 517312, 4221131; 517290, 4221165; 517214, 4221225; 517182, 4221254; 517129, 4221341; 517095, 4221365; 517036, 4221398; 517006, 4221371; 516939, 4221344; 516768, 4221243; 516693, 4221247; 516623, 4221181; 516601, 4221165; 516444, 4221115; 516316, 4221096; 516195, 4221104; 516150, 4221102; 516078, 4221081; 516021, 4221057; 515956, 4221049; 515835, 4221072; 515708, 4221067; 515673, 4221081; 515608, 4221077; 515542, 4221083; 515503, 4221081; 515460, 4221071; 515417, 4221079; 515380, 4221101; 515311, 4221092; 515250, 4221104; 515169, 4221112; 515114, 4221102; 515084, 4221079; 515050, 4221037; 515014, 4220983; 514966, 4220953; 514867, 4220920; 514832, 4220875; 514810, 4220818; 514780, 4220772; 514764, 4220701; 514755, 4220678; 514707, 4220683; 514664, 4220682; 514632, 4220667; 514594, 4220665; 514575, 4220684; 514548, 4220767; 514533, 4220797; 514505, 4220831; 514492, 4220871; 514469, 4220991; 514467, 4221025; 514435, 4221117; 514430, 4221146; 514440, 4221183; 514447, 4221227; 514439, 4221253; 514423, 4221278; 514382, 4221308; 514360, 4221329; 514351, 4221370; 514384, 4221423; 514396, 4221451; 514400, 4221467; 514397, 4221492; 514310, 4221619; 514268, 4221673; 514235, 4221701; 514192, 4221718; 514071, 4221758; 514037, 4221784; 513978, 4221885; 513967, 4221995; 513977, 4222063; 513980, 4222104; 513976, 4222125; 513962, 4222159; 513911, 4222223; 513849, 4222325; 513829, 4222366; 513797, 4222450; 513771, 4222562; 513714, 4222637; 513695, 4222672; 513668, 4222778; 513651, 4222818; 513628, 4222855; 513572, 4222850; 513507, 4222758; 513466, 4222715; 513416, 4222692; 513352, 4222702; 513297, 4222704; 513232, 4222692; 513189, 4222674; 513134, 4222645; 513069, 4222596; 513011, 4222573; 512969, 4222540; 512940, 4222508; 512740, 4222361; 512676, 4222372; 512600, 4222391; 512549, 4222385; 512449, 4222344; 512386, 4222351; 512341, 4222367; 512292, 4222366; 512188, 4222336; 512112, 4222334; 512079, 4222355; 512046, 4222390; 512022, 4222430; 511992, 4222496; 511964, 4222543; 511889, 4222607; 511866, 4222643; 511848, 4222691; 511841, 4222744; 511840, 4222831; 511826, 4222861; 511787, 4222878;

511734, 4222895; 511675, 4222929; 511527, 4223048; 511506, 4223080; 511480, 4223131; 511453, 4223172; 511437, 4223216; 511442, 4223236; 511457, 4223263; 511482, 4223285; 511521, 4223311; 511547, 4223360; 511544, 4223402; 511535, 4223431; 511521, 4223457; 511510, 4223499; 511503, 4223547; 511501, 4223757; 511511, 4223804; 511553, 4223915; 511579, 4224035; 511620, 4224148; 511621, 4224264; 511629, 4224296; 511658, 4224343; 511699, 4224387; 511786, 4224456; 511810, 4224487; 511822, 4224510; 511844, 4224569; 511874, 4224719; 511873, 4224759; 511867, 4224786; 511853, 4224821; 511854, 4224868; 511867, 4224917; 511886, 4224952; 511902, 4224965; 511894, 4225013; 511894, 4225053; 511896, 4225082; 511904, 4225113; 511920, 4225144; 511986, 4225221; 512014, 4225265; 512071, 4225338; 512108, 4225434; 512128, 4225474; 512157, 4225513; 512204, 4225552; 512252, 4225563; 512291, 4225553; 512337, 4225573; 512346, 4225613; 512350, 4225665; 512362, 4225698; 512368, 4225726; 512369, 4225770; 512356, 4225792; 512428, 4225869; 512457, 4225918; 512529, 4226054; 512555, 4226085; 512591, 4226107; 512660, 4226098; 512696, 4226114; 512722, 4226139; 512756, 4226159; 512785, 4226156; 512859, 4226140; 512952, 4226152; 513037, 4226157; 513081, 4226191; 513151, 4226267; 513287, 4226362; 513530, 4226484; 513607, 4226528; 513655, 4226572; 513677, 4226611; 513698, 4226666; 513718, 4226758; 513728, 4226781; 513769, 4226828; 513811, 4226843; 513865, 4226837; 513941, 4226836; 513982, 4226839; 514034, 4226863; 514078, 4226893; 514152, 4226973; 514206, 4227015; 514253, 4227043; 514299, 4227136; 514378, 4227212; 514392, 4227258; 514384, 4227309; 514389, 4227351; 514391, 4227414; 514377, 4227463; 514371, 4227507; 514369, 4227563; 514375, 4227603; 514393, 4227680; 514392, 4227767; 514402, 4227852; 514388, 4227874; 514372, 4227882; 514335, 4227906; 514264, 4227939; 514142, 4227981; 514101, 4228014; 514068, 4228051; 514034, 4228054; 513987, 4228072; 513951, 4228114; 513861, 4228153; 513829, 4228182; 513610, 4228246; 513532, 4228309; 513457, 4228302; 513406, 4228306; 513362, 4228319; 513228, 4228439; 513192, 4228457; 513148, 4228470; 513114, 4228493; 513065, 4228511; 513015, 4228514; 512926, 4228538; 512886, 4228567; 512853, 4228582; 512822, 4228591; 512800, 4228634; 512730, 4228709; 512709, 4228749; 512700, 4228808; 512692, 4228880; 512675, 4228932; 512618, 4229002; 512603, 4229044; 512598, 4229082; 512561, 4229119; 512519, 4229140; 512474, 4229154; 512424, 4229178; 512329, 4229289; 512295, 4229322; 512261, 4229363; 512278, 4229405; 512328, 4229469; 512328, 4229507; 512295, 4229596; 512265, 4229654; 512252, 4229688; 512240, 4229727; 512245, 4229751; 512309, 4229812; 512602, 4230002; 512645, 4230037; 512761, 4230247; 512800, 4230302; 512816, 4230363; 512802, 4230436; 512774, 4230537; 512766, 4230619; 512777, 4230732; 512768, 4230774; 512753, 4230824; 512717, 4230922; 512699, 4231006; 512685, 4231053; 512652, 4231117; 512590, 4231193; 512575, 4231242; 512559, 4231357; 512395, 4231656; 512387, 4231685; 512303, 4231775; 512284, 4231791; 512254, 4231827; 512234, 4231854; 512219, 4231885; 512208, 4231918; 512245, 4232188; 512249, 4232203; 512365, 4232457; 512525, 4232501; 512547, 4232488; 512578, 4232478; 512598, 4232460; returning to 512634, 4232438.

(ii) Note: Unit MRN-1 is depicted on Map M8—Unit MRN-1 and MRN-2—see paragraph (13)(ii):

(13) Unit MRN-2, Marin County, California.

(i) From USGS 1:24,000 scale quadrangle Drakes Bay, Inverness. Land bounded by the following UTM Zone 10, NAD27 coordinates (E,N): 510133, 4216765; 510173, 4216617; 510221, 4216478; 510235, 4216457; 510270, 4216372; 510239, 4216321; 510249, 4216204; 510265, 4216159; 510281, 4216124; 510334, 4216085; 510368, 4216064; 510404, 4216036; 510456, 4215972; 510513, 4215936; 510566, 4215894; 510629, 4215830; 510660, 4215814; 510730, 4215795; 510767, 4215777; 510849, 4215727; 510865, 4215696; 510863, 4215590; 510877, 4215571; 510944, 4215590; 510978, 4215595; 510993, 4215605; 511006, 4215619; 511057, 4215680; 511072, 4215673; 511096, 4215652; 511122, 4215630; 511147, 4215593; 511156, 4215550; 511161, 4215478; 511210, 4215387; 511256, 4215351; 511275, 4215332; 511330, 4215234; 511374, 4215173; 511395, 4215115; 511408, 4215093; 511446, 4215044; 511518, 4214941; 511530, 4214911; 511539, 4214870; 511553, 4214727; 511565, 4214698; 511580, 4214681; 511602, 4214667; 511676, 4214648; 511730, 4214616; 511750, 4214608; 511785, 4214601; 511807, 4214601; 511887, 4214613; 511919, 4214612; 512027, 4214589; 512054, 4214589; 512140, 4214618; 512266, 4214637; 512332, 4214656; 512398, 4214703; 512415, 4214708; 512449, 4214698; 512492, 4214667; 512515, 4214657; 512579, 4214649; 512707, 4214574; 512795, 4214553; 512808, 4214553; 512816, 4214548; 512831, 4214553; 512844, 4214553; 512849, 4214552; 512889, 4214540; 512962, 4214440; 512989, 4214417; 513012, 4214356; 512981, 4214247; 512976, 4214203; 513029, 4214231; 513056, 4213896; 513030, 4213715; 513012, 4213586; 513028, 4213553; 513018, 4213509; 513015, 4213479; 513018, 4213444; 513028, 4213407; 513065, 4213321; 513072, 4213289; 513089, 4213244; 513107, 4213214; 513182, 4213113; 513254, 4212990; 513259, 4212965; 513259, 4212905; 513270, 4212875; 513288, 4212847; 513313, 4212830; 513333, 4212822; 513408, 4212807; 513456, 4212794; 513483, 4212773; 513492, 4212756; 513511, 4212676; 513526, 4212645; 513561, 4212604; 513630, 4212503; 513653, 4212486; 513683, 4212475; 513720, 4212471; 513758, 4212472; 513778, 4212433; 513785, 4212430; 513913, 4212421; 513943, 4212400; 514008, 4212357; 514053, 4212327; 514076, 4212264; 514103, 4212193; 514133, 4212112; 514152, 4212062; 514172, 4212008; 514243, 4212000; 514235, 4211948; 514236, 4211903; 514247, 4211869; 514254, 4211834; 514254, 4211764; 514261, 4211733; 514278, 4211703; 514306, 4211677; 514340, 4211661; 514389, 4211645; 514412, 4211633; 514446, 4211580; 514469, 4211504; 514520, 4211435; 514538, 4211403; 514572, 4211314; 514591, 4211280; 514641, 4211223; 514661, 4211185; 514658, 4211146; 514663, 4211105; 514679, 4211063; 514704, 4211012; 514736, 4210978; 514765, 4210968; 514839, 4210952; 514876, 4210940; 514918, 4210918; 514970, 4210874; 515010, 4210851; 515034, 4210832; 515118, 4210717; 515206, 4210671; 515314, 4210595; 515433, 4210421; 515484,

4210317; 515504, 4210285; 515615, 4210222; 515637, 4210194; 515613, 4210150; 515581, 4210120; 515561, 4210095; 515527, 4210051; 515507, 4210013; 515503, 4209974; 515508, 4209937; 515538, 4209826; 515537, 4209798; 515510, 4209762; 515445, 4209706; 515379, 4209620; 515356, 4209606; 515315, 4209596; 515246, 4209586; 515206, 4209561; 515174, 4209499; 515151, 4209432; 515137, 4209325; 515138, 4209264; 515156, 4209217; 515189, 4209170; 515237, 4209113; 515265, 4209065; 515254, 4209006; 515270, 4208937; 515297, 4208894; 515311, 4208861; 515321, 4208818; 515328, 4208755; 515343, 4208716; 515422, 4208638; 515443, 4208588; 515471, 4208492; 515492, 4208446; 515526, 4208410; 515553, 4208392; 515580, 4208364; 515601, 4208327; 515638, 4208277; 515739, 4208200; 515770, 4208163; 515871, 4208068; 515921, 4207963; 515977, 4207904; 516009, 4207864; 516070, 4207700; 516057, 4207648; 516049, 4207550; 516038, 4207514; 516021, 4207494; 515864, 4207426; 515826, 4207401; 515729, 4207293; 515664, 4207236; 515640, 4207206; 515624, 4207125; 515598, 4207042; 515607, 4206879; 515605, 4206842; 515590, 4206816; 515523, 4206778; 515457, 4206749; 515363, 4206698; 515322, 4206667; 515193, 4206520; 515168, 4206483; 515147, 4206459; 515113, 4206403; 515103, 4206373; 515110, 4206315; 515096, 4206245; 515080, 4206186; 515081, 4206138; 515096, 4206083; 515096, 4206019; 515086, 4205937; 515084, 4205876; 515065, 4205839; 515047, 4205861; 515018, 4205887; 515008, 4205897; 514993, 4205909; 514978, 4205922; 514958, 4205940; 514947, 4205950; 514932, 4205970; 514919, 4205978; 514886, 4206015; 514843, 4206052; 514826, 4206072; 514812, 4206086; 514811, 4206087; 514810, 4206087; 514795, 4206108; 514757, 4206137; 514716, 4206176; 514694, 4206195; 514667, 4206219; 514648, 4206235; 514578, 4206289; 514522, 4206322; 514507, 4206332; 514492, 4206340; 514475, 4206360; 514451, 4206376; 514412, 4206396; 514410, 4206398; 514378, 4206414; 514378, 4206414; 514368, 4206420; 514367, 4206421; 514367, 4206421; 514349, 4206439; 514347, 4206441; 514345, 4206443; 514340, 4206449; 514333, 4206452; 514312, 4206469; 514304, 4206476; 514281, 4206497; 514259, 4206513; 514240, 4206527; 514216, 4206542; 514209, 4206549; 514209, 4206549; 514209, 4206549; 514209, 4206549; 514208, 4206549; 514190, 4206564; 514189, 4206564; 514171, 4206585; 514143, 4206605; 514128, 4206613; 514126, 4206615; 514122, 4206616; 514119, 4206618; 514095, 4206628; 514069, 4206633; 514045, 4206637; 514035, 4206638; 514026, 4206642; 514016, 4206652; 514004, 4206675; 513992, 4206690; 513971, 4206710; 513959, 4206720; 513951, 4206730; 513934, 4206746; 513925, 4206752; 513895, 4206775; 513887, 4206785; 513878, 4206790; 513826, 4206840; 513810, 4206849; 513786, 4206853; 513766, 4206867; 513748, 4206870; 513741, 4206881; 513729, 4206890; 513718, 4206889; 513709, 4206882; 513704, 4206877; 513692, 4206879; 513684, 4206887; 513676, 4206907; 513658, 4206930; 513642, 4206947; 513619, 4206959; 513599, 4206968; 513585, 4206968; 513569, 4206968; 513557, 4206968; 513539, 4206972; 513516, 4206989; 513468, 4207041; 513468, 4207041; 513443, 4207063; 513410, 4207091; 513392, 4207105; 513391, 4207106; 513389, 4207107; 513373, 4207120; 513363, 4207126; 513330, 4207150; 513313, 4207156; 513295, 4207167; 513284, 4207176; 513270, 4207182; 513232, 4207205; 513232, 4207205; 513226, 4207209; 513192, 4207236; 513183, 4207245; 513168, 4207255; 513146, 4207270; 513131, 4207279; 513122, 4207288; 513122, 4207288; 513115, 4207297; 513096, 4207325; 513095, 4207326; 513082, 4207350; 513069, 4207356; 513041, 4207368; 512986, 4207407; 512966, 4207417; 512960, 4207423; 512959, 4207423; 512930, 4207449; 512901, 4207471; 512862, 4207491; 512860, 4207492; 512832, 4207509; 512802, 4207532; 512800, 4207534; 512777, 4207559; 512773, 4207562; 512772, 4207564; 512760, 4207574; 512746, 4207583; 512713, 4207601; 512658, 4207631; 512625, 4207655; 512595, 4207687; 512565, 4207687; 512544, 4207693; 512538, 4207696; 512504, 4207722; 512465, 4207741; 512446, 4207756; 512389, 4207787; 512360, 4207799; 512346, 4207804; 512204, 4207861; 512155, 4207890; 512130, 4207906; 512116, 4207913; 512061, 4207939; 512026, 4207956; 511980, 4207978; 511961, 4207985; 511937, 4207996; 511901, 4208015; 511865, 4208035; 511835, 4208055; 511784, 4208071; 511737, 4208092; 511715, 4208099; 511713, 4208099; 511711, 4208100; 511711, 4208100; 511699, 4208103; 511690, 4208107; 511658, 4208126; 511623, 4208137; 511596, 4208144; 511567, 4208156; 511538, 4208167; 511522, 4208174; 511438, 4208217; 511402, 4208226; 511373, 4208238; 511365, 4208239; 511359, 4208242; 511309, 4208257; 511298, 4208263; 511286, 4208265; 511285, 4208265; 511203, 4208297; 511139, 4208329; 511131, 4208333; 511111, 4208342; 511065, 4208359; 511035, 4208368; 510998, 4208380; 510874, 4208414; 510874, 4208414; 510854, 4208425; 510796, 4208447; 510794, 4208447; 510758, 4208465; 510753, 4208467; 510751, 4208468; 510747, 4208469; 510603, 4208523; 510576, 4208534; 510576, 4208534; 510560, 4208544; 510538, 4208550; 510536, 4208551; 510478, 4208575; 510441, 4208590; 510383, 4208607; 510313, 4208639; 510275, 4208649; 510264, 4208651; 510243, 4208657; 510242, 4208657; 510237, 4208658; 510221, 4208662; 510216, 4208664; 510197, 4208669; 510126, 4208687; 510044, 4208701; 510038, 4208702; 510014, 4208708; 509975, 4208715; 509943, 4208724; 509909, 4208726; 509877, 4208739; 509841, 4208743; 509801, 4208750; 509764, 4208752; 509726, 4208763; 509681, 4208773; 509650, 4208776; 509629, 4208781; 509595, 4208788; 509521, 4208801; 509491, 4208804; 509466, 4208806; 509466, 4208806; 509459, 4208808; 509418, 4208826; 509366, 4208841; 509351, 4208842; 509342, 4208844; 509317, 4208852; 509300, 4208857; 509249, 4208874; 509211, 4208877; 509144, 4208894; 509109, 4208900; 509065, 4208902; 509065, 4208902; 509037, 4208906; 509024, 4208906; 509002, 4208910; 508980, 4208909; 508945, 4208914; 508904, 4208920; 508774, 4208934; 508761, 4208935; 508722, 4208939; 508680, 4208947; 508651, 4208951; 508633, 4208953; 508612, 4208953; 508573, 4208949; 508520, 4208952; 508503, 4208954; 508469, 4208956; 508428, 4208959; 508401, 4208958; 508353, 4208963; 508334, 4208962; 508295, 4208964; 508246, 4208967; 508198, 4208968; 508082, 4208979; 508057, 4208981; 508052, 4208981; 508049, 4208982; 507968, 4208991; 507958, 4208990; 507956, 4208990; 507863, 4208999; 507846, 4208998; 507799, 4208992; 507799, 4208992; 507687, 4208989; 507685, 4208989; 507666, 4208989; 507639, 4208991; 507593, 4208992; 507553, 4208989; 507514, 4208990; 507505, 4208990; 507504, 4208990; 507483, 4208991; 507432, 4208991; 507393, 4208988; 507366, 4208990; 507359, 4208991; 507287, 4208995; 507233, 4208992; 507198, 4208988; 507146, 4208990; 507139, 4208989; 507137, 4208989; 507110, 4208997; 507083, 4208996; 507032, 4209008; 507022, 4209010; 507006, 4209013; 506992, 4209013; 506991, 4209013; 506969, 4209015; 506969, 4209015; 506942, 4209021; 506941, 4209021; 506926, 4209025; 506904, 4209030; 506904,

4209030; 506852, 4209052; 506844, 4209055; 506844, 4209055; 506840, 4209056; 506838, 4209056; 506814, 4209062; 506807, 4209062; 506797, 4209067; 506775, 4209072; 506753, 4209070; 506734, 4209063; 506714, 4209045; 506679, 4209027; 506643, 4209013; 506640, 4209013; 506592, 4209014; 506587, 4209013; 506587, 4209013; 506572, 4209014; 506543, 4209010; 506538, 4209011; 506527, 4209009; 506500, 4209010; 506470, 4209020; 506386, 4209035; 506380, 4209038; 506360, 4209047; 506305, 4209109; 506289, 4209123; 506281, 4209138; 506263, 4209149; 506232, 4209178; 506185, 4209217; 506170, 4209237; 506151, 4209252; 506127, 4209284; 506123, 4209288; 506100, 4209325; 506064, 4209416; 506062, 4209420; 506061, 4209422; 506060, 4209425; 506037, 4209473; 506030, 4209494; 506030, 4209494; 506026, 4209510; 506025, 4209545; 506040, 4209587; 506067, 4209606; 506078, 4209606; 506084, 4209605; 506084, 4209605; 506103, 4209595; 506125, 4209573; 506148, 4209543; 506171, 4209515; 506176, 4209509; 506177, 4209507; 506192, 4209490; 506193, 4209490; 506200, 4209482; 506221, 4209462; 506251, 4209433; 506282, 4209408; 506294, 4209395; 506349, 4209346; 506349, 4209346; 506381, 4209314; 506411, 4209288; 506438, 4209252; 506476, 4209213; 506487, 4209204; 506487, 4209204; 506493, 4209196; 506522, 4209169; 506536, 4209157; 506548, 4209152; 506566, 4209137; 506587, 4209130; 506599, 4209122; 506620, 4209121; 506627, 4209122; 506627, 4209122; 506631, 4209121; 506637, 4209122; 506659, 4209124; 506684, 4209127; 506689, 4209126; 506704, 4209127; 506724, 4209122; 506730, 4209123; 506747, 4209117; 506795, 4209107; 506828, 4209099; 506865, 4209092; 506911, 4209089; 506944, 4209086; 506945, 4209086; 506962, 4209082; 506994, 4209074; 507025, 4209067; 507045, 4209070; 507049, 4209074; 507050, 4209081; 507050, 4209081; 507035, 4209106; 507020, 4209143; 507021, 4209143; 507033, 4209137; 507037, 4209135; 507043, 4209129; 507047, 4209121; 507058, 4209114; 507062, 4209110; 507069, 4209106; 507076, 4209099; 507111, 4209099; 507122, 4209102; 507136, 4209109; 507141, 4209114; 507157, 4209120; 507177, 4209122; 507187, 4209123; 507194, 4209120; 507203, 4209121; 507215, 4209120; 507224, 4209119; 507224, 4209119; 507238, 4209114; 507259, 4209115; 507283, 4209116; 507305, 4209119; 507332, 4209127; 507345, 4209136; 507351, 4209146; 507354,

4209151; 507378, 4209174; 507381, 4209175; 507381, 4209175; 507389, 4209173; 507400, 4209178; 507405, 4209178; 507412, 4209183; 507416, 4209187; 507416, 4209187; 507427, 4209192; 507442, 4209190; 507457, 4209193; 507467, 4209192; 507474, 4209190; 507492, 4209179; 507512, 4209173; 507550, 4209150; 507576, 4209141; 507576, 4209141; 507584, 4209137; 507600, 4209130; 507605, 4209130; 507616, 4209126; 507632, 4209136; 507645, 4209139; 507653, 4209129; 507662, 4209119; 507678, 4209109; 507686, 4209105; 507697, 4209109; 507699, 4209112; 507699, 4209112; 507710, 4209123; 507719, 4209128; 507729, 4209132; 507737, 4209127; 507737, 4209127; 507741, 4209124; 507751, 4209114; 507761, 4209101; 507776, 4209096; 507788, 4209094; 507817, 4209104; 507854, 4209118; 507893, 4209130; 507905, 4209139; 507911, 4209153; 507910, 4209155; 507910, 4209155; 507911, 4209157; 507909, 4209162; 507908, 4209172; 507909, 4209190; 507910, 4209192; 507920, 4209217; 507932, 4209222; 507947, 4209230; 507949, 4209231; 507970, 4209227; 507971, 4209227; 507984, 4209221; 508001, 4209218; 508016, 4209208; 508035, 4209209; 508051, 4209203; 508092, 4209196; 508127, 4209185; 508160, 4209166; 508182, 4209159; 508216, 4209130; 508225, 4209109; 508230, 4209107; 508230, 4209107; 508234, 4209105; 508237, 4209104; 508246, 4209094; 508265, 4209096; 508290, 4209093; 508298, 4209091; 508298, 4209091; 508303, 4209088; 508306, 4209088; 508306, 4209088; 508308, 4209088; 508337, 4209083; 508344, 4209084; 508350, 4209081; 508374, 4209080; 508388, 4209085; 508419, 4209077; 508426, 4209077; 508446, 4209070; 508469, 4209070; 508469, 4209070; 508475, 4209068; 508479, 4209070; 508479, 4209070; 508480, 4209070; 508500, 4209078; 508522, 4209079; 508534, 4209083; 508534, 4209083; 508554, 4209082; 508577, 4209082; 508580, 4209081; 508584, 4209082; 508593, 4209081; 508600, 4209085; 508605, 4209086; 508609, 4209089; 508616, 4209092; 508624, 4209098; 508633, 4209102; 508638, 4209109; 508644, 4209114; 508668, 4209136; 508672, 4209139; 508684, 4209150; 508700, 4209160; 508745, 4209176; 508780, 4209177; 508783, 4209177; 508812, 4209168; 508825, 4209169; 508849, 4209164; 508882, 4209158; 508920, 4209154; 508921, 4209154; 508953, 4209149; 508972, 4209145; 508999, 4209149; 509017, 4209148; 509027, 4209152; 509031, 4209145; 509031, 4209145; 509033, 4209133; 509038, 4209118; 509049, 4209111; 509063, 4209114; 509077, 4209121; 509082, 4209126; 509082, 4209126; 509097, 4209134; 509101, 4209143; 509104, 4209145; 509121, 4209154; 509131, 4209163; 509139, 4209168; 509159, 4209174; 509170, 4209175; 509196, 4209176; 509217, 4209183; 509237, 4209182; 509252, 4209184; 509278, 4209175; 509295, 4209166; 509311, 4209161; 509334, 4209150; 509334, 4209150; 509342, 4209146; 509348, 4209144; 509398, 4209114; 509403, 4209111; 509423, 4209097; 509431, 4209095; 509455, 4209081; 509480, 4209078; 509480, 4209078; 509499, 4209071; 509529, 4209071; 509561, 4209078; 509587, 4209078; 509636, 4209093; 509659, 4209104; 509685, 4209107; 509699, 4209114; 509714, 4209108; 509720, 4209108; 509726, 4209104; 509732, 4209099; 509744, 4209072; 509753, 4209028; 509759, 4209016; 509760, 4209010; 509762, 4209003; 509763, 4209000; 509764, 4208998; 509764, 4208998; 509770, 4208977; 509783, 4208954; 509783, 4208954; 509787, 4208945; 509793, 4208940; 509806, 4208925; 509808, 4208923; 509808, 4208923; 509812, 4208918; 509818, 4208915; 509818, 4208915; 509846, 4208890; 509849, 4208889; 509849, 4208889; 509862, 4208876; 509879, 4208872; 509891, 4208860; 509906, 4208860; 509920, 4208854; 509929, 4208858; 509956, 4208850; 509970, 4208854; 509973, 4208854; 509994, 4208851; 509994, 4208851; 509994, 4208851; 510004, 4208855; 510010, 4208862; 510025, 4208865; 510033, 4208877; 510039, 4208880; 510042, 4208880; 510049, 4208890; 510049, 4208890; 510052, 4208894; 510043, 4208923; 510042, 4208945; 510044, 4208951; 510045, 4208952; 510054, 4208958; 510083, 4208953; 510088, 4208951; 510095, 4208951; 510121, 4208950; 510130, 4208954; 510136, 4208954; 510144, 4208959; 510144, 4208961; 510146, 4208961; 510154, 4208978; 510154, 4208978; 510157, 4208984; 510158, 4209010; 510150, 4209057; 510143, 4209095; 510142, 4209108; 510142, 4209143; 510142, 4209214; 510134, 4209275; 510131, 4209303; 510131, 4209307; 510137, 4209314; 510138, 4209340; 510140, 4209349; 510142, 4209378; 510142, 4209381; 510146, 4209405; 510147, 4209409; 510158, 4209431; 510153, 4209435; 510169, 4209453; 510172, 4209451; 510233, 4209478; 510250, 4209493; 510263, 4209499; 510269, 4209510; 510272, 4209507; 510274, 4209514; 510279, 4209520; 510279, 4209534; 510282, 4209538; 510280, 4209554; 510283, 4209558; 510284,

4209612; 510289, 4209635; 510295, 4209653; 510304, 4209673; 510319, 4209698; 510332, 4209707; 510345, 4209723; 510364, 4209734; 510379, 4209753; 510406, 4209777; 510418, 4209793; 510470, 4209840; 510482, 4209848; 510496, 4209864; 510507, 4209903; 510510, 4209921; 510513, 4209942; 510514, 4209969; 510527, 4210060; 510534, 4210113; 510535, 4210135; 510529, 4210144; 510511, 4210154; 510476, 4210146; 510470, 4210134; 510459, 4210122; 510453, 4210103; 510445, 4210093; 510441, 4210073; 510440, 4210057; 510439, 4210055; 510427, 4210025; 510415, 4210004; 510403, 4209988; 510375, 4209944; 510350, 4209909; 510307, 4209879; 510296, 4209863; 510251, 4209773; 510234, 4209753; 510220, 4209720; 510210, 4209701; 510202, 4209684; 510147, 4209602; 510112, 4209565; 510100, 4209558; 510074, 4209535; 510065, 4209507; 510065, 4209507; 510062, 4209503; 510053, 4209499; 510041, 4209475; 510035, 4209456; 510024, 4209413; 510018, 4209399; 510012, 4209365; 510004, 4209344; 510001, 4209310; 509997, 4209290; 509993, 4209279; 509985, 4209267; 509960, 4209246; 509932, 4209222; 509919, 4209208; 509903, 4209176; 509891, 4209149; 509890, 4209148; 509881, 4209127; 509881, 4209123; 509881, 4209123; 509875, 4209103; 509874, 4209076; 509875, 4209070; 509874, 4209059; 509880, 4209033; 509904, 4208991; 509912, 4208981; 509936, 4208966; 509952, 4208963; 509990, 4208951; 510016, 4208932; 510017, 4208922; 510014, 4208901; 510005, 4208889; 510001, 4208886; 509983, 4208884; 509960, 4208879; 509935, 4208880; 509897, 4208890; 509874, 4208903; 509859, 4208919; 509844, 4208944; 509843, 4208945; 509835, 4208966; 509835, 4208966; 509829, 4208985; 509827, 4208991; 509827, 4209005; 509817, 4209031; 509816, 4209037; 509810, 4209085; 509794, 4209132; 509787, 4209139; 509779, 4209141; 509767, 4209149; 509761, 4209149; 509761, 4209149; 509740, 4209162; 509703, 4209222; 509688, 4209239; 509672, 4209247; 509667, 4209252; 509637, 4209269; 509597, 4209284; 509587, 4209299; 509560, 4209339; 509560, 4209339; 509554, 4209352; 509554, 4209352; 509547, 4209368; 509537, 4209395; 509534, 4209405; 509525, 4209448; 509522, 4209605; 509528, 4209648; 509529, 4209649; 509533, 4209668; 509535, 4209672; 509539, 4209682; 509539, 4209708; 509539, 4209717; 509538, 4209735; 509539, 4209770; 509540, 4209781; 509542, 4209833; 509555, 4209867; 509569,

4209887; 509569, 4209887; 509572, 4209888; 509573, 4209888; 509573, 4209888; 509582, 4209896; 509587, 4209894; 509591, 4209892; 509593, 4209896; 509599, 4209906; 509588, 4209924; 509582, 4209938; 509567, 4209934; 509560, 4209938; 509538, 4209951; 509534, 4209955; 509531, 4209958; 509530, 4209969; 509527, 4210004; 509523, 4210028; 509518, 4210061; 509512, 4210082; 509498, 4210182; 509500, 4210335; 509497, 4210378; 509505, 4210440; 509505, 4210442; 509519, 4210458; 509522, 4210470; 509521, 4210472; 509522, 4210474; 509522, 4210475; 509530, 4210514; 509503, 4210558; 509481, 4210581; 509421, 4210611; 509397, 4210607; 509393, 4210603; 509392, 4210603; 509380, 4210604; 509365, 4210587; 509363, 4210579; 509368, 4210564; 509369, 4210562; 509396, 4210511; 509397, 4210504; 509397, 4210503; 509398, 4210455; 509395, 4210447; 509382, 4210415; 509376, 4210392; 509369, 4210346; 509363, 4210322; 509351, 4210288; 509347, 4210265; 509347, 4210247; 509353, 4210208; 509367, 4210144; 509368, 4210120; 509378, 4210075; 509384, 4210023; 509384, 4210008; 509379, 4209980; 509379, 4209979; 509378, 4209971; 509376, 4209961; 509369, 4209944; 509367, 4209940; 509365, 4209919; 509357, 4209892; 509337, 4209815; 509322, 4209799; 509302, 4209791; 509284, 4209778; 509283, 4209768; 509282, 4209767; 509268, 4209752; 509262, 4209739; 509262, 4209735; 509267, 4209731; 509271, 4209728; 509297, 4209714; 509300, 4209710; 509309, 4209699; 509320, 4209689; 509322, 4209688; 509323, 4209681; 509327, 4209668; 509329, 4209658; 509328, 4209646; 509331, 4209624; 509334, 4209620; 509335, 4209619; 509329, 4209591; 509329, 4209591; 509323, 4209591; 509317, 4209580; 509312, 4209567; 509299, 4209539; 509282, 4209514; 509267, 4209488; 509252, 4209467; 509249, 4209463; 509234, 4209448; 509213, 4209441; 509191, 4209428; 509180, 4209413; 509163, 4209394; 509119, 4209367; 509086, 4209348; 509056, 4209333; 509011, 4209330; 508981, 4209331; 508941, 4209327; 508914, 4209329; 508866, 4209326; 508799, 4209325; 508744, 4209328; 508718, 4209333; 508675, 4209337; 508654, 4209336; 508603, 4209340; 508586, 4209344; 508542, 4209369; 508456, 4209408; 508322, 4209434; 508196, 4209471; 508147, 4209491; 508043, 4209600; 508022, 4209645; 508011, 4209679; 508016, 4209696; 508025, 4209702; 508037, 4209717; 508055, 4209731; 508113, 4209786; 508131, 4209809; 508160, 4209853; 508173, 4209875; 508194, 4209920; 508198, 4209944; 508202, 4209987; 508203, 4209993; 508207, 4210018; 508215, 4210037; 508221, 4210065; 508232, 4210082; 508245, 4210110; 508255, 4210124; 508259, 4210148; 508258, 4210169; 508258, 4210173; 508261, 4210247; 508274, 4210300; 508276, 4210307; 508290, 4210333; 508376, 4210425; 508398, 4210437; 508411, 4210455; 508409, 4210462; 508410, 4210464; 508407, 4210485; 508371, 4210567; 508364, 4210595; 508358, 4210636; 508339, 4210654; 508327, 4210662; 508325, 4210663; 508325, 4210663; 508322, 4210664; 508316, 4210670; 508248, 4210696; 508178, 4210733; 508157, 4210758; 508159, 4210786; 508182, 4210820; 508190, 4210838; 508199, 4210870; 508200, 4210879; 508218, 4210924; 508219, 4210925; 508230, 4210936; 508238, 4210942; 508252, 4210956; 508266, 4210964; 508286, 4210987; 508299, 4210996; 508310, 4211016; 508312, 4211038; 508316, 4211045; 508308, 4211083; 508299, 4211091; 508290, 4211100; 508286, 4211100; 508206, 4211163; 508197, 4211172; 508179, 4211187; 508161, 4211198; 508151, 4211205; 508069, 4211276; 508048, 4211311; 508039, 4211343; 507996, 4211440; 507988, 4211456; 507969, 4211477; 507965, 4211495; 507964, 4211500; 507965, 4211505; 507970, 4211518; 507974, 4211517; 507979, 4211523; 507982, 4211523; 507979, 4211538; 507976, 4211538; 507972, 4211544; 507971, 4211549; 507957, 4211557; 507939, 4211551; 507920, 4211530; 507920, 4211524; 507908, 4211517; 507911, 4211507; 507910, 4211506; 507911, 4211506; 507912, 4211500; 507913, 4211485; 507909, 4211473; 507903, 4211450; 507898, 4211412; 507894, 4211365; 507883, 4211308; 507873, 4211269; 507863, 4211232; 507863, 4211231; 507863, 4211230; 507864, 4211225; 507863, 4211219; 507869, 4211174; 507869, 4211174; 507867, 4211145; 507859, 4211108; 507858, 4211083; 507856, 4211053; 507851, 4211034; 507852, 4210985; 507863, 4210876; 507862, 4210832; 507859, 4210820; 507857, 4210817; 507854, 4210801; 507846, 4210784; 507838, 4210763; 507836, 4210758; 507818, 4210725; 507815, 4210719; 507804, 4210702; 507799, 4210693; 507754, 4210631; 507745, 4210600; 507740, 4210593; 507737, 4210584; 507735, 4210575; 507724, 4210552; 507682, 4210512; 507675, 4210511; 507663, 4210501; 507654, 4210495; 507653, 4210482; 507655, 4210476; 507658, 4210465; 507664, 4210456; 507670, 4210443; 507672,

4210433; 507673, 4210420; 507669, 4210404; 507664, 4210385; 507656, 4210361; 507652, 4210343; 507648, 4210323; 507645, 4210316; 507641, 4210309; 507631, 4210297; 507621, 4210290; 507618, 4210290; 507608, 4210283; 507597, 4210275; 507590, 4210269; 507590, 4210261; 507590, 4210253; 507588, 4210241; 507586, 4210231; 507581, 4210222; 507577, 4210209; 507577, 4210195; 507579, 4210182; 507585, 4210169; 507589, 4210155; 507591, 4210147; 507588, 4210135; 507585, 4210119; 507581, 4210103; 507583, 4210085; 507586, 4210066; 507597, 4210048; 507606, 4210034; 507606, 4210033; 507606, 4210033; 507610, 4210027; 507618, 4210016; 507618, 4210016; 507622, 4210007; 507624, 4209998; 507624, 4209986; 507626, 4209971; 507625, 4209949; 507625, 4209923; 507622, 4209885; 507623, 4209855; 507625, 4209827; 507623, 4209800; 507623, 4209765; 507621, 4209734; 507618, 4209696; 507613, 4209665; 507608, 4209637; 507597, 4209611; 507581, 4209581; 507565, 4209558; 507548, 4209540; 507534, 4209526; 507534, 4209526; 507519, 4209520; 507466, 4209510; 507408, 4209512; 507393, 4209515; 507379, 4209522; 507365, 4209522; 507349, 4209526; 507329, 4209535; 507303, 4209553; 507282, 4209578; 507267, 4209604; 507243, 4209663; 507232, 4209712; 507226, 4209815; 507223, 4209841; 507215, 4209870; 507214, 4209882; 507206, 4209917; 507196, 4209936; 507194, 4209933; 507189, 4209938; 507184, 4209936; 507183, 4209935; 507182, 4209936; 507181, 4209932; 507181, 4209932; 507178, 4209928; 507173, 4209910; 507172, 4209906; 507168, 4209891; 507168, 4209884; 507167, 4209876; 507167, 4209874; 507164, 4209866; 507159, 4209843; 507158, 4209822; 507153, 4209795; 507152, 4209771; 507141, 4209712; 507138, 4209669; 507128, 4209585; 507128, 4209585; 507119, 4209552; 507115, 4209546; 507091, 4209526; 507054, 4209504; 506988, 4209482; 506934, 4209475; 506803, 4209471; 506775, 4209472; 506767, 4209475; 506733, 4209481; 506712, 4209481; 506641, 4209503; 506625, 4209543; 506599, 4209642; 506594, 4209654; 506594, 4209654; 506594, 4209655; 506585, 4209679; 506528, 4209715; 506523, 4209719; 506512, 4209725; 506500, 4209735; 506489, 4209745; 506470, 4209762; 506464, 4209768; 506454, 4209784; 506435, 4209797; 506428, 4209798; 506417, 4209804; 506405, 4209809; 506385, 4209807; 506384, 4209807; 506380, 4209808; 506380, 4209807; 506374, 4209808; 506371,

4209804; 506367, 4209803; 506358, 4209785; 506357, 4209779; 506357, 4209768; 506355, 4209763; 506335, 4209751; 506293, 4209745; 506246, 4209747; 506211, 4209743; 506118, 4209745; 506012, 4209754; 505982, 4209765; 505973, 4209783; 505968, 4209916; 505932, 4209915; 505929, 4209930; 505929, 4209936; 505927, 4209963; 505927, 4209975; 505912, 4210032; 505910, 4210045; 505907, 4210052; 505906, 4210057; 505906, 4210057; 505904, 4210075; 505904, 4210081; 505910, 4210125; 505945, 4210227; 505945, 4210229; 505950, 4210251; 505950, 4210252; 505956, 4210278; 505958, 4210284; 505963, 4210296; 505978, 4210346; 505980, 4210358; 505986, 4210375; 505989, 4210384; 505988, 4210411; 505989, 4210421; 505986, 4210444; 505979, 4210463; 505975, 4210478; 505968, 4210484; 505964, 4210496; 505925, 4210542; 505899, 4210562; 505860, 4210585; 505834, 4210600; 505794, 4210613; 505787, 4210615; 505786, 4210615; 505786, 4210615; 505741, 4210622; 505711, 4210635; 505661, 4210668; 505581, 4210748; 505541, 4210808; 505524, 4210853; 505483, 4210945; 505486, 4210963; 505496, 4210991; 505531, 4211046; 505537, 4211060; 505539, 4211063; 505540, 4211067; 505553, 4211096; 505565, 4211115; 505579, 4211141; 505612, 4211174; 505613, 4211176; 505625, 4211189; 505642, 4211214; 505651, 4211235; 505654, 4211246; 505662, 4211260; 505668, 4211328; 505668, 4211329; 505669, 4211332; 505675, 4211356; 505682, 4211373; 505688, 4211405; 505688, 4211405; 505689, 4211407; 505697, 4211428; 505700, 4211449; 505701, 4211456; 505708, 4211475; 505711, 4211481; 505719, 4211501; 505728, 4211521; 505729, 4211531; 505733, 4211544; 505740, 4211563; 505741, 4211575; 505741, 4211578; 505803, 4211801; 505818, 4211820; 505822, 4211839; 505840, 4211867; 505840, 4211867; 505842, 4211870; 505843, 4211873; 505843, 4211873; 505861, 4211906; 505864, 4211907; 505867, 4211906; 505883, 4211908; 505898, 4211914; 505905, 4211915; 505914, 4211921; 505918, 4211923; 505928, 4211924; 505933, 4211928; 505943, 4211930; 505970, 4211956; 505971, 4211956; 505993, 4211975; 506016, 4211992; 506080, 4212017; 506091, 4212019; 506098, 4212023; 506105, 4212024; 506123, 4212035; 506155, 4212049; 506169, 4212065; 506183, 4212074; 506198, 4212097; 506215, 4212115; 506231, 4212125; 506253, 4212142; 506272, 4212150; 506301, 4212169; 506350, 4212195; 506371, 4212210; 506387, 4212212; 506401, 4212220; 506402, 4212220; 506412, 4212227; 506417, 4212233; 506417, 4212233; 506432, 4212246; 506464, 4212265; 506478, 4212277; 506490, 4212282; 506511, 4212297; 506512, 4212297; 506528, 4212306; 506533, 4212313; 506533, 4212315; 506534, 4212316; 506549, 4212349; 506573, 4212380; 506586, 4212420; 506603, 4212436; 506611, 4212438; 506618, 4212439; 506626, 4212443; 506638, 4212446; 506648, 4212445; 506661, 4212449; 506685, 4212451; 506686, 4212450; 506717, 4212439; 506729, 4212431; 506741, 4212432; 506762, 4212428; 506764, 4212427; 506767, 4212427; 506767, 4212427; 506781, 4212424; 506785, 4212426; 506785, 4212426; 506794, 4212426; 506807, 4212426; 506814, 4212424; 506819, 4212458; 506823, 4212472; 506829, 4212490; 506830, 4212507; 506833, 4212520; 506831, 4212546; 506827, 4212560; 506825, 4212596; 506806, 4212654; 506829, 4212696; 506836, 4212702; 506836, 4212702; 506836, 4212702; 506849, 4212713; 506866, 4212719; 506866, 4212719; 506877, 4212722; 506898, 4212726; 506922, 4212733; 506957, 4212757; 506972, 4212769; 506994, 4212794; 507015, 4212811; 507032, 4212829; 507049, 4212854; 507055, 4212866; 507054, 4212867; 507057, 4212871; 507056, 4212875; 507062, 4212882; 507017, 4212902; 506897, 4212979; 506875, 4213038; 506870, 4213078; 506986, 4213262; 506987, 4213262; 507013, 4213277; 507091, 4213310; 507115, 4213317; 507142, 4213328; 507190, 4213339; 507223, 4213350; 507227, 4213352; 507227, 4213352; 507263, 4213362; 507300, 4213375; 507337, 4213389; 507348, 4213399; 507345, 4213405; 507345, 4213405; 507342, 4213409; 507351, 4213416; 507380, 4213436; 507383, 4213434; 507394, 4213445; 507417, 4213476; 507429, 4213489; 507435, 4213495; 507473, 4213521; 507502, 4213535; 507574, 4213566; 507587, 4213571; 507605, 4213574; 507631, 4213586; 507654, 4213600; 507675, 4213603; 507689, 4213612; 507701, 4213616; 507715, 4213632; 507714, 4213654; 507714, 4213654; 507721, 4213695; 507727, 4213762; 507741, 4213781; 507744, 4213804; 507754, 4213851; 507757, 4213876; 507766, 4213902; 507766, 4213927; 507765, 4213939; 507760, 4213946; 507762, 4213958; 507745, 4213965; 507733, 4213957; 507733, 4213957; 507719, 4213955; 507716, 4213952; 507701, 4213945; 507696, 4213936; 507690, 4213911; 507680, 4213885; 507674, 4213877; 507666, 4213863; 507643, 4213838; 507634, 4213824; 507622,

4213811; 507619, 4213805; 507618, 4213804; 507527, 4213743; 507498, 4213731; 507386, 4213720; 507377, 4213715; 507374, 4213716; 507357, 4213724; 507349, 4213734; 507325, 4213740; 507319, 4213722; 507320, 4213683; 507311, 4213678; 507307, 4213668; 507287, 4213646; 507260, 4213627; 507227, 4213612; 507219, 4213602; 507208, 4213594; 507202, 4213580; 507202, 4213577; 507194, 4213554; 507163, 4213534; 507151, 4213531; 507141, 4213533; 507117, 4213547; 507092, 4213564; 506992, 4213634; 506888, 4213687; 506854, 4213707; 506819, 4213738; 506814, 4213747; 506812, 4213783; 506847, 4213842; 506850, 4213857; 506841, 4213885; 506832, 4213892; 506831, 4213893; 506823, 4213906; 506826, 4213931; 506794, 4213991; 506786, 4214017; 506786, 4214020; 506786, 4214020; 506787, 4214030; 506787, 4214047; 506784, 4214074; 506776, 4214090; 506773, 4214094; 506771, 4214113; 506758, 4214116; 506752, 4214111; 506751, 4214111; 506743, 4214110; 506734, 4214098; 506731, 4214090; 506721, 4214079; 506721, 4214063; 506713, 4214036; 506705, 4214022; 506689, 4214009; 506679, 4213997; 506681, 4213991; 506679, 4213979; 506682, 4213950; 506687, 4213926; 506699, 4213888; 506719, 4213849; 506737, 4213824; 506751, 4213792; 506752, 4213790; 506752, 4213787; 506755, 4213761; 506755, 4213719; 506750, 4213691; 506750, 4213691; 506746, 4213671; 506719, 4213587; 506708, 4213543; 506700, 4213526; 506693, 4213503; 506693, 4213492; 506689, 4213478; 506679, 4213457; 506668, 4213430; 506666, 4213425; 506649, 4213401; 506643, 4213391; 506628, 4213371; 506595, 4213328; 506574, 4213301; 506559, 4213281; 506527, 4213233; 506517, 4213211; 506507, 4213184; 506495, 4213167; 506484, 4213142; 506483, 4213137; 506481, 4213132; 506471, 4213103; 506471, 4213084; 506471, 4213082; 506471, 4213082; 506463, 4213065; 506455, 4213033; 506448, 4212996; 506426, 4212936; 506423, 4212931; 506405, 4212904; 506348, 4212881; 506315, 4212856; 506282, 4212848; 506268, 4212839; 506254, 4212836; 506246, 4212824; 506243, 4212815; 506248, 4212775; 506230, 4212757; 506126, 4212783; 506033, 4212837; 506000, 4212859; 505995, 4212862; 505969, 4212882; 505887, 4212938; 505868, 4212955; 505858, 4212973; 505846, 4213010; 505835, 4213134; 505818, 4213157; 505800, 4213169; 505795, 4213182; 505814, 4213207; 505815, 4213207; 505847, 4213244; 505852, 4213258; 505858,

4213265; 505858, 4213266; 505862, 4213271; 505876, 4213305; 505883, 4213317; 505897, 4213364; 505895, 4213409; 505888, 4213447; 505883, 4213460; 505883, 4213460; 505883, 4213473; 505859, 4213501; 505786, 4213556; 505786, 4213559; 505793, 4213575; 505804, 4213605; 505808, 4213635; 505812, 4213651; 505832, 4213764; 505842, 4213798; 505843, 4213823; 505839, 4213844; 505841, 4213871; 505829, 4213936; 505800, 4213961; 505766, 4213980; 505741, 4214004; 505714, 4214048; 505709, 4214061; 505699, 4214114; 505700, 4214146; 505711, 4214199; 505713, 4214207; 505714, 4214211; 505715, 4214214; 505794, 4214372; 505822, 4214442; 505835, 4214460; 505849, 4214476; 505853, 4214484; 505868, 4214502; 505906, 4214565; 505907, 4214566; 505908, 4214568; 505908, 4214569; 505929, 4214584; 505980, 4214660; 505986, 4214673; 505989, 4214677; 505989, 4214680; 505999, 4214691; 505996, 4214737; 505998, 4214772; 505996, 4214804; 505990, 4214828; 505987, 4214834; 505986, 4214849; 505975, 4214883; 505941, 4214940; 505922, 4214995; 505889, 4215011; 505795, 4215038; 505789, 4215041; 505761, 4215056; 505730, 4215082; 505676, 4215146; 505667, 4215165; 505667, 4215174; 505669, 4215185; 505676, 4215206; 505682, 4215213; 505691, 4215212; 505696, 4215215; 505713, 4215210; 505725, 4215209; 505734, 4215206; 505751, 4215209; 505765, 4215213; 505786, 4215215; 505800, 4215221; 505828, 4215249; 505831, 4215253; 505834, 4215254; 505869, 4215291; 505879, 4215296; 505891, 4215299; 505901, 4215305; 505912, 4215308; 505940, 4215319; 505952, 4215325; 505962, 4215333; 505994, 4215348; 506016, 4215366; 506017, 4215367; 506018, 4215368; 506047, 4215394; 506057, 4215426; 506071, 4215552; 506118, 4215690; 506153, 4215767; 506227, 4215830; 506265, 4215873; 506267, 4215875; 506277, 4215883; 506300, 4215906; 506306, 4215910; 506306, 4215918; 506302, 4215920; 506300, 4215924; 506296, 4215923; 506297, 4215923; 506198, 4215950; 506171, 4215944; 506163, 4215947; 506139, 4215961; 506123, 4215967; 506113, 4215969; 506108, 4215967; 506101, 4215965; 506069, 4215954; 506058, 4215944; 506049, 4215927; 506041, 4215915; 506029, 4215905; 506027, 4215904; 506012, 4215914; 505990, 4215917; 505976, 4215909; 505976, 4215904; 505971, 4215899; 505966, 4215890; 505969, 4215868; 505969, 4215868; 505969, 4215868; 505970, 4215859; 505972, 4215853; 505971, 4215851; 505967, 4215846; 505836, 4215795; 505775, 4215761; 505771, 4215759; 505735, 4215739; 505707, 4215719; 505705, 4215716; 505705, 4215716; 505696, 4215708; 505693, 4215700; 505688, 4215692; 505686, 4215679; 505685, 4215677; 505682, 4215655; 505679, 4215610; 505682, 4215555; 505684, 4215551; 505684, 4215551; 505684, 4215547; 505691, 4215526; 505704, 4215498; 505726, 4215455; 505737, 4215433; 505737, 4215433; 505741, 4215420; 505741, 4215411; 505740, 4215403; 505732, 4215388; 505714, 4215368; 505700, 4215355; 505695, 4215348; 505695, 4215348; 505686, 4215339; 505675, 4215323; 505662, 4215303; 505651, 4215278; 505634, 4215241; 505631, 4215234; 505613, 4215201; 505562, 4215128; 505557, 4215123; 505529, 4215094; 505500, 4215065; 505486, 4215047; 505473, 4215029; 505472, 4215008; 505479, 4215000; 505480, 4214996; 505486, 4214990; 505500, 4214984; 505524, 4214980; 505539, 4214973; 505550, 4214972; 505562, 4214963; 505567, 4214963; 505573, 4214956; 505579, 4214938; 505578, 4214929; 505566, 4214892; 505559, 4214877; 505558, 4214876; 505558, 4214875; 505555, 4214864; 505553, 4214857; 505543, 4214819; 505547, 4214788; 505532, 4214764; 505532, 4214764; 505527, 4214759; 505521, 4214755; 505493, 4214734; 505459, 4214716; 505428, 4214692; 505411, 4214676; 505392, 4214655; 505374, 4214630; 505363, 4214608; 505355, 4214589; 505346, 4214565; 505339, 4214556; 505305, 4214526; 505285, 4214503; 505278, 4214493; 505270, 4214485; 505248, 4214444; 505241, 4214410; 505242, 4214405; 505238, 4214393; 505238, 4214390; 505236, 4214386; 505238, 4214382; 505238, 4214382; 505238, 4214381; 505241, 4214373; 505270, 4214343; 505277, 4214335; 505277, 4214335; 505285, 4214324; 505301, 4214294; 505301, 4214294; 505308, 4214276; 505318, 4214234; 505319, 4214221; 505318, 4214151; 505312, 4214077; 505307, 4214044; 505302, 4213956; 505298, 4213925; 505295, 4213896; 505291, 4213861; 505288, 4213808; 505288, 4213756; 505287, 4213730; 505283, 4213705; 505277, 4213681; 505272, 4213674; 505257, 4213664; 505239, 4213648; 505235, 4213638; 505231, 4213635; 505227, 4213625; 505223, 4213608; 505220, 4213599; 505213, 4213567; 505213, 4213567; 505204, 4213550; 505201, 4213547; 505188, 4213523; 505173, 4213489; 505172, 4213487; 505166, 4213472; 505164, 4213464; 505164, 4213464; 505163, 4213463; 505152, 4213433; 505148,

4213374; 505144, 4213347; 505134, 4213319; 505134, 4213289; 505131, 4213262; 505122, 4213248; 505088, 4213217; 505079, 4213202; 505079, 4213196; 505077, 4213194; 505073, 4213169; 505080, 4213148; 505089, 4213138; 505104, 4213115; 505109, 4213090; 505109, 4213087; 505105, 4213056; 505109, 4213024; 505112, 4213003; 505123, 4212971; 505130, 4212945; 505130, 4212919; 505121, 4212884; 505108, 4212844; 505095, 4212823; 505085, 4212814; 505009, 4212764; 504935, 4212727; 504900, 4212697; 504894, 4212682; 504889, 4212676; 504886, 4212664; 504885, 4212662; 504885, 4212661; 504883, 4212653; 504881, 4212647; 504881, 4212646; 504875, 4212624; 504875, 4212608; 504877, 4212601; 504876, 4212591; 504885, 4212580; 504887, 4212578; 504887, 4212574; 504857, 4212569; 504822, 4212573; 504779, 4212572; 504717, 4212559; 504664, 4212578; 504579, 4212601; 504556, 4212592; 504551, 4212591; 504526, 4212583; 504495, 4212568; 504476, 4212556; 504457, 4212549; 504445, 4212547; 504415, 4212549; 504385, 4212556; 504370, 4212549; 504354, 4212540; 504339, 4212534; 504321, 4212522; 504314, 4212521; 504295, 4212522; 504252, 4212532; 504227, 4212535; 504215, 4212532; 504204, 4212535; 504189, 4212532; 504169, 4212528; 504166, 4212527; 504164, 4212527; 504163, 4212526; 504144, 4212520; 504132, 4212519; 504123, 4212524; 504122, 4212525; 504104, 4212573; 504088, 4212604; 504042, 4212655; 504025, 4212680; 504011, 4212715; 504012, 4212738; 504024, 4212756; 504078, 4212813; 504102, 4212844; 504116, 4212878; 504117, 4212884; 504118, 4212887; 504118, 4212892; 504120, 4212904; 504118, 4212920; 504097, 4212965; 504043, 4213048; 504028, 4213085; 504015, 4213135; 504016, 4213148; 504041, 4213192; 504046, 4213215; 504060, 4213327; 504056, 4213384; 504064, 4213416; 504091, 4213494; 504105, 4213681; 504107, 4213693; 504109, 4213700; 504109, 4213701; 504113, 4213731; 504093, 4213752; 504092, 4213754; 504089, 4213756; 504013, 4213835; 503996, 4213871; 504017, 4213932; 504020, 4213939; 504025, 4213950; 504025, 4213952; 504034, 4213972; 504028, 4213994; 504002, 4214036; 503978, 4214093; 503976, 4214139; 503982, 4214194; 503961, 4214210; 503951, 4214213; 503865, 4214232; 503830, 4214256; 503825, 4214275; 503835, 4214302; 503840, 4214308; 503863, 4214328; 503875, 4214346; 503878, 4214358; 503878, 4214361; 503886, 4214375; 503876,

4214401; 503854, 4214407; 503853, 4214409; 503843, 4214419; 503837, 4214424; 503831, 4214427; 503824, 4214432; 503809, 4214433; 503795, 4214423; 503774, 4214429; 503764, 4214427; 503762, 4214420; 503758, 4214418; 503753, 4214404; 503747, 4214377; 503750, 4214351; 503750, 4214335; 503745, 4214314; 503745, 4214289; 503750, 4214259; 503756, 4214241; 503757, 4214238; 503758, 4214236; 503763, 4214220; 503775, 4214205; 503795, 4214168; 503799, 4214163; 503807, 4214148; 503818, 4214120; 503827, 4214085; 503815, 4214053; 503800, 4214025; 503785, 4214000; 503780, 4213988; 503778, 4213972; 503783, 4213962; 503785, 4213962; 503786, 4213959; 503795, 4213959; 503806, 4213968; 503820, 4213974; 503822, 4213974; 503831, 4213974; 503831, 4213974; 503833, 4213974; 503841, 4213965; 503845, 4213945; 503846, 4213926; 503843, 4213907; 503835, 4213882; 503827, 4213859; 503824, 4213838; 503826, 4213803; 503827, 4213788; 503823, 4213762; 503823, 4213750; 503820, 4213737; 503821, 4213717; 503822, 4213713; 503822, 4213713; 503822, 4213705; 503824, 4213701; 503824, 4213699; 503832, 4213678; 503850, 4213641; 503873, 4213621; 503889, 4213606; 503901, 4213592; 503907, 4213577; 503907, 4213566; 503904, 4213556; 503892, 4213538; 503888, 4213520; 503835, 4213464; 503778, 4213430; 503762, 4213424; 503755, 4213418; 503747, 4213415; 503736, 4213403; 503725, 4213384; 503718, 4213359; 503718, 4213342; 503719, 4213318; 503719, 4213300; 503719, 4213293; 503712, 4213269; 503711, 4213269; 503706, 4213261; 503697, 4213263; 503697, 4213235; 503700, 4213207; 503702, 4213168; 503706, 4213134; 503717, 4213108; 503740, 4213078; 503754, 4213057; 503763, 4213034; 503771, 4213001; 503775, 4212979; 503781, 4212950; 503793, 4212932; 503815, 4212915; 503819, 4212911; 503821, 4212909; 503838, 4212892; 503843, 4212883; 503842, 4212875; 503832, 4212852; 503824, 4212840; 503817, 4212827; 503765, 4212766; 503739, 4212729; 503722, 4212712; 503719, 4212690; 503724, 4212675; 503723, 4212673; 503715, 4212676; 503706, 4212670; 503693, 4212675; 503692, 4212674; 503670, 4212684; 503666, 4212681; 503665, 4212682; 503663, 4212679; 503661, 4212676; 503658, 4212677; 503656, 4212672; 503657, 4212649; 503670, 4212636; 503672, 4212634; 503673, 4212634; 503680, 4212626; 503729, 4212603; 503738, 4212600; 503738, 4212600; 503756, 4212590; 503795, 4212570; 503797, 4212569; 503800, 4212567; 503821, 4212554; 503868, 4212519; 503886, 4212504; 503892, 4212499; 503921, 4212463; 503941, 4212430; 503963, 4212407; 503974, 4212395; 503988, 4212389; 503989, 4212388; 504036, 4212365; 504050, 4212361; 504050, 4212361; 504070, 4212351; 504083, 4212348; 504087, 4212346; 504111, 4212329; 504138, 4212317; 504175, 4212297; 504215, 4212280; 504234, 4212274; 504250, 4212275; 504269, 4212267; 504286, 4212269; 504301, 4212265; 504311, 4212270; 504318, 4212268; 504329, 4212257; 504329, 4212256; 504323, 4212245; 504327, 4212233; 504334, 4212213; 504341, 4212197; 504343, 4212191; 504351, 4212165; 504353, 4212163; 504353, 4212162; 504359, 4212153; 504359, 4212152; 504364, 4212140; 504372, 4212133; 504373, 4212132; 504381, 4212123; 504383, 4212119; 504389, 4212101; 504390, 4212085; 504393, 4212052; 504400, 4212023; 504407, 4212007; 504416, 4211984; 504429, 4211963; 504440, 4211949; 504448, 4211936; 504477, 4211906; 504486, 4211902; 504486, 4211901; 504506, 4211891; 504508, 4211890; 504521, 4211879; 504525, 4211868; 504526, 4211861; 504531, 4211840; 504536, 4211827; 504542, 4211790; 504542, 4211785; 504546, 4211765; 504546, 4211741; 504546, 4211703; 504543, 4211668; 504538, 4211635; 504533, 4211598; 504534, 4211575; 504531, 4211551; 504532, 4211529; 504528, 4211503; 504519, 4211469; 504510, 4211419; 504500, 4211374; 504491, 4211334; 504488, 4211322; 504482, 4211312; 504473, 4211285; 504456, 4211250; 504453, 4211239; 504448, 4211232; 504422, 4211213; 504381, 4211246; 504380, 4211249; 504363, 4211269; 504348, 4211281; 504314, 4211321; 504307, 4211323; 504303, 4211327; 504289, 4211335; 504269, 4211355; 504259, 4211364; 504257, 4211366; 504238, 4211382; 504236, 4211382; 504228, 4211389; 504205, 4211404; 504053, 4211483; 504002, 4211517; 503993, 4211518; 503993, 4211518; 503991, 4211518; 503991, 4211518; 503990, 4211519; 503970, 4211526; 503969, 4211526; 503969, 4211526; 503967, 4211527; 503966, 4211527; 503966, 4211527; 503954, 4211530; 503944, 4211532; 503926, 4211526; 503914, 4211523; 503908, 4211525; 503898, 4211530; 503888, 4211536; 503883, 4211542; 503868, 4211554; 503865, 4211560; 503857, 4211572; 503846, 4211593; 503841, 4211598; 503823, 4211634; 503793, 4211669; 503790, 4211675; 503779, 4211686; 503747, 4211728; 503743, 4211730; 503731,

4211744; 503730, 4211744; 503708, 4211770; 503672, 4211794; 503623, 4211817; 503590, 4211837; 503541, 4211877; 503485, 4211930; 503445, 4211930; 503434, 4211927; 503427, 4211929; 503417, 4211928; 503366, 4211956; 503340, 4211976; 503313, 4211986; 503293, 4212003; 503275, 4212010; 503270, 4212014; 503268, 4212015; 503242, 4212035; 503216, 4212059; 503197, 4212066; 503197, 4212065; 503193, 4212068; 503191, 4212068; 503185, 4212069; 503183, 4212068; 503179, 4212067; 503177, 4212063; 503177, 4212063; 503176, 4212063; 503167, 4212056; 503164, 4212049; 503162, 4212046; 503155, 4212041; 503152, 4212033; 503147, 4212029; 503145, 4212022; 503147, 4212012; 503152, 4212003; 503164, 4211985; 503177, 4211970; 503185, 4211961; 503190, 4211951; 503193, 4211941; 503193, 4211941; 503193, 4211940; 503196, 4211929; 503197, 4211919; 503204, 4211910; 503205, 4211909; 503206, 4211909; 503208, 4211906; 503217, 4211904; 503219, 4211903; 503240, 4211898; 503255, 4211897; 503275, 4211898; 503299, 4211886; 503316, 4211882; 503334, 4211864; 503354, 4211855; 503376, 4211844; 503395, 4211843; 503415, 4211830; 503426, 4211825; 503434, 4211817; 503446, 4211809; 503456, 4211800; 503470, 4211793; 503481, 4211785; 503510, 4211760; 503525, 4211754; 503539, 4211742; 503542, 4211728; 503534, 4211703; 503533, 4211696; 503530, 4211690; 503502, 4211677; 503452, 4211688; 503447, 4211691; 503435, 4211694; 503424, 4211701; 503411, 4211694; 503405, 4211689; 503400, 4211687; 503399, 4211677; 503399, 4211677; 503398, 4211672; 503414, 4211644; 503429, 4211636; 503447, 4211617; 503490, 4211597; 503500, 4211598; 503511, 4211596; 503520, 4211591; 503534, 4211582; 503545, 4211570; 503549, 4211568; 503551, 4211564; 503562, 4211560; 503562, 4211560; 503584, 4211547; 503603, 4211544; 503624, 4211532; 503645, 4211527; 503654, 4211519; 503661, 4211510; 503664, 4211500; 503664, 4211500; 503664, 4211499; 503664, 4211499; 503662, 4211492; 503661, 4211473; 503661, 4211453; 503657, 4211439; 503660, 4211433; 503667, 4211428; 503677, 4211426; 503688, 4211418; 503706, 4211409; 503750, 4211382; 503751, 4211380; 503751, 4211380; 503764, 4211360; 503769, 4211350; 503769, 4211350; 503771, 4211344; 503777, 4211323; 503776, 4211295; 503779, 4211274; 503781, 4211256; 503781, 4211250; 503782, 4211244; 503786, 4211224; 503786, 4211223; 503787,

4211218; 503792, 4211211; 503803, 4211215; 503803, 4211215; 503808, 4211215; 503842, 4211232; 503863, 4211240; 503904, 4211249; 503904, 4211249; 503908, 4211249; 503909, 4211249; 503909, 4211249; 503926, 4211246; 503942, 4211239; 504003, 4211211; 504028, 4211206; 504054, 4211189; 504075, 4211181; 504115, 4211151; 504139, 4211141; 504185, 4211117; 504230, 4211073; 504265, 4211030; 504299, 4211003; 504311, 4210998; 504333, 4210980; 504401, 4210944; 504418, 4210940; 504429, 4210939; 504432, 4210937; 504442, 4210931; 504453, 4210930; 504464, 4210914; 504477, 4210900; 504483, 4210889; 504496, 4210870; 504502, 4210862; 504514, 4210844; 504518, 4210837; 504522, 4210826; 504527, 4210813; 504532, 4210795; 504537, 4210781; 504541, 4210765; 504552, 4210746; 504570, 4210723; 504584, 4210703; 504604, 4210664; 504610, 4210645; 504622, 4210622; 504631, 4210608; 504644, 4210586; 504659, 4210567; 504671, 4210552; 504681, 4210541; 504695, 4210529; 504707, 4210517; 504718, 4210503; 504731, 4210486; 504751, 4210473; 504763, 4210457; 504767, 4210454; 504769, 4210453; 504802, 4210419; 504830, 4210395; 504852, 4210365; 504878, 4210346; 504911, 4210299; 504919, 4210285; 504931, 4210256; 504943, 4210230; 504957, 4210209; 504966, 4210204; 504967, 4210204; 504976, 4210195; 505003, 4210179; 505026, 4210171; 505044, 4210156; 505058, 4210148; 505071, 4210135; 505083, 4210120; 505089, 4210114; 505107, 4210091; 505122, 4210061; 505122, 4210060; 505122, 4210060; 505128, 4210036; 505135, 4210020; 505145, 4210002; 505162, 4209973; 505170, 4209949; 505179, 4209922; 505199, 4209887; 505209, 4209865; 505200, 4209806; 505210, 4209772; 505209, 4209767; 505214, 4209729; 505217, 4209711; 505237, 4209682; 505267, 4209670; 505279, 4209661; 505296, 4209660; 505306, 4209661; 505306, 4209661; 505307, 4209661; 505307, 4209661; 505324, 4209654; 505337, 4209657; 505362, 4209657; 505374, 4209663; 505380, 4209674; 505376, 4209683; 505381, 4209687; 505360, 4209728; 505348, 4209760; 505343, 4209781; 505344, 4209790; 505363, 4209797; 505377, 4209798; 505388, 4209796; 505401, 4209790; 505413, 4209788; 505429, 4209782; 505438, 4209778; 505451, 4209779; 505466, 4209778; 505469, 4209778; 505480, 4209774; 505498, 4209776; 505498, 4209776; 505498, 4209776; 505547, 4209768; 505574, 4209760; 505596, 4209746; 505607, 4209732; 505629, 4209689; 505633, 4209672; 505636, 4209635; 505631, 4209617; 505624, 4209596; 505624, 4209596; 505618, 4209588; 505611, 4209579; 505610, 4209579; 505609, 4209578; 505596, 4209564; 505584, 4209557; 505579, 4209550; 505577, 4209548; 505552, 4209541; 505421, 4209520; 505402, 4209512; 505393, 4209503; 505370, 4209480; 505361, 4209467; 505350, 4209447; 505348, 4209439; 505345, 4209433; 505343, 4209422; 505340, 4209413; 505334, 4209389; 505317, 4209355; 505287, 4209337; 505235, 4209318; 505204, 4209311; 505105, 4209302; 505086, 4209298; 505057, 4209287; 505033, 4209285; 505026, 4209283; 504990, 4209283; 504971, 4209284; 504933, 4209284; 504913, 4209284; 504880, 4209283; 504845, 4209284; 504807, 4209281; 504784, 4209275; 504747, 4209277; 504737, 4209275; 504727, 4209271; 504720, 4209273; 504696, 4209271; 504665, 4209255; 504624, 4209252; 504596, 4209248; 504586, 4209246; 504575, 4209245; 504559, 4209245; 504547, 4209240; 504495, 4209232; 504405, 4209202; 504389, 4209198; 504376, 4209193; 504346, 4209187; 504306, 4209178; 504253, 4209160; 504242, 4209154; 504210, 4209143; 504200, 4209140; 504175, 4209130; 504166, 4209128; 504164, 4209128; 504164, 4209128; 504141, 4209124; 504102, 4209114; 504100, 4209114; 504099, 4209113; 504056, 4209102; 504014, 4209082; 503989, 4209074; 503983, 4209074; 503967, 4209068; 503961, 4209066; 503954, 4209063; 503943, 4209059; 503889, 4209035; 503881, 4209033; 503854, 4209025; 503838, 4209021; 503834, 4209017; 503834, 4209017; 503834, 4209017; 503820, 4209008; 503786, 4209001; 503754, 4208988; 503748, 4208985; 503682, 4208959; 503654, 4208944; 503616, 4208919; 503583, 4208907; 503570, 4208896; 503554, 4208891; 503532, 4208892; 503501, 4208876; 503471, 4208872; 503440, 4208860; 503413, 4208842; 503390, 4208829; 503350, 4208801; 503318, 4208760; 503302, 4208751; 503301, 4208750; 503299, 4208749; 503269, 4208731; 503265, 4208729; 503222, 4208705; 503208, 4208698; 503183, 4208684; 503176, 4208677; 503142, 4208657; 503088, 4208616; 503052, 4208598; 503021, 4208576; 503002, 4208557; 502971, 4208523; 502952, 4208500; 502941, 4208492; 502921, 4208466; 502886, 4208436; 502873, 4208426; 502853, 4208407; 502850, 4208404; 502793, 4208350; 502767, 4208338; 502752, 4208323; 502731, 4208308; 502703, 4208282; 502696, 4208277; 502690, 4208274; 502679, 4208265; 502657,

4208252; 502635, 4208234; 502616, 4208220; 502594, 4208207; 502571, 4208187; 502547, 4208161; 502529, 4208137; 502528, 4208137; 502528, 4208137; 502492, 4208108; 502473, 4208096; 502460, 4208084; 502430, 4208052; 502330, 4207930; 502310, 4207912; 502300, 4207898; 502295, 4207884; 502291, 4207878; 502288, 4207874; 502153, 4207710; 502112, 4207659; 502090, 4207631; 502078, 4207615; 502062, 4207598; 502051, 4207579; 502051, 4207579; 502043, 4207569; 502001, 4207513; 501987, 4207490; 501973, 4207466; 501957, 4207447; 501940, 4207416; 501893, 4207358; 501881, 4207338; 501879, 4207338; 501876, 4207330; 501862, 4207309; 501843, 4207272; 501824, 4207226; 501784, 4207139; 501765, 4207113; 501755, 4207100; 501733, 4207066; 501717, 4207036; 501706, 4207020; 501674, 4206965; 501672, 4206960; 501665, 4206949; 501650, 4206915; 501614, 4206847; 501603, 4206832; 501598, 4206816; 501590, 4206799; 501575, 4206753; 501565, 4206700; 501546, 4206648; 501539, 4206623; 501539, 4206623; 501533, 4206606; 501517, 4206561; 501512, 4206543; 501476, 4206443; 501472, 4206426; 501463, 4206404; 501445, 4206330; 501438, 4206292; 501432, 4206271; 501432, 4206271; 501425, 4206249; 501407, 4206126; 501401, 4206059; 501403, 4206018; 501401, 4205996; 501404, 4205949; 501407, 4205930; 501415, 4205912; 501427, 4205894; 501444, 4205875; 501468, 4205857; 501476, 4205847; 501471, 4205807; 501473, 4205798; 501473, 4205787; 501478, 4205736; 501474, 4205713; 501473, 4205711; 501467, 4205688; 501464, 4205660; 501464, 4205640; 501468, 4205622; 501473, 4205609; 501474, 4205606; 501475, 4205603; 501480, 4205590; 501484, 4205586; 501484, 4205586; 501492, 4205570; 501499, 4205564; 501513, 4205559; 501517, 4205557; 501532, 4205552; 501533, 4205552; 501544, 4205548; 501559, 4205550; 501564, 4205549; 501569, 4205550; 501583, 4205543; 501585, 4205540; 501595, 4205537; 501601, 4205534; 501619, 4205536; 501633, 4205533; 501645, 4205532; 501659, 4205519; 501662, 4205514; 501671, 4205509; 501678, 4205503; 501688, 4205499; 501688, 4205499; 501692, 4205496; 501706, 4205492; 501723, 4205485; 501730, 4205480; 501738, 4205469; 501751, 4205463; 501757, 4205460; 501757, 4205460; 501759, 4205459; 501765, 4205457; 501765, 4205457; 501773, 4205455; 501774, 4205455; 501776, 4205455; 501797, 4205457; 501808, 4205452; 501812, 4205449; 501823,

4205444; 501841, 4205439; 501843, 4205438; 501844, 4205438; 501844, 4205438; 501846, 4205437; 501854, 4205430; 501854, 4205426; 501856, 4205417; 501872, 4205398; 501879, 4205395; 501882, 4205395; 501883, 4205393; 501897, 4205392; 501899, 4205392; 501899, 4205392; 501900, 4205392; 501915, 4205384; 501926, 4205385; 501929, 4205384; 501943, 4205388; 501944, 4205388; 501964, 4205388; 501982, 4205371; 501999, 4205340; 502007, 4205331; 502007, 4205331; 502013, 4205322; 502016, 4205320; 502018, 4205316; 502043, 4205292; 502047, 4205285; 502056, 4205276; 502057, 4205275; 502079, 4205256; 502092, 4205250; 502107, 4205245; 502128, 4205241; 502163, 4205229; 502182, 4205218; 502194, 4205208; 502220, 4205194; 502231, 4205191; 502231, 4205191; 502256, 4205182; 502258, 4205180; 502272, 4205175; 502281, 4205173; 502281, 4205173; 502299, 4205164; 502318, 4205150; 502334, 4205144; 502351, 4205134; 502367, 4205130; 502385, 4205137; 502400, 4205146; 502413, 4205157; 502430, 4205165; 502442, 4205166; 502453, 4205162; 502468, 4205151; 502478, 4205146; 502493, 4205142; 502493, 4205142; 502497, 4205140; 502504, 4205141; 502504, 4205141; 502516, 4205141; 502536, 4205144; 502541, 4205147; 502555, 4205148; 502567, 4205152; 502571, 4205151; 502583, 4205141; 502592, 4205135; 502611, 4205128; 502621, 4205125; 502636, 4205120; 502656, 4205106; 502657, 4205105; 502663, 4205102; 502666, 4205100; 502686, 4205086; 502700, 4205086; 502708, 4205083; 502719, 4205085; 502727, 4205084; 502750, 4205080; 502762, 4205080; 502779, 4205085; 502781, 4205087; 502781, 4205087; 502786, 4205088; 502794, 4205091; 502808, 4205100; 502822, 4205111; 502837, 4205117; 502852, 4205120; 502859, 4205114; 502868, 4205113; 502874, 4205110; 502875, 4205094; 502878, 4205092; 502881, 4205065; 502886, 4205048; 502895, 4205034; 502905, 4205017; 502907, 4205016; 502907, 4205015; 502926, 4204999; 502936, 4204973; 502941, 4204966; 502943, 4204963; 502944, 4204961; 502947, 4204951; 502963, 4204927; 502963, 4204927; 502967, 4204919; 502968, 4204918; 502971, 4204914; 502977, 4204912; 502987, 4204904; 502991, 4204899; 503002, 4204891; 503006, 4204880; 503008, 4204872; 503005, 4204858; 503008, 4204837; 503011, 4204827; 503019, 4204813; 503025, 4204804; 503035, 4204794; 503080, 4204761; 503099, 4204746; 503129, 4204734; 503136, 4204724; 503138, 4204715; 503138, 4204712; 503135, 4204708; 503120, 4204700; 503093, 4204693; 503019, 4204691; 503017, 4204690; 503008, 4204691; 502993, 4204677; 502990, 4204677; 502973, 4204662; 502967, 4204663; 502955, 4204674; 502947, 4204702; 502940, 4204712; 502927, 4204721; 502915, 4204721; 502891, 4204718; 502855, 4204728; 502844, 4204728; 502837, 4204731; 502831, 4204731; 502821, 4204740; 502816, 4204741; 502816, 4204741; 502804, 4204744; 502789, 4204742; 502780, 4204740; 502764, 4204743; 502755, 4204746; 502752, 4204749; 502743, 4204749; 502703, 4204757; 502685, 4204753; 502660, 4204750; 502650, 4204748; 502642, 4204748; 502615, 4204742; 502569, 4204721; 502559, 4204719; 502556, 4204718; 502556, 4204718; 502546, 4204716; 502542, 4204716; 502522, 4204720; 502479, 4204716; 502473, 4204716; 502467, 4204715; 502446, 4204713; 502423, 4204715; 502418, 4204715; 502400, 4204719; 502396, 4204720; 502383, 4204725; 502377, 4204729; 502357, 4204754; 502342, 4204783; 502327, 4204804; 502323, 4204822; 502344, 4204860; 502347, 4204879; 502347, 4204896; 502347, 4204896; 502341, 4204912; 502330, 4204924; 502312, 4204939; 502307, 4204948; 502302, 4204952; 502292, 4204963; 502270, 4204974; 502251, 4204977; 502231, 4204978; 502192, 4204973; 502181, 4204983; 502174, 4204978; 502174, 4204967; 502171, 4204960; 502171, 4204960; 502170, 4204958; 502142, 4204965; 502137, 4204965; 502133, 4204957; 502121, 4204960; 502109, 4204969; 502070, 4204970; 502022, 4204991; 502000, 4204992; 501976, 4205007; 501964, 4205008; 501937, 4205007; 501922, 4205010; 501908, 4205011; 501862, 4205004; 501836, 4205005; 501822, 4204999; 501808, 4204991; 501776, 4205006; 501759, 4205009; 501745, 4205001; 501737, 4204991; 501726, 4204967; 501718, 4204964; 501698, 4204972; 501683, 4204983; 501670,

4204989; 501638, 4204993; 501623, 4205001; 501603, 4205001; 501592, 4204999; 501567, 4204996; 501565, 4204995; 501558, 4204994; 501542, 4204983; 501525, 4204977; 501512, 4204979; 501498, 4204981; 501491, 4204980; 501478, 4204972; 501474, 4204974; 501475, 4204976; 501483, 4204987; 501481, 4204994; 501452, 4205006; 501431, 4205026; 501418, 4205028; 501408, 4205033; 501397, 4205033; 501386, 4205028; 501364, 4205028; 501362, 4205016; 501361, 4205014; 501353, 4205017; 501344, 4205016; 501336, 4205026; 501329, 4205033; 501321, 4205035; 501307,

4205037; 501278, 4205031; 501270, 4205025; 501269, 4205014; 501267, 4205012; 501265, 4205006; 501253, 4205000; 501242, 4205007; 501233, 4205013; 501225, 4205009; 501223, 4205001; 501225, 4204995; 501224, 4204994; 501224, 4204985; 501229, 4204964; 501233, 4204952; 501233, 4204945; 501227, 4204933; 501214, 4204929; 501193, 4204935; 501178, 4204946; 501164, 4204964; 501158, 4204984; 501145, 4204993; 501125, 4204998; 501120, 4205001; 501123, 4205008; 501130, 4205012; 501142, 4205018; 501153, 4205030; 501153, 4205031; 501156, 4205033; 501156, 4205040; 501152, 4205043; 501143, 4205038; 501137, 4205043; 501136, 4205052; 501142, 4205060; 501139, 4205074; 501133, 4205082; 501132, 4205082; 501127, 4205088; 501113, 4205094; 501107, 4205089; 501105, 4205078; 501104, 4205076; 501098, 4205071; 501095, 4205075; 501093, 4205082; 501090, 4205084; 501090, 4205090; 501084, 4205094; 501075, 4205091; 501073, 4205085; 501074, 4205070; 501055, 4205047; 501054, 4205049; 501052, 4205052; 501050, 4205060; 501046, 4205066; 501039, 4205084; 501043, 4205093; 501040, 4205097; 501040, 4205097; 501039, 4205097; 501035, 4205101; 501032, 4205103; 501028, 4205109; 501022, 4205112; 501020, 4205111; 501018, 4205112; 501000, 4205109; 500993, 4205115; 500993, 4205116; 500987, 4205129; 500987, 4205129; 500986, 4205131; 500986, 4205133; 500985, 4205133; 500985, 4205134; 500985, 4205134; 500980, 4205142; 500978, 4205143; 500978, 4205143; 500978, 4205145; 500977, 4205145; 500973, 4205148; 500965, 4205147; 500954, 4205148; 500932, 4205153; 500922, 4205162; 500916, 4205165; 500909, 4205170; 500897, 4205173; 500897, 4205174; 500862, 4205188; 500851, 4205200; 500837, 4205210; 500823, 4205213; 500805, 4205213; 500780, 4205204; 500760, 4205203; 500723, 4205186; 500722, 4205182; 500720, 4205181; 500711, 4205174; 500706, 4205173; 500702, 4205173; 500695, 4205179; 500695, 4205179; 500693, 4205181; 500678, 4205182; 500677, 4205182; 500677, 4205182; 500666, 4205186; 500657, 4205183; 500649, 4205183; 500647, 4205181; 500647, 4205181; 500642, 4205180; 500627, 4205170; 500612, 4205163; 500612, 4205163; 500592, 4205160; 500567, 4205149; 500557, 4205134; 500562, 4205118; 500562, 4205118; 500563, 4205110; 500561, 4205103; 500560, 4205101; 500559, 4205096; 500555, 4205088; 500554, 4205077; 500560, 4205056; 500560, 4205048; 500553,

4205043; 500535, 4205043; 500534, 4205043; 500533, 4205043; 500525, 4205043; 500514, 4205038; 500505, 4205028; 500505, 4205028; 500497, 4205020; 500489, 4205017; 500476, 4205014; 500462, 4205010; 500461, 4205010; 500461, 4205010; 500446, 4205013; 500427, 4205014; 500427, 4205014; 500425, 4205015; 500419, 4205022; 500410, 4205029; 500412, 4205039; 500421, 4205042; 500422, 4205045; 500424, 4205047; 500423, 4205050; 500424, 4205053; 500421, 4205074; 500418, 4205080; 500418, 4205086; 500410, 4205091; 500409, 4205094; 500409, 4205103; 500410, 4205107; 500409, 4205116; 500406, 4205119; 500397, 4205130; 500390, 4205134; 500380, 4205146; 500357, 4205157; 500345, 4205160; 500335, 4205159; 500333, 4205160; 500323, 4205160; 500278, 4205167; 500261, 4205166; 500248, 4205160; 500245, 4205159; 500227, 4205151; 500227, 4205151; 500226, 4205151; 500197, 4205150; 500173, 4205142; 500172, 4205143; 500166, 4205142; 500151, 4205141; 500149, 4205137; 500149, 4205135; 500148, 4205131; 500143, 4205121; 500143, 4205114; 500137, 4205107; 500123, 4205105; 500105, 4205118; 500089, 4205128; 500082, 4205128; 500075, 4205120; 500054, 4205073; 500051, 4205072; 500045, 4205072; 500035, 4205076; 500018, 4205100; 500017, 4205115; 500018, 4205126; 500019, 4205128; 500018, 4205128; 500018, 4205133; 500014, 4205138; 500003, 4205136; 499993, 4205140; 499980, 4205136; 499964, 4205139; 499953, 4205135; 499943, 4205135; 499935, 4205133; 499935, 4205132; 499933, 4205132; 499930, 4205123; 499929, 4205109; 499930, 4205091; 499927, 4205082; 499925, 4205078; 499896, 4205062; 499867, 4205055; 499848, 4205054; 499818, 4205068; 499811, 4205067; 499800, 4205069; 499797, 4205065; 499797, 4205065; 499793, 4205062; 499773, 4205044; 499771, 4205042; 499738, 4205042; 499734, 4205043; 499707, 4205051; 499700, 4205063; 499694, 4205060; 499693, 4205061; 499683, 4205058; 499671, 4205047; 499669, 4205046; 499662, 4205045; 499661, 4205046; 499661, 4205046; 499653, 4205058; 499645, 4205064; 499640, 4205063; 499635, 4205064; 499599, 4205060; 499581, 4205064; 499565, 4205072; 499543, 4205077; 499502, 4205075; 499492, 4205079; 499483, 4205086; 499473, 4205105; 499470, 4205108; 499461, 4205124; 499460, 4205135; 499469, 4205149; 499472, 4205153; 499472, 4205155; 499474, 4205158; 499474, 4205179; 499462, 4205204; 499451, 4205214; 499442, 4205230; 499435, 4205235; 499425, 4205237; 499418, 4205241; 499411, 4205243; 499397, 4205252; 499387, 4205252; 499377, 4205258; 499364, 4205256; 499363, 4205255; 499361, 4205255; 499346, 4205250; 499342, 4205254; 499340, 4205258; 499339, 4205263; 499340, 4205275; 499343, 4205281; 499341, 4205288; 499340, 4205294; 499339, 4205295; 499339, 4205295; 499331, 4205302; 499317, 4205308; 499305, 4205318; 499296, 4205322; 499258, 4205324; 499235, 4205317; 499212, 4205317; 499194, 4205309; 499175, 4205307; 499164, 4205304; 499152, 4205304; 499148, 4205296; 499150, 4205290; 499150, 4205284; 499147, 4205271; 499143, 4205267; 499137, 4205265; 499136, 4205266; 499136, 4205266; 499122, 4205271; 499112, 4205269; 499104, 4205273; 499097, 4205295; 499088, 4205296; 499087, 4205296; 499087, 4205296; 499083, 4205290; 499081, 4205287; 499078, 4205277; 499072, 4205272; 499068, 4205273; 499067, 4205274; 499062, 4205277; 499057, 4205283; 499052, 4205296; 499050, 4205313; 499044, 4205319; 499044, 4205317; 499042, 4205321; 499036, 4205317; 499034, 4205312; 499024, 4205301; 499023, 4205302; 499015, 4205305; 499014, 4205304; 499006, 4205309; 499001, 4205306; 499000, 4205298; 499003, 4205286; 499005, 4205265; 499023, 4205267; 499019, 4205247; 499011, 4205251; 499009, 4205250; 499009, 4205250; 499005, 4205252; 498998, 4205248; 498992, 4205227; 498980, 4205220; 498979, 4205221; 498977, 4205223; 498976, 4205232; 498977, 4205251; 498976, 4205260; 498973, 4205267; 498974, 4205281; 498980, 4205285; 498985, 4205302; 498982, 4205309; 498973, 4205318; 498965, 4205319; 498951, 4205327; 498944, 4205325; 498933, 4205328; 498920, 4205321; 498912, 4205307; 498907, 4205289; 498890, 4205260; 498879, 4205251; 498855, 4205240; 498848, 4205233; 498848, 4205233; 498822, 4205218; 498806, 4205212; 498792, 4205203; 498788, 4205193; 498787, 4205189; 498787, 4205189; 498770, 4205156; 498762, 4205145; 498745, 4205135; 498723, 4205140; 498717, 4205137; 498717, 4205137; 498703, 4205138; 498691, 4205132; 498682, 4205131; 498676, 4205132; 498673, 4205132; 498652, 4205145; 498650, 4205146; 498622, 4205158; 498592, 4205171; 498575, 4205173; 498567, 4205173; 498544, 4205162; 498528, 4205156; 498513, 4205156; 498488, 4205185; 498481, 4205196; 498479, 4205197; 498479, 4205199; 498475, 4205202; 498471, 4205205; 498471, 4205204; 498468,

4205201; 498468, 4205198; 498468, 4205197; 498468, 4205194; 498470, 4205165; 498448, 4205149; 498446, 4205150; 498428, 4205169; 498424, 4205169; 498416, 4205174; 498395, 4205177; 498386, 4205176; 498377, 4205177; 498358, 4205182; 498337, 4205195; 498334, 4205198; 498334, 4205198; 498331, 4205203; 498332, 4205216; 498337, 4205230; 498333, 4205236; 498331, 4205237; 498331, 4205237; 498325, 4205247; 498311, 4205254; 498299, 4205253; 498282, 4205256; 498264, 4205257; 498253, 4205262; 498229, 4205266; 498206, 4205261; 498178, 4205274; 498167, 4205274; 498167, 4205274; 498165, 4205274; 498165, 4205274; 498151, 4205279; 498128, 4205271; 498127, 4205270; 498125, 4205270; 498105, 4205260; 498105, 4205247; 498096, 4205241; 498088, 4205242; 498088, 4205242; 498086, 4205243; 498077, 4205249; 498073, 4205251; 498063, 4205260; 498046, 4205259; 498034, 4205264; 498025, 4205262; 498014, 4205262; 498014, 4205262; 498013, 4205262; 498012, 4205260; 498005, 4205251; 498004, 4205246; 498003, 4205246; 498003, 4205245; 498003, 4205245; 498003, 4205244; 498003, 4205230; 498000, 4205224; 497996, 4205221; 497991, 4205219; 497980, 4205210; 497976, 4205210; 497970, 4205213; 497969, 4205214; 497959, 4205221; 497942, 4205224; 497940, 4205225; 497933, 4205229; 497922, 4205237; 497918, 4205235; 497916, 4205236; 497905, 4205232; 497890, 4205238; 497885, 4205255; 497885, 4205255; 497885, 4205259; 497884, 4205260; 497883, 4205263; 497872, 4205276; 497869, 4205288; 497874, 4205315; 497900, 4205365; 497903, 4205377; 497912, 4205389; 497918, 4205404; 497930, 4205414; 497936, 4205422; 497940, 4205425; 497965, 4205440; 497980, 4205463; 497980, 4205464; 497980, 4205464; 497983, 4205467; 498000, 4205493; 498009, 4205509; 498035, 4205535; 498034, 4205537; 498028, 4205549; 498034, 4205567; 498040, 4205574; 498041, 4205576; 498046, 4205580; 498058, 4205598; 498080, 4205615; 498095, 4205607; 498098, 4205610; 498099, 4205610; 498101, 4205611; 498104, 4205614; 498105, 4205622; 498108, 4205631; 498110, 4205637; 498115, 4205646; 498119, 4205651; 498120, 4205657; 498124, 4205660; 498123, 4205667; 498109, 4205663; 498105, 4205664; 498105, 4205668; 498118, 4205679; 498124, 4205679; 498131, 4205689; 498140, 4205694; 498153, 4205714; 498157, 4205731; 498166, 4205754; 498188, 4205786; 498198, 4205788; 498201, 4205790; 498205,

4205785; 498211, 4205787; 498217, 4205783; 498223, 4205788; 498227, 4205787; 498235, 4205793; 498243, 4205796; 498249, 4205789; 498252, 4205784; 498254, 4205783; 498256, 4205779; 498279, 4205770; 498294, 4205766; 498308, 4205758; 498317, 4205761; 498326, 4205756; 498337, 4205763; 498352, 4205766; 498360, 4205764; 498403, 4205738; 498426, 4205721; 498435, 4205717; 498456, 4205690; 498474, 4205671; 498497, 4205674; 498509, 4205683; 498518, 4205683; 498525, 4205690; 498526, 4205690; 498545, 4205694; 498554, 4205700; 498558, 4205702; 498573, 4205705; 498575, 4205705; 498575, 4205706; 498581, 4205707; 498584, 4205733; 498583, 4205751; 498574, 4205761; 498568, 4205764; 498569, 4205766; 498573, 4205774; 498579, 4205773; 498587, 4205774; 498592, 4205779; 498592, 4205779; 498593, 4205780; 498596, 4205781; 498597, 4205782; 498597, 4205782; 498601, 4205792; 498604, 4205795; 498604, 4205795; 498604, 4205795; 498612, 4205790; 498622, 4205791; 498625, 4205794; 498630, 4205803; 498634, 4205806; 498642, 4205822; 498651, 4205832; 498651, 4205833; 498662, 4205844; 498666, 4205854; 498666, 4205855; 498667, 4205860; 498669, 4205867; 498669, 4205870; 498669, 4205870; 498673, 4205884; 498669, 4205911; 498673, 4205924; 498682, 4205933; 498685, 4205937; 498691, 4205938; 498698, 4205935; 498706, 4205936; 498714, 4205931; 498721, 4205930; 498743, 4205931; 498757, 4205920; 498761, 4205920; 498770, 4205914; 498779, 4205921; 498786, 4205921; 498791, 4205918; 498796, 4205913; 498798, 4205913; 498799, 4205912; 498805, 4205910; 498806, 4205910; 498810, 4205908; 498819, 4205919; 498822, 4205928; 498828, 4205936; 498832, 4205946; 498833, 4205948; 498849, 4205970; 498855, 4205986; 498875, 4206029; 498880, 4206027; 498891, 4206035; 498909, 4206075; 498948, 4206134; 498965, 4206171; 498988, 4206249; 498996, 4206269; 499014, 4206308; 499055, 4206410; 499092, 4206469; 499110, 4206495; 499114, 4206508; 499119, 4206516; 499128, 4206540; 499134, 4206572; 499165, 4206661; 499188, 4206707; 499224, 4206761; 499243, 4206781; 499258, 4206809; 499276, 4206831; 499287, 4206859; 499304, 4206893; 499327, 4206960; 499352, 4207024; 499357, 4207070; 499357, 4207085; 499357, 4207085; 499358, 4207093; 499360, 4207109; 499374, 4207162; 499416, 4207247; 499432, 4207265; 499474, 4207385; 499485, 4207405; 499508, 4207459; 499516, 4207502; 499516, 4207503; 499523, 4207519; 499528, 4207543; 499531, 4207551; 499534, 4207573; 499534, 4207574; 499535, 4207577; 499535, 4207577; 499541, 4207618; 499549, 4207647; 499557, 4207662; 499572, 4207682; 499615, 4207746; 499663, 4207893; 499676, 4207924; 499689, 4207948; 499717, 4208013; 499726, 4208051; 499752, 4208138; 499770, 4208171; 499788, 4208198; 499810, 4208219; 499817, 4208235; 499828, 4208252; 499840, 4208281; 499860, 4208314; 499871, 4208340; 499880, 4208364; 499880, 4208365; 499883, 4208370; 499885, 4208386; 499886, 4208392; 499889, 4208412; 499890, 4208434; 499890, 4208434; 499897, 4208473; 499897, 4208473; 499905, 4208502; 499910, 4208511; 499936, 4208598; 499964, 4208642; 499993, 4208697; 500003, 4208729; 500015, 4208751; 500040, 4208819; 500057, 4208850; 500072, 4208874; 500090, 4208911; 500104, 4208931; 500121, 4208974; 500132, 4209014; 500135, 4209021; 500145, 4209034; 500145, 4209056; 500147, 4209069; 500147, 4209085; 500147, 4209085; 500153, 4209145; 500180, 4209243; 500188, 4209255; 500201, 4209286; 500217, 4209312; 500227, 4209321; 500255, 4209357; 500303, 4209435; 500331, 4209492; 500355, 4209563; 500363, 4209590; 500365, 4209635; 500366, 4209639; 500367, 4209656; 500370, 4209717; 500378, 4209751; 500386, 4209796; 500405, 4209844; 500450, 4209913; 500460, 4209935; 500541, 4210077; 500552, 4210109; 500570, 4210182; 500578, 4210238; 500584, 4210259; 500604, 4210314; 500622, 4210356; 500636, 4210382; 500641, 4210395; 500645, 4210402; 500655, 4210431; 500660, 4210454; 500661, 4210458; 500663, 4210466; 500681, 4210552; 500702, 4210613; 500722, 4210650; 500733, 4210658; 500745, 4210687; 500754, 4210714; 500762, 4210753; 500777, 4210790; 500785, 4210814; 500808, 4210867; 500855, 4210969; 500868, 4211004; 500891, 4211047; 500902, 4211075; 500910, 4211101; 500914, 4211122; 500920, 4211175; 500925, 4211193; 500929, 4211202; 500931, 4211209; 500946, 4211247; 500952, 4211255; 500974, 4211292; 501006, 4211367; 501015, 4211391; 501025, 4211427; 501037, 4211449; 501048, 4211480; 501111, 4211638; 501141, 4211722; 501161, 4211785; 501176, 4211844; 501187, 4211878; 501199, 4211901; 501219, 4211927; 501245, 4211976; 501251, 4211996; 501257, 4212031; 501267, 4212112; 501270, 4212131; 501275, 4212144; 501278, 4212155; 501278, 4212155; 501278, 4212155; 501287,

4212179; 501305, 4212222; 501342, 4212288; 501365, 4212349; 501366, 4212352; 501411, 4212470; 501437, 4212552; 501446, 4212574; 501455, 4212607; 501456, 4212633; 501471, 4212676; 501479, 4212704; 501495, 4212748; 501510, 4212777; 501534, 4212812; 501561, 4212861; 501585, 4212920; 501585, 4212920; 501588, 4212927; 501591, 4212935; 501593, 4212942; 501595, 4212949; 501600, 4212963; 501600, 4212967; 501607, 4212993; 501627, 4213108; 501643, 4213175; 501666, 4213226; 501700, 4213276; 501713, 4213301; 501714, 4213302; 501753, 4213388; 501758, 4213409; 501776, 4213542; 501782, 4213569; 501788, 4213587; 501817, 4213639; 501829, 4213657; 501876, 4213750; 501895, 4213793; 501910, 4213842; 501922, 4213863; 501943, 4213921; 501948, 4213941; 501952, 4213973; 501951, 4214005; 501948, 4214028; 501948, 4214040; 501951, 4214054; 501957, 4214069; 501959, 4214072; 501965, 4214079; 501981, 4214109; 502010, 4214145; 502021, 4214162; 502021, 4214163; 502024, 4214167; 502025, 4214174; 502034, 4214199; 502045, 4214213; 502053, 4214232; 502055, 4214244; 502057, 4214250; 502057, 4214250; 502058, 4214259; 502058, 4214259; 502065, 4214292; 502066, 4214313; 502065, 4214350; 502066, 4214371; 502071, 4214393; 502085, 4214455; 502103, 4214498; 502123, 4214539; 502138, 4214558; 502150, 4214579; 502168, 4214604; 502185, 4214637; 502195, 4214653; 502201, 4214662; 502201, 4214664; 502201, 4214664; 502213, 4214682; 502243, 4214761; 502276, 4214868; 502278, 4214881; 502280, 4214886; 502289, 4214953; 502289, 4214954; 502295, 4214997; 502299, 4215017; 502311, 4215051; 502328, 4215075; 502342, 4215100; 502375, 4215177; 502392, 4215235; 502403, 4215327; 502404, 4215329; 502406, 4215342; 502419, 4215378; 502421, 4215389; 502430, 4215411; 502442, 4215434; 502454, 4215453; 502465, 4215467; 502477, 4215496; 502491, 4215520; 502505, 4215559; 502518, 4215583; 502524, 4215609; 502537, 4215638; 502564, 4215719; 502579, 4215755; 502602, 4215822; 502608, 4215856; 502620, 4215895; 502634, 4215933; 502642, 4215962; 502661, 4216012; 502669, 4216045; 502675, 4216061; 502676, 4216093; 502683, 4216121; 502683, 4216155; 502689, 4216173; 502701, 4216197; 502724, 4216222; 502751, 4216271; 502773, 4216327; 502773, 4216327; 502775, 4216331; 502790, 4216369; 502796, 4216397; 502807, 4216432; 502808, 4216456; 502808, 4216458; 502808, 4216462; 502809, 4216486; 502803, 4216533; 502809, 4216569; 502818, 4216587; 502842, 4216626; 502868, 4216676; 502882, 4216697; 502892, 4216732; 502903, 4216760; 502909, 4216800; 502918, 4216830; 502930, 4216857; 502940, 4216886; 502965, 4216989; 502971, 4217010; 502991, 4217061; 503019, 4217101; 503028, 4217110; 503055, 4217161; 503058, 4217168; 503059, 4217171; 503196, 4217112; 503293, 4217060; 503345, 4217022; 503395, 4216977; 503433, 4216937; 503488, 4216872; 503588, 4216744; 503636, 4216675; 503679, 4216629; 503730, 4216579; 503799, 4216555; 503874, 4216565; 503958, 4216581; 504032, 4216575; 504061, 4216575; 504136, 4216559; 504192, 4216556; 504285, 4216561; 504358, 4216576; 504526, 4216621; 504615, 4216652; 504797, 4216728; 504859, 4216757; 504953, 4216812; 505085, 4216903; 505264, 4217009; 505358, 4217052; 505424, 4217075; 505520, 4217100; 505550, 4217104; 506063, 4216933; 506541, 4216757; 506578, 4216953; 506604, 4217025; 506604, 4217067; 506525, 4217161; 506532, 4217185; 506994, 4217323; 507410, 4217877; 508102, 4217877; 508472, 4217970; 509072, 4218155; 509626, 4218155; 509739, 4218122; 509753, 4218115; 509781, 4218100; 509798, 4218092; 509861, 4218079; 510049, 4218015; 510135, 4217982; 510198, 4217950; 510242, 4217916; 510251, 4217895; 510310, 4217844; 510316, 4217843; 510329, 4217830; 510344, 4217819; 510341, 4217814; 510293, 4217783; 510241, 4217764; 510180, 4217729; 510140, 4217687; 510094, 4217578; 510089, 4217541; 510054, 4217459; 510038, 4217432; 509985, 4217372; 509967, 4217345; 509963, 4217330; 509969, 4217240; 509962, 4217179; 510015, 4217104; 510098, 4216973; 510136, 4216841; returning to 510133, 4216765.

(ii) Note: Unit MRN-2 is depicted on Map M8—Unit MRN-1 and MRN-2—which follows:

BILLING CODE 4310-55-P

BILLING CODE 4310-55-C

(14) Unit SOL-1, Solano County, California.

(i) From USGS 1:24,000 scale quadrangle Cordelia, Fairfield South, Benicia, Vine Hill. Land bounded by the following UTM Zone 10, NAD27 coordinates (E,N): 574151, 4227931; 574159, 4227922; 574168, 4227924; 574108, 4227756; 574045, 4227438; 574091, 4227308; 574227, 4227263; 574369, 4227183; 574420, 4227110; 574539, 4226906; 574607, 4226770; 574709, 4226724; 574710, 4226757; 574747, 4226749; 574752, 4226739; 574956, 4226092; 575176, 4225375; 575264, 4225162; 575359, 4224951; 575367, 4224934; 575349, 4224839; 575429, 4224688; 575442, 4224534; 575525, 4224485; 575509, 4224434; 575447, 4224377; 575368, 4224326; 575308, 4224295; 575272, 4224261; 575277, 4224221; 575368, 4224094; 575430, 4223998; 575487, 4223947; 575543, 4223916; 575614, 4223905; 575693, 4223901; 575755, 4223882; 575835, 4223882; 575898, 4223882; 575934, 4223899; 575951, 4223933; 575954, 4223981; 575956, 4224042; 576006, 4224063; 576184, 4224161; 576443, 4224275; 576548, 4224315; 576613, 4224309; 576698, 4224258; 576848, 4224202; 576995, 4224139; 577094, 4224080; 577153, 4224080; 577185, 4224072; 577294, 4223874; 577294, 4223873; 577268, 4223741; 577241, 4223622; 577294, 4223503; 577394, 4223421; 577373, 4223340; 577361, 4223317; 577326, 4223273; 577276, 4223227; 577195, 4223202; 577093, 4223198; 577026, 4223148; 577040, 4223098; 577052, 4222985; 577088, 4222761; 577095, 4222746; 577116, 4222735; 577231, 4222620; 577424, 4222494; 577468, 4222421; 577487, 4222409; 577533, 4222400; 577591, 4222405; 577667, 4222424; 577740, 4222438; 577764, 4222437; 577797, 4222433; 577837, 4222421; 577901, 4222389; 577911, 4222372; 577919, 4222349; 577919, 4222338; 577908, 4222309; 577852, 4222265; 577823, 4222231; 577839, 4222199; 577857, 4222180; 577941, 4222126; 577980, 4222093; 578000, 4222065; 577976, 4222018; 577902, 4221992; 577873, 4221986; 577851, 4221975; 577832, 4221957; 577819, 4221920; 577874, 4221749; 577874, 4221723; 577866, 4221671; 577847, 4221604; 577479, 4221571; 577347, 4221465; 577347, 4221267; 577254, 4221042; 577263, 4220963; 577240, 4220963; 577240, 4220911; 577232, 4220845; 577157, 4220753; 577148, 4220644; 577148, 4220519; 577182, 4220377; 577207, 4220260; 577265, 4220101; 577340, 4219959; 577415, 4219901; 577524, 4219826; 577708, 4219717; 577833, 4219667; 578017, 4219650; 578200, 4219650; 578242, 4219600; 578242, 4219433; 578242, 4219316; 578200, 4219099; 578200, 4219007; 578200, 4218949; 578200, 4218790; 578200, 4218615; 578159, 4218556; 578050, 4218506; 577917, 4218473; 577683, 4218456; 577524, 4218440; 577374, 4218381; 577215, 4218356; 577073, 4218356; 576931, 4218356; 576823, 4218339; 576672, 4218298; 576522, 4218181; 576463, 4218114; 576363, 4218080; 576288, 4218022; 576188, 4217913; 576096, 4217813; 575962, 4217696; 575846, 4217579; 575779, 4217454; 575762, 4217321; 575762, 4217187; 575754, 4217070; 575687, 4216945; 575653, 4216828; 575612, 4216753; 575044, 4216728; 574885, 4216811; 574593, 4216936; 574412, 4217019; 574372, 4217106; 574362, 4217161; 574360, 4217271; 574317, 4217360; 574245, 4217461; 574190, 4217488; 574170, 4217490; 574066, 4217508; 574000, 4217565; 573972, 4217611; 573881, 4217686; 573797, 4217738; 573773, 4217765; 573767, 4217843; 573779, 4217898; 573776, 4217959; 573748, 4218101; 573750, 4218138; 573777, 4218201; 573766, 4218266; 573768, 4218399; 573827, 4218481; 573898, 4218583; 573877, 4218663; 573817, 4218771; 573806, 4218855; 573815, 4218905; 573858, 4218995; 573996, 4219035; 573989, 4219136; 574001, 4219250; 574013, 4219312; 574085, 4219316; 574202, 4219376; 574276, 4219456; 574348, 4219508; 574399, 4219535; 574503, 4219545; 574568, 4219638; 574555, 4219684; 574534, 4219746; 574566, 4219819; 574563, 4219857; 574544, 4219914; 574515, 4219962; 574467, 4220010; 574393, 4220039; 574362, 4220041; 574311, 4220055; 574327, 4220089; 574282, 4220146; 574262, 4220181; 574254, 4220211; 574226, 4220262; 574172, 4220299; 574183, 4220395; 574276, 4220434; 574323, 4220510; 574384, 4220550; 574463, 4220614; 574507, 4220688; 574538, 4220786; 574553, 4220862; 574510, 4220879; 574501, 4220954; 574380, 4221028; 573935, 4221148; 573648, 4221148; 573509, 4221093; 573491, 4221091; 573353, 4221405; 573233, 4221623; 573101, 4221744; 573101, 4222017; 573080, 4222159; 572894, 4222695; 572719, 4223078; 572686, 4223384; 572555, 4223800; 572566, 4224161; 572555, 4224434; 572609, 4224828; 572609, 4225046; 572596, 4225163; 572424, 4225185; 572363, 4225129; 572290, 4225081; 572237, 4225145; 572133, 4225232; 572065, 4225225; 571999, 4225149; 571881, 4225001; 571777, 4224944; 571704, 4224891; 571666, 4224843; 571574, 4224781; 571529, 4224773; 571484, 4224773; 571338, 4224672; 571292, 4224595; 571231, 4224490; 571143, 4224484; 571009, 4224482; 570850, 4224490; 570733, 4224439; 570602, 4224420; 570599, 4224447; 570583, 4224472; 570585, 4224503; 570574, 4224519; 570537, 4224557; 570506, 4224631; 570492, 4224657; 570463, 4224685; 570414, 4224710; 570356, 4224760; 570327, 4224781; 570292, 4224797; 570225, 4224817; 570186, 4224818; 570165, 4224813; 570136, 4224814; 570171, 4224844; 570273, 4224982; 570404, 4225135; 570593, 4225322; 570741, 4225455; 570779, 4225526; 570830, 4225616; 570863, 4225679; 570927, 4225779; 570996, 4225863; 571091, 4225971; 571167, 4226032; 571252, 4226086; 571349, 4226188; 571448, 4226262; 571533, 4226351; 571625, 4226456; 571699, 4226530; 571793, 4226584; 571888, 4226637; 571992, 4226681; 572084, 4226724; 572169, 4226755; 572299, 4226819; 572437, 4226893; 572567, 4226980; 572679, 4227079; 572820, 4227263; 572902, 4227355; 572909, 4227350; 572955, 4227309; 572988, 4227318; 572991, 4227313; 573005, 4227322; 573006, 4227323; 573080, 4227332; 573218, 4227378; 573394, 4227489; 573436, 4227595; 573436, 4227637; 573422, 4227683; 573417, 4227725; 573417, 4227762; 573422, 4227785; 573459, 4227812; 573556, 4227845; 573577, 4227864; 573582, 4227864; 573678, 4227920; 573736, 4227914; 573798, 4227917; 573851, 4227930; 573904, 4227948; 573970, 4227984; 574033, 4228022; 574129, 4228009; 574142, 4227987; 574141, 4227977; 574142, 4227953; returning to 574151, 4227931.

(ii) Unit SOL-1 (Map M9) follows:

BILLING CODE 4310-55-P

BILLING CODE 4310-55-C

(15) Unit CCS-1A, Contra Costa County, California.

(i) From USGS 1:24,000 scale quadrangle Briones Valley, Walnut Creek. Land bounded by the following UTM Zone 10, NAD27 coordinates (E,N): 577415, 4202403; 577553, 4202269; 577370, 4202080; 577433, 4202019; 577361, 4201950; 577307, 4201899; 577273, 4201866; 577181, 4201779; 577181, 4201778; 577217, 4201778; 577331, 4201778; 577332, 4201711; 577396, 4201713; 577394, 4201778; 577491, 4201779; 577538, 4201779; 577538, 4201703; 577538, 4201657; 577538, 4201623; 577538, 4201608; 577528, 4201602; 577508, 4201588; 577427, 4201529; 577375, 4201499; 577311, 4201467; 577244, 4201455; 577180, 4201413; 577171, 4201344; 577177, 4201270; 577238, 4201225; 577253, 4201191; 577226, 4201086; 577192, 4200992; 577195, 4200899; 577204, 4200806; 577242, 4200746; 577282, 4200651; 577331, 4200562; 577346, 4200495; 577350, 4200480; 577311, 4200435; 577245, 4200395; 577192, 4200372; 577175, 4200312; 577162, 4200287; 577096, 4200285; 577031, 4200293; 577028, 4200293; 576947, 4200268; 576858, 4200184; 576858, 4200181; 576858, 4200181; 576873, 4200135; 576906, 4200083; 576923, 4199997; 576929, 4199888; 576926, 4199829; 576878, 4199783; 576851, 4199719; 576858, 4199658; 576847, 4199627; 576807, 4199612; 576755, 4199597; 576744, 4199595; 576573, 4199407; 576480, 4199299; 576522, 4199268; 576670, 4199097; 576716, 4199076; 576758, 4199063; 576790, 4199053; 576873, 4199005; 576934, 4198944; 576974, 4198877; 577000, 4198816; 576996, 4198754; 576998, 4198671; 576968, 4198638; 576909, 4198588; 576860, 4198575; 576798, 4198592; 576812, 4198531; 576761, 4198485; 576357, 4198119; 576106, 4197955; 575987, 4197664; 576011, 4197421; 576007, 4197413; 576032, 4197330; 576046, 4197240; 576041, 4197179; 576026, 4197140; 576005, 4197111; 575914, 4197043; 575860, 4197013; 575797, 4196993; 575755, 4196991; 575693, 4196997; 575623, 4197010; 575587, 4196999; 575564, 4196983; 575513, 4196933; 575482, 4196892; 575469, 4196863; 575447, 4196833; 575443, 4196831; 575433, 4196825; 575432, 4196824; 575433, 4196838; 575433, 4196838; 575443, 4196840; 575443, 4196861; 575435, 4196882; 575436, 4196897; 575426, 4196904; 575386, 4197011; 575161, 4197151; 575066, 4197298; 574931, 4197375; 574912, 4197411; 574754, 4197511; 574718, 4197534; 574489, 4197504; 574432, 4197496; 574156, 4197457; 574161, 4197400; 574162, 4197390; 574054, 4197340; 574036, 4197331; 573973, 4197317; 573926, 4197317; 573757, 4197318; 573683, 4197437; 573692, 4197483; 573706, 4197568; 573738, 4197634; 573754, 4197935; 573753, 4197936; 573750, 4197950; 573665, 4197936; 573652, 4197934; 573652, 4197937; 573606, 4197931; 573603, 4197931; 573599, 4197933; 573597, 4197936; 573597, 4197939; 573574, 4198103; 573567, 4198136; 573557, 4198168; 573543, 4198199; 573527, 4198229; 573507, 4198256; 573485, 4198281; 573476, 4198289; 573370, 4198399; 573353, 4198414; 573335, 4198427; 573315, 4198438; 573295, 4198447; 573279, 4198452; 573281, 4198460; 573262, 4198465; 573248, 4198468; 573247, 4198462; 573222, 4198463; 573197, 4198462; 573173, 4198458; 573166, 4198456; 573129, 4198464; 573063, 4198504; 573047, 4198496; 573022, 4198458; 572904, 4198434; 572836, 4198432; 572768, 4198463; 572762, 4198465; 572610, 4198534; 572585, 4198554; 572549, 4198584; 572532, 4198601; 572504, 4198711; 572485, 4198723; 572417, 4198723; 572354, 4198751; 572221, 4198785; 572206, 4198818; 572181, 4198915; 572141, 4198998; 572089, 4199024; 572010, 4199081; 571881, 4199118; 571866, 4199105; 571670, 4199102; 571566, 4199147; 571555, 4199158; 571543, 4199171; 571533, 4199186; 571524, 4199202; 571516, 4199253; 571507, 4199310; 571538, 4199372; 571540, 4199418; 571566, 4199461; 571727, 4199467; 571823, 4199470; 571930, 4199474; 571938, 4199474; 571947, 4199474; 572171, 4199482; 572408, 4199490; 572471, 4199492; 572551, 4199494; 572667, 4199496; 572758, 4199498; 572936, 4199501; 573237, 4199507; 573236, 4199597; 572940, 4199639; 572940, 4199639; 572940, 4199639; 572939, 4199640; 572939, 4199640; 572938, 4199641; 572938, 4199641; 572938, 4199642; 572937, 4199642; 572937, 4199643; 572937, 4199643; 572937, 4199644; 572937, 4199645; 572937, 4199645; 572937, 4199646; 572937, 4199647; 572937, 4199647; 572937, 4199648; 572937, 4199648; 572938, 4199649; 572938, 4199649; 572939, 4199650; 572939, 4199650; 572940, 4199651; 572940, 4199651; 572941, 4199651; 572942, 4199651; 572942, 4199651; 572943, 4199651; 572944, 4199651; 572944, 4199651; 572945, 4199651; 572946, 4199651; 572946, 4199650; 572947, 4199650; 572947, 4199653; 572947, 4199653; 572948, 4199653; 572948, 4199654; 572947, 4199654; 572948, 4199657; 572938, 4199660; 572937, 4199660; 572940, 4199670; 572988, 4199804; 572959, 4199812; 573192, 4200199; 573233, 4200148; 573234, 4200178; 573236, 4200385; 573309, 4200760; 573349, 4200762; 573350, 4200872; 573388, 4200874; 573397, 4200874; 573397, 4200874; 573397, 4200873; 573397, 4200873; 573398, 4200874; 573398, 4200874; 573406, 4200874; 573532, 4200878; 573535, 4200878; 573517, 4200911; 573471, 4200995; 573443, 4201046; 573455, 4201046; 573544, 4201047; 573552, 4201067; 573577, 4201137; 573579, 4201137; 573579, 4201142; 573580, 4201146; 573651, 4201342; 573745, 4201343; 573746, 4201343; 573748, 4201343; 573742, 4201477; 574180, 4201457; 574217, 4201456; 574216, 4201457; 574210, 4201468; 574155, 4201560; 574156, 4201561; 574504, 4201744; 574506, 4201742; 574507, 4201741; 574513, 4201736; 574513, 4201736; 574514, 4201735; 574514, 4201735; 574514, 4201734; 574514, 4201734; 574515, 4201733; 574515, 4201732; 574516, 4201731; 574516, 4201730; 574517, 4201729; 574518, 4201728; 574519, 4201727; 574520, 4201726; 574521, 4201725; 574522, 4201725; 574523, 4201725; 574525, 4201724; 574526, 4201724; 574527, 4201724; 574528, 4201724; 574530, 4201725; 574531, 4201725; 574532, 4201725; 574533, 4201726; 574534, 4201727; 574535, 4201728; 574536, 4201729; 574537, 4201730; 574537, 4201731; 574538, 4201732; 574538, 4201733; 574539, 4201734; 574539, 4201736; 574539, 4201737; 574538, 4201738; 574538, 4201739; 574538, 4201741; 574537, 4201742; 574537, 4201743; 574536, 4201744; 574535, 4201745; 574534, 4201746; 574533, 4201747; 574532, 4201747; 574531, 4201748; 574530, 4201748; 574529, 4201748; 574528, 4201748; 574527, 4201749; 574526, 4201749; 574526, 4201749; 574525, 4201749; 574525, 4201750; 574518, 4201755; 574515, 4201759; 574511, 4201763; 574508, 4201768; 574506, 4201773; 574504, 4201778; 574502, 4201783; 574501, 4201788; 574501, 4201794; 574501, 4201799; 574502, 4201804; 574503, 4201810; 574505, 4201815; 574508, 4201820; 574511, 4201825; 574516, 4201835; 574520, 4201846; 574523, 4201857; 574524, 4201868; 574525, 4201880; 574525, 4201886; 574521, 4201930; 574521, 4201932; 574521, 4201934; 574522, 4201936; 574522, 4201938; 574523, 4201940; 574524, 4201941; 574525, 4201943; 574527, 4201944; 574528, 4201946; 574529, 4201947; 574531, 4201948; 574533, 4201949; 574535, 4201949; 574651, 4201982; 574652, 4201983; 574660, 4201984; 574669, 4201985; 574677, 4201985; 574686, 4201985; 574690, 4201984; 574691, 4201984; 574693, 4201983; 574695, 4201982; 574697, 4201982; 574699, 4201980; 574701, 4201979; 574702, 4201978; 574704, 4201976; 574705, 4201974; 574706, 4201972; 574707, 4201970; 574708, 4201968; 574708, 4201966; 574711, 4201944; 574712, 4201940; 574713, 4201937; 574714, 4201934; 574715, 4201932; 574717, 4201929; 574719, 4201926; 574722, 4201924; 574724, 4201922; 574727, 4201921; 574730, 4201919; 574733, 4201918; 574736, 4201917; 574739, 4201917; 574742, 4201917; 574746, 4201917; 574749, 4201918; 574752, 4201919; 574755, 4201920; 574758, 4201921; 574761, 4201923; 574763, 4201925; 574765, 4201928; 574767, 4201930; 574769, 4201933; 574770, 4201936; 574771, 4201939; 574772, 4201942; 574773, 4201945; 574773, 4201947; 574774, 4202004; 574774, 4202005; 574782, 4202005; 574786, 4202005; 574786, 4202005; 574786, 4202004; 574786, 4202004; 574787, 4202005; 574787, 4202005; 574787, 4202005; 574791, 4202005; 574793, 4202005; 574799, 4202006; 574803, 4201761; 574807, 4201467; 574807, 4201453; 575225, 4201592; 575241, 4201597; 575231, 4201620; 575195, 4201668; 575198, 4201759; 575232, 4201791; 575271, 4201928; 575242, 4201927; 575276, 4202021; 575282, 4202026; 575288, 4202031; 575296, 4202038; 575305, 4202037; 575308, 4202036; 575309, 4202040; 575326, 4202051; 575326, 4202052; 575335, 4202060; 575358, 4202078; 575369, 4202083; 575390, 4202092; 575389, 4202144; 575388, 4202193; 575387, 4202242; 575387, 4202250; 575386, 4202296; 575386, 4202303; 575420, 4202307; 575500, 4202306; 575509, 4202306; 575527, 4202304; 575671, 4202256; 575672, 4202256; 575673, 4202190; 575686, 4202153; 575687, 4202126; 575729, 4202104; 575759, 4202103; 575772, 4202097; 575803, 4202084; 575880, 4202098; 575955, 4202109; 575936, 4202055; 576031, 4201919; 576032, 4201917; 576042, 4201903; 576011, 4201840; 576000, 4201815; 575998, 4201812; 575995, 4201805; 575989, 4201793; 576026, 4201779; 576046, 4201771; 576037, 4201718; 576036, 4201713; 576035, 4201709; 576032, 4201690; 576025, 4201654; 576155, 4201615; 576171, 4201610; 576194, 4201670; 576216, 4201730; 576222, 4201746; 576260, 4201798; 576270, 4201812; 576282, 4201829; 576256, 4201869; 576248, 4201881; 576271, 4201918; 576272, 4201920; 576236, 4201985; 576235, 4201988; 576274, 4202044; 576298, 4202070; 576323, 4202106; 576360, 4202137; 576381, 4202154; 576421, 4202155; 576452, 4202128; 576506, 4202156; 576537, 4202156; 576591, 4202063; 576682, 4201909; 576696, 4201885; 576745, 4201856; 576749, 4201853; 576871, 4201782; 576885, 4201828; 576904, 4201880; 576916, 4201911; 576922, 4201934; 576929, 4201941; 576966, 4201978; 576996, 4202045; 577025, 4202081; 577022, 4202086; 577036, 4202077; 577048, 4202131; 577051, 4202146; 577055, 4202156; 577059, 4202163; 577067, 4202176; 577077, 4202189; 577089, 4202204; 577123, 4202242; 577129, 4202252; 577131, 4202263; 577122, 4202327; 577126, 4202334; 577165, 4202394; 577221, 4202356; 577252, 4202335; 577286, 4202312; 577377, 4202449; 577394, 4202429; returning to 577415, 4202403.

(ii) Unit CCS-1A (Map M10) follows:

BILLING CODE 4310-55-P

BILLING CODE 4310-55-C

(16) Unit CCS-1B, Contra Costa County, California.

(i) From USGS 1:24,000 scale quadrangle Clayton, Antioch South, Brentwood, Honker Bay. Land bounded by the following UTM Zone 10, NAD27 coordinates (E,N): 588885, 4208099; 589054, 4208083; 589250, 4208083; 589396, 4208083; 589562, 4208083; 589718, 4208083; 589767, 4208034; 590050, 4207770; 590235, 4207770; 590372, 4207770; 590528, 4207858; 590606, 4207985; 590675, 4208073; 590684, 4207917; 590684, 4207722; 590870, 4207712; 591046, 4207712; 591134, 4207712; 591407, 4207644; 591485, 4207595; 591592, 4207370; 591631, 4207165; 591661, 4206970; 591709, 4206804; 591758, 4206599; 591973, 4206589; 592139, 4206589; 592344, 4206589; 592559, 4206628; 592949, 4206990; 592969, 4207136; 593008, 4207380; 593008, 4207585; 593013, 4207688; 593036, 4207697; 593647, 4207706; 593675, 4207563; 593680, 4207475; 593711, 4207387; 593737, 4207382; 593784, 4207356; 593810, 4207299; 593825, 4207221; 593825, 4207144; 593913, 4207149; 593944, 4207294; 594017, 4207537; 594043, 4207646; 594131, 4207702; 594234, 4207702; 594312, 4207692; 594322, 4207671; 594338, 4207625; 594343, 4207589; 594343, 4207558; 594374, 4207537; 594451, 4207527; 594503, 4207527; 594550, 4207506; 594565, 4207475; 594565, 4207433; 594576, 4207387; 594633, 4207356; 594705, 4207356; 594778, 4207330; 594829, 4207294; 594933, 4207211; 594990, 4207180; 595104, 4207154; 595176, 4207128; 595243, 4207118; 595290, 4207118; 595295, 4206945; 595547, 4206951; 595543, 4206880; 595502, 4206823; 595440, 4206792; 595367, 4206745; 595290, 4206688; 595300, 4206662; 595435, 4206662; 595559, 4206662; 595631, 4206724; 595673, 4206854; 595686, 4206955; 595956, 4206961; 595977, 4206163; 596034, 4206162; 596092, 4205995; 596097, 4205922; 596133, 4205881; 596242, 4205803; 596351, 4205700; 596408, 4205622; 596444, 4205581; 596511, 4205539; 596609, 4205477; 596703, 4205436; 596822, 4205389; 596904, 4205348; 597057, 4205374; 597049, 4205360; 598693, 4205326; 599279, 4205331; 599291, 4205310; 599312, 4205294; 599336, 4205284; 599344, 4205271; 599357, 4205194; 599363, 4205171; 599375, 4205149; 599390, 4205132; 599436, 4205105; 599457, 4205079; 599462, 4205049; 599459, 4205032; 599551, 4204804; 599606, 4204730; 599697, 4204644; 599602, 4204477; 599617, 4204154; 599644, 4204030; 599613, 4203930; 599630, 4203932; 599654, 4203938; 599790, 4203983; 599825, 4204010; 599861, 4204028; 599895, 4204051; 599900, 4204120; 599909, 4204159; 599928, 4204185; 599948, 4204197; 599967, 4204198; 600003, 4204207; 600100, 4204239; 600140, 4204364; 600207, 4204413; 600283, 4204477; 600317, 4204533; 600332, 4204592; 600335, 4204631; 600332, 4204645; 600374, 4204699; 600416, 4204763; 600460, 4204819; 600461, 4204821; 600563, 4204702; 600598, 4204647; 600643, 4204597; 600693, 4204532; 600708, 4204467; 600728, 4204397; 600758, 4204382; 600818, 4204392; 600893, 4204427; 600968, 4204437; 601153, 4204472; 601183, 4204452; 601218, 4204427; 601293, 4204427; 601383, 4204402; 601453, 4204357; 601528, 4204347; 601568, 4204267; 601613, 4204187; 601643, 4204122; 601663, 4204052; 601663, 4203997; 601698, 4203942; 601758, 4203892; 601828, 4203847; 601888, 4203812; 601953, 4203777; 602033, 4203777; 602098, 4203767; 602143, 4203767; 602263, 4203787; 602362, 4203747; 602383, 4203738; 602407, 4203727; 602472, 4203677; 602532, 4203612; 602587, 4203547; 602642, 4203502; 602712, 4203462; 602787, 4203427; 602847, 4203427; 602937, 4203427; 602977, 4203412; 603027, 4203357; 603087, 4203367; 603132, 4203402; 603182, 4203432; 603222, 4203417; 603287, 4203387; 603347, 4203387; 603387, 4203422; 603422, 4203482; 603422, 4203547; 603397, 4203617; 603397, 4203793; 604000, 4203799; 604070, 4203631; 604120, 4203540; 604120, 4203473; 604120, 4203415; 604120, 4203366; 604166, 4203289; 604170, 4203283; 604228, 4203216; 604319, 4203134; 604402, 4203059; 604510, 4203009; 604525, 4202984; 604535, 4202968; 604344, 4202885; 604178, 4202827; 604112, 4202760; 604112, 4202727; 604253, 4202669; 604288, 4202634; 604294, 4202628; 604286, 4202553; 604286, 4202479; 604219, 4202412; 604137, 4202338; 604095, 4202288; 604037, 4202288; 603971, 4202313; 603871, 4202313; 603813, 4202304; 603705, 4202280; 603623, 4202280; 603540, 4202255; 603506, 4202180; 603498, 4202081; 603548, 4202014; 603598, 4201973; 603705, 4201890; 603689, 4201807; 603813, 4201799; 603987, 4201724; 604095, 4201824; 604186, 4201923; 604294, 4201923; 604377, 4201890; 604477, 4201832; 604510, 4201898; 604518, 4201981; 604576, 4201981; 604676, 4201956; 604841, 4201906; 604783, 4201865; 604734, 4201782; 604775, 4201691; 604866, 4201616; 604941, 4201484; 604949, 4201376; 605032, 4201368; 605181, 4201368; 605728, 4201368; 606234, 4201318; 606582, 4201343; 606956, 4201343; 607113, 4201343; 607229, 4201343; 607304, 4201417; 607428, 4201442; 608829, 4201434; 609724, 4201455; 609737, 4200515; 609760, 4200458; 609809, 4200466; 609995, 4200440; 610262, 4200283; 610369, 4200129; 610451, 4199990; 610483, 4199910; 610419, 4199837; 610306, 4199787; 610269, 4199787; 610193, 4199837; 610137, 4199874; 610036, 4199874; 609961, 4199849; 609867, 4199761; 609798, 4199705; 609760, 4199617; 609717, 4199442; 609723, 4199090; 609328, 4199078; 609328, 4198777; 609317, 4198777; 609269, 4198788; 609220, 4198711; 609045, 4198651; 608912, 4198629; 608811, 4198510; 608671, 4198472; 608551, 4198474; 608488, 4198577; 608428, 4198590; 608353, 4198534; 608268, 4198563; 608134, 4198548; 608067, 4198477; 607837, 4198516; 607599, 4198501; 607589, 4198571; 607554, 4198648; 607411, 4198815; 607226, 4198866; 607029, 4198774; 606888, 4198627; 606674, 4198421; 606522, 4198206; 606479, 4198107; 606477, 4198050; 606389, 4198034; 606068, 4198149; 605839, 4198236; 605623, 4198369; 605429, 4198469; 605254, 4198554; 604371, 4198905; 604150, 4199002; 603626, 4199153; 603484, 4199214; 603436, 4199249; 603246, 4199361; 603061, 4199446; 602886, 4199504; 602749, 4199343; 602610, 4199223; 602561, 4199152; 602526, 4199102; 602442, 4199062; 602361, 4198925; 602360, 4198922; 602325, 4198828; 602352, 4198750; 602275, 4198533; 602243, 4198470; 602161, 4198421; 602128, 4198342; 602123, 4198304; 602090, 4198304; 601977, 4198334; 601868, 4198417; 601805, 4198341; 601692, 4198308; 601494, 4198315; 601307, 4198186; 601100, 4198136; 600964, 4197947; 600785, 4197871; 600634, 4197749; 600601, 4197683; 600526, 4197531; 600505, 4197535; 600481, 4197540; 600374, 4197631; 600267, 4197782; 600132, 4197808; 600074, 4197873; 599992, 4197864; 599887, 4197909; 599754, 4197986; 599667, 4197920; 599608, 4197885; 599500, 4197916; 599432, 4197979; 599332, 4197987; 599297, 4197997; 599402, 4198031; 599442, 4198124; 599442, 4198124; 599453, 4198222; 599391, 4198283; 599351, 4198374; 599374, 4198452; 599376, 4198514; 599336, 4198561; 599322, 4198602; 599281, 4198635; 599218, 4198631; 599043, 4198709; 598982, 4198808; 598850, 4198860; 598718, 4198975; 598572, 4199236; 598489, 4199361; 598409, 4199522; 598269, 4199759; 598101, 4199925; 598041, 4199985; 597782, 4200189; 597654, 4200455; 597633, 4200500; 597329, 4200635; 596895, 4200819; 596870, 4200830; 596641, 4201053; 596278, 4201198; 596027, 4201161; 596026, 4201231; 595988, 4201321; 595962, 4201427; 595980, 4201529; 595894, 4201708; 595880, 4201825; 595858, 4201848; 595756, 4201891; 595677, 4201902; 595517, 4201859; 595413, 4201846; 595333, 4201937; 595212, 4201970; 595133, 4202065; 595117, 4202140; 595003, 4202181; 594860, 4202174; 594708, 4202141; 594612, 4202135; 594560, 4202207; 594551, 4202300; 594449, 4202479; 594216, 4202659; 594096, 4202744; 594077, 4202810; 594005, 4202928; 594008, 4202991; 594064, 4203164; 594125, 4203249; 594183, 4203341; 594225, 4203396; 594196, 4203379; 594001, 4203434; 593943, 4203521; 593855, 4203561; 593714, 4203585; 593670, 4203631; 593693, 4203766; 593669, 4203865; 593684, 4203983; 593610, 4204203; 593568, 4204291; 593484, 4204320; 593325, 4204346; 593127, 4204441; 593107, 4204521; 593060, 4204564; 592993, 4204637; 592905, 4204714; 592809, 4204917; 592717, 4205035; 592643, 4205088; 592486, 4205142; 592221, 4205205; 592172, 4205165; 592100, 4205070; 592023, 4205000; 592012, 4204998; 591606, 4205291; 591595, 4205326; 591535, 4205364; 591508, 4205361; 590516, 4206075; 590461, 4206134; 590410, 4206209; 590413, 4206245; 590419, 4206265; 590423, 4206359; 590354, 4206441; 590292, 4206504; 590205, 4206554; 590171, 4206577; 590166, 4206615; 590184, 4206640; 590354, 4206819; 590371, 4206847; 590274, 4206959; 590238, 4206975; 590216, 4206979; 590198, 4206994; 590161, 4207011; 590088, 4207034; 590062, 4207032; 589991, 4207017; 589950, 4207018; 589922, 4207047; 589915, 4207079; 589912, 4207118; 589919, 4207139; 589906, 4207158; 589882, 4207174; 589855, 4207199; 589833, 4207229; 589812, 4207300; 589785, 4207318; 589751, 4207324; 589718, 4207325; 589694, 4207335; 589672, 4207362; 589651, 4207367; 589634, 4207364; 589593, 4207342; 589560, 4207350; 589508, 4207381; 589446, 4207395; 589403, 4207410; 589372, 4207425; 589312, 4207464; 589256, 4207484; 589206, 4207530; 589192, 4207584; 589187, 4207645; 589180, 4207675; 589165, 4207675; 589160, 4207670; 589149, 4207657; 589127, 4207602; 589115, 4207585; 589098, 4207573; 589092, 4207572; 589066, 4207579; 589017, 4207604; 588957, 4207648; 588914, 4207688; 588894, 4207724; 588884, 4207749; 588877, 4207844; 588863, 4207892; 588859, 4207969; 588869, 4208046; returning to 588885, 4208099.

(ii) Note: Unit CCS-1B is depicted on Map M11—Unit CCS-1B, ALA-1A, ALA-1B, and ALA-1C—see paragraph (19)(ii):

(17) Unit ALA-1A, Contra Costa, Alameda County, California.

(i) From USGS 1:24,000 scale quadrangle Brentwood, Tassajara, Byron Hot Springs, Clifton Court Forebay, Altamont, Midway. Land bounded by the following UTM Zone 10, NAD27 coordinates (E,N): 615743, 4194821; 615759, 4194818; 615779, 4194818; 615820, 4194834; 615834, 4194835; 615851, 4194825; 615865, 4194810; 615881, 4194807; 615918, 4194810; 615934, 4194739; 615967, 4194716; 615982, 4194699; 615969, 4194627; 615976, 4194602; 615985, 4194587; 615997, 4194579; 616012, 4194577; 616029, 4194567; 616044, 4194563; 616073, 4194572; 616094, 4194590; 616112, 4194596; 616128, 4194587; 616152, 4194534; 616166, 4194521; 616182, 4194515; 616229, 4194525; 616239, 4193549; 617046, 4193558; 617051, 4193168; 617855, 4193174; 617872, 4192712; 618515, 4192719; 618516, 4191960; 617880, 4191958; 617899, 4191157; 619480, 4191161; 619497, 4190356; 620314, 4190360; 620320, 4189919; 620320, 4189916; 620725, 4189915; 620768, 4187156; 621183, 4187164; 621181, 4186374; 621991, 4186386; 622007, 4185606; 622024, 4184779; 622024, 4184753; 621934, 4184749; 621356, 4184728; 621215, 4184722; 621214, 4184514; 621214, 4184381; 620416, 4184361; 620429, 4183947; 620972, 4183953; 620972, 4183880; 620972, 4183819; 620972, 4183763; 620983, 4183702; 621027, 4183657; 621089, 4183618; 621172, 4183568; 621255, 4183507; 621283, 4183457; 621322, 4183396; 621356, 4183340; 621361, 4183305; 621367, 4183263; 621356, 4183196; 621356, 4183135; 621328, 4183085; 621272, 4183018; 621272, 4182957; 621272, 4182912; 621272, 4182873; 621283, 4182823; 621300, 4182767; 621322, 4182712; 621367, 4182645; 621400, 4182556; 621389, 4182512; 621344, 4182462; 621305, 4182423; 621267, 4182367; 621228, 4182311; 621222, 4182250; 621239, 4182217; 621222, 4182167; 621105, 4181978; 621216, 4182083; 621294, 4182156; 621372, 4182245; 621450, 4182256; 621450, 4182289; 621456, 4182350; 621511, 4182417; 621578, 4182434; 621617, 4182434; 621684, 4182406; 621739, 4182367; 621823, 4182311; 621906, 4182300; 621990, 4182289; 622040, 4182267; 622051, 4182228; 622106, 4182211; 622134, 4182161; 622129, 4182128; 622079, 4182078; 622073, 4182022; 622101, 4182022; 622151, 4182028; 622207, 4182061; 622257, 4182067; 622268, 4182117; 622323, 4182156; 622373, 4182150; 622373, 4182128; 622368, 4182089; 622340, 4182050; 622340, 4181994; 622385, 4181994; 622401, 4182022; 622457, 4182022; 622501, 4182011; 622512, 4181967; 622485, 4181939; 622462, 4181850; 622485, 4181827; 622540, 4181833; 622568, 4181872; 622624, 4181872; 622646, 4181844; 622646, 4181772; 622613, 4181683; 622613, 4181583; 622651, 4181577; 622663, 4181594; 622746, 4181622; 622746, 4181677; 622746, 4181727; 622779, 4181744; 622829, 4181733; 622907, 4181661; 622918, 4181599; 622952, 4181544; 623002, 4181466; 623013, 4181421; 623013, 4181360; 622985, 4181271; 623019, 4181238; 623058, 4181255; 623074, 4181310; 623124, 4181327; 623163, 4181310; 623213, 4181260; 623269, 4181210; 623291, 4181171; 623324, 4181110; 623369, 4181060; 623464, 4180988; 623519, 4180904; 623547, 4180832; 623575, 4180754; 623658, 4180726; 623786, 4180671; 623925, 4180659; 624009, 4180654; 624153, 4180648; 624287, 4180648; 624404, 4180648; 624493, 4180637; 624554, 4180609; 624632, 4180554; 624698, 4180487; 624765, 4180404; 624815, 4180331; 624882, 4180231; 624921, 4180153; 624965, 4180064; 624976, 4179970; 624976, 4179875; 625004, 4179792; 625049, 4179742; 625115, 4179714; 625182, 4179697; 625255, 4179658; 625288, 4179592; 625316, 4179508; 625321, 4179447; 625321, 4179386; 625321, 4179302; 625332, 4179236; 625377, 4179163; 625455, 4179091; 625638, 4179013; 625693, 4178989; 625757, 4178685; 625897, 4178306; 625972, 4177965; 626051, 4177801; 626226, 4177601; 626311, 4177469; 626437, 4177148; 626473, 4176962; 626349, 4176930; 626159, 4176815; 626141, 4176788; 626029, 4176699; 625990, 4176675; 625921, 4176656; 625876, 4176649; 625812, 4176611; 625776, 4176567; 625766, 4176552; 625741, 4176524; 625656, 4176462; 625634, 4176425; 625617, 4176414; 625597, 4176384; 625577, 4176340; 625555, 4176246; 625532, 4176200; 625504, 4176158; 625464, 4176133; 625424, 4176115; 625376, 4176103; 625292, 4176056; 625166, 4176005; 625144, 4175985; 625097, 4175967; 625049, 4175943; 625021, 4175898; 625012, 4175828; 624982, 4175737; 624945, 4175738; 624895, 4175713; 624871, 4175708; 624819, 4175662; 624758, 4175618; 624651, 4175562; 624586, 4175554; 624565, 4175559; 624535, 4175575; 624504, 4175611; 624483, 4175626; 624440, 4175645; 624411, 4175669; 624383, 4175673; 624349, 4175687; 624240, 4175721; 624198, 4175723; 624143, 4175747; 624152, 4175729; 624071, 4175703; 624007, 4175692; 623925, 4175693; 623901, 4175685; 623865, 4175682; 623852, 4175687; 623813, 4175673; 623795, 4175658; 623782, 4175632; 623778, 4175577; 623779, 4175484; 623764, 4175456; 623715, 4175431; 623527, 4175359; 623447, 4175348; 623413, 4175332; 623338, 4175308; 623247, 4175293; 623220, 4175300; 623202, 4175239; 623206, 4175221; 623235, 4175191; 623272, 4175137; 623301, 4175107; 623320, 4175068; 623335, 4175046; 623382, 4175015; 623403, 4175009; 623403, 4174991; 623398, 4174982; 623350, 4174955; 623298, 4174911; 623259, 4174850; 623242, 4174815; 623240, 4174773; 623247, 4174724; 623248, 4174695; 623272, 4174639; 623444, 4174441; 623516, 4174461; 623582, 4174485; 623618, 4174483; 623635, 4174467; 623656, 4174427; 623680, 4174338; 623693, 4174315; 623719, 4174239; 623712, 4174191; 623725, 4174152; 623744, 4174108; 623789, 4174054; 623827, 4174025; 623861, 4174016; 623915, 4173995; 623999, 4173974; 624037, 4173972; 624099, 4173978; 624172, 4173963; 624213, 4173952; 624228, 4173933; 624233, 4173910; 624175, 4173812; 624142, 4173775; 624128, 4173686; 624134, 4173675; 624183, 4173652; 624220, 4173625; 624253, 4173612; 624259, 4173560; 624246, 4173531; 624232, 4173444; 624216, 4173424; 624162, 4173389; 624107, 4173366; 624080, 4173350; 623904, 4173199; 623846, 4173159; 623818, 4173135; 623763, 4173119; 623693, 4173106; 623658, 4173088; 623584, 4173075; 623507, 4173042; 623481, 4173029; 623452, 4172994; 623398, 4172972; 623388, 4172961; 623251, 4172940; 623203, 4172942; 623191, 4172939; 623172, 4172926; 623160, 4172896; 623112, 4172834; 623069, 4172760; 623070, 4172703; 623055, 4172616; 623008, 4172597; 622960, 4172552; 622940, 4172541; 622875, 4172439; 622833, 4172431; 622806, 4172407; 622742, 4172379; 622693, 4172364; 622608, 4172308; 622564, 4172289; 622541, 4172264; 622504, 4172025; 622512, 4171959; 622545, 4171922; 622590, 4171897; 622643, 4171883; 622695, 4171841; 622710, 4171834; 622724, 4171813; 622729, 4171797; 622727, 4171782; 622738, 4171738; 622726, 4171678; 622727, 4171633; 622722, 4171596; 622719, 4171532; 622699, 4171476; 622680, 4171456; 622623, 4171331; 622599, 4171309; 622540, 4171265; 622421, 4171214; 622375, 4171200; 622273, 4171187; 622248, 4171180; 622220, 4171156; 622201, 4171131; 622169, 4171068; 622137, 4171017; 622113, 4170999; 622095, 4170977; 622047, 4170947; 622028, 4170954; 621952, 4170955; 621935, 4170962; 621909, 4170973; 621878, 4170969; 621863, 4170959; 621809, 4170973; 621769, 4170973; 621734, 4171000; 621700, 4171006; 621687, 4171018; 621655, 4171026; 621618, 4171055; 621594, 4171093; 621571, 4171085; 621528, 4171141; 621489, 4171145; 621461, 4171129; 621418, 4171138; 621368, 4171126; 621354, 4171120; 621316, 4171167; 621301, 4171210; 621292, 4171262; 621298, 4171303; 621294, 4171338; 621302, 4171363; 621286, 4171457; 621270, 4171496; 621257, 4171519; 621249, 4171583; 621241, 4171597; 621236, 4171618; 621220, 4171657; 621192, 4171695; 621188, 4171709; 621110, 4171733; 621080, 4171781; 621003, 4171834; 620975, 4171845; 620924, 4171896; 620863, 4171933; 620838, 4171963; 620806, 4171993; 620805, 4172027; 620793, 4172048; 620799, 4172069; 620778, 4172136; 620747, 4172173; 620731, 4172196; 620729, 4172210; 620660, 4172241; 620591, 4172238; 620517, 4172248; 620469, 4172265; 620435, 4172304; 620425, 4172332; 620300, 4172505; 620252, 4172585; 620241, 4172645; 620242, 4172672; 620229, 4172752; 620204, 4172783; 620170, 4172912; 620135, 4172976; 620066, 4173076; 620048, 4173092; 620023, 4173137; 620004, 4173192; 619991, 4173246; 619978, 4173272; 619969, 4173300; 619973, 4173374; 619991, 4173412; 620002, 4173446; 620007, 4173481; 619999, 4173537; 619964, 4173604; 619950, 4173613; 619914, 4173646; 619887, 4173649; 619859, 4173625; 619846, 4173592; 619834, 4173574; 619780, 4173535; 619734, 4173516; 619683, 4173517; 619666, 4173514; 619637, 4173519; 619617, 4173534; 619606, 4173550; 619596, 4173579; 619590, 4173721; 619584, 4173749; 619556, 4173768; 619534, 4173776; 619503, 4173794; 619483, 4173800; 619460, 4173813; 619283, 4173868; 619250, 4173874; 619241, 4173888; 619216, 4173886; 619198, 4173871; 619172, 4173840; 619166, 4173825; 619153, 4173764; 619138, 4173729; 619124, 4173711; 619137, 4173668; 619094, 4173689; 619077, 4173704; 619004, 4173738; 618958, 4173771; 618929, 4173844; 618904, 4173874; 618875, 4173885; 618830, 4173928; 618790, 4173945; 618753, 4174008; 618716, 4174063; 618675, 4174062; 618647, 4174049; 618627, 4174028; 618512, 4174019; 618456, 4174008; 618324, 4174093; 618293, 4174117; 618272, 4174180; 618243, 4174216; 618230, 4174256; 618185, 4174366; 618178, 4174397; 618178, 4174430; 618160, 4174474; 618153, 4174485; 618123, 4174663; 618099, 4174649; 618086, 4174634; 618059, 4174627; 617995, 4174590; 617985, 4174588; 617954, 4174568; 617941, 4174557; 617876, 4174542; 617846, 4174530; 617772, 4174512; 617744, 4174517; 617713, 4174516; 617687, 4174534; 617581, 4174577; 617552, 4174601; 617496, 4174625; 617468, 4174627; 617410, 4174653; 617361, 4174658; 617328, 4174669; 617252, 4174728; 617198, 4174762; 617176, 4174795; 617134, 4174837; 617092, 4174850; 617045, 4174885; 617005, 4174921; 616972, 4174954; 616925, 4175020; 616890, 4175053; 616879, 4175076; 616841, 4175108; 616812, 4175128; 616787, 4175156; 616743, 4175192; 616709, 4175228; 616695, 4175259; 616679, 4175279; 616638, 4175313; 616584, 4175392; 616561, 4175414; 616536, 4175460; 616489, 4175478; 616480, 4175486; 616459, 4175490; 616383, 4175481; 616344, 4175471; 616324, 4175472; 616272, 4175461; 616246, 4175465; 616212, 4175459; 616173, 4175459; 616109, 4175470; 615824, 4175537; 615751, 4175570; 615709, 4175575; 615620, 4175561; 615495, 4175562; 615459, 4175587; 615411, 4175632; 615288, 4175683; 615281, 4175706; 615263, 4175729; 615238, 4175743; 615224, 4175745; 615170, 4175744; 615115, 4175703; 615074, 4175678; 615015, 4175653; 614951, 4175637; 614905, 4175631; 614863, 4175598; 614832, 4175588; 614786, 4175585; 614760, 4175571; 614718, 4175611; 614701, 4175635; 614687, 4175661; 614663, 4175693; 614647, 4175706; 614637, 4175724; 614625, 4175744; 614627, 4175761; 614664, 4175755; 614692, 4175815; 614748, 4175899; 614756, 4175939; 614756, 4176056; 614753, 4176111; 614748, 4176131; 614751, 4176153; 614733, 4176248; 614734, 4176279; 614763, 4176381; 614766, 4176404; 614763, 4176439; 614727, 4176550; 614713, 4176643; 614700, 4176670; 614688, 4176752; 614684, 4176786; 614695, 4176850; 614684, 4176940; 614682, 4176982; 614689, 4177058; 614697, 4177107; 614735, 4177244; 614759, 4177306; 614772, 4177351; 614780, 4177392; 614780, 4177455; 614785, 4177495; 614793, 4177512; 614797, 4177522; 614849, 4177553; 614911, 4177590; 614934, 4177600; 614986, 4177630; 615032, 4177646; 615060, 4177662; 615138, 4177696; 615208, 4177709; 615258, 4177708; 615359, 4177692; 615417, 4177674; 615436, 4177675; 615462, 4177805; 615449, 4177851; 615395, 4177964; 615378, 4177994; 615340, 4178031; 615313, 4178084; 615304, 4178164; 615291, 4178213; 615291, 4178326; 615285, 4178399; 615287, 4178409; 615283, 4178467; 615284, 4178511; 615277, 4178549; 615275, 4178597; 615276, 4178668; 615282, 4178709; 615283, 4178777; 615272, 4178819; 615245, 4178839; 615169, 4178851; 615153, 4178867; 615130, 4178908; 615098, 4179075; 615109, 4179224; 615052, 4179356; 615034, 4179480; 615102, 4179648; 615197, 4179758; 615337, 4180102; 615421, 4180126; 615393, 4180130; 615329, 4180209; 615277, 4180327; 615199, 4180432; 615159, 4180585; 615047, 4180678; 615006, 4180810; 614958, 4180869; 614660, 4180812; 614458, 4180774; 614310, 4180781; 614167, 4180859; 614073, 4180985; 613996, 4181153; 613914, 4181318; 613822, 4181360; 613766, 4181346; 613671, 4181323; 613610, 4181308; 613531, 4181139; 613434, 4180978; 613218, 4180803; 613174, 4180767; 613163, 4180747; 613121, 4180664; 613009, 4180594; 612864, 4180492; 612729, 4180433; 612595, 4180367; 612466, 4180339; 612385, 4180311; 612321, 4180256; 612117, 4180290; 612093, 4180294; 612036, 4180304; 611855, 4180304; 611715, 4180304; 611711, 4180304; 611598, 4180275; 611567, 4180267; 611221, 4180090; 611148, 4180026; 610992, 4180035; 610912, 4180076; 610850, 4180165; 610820, 4180252; 610815, 4180266; 610813, 4180272; 610729, 4180339; 610632, 4180336; 610550, 4180400; 610430, 4180541; 610361, 4180627; 610299, 4180712; 610267, 4180791; 610191, 4180847; 610124, 4180882; 610057, 4180909; 609956, 4180971; 609909, 4180996; 609865, 4181019; 609782, 4181073; 609725, 4181142; 609658, 4181215; 609633, 4181243; 609533, 4181331; 609526, 4181330; 609468, 4181318; 609397, 4181384; 609297, 4181525; 609109, 4181653; 608771, 4181821; 608739, 4181825; 608745, 4181870; 608771, 4181935; 608791, 4182028; 608796, 4182048; 608798, 4182160; 608735, 4182295; 608742, 4182381; 608747, 4182527; 608747, 4182538; 608756, 4182548; 608842, 4182649; 608863, 4182673; 608891, 4182704; 608920, 4182734; 608887, 4182790; 608805, 4182834; 608716, 4182916; 608651, 4183018; 608629, 4183052; 608528, 4183116; 608419, 4183226; 608373, 4183355; 608305, 4183458; 608183, 4183479; 608044, 4183524; 607930, 4183634; 607789, 4183832; 607667, 4184003; 607557, 4184058; 607442, 4184127; 607334, 4184230; 607261, 4184333; 607204, 4184388; 607110, 4184494; 607025, 4184572; 606915, 4184725; 606827, 4184796; 606765, 4184854; 606608, 4184905; 606536, 4184972; 606406, 4185082; 606318, 4185117; 606249, 4185161; 606147, 4185182; 606064, 4185218; 606053, 4185223; 605988, 4185385; 605947, 4185398; 605858, 4185379; 605802, 4185425; 605789, 4185482; 605557, 4185597; 605399, 4185560; 605191, 4185676; 605050, 4185762; 604946, 4185857; 604873, 4185961; 604787, 4186128; 604642, 4186276; 604503, 4186468; 604400, 4186511; 604359, 4186578; 604357, 4186660; 604386, 4186744; 604379, 4186825; 604273, 4186944; 604139, 4186974; 604117, 4186985; 604048, 4187018; 603917, 4187108; 603813, 4187222; 603739, 4187298; 603659, 4187265; 603596, 4187266; 603513, 4187425; 603468, 4187589; 603211, 4187758; 603135, 4187820; 603141, 4187942; 603035, 4188029; 602971, 4188114; 602926, 4188204; 602751, 4188209; 602664, 4188227; 602622, 4188299; 602572, 4188351; 602461, 4188426; 602344, 4188466; 602338, 4188606; 602338, 4188606; 603397, 4188616; 603455, 4188617; 603518, 4188617; 603519, 4188769; 603520, 4188862; 603527, 4189948; 603527, 4189948; 603732, 4189857; 603873, 4189813; 604001, 4189764; 604075, 4189751; 604131, 4189659; 604192, 4189602; 604325, 4189581; 604425, 4189515; 604523, 4189509; 604642, 4189533; 604734, 4189498; 604814, 4189326; 604867, 4189026; 604975, 4189019; 605083, 4189082; 605158, 4189250; 605210, 4189446; 605269, 4189502; 605367, 4189486; 605435, 4189523; 605535, 4189521; 605566, 4189397; 605547, 4189225; 605572, 4189067; 605668, 4188745; 605697, 4188623; 605815, 4188511; 605939, 4188427; 605992, 4188126; 606021, 4188001; 606091, 4187942; 606152, 4187852; 606172, 4187744; 606209, 4187667; 606335, 4187642; 606456, 4187669; 606520, 4187613; 606566, 4187482; 606619, 4187440; 606634, 4187467; 606746, 4187486; 606778, 4187492; 606881, 4187514; 606943, 4187617; 607036, 4187736; 607117, 4187831; 607171, 4187894; 607229, 4188021; 607130, 4188167; 607047, 4188306; 607042, 4188417; 607436, 4188604; 607484, 4188623; 607622, 4188676; 607758, 4188710; 607759, 4188710; 608069, 4188871; 608217, 4188959; 608345, 4188957; 608467, 4188855; 608637, 4188785; 608816, 4188773; 608863, 4188872; 608871, 4189011; 608828, 4189122; 608878, 4189171; 609002, 4189257; 609127, 4189391; 609230, 4189480; 609373, 4189578; 609442, 4189678; 609445, 4189700; 609461, 4189801; 609494, 4189912; 609501, 4189916; 609575, 4189966; 609631, 4190026; 609755, 4190053; 609873, 4190064; 609937, 4190104; 610063, 4190161; 610188, 4190244; 610204, 4190259; 610257, 4190307; 610393, 4190292; 610541, 4190290; 610666, 4190313; 610717, 4190323; 610744, 4190332; 610840, 4190364; 611005, 4190677; 611125, 4190759; 611320, 4191108; 611642, 4191113; 611751, 4191254; 611801, 4191423; 611852, 4191483; 611858, 4191570; 611797, 4191637; 611869, 4191673; 612091, 4191715; 612118, 4191865; 612119, 4191866; 612437, 4192093; 612481, 4192201; 612569, 4192208; 612742, 4192176; 612907, 4192190; 612933, 4192239; 612836, 4192343; 612889, 4192459; 612889, 4192536; 612830, 4192594; 612828, 4192598; 612816, 4192644; 612794, 4192687; 612776, 4192709; 612743, 4192740; 612728, 4192762; 612714, 4192829; 612714, 4192886; 612694, 4192951; 612668, 4193071; 612700, 4193128; 612989, 4193209; 613124, 4193274; 613126, 4193347; 612977, 4193365; 612852, 4193417; 612745, 4193518; 612734, 4193626; 612651, 4193723; 612526, 4193817; 612484, 4193916; 612469, 4194116; 612396, 4194230; 612477, 4194468; 612552, 4194534; 612568, 4194530; 612657, 4194505; 612685, 4194497; 612848, 4194420; 612991, 4194332; 612992, 4194332; 613063, 4194311; 613130, 4194363; 613227, 4194466; 613274, 4194558; 613360, 4194537; 613365, 4194611; 613370, 4194617; 613460, 4194717; 613503, 4194725; 613665, 4194754; 613824, 4194750; 613833, 4194747; 613950, 4194705; 614008, 4194711; 614107, 4194720; 614254, 4194763; 614273, 4194769; 614340, 4194751; 614399, 4194736; 614486, 4194729; 614604, 4194718; 614837, 4194758; 615106, 4194826; 615246, 4194832; 615215, 4194908; 615231, 4194995; 615241, 4195026; 615252, 4195051; 615268, 4195068; 615308, 4195088; 615340, 4195088; 615363, 4195079; 615389, 4195059; 615478, 4195019; 615534, 4195001; 615623, 4194981; 615650, 4194968; 615673, 4194948; 615693, 4194906; 615698, 4194875; 615707, 4194849; 615723, 4194833; returning to 615743, 4194821.

(ii) Note: Unit ALA-1A is depicted on Map M11—Unit CCS-1B, ALA-1A, ALA-1B, and ALA-1C—see paragraph (19)(ii):

(18) Unit ALA-1B, Alameda County, California.

(i) From USGS 1:24,000 scale quadrangle Livermore, Tassajara. Land bounded by the following UTM Zone 10, NAD27 coordinates (E,N): 605371, 4178338; 605396, 4178299; 605423, 4178305; 605468, 4178293; 605499, 4178275; 605527, 4178239; 605558, 4178167; 605586, 4178142; 605610, 4178091; 605591, 4178016; 605559, 4177966; 605538, 4177883; 605408, 4177646; 605371, 4177603; 605330, 4177547; 605316, 4177495; 605294, 4177453; 605281, 4177417; 605266, 4177312; 605276, 4177218; 605289, 4176971; 605266, 4176874; 605269, 4176833; 605266, 4176726; 605273, 4176705; 605293, 4176673; 605307, 4176586; 605331, 4176499; 605348, 4176375; 605358, 4176335; 605363, 4176285; 605358, 4176243; 605364, 4176151; 605388, 4176109; 605414, 4176080; 605441, 4176025; 605476, 4175990; 605486, 4175984; 605528, 4175946; 605511, 4175897; 605512, 4175855; 605519, 4175811; 605535, 4175776; 605530, 4175745; 605535, 4175716; 605557, 4175650; 605560, 4175566; 605570, 4175534; 605569, 4175466; 605550, 4175459; 605431, 4175438; 605385, 4175435; 605350, 4175393; 605363, 4175281; 605376, 4175219; 605455, 4175062; 605469, 4175006; 605469, 4174978; 605487, 4174933; 605494, 4174866; 605507, 4174797; 605518, 4174760; 605516, 4174746; 605508, 4174697; 605365, 4174616; 605340, 4174590; 605313, 4174538; 605243, 4174457; 605189, 4174408; 605154, 4174363; 605090, 4174293; 605046, 4174232; 605003, 4174198; 604964, 4174156; 604918, 4174116; 604850, 4174082; 604807, 4174055; 604707, 4174008; 604641, 4174026; 604603, 4174030; 604524, 4174007; 604460, 4173947; 604197, 4173862; 604110, 4173818; 604061, 4173802; 604027, 4173814; 603978, 4173811; 603894, 4173775; 603803, 4173732; 603763, 4173751; 603710, 4173812; 603667, 4173852; 603636, 4173868; 603547, 4173842; 603485, 4173815; 603400, 4173787; 603361, 4173759; 603295, 4173754; 603216, 4173726; 603170, 4173716; 603063, 4173709; 602985, 4173713; 602945, 4173710; 602945, 4173817; 602945, 4173947; 602945, 4174103; 603036, 4174259; 603075, 4174389; 603088, 4174519; 603140, 4174584; 603192, 4174727; 603192, 4174922; 603257, 4175026; 603127, 4175260; 602893, 4175377; 602802, 4175572; 602711, 4175637; 602229, 4175715; 601956, 4175715; 601657, 4175754; 601553, 4175897; 601345, 4175936; 601215, 4176027; 601059, 4176236; 601032, 4176260; 601041, 4176272; 601056, 4176303; 601067, 4176339; 601079, 4176441; 601096, 4176474; 601140, 4176544; 601160, 4176556; 601184, 4176555; 601210, 4176548; 601282, 4176539; 601312, 4176545; 601336, 4176568; 601383, 4176603; 601481, 4176637; 601525, 4176649; 601535, 4176663; 601567, 4176728; 601581, 4176823; 601583, 4176875; 601616, 4176976; 601621, 4177049; 601614, 4177107; 601603, 4177140; 601467, 4177258; 601413, 4177332; 601378, 4177373; 601333, 4177401; 601283, 4177407; 601240, 4177434; 601219, 4177459; 601214, 4177507; 601222, 4177540; 601275, 4177634; 601289, 4177678; 601354, 4177763; 601390, 4177800; 602153, 4177746; 604155, 4178790; 604695, 4178965; 605183, 4178930; 605395, 4178792; 605406, 4178719; 605422, 4178688; 605422, 4178649; 605397, 4178557; 605381, 4178530; 605360, 4178502; 605335, 4178481; 605283, 4178448; 605278, 4178437; 605284, 4178407; 605297, 4178403; 605359, 4178342; returning to 605371, 4178338.

(ii) Note: Unit ALA-1B is depicted on Map M11—Unit CCS-1B, ALA-1A, ALA-1B, and ALA-1C—see paragraph (19)(ii):

(19) Unit ALA-1C, Alameda, Santa Clara County, California.

(i) From USGS 1:24,000 scale quadrangle La Costa Valley, Mendenhall Springs, Niles, Calaveras Reservoir, Mt. Day. Land bounded by the following UTM Zone 10, NAD27 coordinates (E,N): 605586, 4164267; 605649, 4164257; 605817, 4164262; 605875, 4164270; 605955, 4164294; 605993, 4164312; 606017, 4164319; 606040, 4164321; 606086, 4164315; 606156, 4164292; 606197, 4164286; 606236, 4164292; 606298, 4164308; 606347, 4164309; 606378, 4164305; 606563, 4164273; 606748, 4164218; 606796, 4164193; 606807, 4164177; 606863, 4164032; 606921, 4163920; 606956, 4163861; 607033, 4163799; 607087, 4163816; 607137, 4163817; 607200, 4163795; 607244, 4163763; 607268, 4163723; 607370, 4163442; 607406, 4163317; 607437, 4163070; 607437, 4163048; 607421, 4163015; 607402, 4162987; 607399, 4162974; 607416, 4162944; 607448, 4162927; 607509, 4162882; 607510, 4162863; 607497, 4162830; 607489, 4162781; 607492, 4162747; 607499, 4162724; 607503, 4162693; 607489, 4162603; 607497, 4162559; 607511, 4162549; 607593, 4162509; 607612, 4162491; 607634, 4162407; 607645, 4162375; 607662, 4162347; 607719, 4162312; 607832, 4162253; 607884, 4162241; 607905, 4162243; 607939, 4162253; 607960, 4162266; 607987, 4162290; 608003, 4162310; 608031, 4162385; 608041, 4162397; 608218, 4162404; 608293, 4162412; 608369, 4162379; 608388, 4162386; 608432, 4162412; 608463, 4162419; 608495, 4162421; 608631, 4162415; 608655, 4162411; 608710, 4162384; 608768, 4162345; 608789, 4162338; 608806, 4162335; 608832, 4162339; 608939, 4162358; 609035, 4162342; 609063, 4162321; 609100, 4162286; 609122, 4162269; 609174, 4162244; 609251, 4162174; 609280, 4162115; 609303, 4162095; 609321, 4162087; 609372, 4162076; 609507, 4162059; 609691, 4161999; 609787, 4161976; 609821, 4161959; 609841, 4161947; 609870, 4161918; 609905, 4161873; 609945, 4161800; 609961, 4161787; 609982, 4161783; 610052, 4161776; 610106, 4161764; 610119, 4161756; 610140, 4161738; 610176, 4161691; 610206, 4161667; 610234, 4161650; 610263, 4161613; 610377, 4161516; 610411, 4161485; 610421, 4161462; 610425, 4161399; 610432, 4161379; 610457, 4161332; 610497, 4161291; 610535, 4161203; 610548, 4161189; 610612, 4161164; 610681, 4161148; 610779, 4161145; 610800, 4161140; 610918, 4161142; 610991, 4161132; 611011, 4161121; 611020, 4161109; 611025, 4161092; 611017, 4161064; 611003, 4161046; 610988, 4161034; 610928, 4161008; 610918, 4160994; 610914, 4160979; 610928, 4160923; 610939, 4160906; 610962, 4160883; 611029, 4160841; 611036, 4160828; 611036, 4160805; 611044, 4160783; 611067, 4160755; 611085, 4160743; 611110, 4160738; 611133, 4160741; 611228, 4160767; 611256, 4160770; 611283, 4160763; 611299, 4160755; 611315, 4160731; 611337, 4160664; 611374, 4160626; 611424, 4160616; 611448, 4160606; 611495, 4160572; 611523, 4160558; 611554, 4160552; 611609, 4160549; 611666, 4160540; 611692, 4160528; 611726, 4160504; 611758, 4160493; 611795, 4160501; 611835, 4160517; 611872, 4160520; 611919, 4160501; 611933, 4160492; 611957, 4160463; 611975, 4160399; 612030, 4160305; 612045, 4160274; 612079, 4160189; 612062, 4160134; 612083, 4159923; 612110, 4159929; 612140, 4159944; 612184, 4159956; 612210, 4159958; 612245, 4159953; 612260, 4159947; 612278, 4159934; 612315, 4159894; 612348, 4159866; 612383, 4159805; 612392, 4159757; 612384, 4159695; 612387, 4159681; 612436, 4159659; 612476, 4159647; 612537, 4159621; 612588, 4159605; 612622, 4159601; 612678, 4159613; 612697, 4159622; 612748, 4159637; 612774, 4159636; 612800, 4159628; 612853, 4159581; 612863, 4159555; 612875, 4159535; 612935, 4159486; 612976, 4159458; 612995, 4159437; 613012, 4159412; 613026, 4159372; 613034, 4159358; 613050, 4159343; 613074, 4159328; 613165, 4159315; 613178, 4159310; 613191, 4159296; 613206, 4159275; 613217, 4159242; 613214, 4159214; 613187, 4159121; 613180, 4159076; 613181, 4159037; 613192, 4158967; 613191, 4158932; 613203, 4158825; 613223, 4158766; 613237, 4158610; 613250, 4158571; 613260, 4158558; 613284, 4158540; 613312, 4158527; 613340, 4158521; 613367, 4158519; 613417, 4158524; 613450, 4158522; 613570, 4158447; 613623, 4158403; 613662, 4158363; 613695, 4158347; 613766, 4158338; 613795, 4158330; 613866, 4158280; 613898, 4158261; 613908, 4158244; 613924, 4158217; 614057, 4157877; 614128, 4157778; 614186, 4157711; 614266, 4157635; 614292, 4157624; 614359, 4157612; 614387, 4157603; 614413, 4157587; 614446, 4157574; 614499, 4157560; 614554, 4157517; 614582, 4157500; 614656, 4157475; 614681, 4157461; 614716, 4157434; 614751, 4157392; 614762, 4157369; 614778, 4157305; 614780, 4157230; 614786, 4157182; 614785, 4157118; 614769, 4157057; 614776, 4157036; 614790, 4157018; 614827, 4157002; 614866, 4156992; 614900, 4156975; 614927, 4156957; 614958, 4156932; 614987, 4156894; 614989, 4156891; 614988, 4156767; 615010, 4155045; 615949, 4155046; 616066, 4155047; 616179, 4155047; 616256, 4155047; 616420, 4155047; 616419, 4154810; 616418, 4154320; 616417, 4153784; 616361, 4153688; 616340, 4153662; 616271, 4153603; 616220, 4153638; 616159, 4153669; 616137, 4153686; 616074, 4153722; 616038, 4153748; 616020, 4153819; 616012, 4153837; 615973, 4153910; 615951, 4153930; 615889, 4153943; 615739, 4154022; 615665, 4154041; 615632, 4154063; 615621, 4154066; 615569, 4154062; 615548, 4154080; 615507, 4154104; 615494, 4154123; 615461, 4154188; 615430, 4154230; 615391, 4154270; 615330, 4154325; 615239, 4154389; 615159, 4154436; 615126, 4154436; 615090, 4154443; 614979, 4154474; 614922, 4154494; 614908, 4154502; 614926, 4154421; 614930, 4154382; 614929, 4154329; 614919, 4154280; 614909, 4154252; 614893, 4154223; 614862, 4154177; 614848, 4154168; 614825, 4154160; 614758, 4154150; 614715, 4154133; 614695, 4154116; 614676, 4154089; 614659, 4154052; 614658, 4154021; 614663, 4154004; 614721, 4153932; 614730, 4153912; 614726, 4153870; 614716, 4153819; 614715, 4153788; 614723, 4153763; 614754, 4153723; 614771, 4153694; 614781, 4153660; 614780, 4153599; 614772, 4153522; 614742, 4153447; 614741, 4153421; 614747, 4153400; 614759, 4153375; 614799, 4153318; 614808, 4153290; 614735, 4153249; 614689, 4153130; 614665, 4153099; 614626, 4153025; 614584, 4152927; 614575, 4152895; 614564, 4152818; 614566, 4152790; 614574, 4152758; 614584, 4152742; 614640, 4152680; 614663, 4152628; 614682, 4152595; 614737, 4152520; 614745, 4152500; 614744, 4152472; 614731, 4152446; 614715, 4152428; 614690, 4152409; 614662, 4152381; 614641, 4152354; 614634, 4152341; 614621, 4152269; 614622, 4152184; 614617, 4152155; 614617, 4152111; 614613, 4152062; 614604, 4152023; 614603, 4152003; 614609, 4151978; 614638, 4151928; 614660, 4151903; 614681, 4151886; 614770, 4151831; 614788, 4151801; 614808, 4151716; 614823, 4151689; 614841, 4151664; 614842, 4151663; 614877, 4151566; 614907, 4151501; 614925, 4151469; 614962, 4151425; 614972, 4151406; 614962, 4151363; 614934, 4151299; 614922, 4151265; 614906, 4151204; 614906, 4151187; 614853, 4151177; 614803, 4151162; 614755, 4151142; 614694, 4151102; 614664, 4151097; 614504, 4151117; 614394, 4151118; 614361, 4151113; 614319, 4151113; 614196, 4151102; 614139, 4151111; 614092, 4151153; 614036, 4151191; 613932, 4151244; 613903, 4151248; 613874, 4151238; 613845, 4151234; 613819, 4151240; 613752, 4151288; 613733, 4151298; 613707, 4151302; 613684, 4151292; 613643, 4151263; 613524, 4151221; 613490, 4151198; 613465, 4151174; 613431, 4151133; 613389, 4151072; 613331, 4151002; 613300, 4150939; 613287, 4150929; 613247, 4150931; 613193, 4150923; 613155, 4150928; 613112, 4150943; 613057, 4150951; 613015, 4150938; 612955, 4150900; 612911, 4150868; 612896, 4150852; 612878, 4150824; 612864, 4150796; 612855, 4150737; 612842, 4150702; 612817, 4150663; 612778, 4150632; 612550, 4150498; 612481, 4150468; 612413, 4150448; 612364, 4150441; 612347, 4150443; 612168, 4150495; 612127, 4150474; 612093, 4150435; 612065, 4150386; 612049, 4150346; 612035, 4150288; 612025, 4150262; 611975, 4150183; 611955, 4150123; 611931, 4150091; 611895, 4150071; 611871, 4150062; 611782, 4150026; 611765, 4150016; 611733, 4149995; 611711, 4149974; 611693, 4149948; 611670, 4149887; 611663, 4149850; 611664, 4149821; 611670, 4149781; 611691, 4149731; 611695, 4149710; 611696, 4149683; 611682, 4149600; 611673, 4149570; 611658, 4149539; 611632, 4149507; 611464, 4149335; 611455, 4149323; 611420, 4149275; 611367, 4149251; 611265, 4149211; 611243, 4149198; 611223, 4149172; 611210, 4149129; 611205, 4148952; 611197, 4148882; 611156, 4148715; 611123, 4148624; 611083, 4148555; 610957, 4148293; 610938, 4148237; 610912, 4148128; 610880, 4148036; 610829, 4148074; 610775, 4148099; 610746, 4148105; 610687, 4148104; 610664, 4148107; 610643, 4148121; 610635, 4148135; 610643, 4148145; 610667, 4148161; 610729, 4148185; 610738, 4148206; 610724, 4148231; 610657, 4148280; 610609, 4148291; 610564, 4148293; 610536, 4148289; 610517, 4148283; 610484, 4148261; 610448, 4148261; 610401, 4148293; 610377, 4148328; 610363, 4148341; 610340, 4148358; 610319, 4148361; 610268, 4148385; 610230, 4148412; 610207, 4148437; 610159, 4148506; 610144, 4148521; 610119, 4148540; 610083, 4148558; 610027, 4148577; 610000, 4148579; 609950, 4148575; 609901, 4148564; 609853, 4148558; 609841, 4148557; 609821, 4148568; 609747, 4148624; 609721, 4148639; 609664, 4148662; 609599, 4148684; 609556, 4148691; 609508, 4148693; 609387, 4148726; 609349, 4148731; 609317, 4148741; 609281, 4148766; 609264, 4148793; 609258, 4148851; 609252, 4148915; 609244, 4149207; 609176, 4149302; 609136, 4149346; 609116, 4149359; 609088, 4149369; 608922, 4149389; 608894, 4149377; 608867, 4149359; 608851, 4149315; 608839, 4149296; 608803, 4149294; 608770, 4149299; 608746, 4149309; 608695, 4149346; 608609, 4149373; 608568, 4149391; 608535, 4149411; 608514, 4149436; 608371, 4149515; 608318, 4149532; 608295, 4149543; 608265, 4149536; 608222, 4149515; 608196, 4149506; 608137, 4149496; 608089, 4149493; 608068, 4149501; 608049, 4149515; 608000, 4149583; 607983, 4149600; 607904, 4149654; 607774, 4149762; 607747, 4149778; 607718, 4149788; 607660, 4149787; 607610, 4149773; 607510, 4149720; 607412, 4149675; 607360, 4149629; 607199, 4149462; 607181, 4149450; 607160, 4149443; 607122, 4149436; 607084, 4149439; 607003, 4149451; 606926, 4149445; 606895, 4149450; 606811, 4149482; 606763, 4149492; 606737, 4149501; 606641, 4149556; 606621, 4149563; 606580, 4149592; 606564, 4149607; 606557, 4149627; 606525, 4149832; 606474, 4149907; 606492, 4150022; 606503, 4150071; 606457, 4150455; 606425, 4150494; 606396, 4150497; 606356, 4150497; 606180, 4150460; 606012, 4150464; 605897, 4150478; 605824, 4150520; 605813, 4150539; 605805, 4150567; 605798, 4150656; 605802, 4150745; 605800, 4150772; 605732, 4150906; 605674, 4150975; 605609, 4151019; 605470, 4151080; 605376, 4151080; 605320, 4151088; 605270, 4151107; 605242, 4151124; 605202, 4151162; 605169, 4151174; 605126, 4151173; 605078, 4151178; 605034, 4151194; 604955, 4151246; 604909, 4151299; 604889, 4151314; 604827, 4151336; 604804, 4151375; 604793, 4151387; 604779, 4151396; 604745, 4151402; 604663, 4151407; 604626, 4151404; 604573, 4151383; 604542, 4151375; 604424, 4151375; 604397, 4151379; 604305, 4151409; 604276, 4151410; 604186, 4151415; 604193, 4151379; 604201, 4151362; 604206, 4151350; 604228, 4151263; 604231, 4151200; 604238, 4151191; 604277, 4151159; 604298, 4151120; 604308, 4151067; 604309, 4151044; 604296, 4151011; 604278, 4150985; 604283, 4150952; 604291, 4150923; 604302, 4150897; 604309, 4150861; 604301, 4150849; 604285, 4150840; 604240, 4150827; 604200, 4150826; 604134, 4150831; 604099, 4150822; 604073, 4150804; 604053, 4150779; 604042, 4150759; 604024, 4150680; 604016, 4150610; 604030, 4150515; 604025, 4150491; 604007, 4150461; 603992, 4150445; 603976, 4150451; 603915, 4150555; 603894, 4150580; 603865, 4150597; 603791, 4150616; 603717, 4150619; 603682, 4150626; 603571, 4150724; 603554, 4150747; 603475, 4150864; 603460, 4150893; 603430, 4150969; 603419, 4151032; 603412, 4151155; 603393, 4151235; 603340, 4151347; 603312, 4151431; 603289, 4151474; 603271, 4151501; 603236, 4151533; 603204, 4151558; 603140, 4151552; 603114, 4151571; 603093, 4151598; 602937, 4151670; 602854, 4151708; 602802, 4151744; 602733, 4151762; 602655, 4151762; 602618, 4151755; 602597, 4151755; 602487, 4151789; 602459, 4151790; 602423, 4151775; 602401, 4151748; 602376, 4151685; 602374, 4151679; 602339, 4151609; 602321, 4151592; 602202, 4151523; 602165, 4151495; 602039, 4151369; 601903, 4151311; 601813, 4151278; 601700, 4151170; 601672, 4151145; 601645, 4151127; 601616, 4151110; 601519, 4151064; 601369, 4151014; 601334, 4150995; 601287, 4150951; 601289, 4150938; 601305, 4150919; 601333, 4150905; 601414, 4150875; 601463, 4150837; 601467, 4150803; 601460, 4150773; 601447, 4150753; 601374, 4150664; 601327, 4150645; 601275, 4150634; 601221, 4150629; 601132, 4150629; 601049, 4150625; 601017, 4150617; 600991, 4150604; 600960, 4150575; 600900, 4150486; 600709, 4150330; 600633, 4150323; 600593, 4150316; 600497, 4150286; 600435, 4150256; 600405, 4150249; 600380, 4150247; 600345, 4150251; 600286, 4150258; 600249, 4150269; 600228, 4150285; 600213, 4150306; 600186, 4150372; 600155, 4150433; 600135, 4150455; 600105, 4150470; 600078, 4150477; 599951, 4150481; 599910, 4150485; 599878, 4150496; 599859, 4150517; 599822, 4150568; 599775, 4150622; 599773, 4150626; 599758, 4150647; 599744, 4150676; 599737, 4150707; 599739, 4150733; 599761, 4150793; 599763, 4150829; 599721, 4150914; 599720, 4150932; 599715, 4151215; 599571, 4151627; 599485, 4151699; 599425, 4151760; 599357, 4151849; 599256, 4151991; 598935, 4152325; 598994, 4152320; 599022, 4152342; 599049, 4152373; 599082, 4152424; 599126, 4152479; 599154, 4152521; 599171, 4152538; 599225, 4152625; 599275, 4152690; 599297, 4152714; 599306, 4152734; 599395, 4153026; 599397, 4153079; 599399, 4153141; 599407, 4153181; 599416, 4153204; 599441, 4153243; 599472, 4153275; 599511, 4153309; 599523, 4153331; 599525, 4153351; 599516, 4153404; 599517, 4153429; 599547, 4153507; 599557, 4153572; 599553, 4153602; 599534, 4153639; 599516, 4153662; 599451, 4153719; 599359, 4153762; 599339, 4153768; 599352, 4153802; 599369, 4153835; 599384, 4153847; 599397, 4153852; 599434, 4153857; 599468, 4153868; 599517, 4153896; 599547, 4153940; 599574, 4154014; 599586, 4154036; 599657, 4154112; 599671, 4154187; 599674, 4154219; 599662, 4154315; 599657, 4154422; 599658, 4154487; 599666, 4154495; 599676, 4154498; 599738, 4154506; 599787, 4154525; 599832, 4154564; 599882, 4154657; 599890, 4154672; 600055, 4154874; 600115, 4154907; 600151, 4154920; 600176, 4154923; 600213, 4154918; 600257, 4154904; 600292, 4154897; 600382, 4154931; 600424, 4154925; 600488, 4154890; 600523, 4154882; 600623, 4154869; 600740, 4154838; 600844, 4154804; 600949, 4154802; 601049, 4154820; 601122, 4154833; 601223, 4154855; 601259, 4154869; 601290, 4154890; 601332, 4154910; 601336, 4154914; 601339, 4154917; 601348, 4154927; 601399, 4154967; 601469, 4154994; 601510, 4155027; 601548, 4155076; 601564, 4155111; 601573, 4155156; 601587, 4155185; 601597, 4155224; 601592, 4155258; 601579, 4155281; 601557, 4155307; 601530, 4155347; 601511, 4155405; 601528, 4155419; 601557, 4155429; 601600, 4155459; 601635, 4155473; 601661, 4155487; 601693, 4155514; 601740, 4155629; 601738, 4155656; 601743, 4155684; 601774, 4155718; 601803, 4155739; 601817, 4155756; 601802, 4155800; 601782, 4155824; 601798, 4155853; 601824, 4155855; 601858, 4155851; 601877, 4155865; 601980, 4155970; 602009, 4155990; 602046, 4156033; 602055, 4156050; 602072, 4156065; 602093, 4156075; 602136, 4156056; 602154, 4156037; 602196, 4155963; 602200, 4155958; 602233, 4155908; 602251, 4155889; 602270, 4155880; 602310, 4155871; 602330, 4155874; 602420, 4155901; 602461, 4155919; 602502, 4155918; 602599, 4155927; 602656, 4155945; 602696, 4155968; 602725, 4155999; 602787, 4156027; 602838, 4156068; 602838, 4156083; 602828, 4156101; 602813, 4156118; 602666, 4156199; 602652, 4156215; 602643, 4156235; 602632, 4156283; 602583, 4156379; 602525, 4156452; 602502, 4156477; 602485, 4156492; 602461, 4156510; 602444, 4156523; 602431, 4156538; 602425, 4156553; 602419, 4156596; 602419, 4156664; 602388, 4156715; 602324, 4156785; 602257, 4156867; 601973, 4157054; 601917, 4157100; 601881, 4157136; 601859, 4157182; 601861, 4157211; 601867, 4157226; 601883, 4157246; 601895, 4157268; 601941, 4157456; 601943, 4157586; 601986, 4157643; 601992, 4157658; 601997, 4157735; 601991, 4157850; 601970, 4157883; 601957, 4157895; 601853, 4157954; 601808, 4158002; 601800, 4158023; 601759, 4158196; 601696, 4158352; 601680, 4158422; 601645, 4158526; 601627, 4158550; 601612, 4158564; 601585, 4158580; 601561, 4158587; 601534, 4158590; 601506, 4158601; 601470, 4158625; 601435, 4158669; 601408, 4158719; 601407, 4158736; 601413, 4158769; 601423, 4158781; 601512, 4158831; 601622, 4158758; 601704, 4158727; 601752, 4158717; 601810, 4158666; 601849, 4158623; 601898, 4158596; 601936, 4158599; 601977, 4158618; 602033, 4158637; 602050, 4158623; 602067, 4158587; 602074, 4158497; 602086, 4158475; 602113, 4158524; 602130, 4158560; 602142, 4158584; 602164, 4158594; 602210, 4158594; 602246, 4158594; 602282, 4158604; 602297, 4158635; 602321, 4158635; 602321, 4158572; 602319, 4158480; 602311, 4158415; 602331, 4158379; 602367, 4158434; 602391, 4158497; 602427, 4158567; 602437, 4158596; 602454, 4158587; 602505, 4158555; 602558, 4158545; 602616, 4158497; 602650, 4158451; 602681, 4158371; 602706, 4158308; 602749, 4158270; 602805, 4158219; 602832, 4158185; 602873, 4158137; 602926, 4158054; 602998, 4158013; 603037, 4158013; 602982, 4158086; 602952, 4158132; 602880, 4158216; 602827, 4158277; 602776, 4158398; 602727, 4158512; 602689, 4158601; 602648, 4158679; 602698, 4158679; 602740, 4158674; 602798, 4158650; 602836, 4158652; 602897, 4158652; 602940, 4158652; 603040, 4158674; 603003, 4158686; 602950, 4158698; 602916, 4158717; 602841, 4158739; 602776, 4158754; 602742, 4158778; 602703, 4158797; 602694, 4158821; 602698, 4158846; 602703, 4158879; 602740, 4158879; 602759, 4158889; 602788, 4158896; 602810, 4158896; 602817, 4158916; 602817, 4158937; 602798, 4158950; 602805, 4158971; 602834, 4158971; 602858, 4158957; 602894, 4158933; 602914, 4158896; 602923, 4158841; 602945, 4158848; 602974, 4158882; 603011, 4158884; 603015, 4158899; 603040, 4158899; 603061, 4158887; 603083, 4158860; 603102, 4158879; 603129, 4158889; 603163, 4158889; 603197, 4158882; 603216, 4158884; 603214, 4158913; 603190, 4158923; 603165, 4158937; 603141, 4158940; 603098, 4158945; 603059, 4158986; 603008, 4158996; 602965, 4159029; 602998, 4159049; 603020, 4159058; 603042, 4159102; 603073, 4159117; 603105, 4159102; 603136, 4159080; 603168, 4159046; 603185, 4159071; 603221, 4159075; 603250, 4159068; 603265, 4159087; 603243, 4159107; 603209, 4159121; 603168, 4159143; 603197, 4159167; 603236, 4159172; 603257, 4159167; 603296, 4159146; 603349, 4159109; 603386, 4159075; 603410, 4159049; 603439, 4159049; 603461, 4159032; 603482, 4158976; 603482, 4158942; 603482, 4158906; 603492, 4158860; 603523, 4158787; 603538, 4158766; 603538, 4158821; 603538, 4158870; 603543, 4158916; 603550, 4158928; 603584, 4158916; 603603, 4158904; 603647, 4158879; 603707, 4158858; 603741, 4158838; 603741, 4158877; 603719, 4158899; 603690, 4158911; 603649, 4158945; 603613, 4158981; 603591, 4159005; 603562, 4159058; 603543, 4159097; 603565, 4159141; 603623, 4159182; 603678, 4159218; 603732, 4159221; 603751, 4159250; 603703, 4159267; 603686, 4159274; 603659, 4159274; 603637, 4159264; 603603, 4159240; 603574, 4159223; 603514, 4159199; 603504, 4159175; 603478, 4159165; 603461, 4159179; 603439, 4159194; 603417, 4159206; 603417, 4159240; 603403, 4159247; 603366, 4159242; 603325, 4159264; 603282, 4159308; 603340, 4159320; 603475, 4159334; 603487, 4159361; 603553, 4159385; 603676, 4159424; 603666, 4159470; 603690, 4159513; 603746, 4159571; 603769, 4159614; 603794, 4159645; 603825, 4159658; 603850, 4159683; 603883, 4159720; 603897, 4159734; 603928, 4159710; 603941, 4159680; 603965, 4159654; 604001, 4159645; 604021, 4159650; 603994, 4159681; 603976, 4159689; 603961, 4159728; 603949, 4159767; 603970, 4159788; 603999, 4159794; 604028, 4159794; 604057, 4159788; 604088, 4159761; 604137, 4159761; 604166, 4159765; 604156, 4159788; 604135, 4159792; 604090, 4159798; 604079, 4159821; 604056, 4159829; 604023, 4159840; 603997, 4159844; 603961, 4159842; 603922, 4159840; 603891, 4159842; 603856, 4159852; 603843, 4159867; 603843, 4159910; 603852, 4159960; 603860, 4160001; 603860, 4160040; 603860, 4160059; 603879, 4160076; 603899, 4160098; 603916, 4160117; 603918, 4160146; 603926, 4160165; 603932, 4160204; 603934, 4160229; 603955, 4160243; 603980, 4160243; 604013, 4160245; 604036, 4160251; 604046, 4160297; 604063, 4160345; 604102, 4160390; 604119, 4160411; 604152, 4160423; 604203, 4160423; 604278, 4160448; 604344, 4160460; 604402, 4160462; 604443, 4160452; 604499, 4160440; 604532, 4160438; 604532, 4160417; 604539, 4160396; 604563, 4160415; 604582, 4160425; 604611, 4160425; 604648, 4160398; 604785, 4160307; 604836, 4160247; 604874, 4160243; 604938, 4160235; 604959, 4160235; 604971, 4160254; 604971, 4160299; 604961, 4160328; 604944, 4160347; 604917, 4160380; 604913, 4160396; 604907, 4160415; 604892, 4160427; 604855, 4160454; 604808, 4160485; 604799, 4160508; 604805, 4160516; 604836, 4160514; 604870, 4160514; 604896, 4160510; 604965, 4160489; 604990, 4160481; 605025, 4160446; 605052, 4160454; 605058, 4160489; 605050, 4160514; 605049, 4160535; 605091, 4160560; 605091, 4160616; 605099, 4160638; 605126, 4160624; 605170, 4160591; 605188, 4160556; 605182, 4160529; 605172, 4160494; 605159, 4160460; 605159, 4160427; 605161, 4160400; 605161, 4160369; 605174, 4160320; 605180, 4160268; 605207, 4160208; 605227, 4160194; 605265, 4160202; 605279, 4160216; 605308, 4160218; 605432, 4160204; 605453, 4160194; 605478, 4160187; 605507, 4160169; 605536, 4160123; 605577, 4160098; 605610, 4160082; 605639, 4160059; 605658, 4160065; 605658, 4160105; 605647, 4160127; 605612, 4160132; 605589, 4160148; 605592, 4160160; 605625, 4160156; 605664, 4160156; 605668, 4160177; 605650, 4160192; 605621, 4160192; 605598, 4160192; 605558, 4160196; 605529, 4160223; 605517, 4160266; 605482, 4160295; 605443, 4160326; 605412, 4160355; 605368, 4160363; 605356, 4160371; 605354, 4160405; 605354, 4160429; 605366, 4160450; 605389, 4160462; 605403, 4160479; 605418, 4160492; 605418, 4160537; 605416, 4160574; 605383, 4160611; 605378, 4160642; 605366, 4160669; 605360, 4160694; 605343, 4160725; 605333, 4160750; 605329, 4160769; 605312, 4160785; 605298, 4160793; 605265, 4160804; 605232, 4160820; 605192, 4160839; 605155, 4160854; 605128, 4160880; 605097, 4160903; 605050, 4160920; 605008, 4160936; 604958, 4160965; 604938, 4160965; 604901, 4160967; 604896, 4160982; 604898, 4161015; 604921, 4161029; 605004, 4161050; 605031, 4161075; 605054, 4161071; 605083, 4161062; 605116, 4161062; 605174, 4161062; 605211, 4161062; 605240, 4161075; 605250, 4161083; 605273, 4161071; 605290, 4161063; 605323, 4161052; 605354, 4161052; 605362, 4161065; 605362, 4161087; 605393, 4161125; 605381, 4161122; 605362, 4161116; 605350, 4161102; 605321, 4161083; 605302, 4161098; 605273, 4161131; 605248, 4161139; 605229, 4161125; 605229, 4161104; 605207, 4161104; 605184, 4161122; 605169, 4161122; 605136, 4161122; 605101, 4161125; 605078, 4161129; 605078, 4161147; 605107, 4161164; 605130, 4161201; 605116, 4161213; 605099, 4161199; 605081, 4161187; 605062, 4161170; 605039, 4161149; 605006, 4161133; 604965, 4161110; 604929, 4161104; 604882, 4161098; 604872, 4161131; 604872, 4161162; 604859, 4161201; 604849, 4161211; 604849, 4161193; 604849, 4161160; 604849, 4161141; 604838, 4161120; 604830, 4161106; 604814, 4161104; 604797, 4161089; 604778, 4161089; 604760, 4161089; 604748, 4161089; 604735, 4161089; 604725, 4161094; 604723, 4161114; 604719, 4161145; 604725, 4161156; 604739, 4161176; 604752, 4161203; 604756, 4161224; 604772, 4161251; 604764, 4161276; 604764, 4161302; 604752, 4161331; 604747, 4161362; 604743, 4161387; 604770, 4161410; 604772, 4161424; 604787, 4161431; 604810, 4161437; 604836, 4161458; 604843, 4161484; 604838, 4161485; 604849, 4161511; 604840, 4161588; 604818, 4161628; 604785, 4161648; 604761, 4161657; 604741, 4161657; 604716, 4161648; 604674, 4161661; 604643, 4161706; 604617, 4161757; 604586, 4161814; 604557, 4161869; 604539, 4161905; 604539, 4161945; 604535, 4161985; 604535, 4162011; 604535, 4162038; 604530, 4162062; 604506, 4162071; 604477, 4162055; 604451, 4161993; 604402, 4161896; 604369, 4161872; 604331, 4161865; 604305, 4161836; 604294, 4161825; 604293, 4161816; 604271, 4161816; 604236, 4161816; 604201, 4161825; 604215, 4162126; 604223, 4162298; 604245, 4162381; 604271, 4162419; 604302, 4162451; 604313, 4162469; 604326, 4162500; 604321, 4162524; 604280, 4162601; 604268, 4162636; 604256, 4162686; 604254, 4162736; 604262, 4162828; 604265, 4162940; 604287, 4163126; 604402, 4163244; 604424, 4163240; 604489, 4163238; 604509, 4163270; 604527, 4163317; 604534, 4163384; 604453, 4163523; 604392, 4163562; 604281, 4163602; 604261, 4163606; 604207, 4163608; 604110, 4163595; 604072, 4163610; 604057, 4163622; 604048, 4163634; 604029, 4163663; 603989, 4163770; 603972, 4163837; 603966, 4163928; 603971, 4163963; 603990, 4164018; 604031, 4164069; 604037, 4164092; 604071, 4164084; 604104, 4164083; 604135, 4164085; 604238, 4164099; 604303, 4164115; 604376, 4164142; 604474, 4164163; 604553, 4164176; 604598, 4164190; 604624, 4164202; 604670, 4164231; 604711, 4164246; 604777, 4164253; 604854, 4164136; 604916, 4164096; 604941, 4164092; 604969, 4164096; 605054, 4164125; 605148, 4164169; 605196, 4164214; 605237, 4164243; 605257, 4164262; 605281, 4164285; 605310, 4164328; 605327, 4164345; 605350, 4164352; 605372, 4164353; 605398, 4164344; 605566, 4164273; returning to 605586, 4164267.

(ii) Note: Unit ALA-1C is depicted on Map M11—Unit CCS-1B, ALA-1A, ALA-1B, and ALA-1C—which follows:

BILLING CODE 4310-55-P

BILLING CODE 4310-55-C

(20) Unit SNM-1A, San Mateo County, California.

(i) From USGS 1:24,000 scale quadrangle Montara Mountain, San Mateo, and Woodside. Land bounded by the following UTM Zone 10, NAD27 coordinates (E,N): 548601, 4161211; 548730, 4161151; 548766, 4161160; 548853, 4161154; 548877, 4161142; 549134, 4160985; 549197, 4160966; 549218, 4160956; 549246, 4160927; 549267, 4160875; 549294, 4160831; 549373, 4160753; 549457, 4160660; 549480, 4160623; 549620, 4160503; 549679, 4160466; 549754, 4160406; 549784, 4160346; 549794, 4160258; 549811, 4160220; 549849, 4160204; 549883, 4160198; 549917, 4160186; 550088, 4160005; 550102, 4159916; 550082, 4159828; 550086, 4159806; 550095, 4159783; 550143, 4159710; 550233, 4159597; 550292, 4159511; 550325, 4159450; 550342, 4159427; 550393, 4159398; 550426, 4159391; 550459, 4159379; 550539, 4159331; 550563, 4159327; 550644, 4159347; 550702, 4159341; 550724, 4159325; 550751, 4159293; 550763, 4159270; 550796, 4159226; 550808, 4159199; 550816, 4159164; 550819, 4159100; 550827, 4159075; 550847, 4159023; 550899, 4158937; 550913, 4158907; 550916, 4158876; 550929, 4158841; 551193, 4158626; 551320, 4158575; 551355, 4158554; 551437, 4158486; 551498, 4158461; 551523, 4158449; 551543, 4158433; 551553, 4158397; 551555, 4158341; 551540, 4158268; 551533, 4158244; 551530, 4158208; 551533, 4158189; 551574, 4158144; 551608, 4158084; 551602, 4157990; 551614, 4157926; 551626, 4157897; 551646, 4157863; 551706, 4157795; 551771, 4157701; 551784, 4157671; 551814, 4157564; 551815, 4157510; 551824, 4157467; 551825, 4157378; 551830, 4157335; 551857, 4157259; 551868, 4157218; 551901, 4157148; 551931, 4157101; 551960, 4157069; 552020, 4156981; 552042, 4156955; 552095, 4156908; 552191, 4156768; 552227, 4156731; 552272, 4156690; 552306, 4156673; 552335, 4156669; 552381, 4156669; 552452, 4156693; 552492, 4156723; 552533, 4156782; 552565, 4156851; 552617, 4156913; 552640, 4156922; 552672, 4156922; 552709, 4156915; 552739, 4156918; 552824, 4156958; 552895, 4156955; 552927, 4156942; 552971, 4156935; 553071, 4156932; 553146, 4156939; 553239, 4156940; 553304, 4156932; 553387, 4156914; 553561, 4156847; 553599, 4156836; 553631, 4156871; 553707, 4156914; 553818, 4156951; 553844, 4156973; 553878, 4157039; 553950, 4157094; 553981, 4157124; 554027, 4157180; 554087, 4157225; 554103, 4157246; 554116, 4157276; 554131, 4157339; 554143, 4157362; 554192, 4157418; 554208, 4157441; 554449, 4157147; 554604, 4156948; 554720, 4156724; 554945, 4156370; 555581, 4155493; 555975, 4154930; 556291, 4154367; 556342, 4154266; 556376, 4154178; 556409, 4154062; 556443, 4153928; 556483, 4153819; 556516, 4153730; 556572, 4153594; 556583, 4153575; 556618, 4153473; 556732, 4153276; 556852, 4153039; 557037, 4152693; 557367, 4152235; 557882, 4151736; 558429, 4151293; 558871, 4150972; 559112, 4150746; 559362, 4150634; 559676, 4150585; 560006, 4150561; 560303, 4150408; 560577, 4150215; 560915, 4150087; 561285, 4149966; 561639, 4149837; 561735, 4149700; 561856, 4149499; 562001, 4149137; 561928, 4148775; 561888, 4148276; 561888, 4148027; 562089, 4147625; 562331, 4147335; 562381, 4147277; 562358, 4147269; 562358, 4147089; 562178, 4146977; 561953, 4147044; 561549, 4147134; 561302, 4147134; 561232, 4147169; 561247, 4147208; 561193, 4147304; 561284, 4147423; 560695, 4148019; 559872, 4147218; 559753, 4147224; 559303, 4147359; 558697, 4147606; 558360, 4147606; 558023, 4147763; 557844, 4147920; 557394, 4148010; 557058, 4147830; 556840, 4147681; 556806, 4147798; 556742, 4147963; 556665, 4148230; 556644, 4148339; 556642, 4148405; 556651, 4148464; 556663, 4148515; 556680, 4148563; 556703, 4148613; 556721, 4148673; 556725, 4148718; 556717, 4148764; 556650, 4148825; 556614, 4148868; 556582, 4148896; 556553, 4148914; 556519, 4148910; 556479, 4148891; 556407, 4148833; 556378, 4148830; 556361, 4148848; 556351, 4148873; 556346, 4148895; 556329, 4149014; 556299, 4149126; 556276, 4149203; 556271, 4149238; 556290, 4149270; 556315, 4149302; 556331, 4149336; 556328, 4149365; 556319, 4149385; 556296, 4149419; 556268, 4149432; 556216, 4149439; 556094, 4149434; 556058, 4149445; 556054, 4149473; 556071, 4149489; 556161, 4149517; 556191, 4149539; 556218, 4149569; 556221, 4149585; 556217, 4149608; 556210, 4149630; 556182, 4149667; 556160, 4149685; 556078, 4149725; 556020, 4149762; 555986, 4149795; 555892, 4149909; 555759, 4149818; 555693, 4149884; 555679, 4149904; 555668, 4149921; 555644, 4149979; 555623, 4150055; 555598, 4150134; 555585, 4150212; 555693, 4150212; 555747, 4150212; 555729, 4150266; 555479, 4151027; 555426, 4151032; 555409, 4151357; 555333, 4151465; 555135, 4151742; 555070, 4151722; 554936, 4151865; 554987, 4151957; 554843, 4152027; 554859, 4152219; 555062, 4152225; 554955, 4152584; 554948, 4152608; 554865, 4152594; 554884, 4152536; 554830, 4152290; 554698, 4152287; 554588, 4152285; 554555, 4152285; 554541, 4152285; 554540, 4152380; 554539, 4152469; 554539, 4152476; 554539, 4152490; 554537, 4152688; 553370, 4152683; 553155, 4152682; 553137, 4152654; 553128, 4152630; 553112, 4152607; 553071, 4152581; 552970, 4152556; 552915, 4152550; 552852, 4152533; 552802, 4152508; 552766, 4152473; 552750, 4152451; 552717, 4152415; 552685, 4152396; 552661, 4152390; 552636, 4152392; 552547, 4152446; 552510, 4152483; 552472, 4152528; 552414, 4152622; 552388, 4152707; 552378, 4152731; 552347, 4152760; 552295, 4152785; 552245, 4152834; 552188, 4152911; 552138, 4152964; 552037, 4153063; 551992, 4153096; 551928, 4153131; 551883, 4153151; 551846, 4153164; 551741, 4153172; 551730, 4153476; 550980, 4153502; 550913, 4153556; 550856, 4153597; 550704, 4153684; 550628, 4153720; 550622, 4153722; 550621, 4153727; 550622, 4153776; 550629, 4153838; 550576, 4153934; 550523, 4153954; 550442, 4153973; 550424, 4153980; 550402, 4153991; 550368, 4154013; 550351, 4154028; 550313, 4154074; 550278, 4154128; 550262, 4154147; 550231, 4154172; 550197, 4154185; 550142, 4154234; 550123, 4154277; 550004, 4154423; 549973, 4154494; 549950, 4154529; 549931, 4154540; 549867, 4154596; 549817, 4154656; 549800, 4154681; 549746, 4154736; 549708, 4154767; 549661, 4154794; 549513, 4154802; 549470, 4154810; 549443, 4154819; 549381, 4154860; 549358, 4154909; 549325, 4154994; 549118, 4155189; 549049, 4155225; 549002, 4155261; 548977, 4155256; 548901, 4155338; 548878, 4155367; 548844, 4155443; 548817, 4155515; 548816, 4155519; 548841, 4155580; 548841, 4155625; 548827, 4155692; 548789, 4155776; 548776, 4155824; 548769, 4155840; 548723, 4155903; 548696, 4155972; 548671, 4156046; 548641, 4156096; 548621, 4156119; 548592, 4156141; 548554, 4156155; 548540, 4156190; 548526, 4156215; 548491, 4156231; 548424, 4156248; 548373, 4156265; 548334, 4156271; 548322, 4156269; 548308, 4156262; 548264, 4156226; 548232, 4156208; 548208, 4156215; 548183, 4156228; 548157, 4156237; 548142, 4156238; 548109, 4156226; 548091, 4156222; 548048, 4156231; 547966, 4156268; 547945, 4156293; 547939, 4156307; 547932, 4156346; 547910, 4156359; 547856, 4156372; 547841, 4156388; 547838, 4156410; 547843, 4156457; 547834, 4156529; 547822, 4156556; 547793, 4156575; 547755, 4156584; 547737, 4156592; 547713, 4156591; 547697, 4156586; 547661, 4156558; 547642, 4156522; 547614, 4156490; 547598, 4156478; 547533, 4156475; 547510, 4156479; 547464, 4156499; 547424, 4156510; 547350, 4156518; 547334, 4156525; 547323, 4156537; 547305, 4156566; 547279, 4156590; 547264, 4156593; 547236, 4156589; 547213, 4156591; 547201, 4156599; 547156, 4156649; 547127, 4156715; 547117, 4156722; 547079, 4156736; 547062, 4156745; 547045, 4156761; 547018, 4156802; 546922, 4156903; 546870, 4156948; 546833, 4156997; 546807, 4157023; 546830, 4157209; 546841, 4157226; 546851, 4157235; 546893, 4157259; 546974, 4157315; 547042, 4157371; 547073, 4157419; 547085, 4157458; 547098, 4157482; 547118, 4157498; 547150, 4157516; 547248, 4157582; 547279, 4157597; 547312, 4157606; 547331, 4157630; 547352, 4157854; 547361, 4157878; 547380, 4157910; 547400, 4157932; 547423, 4157945; 547520, 4157981; 547651, 4158011; 547763, 4158024; 547795, 4158026; 547894, 4158024; 547993, 4158006; 548073, 4157984; 548145, 4157972; 548206, 4157968; 548271, 4157975; 548294, 4157980; 548346, 4157998; 548363, 4158007; 548397, 4158047; 548435, 4158101; 548519, 4158192; 548561, 4158253; 548627, 4158309; 548674, 4158341; 548694, 4158371; 548699, 4158391; 548704, 4158488; 548705, 4158690; 548720, 4158743; 548746, 4158771; 548792, 4158811; 548868, 4158865; 548987, 4159048; 549007, 4159067; 549033, 4159101; 549043, 4159119; 549061, 4159177; 548923, 4159264; 548893, 4159314; 548867, 4159377; 548850, 4159394; 548840, 4159399; 548829, 4159398; 548735, 4159388; 548716, 4159392; 548699, 4159399; 548686, 4159415; 548669, 4159488; 548659, 4159513; 548653, 4159521; 548627, 4159538; 548585, 4159553; 548565, 4159565; 548544, 4159614; 548531, 4159660; 548515, 4159677; 548487, 4159698; 548470, 4159723; 548467, 4159758; 548483, 4159798; 548494, 4159814; 548565, 4159883; 548606, 4159948; 548617, 4159988; 548619, 4160034; 548615, 4160100; 548600, 4160200; 548594, 4160229; 548576, 4160273; 548563, 4160321; 548554, 4160344; 548534, 4160379; 548526, 4160389; 548423, 4160460; 548396, 4160486; 548370, 4160521; 548364, 4160540; 548353, 4160580; 548349, 4160609; 548354, 4160644; 548397, 4160728; 548421, 4160792; 548422, 4160839; 548415, 4160909; 548411, 4160933; 548395, 4160979; 548396, 4160993; 548451, 4161120; 548458, 4161146; 548465, 4161205; 548464, 4161220; 548457, 4161273; 548433, 4161321; 548462, 4161310; 548487, 4161284; 548523, 4161260; 548570, 4161239; returning to 548601, 4161211.

(ii) Note: Unit SNM-1A (Map M12) follows:

BILLING CODE 4310-55-P

BILLING CODE 4310-55-C

(21) Unit SNM-1B, San Mateo County, California.

(i) From USGS 1:24,000 scale quadrangle La Honda, Mindego Hill. Land bounded by the following UTM Zone 10, NAD27 coordinates (E,N): 566722, 4134895; 566730, 4134874; 566755, 4134820; 566779, 4134784; 566789, 4134777; 566801, 4134760; 566829, 4134744; 566847, 4134729; 566870, 4134722; 567001, 4134715; 567090, 4134510; 567094, 4134481; 567085, 4134394; 567105, 4134309; 567112, 4134289; 567120, 4134277; 567186, 4134242; 567218, 4134215; 567260, 4134165; 567285, 4134117; 567352, 4134023; 567392, 4133986; 567433, 4133959; 567476, 4133953; 567496, 4133957; 567534, 4133976; 567578, 4133984; 567603, 4133963; 567707, 4133941; 567748, 4133928; 567839, 4133927; 567848, 4133880; 567992, 4133811; 568057, 4133772; 568085, 4133744; 568100, 4133708; 568129, 4133663; 568180, 4133587; 568205, 4133558; 568241, 4133501; 568248, 4133471; 568287, 4133378; 568306, 4133355; 568385, 4133309; 568496, 4133250; 568515, 4133229; 568543, 4133207; 568573, 4133169; 568613, 4133142; 568659, 4133126; 568963, 4132987; 568998, 4132944; 569008, 4132922; 569026, 4132902; 569045, 4132867; 569101, 4132803; 569153, 4132711; 569160, 4132657; 569145, 4132567; 569147, 4132514; 569145, 4132474; 569169, 4132404; 569173, 4132356; 569183, 4132325; 569230, 4132259; 569280, 4132219; 569383, 4132175; 569387, 4132155; 569446, 4132048; 569470, 4132012; 569475, 4131979; 569480, 4131969; 569505, 4131932; 569544, 4131909; 569567, 4131884; 569580, 4131848; 569593, 4131783; 569606, 4131745; 569596, 4131733; 569512, 4131734; 569483, 4131760; 569455, 4131766; 569400, 4131765; 569392, 4131756; 569275, 4131801; 569253, 4131833; 569189, 4131847; 569143, 4131870; 569120, 4131873; 569084, 4131865; 569031, 4131883; 569006, 4131879; 568945, 4131858; 568881, 4131859; 568857, 4131864; 568823, 4131858; 568808, 4131878; 568808, 4131889; 568786, 4131919; 568761, 4131964; 568721, 4132014; 568696, 4132021; 568635, 4132013; 568548, 4132021; 568503, 4132010; 568459, 4132017; 568339, 4132002; 568311, 4132022; 568265, 4132025; 568235, 4132044; 568203, 4132043; 568152, 4132058; 568111, 4132060; 568068, 4132057; 567983, 4132047; 567917, 4132057; 567882, 4132059; 567848, 4132043; 567791, 4132000; 567732, 4131984; 567683, 4131961; 567663, 4131958; 567599, 4131916; 567527, 4131914; 567490, 4131907; 567466, 4131877; 567435, 4131767; 567413, 4131670; 567390, 4131628; 567357, 4131578; 567335, 4131535; 567308, 4131494; 567258, 4131462; 567189, 4131409; 567101, 4131323; 567082, 4131300; 567047, 4131251; 567040, 4131208; 567028, 4131184; 566982, 4131138; 566958, 4131070; 566910, 4131000; 566879, 4130967; 566802, 4130926; 566777, 4130921; 566694, 4130886; 566638, 4130840; 566627, 4130824; 566570, 4130709; 566564, 4130651; 566549, 4130580; 566535, 4130557; 566503, 4130482; 566472, 4130449; 566478, 4130429; 566488, 4130368; 566489, 4130272; 566474, 4130230; 566469, 4130203; 566439, 4130175; 566388, 4130150; 566354, 4130147; 566316, 4130156; 566193, 4130120; 566122, 4130108; 566077, 4130091; 566050, 4130063; 566020, 4130000; 565978, 4129949; 565938, 4129932; 565878, 4129935; 565850, 4129958; 565851, 4129963; 565848, 4130016; 565833, 4130072; 565812, 4130125; 565792, 4130176; 565774, 4130240; 565727, 4130305; 565689, 4130379; 565591, 4130473; 565556, 4130523; 565512, 4130615; 565409, 4130989; 565401, 4131033; 565235, 4131033; 564397, 4131028; 564409, 4131048; 564412, 4131095; 564412, 4131131; 564389, 4131163; 564353, 4131190; 564324, 4131210; 564312, 4131237; 564312, 4131272; 564359, 4131299; 564427, 4131334; 564465, 4131372; 564513, 4131390; 564563, 4131390; 564592, 4131428; 564572, 4131484; 564557, 4131511; 564566, 4131552; 564589, 4131576; 564601, 4131611; 564616, 4131646; 564660, 4131667; 564710, 4131702; 564722, 4131750; 564704, 4131788; 564651, 4131794; 564625, 4131829; 564598, 4131891; 564566, 4131968; 564554, 4132024; 564554, 4132062; 564569, 4132100; 564610, 4132127; 564657, 4132159; 564713, 4132189; 564751, 4132218; 564748, 4132274; 564722, 4132298; 564707, 4132327; 564707, 4132369; 564713, 4132401; 564737, 4132425; 564754, 4132454; 564751, 4132484; 564728, 4132510; 564728, 4132540; 564728, 4132563; 564731, 4132590; 564707, 4132622; 564689, 4132649; 564666, 4132681; 564663, 4132737; 564651, 4132817; 564622, 4132870; 564574, 4132964; 564533, 4133032; 564504, 4133085; 564477, 4133132; 564468, 4133217; 564468, 4133276; 564465, 4133329; 564462, 4133365; 564462, 4133409; 564486, 4133444; 564530, 4133474; 564554, 4133497; 564604, 4133521; 564648, 4133533; 564686, 4133548; 564751, 4133568; 564787, 4133568; 564837, 4133565; 564890, 4133536; 564908, 4133527; 564934, 4133548; 564964, 4133565; 564981, 4133583; 564987, 4133604; 564990, 4133636; 564967, 4133727; 564955, 4133772; 564955, 4133816; 564961, 4133872; 564967, 4133907; 564990, 4133946; 565005, 4133978; 565064, 4134019; 565096, 4134037; 565123, 4134058; 565149, 4134078; 565155, 4134119; 565155, 4134172; 565155, 4134234; 565155, 4134302; 565155, 4134364; 565155, 4134414; 565149, 4134458; 565111, 4134497; 565079, 4134526; 565037, 4134567; 565002, 4134609; 564975, 4134647; 564969, 4134671; 564971, 4134702; 565135, 4134702; 565317, 4134714; 565487, 4134748; 565634, 4134861; 565703, 4134952; 565805, 4134952; 565975, 4134895; 566088, 4134884; 566292, 4134884; 566497, 4134895; 566678, 4134963; 566708, 4134989; 566711, 4134982; returning to 566722, 4134895.

(ii) Note: Unit SNM-1B is depicted on Map M13—Unit SNM-1B, SNM-1C, SNM-2A, SNM-2B, SNM-2C, and SCZ-1—see paragraph (26)(ii):

(22) Unit SNM-1C, San Mateo County, California.

(i) From USGS 1:24,000 scale quadrangle Mindego Hill. Land bounded by the following UTM Zone 10, NAD27 coordinates (E,N): 571512, 4130484; 571647, 4130455; 571705, 4130457; 571725, 4130449; 571745, 4130447; 571787, 4130428; 571800, 4130420; 571831, 4130388; 571879, 4130333; 571910, 4130289; 571950, 4130253; 572014, 4130219; 572061, 4130203; 572075, 4130192; 572097, 4130152; 572123, 4130068; 572121, 4130053; 572097, 4130007; 572093, 4129988; 572096, 4129969; 572111, 4129944; 572138, 4129919; 572135, 4129890; 572127, 4129861; 572137, 4129832; 572182, 4129734; 572251, 4129650; 572263, 4129640; 572277, 4129620; 572316, 4129589; 572378, 4129563; 572415, 4129543; 572435, 4129539; 572452, 4129532; 572467, 4129531; 572524, 4129539; 572549, 4129551; 572584, 4129577; 572629, 4129660; 572651, 4129689; 572687, 4129727; 572800, 4129806; 572903, 4129865; 572960, 4129877; 573007, 4129880; 573020, 4129882; 573651, 4129531; 573648, 4129501; 573679, 4129407; 573700, 4129369; 573759, 4129283; 573807, 4129200; 573825, 4129154; 573842, 4129125; 573860, 4129108; 573907, 4129100; 573950, 4129100; 573974, 4129096; 574000, 4129102; 574017, 4129093; 574038, 4129074; 574050, 4129057; 574103, 4129013; 574160, 4128993; 574175, 4128995; 574189, 4128990; 574205, 4128993; 574229, 4128985; 574243, 4128966; 574248, 4128949; 574248, 4128935; 574238, 4128903; 574215, 4128853; 574194, 4128773; 574184, 4128749; 574126, 4128667; 574114, 4128638; 574115, 4128631; 574131, 4128611; 574148, 4128600; 574182, 4128591; 574196, 4128592; 574208, 4128579; 574207, 4128564; 574181, 4128533; 574154, 4128490; 574090, 4128354; 574054, 4128309; 574014, 4128270; 574000, 4128253; 573981, 4128215; 573976, 4128167; 573980, 4128129; 573979, 4128082; 573971, 4128066; 573954, 4128041; 573918, 4128005; 573904, 4128002; 573872, 4127983; 573856, 4127980; 573846, 4127966; 573844, 4127948; 573848, 4127937; 573854, 4127926; 573872, 4127915; 573886, 4127912; 573948, 4127914; 573979, 4127920; 574017, 4127917; 574063, 4127919; 574082, 4127916; 574138, 4127836; 574152, 4127826; 574174, 4127800; 574192, 4127800; 574254, 4127781; 574289, 4127774; 574360, 4127750; 574377, 4127750; 574436, 4127724; 574544, 4127673; 574657, 4127623; 574766, 4127576; 574821, 4127549; 574830, 4127526; 574937, 4127439; 575016, 4127363; 575041, 4127344; 575061, 4127322; 575088, 4127275; 575108, 4127212; 575115, 4127172; 575117, 4127123; 575117, 4127120; 575123, 4127083; 575119, 4127022; 575118, 4127007; 575136, 4126998; 575150, 4126916; 575150, 4126865; 575164, 4126771; 575179, 4126705; 575212, 4126651; 575255, 4126597; 575306, 4126564; 575357, 4126531; 575422, 4126477; 575437, 4126460; 575426, 4126447; 575408, 4126405; 575410, 4126387; 575421, 4126375; 575450, 4126357; 575467, 4126339; 575475, 4126295; 575447, 4126263; 575404, 4126223; 575393, 4126180; 575393, 4126147; 575407, 4126096; 575407, 4126056; 575407, 4126024; 575378, 4125991; 575364, 4125966; 575328, 4125922; 575302, 4125868; 575303, 4125865; 575286, 4125866; 575197, 4125880; 575177, 4125877; 575166, 4125889; 575058, 4126064; 575008, 4126094; 574924, 4126121; 574896, 4126114; 574868, 4126079; 574807, 4126096; 574777, 4126096; 574731, 4126102; 574599, 4126105; 574561, 4126117; 574478, 4126131; 574396, 4126151; 574316, 4126210; 574289, 4126242; 574259, 4126316; 574241, 4126336; 574200, 4126355; 574144, 4126360; 574134, 4126347; 574078, 4126370; 574058, 4126374; 574044, 4126373; 574007, 4126405; 573986, 4126411; 573947, 4126434; 573898, 4126442; 573834, 4126462; 573732, 4126487; 573691, 4126493; 573644, 4126490; 573584, 4126473; 573453, 4126448; 573399, 4126414; 573377, 4126379; 573365, 4126319; 573327, 4126300; 573310, 4126282; 573305, 4126239; 573310, 4126199; 573306, 4126158; 573287, 4126109; 573224, 4126079; 573175, 4126039; 573147, 4125959; 573138, 4125924; 573141, 4125880; 573135, 4125795; 572861, 4125545; 572745, 4125424; 572723, 4125412; 572696, 4125402; 572663, 4125396; 572624, 4125322; 572617, 4125284; 572596, 4125240; 572556, 4125206; 572497, 4125176; 572439, 4125136; 572351, 4125107; 572303, 4125058; 572287, 4125052; 572239, 4125049; 572209, 4125057; 572184, 4125058; 572173, 4125070; 572169, 4125089; 572150, 4125118; 572123, 4125147; 572094, 4125164; 572081, 4125163; 572026, 4125191; 571999, 4125201; 571966, 4125234; 571948, 4125242; 571917, 4125270; 571863, 4125324; 571849, 4125335; 571796, 4125373; 571752, 4125391; 571743, 4125393; 571688, 4125399; 571681, 4125393; 571660, 4125374; 571652, 4125343; 571656, 4125320; 571678, 4125269; 571730, 4125067; 571736, 4124983; 571745, 4124948; 571748, 4124914; 571749, 4124892; 571725, 4124802; 571722, 4124772; 571715, 4124751; 571680, 4124564; 571688, 4124523; 571712, 4124486; 571733, 4124465; 571744, 4124430; 571745, 4124411; 571755, 4124370; 571765, 4124348; 571758, 4124239; 571751, 4124191; 571732, 4124132; 571679, 4124055; 571574, 4123852; 571562, 4123774; 571517, 4123697; 571477, 4123647; 571448, 4123631; 571407, 4123602; 571295, 4123494; 571276, 4123446; 571261, 4123425; 571226, 4123403; 571173, 4123391; 571124, 4123411; 571071, 4123421; 571047, 4123417; 570995, 4123440; 570969, 4123456; 570873, 4123581; 570798, 4123689; 570760, 4123730; 570693, 4123772; 570651, 4123796; 570610, 4123819; 570561, 4123817; 570509, 4123801; 570489, 4123795; 570442, 4123709; 570402, 4123673; 570363, 4123620; 570326, 4123599; 570276, 4123580; 570220, 4123560; 570154, 4123546; 570048, 4123496; 570000, 4123464; 569959, 4123443; 569887, 4123387; 569605, 4123239; 569503, 4123156; 569361, 4123062; 569323, 4123100; 569299, 4123111; 569307, 4123126; 569310, 4123142; 569296, 4123157; 569285, 4123210; 569284, 4123268; 569269, 4123299; 569269, 4123358; 569251, 4123412; 569231, 4123445; 569196, 4123476; 569164, 4123536; 569127, 4123553; 569050, 4123606; 569001, 4123645; 568975, 4123763; 568974, 4123999; 568949, 4124016; 568956, 4124057; 568947, 4124099; 568915, 4124158; 568915, 4124194; 568889, 4124238; 568859, 4124295; 568868, 4124326; 568864, 4124363; 568881, 4124419; 568862, 4124484; 568870, 4124533; 568871, 4124604; 568862, 4124655; 568830, 4124689; 568820, 4124744; 568831, 4124758; 568835, 4124777; 568818, 4124827; 568824, 4124854; 568823, 4124905; 568820, 4124920; 568826, 4124936; 568835, 4124948; 568833, 4124974; 568824, 4124995; 568817, 4125031; 568794, 4125082; 568790, 4125109; 568779, 4125147; 568752, 4125198; 568691, 4125286; 568690, 4125287; 568691, 4125299; 568691, 4125318; 568690, 4125320; 568669, 4125363; 568663, 4125420; 568664, 4125472; 568659, 4125537; 568725, 4125673; 568743, 4125731; 568765, 4125782; 568806, 4126159; 568834, 4126246; 568837, 4126271; 568870, 4126356; 568887, 4126427; 568894, 4126515; 568924, 4126568; 568932, 4126575; 568936, 4126578; 569043, 4126622; 569057, 4126645; 569073, 4126677; 569075, 4126729; 569083, 4126823; 569099, 4126847; 569134, 4126885; 569158, 4126897; 569246, 4126923; 569273, 4126934; 569283, 4126945; 569307, 4127018; 569375, 4127000; 569395, 4127001; 569412, 4127011; 569448, 4127045; 569528, 4127105; 569542, 4127109; 569573, 4127109; 569629, 4127120; 569656, 4127110; 569694, 4127110; 569708, 4127115; 569723, 4127128; 569756, 4127182; 569790, 4127229; 569802, 4127253; 569821, 4127277; 569852, 4127359; 569894, 4127414; 569906, 4127439; 569974, 4127479; 569998, 4127497; 570023, 4127552; 570040, 4127606; 570049, 4127649; 570136, 4127927; 570154, 4127965; 570166, 4128021; 570200, 4128078; 570274, 4128137; 570284, 4128160; 570319, 4128197; 570355, 4128230; 570398, 4128257; 570483, 4128353; 570530, 4128384; 570556, 4128410; 570571, 4128464; 570572, 4128484; 570589, 4128526; 570622, 4128571; 570665, 4128645; 570722, 4128709; 570783, 4128731; 570807, 4128747; 570849, 4128783; 570871, 4128817; 570938, 4128887; 570965, 4128930; 571011, 4128988; 571075, 4128998; 571119, 4129013; 571146, 4129024; 571189, 4129050; 571239, 4129060; 571275, 4129088; 571312, 4129180; 571303, 4129206; 571297, 4129247; 571282, 4129292; 571264, 4129322; 571250, 4129380; 571223, 4129465; 571225, 4129513; 571204, 4129578; 571147, 4129893; 571139, 4129947; 571117, 4130018; 571100, 4130102; 571064, 4130191; 571051, 4130276; 571048, 4130320; 571050, 4130343; 571077, 4130379; 571112, 4130404; 571147, 4130475; 571165, 4130471; 571199, 4130472; 571335, 4130445; 571393, 4130458; 571420, 4130454; 571467, 4130457; returning to 571512, 4130484.

(ii) Note: Unit SNM-1C is depicted on Map M13—Unit SNM-1B, SNM-1C, SNM-2A, SNM-2B, SNM-2C, and SCZ-1—see paragraph (26)(ii):

(23) Unit SNM-2A, San Mateo County, California.

(i) From USGS 1:24,000 scale quadrangle Half Moon Bay, Woodside, San Gregorio, La Honda. Land bounded by the following UTM Zone 10, NAD27 coordinates (E,N): 558739, 4137767; 558811, 4137592; 558811, 4137356; 558811, 4137192; 559016, 4137182; 559221, 4137182; 559365, 4137120; 559519, 4136935; 559632, 4136791; 559930, 4136596; 560176, 4136463; 560371, 4136412; 560556, 4136545; 560689, 4136607; 560689, 4136607; 560712, 4136605; 560754, 4136583; 560802, 4136568; 560800, 4136566; 560803, 4136493; 560824, 4136421; 560888, 4136267; 560925, 4136136; 560924, 4136062; 560913, 4136001; 560921, 4135922; 560965, 4135865; 561004, 4135820; 560840, 4135713; 560781, 4135695; 560728, 4135658; 560678, 4135570; 560636, 4135485; 560561, 4135354; 560541, 4135285; 560517, 4135214; 560501, 4135134; 560426, 4134975; 560418, 4134908; 560416, 4134853; 560418, 4134690; 560405, 4134607; 560304, 4134407; 560273, 4134339; 560239, 4134222; 560239, 4134027; 560251, 4133792; 560276, 4133666; 560276, 4133593; 560193, 4133506; 560143, 4133467; 560074, 4133423; 559998, 4133400; 559928, 4133371; 559862, 4133311; 559869, 4133233; 559864, 4133111; 559871, 4133045; 559887, 4132979; 559877, 4132779; 559839, 4132609; 559830, 4132523; 559815, 4132450; 559820, 4132404; 559820, 4132342; 559798, 4132287; 559778, 4132201; 559727, 4132088; 559710, 4132025; 559702, 4131960; 559677, 4131887; 559636, 4131789; 559609, 4131708; 559589, 4131626; 559579, 4131551; 559594, 4131503; 559528, 4131324; 559421, 4131269; 559368, 4131236; 559326, 4131204; 559227, 4131110; 559164, 4131041; 559141, 4130975; 559108, 4130864; 559078, 4130813; 558987, 4130735; 558923, 4130654; 558888, 4130583; 558847, 4130516; 558788, 4130468; 558770, 4130460; 558699, 4130504; 558443, 4130773; 558414, 4130798; 558346, 4130823; 558271, 4130826; 558210, 4130855; 558162, 4130889; 558123, 4130980; 558096, 4131043; 558030, 4131118; 557944, 4131188; 557865, 4131218; 557804, 4131227; 557693, 4131224; 557573, 4131220; 557509, 4131213; 557430, 4131229; 557332, 4131304; 557276, 4131356; 557221, 4131374; 557149, 4131374; 557078, 4131358; 556970, 4131340; 556899, 4131326; 556816, 4131333; 556695, 4131342; 556494, 4131347; 556378, 4131363; 556321, 4131392; 556278, 4131442; 556233, 4131533; 556199, 4131592; 556149, 4131639; 556097, 4131646; 556022, 4131642; 555936, 4131621; 555832, 4131589; 555716, 4131585; 555648, 4131605; 555571, 4131630; 555456, 4131676; 555247, 4131775; 555093, 4131839; 555016, 4131846; 554948, 4131836; 554871, 4131805; 554773, 4131771; 554712, 4131739; 554662, 4131698; 554642, 4131644; 554621, 4131594; 554576, 4131510; 554510, 4131428; 554456, 4131367; 554426, 4131342; 554304, 4131304; 554127, 4131243; 554012, 4131156; 553923, 4131104; 553858, 4131086; 553694, 4131068; 553472, 4131052; 553212, 4131041; 553182, 4131046; 553329, 4131316; 553417, 4131466; 553474, 4131510; 553551, 4131545; 553621, 4131545; 553698, 4131532; 553764, 4131523; 553819, 4131530; 553859, 4131554; 553920, 4131635; 553945, 4131683; 553947, 4131725; 553932, 4131794; 553916, 4131824; 553876, 4131870; 553817, 4131947; 553784, 4132040; 553668, 4132528; 553622, 4132706; 553602, 4132871; 553621, 4132961; 553641, 4133060; 553621, 4133192; 553566, 4133298; 553503, 4133368; 553434, 4133496; 553397, 4133654; 553384, 4133735; 553342, 4133828; 553292, 4133924; 553267, 4134023; 553258, 4134144; 553259, 4134239; 553287, 4134329; 553314, 4134377; 553401, 4134549; 553421, 4134628; 553413, 4134692; 553399, 4134765; 553375, 4134828; 553360, 4134855; 553296, 4134916; 553237, 4134973; 553190, 4135011; 553069, 4135151; 552963, 4135283; 552969, 4135286; 553118, 4135405; 553218, 4135497; 553247, 4135519; 553272, 4135559; 553338, 4135587; 553379, 4135635; 553376, 4135670; 553399, 4135719; 553406, 4135751; 553442, 4135811; 553462, 4135827; 553540, 4135865; 553563, 4135893; 553572, 4135910; 553584, 4135953; 553587, 4135990; 553583, 4136045; 553659, 4136295; 553682, 4136322; 553750, 4136380; 553773, 4136411; 553817, 4136459; 553856, 4136487; 553889, 4136534; 553900, 4136589; 553914, 4136623; 553924, 4136763; 553921, 4136828; 553914, 4136854; 553887, 4136884; 553762, 4136980; 553783, 4137262; 553803, 4137293; 553829, 4137321; 553858, 4137341; 553952, 4137382; 554034, 4137410; 554111, 4137430; 554197, 4137481; 554222, 4137502; 554314, 4137597; 554352, 4137652; 554361, 4137673; 554381, 4137704; 554417, 4137731; 554531, 4137770; 554567, 4137778; 554602, 4137783; 554628, 4137781; 554696, 4137766; 554759, 4137744; 554766, 4137744; 554768, 4137740; 554870, 4137604; 554983, 4137446; 555006, 4137254; 555017, 4137005; 555334, 4137107; 555526, 4137152; 555673, 4137254; 555876, 4137423; 556046, 4137536; 556611, 4137762; 557131, 4137740; 557515, 4137683; 557718, 4137683; 557933, 4137830; 558069, 4138000; 558673, 4138166; 558719, 4138033; 558719, 4137910; returning to 558739, 4137767.

(ii) Note: Unit SNM-2A is depicted on Map M13—Unit SNM-1B, SNM-1C, SNM-2A, SNM-2B, SNM-2C, and SCZ-1—see paragraph (26)(ii):

(24) Unit SNM-2B, San Mateo County, California.

(i) From USGS 1:24,000 scale quadrangle Pigeon Point, Franklin Point, San Gregorio, La Honda. Land bounded by the following UTM Zone 10, NAD27 coordinates (E,N): 556272, 4128069; 556321, 4128065; 556384, 4128096; 556461, 4128125; 556520, 4128140; 556571, 4128119; 556611, 4128014; 556666, 4127931; 556770, 4127883; 556824, 4127867; 556935, 4127808; 556995, 4127793; 557043, 4127769; 557072, 4127718; 557079, 4127683; 557067, 4127633; 557027, 4127526; 557034, 4127489; 557043, 4127476; 557080, 4127451; 557135, 4127443; 557201, 4127442; 557282, 4127452; 557336, 4127443; 557461, 4127388; 557503, 4127364; 557575, 4127307; 557639, 4127217; 557659, 4127144; 557696, 4127037; 557708, 4126997; 557711, 4126978; 557674, 4126914; 557597, 4126841; 557561, 4126795; 557533, 4126669; 557437, 4126548; 557415, 4126492; 557429, 4126422; 557481, 4126335; 557512, 4126293; 557536, 4126242; 557513, 4126194; 557443, 4126136; 557374, 4126088; 557302, 4126049; 557247, 4126001; 557217, 4125955; 557188, 4125893; 557144, 4125811; 557111, 4125760; 557084, 4125706; 557045, 4125673; 556829, 4125615; 556735, 4125644; 556628, 4125656; 556550, 4125644; 556490, 4125609; 556445, 4125569; 556356, 4125459; 556289, 4125410; 556229, 4125373; 556199, 4125334; 556207, 4125286; 556232, 4125231; 556270, 4125180; 556274, 4125129; 556245, 4125074; 556192, 4124997; 556180, 4124916; 556171, 4124732; 556148, 4124603; 556131, 4124326; 556109, 4124276; 556035, 4124239; 555988, 4124221; 555909, 4124080; 555928, 4124009; 555897, 4123861; 555861, 4123748; 555826, 4123577; 555826, 4123526; 555717, 4123565; 555573, 4123619; 555341, 4123538; 555308, 4123622; 555025, 4123517; 554751, 4123367; 554691, 4123369; 554688, 4123334; 554690, 4123310; 554648, 4123252; 554627, 4123168; 554627, 4123080; 554615, 4123026; 554582, 4122978; 554483, 4122969; 554401, 4122993; 554293, 4122960; 554272, 4123035; 553862, 4122966; 553760, 4123093; 553763, 4122957; 553712, 4122933; 553724, 4122803; 554353, 4122888; 554576, 4122930; 554594, 4122873; 554606, 4122764; 554633, 4122722; 554684, 4122713; 554766, 4122704; 554820, 4122704; 554835, 4122731; 554808, 4122972; 554914, 4122991; 554906, 4123045; 554817, 4123082; 554785, 4123057; 554758, 4123076; 554726, 4123142; 554725, 4123204; 554751, 4123211; 554757, 4123228; 554749, 4123248; 554716, 4123256; 554707, 4123345; 554758, 4123349; 554796, 4123342; 554844, 4123324; 554853, 4123269; 554827, 4123238; 554798, 4123211; 554795, 4123140; 554828, 4123119; 554872, 4123099; 554908, 4123081; 554940, 4123071; 555042, 4123092; 555148, 4123140; 555309, 4123199; 555362, 4123231; 555406, 4123271; 555438, 4123350; 555474, 4123413; 555523, 4123432; 555612, 4123404; 555669, 4123279; 555780, 4123318; 555826, 4123324; 555826, 4123294; 555821, 4123251; 555821, 4123176; 555823, 4123095; 555805, 4123061; 555793, 4123014; 555815, 4122970; 555896, 4122863; 555959, 4122821; 556022, 4122767; 556066, 4122747; 556093, 4122710; 556166, 4122652; 556243, 4122597; 556403, 4122490; 556442, 4122477; 556518, 4122469; 556591, 4122440; 556635, 4122429; 556678, 4122435; 556708, 4122449; 556742, 4122455; 556776, 4122451; 556827, 4122414; 556900, 4122381; 556953, 4122341; 557021, 4122284; 557066, 4122265; 557150, 4122238; 557179, 4122221; 557199, 4122185; 557207, 4122157; 557222, 4122130; 557260, 4122078; 557328, 4122011; 557390, 4121959; 557415, 4121958; 557448, 4121972; 557580, 4122063; 557656, 4122122; 557712, 4122158; 557747, 4122173; 557803, 4122179; 557896, 4122173; 557931, 4122166; 557992, 4122173; 558035, 4122170; 558056, 4122163; 558128, 4122126; 558202, 4122098; 558241, 4122078; 558268, 4122057; 558321, 4121975; 558349, 4121943; 558425, 4121866; 558461, 4121840; 558506, 4121815; 558562, 4121792; 558653, 4121764; 558782, 4121701; 558834, 4121667; 558869, 4121636; 558906, 4121596; 558949, 4121529; 558960, 4121500; 558960, 4121487; 558967, 4121479; 558970, 4121457; 558966, 4121409; 559052, 4121463; 560851, 4119739; 561456, 4119158; 561716, 4118617; 561730, 4118587; 561662, 4118587; 561664, 4118185; 561616, 4118185; 560854, 4118185; 560854, 4118167; 560856, 4117992; 560826, 4117987; 560699, 4117964; 560456, 4117931; 560346, 4117898; 560059, 4117821; 559740, 4117568; 559631, 4117498; 559464, 4117391; 559244, 4117182; 559095, 4117073; 558957, 4116972; 558726, 4116851; 558667, 4116801; 558428, 4116598; 558316, 4116551; 558219, 4116510; 557932, 4116135; 557789, 4115992; 557624, 4115881; 557425, 4115705; 557326, 4115507; 557260, 4115352; 557249, 4115132; 557194, 4114911; 557194, 4114768; 557183, 4114581; 557194, 4114415; 557117, 4114283; 557029, 4114118; 556962, 4113997; 556852, 4113776; 556775, 4113655; 556706, 4113641; 556656, 4113814; 556544, 4114148; 556493, 4114291; 556403, 4114428; 556253, 4114541; 556075, 4114664; 555893, 4114786; 555592, 4114993; 555315, 4115182; 555114, 4115309; 554908, 4115384; 554795, 4115423; 554609, 4115446; 554297, 4115475; 554201, 4115487; 554056, 4115554; 553992, 4115622; 553898, 4115745; 553753, 4115980; 553611, 4116208; 553501, 4116394; 553421, 4116519; 553230, 4116879; 553198, 4117082; 553187, 4117299; 553171, 4117457; 553163, 4117510; 553128, 4117606; 552933, 4118131; 552770, 4118575; 552722, 4118714; 552692, 4118856; 552684, 4118933; 552686, 4119049; 552832, 4119084; 552843, 4119062; 552934, 4119077; 552916, 4119147; 552906, 4119209; 552957, 4119263; 552954, 4119299; 552855, 4119422; 552873, 4119468; 552810, 4119530; 552696, 4119536; 552696, 4119550; 552696, 4119628; 552686, 4119661; 552663, 4119742; 552630, 4119861; 552602, 4119914; 552590, 4119933; 552548, 4119998; 552479, 4120102; 552481, 4120104; 552601, 4120216; 552562, 4120269; 552710, 4120441; 552710, 4120493; 552727, 4120512; 552762, 4120561; 552757, 4120591; 552751, 4120653; 552755, 4120709; 552759, 4120761; 552768, 4120817; 552792, 4120844; 552813, 4120881; 552792, 4120911; 552762, 4120954; 552717, 4120935; 552201, 4120514; 552193, 4120507; 552077, 4120672; 551997, 4120795; 551950, 4120891; 551909, 4120979; 551862, 4121280; 551836, 4121391; 551799, 4121450; 551742, 4121540; 551682, 4121643; 551673, 4121666; 551645, 4121741; 551625, 4121833; 551629, 4121985; 551631, 4122069; 551655, 4122392; 551678, 4122540; 551723, 4122681; 551879, 4123107; 551922, 4123230; 551957, 4123361; 552016, 4123713; 552096, 4124176; 552129, 4124397; 552161, 4124514; 552171, 4124534; 552186, 4124515; 552190, 4124509; 552195, 4124488; 552197, 4124463; 552208, 4124447; 552222, 4124393; 552247, 4124373; 552256, 4124354; 552287, 4124315; 552300, 4124289; 552312, 4124267; 552329, 4124249; 552346, 4124238; 552362, 4124233; 552417, 4124241; 552451, 4124251; 552478, 4124256; 552497, 4124251; 552523, 4124254; 552548, 4124260; 552568, 4124255; 552609, 4124235; 552634, 4124232; 552652, 4124244; 552655, 4124255; 552635, 4124268; 552563, 4124291; 552554, 4124298; 552554, 4124301; 552560, 4124308; 552555, 4124315; 552541, 4124320; 552524, 4124317; 552503, 4124322; 552481, 4124330; 552453, 4124337; 552426, 4124340; 552418, 4124356; 552418, 4124377; 552428, 4124392; 552439, 4124395; 552462, 4124398; 552479, 4124414; 552477, 4124422; 552471, 4124430; 552408, 4124422; 552393, 4124431; 552383, 4124449; 552377, 4124469; 552340, 4124498; 552306, 4124536; 552287, 4124564; 552273, 4124577; 552259, 4124585; 552242, 4124579; 552229, 4124579; 552220, 4124581; 552204, 4124586; 552197, 4124591; 552225, 4124651; 552313, 4124842; 552333, 4124930; 552350, 4125030; 552407, 4125302; 552435, 4125429; 552451, 4125426; 552464, 4125424; 552542, 4125417; 552588, 4125420; 552671, 4125417; 552739, 4125431; 552748, 4125432; 552832, 4125431; 552907, 4125426; 552959, 4125433; 553090, 4125485; 553136, 4125511; 553164, 4125538; 553183, 4125611; 553212, 4125657; 553272, 4125723; 553317, 4125749; 553385, 4125764; 553419, 4125780; 553445, 4125803; 553469, 4125814; 553479, 4125831; 553485, 4125914; 553501, 4125994; 553518, 4126040; 553538, 4126084; 553616, 4126226; 553624, 4126266; 553643, 4126330; 553722, 4126487; 553728, 4126532; 553775, 4126591; 553839, 4126654; 553892, 4126683; 553917, 4126692; 553950, 4126709; 553991, 4126700; 554018, 4126689; 554034, 4126688; 554099, 4126697; 554108, 4126701; 554184, 4126855; 554187, 4126889; 554194, 4126916; 554206, 4126943; 554225, 4127009; 554251, 4127025; 554279, 4127026; 554287, 4127051; 554300, 4127141; 554348, 4127299; 554368, 4127323; 554393, 4127347; 554399, 4127474; 554367, 4127547; 554353, 4127603; 554358, 4127620; 554385, 4127637; 554461, 4127656; 554474, 4127672; 554493, 4127761; 554507, 4127806; 554561, 4127851; 554634, 4127852; 554685, 4127834; 554714, 4127809; 554791, 4127799; 554815, 4127790; 554847, 4127784; 554886, 4127761; 554922, 4127756; 554994, 4127769; 555063, 4127762; 555128, 4127727; 555219, 4127712; 555274, 4127714; 555326, 4127764; 555396, 4127841; 555502, 4127974; 555587, 4127938; 555629, 4127938; 555727, 4127983; 555794, 4128009; 555880, 4128054; 555977, 4128166; 556053, 4128186; 556140, 4128177; 556202, 4128144; returning to 556272, 4128069.

(ii) Note: Unit SNM-2B is depicted on Map M13—Unit SNM-1B, SNM-1C, SNM-2A, SNM-2B, SNM-2C, and SCZ-1—see paragraph (26)(ii):

(25) Unit SNM-2C, San Mateo and Santa Cruz County, California.

(i) From USGS 1:24,000 scale quadrangle Franklin Point, Ano Nuevo. Land bounded by the following UTM Zone 10, NAD27 coordinates (E,N): 562470, 4114177; 562510, 4114085; 562527, 4114045; 562761, 4113432; 562862, 4113260; 563257, 4112585; 563520, 4111387; 563725, 4110807; 563871, 4110394; 563875, 4110389; 563780, 4110288; 563695, 4110174; 563609, 4110031; 563524, 4109846; 563524, 4109703; 563524, 4109617; 563526, 4109601; 563566, 4109375; 563481, 4109275; 563438, 4109104; 563338, 4108933; 563338, 4108747; 563338, 4108576; 563224, 4108504; 563010, 4108333; 562896, 4108219; 562881, 4108194; 562810, 4108076; 562710, 4107905; 562688, 4107730; 561676, 4107984; 561673, 4107989; 561665, 4107998; 561653, 4108008; 561651, 4108009; 561622, 4108016; 561602, 4108017; 561579, 4108015; 561529, 4108029; 561517, 4108038; 561500, 4108046; 561481, 4108063; 561466, 4108071; 561466, 4108071; 561445, 4108083; 561442, 4108084; 561436, 4108087; 561385, 4108094; 561385, 4108094; 561348, 4108107; 561345, 4108108; 561341, 4108110; 561286, 4108123; 561255, 4108137; 561243, 4108142; 561241, 4108143; 561231, 4108146; 561230, 4108147; 561221, 4108151; 561208, 4108156; 561205, 4108156; 561195, 4108160; 561170, 4108173; 561144, 4108178; 561139, 4108178; 561130, 4108181; 561120, 4108181; 561110, 4108181; 561097, 4108179; 561097, 4108179; 561097, 4108179; 561072, 4108174; 561067, 4108173; 561031, 4108186; 561016, 4108189; 560992, 4108186; 560936, 4108182; 560932, 4108180; 560928, 4108176; 560927, 4108171; 560929, 4108170; 560932, 4108161; 560932, 4108161; 560932, 4108160; 560934, 4108150; 560931, 4108131; 560923, 4108124; 560918, 4108124; 560901, 4108140; 560897, 4108139; 560896, 4108141; 560890, 4108141; 560887, 4108140; 560885, 4108138; 560883, 4108137; 560881, 4108136; 560879, 4108135; 560878, 4108131; 560877, 4108127; 560877, 4108124; 560877, 4108120; 560875, 4108105; 560877, 4108097; 560875, 4108087; 560874, 4108082; 560872, 4108077; 560871, 4108071; 560871, 4108065; 560867, 4108044; 560857, 4108037; 560853, 4108036; 560846, 4108032; 560842, 4108028; 560836, 4108021; 560834, 4108019; 560830, 4108015; 560816, 4107990; 560809, 4107988; 560803, 4107991; 560806, 4108010; 560812, 4108021; 560827, 4108039; 560835, 4108050; 560835, 4108053; 560812, 4108074; 560804, 4108077; 560793, 4108076; 560791, 4108076; 560785, 4108075; 560781, 4108074; 560781, 4108074; 560781, 4108074; 560781, 4108074; 560776, 4108072; 560774, 4108070; 560766, 4108068; 560747, 4108071; 560707, 4108081; 560693, 4108087; 560678, 4108082; 560677, 4108082; 560676, 4108082; 560672, 4108080; 560654, 4108078; 560633, 4108086; 560626, 4108091; 560612, 4108088; 560607, 4108089; 560593, 4108082; 560590, 4108078; 560587, 4108073; 560583, 4108056; 560570, 4108056; 560556, 4108069; 560549, 4108068; 560549, 4108069; 560544, 4108073; 560536, 4108069; 560533, 4108064; 560531, 4108063; 560530, 4108060; 560529, 4108059; 560524, 4108050; 560521, 4108048; 560516, 4108046; 560514, 4108046; 560510, 4108045; 560505, 4108041; 560498, 4108038; 560497, 4108034; 560496, 4108031; 560494, 4108027; 560487, 4108025; 560480, 4108018; 560473, 4108016; 560471, 4108012; 560469, 4108009; 560469, 4108003; 560469, 4108002; 560469, 4108001; 560469, 4107995; 560462, 4107991; 560461, 4107989; 560458, 4107989; 560454, 4107988; 560452, 4107986; 560449, 4107983; 560449, 4107981; 560451, 4107978; 560452, 4107976; 560454, 4107973; 560456, 4107972; 560458, 4107968; 560459, 4107966; 560461, 4107963; 560460, 4107952; 560449, 4107948; 560438, 4107949; 560424, 4107953; 560414, 4107951; 560412, 4107951; 560410, 4107951; 560407, 4107950; 560404, 4107950; 560400, 4107949; 560393, 4107948; 560392, 4107947; 560371, 4107944; 560331, 4107955; 560316, 4107952; 560274, 4107948; 560261, 4107945; 560260, 4107945; 560249, 4107942; 560238, 4107940; 560228, 4107936; 560228, 4107936; 560215, 4107932; 560192, 4107926; 560191, 4107926; 560184, 4107924; 560181, 4107922; 560179, 4107919; 560178, 4107918; 560177, 4107917; 560172, 4107912; 560156, 4107906; 560154, 4107906; 560150, 4107905; 560147, 4107903; 560144, 4107900; 560142, 4107895; 560141, 4107894; 560138, 4107891; 560136, 4107887; 560134, 4107885; 560127, 4107874; 560119, 4107870; 560110, 4107858; 560091, 4107853; 560087, 4107851; 560083, 4107849; 560078, 4107843; 560074, 4107838; 560074, 4107833; 560072, 4107828; 560072, 4107825; 560066, 4107804; 560055, 4107801; 560039, 4107811; 560038, 4107812; 560035, 4107817; 560030, 4107820; 560027, 4107820; 560027, 4107820; 560016, 4107818; 560010, 4107818; 559985, 4107811; 559973, 4107805; 559962, 4107801; 559956, 4107801; 559947, 4107797; 559939, 4107792; 559935, 4107789; 559932, 4107786; 559932, 4107785; 559917, 4107765; 559908, 4107759; 559902, 4107754; 559894, 4107748; 559871, 4107738; 559868, 4107735; 559864, 4107732; 559862, 4107729; 559858, 4107726; 559856, 4107722; 559851, 4107718; 559849, 4107716; 559839, 4107709; 559835, 4107707; 559828, 4107702; 559821, 4107697; 559809, 4107690; 559808, 4107689; 559807, 4107689; 559759, 4107678; 559721, 4107661; 559715, 4107654; 559712, 4107652; 559707, 4107648; 559704, 4107644; 559699, 4107638; 559698, 4107638; 559683, 4107622; 559679, 4107616; 559678, 4107615; 559658, 4107585; 559649, 4107579; 559649, 4107578; 559648, 4107578; 559640, 4107573; 559639, 4107572; 559635, 4107569; 559614, 4107545; 559602, 4107539; 559598, 4107538; 559594, 4107537; 559592, 4107535; 559587, 4107533; 559587, 4107533; 559584, 4107533; 559571, 4107548; 559570, 4107563; 559572, 4107566; 559572, 4107566; 559575, 4107569; 559576, 4107572; 559577, 4107574; 559578, 4107578; 559579, 4107580; 559583, 4107586; 559584, 4107597; 559582, 4107614; 559575, 4107640; 559556, 4107685; 559528, 4107737; 559518, 4107758; 559512, 4107784; 559510, 4107816; 559505, 4107840; 559494, 4107860; 559463, 4107886; 559454, 4107899; 559432, 4107943; 559404, 4107990; 559382, 4108018; 559334, 4108062; 559287, 4108098; 559269, 4108109; 559260, 4108115; 559244, 4108121; 559230, 4108125; 559224, 4108126; 559217, 4108126; 559213, 4108125; 559211, 4108125; 559191, 4108121; 559184, 4108122; 559166, 4108128; 559130, 4108142; 559116, 4108146; 559096, 4108144; 559076, 4108136; 559076, 4108136; 559047, 4108126; 559040, 4108122; 559038, 4108120; 559036, 4108119; 559033, 4108118; 559031, 4108116; 559006, 4108100; 558995, 4108098; 558985, 4108101; 558984, 4108101; 558980, 4108102; 558963, 4108097; 558951, 4108091; 558937, 4108088; 558922, 4108088; 558905, 4108093; 558896, 4108100; 558886, 4108110; 558882, 4108113; 558880, 4108115; 558876, 4108117; 558863, 4108125; 558849, 4108148; 558844, 4108165; 558835, 4108219; 558827, 4108234; 558819, 4108259; 558802, 4108300; 558789, 4108323; 558788, 4108339; 558789, 4108367; 558787, 4108386; 558776, 4108427; 558767, 4108443; 558750, 4108466; 558737, 4108479; 558720, 4108490; 558715, 4108488; 558709, 4108491; 558690, 4108487; 558688, 4108488; 558679, 4108496; 558688, 4108508; 558725, 4108520; 558741, 4108545; 558758, 4108602; 558760, 4108613; 558762, 4108619; 558768, 4108650; 558789, 4108767; 558797, 4108800; 558824, 4108899; 558826, 4108951; 558840, 4109035; 558839, 4109050; 558839, 4109054; 558841, 4109071; 558842, 4109089; 558842, 4109101; 558840, 4109139; 558843, 4109146; 558845, 4109155; 558846, 4109165; 558846, 4109165; 558852, 4109225; 558853, 4109228; 558854, 4109243; 558854, 4109246; 558858, 4109278; 558859, 4109285; 558859, 4109290; 558868, 4109376; 558864, 4109450; 558866, 4109485; 558870, 4109495; 558875, 4109511; 558879, 4109522; 558880, 4109522; 558880, 4109523; 558881, 4109526; 558881, 4109532; 558881, 4109540; 558878, 4109555; 558877, 4109564; 558876, 4109569; 558871, 4109600; 558873, 4109654; 558872, 4109664; 558871, 4109674; 558869, 4109688; 558866, 4109698; 558866, 4109698; 558864, 4109702; 558856, 4109710; 558852, 4109711; 558848, 4109711; 558843, 4109715; 558844, 4109723; 558844, 4109727; 558844, 4109728; 558847, 4109734; 558848, 4109741; 558846, 4109755; 558849, 4109760; 558852, 4109771; 558851, 4109776; 558854, 4109780; 558855, 4109787; 558854, 4109796; 558852, 4109804; 558850, 4109808; 558851, 4109821; 558854, 4109825; 558856, 4109847; 558857, 4109853; 558860, 4109874; 558856, 4109898; 558856, 4109898; 558856, 4109901; 558853, 4109920; 558854, 4109930; 558861, 4109950; 558861, 4109951; 558862, 4109953; 558865, 4109959; 558863, 4109968; 558860, 4109976; 558855, 4109984; 558830, 4110011; 558826, 4110019; 558825, 4110033; 558827, 4110043; 558827, 4110048; 558828, 4110054; 558831, 4110064; 558832, 4110074; 558833, 4110087; 558831, 4110097; 558827, 4110105; 558818, 4110118; 558816, 4110122; 558810, 4110131; 558808, 4110146; 558808, 4110146; 558809, 4110149; 558809, 4110155; 558806, 4110168; 558802, 4110174; 558796, 4110180; 558791, 4110183; 558786, 4110187; 558779, 4110194; 558770, 4110200; 558761, 4110212; 558751, 4110222; 558741, 4110257; 558737, 4110264; 558736, 4110270; 558727, 4110282; 558723, 4110290; 558713, 4110304; 558706, 4110318; 558702, 4110326; 558694, 4110335; 558685, 4110350; 558669, 4110367; 558663, 4110374; 558653, 4110384; 558650, 4110387; 558629, 4110409; 558616, 4110418; 558601, 4110429; 558591, 4110434; 558586, 4110437; 558573, 4110444; 558569, 4110445; 558555, 4110451; 558548, 4110455; 558511, 4110487; 558502, 4110493; 558496, 4110495; 558468, 4110511; 558441, 4110535; 558434, 4110546; 558427, 4110554; 558420, 4110563; 558409, 4110574; 558403, 4110576; 558373, 4110600; 558372, 4110601; 558366, 4110609; 558362, 4110619; 558351, 4110631; 558343, 4110641; 558336, 4110652; 558329, 4110661; 558327, 4110668; 558326, 4110672; 558324, 4110680; 558321, 4110685; 558315, 4110691; 558308, 4110700; 558305, 4110706; 558300, 4110710; 558295, 4110722; 558291, 4110732; 558291, 4110772; 558299, 4110806; 558304, 4110844; 558304, 4110873; 558303, 4110904; 558296, 4110948; 558291, 4110972; 558283, 4110997; 558276, 4111009; 558272, 4111020; 558261, 4111039; 558253, 4111052; 558244, 4111061; 558237, 4111066; 558224, 4111076; 558211, 4111083; 558206, 4111087; 558199, 4111090; 558196, 4111093; 558193, 4111095; 558185, 4111097; 558177, 4111102; 558175, 4111102; 558161, 4111110; 558145, 4111130; 558139, 4111142; 558132, 4111154; 558126, 4111163; 558121, 4111169; 558115, 4111179; 558106, 4111187; 558092, 4111198; 558080, 4111205; 558065, 4111214; 558053, 4111221; 558041, 4111228; 558023, 4111236; 558012, 4111238; 557999, 4111241; 557990, 4111241; 557988, 4111242; 557981, 4111241; 557974, 4111241; 557967, 4111241; 557959, 4111239; 557958, 4111239; 557917, 4111236; 557893, 4111232; 557954, 4111539; 557954, 4111627; 557954, 4111947; 557954, 4112189; 557965, 4112432; 557965, 4112630; 557965, 4112861; 557965, 4113082; 558009, 4113379; 558153, 4113611; 558220, 4113699; 558329, 4113842; 558549, 4113997; 558825, 4114085; 558994, 4114122; 559123, 4114151; 559299, 4114151; 559530, 4114151; 559762, 4114140; 560004, 4114129; 560214, 4114118; 560335, 4114239; 560511, 4114382; 560666, 4114493; 560764, 4114574; 560823, 4114623; 560853, 4114647; 560996, 4114768; 561184, 4114768; 561382, 4114768; 561669, 4114768; 561966, 4114911; 562042, 4114956; 562045, 4114958; 562091, 4114947; 562140, 4114869; 562235, 4114717; returning to 562470, 4114177.

(ii) Note: Unit SNM-2C is depicted on Map M13—Unit SNM-1B, SNM-1C, SNM-2A, SNM-2B, SNM-2C, and SCZ-1—see paragraph (26)(ii):

(26) Unit SCZ-1, Santa Cruz County, California.

(i) From USGS 1:24,000 scale quadrangle Ano Nuevo, Davenport, Santa Cruz. Land bounded by the following UTM Zone 10, NAD27 coordinates (E,N): 564479, 4107160; 566634, 4105910; 567103, 4105347; 567118, 4104849; 567025, 4104348; 567425, 4104203; 567712, 4104017; 568417, 4104162; 568799, 4104049; 568801, 4104043; 569040, 4103968; 569287, 4103649; 570005, 4103995; 570612, 4103900; 570626, 4103898; 571224, 4103498; 571428, 4102995; 571405, 4102392; 571014, 4101827; 570727, 4101666; 572239, 4100487; 572580, 4101093; 573541, 4101360; 574404, 4100932; 574656, 4099895; 574323, 4099265; 574226, 4098867; 573943, 4098177; 574618, 4098204; 575136, 4097850; 575519, 4097115; 575464, 4096542; 574982, 4095962; 574626, 4095860; 575097, 4095407; 575329, 4094831; 575269, 4094227; 575005, 4093879; 574656, 4093670; 574648, 4093691; 574652, 4093705; 574649, 4093715; 574643, 4093717; 574642, 4093718; 574639, 4093718; 574639, 4093718; 574635, 4093720; 574631, 4093733; 574635, 4093758; 574620, 4093770; 574619, 4093769; 574616, 4093773; 574612, 4093770; 574608, 4093767; 574601, 4093771; 574595, 4093788; 574584, 4093802; 574567, 4093847; 574535, 4093867; 574510, 4093876; 574497, 4093883; 574480, 4093891; 574463, 4093899; 574455, 4093902; 574442, 4093907; 574428, 4093911; 574419, 4093914; 574418, 4093915; 574417, 4093915; 574415, 4093916; 574397, 4093921; 574389, 4093921; 574386, 4093919; 574385, 4093917; 574383, 4093916; 574380, 4093914; 574380, 4093913; 574370, 4093905; 574364, 4093898; 574362, 4093894; 574362, 4093893; 574350, 4093876; 574344, 4093875; 574307, 4093875; 574300, 4093869; 574294, 4093869; 574292, 4093866; 574290, 4093864; 574290, 4093863; 574278, 4093860; 574268, 4093855; 574266, 4093855; 574264, 4093854; 574255, 4093851; 574255, 4093851; 574245, 4093850; 574235, 4093855; 574221, 4093852; 574209, 4093855; 574186, 4093868; 574176, 4093871; 574172, 4093869; 574172, 4093869; 574167, 4093868; 574164, 4093868; 574159, 4093865; 574156, 4093862; 574154, 4093860; 574153, 4093857; 574149, 4093852; 574145, 4093850; 574140, 4093847; 574141, 4093866; 574137, 4093878; 574144, 4093887; 574145, 4093902; 574134, 4093912; 574132, 4093910; 574130, 4093911; 574125, 4093910; 574124, 4093908; 574121, 4093907; 574121, 4093907; 574117, 4093905; 574114, 4093905; 574111, 4093903; 574107, 4093901; 574103, 4093898; 574097, 4093894; 574092, 4093887; 574086, 4093885; 574081, 4093881; 574078, 4093880; 574078, 4093921; 574071, 4093926; 574071, 4093927; 574064, 4093933; 574060, 4093933; 574055, 4093933; 574053, 4093931; 574052, 4093929; 574051, 4093927; 574049, 4093922; 574042, 4093919; 574025, 4093922; 574015, 4093925; 574014, 4093925; 574010, 4093925; 574009, 4093925; 574005, 4093920; 573999, 4093918; 573994, 4093910; 573994, 4093910; 573985, 4093907; 573982, 4093911; 573977, 4093913; 573964, 4093912; 573952, 4093914; 573943, 4093921; 573940, 4093929; 573933, 4093937; 573929, 4093946; 573932, 4093956; 573933, 4093957; 573940, 4093963; 573948, 4093969; 573954, 4093972; 573955, 4093973; 573958, 4093975; 573965, 4093978; 573972, 4093981; 573975, 4093985; 573975, 4093989; 573975, 4093990; 573985, 4094007; 573983, 4094016; 573984, 4094021; 573980, 4094025; 573970, 4094022; 573968, 4094023; 573977, 4094049; 573974, 4094056; 573975, 4094061; 573970, 4094062; 573969, 4094066; 573965, 4094069; 573962, 4094075; 573958, 4094078; 573955, 4094079; 573952, 4094079; 573948, 4094078; 573931, 4094086; 573930, 4094088; 573934, 4094098; 573942, 4094101; 573949, 4094110; 573960, 4094116; 573976, 4094128; 573970, 4094148; 573955, 4094179; 573937, 4094208; 573932, 4094219; 573931, 4094221; 573920, 4094243; 573919, 4094245; 573911, 4094261; 573881, 4094313; 573869, 4094329; 573867, 4094330; 573862, 4094337; 573859, 4094342; 573855, 4094344; 573847, 4094346; 573835, 4094347; 573825, 4094349; 573825, 4094349; 573826, 4094357; 573828, 4094358; 573837, 4094366; 573840, 4094371; 573840, 4094376; 573838, 4094378; 573834, 4094385; 573824, 4094400; 573816, 4094409; 573815, 4094412; 573810, 4094417; 573802, 4094426; 573791, 4094445; 573763, 4094457; 573741, 4094462; 573728, 4094461; 573726, 4094457; 573726, 4094455; 573724, 4094453; 573724, 4094450; 573721, 4094429; 573712, 4094429; 573712, 4094429; 573712, 4094429; 573704, 4094428; 573699, 4094424; 573697, 4094423; 573694, 4094421; 573694, 4094419; 573694, 4094415; 573694, 4094413; 573697, 4094407; 573694, 4094401; 573684, 4094403; 573681, 4094407; 573678, 4094415; 573677, 4094421; 573677, 4094431; 573676, 4094436; 573676, 4094438; 573675, 4094443; 573675, 4094456; 573675, 4094459; 573676, 4094460; 573676, 4094464; 573676, 4094467; 573677, 4094470; 573674, 4094479; 573657, 4094491; 573658, 4094505; 573659, 4094507; 573661, 4094511; 573663, 4094515; 573663, 4094523; 573650, 4094539; 573645, 4094546; 573637, 4094546; 573624, 4094552; 573619, 4094563; 573618, 4094603; 573610, 4094601; 573610, 4094600; 573605, 4094598; 573598, 4094586; 573597, 4094578; 573596, 4094570; 573596, 4094568; 573594, 4094552; 573590, 4094548; 573590, 4094547; 573585, 4094547; 573583, 4094541; 573584, 4094539; 573584, 4094537; 573585, 4094532; 573587, 4094527; 573584, 4094517; 573575, 4094513; 573575, 4094512; 573571, 4094510; 573569, 4094508; 573568, 4094507; 573567, 4094505; 573561, 4094496; 573560, 4094496; 573557, 4094505; 573550, 4094550; 573530, 4094554; 573520, 4094550; 573518, 4094545; 573517, 4094545; 573510, 4094544; 573508, 4094539; 573509, 4094537; 573509, 4094535; 573508, 4094533; 573508, 4094531; 573501, 4094519; 573491, 4094528; 573482, 4094533; 573473, 4094535; 573469, 4094541; 573467, 4094552; 573468, 4094565; 573464, 4094576; 573457, 4094584; 573446, 4094593; 573442, 4094602; 573436, 4094613; 573428, 4094616; 573430, 4094605; 573432, 4094602; 573426, 4094611; 573421, 4094614; 573421, 4094610; 573422, 4094603; 573425, 4094596; 573428, 4094584; 573425, 4094583; 573422, 4094576; 573415, 4094576; 573409, 4094581; 573400, 4094621; 573390, 4094628; 573387, 4094624; 573387, 4094624; 573384, 4094622; 573383, 4094620; 573372, 4094618; 573359, 4094634; 573352, 4094629; 573342, 4094630; 573341, 4094631; 573330, 4094646; 573324, 4094654; 573312, 4094691; 573301, 4094694; 573299, 4094696; 573297, 4094696; 573295, 4094695; 573293, 4094693; 573292, 4094683; 573288, 4094682; 573287, 4094682; 573282, 4094682; 573278, 4094682; 573278, 4094682; 573278, 4094682; 573275, 4094681; 573269, 4094693; 573268, 4094703; 573272, 4094710; 573269, 4094718; 573250, 4094752; 573243, 4094774; 573244, 4094789; 573248, 4094808; 573247, 4094837; 573244, 4094849; 573240, 4094852; 573240, 4094853; 573235, 4094856; 573235, 4094856; 573227, 4094861; 573200, 4094867; 573194, 4094867; 573192, 4094867; 573190, 4094867; 573180, 4094867; 573172, 4094865; 573162, 4094863; 573157, 4094860; 573129, 4094852; 573095, 4094857; 573084, 4094857; 573077, 4094856; 573075, 4094854; 573074, 4094850; 573075, 4094847; 573074, 4094839; 573071, 4094838; 573058, 4094833; 573053, 4094844; 573039, 4094857; 573037, 4094853; 573037, 4094853; 573033, 4094854; 573030, 4094850; 573030, 4094847; 573030, 4094846; 573030, 4094843; 573029, 4094838; 573019, 4094836; 573011, 4094844; 573001, 4094862; 572990, 4094872; 572988, 4094873; 572987, 4094874; 572981, 4094876; 572973, 4094876; 572971, 4094877; 572960, 4094880; 572936, 4094895; 572929, 4094893; 572925, 4094895; 572922, 4094893; 572925, 4094882; 572885, 4094875; 572880, 4094876; 572868, 4094882; 572864, 4094889; 572862, 4094902; 572862, 4094915; 572865, 4094925; 572865, 4094938; 572852, 4094939; 572848, 4094946; 572846, 4094955; 572837, 4094957; 572836, 4094951; 572834, 4094958; 572825, 4094955; 572826, 4094938; 572823, 4094935; 572820, 4094934; 572815, 4094932; 572808, 4094929; 572806, 4094929; 572798, 4094938; 572783, 4094960; 572773, 4094967; 572764, 4094966; 572764, 4094966; 572761, 4094966; 572760, 4094966; 572750, 4094966; 572748, 4094963; 572749, 4094960; 572749, 4094959; 572752, 4094943; 572752, 4094942; 572753, 4094937; 572752, 4094935; 572747, 4094939; 572726, 4094946; 572700, 4094960; 572695, 4094973; 572692, 4094985; 572687, 4094996; 572661, 4095009; 572651, 4095017; 572649, 4095029; 572660, 4095079; 572665, 4095089; 572684, 4095108; 572696, 4095133; 572704, 4095145; 572706, 4095147; 572722, 4095147; 572758, 4095138; 572770, 4095139; 572770, 4095139; 572774, 4095139; 572781, 4095140; 572787, 4095138; 572788, 4095137; 572790, 4095137; 572794, 4095136; 572797, 4095133; 572801, 4095128; 572806, 4095123; 572810, 4095121; 572810, 4095126; 572810, 4095127; 572816, 4095122; 572825, 4095121; 572827, 4095127; 572820, 4095143; 572817, 4095153; 572818, 4095162; 572821, 4095169; 572822, 4095184; 572827, 4095192; 572829, 4095198; 572830, 4095204; 572830, 4095207; 572829, 4095213; 572828, 4095215; 572828, 4095222; 572809, 4095270; 572798, 4095285; 572788, 4095287; 572782, 4095285; 572773, 4095283; 572768, 4095281; 572762, 4095277; 572759, 4095274; 572759, 4095274; 572755, 4095272; 572754, 4095271; 572752, 4095269; 572751, 4095269; 572739, 4095272; 572733, 4095279; 572754, 4095305; 572754, 4095311; 572748, 4095316; 572734, 4095323; 572731, 4095321; 572728, 4095321; 572724, 4095322; 572716, 4095321; 572709, 4095319; 572709, 4095319; 572707, 4095318; 572700, 4095317; 572693, 4095313; 572689, 4095310; 572677, 4095306; 572674, 4095304; 572671, 4095303; 572660, 4095299; 572651, 4095295; 572643, 4095292; 572638, 4095289; 572637, 4095289; 572626, 4095291; 572625, 4095296; 572631, 4095306; 572637, 4095328; 572633, 4095342; 572621, 4095352; 572618, 4095351; 572617, 4095351; 572611, 4095352; 572607, 4095351; 572602, 4095349; 572596, 4095346; 572590, 4095337; 572576, 4095331; 572550, 4095331; 572539, 4095334; 572531, 4095336; 572522, 4095338; 572484, 4095338; 572472, 4095341; 572468, 4095343; 572457, 4095346; 572454, 4095346; 572452, 4095345; 572450, 4095342; 572449, 4095340; 572448, 4095337; 572447, 4095334; 572443, 4095327; 572440, 4095327; 572439, 4095336; 572440, 4095346; 572443, 4095352; 572443, 4095366; 572444, 4095370; 572443, 4095373; 572443, 4095376; 572442, 4095386; 572443, 4095414; 572444, 4095432; 572449, 4095450; 572469, 4095484; 572470, 4095486; 572484, 4095495; 572489, 4095501; 572498, 4095505; 572504, 4095516; 572507, 4095531; 572503, 4095580; 572492, 4095594; 572477, 4095609; 572466, 4095616; 572449, 4095623; 572441, 4095628; 572431, 4095632; 572428, 4095633; 572422, 4095635; 572422, 4095634; 572418, 4095635; 572416, 4095633; 572413, 4095629; 572413, 4095627; 572413, 4095623; 572404, 4095603; 572401, 4095601; 572397, 4095598; 572394, 4095594; 572383, 4095590; 572380, 4095589; 572375, 4095587; 572370, 4095583; 572369, 4095581; 572368, 4095579; 572364, 4095575; 572362, 4095574; 572360, 4095571; 572357, 4095571; 572352, 4095577; 572355, 4095593; 572346, 4095593; 572339, 4095597; 572327, 4095608; 572321, 4095612; 572290, 4095640; 572287, 4095644; 572274, 4095656; 572261, 4095667; 572253, 4095670; 572252, 4095670; 572251, 4095671; 572244, 4095669; 572237, 4095669; 572233, 4095668; 572226, 4095667; 572219, 4095663; 572215, 4095662; 572201, 4095658; 572195, 4095659; 572173, 4095682; 572164, 4095706; 572161, 4095714; 572155, 4095718; 572151, 4095717; 572148, 4095715; 572145, 4095714; 572136, 4095698; 572130, 4095690; 572122, 4095686; 572111, 4095684; 572099, 4095693; 572097, 4095701; 572097, 4095704; 572096, 4095707; 572096, 4095708; 572099, 4095719; 572100, 4095722; 572102, 4095728; 572106, 4095731; 572108, 4095734; 572111, 4095739; 572113, 4095748; 572112, 4095754; 572112, 4095755; 572112, 4095757; 572109, 4095775; 572098, 4095803; 572089, 4095814; 572079, 4095831; 572048, 4095856; 572034, 4095861; 572031, 4095861; 572029, 4095863; 572020, 4095865; 572007, 4095867; 572005, 4095867; 572001, 4095867; 571996, 4095868; 571985, 4095869; 571983, 4095869; 571968, 4095869; 571957, 4095873; 571941, 4095884; 571939, 4095886; 571937, 4095890; 571934, 4095891; 571927, 4095897; 571903, 4095904; 571887, 4095906; 571884, 4095903; 571883, 4095904; 571881, 4095902; 571876, 4095900; 571874, 4095899; 571873, 4095897; 571864, 4095896; 571859, 4095899; 571856, 4095905; 571856, 4095911; 571859, 4095919; 571867, 4095964; 571868, 4095983; 571866, 4095994; 571868, 4096010; 571896, 4096026; 571948, 4096068; 572017, 4096086; 572023, 4096153; 572023, 4096208; 572016, 4096285; 572013, 4096334; 572032, 4096407; 572032, 4096459; 571990, 4096534; 572000, 4096609; 572023, 4096664; 572049, 4096765; 572062, 4096824; 572088, 4096879; 572065, 4096902; 571997, 4097039; 571980, 4097127; 571967, 4097225; 571971, 4097358; 571710, 4097362; 571558, 4097337; 571479, 4097342; 571427, 4097404; 571404, 4097482; 571381, 4097531; 571355, 4097557; 571313, 4097557; 571299, 4097508; 571313, 4097466; 571306, 4097391; 571286, 4097339; 571212, 4097283; 571097, 4097225; 571039, 4097202; 571003, 4097202; 570967, 4097228; 570931, 4097195; 570876, 4097134; 570837, 4097140; 570768, 4097225; 570866, 4097358; 570755, 4097417; 570654, 4097326; 570524, 4097463; 570439, 4097557; 570426, 4097479; 570413, 4097433; 570446, 4097394; 570508, 4097358; 570448, 4097118; 570434, 4097158; 570417, 4097197; 570406, 4097216; 570384, 4097242; 570380, 4097245; 570380, 4097245; 570380, 4097245; 570359, 4097262; 570354, 4097266; 570353, 4097266; 570346, 4097272; 570339, 4097276; 570334, 4097279; 570323, 4097291; 570316, 4097299; 570307, 4097311; 570290, 4097338; 570265, 4097371; 570229, 4097412; 570191, 4097450; 570171, 4097459; 570167, 4097461; 570166, 4097461; 570161, 4097464; 570130, 4097469; 570113, 4097476; 570096, 4097478; 570093, 4097478; 570078, 4097479; 570034, 4097491; 570024, 4097498; 570021, 4097500; 570005, 4097513; 569997, 4097516; 569987, 4097519; 569978, 4097522; 569970, 4097524; 569954, 4097530; 569938, 4097535; 569925, 4097542; 569914, 4097550; 569899, 4097560; 569885, 4097568; 569875, 4097574; 569865, 4097578; 569859, 4097582; 569859, 4097582; 569851, 4097589; 569840, 4097607; 569835, 4097621; 569818, 4097648; 569812, 4097665; 569809, 4097680; 569804, 4097720; 569797, 4097747; 569780, 4097781; 569719, 4097872; 569700, 4097892; 569698, 4097893; 569698, 4097893; 569698, 4097893; 569693, 4097895; 569687, 4097896; 569684, 4097897; 569682, 4097898; 569674, 4097901; 569669, 4097903; 569662, 4097906; 569654, 4097909; 569649, 4097909; 569645, 4097907; 569645, 4097907; 569644, 4097907; 569634, 4097904; 569549, 4097894; 569547, 4097894; 569546, 4097895; 569534, 4097899; 569531, 4097899; 569521, 4097905; 569511, 4097910; 569496, 4097915; 569485, 4097918; 569475, 4097920; 569455, 4097920; 569439, 4097932; 569436, 4097935; 569426, 4097941; 569425, 4097942; 569421, 4097945; 569416, 4097945; 569410, 4097947; 569366, 4097951; 569358, 4097953; 569353, 4097954; 569351, 4097955; 569346, 4097957; 569332, 4097958; 569320, 4097959; 569295, 4097957; 569286, 4097950; 569281, 4097944; 569278, 4097929; 569271, 4097904; 569266, 4097898; 569266, 4097898; 569264, 4097897; 569230, 4097908; 569228, 4097909; 569228, 4097909; 569226, 4097911; 569203, 4097922; 569173, 4097927; 569144, 4097926; 569143, 4097927; 569133, 4097927; 569124, 4097932; 569118, 4097942; 569114, 4097961; 569105, 4097973; 569088, 4098014; 569080, 4098041; 569078, 4098058; 569070, 4098078; 569059, 4098098; 569055, 4098115; 569043, 4098143; 569010, 4098185; 569009, 4098186; 569005, 4098192; 569003, 4098196; 568999, 4098202; 568998, 4098203; 568984, 4098222; 568964, 4098259; 568963, 4098262; 568963, 4098276; 568962, 4098290; 568961, 4098294; 568963, 4098316; 568949, 4098334; 568946, 4098347; 568952, 4098361; 568951, 4098366; 568939, 4098373; 568938, 4098374; 568937, 4098375; 568932, 4098377; 568923, 4098379; 568919, 4098381; 568907, 4098390; 568899, 4098399; 568899, 4098399; 568893, 4098408; 568886, 4098417; 568876, 4098429; 568863, 4098446; 568853, 4098458; 568838, 4098479; 568820, 4098500; 568810, 4098512; 568803, 4098527; 568796, 4098543; 568790, 4098570; 568788, 4098593; 568794, 4098661; 568792, 4098675; 568786, 4098685; 568773, 4098718; 568764, 4098737; 568747, 4098758; 568737, 4098783; 568734, 4098798; 568729, 4098803; 568723, 4098807; 568700, 4098816; 568684, 4098827; 568676, 4098836; 568672, 4098847; 568667, 4098873; 568656, 4098888; 568637, 4098933; 568633, 4098940; 568631, 4098947; 568622, 4098961; 568615, 4098976; 568624, 4098992; 568624, 4099005; 568624, 4099007; 568624, 4099018; 568622, 4099028; 568619, 4099037; 568613, 4099046; 568607, 4099056; 568606, 4099058; 568604, 4099064; 568596, 4099096; 568594, 4099116; 568581, 4099134; 568567, 4099166; 568554, 4099245; 568550, 4099248; 568548, 4099252; 568540, 4099258; 568528, 4099261; 568526, 4099279; 568531, 4099297; 568527, 4099349; 568513, 4099393; 568492, 4099444; 568475, 4099462; 568455, 4099473; 568450, 4099481; 568447, 4099492; 568447, 4099509; 568441, 4099526; 568424, 4099529; 568416, 4099536; 568424, 4099554; 568413, 4099563; 568405, 4099584; 568405, 4099590; 568409, 4099594; 568412, 4099593; 568420, 4099599; 568428, 4099620; 568426, 4099628; 568421, 4099636; 568410, 4099646; 568389, 4099662; 568384, 4099670; 568378, 4099698; 568370, 4099720; 568363, 4099730; 568339, 4099746; 568315, 4099767; 568298, 4099773; 568285, 4099786; 568284, 4099788; 568262, 4099804; 568261, 4099805; 568257, 4099808; 568247, 4099815; 568240, 4099819; 568234, 4099822; 568233, 4099825; 568222, 4099837; 568224, 4099842; 568222, 4099846; 568222, 4099846; 568222, 4099848; 568221, 4099849; 568220, 4099850; 568219, 4099851; 568218, 4099852; 568213, 4099855; 568205, 4099861; 568206, 4099869; 568204, 4099874; 568205, 4099874; 568205, 4099876; 568204, 4099880; 568200, 4099882; 568200, 4099882; 568200, 4099882; 568197, 4099884; 568192, 4099886; 568190, 4099886; 568188, 4099886; 568184, 4099885; 568178, 4099887; 568177, 4099889; 568180, 4099895; 568191, 4099904; 568194, 4099908; 568180, 4099931; 568161, 4099955; 568134, 4099996; 568119, 4100016; 568103, 4100030; 568101, 4100032; 568098, 4100034; 568083, 4100047; 568066, 4100070; 568041, 4100089; 568039, 4100090; 568034, 4100094; 568028, 4100099; 568005, 4100113; 568003, 4100115; 567984, 4100127; 567971, 4100137; 567954, 4100148; 567953, 4100149; 567929, 4100167; 567917, 4100180; 567890, 4100199; 567859, 4100234; 567845, 4100249; 567841, 4100253; 567839, 4100257; 567829, 4100277; 567826, 4100285; 567818, 4100299; 567813, 4100306; 567811, 4100312; 567787, 4100344; 567784, 4100362; 567784, 4100368; 567782, 4100376; 567758, 4100401; 567754, 4100409; 567750, 4100422; 567748, 4100424; 567748, 4100426; 567744, 4100433; 567740, 4100440; 567704, 4100472; 567692, 4100481; 567673, 4100498; 567624, 4100533; 567621, 4100536; 567596, 4100571; 567575, 4100605; 567553, 4100638; 567545, 4100653; 567538, 4100663; 567525, 4100676; 567511, 4100687; 567486, 4100701; 567468, 4100716; 567452, 4100733; 567443, 4100747; 567430, 4100760; 567421, 4100769; 567389, 4100791; 567388, 4100792; 567367, 4100815; 567350, 4100840; 567342, 4100854; 567318, 4100911; 567306, 4100936; 567277, 4100976; 567259, 4100994; 567240, 4101016; 567214, 4101043; 567211, 4101045; 567177, 4101086; 567168, 4101101; 567162, 4101113; 567143, 4101139; 567132, 4101147; 567106, 4101172; 567087, 4101186; 567070, 4101202; 567059, 4101216; 567044, 4101244; 567039, 4101259; 567005, 4101301; 566998, 4101319; 566973, 4101361; 566961, 4101377; 566950, 4101399; 566934, 4101417; 566920, 4101431; 566871, 4101470; 566841, 4101475; 566838, 4101476; 566811, 4101482; 566809, 4101482; 566765, 4101510; 566753, 4101510; 566720, 4101514; 566707, 4101519; 566700, 4101524; 566686, 4101540; 566657, 4101564; 566620, 4101573; 566612, 4101580; 566607, 4101588; 566601, 4101593; 566585, 4101619; 566585, 4101614; 566575, 4101629; 566571, 4101641; 566570, 4101643; 566570, 4101648; 566569, 4101656; 566566, 4101663; 566562, 4101671; 566560, 4101674; 566554, 4101690; 566547, 4101695; 566544, 4101699; 566537, 4101700; 566507, 4101717; 566500, 4101719; 566496, 4101722; 566486, 4101724; 566474, 4101727; 566464, 4101728; 566455, 4101733; 566449, 4101736; 566445, 4101739; 566422, 4101761; 566408, 4101778; 566406, 4101779; 566404, 4101782; 566397, 4101790; 566392, 4101793; 566384, 4101793; 566378, 4101794; 566370, 4101793; 566360, 4101791; 566354, 4101794; 566354, 4101796; 566352, 4101806; 566354, 4101826; 566360, 4101838; 566370, 4101850; 566386, 4101875; 566387, 4101896; 566379, 4101934; 566373, 4101953; 566379, 4101973; 566389, 4101983; 566391, 4101991; 566388, 4101993; 566388, 4101993; 566385, 4101996; 566379, 4102001; 566371, 4102007; 566353, 4102026; 566347, 4102037; 566339, 4102051; 566333, 4102062; 566329, 4102075; 566324, 4102092; 566318, 4102106; 566312, 4102140; 566302, 4102163; 566302, 4102163; 566301, 4102165; 566293, 4102184; 566275, 4102213; 566264, 4102224; 566254, 4102234; 566247, 4102241; 566238, 4102251; 566237, 4102253; 566235, 4102267; 566235, 4102268; 566234, 4102271; 566209, 4102286; 566200, 4102308; 566200, 4102310; 566193, 4102324; 566185, 4102336; 566159, 4102362; 566136, 4102401; 566127, 4102443; 566128, 4102454; 566128, 4102457; 566129, 4102486; 566127, 4102491; 566123, 4102493; 566121, 4102496; 566119, 4102499; 566120, 4102502; 566119, 4102508; 566119, 4102522; 566113, 4102544; 566116, 4102566; 566117, 4102573; 566118, 4102589; 566115, 4102595; 566110, 4102600; 566101, 4102608; 566099, 4102610; 566080, 4102628; 566073, 4102647; 566072, 4102662; 566065, 4102666; 566060, 4102669; 566057, 4102669; 566005, 4102693; 565999, 4102695; 565991, 4102697; 565984, 4102695; 565981, 4102691; 565979, 4102688; 565979, 4102682; 565979, 4102678; 565970, 4102674; 565965, 4102676; 565957, 4102674; 565956, 4102673; 565951, 4102671; 565941, 4102677; 565939, 4102679; 565938, 4102679; 565936, 4102680; 565930, 4102680; 565929, 4102676; 565929, 4102672; 565929, 4102668; 565930, 4102664; 565932, 4102660; 565933, 4102657; 565942, 4102642; 565946, 4102626; 565944, 4102624; 565942, 4102616; 565926, 4102618; 565918, 4102623; 565909, 4102639; 565908, 4102642; 565901, 4102666; 565900, 4102675; 565900, 4102683; 565904, 4102692; 565915, 4102709; 565931, 4102732; 565931, 4102745; 565928, 4102757; 565917, 4102783; 565912, 4102799; 565911, 4102806; 565912, 4102809; 565911, 4102816; 565908, 4102820; 565902, 4102824; 565899, 4102826; 565898, 4102828; 565894, 4102831; 565890, 4102839; 565886, 4102840; 565882, 4102840; 565876, 4102813; 565874, 4102811; 565874, 4102808; 565874, 4102808; 565871, 4102805; 565878, 4102798; 565886, 4102795; 565902, 4102779; 565906, 4102763; 565906, 4102750; 565902, 4102729; 565894, 4102718; 565892, 4102717; 565886, 4102716; 565870, 4102721; 565859, 4102734; 565857, 4102746; 565854, 4102758; 565849, 4102770; 565846, 4102783; 565842, 4102785; 565835, 4102786; 565830, 4102787; 565828, 4102790; 565825, 4102796; 565824, 4102798; 565822, 4102809; 565820, 4102817; 565814, 4102835; 565810, 4102849; 565806, 4102860; 565801, 4102878; 565805, 4102902; 565807, 4102903; 565812, 4102908; 565836, 4102913; 565841, 4102913; 565847, 4102915; 565848, 4102915; 565849, 4102920; 565846, 4102923; 565845, 4102924; 565831, 4102938; 565824, 4102952; 565829, 4102971; 565839, 4102982; 565844, 4102984; 565848, 4102989; 565850, 4102994; 565850, 4102995; 565851, 4102996; 565851, 4102998; 565851, 4103001; 565853, 4103010; 565853, 4103015; 565842, 4103042; 565839, 4103044; 565833, 4103041; 565832, 4103040; 565830, 4103039; 565807, 4103027; 565791, 4103033; 565775, 4103066; 565773, 4103076; 565772, 4103085; 565769, 4103107; 565769, 4103108; 565768, 4103117; 565769, 4103126; 565771, 4103136; 565771, 4103142; 565767, 4103147; 565764, 4103150; 565762, 4103152; 565753, 4103162; 565750, 4103168; 565745, 4103176; 565745, 4103184; 565745, 4103187; 565744, 4103196; 565738, 4103204; 565732, 4103205; 565728, 4103205; 565724, 4103204; 565720, 4103204; 565713, 4103203; 565695, 4103210; 565690, 4103209; 565684, 4103208; 565680, 4103206; 565678, 4103203; 565678, 4103203; 565671, 4103194; 565668, 4103192; 565666, 4103192; 565663, 4103190; 565659, 4103187; 565655, 4103186; 565651, 4103183; 565648, 4103179; 565645, 4103176; 565644, 4103171; 565627, 4103158; 565625, 4103159; 565622, 4103164; 565623, 4103180; 565623, 4103182; 565624, 4103194; 565614, 4103242; 565603, 4103252; 565591, 4103258; 565590, 4103259; 565587, 4103260; 565568, 4103270; 565547, 4103287; 565543, 4103296; 565541, 4103311; 565541, 4103312; 565544, 4103326; 565544, 4103335; 565550, 4103363; 565576, 4103424; 565577, 4103431; 565579, 4103434; 565578, 4103435; 565578, 4103439; 565576, 4103445; 565571, 4103445; 565568, 4103442; 565568, 4103442; 565564, 4103440; 565561, 4103439; 565559, 4103438; 565555, 4103436; 565548, 4103434; 565539, 4103436; 565535, 4103442; 565534, 4103447; 565529, 4103453; 565526, 4103459; 565517, 4103469; 565511, 4103477; 565501, 4103492; 565494, 4103504; 565487, 4103516; 565475, 4103536; 565465, 4103575; 565460, 4103590; 565456, 4103598; 565451, 4103609; 565450, 4103620; 565448, 4103629; 565446, 4103643; 565441, 4103657; 565436, 4103667; 565427, 4103686; 565422, 4103696; 565401, 4103720; 565389, 4103730; 565381, 4103736; 565365, 4103745; 565353, 4103752; 565318, 4103768; 565314, 4103770; 565301, 4103776; 565294, 4103779; 565279, 4103788; 565275, 4103791; 565258, 4103802; 565245, 4103809; 565238, 4103814; 565230, 4103820; 565216, 4103827; 565208, 4103830; 565199, 4103831; 565180, 4103829; 565169, 4103826; 565164, 4103825; 565157, 4103822; 565154, 4103820; 565136, 4103814; 565130, 4103810; 565126, 4103806; 565123, 4103800; 565122, 4103793; 565122, 4103790; 565121, 4103784; 565107, 4103754; 565103, 4103728; 565092, 4103706; 565087, 4103702; 565077, 4103703; 565075, 4103703; 565070, 4103708; 565069, 4103720; 565069, 4103722; 565068, 4103733; 565070, 4103747; 565071, 4103755; 565068, 4103765; 565068, 4103770; 565070, 4103777; 565091, 4103811; 565110, 4103827; 565118, 4103831; 565121, 4103834; 565129, 4103836; 565148, 4103856; 565155, 4103874; 565155, 4103875; 565155, 4103883; 565152, 4103884; 565152, 4103884; 565141, 4103893; 565128, 4103902; 565122, 4103908; 565098, 4103970; 565095, 4103992; 565096, 4104002; 565099, 4104016; 565101, 4104031; 565101, 4104047; 565100, 4104059; 565096, 4104075; 565091, 4104091; 565085, 4104103; 565081, 4104117; 565076, 4104139; 565074, 4104146; 565073, 4104147; 565069, 4104163; 565068, 4104169; 565064, 4104181; 565036, 4104234; 565035, 4104235; 565035, 4104235; 565007, 4104288; 564998, 4104340; 564998, 4104344; 564996, 4104360; 564994, 4104369; 564989, 4104377; 564984, 4104384; 564976, 4104393; 564975, 4104396; 564971, 4104405; 564970, 4104406; 564961, 4104428; 564931, 4104477; 564923, 4104490; 564922, 4104493; 564918, 4104499; 564917, 4104502; 564908, 4104519; 564903, 4104528; 564900, 4104535; 564892, 4104548; 564886, 4104556; 564885, 4104557; 564885, 4104558; 564872, 4104571; 564860, 4104575; 564858, 4104577; 564847, 4104581; 564829, 4104595; 564819, 4104598; 564812, 4104605; 564805, 4104611; 564793, 4104617; 564784, 4104620; 564783, 4104620; 564762, 4104630; 564760, 4104632; 564739, 4104658; 564725, 4104681; 564715, 4104689; 564715, 4104690; 564713, 4104690; 564711, 4104692; 564711, 4104692; 564706, 4104697; 564755, 4104729; 564812, 4104750; 564871, 4104756; 564896, 4104779; 564905, 4104832; 564872, 4104905; 564907, 4104943; 564936, 4104986; 564957, 4105035; 564970, 4105086; 564973, 4105138; 564967, 4105191; 564952, 4105241; 564929, 4105288; 564898, 4105330; 564859, 4105367; 564816, 4105396; 564767, 4105417; 564716, 4105429; 564664, 4105432; 564612, 4105426; 564561, 4105412; 564514, 4105388; 564472, 4105357; 564435, 4105319; 564406, 4105275; 564385, 4105227; 564383, 4105246; 564379, 4105266; 564376, 4105285; 564372, 4105298; 564369, 4105313; 564366, 4105326; 564364, 4105336; 564364, 4105343; 564364, 4105351; 564363, 4105361; 564360, 4105370; 564359, 4105383; 564355, 4105398; 564351, 4105414; 564349, 4105428; 564346, 4105449; 564341, 4105459; 564339, 4105470; 564341, 4105494; 564343, 4105498; 564343, 4105505; 564343, 4105518; 564342, 4105530; 564337, 4105546; 564329, 4105564; 564319, 4105580; 564311, 4105596; 564302, 4105608; 564289, 4105636; 564283, 4105642; 564282, 4105642; 564274, 4105654; 564264, 4105668; 564257, 4105673; 564254, 4105675; 564245, 4105685; 564219, 4105712; 564200, 4105728; 564180, 4105757; 564172, 4105782; 564171, 4105787; 564171, 4105803; 564173, 4105812; 564175, 4105824; 564179, 4105835; 564183, 4105847; 564188, 4105859; 564192, 4105869; 564193, 4105880; 564194, 4105893; 564196, 4105906; 564197, 4105923; 564198, 4105945; 564198, 4105955; 564198, 4105961; 564202, 4105968; 564207, 4105974; 564212, 4105980; 564217, 4105983; 564223, 4105987; 564232, 4105991; 564240, 4105995; 564249, 4106000; 564259, 4106005; 564270, 4106013; 564277, 4106019; 564277, 4106019; 564283, 4106023; 564290, 4106031; 564300, 4106039; 564304, 4106045; 564306, 4106056; 564308, 4106063; 564312, 4106073; 564311, 4106083; 564311, 4106089; 564310, 4106097; 564308, 4106101; 564305, 4106108; 564301, 4106116; 564300, 4106117; 564293, 4106124; 564287, 4106132; 564281, 4106140; 564277, 4106147; 564275, 4106160; 564275, 4106168; 564277, 4106173; 564282, 4106177; 564286, 4106180; 564296, 4106187; 564307, 4106192; 564317, 4106192; 564321, 4106189; 564325, 4106187; 564328, 4106184; 564340, 4106177; 564337, 4106192; 564330, 4106206; 564321, 4106218; 564315, 4106224; 564309, 4106221; 564306, 4106221; 564303, 4106218; 564300, 4106217; 564296, 4106216; 564289, 4106213; 564280, 4106204; 564275, 4106198; 564267, 4106189; 564263, 4106187; 564260, 4106182; 564256, 4106176; 564252, 4106164; 564248, 4106153; 564247, 4106144; 564249, 4106137; 564254, 4106126; 564259, 4106117; 564264, 4106108; 564272, 4106097; 564276, 4106090; 564279, 4106084; 564277, 4106076; 564277, 4106066; 564271, 4106057; 564262, 4106049; 564254, 4106041; 564242, 4106035; 564228, 4106027; 564214, 4106021; 564210, 4106019; 564206, 4106017; 564195, 4106012; 564188, 4106009; 564183, 4106004; 564179, 4105999; 564175, 4105994; 564174, 4105990; 564169, 4105984; 564166, 4105981; 564163, 4105967; 564163, 4105950; 564162, 4105933; 564163, 4105915; 564162, 4105904; 564161, 4105890; 564160, 4105875; 564156, 4105862; 564152, 4105849; 564148, 4105838; 564146, 4105830; 564141, 4105821; 564138, 4105815; 564137, 4105812; 564136, 4105813; 564125, 4105784; 564126, 4105770; 564141, 4105745; 564174, 4105706; 564186, 4105688; 564197, 4105678; 564201, 4105673; 564206, 4105667; 564209, 4105665; 564210, 4105664; 564222, 4105653; 564250, 4105612; 564278, 4105582; 564288, 4105564; 564297, 4105538; 564299, 4105531; 564300, 4105525; 564301, 4105514; 564304, 4105504; 564305, 4105498; 564305, 4105497; 564294, 4105412; 564294, 4105411; 564292, 4105406; 564288, 4105401; 564288, 4105400; 564284, 4105399; 564282, 4105399; 564273, 4105395; 564272, 4105395; 564247, 4105404; 564244, 4105406; 564232, 4105425; 564228, 4105435; 564227, 4105449; 564226, 4105482; 564215, 4105541; 564212, 4105552; 564210, 4105567; 564205, 4105578; 564198, 4105597; 564185, 4105611; 564184, 4105612; 564178, 4105619; 564173, 4105623; 564173, 4105624; 564143, 4105655; 564128, 4105665; 564124, 4105669; 564116, 4105674; 564113, 4105675; 564084, 4105697; 564049, 4105737; 564037, 4105744; 564036, 4105745; 564026, 4105757; 564016, 4105766; 564007, 4105775; 564007, 4105775; 563992, 4105790; 563988, 4105795; 563980, 4105802; 563970, 4105814; 563960, 4105829; 563953, 4105835; 563951, 4105837; 563943, 4105846; 563924, 4105872; 563922, 4105874; 563919, 4105880; 563909, 4105895; 563899, 4105910; 563886, 4105926; 563863, 4105952; 563814, 4106012; 563776, 4106063; 563678, 4106166; 563660, 4106188; 563648, 4106204; 563635, 4106228; 563603, 4106296; 563600, 4106305; 563597, 4106309; 563591, 4106323; 563564, 4106363; 563534, 4106413; 563528, 4106420; 563521, 4106429; 563517, 4106433; 563511, 4106442; 563486, 4106469; 563472, 4106480; 563438, 4106500; 563385, 4106535; 563368, 4106544; 563362, 4106549; 563359, 4106554; 563328, 4106608; 563321, 4106629; 563314, 4106639; 563308, 4106645; 563301, 4106653; 563301, 4106653; 563285, 4106671; 563269, 4106686; 563247, 4106699; 563245, 4106701; 563695, 4107069; 563765, 4107077; 564161, 4107123; returning to 564479, 4107160.

(ii) Note: Unit SCZ-1 is depicted on Map M13—Unit SNM-1B, SNM-1C, SNM-2A, SNM-2B, SNM-2C, and SCZ-1—which follows:

BILLING CODE 4310-55-P

BILLING CODE 4310-55-C

(27) Unit SCZ-2, Santa Cruz County, California.

(i) From USGS 1:24,000 scale quadrangle Watsonville West. Land bounded by the following UTM Zone 10, NAD27 coordinates (E,N): 607874, 4086411; 608553, 4085138; 608613, 4085025; 608701, 4084860; 608605, 4084937; 608520, 4084844; 608271, 4084560; 608298, 4084472; 608221, 4084334; 607164, 4083847; 606471, 4082967; 606324, 4083005; 606116, 4083463; 605956, 4083724; 605973, 4084135; 606148, 4084358; 606145, 4084654; 606041, 4084856; 605804, 4085090; 605626, 4085580; 605562, 4085868; 605307, 4086095; 604763, 4086054; 604698, 4086167; 604466, 4086226; 604132, 4086258; 603860, 4086466; 603822, 4086495; 603654, 4086692; 603520, 4086848; 603202, 4086973; 603148, 4086995; 603133, 4087000; 602711, 4087325; 602103, 4087771; 601519, 4088060; 601520, 4088063; 601554, 4088150; 601585, 4088193; 601585, 4088249; 601585, 4088326; 601585, 4088419; 601585, 4088453; 601570, 4088484; 601601, 4088515; 601669, 4088521; 601724, 4088539; 601777, 4088564; 601808, 4088598; 601867, 4088607; 601916, 4088620; 601959, 4088660; 602000, 4088703; 602037, 4088737; 602074, 4088759; 602052, 4088799; 602095, 4088833; 602058, 4088879; 602064, 4088910; 602117, 4088950; 602179, 4089043; 602395, 4089247; 602411, 4089309; 602380, 4089340; 602360, 4089344; 602512, 4089607; 603010, 4089239; 603336, 4088906; 603799, 4088685; 603846, 4088662; 604761, 4088286; 604808, 4088268; 605712, 4087917; 606286, 4087760; 607611, 4086748; returning to 607874, 4086411.

(ii) Note: Unit SCZ-2 is depicted on Map M14—Unit SCZ-2 and MNT—1 “ see paragraph (28)(ii):

(28) Unit MNT-1, Monterey County, California.

(i) From USGS 1:24,000 scale quadrangle Prunedale. Land bounded by the following UTM Zone 10, NAD27 coordinates (E,N): 612824, 4076812; 612877, 4076761; 612890, 4076766; 612903, 4076728; 612911, 4076703; 612928, 4076696; 612959, 4076682; 612987, 4076670; 613152, 4076598; 613238, 4076481; 613293, 4076409; 613380, 4076378; 613266, 4076375; 613142, 4076444; 613147, 4076371; 613064, 4076368; 613074, 4076297; 613154, 4076256; 613159, 4076254; 613275, 4076193; 613332, 4076148; 613345, 4076148; 613366, 4076130; 613376, 4076025; 613376, 4076023; 613374, 4076019; 613312, 4075926; 613276, 4075888; 613249, 4075818; 613384, 4075784; 613399, 4075779; 613416, 4075763; 613238, 4075690; 613219, 4075623; 613289, 4075559; 613321, 4075516; 613496, 4075230; 613600, 4075201; 613539, 4075128; 613180, 4074959; 613046, 4074939; 612571, 4074924; 612260, 4075009; 612080, 4075185; 612494, 4076734; 612505, 4076777; 612525, 4076880; 612544, 4077054; 612524, 4077188; 612513, 4077290; 612736, 4077486; 612970, 4077581; 613036, 4077496; 613035, 4077429; 613029, 4077412; 612994, 4077327; 612968, 4077174; 612871, 4076894; 612828, 4076846; returning to 612824, 4076812.

(ii) Note: Unit MNT-1 is depicted on Map M14—Unit SCZ-2 and MNT-1—which follows:

BILLING CODE 4310-55-P

BILLING CODE 4310-55-C

(29) Unit MNT-2, Monterey County, California.

(i) From USGS 1:24,000 scale quadrangle Seaside, Monterey, Spreckels, Soberanes Point, Mt. Carmel, Carmel Valley, Ventana Cones. Land bounded by the following UTM Zone 10, NAD27 coordinates (E,N): 599419, 4045578; 599642, 4045473; 600088, 4045563; 600547, 4045528; 600834, 4045542; 601407, 4045461; 601540, 4045385; 602032, 4045244; 602271, 4045215; 602387, 4044955; 602749, 4044863; 602995, 4044764; 603303, 4044544; 603443, 4044360; 603755, 4044455; 604112, 4044534; 604453, 4044544; 604716, 4044472; 605099, 4044296; 605406, 4044091; 605466, 4044057; 605685, 4044068; 605887, 4043958; 606225, 4043919; 606430, 4043827; 606596, 4043689; 607244, 4043808; 607797, 4043794; 608102, 4043643; 608466, 4043373; 608793, 4043110; 608866, 4042937; 609413, 4042802; 609830, 4042815; 610290, 4042597; 610740, 4042432; 611052, 4042219; 611573, 4041944; 611635, 4041678; 611814, 4041289; 612122, 4040953; 612726, 4040175; 613137, 4039874; 613321, 4039445; 613762, 4038586; 614228, 4038610; 614670, 4038326; 614985, 4038027; 615168, 4037755; 615292, 4037674; 615771, 4037572; 616123, 4037392; 616272, 4037092; 616407, 4036778; 616603, 4036556; 616880, 4036290; 616880, 4036040; 616880, 4035839; 616900, 4035678; 616940, 4035496; 616920, 4035275; 616779, 4034973; 616678, 4034771; 616638, 4034429; 616638, 4034268; 616678, 4034187; 616739, 4033986; 616839, 4033784; 616960, 4033603; 617162, 4033381; 617237, 4033276; 617246, 4032984; 617267, 4032792; 617217, 4032493; 616937, 4031904; 616886, 4031650; 616966, 4031474; 617061, 4031299; 617286, 4031246; 617732, 4031290; 618297, 4031323; 618628, 4031244; 618900, 4031119; 619110, 4031095; 619345, 4031207; 619626, 4031260; 620016, 4031198; 620351, 4030986; 620567, 4030755; 620815, 4030435; 621105, 4030221; 621393, 4030064; 621606, 4029952; 621892, 4029842; 622090, 4029729; 622246, 4029496; 622344, 4029232; 622413, 4028936; 622376, 4028207; 622161, 4027947; 621962, 4027644; 621503, 4027525; 621131, 4027514; 620983, 4027465; 620987, 4027346; 621098, 4027141; 621194, 4026936; 621202, 4026669; 621269, 4026418; 621514, 4026327; 621600, 4026176; 621677, 4026113; 621746, 4026056; 621850, 4025971; 621941, 4025789; 622033, 4025516; 622124, 4025265; 622146, 4025202; 622237, 4024946; 622237, 4024764; 622230, 4024686; 622228, 4024692; 622187, 4024699; 622038, 4024702; 621930, 4024745; 621801, 4024780; 621735, 4024778; 621666, 4024752; 621616, 4024716; 621575, 4024680; 621538, 4024643; 621500, 4024594; 621480, 4024549; 621477, 4024507; 621467, 4024475; 621430, 4024412; 621398, 4024323; 621342, 4024254; 621331, 4024225; 621321, 4024183; 621292, 4024148; 621229, 4024138; 621152, 4024137; 621108, 4024131; 621076, 4024116; 621046, 4024082; 620998, 4024015; 620980, 4023993; 620947, 4023973; 620877, 4023963; 620736, 4023960; 620588, 4023980; 620502, 4023978; 620406, 4023934; 620364, 4023918; 620321, 4023915; 620275, 4023926; 620218, 4023964; 620164, 4024005; 620122, 4024004; 620047, 4023963; 619993, 4023958; 619911, 4023956; 619767, 4023921; 619689, 4023918; 619657, 4023930; 619307, 4024350; 619165, 4024583; 619098, 4024819; 619106, 4025057; 618924, 4025155; 618744, 4025179; 618391, 4025020; 618124, 4024982; 617656, 4025175; 617215, 4025429; 616877, 4025775; 616783, 4026176; 616760, 4026271; 616765, 4026584; 616901, 4027004; 617157, 4027413; 617525, 4027574; 617802, 4027746; 618044, 4028110; 618213, 4028428; 618251, 4028652; 618171, 4028813; 617963, 4028806; 617414, 4028715; 616590, 4028838; 616581, 4028842; 616182, 4029033; 615937, 4029218; 615531, 4029325; 615457, 4029389; 615347, 4029482; 615199, 4029924; 614909, 4030138; 614637, 4030263; 614425, 4030360; 614332, 4030476; 614306, 4030755; 614317, 4030765; 614392, 4030804; 614408, 4030827; 614433, 4030895; 614480, 4030967; 614533, 4031007; 614595, 4031041; 614652, 4031078; 614709, 4031125; 614774, 4031193; 614873, 4031323; 614893, 4031381; 614901, 4031435; 614900, 4031484; 614883, 4031562; 614884, 4031633; 614897, 4031686; 614923, 4031757; 614937, 4031826; 614942, 4031878; 614938, 4032234; 614961, 4032280; 614996, 4032300; 615039, 4032311; 615086, 4032332; 615122, 4032361; 615206, 4032487; 615264, 4032552; 615267, 4032573; 615261, 4032631; 615272, 4032674; 615285, 4032710; 615289, 4032743; 615285, 4032772; 615263, 4032820; 615218, 4032880; 615149, 4032948; 615060, 4033024; 614984, 4033076; 614905, 4033104; 614830, 4033116; 614732, 4033114; 614693, 4033126; 614633, 4033162; 614575, 4033180; 614515, 4033193; 614452, 4033195; 614341, 4033186; 614284, 4033196; 614224, 4033223; 614179, 4033228; 614134, 4033229; 613899, 4033293; 613824, 4033295; 613776, 4033290; 613732, 4033292; 613684, 4033307; 613634, 4033310; 613579, 4033290; 613530, 4033264; 613481, 4033250; 613427, 4033252; 613368, 4033244; 613322, 4033233; 613272, 4033235; 613175, 4033277; 613128, 4033308; 613100, 4033358; 613062, 4033390; 613023, 4033413; 612975, 4033457; 612943, 4033471; 612906, 4033455; 612865, 4033427; 612793, 4033332; 612757, 4033306; 612684, 4033293; 612519, 4033230; 612483, 4033186; 612451, 4033048; 612421, 4032982; 612384, 4032912; 612354, 4032867; 612322, 4032837; 612140, 4032756; 612081, 4032745; 612015, 4032742; 611968, 4032748; 611944, 4032761; 611814, 4032778; 611709, 4032826; 611610, 4032878; 611571, 4032883; 611525, 4032882; 611483, 4032893; 611455, 4032931; 611421, 4033000; 611376, 4033035; 611335, 4033057; 611294, 4033068; 611237, 4033075; 611205, 4033073; 611161, 4033081; 611124, 4033112; 611046, 4033189; 610979, 4033234; 610945, 4033314; 610940, 4033350; 610911, 4033403; 610891, 4033450; 610882, 4033497; 610865, 4033564; 610841, 4033616; 610726, 4033785; 610709, 4033844; 610671, 4033935; 610626, 4033952; 610516, 4033968; 610454, 4033982; 610407, 4034002; 610356, 4034034; 610326, 4034058; 610272, 4034081; 610221, 4034065; 610158, 4034061; 609995, 4034101; 609875, 4034163; 609783, 4034220; 609755, 4034255; 609628, 4034367; 609581, 4034395; 609534, 4034409; 609490, 4034427; 609467, 4034431; 609443, 4034357; 609421, 4034331; 609391, 4034316; 609345, 4034319; 609269, 4034336; 609210, 4034337; 609155, 4034327; 609094, 4034287; 609060, 4034230; 608984, 4034052; 608941, 4033993; 608906, 4033971; 608853, 4033952; 608772, 4033927; 608704, 4033901; 608648, 4033866; 608609, 4033832; 608584, 4033799; 608584, 4033727; 608619, 4033635; 608642, 4033543; 608654, 4033451; 608648, 4033376; 608626, 4033325; 608521, 4033168; 608481, 4033092; 608463, 4033044; 608456, 4033012; 608463, 4032978; 608473, 4032966; 608511, 4032942; 608568, 4032883; 608591, 4032855; 608619, 4032790; 608628, 4032758; 608627, 4032724; 608617, 4032694; 608610, 4032657; 608621, 4032604; 608673, 4032458; 608670, 4032435; 608574, 4032415; 608508, 4032406; 608442, 4032410; 608390, 4032418; 608344, 4032432; 608290, 4032458; 608154, 4032536; 608086, 4032560; 607967, 4032584; 607917, 4032599; 607823, 4032643; 607772, 4032658; 607715, 4032670; 607662, 4032677; 607501, 4032689; 607467, 4032689; 607304, 4032922; 606920, 4033267; 606778, 4033515; 606786, 4033738; 606791, 4034066; 606720, 4034435; 606579, 4034653; 606274, 4034867; 605944, 4034916; 605616, 4034921; 605314, 4035060; 605025, 4035229; 604950, 4035256; 604715, 4035130; 604498, 4034915; 604201, 4034891; 603867, 4035074; 603365, 4035385; 603037, 4035880; 602964, 4036294; 603128, 4036775; 603074, 4037070; 602457, 4037705; 602039, 4038212; 601793, 4038442; 601367, 4038793; 601033, 4038991; 600744, 4039190; 600261, 4039383; 599942, 4039551; 599666, 4039810; 599380, 4039875; 598979, 4039833; 598735, 4040019; 598653, 4040239; 598525, 4040532; 598311, 4040704; 598039, 4040814; 597701, 4040900; 597698, 4040905; 597671, 4040936; 597447, 4041202; 597386, 4041278; 597253, 4041444; 596744, 4041800; 596508, 4042061; 596428, 4042137; 596256, 4042297; 596274, 4042358; 596287, 4042405; 596159, 4042443; 596128, 4042500; 596122, 4042511; 596102, 4042492; 596089, 4042479; 596077, 4042468; 596054, 4042445; 596036, 4042428; 596028, 4042421; 596020, 4042425; 595916, 4042481; 595920, 4042482; 595921, 4042482; 595921, 4042483; 595939, 4042488; 595946, 4042492; 595951, 4042494; 595956, 4042497; 595961, 4042500; 595968, 4042504; 595969, 4042505; 595975, 4042509; 595979, 4042513; 595982, 4042516; 595991, 4042526; 595992, 4042526; 595994, 4042528; 596000, 4042533; 596004, 4042537; 596004, 4042538; 596004, 4042538; 596011, 4042546; 596011, 4042546; 596016, 4042551; 596018, 4042553; 596035, 4042571; 596036, 4042571; 596040, 4042576; 596045, 4042581; 596125, 4042675; 596135, 4042689; 596138, 4042692; 596142, 4042697; 596144, 4042702; 596148, 4042708; 596149, 4042709; 596153, 4042714; 596157, 4042721; 596159, 4042723; 596160, 4042725; 596164, 4042730; 596168, 4042737; 596197, 4042793; 596199, 4042802; 596200, 4042803; 596201, 4042808; 596204, 4042817; 596206, 4042824; 596207, 4042832; 596208, 4042837; 596210, 4042843; 596212, 4042854; 596214, 4042864; 596225, 4042892; 596225, 4042898; 596224, 4042903; 596224, 4042907; 596222, 4042912; 596220, 4042916; 596210, 4042927; 596202, 4042932; 596201, 4042934; 596200, 4042934; 596185, 4042943; 596183, 4042952; 596185, 4042954; 596193, 4042954; 596199, 4042955; 596202, 4042954; 596203, 4042952; 596206, 4042953; 596208, 4042953; 596208, 4042956; 596208, 4042957; 596208, 4042961; 596206, 4042966; 596204, 4042968; 596202, 4042972; 596200, 4042975; 596197, 4042979; 596192, 4042984; 596191, 4042987; 596190, 4042988; 596186, 4042999; 596183, 4043001; 596182, 4043001; 596175, 4043004; 596173, 4043008; 596171, 4043011; 596173, 4043022; 596174, 4043023; 596174, 4043027; 596174, 4043030; 596174, 4043034; 596173, 4043038; 596170, 4043041; 596167, 4043042; 596165, 4043044; 596161, 4043045; 596161, 4043046; 596128, 4043047; 596128, 4043047; 596124, 4043049; 596123, 4043049; 596114, 4043053; 596111, 4043058; 596111, 4043059; 596112, 4043060; 596112, 4043061; 596117, 4043072; 596123, 4043074; 596126, 4043078; 596127, 4043079; 596129, 4043081; 596131, 4043084; 596133, 4043088; 596133, 4043091; 596134, 4043095; 596133, 4043100; 596131, 4043102; 596130, 4043104; 596128, 4043107; 596123, 4043113; 596122, 4043113; 596122, 4043116; 596122, 4043118; 596121, 4043122; 596120, 4043123; 596122, 4043126; 596121, 4043130; 596122, 4043136; 596125, 4043139; 596125, 4043140; 596135, 4043154; 596137, 4043160; 596139, 4043164; 596141, 4043168; 596142, 4043172; 596151, 4043226; 596151, 4043227; 596151, 4043229; 596153, 4043238; 596152, 4043246; 596153, 4043256; 596153, 4043263; 596152, 4043269; 596151, 4043272; 596150, 4043278; 596148, 4043284; 596148, 4043285; 596145, 4043299; 596145, 4043305; 596143, 4043308; 596139, 4043326; 596131, 4043344; 596130, 4043348; 596128, 4043355; 596124, 4043360; 596121, 4043368; 596117, 4043375; 596113, 4043382; 596101, 4043399; 596100, 4043400; 596096, 4043407; 596057, 4043434; 596055, 4043436; 596049, 4043449; 596045, 4043464; 596046, 4043470; 596047, 4043473; 596052, 4043508; 596051, 4043513; 596051, 4043515; 596050, 4043519; 596049, 4043520; 596048, 4043526; 596048, 4043526; 596046, 4043531; 596045, 4043535; 596043, 4043539; 596041, 4043542; 596036, 4043554; 596032, 4043560; 596028, 4043567; 596024, 4043572; 596019, 4043577; 596005, 4043597; 596003, 4043600; 596001, 4043604; 596001, 4043607; 596001, 4043611; 596000, 4043619; 596000, 4043622; 595999, 4043631; 595997, 4043637; 595997, 4043641; 595994, 4043647; 595992, 4043653; 595989, 4043659; 595986, 4043664; 595982, 4043672; 595977, 4043678; 595971, 4043685; 595966, 4043689; 595956, 4043705; 595948, 4043760; 595948, 4043762; 595947, 4043765; 595946, 4043775; 595944, 4043781; 595942, 4043790; 595940, 4043797; 595936, 4043802; 595934, 4043808; 595933, 4043810; 595929, 4043822; 595929, 4043822; 595929, 4043823; 595922, 4043841; 595925, 4043895; 595925, 4043895; 595925, 4043901; 595925, 4043902; 595923, 4043950; 595914, 4043934; 595913, 4043935; 595908, 4043932; 595907, 4043942; 595909, 4043960; 595910, 4043960; 595911, 4043963; 595913, 4043969; 595914, 4043980; 595914, 4043991; 595914, 4043993; 595914, 4043997; 595914, 4044004; 595914, 4044010; 595913, 4044017; 595897, 4044072; 595896, 4044075; 595893, 4044082; 595890, 4044090; 595887, 4044094; 595884, 4044098; 595884, 4044099; 595877, 4044112; 595876, 4044113; 595874, 4044116; 595872, 4044121; 595869, 4044128; 595865, 4044133; 595863, 4044139; 595859, 4044144; 595856, 4044151; 595852, 4044156; 595848, 4044164; 595844, 4044173; 595842, 4044177; 595838, 4044184; 595838, 4044184; 595829, 4044202; 595829, 4044202; 595826, 4044211; 595822, 4044217; 595819, 4044224; 595815, 4044231; 595809, 4044244; 595804, 4044252; 595834, 4044275; 595854, 4044290; 595922, 4044342; 595923, 4044346; 595931, 4044362; 595936, 4044373; 595980, 4044472; 596174, 4044498; 596187, 4044503; 596204, 4044510; 596238, 4044523; 596304, 4044550; 596421, 4044562; 596538, 4044562; 596641, 4044556; 596693, 4044517; 596764, 4044472; 596939, 4044381; 597056, 4044284; 597111, 4044265; 597123, 4044196; 597141, 4044179; 597165, 4044160; 597184, 4044146; 597207, 4044128; 597221, 4044117; 597242, 4044101; 597284, 4044069; 597289, 4044066; 597339, 4044033; 597351, 4044025; 597359, 4044038; 597416, 4043994; 597410, 4043985; 597425, 4043975; 597441, 4043964; 597458, 4043955; 597485, 4043944; 597500, 4043937; 597560, 4043911; 597594, 4043888; 597625, 4043868; 597641, 4043868; 597661, 4043870; 597704, 4043872; 597759, 4043898; 597777, 4043905; 597857, 4043934; 597876, 4043938; 597961, 4043957; 598026, 4043970; 598145, 4043994; 598235, 4044012; 598317, 4044015; 598316, 4044030; 598411, 4044014; 598533, 4044001; 598771, 4043986; 598941, 4044075; 598999, 4044154; 599109, 4044228; 599192, 4044263; 599288, 4044269; 599364, 4044256; 599429, 4044352; 599492, 4044450; 599412, 4044472; 599377, 4044586; 599400, 4044703; 599179, 4044751; 598784, 4044876; 598904, 4045023; 598904, 4045172; 598871, 4045269; 598777, 4045395; 598955, 4045478; 599154, 4045565; returning to 599419, 4045578.

(ii) Note: Unit MNT-2 (Map M15) follows:

BILLING CODE 4310-55-P

BILLING CODE 4310-55-C

(30) Unit STC-1A, Santa Clara County, California.

(i) From USGS 1:24,000 scale quadrangle Calaveras Reservoir, Mt. Day, San Jose East, Lick Observatory, Isabel Valley, Mt. Sizer. Land bounded by the following UTM Zone 10, NAD27 coordinates (E,N): 612237, 4141991; 612243, 4141962; 612237, 4141935; 612234, 4141846; 612223, 4141800; 612206, 4141761; 612198, 4141726; 612196, 4141684; 612203, 4141589; 612105, 4141470; 612088, 4141439; 612049, 4141338; 612041, 4141311; 612049, 4141279; 612049, 4141259; 612039, 4141239; 612012, 4141215; 612001, 4141198; 611960, 4141119; 611901, 4140979; 611893, 4140940; 611891, 4140910; 611898, 4140868; 611909, 4140842; 611926, 4140815; 611960, 4140734; 611966, 4140710; 611969, 4140675; 611969, 4140650; 611960, 4140583; 611942, 4140491; 611944, 4140344; 611956, 4140251; 611944, 4140135; 611962, 4140096; 611973, 4140089; 611991, 4140087; 612052, 4140065; 612114, 4139997; 612139, 4139952; 612152, 4139946; 612174, 4139945; 612211, 4139951; 612236, 4139960; 612275, 4139957; 612312, 4139924; 612334, 4139915; 612386, 4139946; 612405, 4139963; 612434, 4139974; 612459, 4139974; 612476, 4139954; 612507, 4139882; 612529, 4139869; 612554, 4139865; 612564, 4139856; 612607, 4139791; 612630, 4139772; 612662, 4139758; 612695, 4139756; 612770, 4139789; 612795, 4139794; 612857, 4139767; 612932, 4139704; 613168, 4139551; 613203, 4139561; 613274, 4139569; 613305, 4139560; 613362, 4139524; 613392, 4139510; 613479, 4139502; 613498, 4139495; 613529, 4139481; 613570, 4139450; 613586, 4139411; 613580, 4139341; 613566, 4139282; 613566, 4139244; 613577, 4139227; 613648, 4139142; 613666, 4139098; 613659, 4139061; 613620, 4138991; 613611, 4138948; 613604, 4138751; 613600, 4138696; 613591, 4138643; 613597, 4138608; 613617, 4138584; 613632, 4138556; 613642, 4138530; 613645, 4138499; 613637, 4138428; 613613, 4138333; 613607, 4138296; 613605, 4138264; 613610, 4138221; 613625, 4138154; 613657, 4138074; 613685, 4138016; 613708, 4137981; 613730, 4137961; 613783, 4137935; 613803, 4137917; 614063, 4137873; 614116, 4138008; 614140, 4138041; 614190, 4138077; 614216, 4138103; 614249, 4138124; 614278, 4138135; 614319, 4138132; 614354, 4138114; 614366, 4138085; 614371, 4138020; 614382, 4137991; 614416, 4137957; 614460, 4137920; 614480, 4137895; 614504, 4137865; 614553, 4137838; 614622, 4137846; 614650, 4137844; 614692, 4137830; 614819, 4137772; 614894, 4137745; 614933, 4137736; 614981, 4137741; 614978, 4137705; 614951, 4137541; 614963, 4137477; 614975, 4137453; 615035, 4137405; 615053, 4137385; 615068, 4137360; 615093, 4137294; 615128, 4137251; 615187, 4137120; 615267, 4137053; 615352, 4136992; 615424, 4136923; 615463, 4136868; 615536, 4136826; 615572, 4136776; 615594, 4136714; 615623, 4136654; 615694, 4136571; 615761, 4136550; 615784, 4136549; 615811, 4136523; 615823, 4136452; 615785, 4136384; 615764, 4136335; 615785, 4136186; 615801, 4136138; 615793, 4136111; 615810, 4136000; 615822, 4135962; 615856, 4135934; 615914, 4135902; 615928, 4135865; 615917, 4135783; 615903, 4135713; 615900, 4135635; 615908, 4135596; 615894, 4135524; 615898, 4135500; 615887, 4135372; 615866, 4135303; 615873, 4135230; 615925, 4135163; 615957, 4135094; 615962, 4135046; 615983, 4134972; 616005, 4134867; 616031, 4134809; 616043, 4134763; 616080, 4134655; 616129, 4134571; 616156, 4134516; 616213, 4134501; 616247, 4134483; 616318, 4134420; 616360, 4134378; 616398, 4134299; 616422, 4134237; 616464, 4134099; 616481, 4134033; 616499, 4133914; 616515, 4133842; 616550, 4133783; 616580, 4133750; 616617, 4133716; 616638, 4133676; 616670, 4133559; 616666, 4133470; 616660, 4133423; 616644, 4133379; 616641, 4133213; 616652, 4133124; 616668, 4133048; 616681, 4133034; 616729, 4132973; 616752, 4132900; 616761, 4132859; 616792, 4132797; 616798, 4132770; 616831, 4132713; 616852, 4132690; 616869, 4132537; 616862, 4132476; 616860, 4132411; 616865, 4132379; 616859, 4132347; 616866, 4132313; 616882, 4132282; 616881, 4132256; 616899, 4132226; 616909, 4132176; 616934, 4132114; 616973, 4132054; 617007, 4132022; 617051, 4131999; 617114, 4131990; 617144, 4131970; 617158, 4131944; 617172, 4131872; 617152, 4131822; 617143, 4131780; 617178, 4131687; 617272, 4131598; 617302, 4131573; 617433, 4131534; 617509, 4131533; 617591, 4131501; 617635, 4131459; 617641, 4131426; 617667, 4131382; 617668, 4131336; 617692, 4131243; 617726, 4131179; 617760, 4131146; 617782, 4131153; 617807, 4131177; 617843, 4131199; 617872, 4131197; 617902, 4131176; 617956, 4131148; 618059, 4131081; 618104, 4131021; 618145, 4130995; 618171, 4130994; 618209, 4131004; 618281, 4131037; 618294, 4131037; 618323, 4131026; 618360, 4131017; 618415, 4131016; 618511, 4131004; 618626, 4131023; 618664, 4131037; 618693, 4131033; 618705, 4131019; 618729, 4130991; 618735, 4130970; 618729, 4130940; 618626, 4130753; 618624, 4130736; 618668, 4130675; 618718, 4130655; 618787, 4130644; 618841, 4130662; 618878, 4130668; 619015, 4130511; 618992, 4130482; 618946, 4130439; 618910, 4130424; 618895, 4130412; 618880, 4130393; 618867, 4130369; 618867, 4130338; 618871, 4130263; 618881, 4130248; 618888, 4130237; 618902, 4130207; 618907, 4130175; 618950, 4130089; 618965, 4130041; 618967, 4130013; 618958, 4129967; 618965, 4129916; 618999, 4129874; 619022, 4129838; 619030, 4129817; 619031, 4129801; 619048, 4129808; 619058, 4129793; 619100, 4129784; 619135, 4129762; 619176, 4129763; 619233, 4129773; 619298, 4129777; 619364, 4129761; 619421, 4129753; 619501, 4129726; 619548, 4129734; 619591, 4129713; 619659, 4129738; 619710, 4129764; 619742, 4129776; 619773, 4129795; 619800, 4129796; 619819, 4129775; 619824, 4129621; 619832, 4129611; 619862, 4129597; 619925, 4129584; 619956, 4129555; 619976, 4129526; 619986, 4129446; 619997, 4129403; 619994, 4129332; 620030, 4129313; 620075, 4129282; 620131, 4129288; 620163, 4129300; 620309, 4129199; 620342, 4129194; 620451, 4129228; 620492, 4129260; 620516, 4129291; 620583, 4129325; 620631, 4129392; 620674, 4129418; 620734, 4129474; 620754, 4129529; 620788, 4129595; 620811, 4129690; 620830, 4129720; 620871, 4129653; 620889, 4129590; 620907, 4129499; 620939, 4129424; 620969, 4129299; 621012, 4129199; 621037, 4129152; 621072, 4129096; 621167, 4129040; 621239, 4129035; 621408, 4129012; 621462, 4129008; 621485, 4128960; 621481, 4128934; 621443, 4128844; 621435, 4128789; 621418, 4128717; 621419, 4128672; 621427, 4128650; 621442, 4128590; 621449, 4128541; 621497, 4128456; 621515, 4128408; 621530, 4128267; 621538, 4128139; 621545, 4128096; 621532, 4127971; 621521, 4127932; 621794, 4127721; 621824, 4127708; 621834, 4127660; 621825, 4127609; 621904, 4127423; 622072, 4127349; 622104, 4127311; 622113, 4127288; 622112, 4127201; 621905, 4127191; 621835, 4127185; 621763, 4127170; 621723, 4127166; 621691, 4127088; 621690, 4127045; 621699, 4126992; 621697, 4126941; 621650, 4126898; 621561, 4126886; 621489, 4126890; 621435, 4126877; 621355, 4126773; 621349, 4126750; 621352, 4126717; 621399, 4126659; 621438, 4126589; 621480, 4126534; 621515, 4126447; 621560, 4126366; 621611, 4126292; 621694, 4126247; 621701, 4126238; 621738, 4126169; 621758, 4126104; 621780, 4126070; 621817, 4126034; 621915, 4125991; 622028, 4125979; 622044, 4125972; 622113, 4125901; 622137, 4125891; 622192, 4125876; 622227, 4125872; 622273, 4125880; 622335, 4125904; 622370, 4125910; 622438, 4125887; 622483, 4125863; 622527, 4125851; 622637, 4125889; 622683, 4125916; 622744, 4125886; 622774, 4125841; 622789, 4125787; 622816, 4125749; 622879, 4125744; 622945, 4125721; 622965, 4125680; 622982, 4125621; 623016, 4125567; 623067, 4125509; 623116, 4125426; 623143, 4125375; 623173, 4125332; 623178, 4125297; 623161, 4125264; 623145, 4125105; 623189, 4125063; 623239, 4125034; 623289, 4125017; 623362, 4125015; 623411, 4124996; 623444, 4124960; 623545, 4124924; 623583, 4124895; 623593, 4124887; 623637, 4124823; 623692, 4124722; 623735, 4124686; 623792, 4124627; 623802, 4124609; 623820, 4124576; 623818, 4124513; 623806, 4124457; 623755, 4124391; 623724, 4124333; 623693, 4124235; 623669, 4124202; 623659, 4124148; 623633, 4124088; 623587, 4124075; 623550, 4124041; 623526, 4123983; 623512, 4123929; 623490, 4123875; 623464, 4123813; 623432, 4123749; 623408, 4123682; 623412, 4123609; 623427, 4123505; 623411, 4123461; 623350, 4123421; 623285, 4123387; 623256, 4123366; 623182, 4123353; 623160, 4123340; 623145, 4123276; 623127, 4123235; 623075, 4123214; 622990, 4123202; 622837, 4123283; 622789, 4123298; 622741, 4123300; 622579, 4123276; 622529, 4123280; 622479, 4123293; 622411, 4123318; 622365, 4123331; 622251, 4123347; 622193, 4123337; 622088, 4123268; 622036, 4123258; 621997, 4123271; 621973, 4123326; 621937, 4123426; 621856, 4123497; 621838, 4123549; 621815, 4123569; 621767, 4123639; 621693, 4123807; 621663, 4123853; 621617, 4123846; 621579, 4123850; 621531, 4123870; 621460, 4123929; 621372, 4123994; 621317, 4124020; 621243, 4124061; 621179, 4124107; 621103, 4124167; 620991, 4124263; 620929, 4124287; 620889, 4124311; 620754, 4124367; 620614, 4124448; 620564, 4124438; 620520, 4124452; 620432, 4124502; 620349, 4124534; 620237, 4124589; 620200, 4124592; 620117, 4124576; 620061, 4124546; 619984, 4124521; 619933, 4124499; 619866, 4124446; 619736, 4124419; 619688, 4124402; 619585, 4124436; 619455, 4124488; 619377, 4124528; 619283, 4124541; 619228, 4124505; 619171, 4124405; 619139, 4124305; 619114, 4124264; 619083, 4124199; 619051, 4124147; 619043, 4124102; 619042, 4124072; 619113, 4124032; 619140, 4123999; 619167, 4123973; 619207, 4123923; 619253, 4123856; 619264, 4123833; 619274, 4123794; 619272, 4123773; 619253, 4123768; 619243, 4123774; 619204, 4123784; 619150, 4123772; 619115, 4123772; 619080, 4123784; 619035, 4123817; 618944, 4123821; 618931, 4123804; 618892, 4123781; 618812, 4123769; 618586, 4123638; 618610, 4123581; 618594, 4123516; 618565, 4123505; 618547, 4123490; 618516, 4123482; 618458, 4123468; 618405, 4123458; 618368, 4123456; 618348, 4123519; 618319, 4123551; 618269, 4123703; 618263, 4123739; 618252, 4123774; 618192, 4123814; 618096, 4123869; 618082, 4123920; 618057, 4123975; 618012, 4124017; 617911, 4124099; 617770, 4124233; 617722, 4124261; 617662, 4124304; 617600, 4124356; 617565, 4124391; 617502, 4124461; 617485, 4124487; 617475, 4124523; 617445, 4124567; 617409, 4124558; 617340, 4124510; 617308, 4124495; 617250, 4124480; 617148, 4124548; 617015, 4124595; 616966, 4124623; 616905, 4124644; 616839, 4124657; 616808, 4124656; 616751, 4124670; 616630, 4124759; 616508, 4124892; 616480, 4124914; 616375, 4124944; 616302, 4124977; 616267, 4125022; 616240, 4125083; 616210, 4125133; 616211, 4125160; 616254, 4125158; 616289, 4125209; 616294, 4125249; 616263, 4125318; 616210, 4125341; 616122, 4125357; 616030, 4125399; 615978, 4125432; 615879, 4125522; 615837, 4125552; 615780, 4125599; 615771, 4125652; 615751, 4125708; 615724, 4125723; 615666, 4125725; 615488, 4125660; 615362, 4125663; 615295, 4125687; 615224, 4125744; 615161, 4125776; 615038, 4125867; 614866, 4125945; 614905, 4126019; 614911, 4126099; 614889, 4126150; 614846, 4126233; 614740, 4126415; 614708, 4126481; 614684, 4126506; 614698, 4126579; 614752, 4126650; 614773, 4126702; 614779, 4126731; 614799, 4126785; 614793, 4126940; 614794, 4126981; 614809, 4127047; 614798, 4127098; 614689, 4127150; 614657, 4127186; 614649, 4127223; 614650, 4127279; 614631, 4127335; 614628, 4127446; 614652, 4127526; 614662, 4127620; 614644, 4127666; 614621, 4127708; 614594, 4127767; 614585, 4127828; 614587, 4127879; 614606, 4127910; 614658, 4128059; 614642, 4128130; 614592, 4128142; 614568, 4128138; 614542, 4128151; 614494, 4128201; 614464, 4128227; 614439, 4128276; 614391, 4128346; 614307, 4128427; 614257, 4128488; 614203, 4128535; 614191, 4128589; 614189, 4128617; 614228, 4128658; 614287, 4128701; 614299, 4128722; 614313, 4128775; 614311, 4128891; 614295, 4128959; 614275, 4128989; 614225, 4129047; 614367, 4129352; 614319, 4129391; 614314, 4129395; 614250, 4129435; 614227, 4129453; 614202, 4129472; 614175, 4129502; 614106, 4129473; 613960, 4129640; 613942, 4129667; 613805, 4129718; 613778, 4129741; 613739, 4129766; 613722, 4129785; 613684, 4129890; 613654, 4129933; 613619, 4130005; 613576, 4130060; 613545, 4130082; 613498, 4130094; 613472, 4130071; 613441, 4130080; 613455, 4130192; 613472, 4130273; 613486, 4130394; 613510, 4130513; 613508, 4130556; 613508, 4130573; 613485, 4130628; 613463, 4130673; 613438, 4130708; 613415, 4130748; 613389, 4130813; 613395, 4130848; 613391, 4130890; 613398, 4130924; 613381, 4131021; 613356, 4131067; 613353, 4131101; 613344, 4131136; 613311, 4131183; 613227, 4131288; 613201, 4131332; 613157, 4131377; 613127, 4131424; 613084, 4131480; 613020, 4131548; 612886, 4131629; 612798, 4131727; 612753, 4131802; 612715, 4131842; 612661, 4132003; 612621, 4132064; 612557, 4132133; 612516, 4132160; 612442, 4132196; 612438, 4132200; 612382, 4132247; 612358, 4132261; 612289, 4132357; 612278, 4132385; 612269, 4132422; 612272, 4132455; 612277, 4132508; 612270, 4132555; 612270, 4132591; 612259, 4132633; 612094, 4132727; 612067, 4132743; 612023, 4132744; 611994, 4132736; 611936, 4132767; 611912, 4132787; 611910, 4132812; 611915, 4132847; 611946, 4132924; 611931, 4132970; 611824, 4133110; 611826, 4133139; 611829, 4133186; 611813, 4133282; 611802, 4133324; 611781, 4133357; 611757, 4133387; 611734, 4133426; 611666, 4133462; 611656, 4133464; 611644, 4133473; 611635, 4133479; 611655, 4133578; 611655, 4133620; 611651, 4133650; 611652, 4133689; 611647, 4133759; 611623, 4133842; 611613, 4133851; 611596, 4133879; 611582, 4133876; 611540, 4133907; 611522, 4133915; 611509, 4133949; 611485, 4134037; 611488, 4134072; 611509, 4134193; 611509, 4134223; 611493, 4134315; 611451, 4134418; 611434, 4134451; 611388, 4134536; 611342, 4134597; 611290, 4134595; 611245, 4134607; 611207, 4134601; 611161, 4134610; 611144, 4134642; 611144, 4134677; 611121, 4134719; 611062, 4134721; 611029, 4134728; 610969, 4134719; 610906, 4134733; 610817, 4134748; 610792, 4134764; 610777, 4134766; 610758, 4134781; 610728, 4134837; 610722, 4134868; 610743, 4134916; 610744, 4134941; 610731, 4134969; 610687, 4134988; 610669, 4134988; 610580, 4135011; 610564, 4135011; 610531, 4135034; 610515, 4135034; 610451, 4135071; 610426, 4135080; 610398, 4135112; 610393, 4135151; 610382, 4135171; 610368, 4135185; 610356, 4135221; 610327, 4135249; 610308, 4135256; 610288, 4135275; 610273, 4135284; 610270, 4135295; 610256, 4135311; 610243, 4135353; 610240, 4135381; 610221, 4135425; 610215, 4135454; 610203, 4135473; 610191, 4135518; 610177, 4135545; 610167, 4135581; 610154, 4135609; 610146, 4135640; 610122, 4135692; 610090, 4135752; 610072, 4135802; 610050, 4135835; 610042, 4135853; 609999, 4135894; 609954, 4135926; 609929, 4135939; 609890, 4135956; 609850, 4135965; 609824, 4135963; 609787, 4135971; 609729, 4136000; 609720, 4136013; 609697, 4136025; 609664, 4136049; 609621, 4136062; 609588, 4136084; 609559, 4136113; 609508, 4136147; 609474, 4136175; 609454, 4136215; 609326, 4136386; 609300, 4136426; 609270, 4136458; 609248, 4136492; 609221, 4136573; 609180, 4136657; 609170, 4136702; 609125, 4136827; 609113, 4136872; 609099, 4136887; 609041, 4136975; 609025, 4136993; 608996, 4137011; 608967, 4137022; 608942, 4137039; 608928, 4137055; 608834, 4137248; 608816, 4137274; 608806, 4137314; 608802, 4137410; 608787, 4137441; 608732, 4137488; 608705, 4137522; 608638, 4137595; 608622, 4137618; 608590, 4137690; 608560, 4137733; 608537, 4137760; 608491, 4137793; 608444, 4137816; 608378, 4137829; 608346, 4137829; 608310, 4137849; 608278, 4137882; 608232, 4137916; 608182, 4137930; 607999, 4137919; 607927, 4137910; 607779, 4137907; 607718, 4137912; 607640, 4137931; 607593, 4137951; 607551, 4137975; 607480, 4138024; 607413, 4138082; 607396, 4138105; 607379, 4138136; 607367, 4138186; 607351, 4138218; 607314, 4138254; 607210, 4138322; 607198, 4138341; 607185, 4138370; 607174, 4138408; 607165, 4138470; 607157, 4138501; 607121, 4138551; 607091, 4138579; 606846, 4138652; 606770, 4138622; 606737, 4138613; 606681, 4138605; 606642, 4138602; 606515, 4138613; 606357, 4138606; 606269, 4138579; 606119, 4138544; 606040, 4138540; 606025, 4138608; 606042, 4138642; 606046, 4138683; 606041, 4138748; 606045, 4138787; 606064, 4138806; 606102, 4138827; 606098, 4138947; 605923, 4138995; 605932, 4139155; 605656, 4139054; 605571, 4139043; 605517, 4139012; 605426, 4138980; 605303, 4138970; 605234, 4138972; 605121, 4139012; 605059, 4138971; 604967, 4139015; 604898, 4139035; 604783, 4139056; 604711, 4139085; 604638, 4139103; 604595, 4139136; 604536, 4139162; 604471, 4139194; 604396, 4139169; 604343, 4139170; 604302, 4139246; 604183, 4139305; 604159, 4139363; 604133, 4139467; 604133, 4139538; 604133, 4139623; 604188, 4139694; 604252, 4139749; 604289, 4139803; 604367, 4139882; 604382, 4140096; 604429, 4140118; 604574, 4140118; 604608, 4140376; 604679, 4140461; 604783, 4140578; 604789, 4140721; 604952, 4140889; 605055, 4141023; 605070, 4141018; 605226, 4141041; 605280, 4141039; 605362, 4141025; 605415, 4141020; 605506, 4141020; 605536, 4141023; 605613, 4141044; 605648, 4141059; 605686, 4141080; 605707, 4141097; 605764, 4141137; 605993, 4141092; 606016, 4141057; 606071, 4140988; 606111, 4140968; 606145, 4140955; 606186, 4140951; 606274, 4140961; 606317, 4140970; 606347, 4140979; 606444, 4141018; 606545, 4141045; 606643, 4141096; 606686, 4141124; 606708, 4141163; 606783, 4141352; 606832, 4141464; 606877, 4141509; 606919, 4141572; 606956, 4141617; 606985, 4141659; 607036, 4141696; 607076, 4141722; 607175, 4141745; 607213, 4141750; 607278, 4141737; 607382, 4141703; 607491, 4141681; 607541, 4141680; 607578, 4141697; 607612, 4141707; 607686, 4141711; 607716, 4141716; 607785, 4141734; 607807, 4141743; 607851, 4141770; 607925, 4141830; 607956, 4141848; 608014, 4141870; 608137, 4142008; 608159, 4142049; 608199, 4142141; 608206, 4142202; 608199, 4142248; 608199, 4142276; 608208, 4142313; 608255, 4142428; 608270, 4142477; 608290, 4142573; 608291, 4142604; 608300, 4142611; 608335, 4142617; 608361, 4142613; 608411, 4142613; 608452, 4142617; 608539, 4142635; 608587, 4142636; 608623, 4142635; 608649, 4142630; 608679, 4142620; 608715, 4142602; 608741, 4142579; 608779, 4142518; 608815, 4142474; 608828, 4142448; 608839, 4142409; 608848, 4142388; 608884, 4142355; 608926, 4142330; 608996, 4142296; 609040, 4142248; 609083, 4142211; 609113, 4142203; 609150, 4142207; 609237, 4142227; 609263, 4142227; 609302, 4142219; 609313, 4142207; 609312, 4142038; 609329, 4141976; 609357, 4141939; 609375, 4141928; 609481, 4141877; 609511, 4141864; 609532, 4141860; 609564, 4141864; 609743, 4141951; 609764, 4142030; 609797, 4142102; 609816, 4142140; 609834, 4142162; 609851, 4142170; 609878, 4142170; 609906, 4142162; 609979, 4142131; 610012, 4142113; 610066, 4142044; 610088, 4142027; 610107, 4142024; 610143, 4142029; 610166, 4142036; 610194, 4142032; 610212, 4142024; 610249, 4141999; 610277, 4141986; 610315, 4141978; 610359, 4141976; 610415, 4141989; 610443, 4142001; 610495, 4142034; 610588, 4142061; 610614, 4142075; 610645, 4142100; 610676, 4142133; 610738, 4142232; 610751, 4142259; 610764, 4142289; 610772, 4142381; 610778, 4142407; 610789, 4142438; 610954, 4142645; 610999, 4142707; 611044, 4142749; 611117, 4142825; 611151, 4142845; 611197, 4142864; 611236, 4142876; 611333, 4142884; 611372, 4142893; 611399, 4142913; 611408, 4142925; 611431, 4142908; 611459, 4142899; 611670, 4142668; 611689, 4142634; 611748, 4142603; 611774, 4142582; 611809, 4142526; 611832, 4142504; 611882, 4142467; 611984, 4142405; 612012, 4142381; 612040, 4142329; 612053, 4142191; 612059, 4142174; 612108, 4142163; 612136, 4142137; 612173, 4142083; 612228, 4142014; returning to 612237, 4141991.

(ii) Note: Unit STC-1A (Map M16) follows:

BILLING CODE 4310-55-P

BILLING CODE 4310-55-C

(31) Unit STC-1B, Santa Clara County, California.

(i) From USGS 1:24,000 scale quadrangle Mt. Sizer, Mississippi Creek, Mustang Peak, Gilroy Hot Springs. Land bounded by the following UTM Zone 10, NAD27 coordinates (E,N): 640334, 4116041; 640398, 4116014; 640468, 4115985; 640581, 4116005; 640713, 4116030; 640873, 4116030; 640881, 4115999; 640911, 4115919; 640943, 4115878; 640955, 4115867; 640973, 4115829; 640976, 4115812; 640971, 4115771; 640953, 4115732; 640934, 4115675; 640911, 4115637; 640882, 4115607; 640828, 4115569; 640721, 4115558; 640691, 4115548; 640682, 4115529; 640679, 4115486; 640687, 4115423; 640706, 4115377; 640717, 4115363; 640753, 4115339; 640778, 4115334; 640799, 4115321; 640826, 4115312; 640879, 4115281; 640899, 4115264; 640939, 4115263; 640961, 4115273; 640991, 4115276; 641051, 4115208; 641103, 4115169; 641134, 4115131; 641157, 4115115; 641202, 4115056; 641210, 4115035; 641201, 4115007; 641192, 4114991; 641175, 4114905; 641181, 4114821; 641186, 4114636; 641196, 4114556; 641213, 4114469; 641213, 4114443; 641206, 4114426; 641206, 4114410; 641211, 4114393; 641225, 4114368; 641227, 4114354; 641235, 4114334; 641251, 4114323; 641260, 4114310; 641261, 4114297; 641252, 4114272; 641246, 4114266; 641246, 4114243; 641251, 4114214; 641264, 4114203; 641280, 4114166; 641279, 4114115; 641289, 4114082; 641288, 4114071; 641273, 4114035; 641272, 4114014; 641304, 4113933; 641363, 4113868; 641367, 4113852; 641411, 4113778; 641416, 4113763; 641420, 4113726; 641428, 4113685; 641435, 4113665; 641447, 4113651; 641464, 4113641; 641478, 4113639; 641506, 4113630; 641523, 4113629; 641550, 4113620; 641567, 4113607; 641613, 4113581; 641697, 4113571; 641768, 4113543; 641786, 4113527; 641792, 4113502; 641810, 4113470; 641837, 4113393; 641839, 4113356; 641850, 4113291; 641848, 4113272; 641854, 4113228; 641868, 4113197; 641881, 4113143; 641885, 4113114; 641895, 4113090; 641910, 4113071; 641945, 4113048; 641975, 4113017; 642017, 4112959; 642037, 4112962; 642057, 4112974; 642068, 4112985; 642104, 4113008; 642144, 4113019; 642198, 4113018; 642221, 4113013; 642239, 4112998; 642270, 4112959; 642301, 4112946; 642348, 4112915; 642361, 4112899; 642375, 4112888; 642397, 4112815; 642416, 4112803; 642485, 4112780; 642514, 4112768; 642534, 4112755; 642575, 4112747; 642598, 4112752; 642622, 4112762; 642634, 4112778; 642645, 4112801; 642655, 4112883; 642661, 4112913; 642667, 4112927; 642681, 4112941; 642703, 4112973; 642733, 4113029; 642755, 4113040; 642801, 4113038; 642819, 4113042; 642838, 4113050; 642853, 4113062; 642873, 4113068; 642896, 4113082; 642919, 4113086; 642943, 4113096; 642976, 4113097; 643031, 4113115; 643077, 4113146; 643116, 4113180; 643141, 4113191; 643172, 4113191; 643198, 4113178; 643223, 4113174; 643245, 4113161; 643268, 4113156; 643310, 4113139; 643355, 4113119; 643386, 4113084; 643405, 4113083; 643412, 4113089; 643449, 4113091; 643491, 4113067; 643543, 4113007; 643593, 4112987; 643642, 4112989; 643697, 4112975; 643762, 4112948; 643815, 4112913; 643874, 4112881; 643918, 4112849; 643930, 4112809; 643965, 4112745; 644079, 4112662; 644113, 4112648; 644147, 4112627; 644169, 4112589; 644188, 4112521; 644223, 4112489; 644271, 4112436; 644332, 4112379; 644381, 4112340; 644528, 4112265; 644587, 4112221; 644625, 4112180; 644660, 4112061; 644666, 4112009; 644687, 4111982; 644727, 4111953; 644755, 4111924; 644763, 4111888; 644743, 4111856; 644715, 4111818; 644707, 4111793; 644720, 4111748; 644759, 4111705; 644787, 4111666; 644857, 4111497; 644868, 4111373; 644837, 4111338; 644797, 4111311; 644752, 4111224; 644714, 4111185; 644672, 4111134; 644618, 4111095; 644549, 4111104; 644498, 4111093; 644462, 4111093; 644383, 4111129; 644343, 4111136; 644303, 4111137; 644271, 4111109; 644256, 4111059; 644233, 4111017; 644211, 4111001; 644196, 4110979; 644146, 4110947; 644057, 4110879; 644020, 4110840; 644022, 4110683; 644026, 4110652; 644046, 4110574; 644040, 4110520; 644022, 4110474; 644024, 4110430; 644039, 4110388; 644086, 4110304; 644093, 4110256; 644058, 4110179; 644023, 4110131; 643975, 4110053; 643951, 4109988; 643893, 4109864; 643875, 4109808; 643844, 4109750; 643839, 4109727; 643848, 4109673; 643847, 4109601; 643838, 4109578; 643801, 4109533; 643760, 4109495; 643657, 4109420; 643619, 4109396; 643597, 4109387; 643577, 4109397; 643486, 4109473; 643419, 4109519; 643351, 4109543; 643327, 4109547; 643309, 4109542; 643293, 4109526; 643290, 4109500; 643294, 4109439; 643290, 4109392; 643269, 4109327; 643240, 4109184; 643233, 4109074; 643234, 4109049; 643238, 4109025; 643261, 4108987; 643268, 4108958; 643249, 4108940; 643232, 4108934; 643202, 4108930; 643149, 4108930; 643093, 4108917; 643047, 4108898; 643031, 4108885; 643015, 4108863; 643000, 4108832; 642945, 4108801; 642919, 4108781; 642868, 4108730; 642820, 4108699; 642770, 4108680; 642726, 4108655; 642705, 4108632; 642687, 4108599; 642675, 4108567; 642566, 4108337; 642526, 4108288; 642510, 4108280; 642462, 4108268; 642433, 4108268; 642405, 4108275; 642364, 4108307; 642313, 4108361; 642265, 4108402; 642229, 4108418; 642170, 4108423; 642132, 4108420; 642104, 4108414; 642059, 4108401; 642038, 4108391; 641979, 4108354; 641928, 4108342; 641897, 4108343; 641866, 4108352; 641836, 4108383; 641806, 4108510; 641755, 4108656; 641739, 4108731; 641716, 4108780; 641671, 4108847; 641613, 4109028; 641544, 4109156; 641491, 4109218; 641463, 4109229; 641384, 4109250; 641358, 4109261; 641280, 4109307; 641218, 4109330; 641226, 4109302; 641218, 4109271; 641193, 4109224; 641152, 4109104; 641125, 4109057; 641091, 4109018; 641027, 4108951; 640836, 4108781; 640795, 4108740; 640693, 4108616; 640678, 4108579; 640675, 4108535; 640680, 4108492; 640682, 4108445; 640641, 4108356; 640621, 4108277; 640627, 4108185; 640622, 4108068; 640602, 4108030; 640586, 4108016; 640554, 4108007; 640520, 4108001; 640472, 4108009; 640449, 4108006; 640419, 4107993; 640381, 4107983; 640392, 4107929; 640423, 4107855; 640587, 4107620; 640613, 4107601; 640810, 4107502; 640832, 4107485; 640860, 4107459; 640882, 4107429; 640919, 4107366; 640929, 4107336; 640932, 4107271; 640919, 4107156; 640924, 4107100; 640945, 4106995; 640928, 4106917; 640928, 4106886; 640935, 4106858; 640957, 4106829; 640999, 4106796; 641030, 4106755; 641039, 4106730; 641037, 4106704; 641003, 4106599; 640977, 4106547; 640966, 4106513; 640955, 4106456; 640955, 4106434; 640961, 4106402; 640970, 4106376; 640986, 4106349; 641016, 4106318; 641056, 4106294; 641069, 4106290; 641107, 4106265; 641204, 4106018; 641181, 4105941; 641176, 4105902; 641178, 4105869; 641191, 4105822; 641225, 4105758; 641243, 4105733; 641310, 4105624; 641342, 4105558; 641360, 4105532; 641383, 4105514; 641446, 4105494; 641537, 4105477; 641578, 4105461; 641609, 4105444; 641645, 4105405; 641663, 4105378; 641691, 4105310; 641707, 4105282; 641740, 4105241; 641761, 4105222; 641825, 4105180; 641908, 4105138; 641966, 4105105; 642028, 4105083; 642126, 4105080; 642168, 4105071; 642292, 4105028; 642494, 4105004; 642515, 4104998; 642544, 4104978; 642566, 4104955; 642589, 4104899; 642610, 4104828; 642631, 4104771; 642647, 4104725; 642657, 4104684; 642661, 4104647; 642661, 4104602; 642651, 4104531; 642653, 4104495; 642659, 4104471; 642709, 4104376; 642729, 4104320; 642733, 4104258; 642742, 4104186; 642779, 4104122; 642832, 4104054; 642900, 4103983; 642907, 4103962; 642860, 4103876; 642827, 4103806; 642676, 4103566; 642670, 4103545; 642675, 4103527; 642690, 4103506; 642727, 4103474; 642747, 4103451; 642762, 4103426; 642773, 4103404; 642790, 4103327; 642810, 4103270; 642834, 4103214; 642847, 4103127; 642850, 4103009; 642857, 4102986; 642887, 4102821; 642902, 4102799; 642949, 4102776; 642977, 4102767; 643009, 4102765; 643040, 4102757; 643077, 4102755; 643208, 4102765; 643243, 4102759; 643382, 4102724; 643531, 4102673; 643566, 4102665; 643686, 4102626; 643745, 4102596; 643785, 4102560; 643788, 4102555; 643806, 4102531; 643809, 4102505; 643798, 4102471; 643791, 4102425; 643799, 4102391; 643825, 4102358; 643852, 4102339; 643918, 4102305; 644041, 4102268; 644067, 4102251; 644092, 4102220; 644111, 4102187; 644160, 4102072; 644199, 4101997; 644230, 4101921; 644236, 4101896; 644236, 4101868; 644231, 4101835; 644215, 4101787; 644213, 4101758; 644224, 4101731; 644266, 4101662; 644273, 4101635; 644274, 4101612; 644281, 4101578; 644289, 4101555; 644314, 4101501; 644320, 4101481; 644257, 4101490; 644061, 4101488; 643910, 4101506; 643849, 4101518; 643798, 4101517; 643765, 4101507; 643717, 4101485; 643656, 4101448; 643628, 4101426; 643607, 4101399; 643581, 4101414; 643565, 4101429; 643493, 4101530; 643458, 4101543; 643426, 4101543; 643360, 4101530; 643117, 4101578; 643056, 4101585; 643005, 4101586; 642915, 4101568; 642823, 4101543; 642793, 4101546; 642750, 4101557; 642704, 4101573; 642643, 4101589; 642578, 4101610; 642537, 4101612; 642373, 4101511; 642343, 4101478; 642319, 4101448; 642304, 4101420; 642241, 4101297; 642221, 4101242; 642200, 4101203; 642184, 4101196; 642129, 4101202; 642099, 4101234; 642050, 4101306; 641999, 4101349; 641905, 4101418; 641883, 4101441; 641850, 4101493; 641780, 4101573; 641738, 4101636; 641700, 4101679; 641676, 4101690; 641611, 4101688; 641438, 4101647; 641226, 4101469; 641200, 4101440; 641122, 4101399; 641078, 4101383; 640978, 4101355; 640887, 4101320; 640801, 4101278; 640727, 4101236; 640680, 4101198; 640610, 4101122; 640535, 4101036; 640481, 4100989; 640421, 4100955; 640387, 4100948; 640313, 4100942; 640284, 4100937; 640250, 4100926; 640211, 4100901; 640163, 4100860; 640116, 4100838; 640086, 4100831; 640024, 4100826; 639926, 4100791; 639833, 4100785; 639776, 4100774; 639705, 4100749; 639647, 4100715; 639625, 4100702; 639597, 4100694; 639538, 4100683; 639515, 4100692; 639501, 4100702; 639455, 4100757; 639418, 4100796; 639316, 4100849; 639305, 4100855; 639270, 4100876; 639216, 4100902; 639192, 4100907; 639170, 4100919; 639113, 4100988; 639063, 4101036; 639044, 4101048; 638993, 4101070; 638938, 4101079; 638840, 4101075; 638793, 4101060; 638772, 4101063; 638766, 4101090; 638767, 4101134; 638772, 4101177; 638768, 4101217; 638757, 4101232; 638684, 4101308; 638654, 4101344; 638638, 4101393; 638610, 4101535; 638595, 4101575; 638530, 4101622; 638458, 4101642; 638430, 4101653; 638380, 4101683; 638343, 4101710; 638308, 4101741; 638261, 4101795; 638206, 4101850; 638166, 4101868; 638151, 4101879; 638123, 4101925; 638101, 4101954; 637978, 4101984; 637798, 4102121; 637790, 4102159; 637777, 4102178; 637693, 4102230; 637659, 4102267; 637622, 4102339; 637589, 4102389; 637569, 4102412; 637543, 4102435; 637484, 4102473; 637455, 4102503; 637421, 4102552; 637393, 4102637; 637324, 4102661; 637216, 4102716; 637116, 4102754; 637080, 4102782; 637051, 4102821; 637041, 4102841; 637015, 4102905; 637004, 4102956; 636993, 4103031; 636982, 4103052; 636934, 4103111; 636872, 4103201; 636787, 4103296; 636743, 4103341; 636693, 4103414; 636655, 4103448; 636642, 4103468; 636582, 4103543; 636541, 4103585; 636500, 4103641; 636482, 4103675; 636450, 4103751; 636390, 4103954; 636377, 4103966; 636353, 4103977; 636245, 4104018; 636203, 4104048; 636189, 4104067; 636150, 4104150; 636133, 4104225; 636134, 4104258; 636140, 4104302; 636141, 4104307; 636165, 4104388; 636169, 4104413; 636155, 4104428; 636097, 4104477; 636025, 4104551; 635958, 4104641; 635673, 4104835; 635546, 4104892; 635515, 4104900; 635432, 4104905; 635411, 4104912; 635312, 4104993; 635205, 4105056; 635120, 4105099; 635036, 4105158; 634969, 4105189; 634954, 4105208; 634917, 4105304; 634874, 4105449; 634870, 4105471; 634847, 4105513; 634851, 4105537; 634845, 4105579; 634858, 4105676; 634863, 4105804; 634854, 4105877; 634821, 4105981; 634754, 4106159; 634743, 4106211; 634727, 4106258; 634682, 4106362; 634671, 4106406; 634680, 4106478; 634676, 4106507; 634634, 4106612; 634631, 4106682; 634619, 4106758; 634610, 4106791; 634545, 4106967; 634526, 4106992; 634448, 4107075; 634433, 4107103; 634429, 4107140; 634431, 4107162; 634436, 4107205; 634435, 4107228; 634422, 4107257; 634243, 4107470; 634128, 4107581; 634117, 4107606; 634104, 4107651; 634104, 4107683; 634126, 4107746; 634179, 4107824; 634190, 4107855; 634197, 4107911; 634210, 4107962; 634218, 4107977; 634240, 4107989; 634290, 4108005; 634314, 4108020; 634332, 4108042; 634253, 4108384; 634236, 4108400; 634175, 4108408; 634098, 4108394; 634039, 4108400; 634020, 4108405; 634007, 4108409; 633919, 4108467; 633835, 4108507; 633766, 4108574; 633693, 4108632; 633667, 4108657; 633626, 4108742; 633597, 4108793; 633573, 4108820; 633573, 4108821; 633532, 4108852; 633501, 4108854; 633480, 4108846; 633465, 4108838; 633463, 4108863; 633471, 4108968; 633634, 4109297; 633640, 4109327; 633640, 4109358; 633632, 4109385; 633545, 4109573; 633528, 4109624; 633519, 4109683; 633498, 4109743; 633482, 4109754; 633411, 4109899; 633329, 4109866; 633293, 4109864; 633222, 4109873; 633200, 4109883; 633151, 4109887; 633122, 4109901; 633010, 4109979; 632961, 4109997; 632855, 4109976; 632812, 4110022; 632770, 4110090; 632554, 4110175; 632484, 4110171; 632441, 4110165; 632413, 4110161; 632302, 4110225; 632245, 4110282; 632126, 4110349; 632084, 4110384; 632070, 4110425; 632075, 4110466; 632049, 4110539; 632034, 4110596; 631992, 4110644; 631944, 4110709; 631937, 4110789; 631923, 4110836; 631864, 4110831; 631817, 4110910; 631756, 4110996; 631685, 4111053; 631639, 4111074; 631593, 4111102; 631476, 4111189; 631442, 4111239; 631422, 4111296; 631429, 4111343; 631428, 4111394; 631443, 4111465; 631408, 4111617; 631378, 4111651; 631326, 4111700; 631280, 4111757; 631248, 4111811; 631205, 4111873; 631149, 4111914; 631101, 4111955; 631036, 4111975; 631035, 4111976; 630940, 4112053; 630877, 4112090; 630787, 4112128; 630676, 4112129; 630646, 4112268; 630478, 4112409; 630410, 4112522; 630381, 4112586; 630345, 4112607; 630311, 4112621; 630282, 4112658; 630266, 4112721; 630277, 4112779; 630298, 4112840; 630329, 4112914; 630369, 4112931; 630505, 4112945; 630566, 4112981; 630619, 4113026; 630674, 4113052; 630725, 4113088; 630742, 4113150; 630764, 4113203; 630786, 4113245; 630871, 4113316; 630910, 4113370; 630961, 4113401; 631023, 4113342; 631038, 4113316; 631067, 4113266; 631193, 4113214; 631243, 4113161; 631280, 4113114; 631340, 4113097; 631427, 4113078; 631547, 4113040; 631555, 4113040; 631709, 4113028; 631772, 4113015; 631842, 4113011; 631870, 4113005; 631897, 4113018; 631930, 4113052; 632029, 4113074; 632069, 4113047; 632106, 4113015; 632150, 4112987; 632167, 4112973; 632229, 4112962; 632275, 4112972; 632331, 4112989; 632388, 4112995; 632443, 4113009; 632501, 4113041; 632649, 4113050; 632687, 4113061; 632716, 4113091; 632743, 4113131; 632758, 4113181; 632770, 4113247; 632784, 4113361; 632763, 4113396; 632718, 4113414; 632671, 4113465; 632658, 4113499; 632671, 4113559; 632716, 4113661; 632705, 4113696; 632696, 4113752; 632709, 4113789; 632757, 4113864; 632786, 4113929; 632776, 4114036; 632722, 4114177; 632723, 4114254; 632728, 4114292; 632762, 4114402; 632783, 4114471; 632801, 4114497; 632873, 4114542; 632905, 4114597; 632931, 4114650; 633042, 4114730; 633144, 4114773; 633198, 4114787; 633254, 4114793; 633401, 4114781; 633431, 4114767; 633510, 4114766; 633576, 4114746; 633754, 4114652; 633818, 4114662; 633876, 4114664; 633909, 4114677; 634003, 4114765; 634054, 4114796; 634095, 4114804; 634132, 4114806; 634188, 4114779; 634235, 4114720; 634263, 4114658; 634278, 4114595; 634270, 4114504; 634255, 4114449; 634306, 4114411; 634390, 4114392; 634437, 4114369; 634507, 4114355; 634576, 4114361; 634636, 4114392; 634704, 4114453; 634748, 4114485; 634851, 4114591; 634886, 4114614; 634917, 4114667; 634931, 4114738; 634951, 4114809; 634940, 4114871; 634763, 4115102; 634745, 4115132; 634745, 4115197; 634782, 4115259; 634807, 4115267; 634945, 4115206; 635102, 4115168; 635142, 4115151; 635230, 4115138; 635305, 4115147; 635366, 4115167; 635429, 4115171; 635453, 4115182; 635509, 4115219; 635588, 4115244; 635745, 4115232; 635818, 4115255; 635869, 4115247; 635980, 4115162; 636049, 4115136; 636116, 4115133; 636173, 4115155; 636208, 4115162; 636255, 4115165; 636390, 4115114; 636505, 4115102; 636568, 4115081; 636604, 4115052; 636657, 4115026; 636692, 4115034; 636726, 4115047; 636769, 4115047; 636807, 4115089; 636860, 4115118; 636903, 4115133; 636949, 4115181; 636985, 4115204; 637037, 4115230; 637083, 4115221; 637208, 4115156; 637256, 4115137; 637313, 4115123; 637370, 4115130; 637479, 4115191; 637546, 4115265; 637574, 4115310; 637589, 4115377; 637583, 4115501; 637617, 4115559; 637631, 4115611; 637646, 4115732; 637670, 4115765; 637686, 4115775; 637709, 4115811; 637741, 4115837; 637753, 4115890; 637715, 4116065; 637729, 4116086; 637935, 4116086; 638347, 4116044; 638481, 4116030; 638659, 4116041; 638838, 4116075; 638964, 4116182; 639048, 4116231; 639202, 4116293; 639295, 4116331; 639452, 4116421; 639575, 4116443; 639865, 4116443; 639999, 4116443; 640064, 4116480; 640200, 4116398; 640255, 4116331; 640306, 4116199; 640334, 4116130; returning to 640334, 4116041.

(ii) Note: Unit STC-1B is depicted on Map M17—Unit STC-1B and MER-1—see paragraph (32)(ii):

(32) Unit MER-1, Santa Clara, Merced County, California.

(i) From USGS 1:24,000 scale quadrangle Pacheco Pass. Land bounded by the following UTM Zone 10, NAD27 coordinates (E,N): 661847, 4106966; 662047, 4106856; 662258, 4106725; 662489, 4106605; 662730, 4106534; 662870, 4106524; 663111, 4106524; 663352, 4106524; 663540, 4106524; 663573, 4106524; 663814, 4106484; 664085, 4106364; 664344, 4106286; 664333, 4106246; 664319, 4106211; 664299, 4106202; 664281, 4106209; 664244, 4106232; 664210, 4106245; 664192, 4106211; 664183, 4106203; 664166, 4106195; 664145, 4106206; 664117, 4106188; 664110, 4106148; 664058, 4106097; 664045, 4106065; 664028, 4106043; 664013, 4106035; 663964, 4106025; 663946, 4106026; 663931, 4106037; 663925, 4106053; 663916, 4106100; 663903, 4106104; 663830, 4106102; 663813, 4106108; 663807, 4106123; 663829, 4106167; 663851, 4106195; 663860, 4106218; 663864, 4106244; 663783, 4106232; 663758, 4106242; 663722, 4106292; 663712, 4106178; 663697, 4106153; 663660, 4106143; 663581, 4106161; 663568, 4106170; 663554, 4106171; 663545, 4106164; 663545, 4106132; 663549, 4106101; 663580, 4106099; 663594, 4106093; 663609, 4106081; 663620, 4106067; 663608, 4106044; 663587, 4106018; 663581, 4105999; 663581, 4105963; 663570, 4105954; 663530, 4105901; 663518, 4105880; 663513, 4105861; 663509, 4105833; 663513, 4105809; 663523, 4105786; 663550, 4105752; 663550, 4105740; 663535, 4105727; 663494, 4105728; 663452, 4105750; 663423, 4105746; 663338, 4105717; 663306, 4105713; 663283, 4105716; 663248, 4105728; 663203, 4105750; 663170, 4105782; 663157, 4105810; 663152, 4105835; 663137, 4105877; 663119, 4105892; 663113, 4105856; 663117, 4105834; 663112, 4105818; 663099, 4105808; 663095, 4105780; 663101, 4105748; 663095, 4105732; 663057, 4105687; 663029, 4105666; 663012, 4105662; 662985, 4105670; 662930, 4105706; 662888, 4105748; 662880, 4105769; 662864, 4105874; 662863, 4105886; 662870, 4105906; 662862, 4105912; 662831, 4105889; 662807, 4105861; 662764, 4105833; 662751, 4105829; 662716, 4105830; 662644, 4105849; 662605, 4105875; 662453, 4105932; 662453, 4105961; 662401, 4105940; 662374, 4105946; 662336, 4105976; 662313, 4105985; 662270, 4105987; 662244, 4105983; 662200, 4105960; 662197, 4105949; 662210, 4105906; 662211, 4105885; 662201, 4105855; 662191, 4105839; 662150, 4105796; 662118, 4105773; 662086, 4105757; 662062, 4105702; 662013, 4105669; 662047, 4105655; 662082, 4105672; 662094, 4105682; 662142, 4105697; 662186, 4105685; 662233, 4105690; 662279, 4105675; 662342, 4105669; 662359, 4105659; 662411, 4105639; 662482, 4105617; 662514, 4105597; 662541, 4105568; 662592, 4105572; 662622, 4105546; 662645, 4105514; 662655, 4105490; 662664, 4105480; 662695, 4105464; 662711, 4105452; 662679, 4105438; 662662, 4105420; 662547, 4105456; 662538, 4105441; 662513, 4105430; 662485, 4105431; 662471, 4105426; 662418, 4105398; 662383, 4105375; 662338, 4105357; 662238, 4105344; 662218, 4105319; 662197, 4105301; 662172, 4105268; 662130, 4105244; 662081, 4105233; 662061, 4105236; 662033, 4105245; 662009, 4105247; 662019, 4105220; 662047, 4105182; 662066, 4105171; 662126, 4105174; 662150, 4105172; 662189, 4105157; 662229, 4105186; 662249, 4105197; 662271, 4105204; 662295, 4105204; 662326, 4105217; 662369, 4105241; 662389, 4105242; 662414, 4105136; 662565, 4105124; 662580, 4105141; 662683, 4105177; 662773, 4105186; 662796, 4105179; 662810, 4105167; 662816, 4105152; 662779, 4105105; 662729, 4105064; 662723, 4105055; 662744, 4105018; 662745, 4104994; 662744, 4104979; 662715, 4104922; 662709, 4104895; 662752, 4104909; 662774, 4104903; 662790, 4104888; 662802, 4104914; 662811, 4104965; 662818, 4104980; 662852, 4105023; 662884, 4105026; 662917, 4105007; 662933, 4105021; 662959, 4105073; 663044, 4105197; 663047, 4105210; 663045, 4105230; 663062, 4105232; 663101, 4105226; 663106, 4105175; 663058, 4105090; 663052, 4105068; 663057, 4104988; 663068, 4104948; 663074, 4104940; 663101, 4104950; 663125, 4104966; 663168, 4104980; 663180, 4105009; 663191, 4105020; 663211, 4105030; 663231, 4105024; 663257, 4104986; 663269, 4104976; 663294, 4104969; 663327, 4104919; 663367, 4104918; 663376, 4104903; 663369, 4104868; 663367, 4104826; 663391, 4104807; 663414, 4104803; 663454, 4104806; 663484, 4104813; 663514, 4104849; 663526, 4104872; 663558, 4104884; 663575, 4104872; 663593, 4104819; 663608, 4104811; 663664, 4104811; 663691, 4104803; 663730, 4104777; 663761, 4104766; 663821, 4104776; 663852, 4104771; 663869, 4104760; 663874, 4104733; 663873, 4104707; 663826, 4104698; 663780, 4104713; 663729, 4104700; 663697, 4104675; 663682, 4104668; 663668, 4104675; 663635, 4104703; 663611, 4104715; 663579, 4104722; 663549, 4104722; 663517, 4104700; 663495, 4104691; 663463, 4104687; 663441, 4104687; 663349, 4104708; 663338, 4104715; 663330, 4104748; 663314, 4104757; 663292, 4104765; 663256, 4104768; 663247, 4104773; 663226, 4104798; 663186, 4104785; 663164, 4104769; 663141, 4104764; 663116, 4104766; 663096, 4104761; 663065, 4104739; 663050, 4104724; 662992, 4104689; 662949, 4104692; 662938, 4104689; 662956, 4104658; 662967, 4104653; 662986, 4104615; 663045, 4104651; 663097, 4104652; 663124, 4104676; 663237, 4104624; 663278, 4104594; 663334, 4104542; 663352, 4104530; 663371, 4104496; 663374, 4104478; 663418, 4104447; 663397, 4104414; 663382, 4104407; 663346, 4104380; 663328, 4104377; 663301, 4104392; 663256, 4104392; 663221, 4104366; 663192, 4104360; 663023, 4104298; 663001, 4104268; 662986, 4104264; 662947, 4104332; 662933, 4104365; 662897, 4104406; 662873, 4104422; 662854, 4104430; 662832, 4104425; 662785, 4104386; 662768, 4104378; 662756, 4104389; 662728, 4104428; 662692, 4104439; 662672, 4104449; 662636, 4104491; 662606, 4104510; 662597, 4104525; 662593, 4104558; 662603, 4104582; 662613, 4104594; 662616, 4104613; 662614, 4104652; 662617, 4104696; 662614, 4104710; 662606, 4104717; 662589, 4104719; 662590, 4104679; 662585, 4104656; 662571, 4104634; 662540, 4104614; 662495, 4104517; 662479, 4104502; 662459, 4104490; 662436, 4104465; 662465, 4104393; 662466, 4104344; 662480, 4104262; 662481, 4104247; 662474, 4104228; 662444, 4104227; 662408, 4104236; 662386, 4104247; 662366, 4104266; 662369, 4104288; 662386, 4104315; 662397, 4104338; 662399, 4104377; 662308, 4104563; 662272, 4104572; 662245, 4104582; 662201, 4104651; 662183, 4104667; 662166, 4104677; 662154, 4104690; 662159, 4104748; 662156, 4104784; 662076, 4104770; 662059, 4104770; 662035, 4104802; 662025, 4104830; 662008, 4104864; 662004, 4104886; 662004, 4104905; 662040, 4104941; 662048, 4104975; 662047, 4104998; 662040, 4105008; 662020, 4105016; 661981, 4105023; 661968, 4105019; 661947, 4104987; 661923, 4104960; 661903, 4104955; 661877, 4104955; 661820, 4104977; 661767, 4105006; 661698, 4105020; 661672, 4105035; 661602, 4105037; 661555, 4105047; 661496, 4105065; 661473, 4105077; 661429, 4105117; 661417, 4105108; 661419, 4105070; 661641, 4104922; 661675, 4104881; 661691, 4104895; 661706, 4104901; 661778, 4104863; 661798, 4104823; 661815, 4104803; 661817, 4104787; 661809, 4104753; 661816, 4104736; 661856, 4104704; 661875, 4104680; 661878, 4104656; 661861, 4104594; 661865, 4104579; 661883, 4104562; 661940, 4104532; 661983, 4104499; 662006, 4104451; 662023, 4104431; 662039, 4104381; 662068, 4104326; 662068, 4104304; 662060, 4104288; 662045, 4104279; 662001, 4104275; 661980, 4104281; 661955, 4104293; 661937, 4104309; 661884, 4104368; 661844, 4104389; 661866, 4104339; 661873, 4104312; 661873, 4104279; 661890, 4104263; 662085, 4104161; 662085, 4104147; 662069, 4104129; 662035, 4104118; 661972, 4104121; 661919, 4104099; 661899, 4104094; 661884, 4104095; 661890, 4104067; 661902, 4104056; 661904, 4104044; 661892, 4104025; 661840, 4103986; 661812, 4103974; 661778, 4103972; 661741, 4103988; 661708, 4103982; 661678, 4103983; 661651, 4103994; 661594, 4104044; 661564, 4104062; 661484, 4104097; 661452, 4104119; 661409, 4104171; 661388, 4104184; 661364, 4104190; 661348, 4104203; 661331, 4104257; 661320, 4104245; 661316, 4104233; 661304, 4104220; 661286, 4104213; 661192, 4104204; 661154, 4104209; 661119, 4104220; 661090, 4104245; 661063, 4104304; 661037, 4104316; 661005, 4104317; 660930, 4104342; 660859, 4104395; 660830, 4104407; 660652, 4104464; 660631, 4104460; 660762, 4104398; 660779, 4104382; 660821, 4104353; 660872, 4104326; 660893, 4104311; 660907, 4104294; 660910, 4104277; 660926, 4104258; 660947, 4104251; 660981, 4104246; 661006, 4104237; 661016, 4104230; 661022, 4104219; 660980, 4104164; 661006, 4104164; 661045, 4104174; 661070, 4104171; 661085, 4104163; 661098, 4104138; 661091, 4104076; 661124, 4104087; 661149, 4104087; 661175, 4104095; 661222, 4104101; 661257, 4104104; 661287, 4104100; 661308, 4104088; 661324, 4104070; 661348, 4104031; 661354, 4103997; 661371, 4103978; 661381, 4104009; 661395, 4104020; 661411, 4104027; 661518, 4104007; 661538, 4103999; 661576, 4103932; 661586, 4103871; 661627, 4103850; 661693, 4103830; 661749, 4103822; 661792, 4103810; 661841, 4103825; 661877, 4103864; 661900, 4103876; 661920, 4103878; 661945, 4103876; 661952, 4103866; 661967, 4103808; 661992, 4103859; 662027, 4103893; 662075, 4103908; 662129, 4103943; 662168, 4103961; 662197, 4103967; 662259, 4103948; 662273, 4103932; 662282, 4103909; 662288, 4103872; 662309, 4103845; 662298, 4103819; 662272, 4103798; 662272, 4103787; 662299, 4103777; 662312, 4103767; 662310, 4103755; 662299, 4103731; 662313, 4103707; 662315, 4103649; 662352, 4103660; 662369, 4103721; 662387, 4103732; 662413, 4103726; 662431, 4103719; 662428, 4103751; 662438, 4103781; 662452, 4103805; 662472, 4103828; 662496, 4103839; 662520, 4103838; 662565, 4103788; 662745, 4103822; 662833, 4103818; 662871, 4103834; 662902, 4103841; 662933, 4103836; 662991, 4103820; 663009, 4103792; 662997, 4103763; 662950, 4103713; 662926, 4103700; 662906, 4103695; 662891, 4103684; 662880, 4103675; 662888, 4103661; 662858, 4103642; 662806, 4103628; 662719, 4103591; 662705, 4103581; 662704, 4103569; 662738, 4103563; 662753, 4103557; 662771, 4103535; 662775, 4103511; 662766, 4103459; 662755, 4103442; 662653, 4103462; 662645, 4103449; 662625, 4103437; 662617, 4103422; 662622, 4103402; 662622, 4103374; 662613, 4103349; 662527, 4103308; 662494, 4103310; 662441, 4103320; 662420, 4103348; 662398, 4103362; 662377, 4103359; 662366, 4103345; 662361, 4103325; 662338, 4103298; 662268, 4103301; 662235, 4103293; 662206, 4103295; 662164, 4103304; 662128, 4103291; 662107, 4103279; 662075, 4103266; 661958, 4103258; 661910, 4103262; 661924, 4103236; 661901, 4103222; 661862, 4103211; 661872, 4103198; 661937, 4103209; 662010, 4103217; 662050, 4103208; 662064, 4103202; 662096, 4103214; 662158, 4103214; 662221, 4103194; 662243, 4103176; 662489, 4103160; 662507, 4103149; 662516, 4103135; 662521, 4103120; 662519, 4103097; 662492, 4103064; 662473, 4103050; 662372, 4102996; 662374, 4102975; 662445, 4102995; 662496, 4102994; 662520, 4102986; 662546, 4102964; 662562, 4102935; 662566, 4102886; 662573, 4102844; 662598, 4102822; 662596, 4102844; 662585, 4102868; 662580, 4102889; 662585, 4102914; 662596, 4102956; 662620, 4103011; 662638, 4103025; 662663, 4103029; 662660, 4103075; 662656, 4103087; 662660, 4103110; 662689, 4103144; 662704, 4103156; 662780, 4103181; 662790, 4103192; 662767, 4103223; 662772, 4103243; 662796, 4103266; 662828, 4103283; 662856, 4103293; 662884, 4103297; 662932, 4103366; 662953, 4103425; 662972, 4103446; 662988, 4103456; 663040, 4103465; 663051, 4103459; 663060, 4103447; 663114, 4103433; 663143, 4103410; 663146, 4103440; 663159, 4103486; 663156, 4103501; 663146, 4103514; 663117, 4103575; 663124, 4103597; 663134, 4103607; 663157, 4103620; 663180, 4103646; 663196, 4103672; 663233, 4103683; 663253, 4103673; 663272, 4103668; 663310, 4103696; 663330, 4103719; 663430, 4103756; 663509, 4103774; 663528, 4103774; 663547, 4103773; 663588, 4103750; 663604, 4103754; 663630, 4103783; 663642, 4103791; 663676, 4103796; 663702, 4103772; 663717, 4103722; 663735, 4103700; 663761, 4103691; 663801, 4103671; 663833, 4103647; 663836, 4103681; 663876, 4103717; 663950, 4103738; 663969, 4103740; 663983, 4103736; 663989, 4103691; 663982, 4103642; 663987, 4103617; 663996, 4103603; 664052, 4103605; 664069, 4103598; 664079, 4103590; 664127, 4103634; 664140, 4103642; 664150, 4103620; 664136, 4103566; 664135, 4103544; 664149, 4103524; 664151, 4103492; 664294, 4103326; 664305, 4103297; 664334, 4103261; 664371, 4103223; 664384, 4103197; 664395, 4103184; 664428, 4103174; 664441, 4103167; 664448, 4103146; 664460, 4103123; 664452, 4103104; 664475, 4103104; 664497, 4103099; 664537, 4103076; 664556, 4103058; 664566, 4103037; 664585, 4102963; 664578, 4102900; 664582, 4102884; 664578, 4102808; 664584, 4102759; 664581, 4102736; 664546, 4102669; 664538, 4102624; 664538, 4102604; 664533, 4102575; 664523, 4102552; 664501, 4102527; 664454, 4102487; 664475, 4102477; 664503, 4102457; 664561, 4102442; 664584, 4102433; 664601, 4102421; 664621, 4102359; 664655, 4102301; 664668, 4102260; 664670, 4102234; 664665, 4102217; 664665, 4102125; 664637, 4102103; 664618, 4102103; 664604, 4102106; 664499, 4102094; 664516, 4102080; 664577, 4102059; 664625, 4102033; 664650, 4101999; 664713, 4101956; 664745, 4101930; 664753, 4101917; 664754, 4101895; 664721, 4101870; 664677, 4101868; 664659, 4101863; 664720, 4101795; 664752, 4101742; 664774, 4101718; 664780, 4101696; 664763, 4101648; 664763, 4101633; 664753, 4101613; 664740, 4101595; 664687, 4101558; 664690, 4101541; 664725, 4101497; 664698, 4101461; 664670, 4101445; 664636, 4101434; 664586, 4101443; 664573, 4101407; 664516, 4101341; 664566, 4101315; 664565, 4101292; 664550, 4101260; 664496, 4101200; 664482, 4101178; 664433, 4101126; 664356, 4101100; 664326, 4101094; 664302, 4101066; 664233, 4100968; 664216, 4100939; 664288, 4100947; 664307, 4100944; 664344, 4100957; 664387, 4100928; 664404, 4100966; 664424, 4100977; 664452, 4100985; 664477, 4100986; 664504, 4100981; 664568, 4100936; 664582, 4100935; 664630, 4100990; 664644, 4100998; 664659, 4100999; 664672, 4100993; 664667, 4100908; 664679, 4100864; 664734, 4100849; 664747, 4100840; 664763, 4100821; 664775, 4100800; 664810, 4100770; 664848, 4100720; 664845, 4100707; 664796, 4100703; 664762, 4100703; 664721, 4100710; 664663, 4100710; 664646, 4100689; 664613, 4100663; 664608, 4100634; 664611, 4100619; 664622, 4100600; 664644, 4100588; 664680, 4100579; 664730, 4100556; 664753, 4100536; 664756, 4100522; 664742, 4100502; 664704, 4100488; 664656, 4100478; 664640, 4100471; 664692, 4100415; 664691, 4100390; 664690, 4100388; 664183, 4100285; 662960, 4100035; 662960, 4100035; 662895, 4100022; 661841, 4099812; 661840, 4099812; 660851, 4099615; 660782, 4099601; 660456, 4099535; 658582, 4099172; 658492, 4099155; 657360, 4098904; 656995, 4098822; 656995, 4098822; 656324, 4098674; 656250, 4098658; 656245, 4098662; 656237, 4098666; 656229, 4098667; 656223, 4098675; 656217, 4098684; 656205, 4098695; 656192, 4098707; 656179, 4098721; 656173, 4098730; 656166, 4098741; 656163, 4098751; 656156, 4098760; 656145, 4098771; 656136, 4098780; 656125, 4098791; 656121, 4098798; 656116, 4098810; 656113, 4098817; 656107, 4098831; 656103, 4098839; 656094, 4098849; 656083, 4098859; 656070, 4098868; 656061, 4098877; 656044, 4098892; 656030, 4098902; 656015, 4098910; 655998, 4098918; 655974, 4098927; 655954, 4098942; 655936, 4098969; 655918, 4098992; 655907, 4099021; 655909, 4099053; 655909, 4099075; 655903, 4099082; 655899, 4099086; 655893, 4099091; 655887, 4099097; 655883, 4099100; 655880, 4099104; 655878, 4099108; 655876, 4099118; 655874, 4099125; 655872, 4099134; 655864, 4099144; 655860, 4099148; 655858, 4099152; 655858, 4099155; 655855, 4099167; 655851, 4099177; 655846, 4099188; 655841, 4099197; 655834, 4099209; 655815, 4099221; 655801, 4099239; 655795, 4099257; 655795, 4099277; 655799, 4099315; 655801, 4099367; 655804, 4099394; 655807, 4099418; 655796, 4099434; 655784, 4099451; 655780, 4099455; 655768, 4099465; 655750, 4099479; 655751, 4099493; 655770, 4099514; 655782, 4099540; 655791, 4099572; 655818, 4099588; 655843, 4099617; 655872, 4099647; 655900, 4099661; 655923, 4099664; 655944, 4099671; 656002, 4099693; 656051, 4099680; 656065, 4099678; 656093, 4099689; 656141, 4099677; 656158, 4099674; 656165, 4099675; 656203, 4099704; 656251, 4099724; 656291, 4099711; 656320, 4099704; 656365, 4099700; 656369, 4099700; 656371, 4099701; 656394, 4099708; 656417, 4099729; 656464, 4099735; 656498, 4099780; 656520, 4099814; 656543, 4099848; 656561, 4099884; 656585, 4099922; 656617, 4099965; 656657, 4100023; 656673, 4100048; 656700, 4100090; 656722, 4100129; 656745, 4100182; 656772, 4100218; 656848, 4100295; 656864, 4100322; 656873, 4100351; 656868, 4100382; 656875, 4100407; 656889, 4100425; 656895, 4100454; 656902, 4100479; 656911, 4100501; 656920, 4100515; 656936, 4100553; 656954, 4100605; 656983, 4100647; 657021, 4100686; 657014, 4100708; 657014, 4100742; 657026, 4100766; 657017, 4100798; 657012, 4100818; 657008, 4100841; 657012, 4100868; 657010, 4100901; 657017, 4100960; 657023, 4101005; 657008, 4101043; 657035, 4101070; 657044, 4101099; 657057, 4101137; 657068, 4101169; 657071, 4101200; 657059, 4101227; 657044, 4101245; 657008, 4101281; 656999, 4101306; 657000, 4101311; 657005, 4101340; 657026, 4101369; 657033, 4101391; 657049, 4101430; 657051, 4101447; 657055, 4101463; 657059, 4101469; 657064, 4101473; 657072, 4101478; 657093, 4101497; 657113, 4101500; 657131, 4101527; 657128, 4101541; 657119, 4101559; 657107, 4101582; 657087, 4101611; 657081, 4101624; 657082, 4101628; 657082, 4101630; 657086, 4101636; 657089, 4101640; 657100, 4101648; 657111, 4101663; 657120, 4101676; 657124, 4101692; 657123, 4101716; 657121, 4101728; 657121, 4101730; 657127, 4101736; 657138, 4101751; 657146, 4101767; 657156, 4101790; 657165, 4101814; 657170, 4101840; 657171, 4101857; 657169, 4101881; 657166, 4101901; 657168, 4101905; 657171, 4101910; 657184, 4101921; 657198, 4101936; 657217, 4101960; 657238, 4101987; 657259, 4102021; 657271, 4102038; 657280, 4102059; 657281, 4102075; 657284, 4102093; 657290, 4102106; 657314, 4102135; 657327, 4102153; 657342, 4102206; 657339, 4102220; 657332, 4102240; 657329, 4102260; 657329, 4102284; 657339, 4102297; 657367, 4102328; 657384, 4102348; 657409, 4102378; 657436, 4102407; 657449, 4102426; 657475, 4102453; 657507, 4102492; 657530, 4102512; 657557, 4102539; 657574, 4102547; 657583, 4102569; 657575, 4102608; 657577, 4102621; 657588, 4102646; 657605, 4102672; 657623, 4102697; 657640, 4102716; 657656, 4102733; 657656, 4102771; 657652, 4102791; 657655, 4102811; 657665, 4102828; 657675, 4102849; 657678, 4102872; 657687, 4102929; 657702, 4102975; 657709, 4102983; 657717, 4102988; 657731, 4102996; 657746, 4103002; 657753, 4103008; 657793, 4103045; 657820, 4103070; 657852, 4103111; 657854, 4103113; 657858, 4103113; 657871, 4103131; 657904, 4103120; 657944, 4103115; 657970, 4103111; 657976, 4103109; 658001, 4103104; 658028, 4103105; 658040, 4103107; 658044, 4103107; 658053, 4103107; 658079, 4103110; 658191, 4103188; 658245, 4103234; 658254, 4103241; 658318, 4103295; 658325, 4103300; 658330, 4103302; 658339, 4103304; 658347, 4103305; 658379, 4103312; 658454, 4103338; 658454, 4103338; 658503, 4103358; 658518, 4103364; 658540, 4103372; 658581, 4103386; 658581, 4103386; 658602, 4103394; 658628, 4103403; 658665, 4103417; 658665, 4103417; 658683, 4103423; 658747, 4103449; 658798, 4103464; 658885, 4103493; 658922, 4103505; 658915, 4103553; 658912, 4103572; 658904, 4103622; 658914, 4103622; 659001, 4103622; 659001, 4103629; 658998, 4103629; 658921, 4103767; 658860, 4103880; 658855, 4103889; 658817, 4103876; 658801, 4103873; 658792, 4103872; 658786, 4103871; 658759, 4103879; 658713, 4103913; 658708, 4103917; 658681, 4103934; 658510, 4104044; 658414, 4104113; 658336, 4104136; 658264, 4104261; 658191, 4104322; 658086, 4104436; 658041, 4104510; 658041, 4104510; 658027, 4104532; 658011, 4104558; 658098, 4104568; 658089, 4104860; 657953, 4104883; 657910, 4104941; 657884, 4104976; 657857, 4105019; 657846, 4105036; 657821, 4105076; 657795, 4105089; 657773, 4105101; 657743, 4105117; 657714, 4105132; 657626, 4105173; 657553, 4105205; 657516, 4105222; 657515, 4105223; 657510, 4105226; 657475, 4105242; 657472, 4105243; 657456, 4105262; 657456, 4105262; 657401, 4105330; 657399, 4105332; 657358, 4105382; 657344, 4105398; 657344, 4105399; 657283, 4105497; 657271, 4105505; 657123, 4105596; 657123, 4105596; 657123, 4105596; 657096, 4105617; 657039, 4105660; 657032, 4105681; 657027, 4105697; 657027, 4105697; 657008, 4105704; 656967, 4105718; 656957, 4105746; 656943, 4105787; 656933, 4105816; 656886, 4105843; 656855, 4105861; 656831, 4105868; 656810, 4105866; 656789, 4105865; 656761, 4105863; 656714, 4105901; 656694, 4105905; 656640, 4105916; 656609, 4105913; 656600, 4105912; 656599, 4105912; 656582, 4105910; 656565, 4105909; 656548, 4105894; 656532, 4105862; 656520, 4105838; 656519, 4105837; 656494, 4105786; 656491, 4105783; 656480, 4105778; 656479, 4105778; 656470, 4105775; 656461, 4105772; 656445, 4105775; 656430, 4105777; 656427, 4105778; 656410, 4105781; 656410, 4105781; 656308, 4106398; 656306, 4106493; 656315, 4106495; 656350, 4106493; 656403, 4106468; 656419, 4106463; 656436, 4106466; 656475, 4106488; 656516, 4106533; 656576, 4106581; 656597, 4106588; 656634, 4106587; 656665, 4106592; 656748, 4106621; 656772, 4106618; 656778, 4106619; 656805, 4106623; 656814, 4106624; 656821, 4106629; 656827, 4106632; 656838, 4106639; 656872, 4106676; 656876, 4106681; 656934, 4106752; 656935, 4106754; 656954, 4106790; 656962, 4106805; 656989, 4106828; 657011, 4106846; 657013, 4106854; 657022, 4106881; 657031, 4106909; 657040, 4106923; 657042, 4106925; 657051, 4106932; 657074, 4106939; 657120, 4106951; 657138, 4106963; 657161, 4106986; 657178, 4106994; 657198, 4106993; 657199, 4106993; 657222, 4106969; 657231, 4106960; 657263, 4106952; 657279, 4106956; 657295, 4106960; 657321, 4106975; 657335, 4106987; 657340, 4106992; 657358, 4107015; 657358, 4107016; 657385, 4107065; 657392, 4107091; 657397, 4107158; 657390, 4107187; 657355, 4107238; 657352, 4107251; 657352, 4107264; 657351, 4107270; 657367, 4107289; 657375, 4107305; 657377, 4107309; 657377, 4107310; 657378, 4107330; 657373, 4107356; 657362, 4107380; 657356, 4107388; 657330, 4107419; 657327, 4107429; 657328, 4107440; 657331, 4107474; 657332, 4107483; 657319, 4107533; 657318, 4107554; 657317, 4107583; 657316, 4107595; 657318, 4107614; 657319, 4107627; 657712, 4107635; 661420, 4107769; 661420, 4107769; 661445, 4107648; 661475, 4107488; 661515, 4107307; 661596, 4107147; 661706, 4107046; returning to 661847, 4106966.

(ii) Note: Unit MER-1 is depicted on Map M17—Unit STC-1B and MER-1—which follows:

BILLING CODE 4310-55-P

BILLING CODE 4310-55-C

(33) Unit SNB-1, San Benito and Monterey County, California.

(i) From USGS 1:24,000 scale quadrangle Hollister, Mt. Harlan, San Juan Bautista, Tres Pinos. Land bounded by the following UTM Zone 10, NAD27 coordinates (E,N): 635579, 4075824; 635896, 4075764; 636333, 4075764; 636809, 4075566; 637368, 4075520; 637770, 4075623; 638436, 4075288; 638714, 4074971; 639151, 4074594; 639270, 4074217; 639380, 4074122; 639547, 4073979; 640024, 4073740; 640877, 4073582; 641234, 4073582; 641790, 4073621; 642008, 4073284; 642345, 4072947; 642306, 4072530; 642289, 4072222; 642286, 4072173; 642327, 4072128; 642484, 4071954; 642762, 4071855; 643076, 4071911; 643099, 4071915; 643417, 4071816; 643635, 4071756; 644012, 4071875; 644350, 4072014; 644786, 4072133; 645168, 4072165; 645170, 4072129; 645182, 4072089; 645215, 4072050; 645231, 4072038; 645253, 4072031; 645297, 4072025; 645348, 4072041; 645628, 4072149; 645689, 4072165; 645738, 4072161; 645805, 4072141; 645874, 4072116; 645916, 4072108; 645934, 4072108; 645883, 4072000; 645724, 4071740; 645583, 4071554; 645248, 4071406; 644994, 4071392; 644771, 4071306; 644570, 4071098; 644445, 4070870; 644243, 4070540; 644078, 4070211; 643854, 4069908; 643751, 4069797; 643657, 4069655; 643423, 4069300; 643211, 4069149; 643197, 4069138; 643171, 4069118; 642999, 4068980; 642881, 4068706; 642878, 4068693; 642791, 4068354; 642789, 4068342; 642787, 4068332; 642797, 4068299; 642790, 4068252; 642764, 4068214; 642733, 4068176; 642670, 4068146; 642562, 4068111; 642519, 4068102; 642465, 4068092; 642401, 4068048; 642361, 4067985; 642342, 4067933; 642312, 4067852; 642285, 4067815; 642247, 4067789; 642140, 4067746; 642045, 4067717; 642016, 4067716; 641938, 4067715; 641851, 4067709; 641682, 4067666; 641663, 4067663; 641626, 4067656; 641586, 4067649; 641481, 4067639; 641344, 4067647; 641284, 4067651; 641226, 4067664; 641112, 4067711; 641041, 4067744; 640958, 4067776; 640877, 4067786; 640811, 4067772; 640729, 4067743; 640563, 4067623; 640497, 4067579; 640417, 4067543; 640368, 4067554; 640304, 4067596; 640247, 4067603; 640191, 4067576; 640134, 4067533; 640073, 4067474; 640033, 4067428; 640006, 4067369; 639998, 4067314; 639981, 4067234; 639935, 4067174; 639865, 4067138; 639778, 4067110; 639705, 4067121; 639600, 4067191; 639549, 4067218; 639471, 4067237; 639405, 4067226; 639342, 4067194; 639081, 4067022; 639029, 4066971; 638984, 4066910; 638951, 4066842; 638921, 4066756; 638916, 4066700; 638943, 4066619; 638947, 4066568; 638903, 4066473; 638881, 4066391; 638891, 4066275; 638874, 4066236; 638850, 4066215; 638795, 4066192; 638723, 4066179; 638573, 4066170; 638511, 4066154; 638444, 4066123; 638334, 4066066; 638256, 4066043; 638179, 4066029; 638096, 4066027; 638012, 4066018; 637966, 4066036; 637956, 4066060; 637961, 4066079; 637990, 4066154; 637979, 4066180; 637962, 4066192; 637929, 4066204; 637842, 4066246; 637785, 4066269; 637766, 4066284; 637752, 4066301; 637719, 4066357; 637683, 4066386; 637648, 4066421; 637590, 4066456; 637576, 4066468; 637560, 4066490; 637525, 4066563; 637515, 4066592; 637518, 4066613; 637527, 4066631; 637602, 4066690; 637723, 4066757; 637718, 4066771; 637647, 4066779; 637610, 4066788; 637572, 4066809; 637550, 4066816; 637493, 4066821; 637482, 4066826; 637471, 4066841; 637448, 4066886; 637449, 4066920; 637469, 4067042; 637449, 4067123; 637440, 4067180; 637445, 4067196; 637460, 4067211; 637474, 4067234; 637470, 4067249; 637451, 4067263; 637436, 4067267; 637409, 4067283; 637365, 4067337; 637310, 4067380; 637302, 4067389; 637276, 4067438; 637268, 4067461; 637271, 4067501; 637267, 4067538; 637261, 4067559; 637251, 4067569; 637229, 4067574; 637172, 4067569; 637142, 4067580; 637125, 4067592; 637113, 4067596; 637067, 4067563; 637001, 4067532; 636987, 4067527; 636959, 4067533; 636945, 4067544; 636935, 4067556; 636925, 4067569; 636886, 4067717; 636878, 4067738; 636870, 4067747; 636859, 4067748; 636837, 4067741; 636772, 4067688; 636753, 4067684; 636734, 4067685; 636699, 4067700; 636691, 4067705; 636672, 4067729; 636659, 4067737; 636628, 4067740; 636555, 4067736; 636503, 4067724; 636461, 4067725; 636425, 4067735; 636373, 4067773; 636334, 4067795; 636317, 4067811; 636306, 4067831; 636308, 4067890; 636291, 4067957; 636237, 4068055; 636216, 4068111; 636197, 4068139; 636178, 4068157; 636158, 4068159; 636086, 4068130; 636076, 4068132; 636073, 4068136; 636068, 4068158; 636064, 4068218; 636043, 4068237; 636032, 4068264; 636020, 4068350; 635996, 4068397; 635980, 4068442; 635965, 4068522; 635961, 4068564; 635968, 4068611; 635992, 4068667; 636019, 4068716; 636034, 4068730; 636051, 4068754; 636077, 4068775; 636093, 4068804; 636102, 4068836; 636108, 4068877; 636139, 4068932; 636145, 4068950; 636140, 4069011; 636128, 4069061; 636102, 4069118; 636063, 4069149; 636046, 4069157; 636022, 4069185; 635960, 4069300; 635944, 4069311; 635932, 4069329; 635925, 4069345; 635922, 4069370; 635904, 4069401; 635891, 4069411; 635815, 4069430; 635755, 4069435; 635719, 4069449; 635690, 4069477; 635683, 4069490; 635684, 4069569; 635678, 4069594; 635667, 4069612; 635649, 4069629; 635624, 4069644; 635610, 4069658; 635601, 4069670; 635583, 4069708; 635581, 4069730; 635594, 4069778; 635597, 4069810; 635592, 4069830; 635559, 4069843; 635542, 4069855; 635531, 4069880; 635662, 4070360; 635762, 4070572; 635930, 4070728; 635979, 4070786; 635805, 4070815; 635638, 4070940; 635518, 4071208; 635534, 4071479; 635648, 4071712; 635628, 4072017; 635672, 4072298; 635727, 4072560; 635721, 4072822; 635705, 4073010; 635815, 4073223; 635999, 4073422; 636117, 4073620; 636042, 4073785; 635831, 4073954; 635602, 4074066; 635336, 4074121; 635098, 4074239; 634812, 4074359; 634457, 4074523; 634151, 4074692; 633815, 4074869; 633538, 4074975; 633367, 4075131; 633307, 4075149; 633270, 4075185; 633264, 4075224; 633270, 4075262; 633260, 4075316; 633225, 4075369; 633189, 4075401; 633066, 4075450; 633021, 4075473; 632885, 4075595; 632844, 4075618; 632789, 4075635; 632764, 4075650; 632760, 4075671; 632773, 4075713; 632775, 4075748; 632757, 4075785; 632735, 4075795; 633574, 4075923; 633860, 4075970; 633987, 4075923; 634005, 4075910; 634001, 4075920; 634170, 4075804; 634467, 4075645; 634785, 4075983; 634857, 4075991; 634940, 4075973; 635205, 4075936; 635440, 4075883; returning to 635579, 4075824.

(ii) Note: Unit SNB-1 is depicted on Map M18—Unit SNB-1, SNB-2, and SNB-3—see paragraph (35)(ii):

(34) Unit SNB-2, San Benito County, California.

(i) From USGS 1:24,000 scale quadrangle Tres Pinos, Pacines. Land bounded by the following UTM Zone 10, NAD27 coordinates (E,N): 651305, 4072378; 651421, 4072222; 651437, 4072111; 651525, 4072011; 651737, 4071913; 651845, 4071771; 651942, 4071587; 652028, 4071278; 652025, 4071022; 652022, 4070800; 651949, 4070686; 651860, 4070548; 651786, 4070356; 651818, 4070204; 651865, 4070144; 651782, 4070129; 651900, 4069970; 652018, 4069794; 652109, 4069671; 652139, 4069547; 652150, 4069490; 652150, 4069394; 652148, 4069311; 652172, 4069237; 652194, 4069177; 652252, 4069130; 652367, 4069064; 652524, 4068952; 652647, 4068869; 652713, 4068803; 652804, 4068680; 652916, 4068468; 652963, 4068378; 653034, 4068282; 653166, 4068188; 653301, 4068111; 653488, 4067996; 653559, 4067949; 653537, 4067906; 653529, 4067757; 653487, 4067706; 653440, 4067572; 653417, 4067449; 653393, 4067297; 653399, 4067163; 653452, 4067064; 653487, 4066953; 653522, 4066830; 653562, 4066562; 653621, 4066392; 653668, 4066229; 653668, 4066077; 653668, 4065931; 653662, 4065809; 653686, 4065623; 653679, 4065476; 653720, 4065342; 653773, 4065079; 653889, 4064402; 653994, 4063731; 653994, 4063632; 653954, 4063600; 652942, 4063283; 652942, 4063144; 653041, 4062787; 653061, 4062588; 652882, 4062132; 652882, 4061814; 652882, 4061536; 652942, 4061338; 653180, 4061239; 653220, 4061060; 653200, 4060683; 652505, 4060743; 651751, 4060624; 651216, 4060624; 650977, 4060663; 650700, 4060723; 650263, 4060723; 649985, 4060584; 649871, 4060727; 649873, 4060734; 649942, 4060883; 649961, 4060946; 649963, 4061014; 649959, 4061076; 649961, 4061111; 649978, 4061157; 650013, 4061229; 650024, 4061281; 650017, 4061318; 649973, 4061411; 649962, 4061449; 649952, 4061505; 649952, 4061533; 649968, 4061568; 650000, 4061600; 650024, 4061641; 650031, 4061681; 650030, 4061724; 650049, 4061793; 650077, 4061824; 650087, 4061874; 650089, 4061931; 650082, 4061953; 650049, 4061993; 649996, 4062080; 649982, 4062119; 649966, 4062184; 649932, 4062220; 649896, 4062244; 649867, 4062267; 649831, 4062318; 649815, 4062358; 649807, 4062398; 649810, 4062429; 649825, 4062483; 649832, 4062527; 649811, 4062612; 649789, 4062639; 649724, 4062698; 649655, 4062746; 649641, 4062764; 649622, 4062798; 649590, 4062864; 649587, 4062888; 649599, 4062910; 649868, 4063043; 649922, 4063061; 649992, 4063123; 649797, 4063229; 649750, 4063250; 649827, 4063402; 649827, 4063977; 649132, 4064573; 648497, 4064850; 648418, 4064893; 648368, 4065024; 648394, 4065025; 648501, 4065109; 648557, 4065146; 648595, 4065182; 648611, 4065229; 648616, 4065271; 648613, 4065332; 648637, 4065377; 648702, 4065409; 648816, 4065443; 648880, 4065469; 648952, 4065483; 649027, 4065470; 649094, 4065455; 649152, 4065452; 649176, 4065456; 649166, 4065485; 649168, 4065547; 649183, 4065671; 649198, 4065719; 649213, 4065749; 649211, 4065793; 649188, 4065850; 649169, 4065881; 649136, 4065923; 649108, 4065968; 649028, 4066184; 649002, 4066237; 648919, 4066341; 648912, 4066371; 648922, 4066408; 648952, 4066454; 648983, 4066497; 649024, 4066544; 649077, 4066591; 649127, 4066627; 649176, 4066672; 649210, 4066712; 649284, 4066828; 649309, 4066881; 649325, 4066943; 649331, 4067009; 649329, 4067076; 649311, 4067200; 649258, 4067391; 649242, 4067454; 649241, 4067470; 649272, 4067484; 649331, 4067498; 649392, 4067509; 649438, 4067511; 649486, 4067527; 649534, 4067593; 649752, 4067816; 649718, 4067874; 649705, 4067923; 649698, 4067969; 649699, 4067996; 649709, 4068017; 649785, 4068079; 649874, 4068114; 649918, 4068146; 649941, 4068182; 649963, 4068234; 649980, 4068287; 650006, 4068391; 650032, 4068474; 650040, 4068536; 650048, 4068561; 650059, 4068581; 650104, 4068608; 650178, 4068606; 650212, 4068614; 650312, 4068678; 650369, 4068697; 650426, 4068705; 650473, 4068716; 650495, 4068725; 650539, 4068759; 650566, 4068788; 650589, 4068803; 650628, 4068816; 650661, 4068824; 650688, 4068826; 650730, 4068837; 650778, 4068876; 650837, 4068945; 650872, 4068980; 650911, 4069003; 650958, 4069016; 650997, 4069023; 651038, 4069037; 651109, 4069081; 651099, 4069092; 651098, 4069094; 650688, 4069441; 650221, 4069918; 649977, 4070181; 649801, 4070453; 649700, 4070581; 649543, 4070708; 649393, 4070835; 649304, 4071005; 649209, 4071370; 649185, 4071702; 649241, 4071918; 649399, 4072173; 649574, 4072372; 649791, 4072531; 649804, 4072538; 649950, 4072309; 649990, 4072411; 650067, 4072500; 650247, 4072695; 650467, 4072726; 650689, 4072712; 650886, 4072656; 651155, 4072505; returning to 651305, 4072378.

(ii) Note: Unit SNB-2 is depicted on Map M18—Unit SNB-1, SNB-2, and SNB-3—see paragraph (35)(ii):

(35) Unit SNB-3, San Benito, Monterey County, California.

(i) From USGS 1:24,000 scale quadrangle North Chalone Peak, Topo Valley, San Benito, Bickmore Canyon. Land bounded by the following UTM Zone 10, NAD27 coordinates (E,N): 662185, 4046287; 662254, 4046134; 662287, 4045981; 662361, 4045883; 662425, 4045846; 662560, 4045656; 662765, 4045639; 662771, 4045637; 662867, 4045605; 663004, 4045486; 663021, 4045281; 663021, 4045145; 663089, 4045060; 663174, 4045060; 663396, 4044906; 663464, 4044770; 663464, 4044634; 663532, 4044548; 663668, 4044548; 663890, 4044565; 663992, 4044599; 664197, 4044599; 664504, 4044599; 664691, 4044736; 664916, 4044848; 664930, 4044855; 665049, 4044940; 665203, 4045077; 665322, 4045196; 665423, 4045274; 665485, 4045196; 665730, 4044906; 665931, 4044549; 666154, 4044103; 666332, 4043701; 666667, 4043367; 666712, 4043144; 667158, 4042965; 667850, 4042965; 668162, 4042697; 668541, 4042474; 668921, 4042296; 669278, 4042229; 669523, 4042273; 669771, 4042313; 669773, 4042311; 669866, 4042161; 669903, 4042115; 669964, 4042067; 670012, 4042054; 670104, 4042056; 670140, 4042046; 670188, 4041997; 670212, 4041934; 670231, 4041868; 670283, 4041791; 670325, 4041669; 670375, 4041616; 670435, 4041598; 670530, 4041524; 670551, 4041504; 670602, 4041425; 670634, 4041385; 670716, 4041292; 670826, 4041221; 670836, 4041194; 670838, 4041162; 670822, 4041091; 670900, 4041022; 670963, 4040988; 671006, 4040960; 671049, 4040923; 671090, 4040907; 671152, 4040895; 671218, 4040873; 671265, 4040836; 671335, 4040734; 671427, 4040628; 671440, 4040577; 671428, 4040514; 671400, 4040455; 671347, 4040394; 671293, 4040364; 671213, 4040338; 671148, 4040312; 671080, 4040276; 671047, 4040233; 671048, 4040128; 671041, 4040074; 671021, 4040013; 670971, 4039960; 670893, 4039913; 670843, 4039862; 670823, 4039814; 670826, 4039761; 670896, 4039682; 670892, 4039645; 670859, 4039594; 670802, 4039491; 670761, 4039451; 670709, 4039407; 670684, 4039389; 670368, 4039485; 670027, 4039673; 669908, 4039673; 669652, 4039553; 669533, 4039468; 669472, 4039468; 669396, 4039468; 669158, 4039502; 669089, 4039536; 668970, 4039639; 668868, 4039656; 668663, 4039502; 668425, 4039536; 668237, 4039588; 668033, 4039571; 667896, 4039485; 667828, 4039417; 667726, 4039230; 667675, 4039059; 667521, 4038752; 667317, 4038633; 667282, 4038411; 667163, 4038258; 666942, 4038121; 666788, 4037900; 666746, 4037721; 666720, 4037610; 666584, 4037423; 666396, 4037184; 666297, 4037100; 666174, 4036996; 666163, 4036911; 666123, 4036621; 666004, 4036400; 665962, 4036212; 665902, 4035939; 666004, 4035684; 666243, 4035530; 666362, 4035428; 666549, 4035206; 666686, 4034883; 666873, 4034610; 667129, 4034184; 667146, 4033894; 667129, 4033587; 667112, 4033314; 667027, 4033144; 667010, 4032820; 667043, 4032692; 667025, 4032674; 667019, 4032646; 666975, 4032619; 666881, 4032621; 666867, 4032618; 666832, 4032603; 666804, 4032569; 666785, 4032531; 666753, 4032494; 666637, 4032479; 666585, 4032485; 666552, 4032504; 666492, 4032555; 666436, 4032574; 666384, 4032571; 666319, 4032573; 666193, 4032563; 666092, 4032562; 665986, 4032580; 665888, 4032572; 665768, 4032544; 665680, 4032536; 665616, 4032553; 665554, 4032611; 665519, 4032657; 665493, 4032716; 665469, 4032750; 665427, 4032772; 665419, 4032791; 665393, 4032867; 665385, 4032909; 665384, 4032965; 665379, 4033024; 665368, 4033081; 665349, 4033141; 665322, 4033199; 665310, 4033263; 665310, 4033276; 665314, 4033363; 665298, 4033401; 665264, 4033432; 665178, 4033485; 665154, 4033514; 665103, 4033600; 665064, 4033647; 665003, 4033697; 664899, 4033738; 664848, 4033747; 664800, 4033749; 664759, 4033746; 664745, 4033745; 664701, 4033728; 664632, 4033710; 664437, 4033700; 664319, 4033689; 664236, 4033713; 664189, 4033788; 664161, 4033806; 664107, 4033810; 664050, 4033809; 663976, 4033806; 663890, 4033795; 663717, 4033795; 663652, 4033789; 663540, 4033762; 663442, 4033723; 663280, 4033713; 662986, 4033790; 662875, 4033801; 662763, 4033807; 662724, 4033832; 662646, 4033898; 662623, 4033932; 662611, 4033969; 662607, 4034028; 662609, 4034077; 662607, 4034118; 662588, 4034146; 662580, 4034152; 662562, 4034167; 662541, 4034178; 662487, 4034198; 662375, 4034256; 662267, 4034294; 662176, 4034301; 662078, 4034300; 662008, 4034306; 661950, 4034293; 661907, 4034272; 661793, 4034199; 661746, 4034200; 661722, 4034225; 661709, 4034260; 661689, 4034343; 661660, 4034529; 661635, 4034658; 661635, 4034731; 661645, 4034793; 661669, 4034864; 661694, 4034955; 661707, 4035056; 661690, 4035158; 661653, 4035242; 661579, 4035375; 661555, 4035432; 661537, 4035461; 661506, 4035500; 661489, 4035541; 661488, 4035568; 661511, 4035685; 661514, 4035795; 661526, 4035890; 661507, 4035924; 661480, 4035952; 661462, 4035977; 661441, 4036027; 661410, 4036077; 661360, 4036108; 661277, 4036143; 661231, 4036171; 661165, 4036228; 661129, 4036263; 661122, 4036271; 661106, 4036282; 661054, 4036370; 661052, 4036373; 661009, 4036416; 660974, 4036443; 660950, 4036471; 660915, 4036536; 660903, 4036569; 660867, 4036645; 660843, 4036685; 660789, 4036744; 660742, 4036784; 660733, 4036790; 660668, 4036833; 660566, 4036876; 660478, 4036933; 660395, 4037013; 660373, 4037049; 660350, 4037094; 660296, 4037151; 660261, 4037211; 660251, 4037231; 660228, 4037317; 660210, 4037355; 660186, 4037388; 660124, 4037454; 660078, 4037516; 660003, 4037672; 659995, 4037693; 659958, 4037828; 659949, 4037852; 660077, 4037962; 660123, 4038002; 660464, 4038258; 660685, 4038531; 660907, 4038650; 661145, 4038650; 661316, 4038837; 661384, 4039144; 661384, 4039400; 661435, 4039707; 661486, 4039980; 661555, 4040304; 661452, 4040644; 661163, 4040781; 660856, 4041002; 660515, 4041241; 660293, 4041395; 660003, 4041565; 659679, 4041787; 659560, 4041940; 659458, 4042145; 659390, 4042332; 659304, 4042537; 659187, 4042901; 659773, 4042943; 660108, 4043054; 660531, 4043054; 660978, 4042943; 661089, 4043768; 661067, 4044014; 660799, 4044282; 660598, 4044393; 660576, 4044639; 660576, 4044884; 660576, 4045219; 660576, 4045531; 660576, 4045821; 660719, 4046149; 660769, 4046171; 660779, 4046159; 660847, 4046146; 660929, 4046128; 661003, 4046082; 661080, 4046064; 661178, 4046079; 661248, 4046110; 661331, 4046150; 661377, 4046171; 661408, 4046199; 661674, 4046284; 661687, 4046283; 661705, 4046281; 661766, 4046269; 661846, 4046263; 662039, 4046330; returning to 662185, 4046287.

(ii) Note: Unit SNB-3 is depicted on Map M18—Unit SNB-1, SNB-2, and SNB-3—which follows:

BILLING CODE 4310-55-P

BILLING CODE 4310-55-C

(36) Unit SLO-1, San Luis Obispo, Monterey, Kern County, California.

(i) From USGS 1:24,000 scale quadrangle Tent Hills, Orchard Peak, Cholame, Cholame Valley. Land bounded by the following UTM Zone 10, NAD27 coordinates (E,N): 751686, 3964133; 751712, 3964088; 751785, 3964089; 751891, 3964092; 751909, 3964092; 751944, 3964093; 751976, 3964063; 752025, 3963982; 752044, 3963957; 752084, 3963940; 752125, 3963905; 752151, 3963870; 752170, 3963839; 752168, 3963806; 752158, 3963766; 752127, 3963722; 752089, 3963653; 752130, 3963634; 752177, 3963621; 752213, 3963622; 752268, 3963595; 752316, 3963561; 752394, 3963470; 752407, 3963405; 752351, 3963238; 752338, 3963176; 752337, 3963122; 752346, 3963062; 752383, 3963030; 752406, 3962984; 752407, 3962939; 752399, 3962920; 752376, 3962881; 752361, 3962832; 752393, 3962782; 752495, 3962683; 752531, 3962658; 752588, 3962626; 752627, 3962621; 752678, 3962626; 752740, 3962609; 752775, 3962577; 752826, 3962473; 752945, 3962368; 752987, 3962338; 753042, 3962310; 753072, 3962276; 753118, 3962186; 753131, 3962136; 753131, 3962086; 753155, 3962031; 753304, 3961863; 753416, 3961775; 753462, 3961715; 753511, 3961661; 753568, 3961623; 753637, 3961569; 753685, 3961512; 753754, 3961493; 753848, 3961519; 753876, 3961497; 753874, 3961457; 753877, 3961399; 753890, 3961331; 753898, 3961262; 753879, 3961211; 753856, 3961164; 753853, 3961149; 753848, 3961151; 753785, 3961141; 753726, 3961118; 753712, 3961065; 753712, 3961065; 753705, 3961040; 753703, 3961035; 753705, 3960953; 753700, 3960932; 753675, 3960890; 753641, 3960854; 753606, 3960828; 753593, 3960808; 753589, 3960794; 753594, 3960721; 753587, 3960682; 753532, 3960586; 753505, 3960512; 753454, 3960429; 753411, 3960316; 753374, 3960145; 753363, 3960123; 753346, 3960103; 753273, 3960082; 753192, 3960046; 753157, 3960041; 753134, 3960047; 753056, 3960093; 753037, 3960096; 753026, 3960084; 752995, 3960072; 752969, 3960055; 752909, 3959987; 752873, 3959964; 752778, 3959943; 752717, 3959922; 752638, 3959876; 752584, 3959853; 752512, 3959844; 752489, 3959848; 752439, 3959886; 752463, 3959830; 752502, 3959790; 752532, 3959767; 752549, 3959740; 752550, 3959693; 752561, 3959656; 752603, 3959600; 752616, 3959569; 752615, 3959522; 752607, 3959495; 752602, 3959458; 752635, 3959370; 752625, 3959330; 752600, 3959292; 752581, 3959240; 752597, 3959172; 752620, 3959125; 752629, 3959088; 752625, 3959024; 752641, 3958985; 752669, 3958956; 752693, 3958918; 752698, 3958821; 752727, 3958775; 752820, 3958678; 752928, 3958591; 753040, 3958518; 753081, 3958496; 753113, 3958486; 753201, 3958470; 753240, 3958454; 753277, 3958434; 753311, 3958399; 753384, 3958236; 753388, 3958206; 753374, 3958173; 753360, 3958091; 753326, 3958067; 753280, 3958062; 753262, 3958043; 753235, 3958028; 753157, 3958000; 753139, 3957977; 753162, 3957956; 753184, 3957917; 753211, 3957846; 753246, 3957815; 753321, 3957759; 753347, 3957726; 753356, 3957686; 753357, 3957634; 753368, 3957566; 753399, 3957504; 753437, 3957467; 753516, 3957418; 753759, 3957312; 754035, 3957226; 754100, 3957195; 754181, 3957140; 754244, 3957083; 754317, 3957027; 754501, 3956919; 754627, 3956836; 754793, 3956741; 754884, 3956674; 754959, 3956624; 755248, 3956474; 755382, 3956410; 755648, 3956273; 755788, 3956213; 755915, 3956146; 756257, 3956003; 756421, 3955918; 756641, 3955809; 756784, 3955729; 756710, 3955641; 756685, 3955526; 756731, 3955285; 756860, 3954963; 756937, 3954849; 757059, 3954742; 757346, 3954534; 757615, 3954384; 757806, 3954309; 757985, 3954183; 758132, 3953974; 758197, 3953753; 758226, 3953688; 758154, 3953752; 758089, 3953753; 758023, 3953773; 757973, 3953790; 757862, 3953838; 757654, 3953887; 757398, 3953974; 757321, 3954006; 757241, 3954032; 757146, 3954055; 757079, 3954092; 757020, 3954142; 756979, 3954205; 756930, 3954253; 756863, 3954257; 756530, 3954175; 756415, 3954134; 756324, 3954082; 756254, 3954059; 756226, 3954077; 756166, 3954136; 756027, 3954245; 755966, 3954313; 755887, 3954387; 755776, 3954472; 755715, 3954502; 755657, 3954494; 755540, 3954425; 755409, 3954331; 755336, 3954282; 755295, 3954246; 755281, 3954215; 755283, 3954168; 755302, 3954133; 755299, 3954110; 755274, 3954080; 755247, 3954040; 755212, 3953999; 755151, 3953962; 755084, 3953943; 755034, 3953909; 755014, 3953871; 755049, 3953825; 755154, 3953729; 755211, 3953685; 755256, 3953644; 755289, 3953592; 755310, 3953549; 755340, 3953499; 755388, 3953453; 755434, 3953418; 755534, 3953372; 755580, 3953325; 755679, 3953185; 755732, 3953134; 755811, 3953083; 755837, 3953057; 755854, 3953028; 755882, 3952845; 755884, 3952815; 755871, 3952778; 755808, 3952657; 755783, 3952616; 755772, 3952588; 755855, 3952618; 755918, 3952622; 755972, 3952613; 756007, 3952600; 756033, 3952551; 756025, 3952489; 756006, 3952390; 755979, 3952289; 755961, 3952251; 755913, 3952178; 755895, 3952127; 755889, 3952064; 755863, 3952018; 755817, 3952007; 755752, 3951998; 755696, 3951981; 755496, 3951902; 755458, 3951873; 755433, 3951827; 755424, 3951773; 755432, 3951733; 755497, 3951670; 755511, 3951644; 755507, 3951608; 755473, 3951583; 755407, 3951546; 755294, 3951496; 755206, 3951465; 755165, 3951428; 755152, 3951384; 755131, 3951338; 755086, 3951288; 755012, 3951274; 754952, 3951245; 754878, 3951181; 754831, 3951074; 754801, 3950993; 754763, 3950922; 754722, 3950867; 754659, 3950812; 754612, 3950785; 754556, 3950790; 754470, 3950838; 754424, 3950851; 754358, 3950847; 754295, 3950828; 754245, 3950810; 754200, 3950780; 754180, 3950747; 754185, 3950715; 754209, 3950662; 754222, 3950590; 754207, 3950531; 754159, 3950473; 754124, 3950437; 754107, 3950411; 754076, 3950378; 754044, 3950337; 754007, 3950306; 753963, 3950287; 753934, 3950258; 753875, 3950121; 753849, 3950082; 753818, 3950007; 753772, 3949853; 753718, 3949714; 753746, 3949672; 753801, 3949608; 753864, 3949553; 753916, 3949496; 753969, 3949413; 753962, 3949374; 753934, 3949325; 753904, 3949255; 753872, 3949138; 753850, 3949020; 753845, 3948807; 753846, 3948668; 753786, 3948704; 753755, 3948743; 753740, 3948788; 753710, 3948918; 753690, 3948967; 753685, 3949000; 753662, 3949050; 753637, 3949080; 753540, 3949171; 753484, 3949212; 753426, 3949246; 753377, 3949285; 753288, 3949413; 753232, 3949478; 753190, 3949516; 753110, 3949575; 753036, 3949656; 752914, 3949726; 752856, 3949780; 752826, 3949819; 752690, 3949905; 752666, 3949923; 752635, 3949993; 752612, 3950029; 752574, 3950066; 752526, 3950097; 752462, 3950131; 752412, 3950170; 752385, 3950215; 752365, 3950267; 752350, 3950312; 752349, 3950347; 752330, 3950365; 752302, 3950368; 752255, 3950360; 752195, 3950371; 752161, 3950403; 752045, 3950583; 751985, 3950664; 751918, 3950713; 751801, 3950759; 751769, 3950792; 751756, 3950837; 751748, 3950875; 751722, 3950913; 751675, 3950945; 751547, 3951014; 751532, 3951019; 751501, 3951016; 751460, 3951005; 751423, 3951002; 751375, 3951021; 751199, 3951131; 751165, 3951168; 751135, 3951205; 751062, 3951320; 750972, 3951432; 750930, 3951502; 750903, 3951561; 750879, 3951603; 750807, 3951692; 750649, 3951843; 750606, 3951894; 750576, 3951950; 750526, 3952029; 750465, 3952104; 750385, 3952171; 750314, 3952193; 750261, 3952193; 750212, 3952184; 750202, 3952182; 750202, 3952454; 750202, 3952580; 750148, 3952759; 750094, 3953028; 750202, 3953423; 750291, 3953710; 750327, 3954015; 750417, 3954267; 750668, 3954626; 750740, 3954967; 750740, 3955397; 750704, 3955684; 750704, 3955954; 750596, 3956151; 750453, 3956295; 750345, 3956420; 750345, 3956582; 749825, 3956869; 749717, 3957012; 749520, 3957030; 749423, 3957030; 749358, 3957030; 749187, 3957023; 748927, 3957012; 748622, 3956995; 748533, 3957156; 748353, 3957371; 748281, 3957497; 748174, 3957497; 748030, 3957407; 747851, 3957389; 747833, 3957461; 747707, 3957623; 747581, 3957623; 747438, 3957641; 747223, 3957676; 747025, 3957892; 746949, 3957940; 746949, 3957941; 746986, 3958051; 746985, 3958172; 746964, 3958270; 746943, 3958354; 746843, 3958553; 746766, 3958660; 746756, 3958787; 746819, 3958938; 746857, 3959111; 746859, 3959248; 746881, 3959460; 746885, 3959536; 746883, 3959601; 746887, 3959636; 746903, 3959687; 746886, 3959729; 746844, 3959774; 746770, 3959825; 746673, 3959900; 746602, 3959975; 746540, 3960078; 746502, 3960162; 746468, 3960397; 746447, 3960491; 746377, 3960622; 746320, 3960723; 746249, 3960832; 746170, 3960922; 746115, 3960992; 746183, 3961064; 746219, 3961105; 746275, 3961146; 746327, 3961169; 746375, 3961184; 746518, 3961220; 746610, 3961258; 746729, 3961287; 746865, 3961281; 746987, 3961257; 747073, 3961200; 747111, 3961191; 747168, 3961212; 747216, 3961271; 747252, 3961334; 747266, 3961412; 747264, 3961500; 747283, 3961583; 747298, 3961632; 747330, 3961687; 747374, 3961734; 747443, 3961733; 747480, 3961714; 747536, 3961667; 747595, 3961650; 747663, 3961676; 747697, 3961709; 747717, 3961762; 747736, 3961849; 747772, 3961915; 747796, 3961925; 747782, 3962015; 747816, 3962184; 747859, 3962354; 747907, 3962505; 747939, 3962560; 747966, 3962593; 748060, 3962654; 748122, 3962713; 748175, 3962794; 748232, 3962846; 748290, 3962869; 748403, 3962995; 748449, 3963052; 748518, 3963103; 748583, 3963133; 748689, 3963150; 748815, 3963151; 748922, 3963160; 748980, 3963178; 749031, 3963210; 749087, 3963366; 749147, 3963426; 749220, 3963434; 749271, 3963424; 749352, 3963349; 749423, 3963311; 749527, 3963293; 749613, 3963300; 749691, 3963318; 749754, 3963268; 749781, 3963239; 749790, 3963158; 749819, 3963084; 749862, 3963037; 749905, 3963025; 750137, 3963026; 750155, 3963082; 750160, 3963114; 750198, 3963155; 750272, 3963206; 750293, 3963255; 750314, 3963321; 750339, 3963349; 750385, 3963367; 750433, 3963395; 750548, 3963470; 750589, 3963520; 750630, 3963550; 750649, 3963587; 750677, 3963620; 750722, 3963635; 750758, 3963642; 750816, 3963670; 750861, 3963681; 750913, 3963709; 750935, 3963739; 750969, 3963799; 751032, 3963973; 751061, 3963987; 751112, 3964028; 751151, 3964045; 751193, 3964053; 751238, 3964071; 751260, 3964094; 751285, 3964128; 751327, 3964155; 751349, 3964178; 751407, 3964200; 751482, 3964215; 751537, 3964217; 751589, 3964225; 751633, 3964226; 751637, 3964218; 751651, 3964193; returning to 751686, 3964133.

(ii) Note: Unit SLO-1 (Map M19) follows:

BILLING CODE 4310-55-P

BILLING CODE 4310-55-C

(37) Unit SLO-2, San Luis Obispo County, California.

(i) From USGS 1:24,000 scale quadrangle Piedras Blancas. Land bounded by the following UTM Zone 10, NAD27 coordinates (E,N): 653897, 3956003; 654147, 3955768; 654340, 3955498; 654439, 3955293; 654446, 3955074; 654441, 3954867; 654482, 3954660; 654617, 3954399; 654871, 3954050; 655146, 3953747; 655482, 3953342; 655875, 3952963; 656187, 3952603; 656416, 3952299; 656540, 3952015; 656527, 3951703; 656497, 3951541; 656538, 3951334; 656673, 3951108; 656830, 3950894; 657002, 3950553; 657181, 3949982; 657356, 3949204; 657414, 3948837; 657554, 3948414; 657645, 3948071; 657620, 3947990; 657576, 3948042; 657544, 3948069; 657480, 3948111; 657434, 3948124; 657363, 3948121; 657270, 3948096; 657264, 3948091; 657255, 3948087; 657248, 3948079; 657232, 3948070; 657204, 3948060; 657195, 3948058; 657181, 3948041; 657159, 3948023; 657137, 3948003; 657133, 3947988; 657119, 3947962; 657116, 3947961; 657101, 3947951; 657085, 3947949; 657060, 3947954; 657044, 3947960; 657031, 3947962; 657017, 3947971; 656985, 3947980; 656970, 3947979; 656968, 3947981; 656980, 3948005; 656957, 3948033; 656948, 3948064; 656929, 3948087; 656925, 3948116; 656913, 3948127; 656905, 3948124; 656890, 3948106; 656876, 3948095; 656853, 3948088; 656848, 3948084; 656847, 3948083; 656834, 3948072; 656828, 3948059; 656827, 3948046; 656821, 3948037; 656812, 3948031; 656808, 3948031; 656803, 3948033; 656799, 3948040; 656808, 3948069; 656802, 3948092; 656791, 3948100; 656760, 3948097; 656745, 3948101; 656726, 3948116; 656708, 3948139; 656691, 3948144; 656689, 3948149; 656694, 3948160; 656684, 3948164; 656669, 3948161; 656668, 3948161; 656662, 3948160; 656656, 3948162; 656651, 3948167; 656649, 3948178; 656652, 3948196; 656660, 3948202; 656660, 3948210; 656625, 3948251; 656607, 3948279; 656544, 3948346; 656495, 3948378; 656479, 3948382; 656477, 3948382; 656475, 3948383; 656434, 3948387; 656430, 3948386; 656415, 3948384; 656406, 3948388; 656392, 3948385; 656389, 3948378; 656391, 3948359; 656391, 3948359; 656386, 3948355; 656379, 3948353; 656367, 3948353; 656347, 3948359; 656342, 3948356; 656339, 3948356; 656335, 3948352; 656329, 3948348; 656323, 3948339; 656296, 3948312; 656278, 3948297; 656269, 3948291; 656265, 3948289; 656243, 3948242; 656236, 3948234; 656228, 3948234; 656203, 3948251; 656184, 3948252; 656173, 3948245; 656152, 3948245; 656145, 3948240; 656138, 3948240; 656130, 3948233; 656130, 3948232; 656107, 3948227; 656100, 3948224; 656090, 3948228; 656080, 3948236; 656046, 3948248; 656046, 3948248; 656036, 3948293; 656024, 3948305; 655969, 3948333; 655921, 3948346; 655895, 3948366; 655862, 3948380; 655826, 3948387; 655792, 3948384; 655764, 3948392; 655735, 3948396; 655723, 3948395; 655719, 3948396; 655710, 3948394; 655687, 3948393; 655653, 3948397; 655620, 3948388; 655612, 3948390; 655605, 3948385; 655598, 3948385; 655588, 3948379; 655580, 3948379; 655576, 3948374; 655572, 3948373; 655550, 3948369; 655540, 3948365; 655525, 3948361; 655518, 3948356; 655517, 3948355; 655509, 3948350; 655503, 3948334; 655483, 3948319; 655475, 3948318; 655472, 3948314; 655466, 3948313; 655456, 3948304; 655451, 3948297; 655449, 3948294; 655444, 3948282; 655444, 3948277; 655449, 3948271; 655460, 3948263; 655465, 3948254; 655464, 3948243; 655461, 3948235; 655456, 3948228; 655451, 3948221; 655445, 3948210; 655439, 3948201; 655435, 3948188; 655424, 3948167; 655420, 3948146; 655421, 3948135; 655420, 3948132; 655414, 3948128; 655410, 3948127; 655402, 3948125; 655400, 3948121; 655398, 3948120; 655394, 3948116; 655376, 3948090; 655376, 3948089; 655339, 3948070; 655338, 3948070; 655332, 3948067; 655327, 3948056; 655326, 3948039; 655321, 3948024; 655306, 3948021; 655283, 3948027; 655225, 3948067; 655201, 3948074; 655184, 3948086; 655166, 3948093; 655131, 3948119; 655105, 3948131; 655083, 3948131; 655082, 3948151; 655086, 3948171; 655101, 3948208; 655109, 3948212; 655134, 3948207; 655146, 3948213; 655147, 3948214; 655151, 3948214; 655159, 3948221; 655161, 3948221; 655162, 3948222; 655198, 3948252; 655212, 3948273; 655234, 3948337; 655246, 3948362; 655247, 3948378; 655244, 3948387; 655242, 3948394; 655242, 3948414; 655252, 3948439; 655254, 3948476; 655238, 3948529; 655254, 3948583; 655238, 3948607; 655238, 3948627; 655232, 3948642; 655230, 3948697; 655252, 3948771; 655245, 3948788; 655231, 3948801; 655225, 3948811; 655223, 3948828; 655226, 3948850; 655233, 3948863; 655262, 3948901; 655262, 3948915; 655249, 3948962; 655252, 3948999; 655239, 3949050; 655238, 3949074; 655225, 3949134; 655224, 3949176; 655199, 3949214; 655197, 3949224; 655191, 3949233; 655182, 3949259; 655170, 3949282; 655161, 3949286; 655161, 3949287; 655158, 3949288; 655152, 3949292; 655151, 3949292; 655150, 3949292; 655117, 3949294; 655114, 3949293; 655105, 3949296; 655083, 3949319; 655071, 3949318; 655068, 3949320; 655065, 3949320; 655045, 3949331; 655021, 3949338; 654979, 3949364; 654977, 3949379; 654992, 3949396; 654999, 3949398; 655003, 3949399; 655006, 3949400; 655017, 3949403; 655032, 3949414; 655036, 3949426; 655027, 3949454; 655032, 3949464; 655035, 3949465; 655037, 3949468; 655048, 3949472; 655055, 3949480; 655058, 3949492; 655050, 3949508; 655039, 3949521; 655043, 3949533; 655064, 3949558; 655071, 3949571; 655073, 3949590; 655069, 3949608; 655070, 3949627; 655056, 3949641; 655049, 3949672; 655027, 3949720; 655026, 3949737; 655014, 3949795; 655016, 3949820; 655029, 3949863; 655011, 3949890; 655010, 3949917; 654998, 3949941; 654992, 3949963; 654967, 3949984; 654958, 3950005; 654963, 3950088; 654961, 3950126; 654971, 3950163; 654972, 3950199; 654970, 3950213; 654954, 3950253; 654952, 3950276; 654946, 3950294; 654944, 3950317; 654940, 3950332; 654926, 3950349; 654913, 3950372; 654899, 3950384; 654873, 3950394; 654848, 3950410; 654840, 3950409; 654812, 3950437; 654811, 3950438; 654811, 3950439; 654801, 3950442; 654789, 3950442; 654789, 3950442; 654784, 3950444; 654775, 3950455; 654774, 3950463; 654782, 3950485; 654781, 3950499; 654760, 3950525; 654753, 3950542; 654763, 3950567; 654768, 3950600; 654764, 3950629; 654776, 3950677; 654778, 3950718; 654789, 3950745; 654789, 3950773; 654778, 3950805; 654775, 3950815; 654776, 3950826; 654771, 3950842; 654760, 3950864; 654754, 3950898; 654729, 3950936; 654720, 3950970; 654692, 3951033; 654667, 3951054; 654668, 3951074; 654656, 3951073; 654654, 3951074; 654637, 3951088; 654621, 3951126; 654593, 3951155; 654590, 3951169; 654570, 3951187; 654570, 3951187; 654570, 3951187; 654560, 3951195; 654488, 3951291; 654455, 3951317; 654432, 3951349; 654374, 3951386; 654371, 3951389; 654368, 3951391; 654314, 3951448; 654308, 3951472; 654283, 3951511; 654275, 3951560; 654264, 3951595; 654227, 3951671; 654180, 3951741; 654127, 3951771; 654123, 3951769; 654120, 3951770; 654105, 3951763; 654087, 3951757; 654079, 3951757; 654069, 3951757; 654063, 3951760; 654047, 3951779; 654033, 3951805; 654023, 3951812; 654020, 3951816; 654014, 3951819; 653974, 3951849; 653927, 3951879; 653910, 3951904; 653884, 3951920; 653856, 3951933; 653833, 3951950; 653811, 3951958; 653751, 3952000; 653731, 3952002; 653729, 3952003; 653729, 3952003; 653723, 3952003; 653698, 3952034; 653651, 3952046; 653643, 3952063; 653615, 3952084; 653606, 3952100; 653591, 3952111; 653561, 3952144; 653556, 3952160; 653549, 3952169; 653535, 3952180; 653522, 3952185; 653522, 3952197; 653517, 3952203; 653506, 3952211; 653499, 3952212; 653491, 3952226; 653485, 3952226; 653470, 3952236; 653455, 3952252; 653451, 3952252; 653430, 3952266; 653430, 3952271; 653425, 3952273; 653414, 3952291; 653394, 3952312; 653392, 3952314; 653390, 3952326; 653380, 3952337; 653380, 3952339; 653382, 3952361; 653340, 3952396; 653335, 3952410; 653307, 3952423; 653294, 3952441; 653274, 3952441; 653243, 3952465; 653227, 3952465; 653181, 3952489; 653188, 3952515; 653182, 3952528; 653183, 3952533; 653187, 3952535; 653191, 3952543; 653191, 3952575; 653189, 3952580; 653175, 3952583; 653174, 3952584; 653170, 3952587; 653169, 3952587; 653153, 3952596; 653130, 3952618; 653127, 3952635; 653121, 3952651; 653122, 3952670; 653119, 3952693; 653102, 3952723; 653107, 3952751; 653100, 3952767; 653101, 3952795; 653093, 3952808; 653075, 3952823; 653067, 3952840; 653050, 3952854; 653008, 3952903; 652970, 3952927; 652954, 3952939; 652935, 3952961; 652908, 3952976; 652874, 3953001; 652839, 3953031; 652824, 3953048; 652818, 3953066; 652819, 3953074; 652823, 3953076; 652829, 3953071; 652840, 3953054; 652848, 3953048; 652856, 3953039; 652869, 3953038; 652894, 3953032; 652916, 3953022; 652934, 3953026; 652946, 3953034; 652984, 3953028; 652993, 3953033; 652995, 3953038; 652996, 3953039; 652997, 3953048; 652979, 3953063; 652981, 3953070; 653002, 3953079; 653031, 3953087; 653057, 3953083; 653063, 3953087; 653064, 3953094; 653063, 3953095; 653070, 3953099; 653051, 3953107; 653026, 3953105; 652968, 3953117; 652943, 3953118; 652867, 3953142; 652846, 3953130; 652844, 3953128; 652836, 3953124; 652819, 3953108; 652810, 3953103; 652751, 3953093; 652736, 3953095; 652720, 3953106; 652716, 3953123; 652703, 3953139; 652705, 3953143; 652716, 3953149; 652716, 3953151; 652718, 3953152; 652720, 3953166; 652706, 3953185; 652699, 3953208; 652686, 3953226; 652682, 3953247; 652667, 3953266; 652664, 3953270; 652662, 3953274; 652658, 3953289; 652651, 3953299; 652647, 3953304; 652625, 3953330; 652615, 3953335; 652526, 3953400; 652505, 3953443; 652484, 3953463; 652451, 3953483; 652407, 3953487; 652381, 3953468; 652376, 3953466; 652349, 3953462; 652317, 3953448; 652307, 3953448; 652295, 3953456; 652287, 3953479; 652288, 3953488; 652294, 3953494; 652314, 3953499; 652390, 3953557; 652425, 3953590; 652446, 3953622; 652470, 3953665; 652484, 3953697; 652513, 3953745; 652520, 3953755; 652524, 3953764; 652543, 3953802; 652563, 3953820; 652593, 3953889; 652602, 3953916; 652603, 3953917; 652604, 3953920; 652607, 3953937; 652606, 3953945; 652607, 3953949; 652605, 3953962; 652595, 3953985; 652593, 3953992; 652587, 3954025; 652550, 3954080; 652543, 3954102; 652542, 3954139; 652558, 3954193; 652561, 3954217; 652561, 3954218; 652565, 3954246; 652570, 3954262; 652571, 3954281; 652575, 3954297; 652577, 3954302; 652577, 3954307; 652578, 3954316; 652575, 3954340; 652574, 3954353; 652568, 3954366; 652568, 3954367; 652566, 3954369; 652561, 3954379; 652558, 3954382; 652555, 3954387; 652526, 3954417; 652518, 3954438; 652518, 3954438; 652517, 3954440; 652513, 3954452; 652511, 3954461; 652511, 3954463; 652510, 3954468; 652512, 3954477; 652504, 3954486; 652500, 3954486; 652489, 3954492; 652489, 3954506; 652488, 3954532; 652494, 3954542; 652496, 3954548; 652499, 3954553; 652499, 3954561; 652492, 3954576; 652490, 3954588; 652490, 3954588; 652490, 3954589; 652488, 3954602; 652476, 3954614; 652454, 3954650; 652421, 3954678; 652340, 3954659; 652311, 3954667; 652293, 3954664; 652280, 3954671; 652268, 3954703; 652246, 3954734; 652240, 3954746; 652227, 3954793; 652217, 3954815; 652214, 3954837; 652202, 3954859; 652198, 3954872; 652180, 3954893; 652155, 3954895; 652126, 3954906; 652124, 3954913; 652134, 3954936; 652135, 3954952; 652133, 3954977; 652119, 3955041; 652092, 3955081; 652079, 3955107; 652077, 3955120; 652087, 3955167; 652098, 3955178; 652114, 3955188; 652126, 3955195; 652150, 3955200; 652162, 3955209; 652172, 3955223; 652173, 3955226; 652175, 3955228; 652176, 3955231; 652188, 3955254; 652211, 3955283; 652213, 3955287; 652214, 3955289; 652214, 3955291; 652216, 3955296; 652217, 3955309; 652220, 3955318; 652227, 3955328; 652227, 3955328; 652227, 3955328; 652237, 3955342; 652256, 3955353; 652267, 3955354; 652276, 3955353; 652284, 3955360; 652302, 3955373; 652341, 3955410; 652341, 3955411; 652344, 3955413; 652349, 3955421; 652356, 3955431; 652362, 3955449; 652364, 3955462; 652365, 3955483; 652362, 3955493; 652362, 3955499; 652352, 3955530; 652353, 3955546; 652352, 3955548; 652352, 3955550; 652343, 3955574; 652346, 3955590; 652345, 3955594; 652346, 3955599; 652343, 3955609; 652341, 3955617; 652341, 3955624; 652345, 3955636; 652344, 3955640; 652345, 3955643; 652341, 3955657; 652347, 3955672; 652347, 3955673; 652347, 3955673; 652351, 3955682; 652349, 3955688; 652350, 3955691; 652346, 3955698; 652335, 3955706; 652330, 3955710; 652320, 3955726; 652316, 3955809; 652304, 3955827; 652301, 3955845; 652286, 3955853; 652272, 3955853; 652243, 3955836; 652238, 3955839; 652234, 3955848; 652237, 3955864; 652209, 3955884; 652188, 3955908; 652196, 3955915; 652203, 3955927; 652202, 3955932; 652204, 3955936; 652205, 3955943; 652201, 3955946; 652359, 3956013; 652631, 3956194; 652917, 3956295; 653286, 3956307; 653602, 3956201; returning to 653897, 3956003.

(ii) Note: Unit SLO-2 is depicted on Map M20—Unit SLO-2, SLO-3, and SLO-4—see paragraph (39)(ii):

(38) Unit SLO-3, San Luis Obispo County, California.

(i) From USGS 1:24,000 scale quadrangle San Simeon, Pebblestone Shut-In, Pico Creek, Cambria. Land bounded by the following UTM Zone 10, NAD27 coordinates (E,N): 667357, 3946516; 668241, 3945870; 668994, 3945407; 669702, 3944849; 670357, 3944493; 671039, 3944295; 672209, 3944065; 673285, 3943816; 673749, 3943548; 673846, 3943489; 673853, 3943434; 673881, 3943354; 673903, 3943333; 673932, 3943292; 674037, 3943220; 674084, 3943196; 674117, 3943185; 674169, 3943158; 674237, 3943092; 674276, 3943043; 674305, 3942975; 674306, 3942921; 674323, 3942858; 674490, 3942594; 674489, 3942520; 674481, 3942453; 674462, 3942367; 674468, 3942330; 674459, 3942291; 674466, 3942249; 674463, 3942223; 674476, 3942160; 674488, 3942123; 674491, 3942083; 674467, 3942046; 674451, 3942007; 674448, 3941958; 674441, 3941925; 674480, 3941872; 674501, 3941859; 674539, 3941844; 674578, 3941815; 674617, 3941761; 674705, 3941709; 674738, 3941653; 674735, 3941614; 674750, 3941530; 674751, 3941491; 674768, 3941448; 674784, 3941380; 674809, 3941350; 674834, 3941338; 674862, 3941293; 674914, 3941255; 674952, 3941236; 674999, 3941219; 675092, 3941256; 675121, 3941278; 675230, 3941244; 675371, 3941156; 675456, 3941086; 675505, 3941059; 675509, 3941058; 675483, 3940812; 675335, 3940525; 674999, 3940201; 674518, 3940014; 674220, 3940005; 673873, 3940025; 673385, 3940073; 672885, 3939995; 672466, 3939809; 671970, 3939590; 671443, 3939370; 671162, 3939315; 670911, 3939307; 670626, 3939361; 670246, 3939474; 670220, 3939483; 670096, 3939523; 670097, 3939525; 670091, 3939569; 670052, 3939689; 670053, 3939744; 670048, 3939779; 670027, 3939815; 670002, 3939887; 669987, 3939914; 669978, 3939923; 669967, 3939941; 669934, 3939979; 669933, 3939981; 669933, 3939994; 669939, 3940045; 669930, 3940082; 669927, 3940089; 669917, 3940125; 669864, 3940254; 669850, 3940302; 669842, 3940323; 669836, 3940337; 669825, 3940376; 669793, 3940442; 669782, 3940453; 669771, 3940471; 669746, 3940504; 669676, 3940622; 669643, 3940664; 669639, 3940669; 669633, 3940682; 669623, 3940696; 669609, 3940715; 669573, 3940757; 669537, 3940805; 669472, 3940878; 669448, 3940898; 669448, 3940898; 669447, 3940899; 669437, 3940907; 669419, 3940926; 669403, 3940943; 669399, 3940946; 669391, 3940954; 669372, 3940966; 669344, 3940987; 669327, 3941006; 669296, 3941029; 669275, 3941045; 669264, 3941065; 669244, 3941084; 669234, 3941107; 669209, 3941145; 669151, 3941212; 669108, 3941245; 669002, 3941308; 668981, 3941310; 668948, 3941303; 668942, 3941301; 668933, 3941292; 668917, 3941287; 668861, 3941311; 668728, 3941358; 668678, 3941384; 668632, 3941415; 668615, 3941435; 668610, 3941443; 668602, 3941460; 668593, 3941470; 668592, 3941472; 668578, 3941493; 668550, 3941525; 668546, 3941537; 668539, 3941572; 668531, 3941586; 668524, 3941591; 668472, 3941617; 668454, 3941622; 668443, 3941623; 668407, 3941608; 668402, 3941610; 668381, 3941633; 668363, 3941644; 668337, 3941646; 668301, 3941639; 668291, 3941647; 668285, 3941654; 668275, 3941681; 668258, 3941710; 668251, 3941730; 668220, 3941756; 668210, 3941770; 668198, 3941801; 668193, 3941846; 668185, 3941855; 668163, 3941896; 668141, 3941956; 668121, 3941985; 668086, 3942007; 668080, 3942048; 668060, 3942109; 668058, 3942124; 668036, 3942152; 668023, 3942172; 668017, 3942179; 667999, 3942208; 667959, 3942264; 667922, 3942345; 667917, 3942361; 667892, 3942439; 667883, 3942458; 667873, 3942476; 667858, 3942501; 667856, 3942503; 667843, 3942526; 667789, 3942607; 667755, 3942669; 667728, 3942734; 667665, 3942830; 667648, 3942845; 667566, 3942900; 667565, 3942900; 667558, 3942906; 667522, 3942920; 667482, 3942923; 667470, 3942917; 667464, 3942913; 667456, 3942902; 667448, 3942882; 667445, 3942877; 667434, 3942870; 667424, 3942881; 667401, 3942877; 667372, 3942897; 667375, 3942909; 667370, 3942918; 667369, 3942929; 667378, 3942943; 667367, 3942956; 667370, 3942960; 667382, 3942965; 667368, 3942991; 667369, 3943003; 667374, 3943011; 667390, 3943024; 667405, 3943023; 667428, 3943012; 667433, 3943009; 667442, 3942998; 667451, 3942998; 667461, 3943024; 667475, 3943044; 667475, 3943056; 667470, 3943057; 667470, 3943058; 667460, 3943066; 667455, 3943077; 667462, 3943082; 667466, 3943097; 667460, 3943101; 667458, 3943110; 667462, 3943126; 667452, 3943140; 667444, 3943140; 667438, 3943138; 667437, 3943138; 667429, 3943138; 667415, 3943136; 667405, 3943133; 667370, 3943133; 667343, 3943138; 667313, 3943133; 667304, 3943123; 667298, 3943120; 667294, 3943121; 667284, 3943123; 667275, 3943118; 667274, 3943118; 667263, 3943117; 667252, 3943122; 667232, 3943120; 667230, 3943121; 667227, 3943120; 667217, 3943119; 667206, 3943121; 667196, 3943132; 667184, 3943148; 667174, 3943157; 667164, 3943171; 667164, 3943171; 667165, 3943176; 667169, 3943177; 667174, 3943175; 667175, 3943176; 667177, 3943174; 667180, 3943181; 667194, 3943196; 667213, 3943201; 667218, 3943215; 667226, 3943225; 667246, 3943240; 667260, 3943254; 667265, 3943270; 667265, 3943285; 667253, 3943302; 667254, 3943307; 667238, 3943319; 667226, 3943359; 667211, 3943375; 667204, 3943379; 667202, 3943381; 667195, 3943389; 667194, 3943394; 667192, 3943398; 667192, 3943398; 667187, 3943405; 667185, 3943407; 667179, 3943418; 667183, 3943437; 667178, 3943447; 667143, 3943468; 667113, 3943510; 667100, 3943521; 667093, 3943523; 667092, 3943523; 667084, 3943526; 667081, 3943529; 667077, 3943544; 667074, 3943550; 667072, 3943556; 667067, 3943568; 667072, 3943575; 667070, 3943577; 667072, 3943580; 667052, 3943594; 667026, 3943622; 667007, 3943631; 667004, 3943637; 667005, 3943680; 667010, 3943706; 667009, 3943713; 667000, 3943728; 667012, 3943733; 667005, 3943753; 667004, 3943758; 666989, 3943781; 666988, 3943784; 666962, 3943826; 666917, 3943857; 666884, 3943897; 666837, 3943932; 666823, 3943963; 666827, 3944002; 666807, 3944022; 666801, 3944051; 666780, 3944080; 666713, 3944141; 666685, 3944177; 666665, 3944192; 666657, 3944210; 666649, 3944218; 666643, 3944228; 666639, 3944269; 666617, 3944309; 666560, 3944362; 666538, 3944404; 666528, 3944414; 666517, 3944446; 666509, 3944458; 666479, 3944485; 666470, 3944514; 666461, 3944523; 666454, 3944525; 666451, 3944533; 666449, 3944553; 666403, 3944608; 666362, 3944665; 666321, 3944733; 666315, 3944764; 666305, 3944781; 666302, 3944788; 666293, 3944802; 666281, 3944823; 666246, 3944872; 666225, 3944888; 666201, 3944898; 666195, 3944898; 666192, 3944899; 666184, 3944898; 666178, 3944898; 666175, 3944898; 666170, 3944897; 666142, 3944887; 666107, 3944896; 666100, 3944900; 666069, 3944892; 666056, 3944898; 666055, 3944898; 666041, 3944921; 666033, 3944944; 666033, 3944958; 666045, 3944993; 666042, 3945014; 666020, 3945048; 665953, 3945124; 665937, 3945130; 665930, 3945127; 665929, 3945127; 665929, 3945127; 665920, 3945122; 665912, 3945124; 665909, 3945130; 665911, 3945148; 665893, 3945175; 665865, 3945201; 665814, 3945237; 665801, 3945243; 665766, 3945249; 665751, 3945251; 665720, 3945247; 665708, 3945251; 665669, 3945275; 665664, 3945278; 665664, 3945278; 665663, 3945279; 665651, 3945279; 665638, 3945292; 665637, 3945293; 665627, 3945320; 665567, 3945380; 665557, 3945385; 665547, 3945395; 665526, 3945404; 665522, 3945410; 665469, 3945445; 665434, 3945462; 665429, 3945466; 665417, 3945473; 665397, 3945491; 665386, 3945496; 665385, 3945498; 665361, 3945503; 665360, 3945503; 665359, 3945503; 665326, 3945505; 665307, 3945508; 665275, 3945511; 665256, 3945518; 665239, 3945531; 665197, 3945579; 665164, 3945595; 665115, 3945599; 665044, 3945624; 665015, 3945630; 665005, 3945635; 664992, 3945637; 664978, 3945637; 664945, 3945644; 664932, 3945647; 664904, 3945655; 664883, 3945658; 664849, 3945667; 664835, 3945672; 664817, 3945681; 664799, 3945687; 664787, 3945690; 664785, 3945691; 664783, 3945691; 664769, 3945697; 664752, 3945699; 664734, 3945698; 664720, 3945701; 664705, 3945699; 664684, 3945707; 664681, 3945707; 664679, 3945708; 664665, 3945709; 664642, 3945711; 664618, 3945719; 664600, 3945722; 664588, 3945727; 664570, 3945722; 664561, 3945727; 664541, 3945743; 664501, 3945768; 664499, 3945769; 664498, 3945769; 664477, 3945782; 664406, 3945800; 664374, 3945814; 664321, 3945812; 664318, 3945813; 664316, 3945813; 664315, 3945813; 664276, 3945819; 664239, 3945835; 664199, 3945843; 664163, 3945847; 664110, 3945846; 664095, 3945850; 664094, 3945850; 664066, 3945888; 664047, 3945892; 663980, 3945891; 663941, 3945886; 663906, 3945888; 663898, 3945886; 663872, 3945879; 663868, 3945880; 663843, 3945875; 663793, 3945858; 663789, 3945856; 663742, 3945839; 663675, 3945823; 663629, 3945806; 663576, 3945777; 663549, 3945764; 663507, 3945740; 663462, 3945709; 663394, 3945647; 663382, 3945617; 663370, 3945603; 663365, 3945582; 663367, 3945560; 663382, 3945519; 663384, 3945505; 663384, 3945501; 663380, 3945481; 663385, 3945470; 663398, 3945457; 663406, 3945437; 663417, 3945416; 663418, 3945414; 663419, 3945413; 663420, 3945410; 663430, 3945401; 663436, 3945398; 663448, 3945376; 663449, 3945368; 663443, 3945358; 663440, 3945349; 663442, 3945346; 663442, 3945346; 663446, 3945338; 663451, 3945336; 663455, 3945333; 663464, 3945332; 663469, 3945329; 663471, 3945318; 663470, 3945313; 663468, 3945301; 663473, 3945284; 663465, 3945255; 663468, 3945248; 663469, 3945243; 663479, 3945223; 663482, 3945219; 663484, 3945216; 663493, 3945208; 663496, 3945206; 663509, 3945184; 663510, 3945161; 663516, 3945151; 663518, 3945146; 663520, 3945132; 663529, 3945102; 663529, 3945101; 663529, 3945100; 663530, 3945098; 663536, 3945085; 663538, 3945083; 663540, 3945079; 663547, 3945071; 663550, 3945071; 663556, 3945065; 663561, 3945063; 663562, 3945062; 663564, 3945049; 663565, 3945048; 663566, 3945045; 663577, 3945038; 663580, 3945032; 663582, 3945024; 663581, 3945017; 663577, 3945005; 663593, 3945005; 663601, 3944998; 663609, 3944981; 663604, 3944976; 663597, 3944974; 663589, 3944965; 663588, 3944959; 663573, 3944960; 663569, 3944962; 663564, 3944967; 663557, 3944969; 663528, 3944966; 663518, 3944968; 663504, 3944963; 663490, 3944954; 663484, 3944928; 663484, 3944919; 663476, 3944906; 663474, 3944904; 663469, 3944907; 663452, 3944928; 663443, 3944930; 663440, 3944929; 663436, 3944929; 663430, 3944925; 663429, 3944924; 663428, 3944924; 663418, 3944917; 663414, 3944916; 663357, 3944960; 663337, 3944984; 663327, 3945001; 663318, 3945041; 663311, 3945052; 663306, 3945078; 663293, 3945082; 663264, 3945097; 663233, 3945128; 663223, 3945117; 663216, 3945115; 663213, 3945118; 663217, 3945128; 663210, 3945140; 663203, 3945142; 663191, 3945137; 663186, 3945140; 663179, 3945153; 663165, 3945158; 663152, 3945159; 663142, 3945156; 663137, 3945172; 663088, 3945192; 663056, 3945215; 663040, 3945254; 663047, 3945285; 663017, 3945344; 663016, 3945362; 663002, 3945375; 662981, 3945402; 662959, 3945406; 662958, 3945406; 662958, 3945406; 662954, 3945407; 662944, 3945402; 662939, 3945403; 662936, 3945406; 662917, 3945410; 662896, 3945421; 662892, 3945428; 662889, 3945471; 662889, 3945474; 662888, 3945484; 662887, 3945495; 662886, 3945501; 662880, 3945541; 662871, 3945560; 662870, 3945562; 662842, 3945614; 662837, 3945620; 662831, 3945630; 662823, 3945635; 662813, 3945646; 662809, 3945648; 662807, 3945650; 662771, 3945677; 662750, 3945686; 662734, 3945697; 662708, 3945706; 662671, 3945723; 662653, 3945723; 662638, 3946198; 662740, 3946436; 662848, 3946518; 662985, 3946663; 662965, 3946804; 662897, 3946974; 662870, 3947318; 663019, 3947589; 663261, 3947894; 663630, 3948156; 663988, 3948246; 664442, 3948323; 664870, 3948195; 665335, 3947880; 665943, 3947523; 666473, 3947147; returning to 667357, 3946516.

(ii) Note: Unit SLO-3 is depicted on Map M20—Unit SLO-2, SLO-3, and SLO-4—see paragraph (39)(ii):

(39) Unit SLO-4, San Luis Obispo County, California.

(i) From USGS 1:24,000 scale quadrangle Cambria, Cypress Mountain. Land bounded by the following UTM Zone 10, NAD27 coordinates (E,N): 683203, 3939412; 683482, 3939029; 683870, 3938664; 684741, 3938440; 685845, 3938302; 686557, 3938152; 686887, 3937629; 686965, 3937130; 686766, 3936449; 686653, 3936236; 686577, 3936236; 686496, 3936236; 686273, 3936075; 686112, 3935994; 685932, 3935834; 685717, 3935837; 685307, 3935887; 685083, 3936021; 684790, 3936341; 684547, 3936569; 683959, 3936802; 683468, 3936912; 682505, 3937086; 681870, 3937270; 681297, 3937535; 680613, 3937796; 680032, 3937778; 679439, 3937650; 678352, 3937256; 677530, 3936901; 677143, 3936701; 676847, 3936630; 676498, 3936729; 676259, 3936862; 675740, 3936878; 675177, 3936782; 674697, 3936548; 674347, 3936208; 674039, 3935979; 673587, 3935871; 673178, 3935905; 673003, 3935978; 672793, 3936160; 672547, 3936481; 672418, 3936603; 672243, 3936660; 672103, 3936624; 671886, 3936545; 671887, 3936545; 671875, 3936572; 671874, 3936584; 671867, 3936600; 671850, 3936611; 671841, 3936617; 671789, 3936638; 671767, 3936654; 671748, 3936668; 671728, 3936691; 671714, 3936722; 671708, 3936724; 671706, 3936730; 671698, 3936732; 671697, 3936733; 671692, 3936754; 671683, 3936765; 671683, 3936765; 671672, 3936780; 671664, 3936811; 671654, 3936816; 671652, 3936821; 671636, 3936831; 671628, 3936832; 671622, 3936833; 671613, 3936834; 671609, 3936837; 671592, 3936857; 671591, 3936857; 671585, 3936864; 671578, 3936868; 671574, 3936870; 671560, 3936868; 671555, 3936870; 671554, 3936872; 671551, 3936884; 671554, 3936904; 671515, 3936948; 671516, 3936956; 671528, 3936960; 671527, 3936969; 671520, 3936974; 671520, 3936974; 671516, 3936981; 671515, 3936983; 671493, 3936988; 671491, 3936996; 671492, 3937004; 671508, 3937008; 671499, 3937023; 671499, 3937030; 671505, 3937031; 671508, 3937039; 671505, 3937047; 671500, 3937054; 671500, 3937054; 671497, 3937062; 671485, 3937076; 671477, 3937084; 671455, 3937100; 671443, 3937115; 671439, 3937181; 671433, 3937184; 671431, 3937189; 671418, 3937197; 671410, 3937199; 671398, 3937206; 671388, 3937208; 671380, 3937213; 671376, 3937217; 671367, 3937227; 671366, 3937231; 671369, 3937276; 671365, 3937305; 671356, 3937328; 671356, 3937330; 671321, 3937428; 671315, 3937439; 671312, 3937446; 671292, 3937481; 671258, 3937531; 671250, 3937538; 671245, 3937546; 671219, 3937569; 671173, 3937619; 671173, 3937621; 671164, 3937659; 671154, 3937704; 671152, 3937720; 671154, 3937754; 671148, 3937799; 671119, 3937885; 671105, 3937942; 671073, 3937993; 671068, 3938011; 671048, 3938052; 671035, 3938069; 671035, 3938069; 671030, 3938076; 670995, 3938121; 670976, 3938140; 670971, 3938146; 670984, 3938171; 670989, 3938188; 670987, 3938231; 671034, 3938252; 671072, 3938269; 671289, 3938355; 671490, 3938470; 671596, 3938583; 671766, 3938683; 671920, 3938766; 672093, 3938771; 672503, 3938706; 673201, 3938508; 673692, 3938366; 673963, 3938249; 674328, 3938119; 674706, 3938084; 675206, 3938193; 675685, 3938443; 675915, 3938623; 676111, 3938880; 676311, 3939043; 676590, 3939161; 676921, 3939108; 677442, 3939046; 678177, 3939131; 679053, 3939268; 679831, 3939512; 680615, 3939771; 681221, 3939993; 681709, 3939946; 682359, 3939762; 682914, 3939607; returning to 683203, 3939412.

(ii) Note: Unit SLO-4 is depicted on Map M20—Unit SLO-2, SLO-3, and SLO-4—which follows:

BILLING CODE 4310-55-P

BILLING CODE 4310-55-C

(40) Unit SLO-5, San Luis Obispo County, California.

(i) From USGS 1:24,000 scale quadrangle Cayucos. Land bounded by the following UTM Zone 10, NAD27 coordinates (E,N): 683057, 3929683; 683381, 3929622; 683644, 3929622; 684089, 3929663; 684271, 3929825; 684534, 3929845; 684858, 3929845; 685222, 3929986; 685748, 3929359; 686031, 3928935; 686314, 3928813; 686698, 3928550; 687042, 3928449; 687467, 3928227; 687750, 3928206; 688417, 3928894; 688680, 3929117; 689227, 3929299; 689651, 3929501; 690056, 3929784; 690278, 3929905; 690612, 3930032; 690613, 3930029; 690633, 3929999; 690664, 3929967; 690741, 3929876; 690833, 3929800; 690869, 3929766; 690903, 3929721; 690926, 3929653; 690953, 3929598; 690988, 3929554; 691001, 3929525; 691008, 3929481; 691001, 3929385; 691015, 3929346; 691063, 3929251; 691105, 3929212; 691155, 3929189; 691299, 3929135; 691344, 3929121; 691363, 3929098; 691399, 3928990; 691509, 3928725; 691556, 3928630; 691606, 3928512; 691624, 3928499; 691739, 3928478; 691797, 3928462; 691844, 3928446; 691892, 3928422; 691932, 3928389; 691954, 3928352; 691966, 3928305; 691978, 3928234; 691995, 3928052; 692014, 3927978; 692066, 3927930; 692219, 3927822; 692239, 3927802; 692364, 3927749; 692395, 3927729; 692412, 3927711; 692426, 3927696; 692453, 3927644; 692486, 3927572; 692496, 3927425; 692493, 3927190; 692486, 3926967; 692441, 3926833; 692412, 3926792; 692399, 3926751; 692391, 3926687; 692392, 3926613; 692383, 3926553; 692315, 3926484; 692259, 3926451; 692217, 3926437; 692127, 3926436; 692060, 3926416; 691982, 3926360; 691919, 3926297; 691807, 3926130; 691781, 3926070; 691770, 3926002; 691755, 3925952; 691735, 3925918; 691720, 3925873; 691681, 3925827; 691537, 3925756; 691491, 3925684; 691464, 3925426; 691410, 3925120; 691401, 3925028; 691390, 3924961; 691332, 3924856; 691332, 3924796; 691349, 3924723; 691354, 3924639; 691374, 3924594; 691383, 3924471; 691381, 3924346; 691324, 3924388; 691143, 3924531; 690940, 3924652; 690790, 3924810; 690556, 3925133; 690458, 3925284; 690323, 3925359; 690022, 3925367; 689691, 3925239; 689495, 3925096; 689375, 3925036; 689269, 3924998; 689246, 3924900; 689245, 3924900; 689200, 3924880; 689186, 3924870; 689176, 3924856; 689175, 3924854; 689172, 3924845; 689163, 3924823; 689162, 3924822; 689151, 3924811; 689139, 3924804; 689138, 3924804; 689091, 3924784; 689071, 3924779; 689046, 3924770; 689040, 3924757; 689035, 3924751; 689014, 3924734; 688987, 3924728; 688930, 3924723; 688912, 3924722; 688894, 3924727; 688888, 3924725; 688888, 3924723; 688886, 3924722; 688886, 3924712; 688886, 3924709; 688879, 3924700; 688866, 3924701; 688854, 3924701; 688847, 3924693; 688846, 3924687; 688847, 3924685; 688851, 3924671; 688852, 3924670; 688851, 3924668; 688861, 3924658; 688861, 3924649; 688859, 3924644; 688846, 3924628; 688835, 3924616; 688825, 3924614; 688824, 3924618; 688824, 3924618; 688831, 3924628; 688839, 3924631; 688839, 3924639; 688836, 3924640; 688837, 3924641; 688839, 3924644; 688833, 3924649; 688817, 3924651; 688807, 3924659; 688799, 3924661; 688788, 3924668; 688785, 3924671; 688778, 3924673; 688727, 3924696; 688723, 3924696; 688707, 3924700; 688701, 3924696; 688698, 3924685; 688699, 3924682; 688700, 3924678; 688699, 3924675; 688698, 3924668; 688687, 3924661; 688667, 3924652; 688665, 3924648; 688661, 3924640; 688650, 3924634; 688645, 3924641; 688639, 3924668; 688632, 3924676; 688628, 3924682; 688627, 3924691; 688623, 3924691; 688622, 3924692; 688604, 3924698; 688592, 3924693; 688591, 3924693; 688586, 3924692; 688561, 3924691; 688542, 3924683; 688526, 3924681; 688507, 3924670; 688504, 3924671; 688498, 3924677; 688490, 3924676; 688489, 3924674; 688486, 3924673; 688483, 3924665; 688474, 3924657; 688463, 3924657; 688456, 3924660; 688455, 3924660; 688450, 3924673; 688448, 3924673; 688446, 3924678; 688433, 3924679; 688424, 3924676; 688378, 3924681; 688362, 3924677; 688350, 3924676; 688326, 3924669; 688321, 3924662; 688320, 3924649; 688321, 3924647; 688322, 3924642; 688321, 3924640; 688319, 3924629; 688308, 3924625; 688297, 3924626; 688292, 3924630; 688286, 3924638; 688277, 3924637; 688253, 3924639; 688224, 3924644; 688189, 3924643; 688167, 3924645; 688112, 3924643; 688080, 3924632; 688022, 3924640; 688020, 3924641; 687975, 3924656; 687945, 3924681; 687910, 3924700; 687904, 3924699; 687887, 3924704; 687867, 3924693; 687842, 3924685; 687799, 3924678; 687788, 3924674; 687781, 3924664; 687776, 3924650; 687766, 3924642; 687760, 3924638; 687748, 3924636; 687742, 3924636; 687704, 3924638; 687670, 3924633; 687668, 3924633; 687652, 3924639; 687633, 3924643; 687576, 3924640; 687538, 3924642; 687513, 3924633; 687505, 3924637; 687515, 3924648; 687513, 3924661; 687512, 3924662; 687511, 3924662; 687511, 3924665; 687494, 3924669; 687491, 3924669; 687475, 3924670; 687473, 3924669; 687469, 3924670; 687449, 3924655; 687437, 3924651; 687420, 3924650; 687411, 3924640; 687397, 3924631; 687388, 3924632; 687379, 3924629; 687353, 3924626; 687349, 3924627; 687337, 3924633; 687325, 3924632; 687323, 3924633; 687323, 3924632; 687315, 3924632; 687304, 3924624; 687291, 3924619; 687276, 3924616; 687275, 3924616; 687275, 3924616; 687274, 3924616; 687263, 3924611; 687257, 3924602; 687257, 3924596; 687257, 3924596; 687262, 3924587; 687264, 3924577; 687263, 3924577; 687255, 3924574; 687187, 3924572; 687135, 3924556; 687102, 3924548; 687098, 3924546; 687080, 3924544; 687062, 3924547; 687049, 3924542; 687047, 3924542; 687039, 3924538; 687030, 3924534; 687011, 3924510; 686997, 3924505; 686977, 3924486; 686969, 3924481; 686953, 3924475; 686949, 3924476; 686947, 3924473; 686943, 3924472; 686929, 3924464; 686923, 3924465; 686907, 3924478; 686893, 3924506; 686892, 3924507; 686892, 3924508; 686887, 3924510; 686853, 3924529; 686839, 3924543; 686830, 3924563; 686809, 3924564; 686804, 3924554; 686796, 3924550; 686793, 3924552; 686793, 3924561; 686805, 3924577; 686805, 3924579; 686806, 3924580; 686806, 3924580; 686806, 3924582; 686808, 3924590; 686803, 3924603; 686800, 3924604; 686796, 3924609; 686745, 3924637; 686730, 3924638; 686706, 3924637; 686687, 3924634; 686671, 3924635; 686651, 3924629; 686633, 3924617; 686618, 3924613; 686599, 3924595; 686579, 3924583; 686568, 3924579; 686525, 3924548; 686504, 3924534; 686478, 3924526; 686433, 3924524; 686404, 3924526; 686379, 3924529; 686373, 3924530; 686334, 3924540; 686309, 3924544; 686262, 3924559; 686226, 3924583; 686167, 3924605; 686146, 3924616; 686135, 3924627; 686123, 3924632; 686114, 3924639; 686105, 3924640; 686101, 3924638; 686097, 3924638; 686088, 3924633; 686078, 3924632; 686056, 3924635; 686052, 3924635; 686023, 3924643; 686022, 3924643; 685980, 3924655; 685976, 3924658; 685972, 3924662; 685971, 3924679; 685978, 3924703; 685979, 3924716; 685966, 3924750; 685943, 3924777; 685913, 3924785; 685886, 3924803; 685882, 3924809; 685881, 3924818; 685890, 3924818; 685900, 3924812; 685922, 3924814; 685924, 3924816; 685927, 3924817; 685928, 3924821; 685930, 3924822; 685952, 3924864; 685960, 3924895; 685961, 3924897; 685960, 3924901; 685962, 3924904; 685962, 3924916; 685944, 3924982; 685939, 3924989; 685917, 3924995; 685913, 3925004; 685933, 3925028; 685933, 3925028; 685933, 3925029; 685935, 3925030; 685936, 3925049; 685924, 3925068; 685903, 3925081; 685902, 3925082; 685898, 3925105; 685885, 3925115; 685874, 3925129; 685860, 3925132; 685835, 3925146; 685814, 3925145; 685781, 3925154; 685777, 3925152; 685776, 3925153; 685757, 3925150; 685746, 3925151; 685743, 3925152; 685737, 3925163; 685735, 3925175; 685723, 3925182; 685708, 3925186; 685684, 3925182; 685682, 3925182; 685664, 3925191; 685637, 3925198; 685627, 3925195; 685622, 3925200; 685619, 3925205; 685620, 3925219; 685615, 3925219; 685614, 3925222; 685601, 3925224; 685589, 3925235; 685585, 3925240; 685582, 3925241; 685580, 3925242; 685558, 3925254; 685555, 3925265; 685551, 3925267; 685549, 3925271; 685534, 3925272; 685528, 3925274; 685517, 3925274; 685499, 3925276; 685485, 3925281; 685468, 3925282; 685435, 3925294; 685415, 3925309; 685357, 3925382; 685341, 3925388; 685330, 3925396; 685313, 3925404; 685298, 3925413; 685287, 3925415; 685255, 3925408; 685256, 3925404; 685251, 3925402; 685249, 3925390; 685245, 3925387; 685244, 3925387; 685227, 3925395; 685226, 3925396; 685224, 3925396; 685222, 3925397; 685217, 3925399; 685206, 3925397; 685197, 3925397; 685188, 3925397; 685158, 3925390; 685127, 3925389; 685114, 3925402; 685105, 3925423; 685100, 3925457; 685092, 3925477; 685065, 3925513; 685049, 3925523; 685021, 3925554; 685002, 3925567; 684979, 3925572; 684949, 3925568; 684915, 3925552; 684872, 3925538; 684868, 3925533; 684859, 3925530; 684847, 3925535; 684809, 3925561; 684779, 3925585; 684740, 3925627; 684729, 3925646; 684732, 3925672; 684724, 3925682; 684693, 3925691; 684678, 3925710; 684666, 3925705; 684664, 3925706; 684643, 3925708; 684634, 3925716; 684628, 3925725; 684625, 3925730; 684596, 3925751; 684593, 3925778; 684587, 3925793; 684568, 3925817; 684518, 3925851; 684457, 3925900; 684439, 3925919; 684351, 3925949; 684329, 3925959; 684259, 3925974; 684220, 3925975; 684215, 3925974; 684205, 3925974; 684180, 3925970; 684172, 3925961; 684167, 3925950; 684165, 3925930; 684159, 3925908; 684148, 3925902; 684140, 3925903; 684128, 3925906; 684099, 3925923; 684082, 3925921; 684081, 3925921; 684081, 3925921; 684080, 3925921; 684080, 3925920; 684071, 3925901; 684068, 3925900; 684055, 3925901; 684044, 3925897; 684042, 3925894; 684036, 3925893; 684030, 3925886; 684026, 3925878; 684024, 3925874; 684017, 3925871; 684016, 3925871; 684001, 3925876; 683971, 3925896; 683946, 3925896; 683944, 3925895; 683941, 3925896; 683896, 3925890; 683882, 3925885; 683870, 3925886; 683854, 3925895; 683845, 3925891; 683842, 3925892; 683826, 3925887; 683812, 3925888; 683808, 3925889; 683807, 3925889; 683753, 3925894; 683745, 3925893; 683743, 3925891; 683741, 3925891; 683721, 3925878; 683709, 3925865; 683663, 3925848; 683654, 3925845; 683637, 3925841; 683604, 3925846; 683595, 3925846; 683593, 3925846; 683585, 3925846; 683561, 3925845; 683539, 3925842; 683519, 3925834; 683506, 3925831; 683505, 3925833; 683508, 3925841; 683506, 3925848; 683493, 3925852; 683491, 3925855; 683480, 3925866; 683461, 3925870; 683422, 3925862; 683409, 3925861; 683394, 3925853; 683385, 3925853; 683385, 3925859; 683390, 3925880; 683379, 3925894; 683376, 3925914; 683368, 3925933; 683355, 3925955; 683352, 3925955; 683349, 3925959; 683341, 3925965; 683331, 3925964; 683329, 3925972; 683323, 3925972; 683322, 3925975; 683314, 3925978; 683289, 3925975; 683276, 3925977; 683262, 3925971; 683248, 3925972; 683235, 3925969; 683218, 3925969; 683197, 3925972; 683183, 3925959; 683174, 3925957; 683168, 3925957; 683165, 3925963; 683157, 3925967; 683153, 3925967; 683145, 3925971; 683134, 3925971; 683124, 3925958; 683109, 3925955; 683103, 3925947; 683093, 3925948; 683089, 3925952; 683078, 3925956; 683076, 3925955; 683073, 3925956; 683062, 3925958; 683050, 3925946; 683034, 3925936; 683020, 3925937; 683018, 3925936; 682993, 3925937; 682988, 3925944; 682982, 3925947; 682968, 3925950; 682957, 3925946; 682928, 3925942; 682922, 3925944; 682922, 3925946; 682914, 3925948; 682908, 3925958; 682901, 3925960; 682887, 3925957; 682875, 3925957; 682869, 3925959; 682858, 3925967; 682837, 3925977; 682833, 3925979; 682816, 3925988; 682795, 3925997; 682792, 3925997; 682787, 3926000; 682757, 3926019; 682737, 3926036; 682734, 3926040; 682733, 3926041; 682719, 3926068; 682701, 3926082; 682699, 3926085; 682690, 3926085; 682663, 3926092; 682654, 3926098; 682649, 3926099; 682613, 3926119; 682608, 3926124; 682602, 3926129; 682599, 3926130; 682593, 3926134; 682593, 3926133; 682590, 3926135; 682578, 3926114; 682572, 3926108; 682571, 3926108; 682569, 3926110; 682573, 3926139; 682562, 3926133; 682562, 3926134; 682559, 3926134; 682555, 3926141; 682556, 3926166; 682539, 3926175; 682539, 3926175; 682539, 3926175; 682525, 3926183; 682494, 3926190; 682491, 3926187; 682485, 3926189; 682473, 3926173; 682469, 3926170; 682466, 3926180; 682460, 3926173; 682459, 3926178; 682445, 3926167; 682444, 3926174; 682440, 3926179; 682443, 3926201; 682433, 3926196; 682433, 3926198; 682427, 3926199; 682419, 3926197; 682411, 3926192; 682382, 3926186; 682369, 3926189; 682364, 3926191; 682363, 3926191; 682342, 3926205; 682339, 3926212; 682332, 3926212; 682329, 3926213; 682324, 3926207; 682324, 3926196; 682326, 3926190; 682322, 3926180; 682308, 3926184; 682296, 3926193; 682286, 3926214; 682264, 3926242; 682260, 3926264; 682256, 3926270; 682237, 3926281; 682233, 3926286; 682223, 3926290; 682212, 3926299; 682202, 3926305; 682185, 3926318; 682182, 3926318; 682175, 3926323; 682128, 3926326; 682115, 3926325; 681841, 3926788; 681329, 3926900; 680982, 3927336; 680833, 3927740; 680834, 3928225; 680966, 3928592; 681098, 3928762; 681257, 3928987; 681429, 3929068; 682322, 3930182; 682875, 3929905; returning to 683057, 3929683.

(ii) Note: Unit SLO-5 is depicted on Map M21—Unit SLO-5, SLO-6 and SLO-7—see paragraph (42)(ii):

(41) Unit SLO-6, San Luis Obispo County, California.

(i) From USGS 1:24,000 scale quadrangle Morro Bay North, Cayucos. Land bounded by the following UTM Zone 10, NAD27 coordinates (E,N): 700525, 3926590; 700513, 3926469; 700513, 3925973; 700493, 3925784; 700464, 3925501; 700613, 3925228; 700836, 3925054; 701177, 3924874; 700826, 3924892; 700523, 3924957; 700415, 3924871; 700285, 3924698; 700194, 3924567; 700134, 3924482; 699961, 3924265; 699723, 3923963; 699334, 3923746; 699074, 3923552; 698923, 3923336; 698750, 3923055; 698512, 3923011; 698339, 3922968; 698058, 3922968; 697907, 3922968; 697647, 3922903; 697474, 3922752; 697474, 3922536; 697366, 3922298; 697172, 3922125; 697085, 3921887; 696847, 3921563; 696566, 3921325; 696436, 3921065; 696372, 3920741; 696155, 3920330; 696069, 3920092; 695874, 3919876; 695723, 3919768; 695615, 3919487; 695553, 3919385; 695526, 3919394; 695279, 3919493; 695114, 3919691; 694899, 3919905; 694734, 3920136; 694668, 3920318; 694552, 3920450; 694420, 3920565; 694255, 3920582; 694156, 3920631; 693760, 3920747; 693694, 3920846; 693694, 3921192; 693595, 3921324; 693397, 3921423; 693183, 3921589; 693034, 3921704; 692952, 3921886; 692886, 3922084; 692886, 3922331; 692737, 3922529; 692638, 3922645; 692556, 3922744; 692452, 3922808; 692385, 3922910; 692220, 3923081; 692070, 3923197; 691953, 3923266; 691895, 3923406; 691902, 3923456; 691859, 3923494; 691755, 3923745; 691735, 3923774; 691730, 3923833; 691730, 3923965; 691714, 3924114; 691714, 3924444; 691730, 3924609; 691796, 3924741; 692143, 3924774; 692374, 3924774; 692638, 3924691; 692836, 3924642; 693018, 3924559; 693133, 3924757; 693265, 3924873; 693265, 3925087; 693397, 3925285; 693496, 3925467; 693595, 3925747; 693678, 3925846; 693760, 3925978; 693859, 3926110; 693859, 3926193; 693744, 3926193; 693678, 3926077; 693414, 3926143; 693414, 3926342; 693562, 3926540; 693562, 3926705; 693661, 3926903; 693793, 3927084; 693826, 3927216; 693942, 3927348; 694056, 3927463; 694099, 3927483; 694128, 3927364; 694153, 3927310; 694212, 3927216; 694239, 3927125; 694297, 3926979; 694342, 3926916; 694414, 3926856; 694508, 3926845; 694606, 3926848; 694681, 3926854; 694790, 3926882; 694883, 3926939; 694962, 3926965; 695031, 3926978; 695146, 3926971; 695291, 3926996; 695406, 3927006; 695633, 3927041; 695738, 3927053; 695823, 3927040; 696026, 3926955; 696141, 3926962; 696207, 3926990; 696222, 3926997; 696317, 3927028; 696406, 3927053; 696476, 3927085; 696549, 3927132; 696598, 3927151; 696639, 3927147; 696681, 3927123; 696732, 3927085; 696786, 3927057; 696867, 3927032; 696930, 3926988; 697004, 3926877; 697163, 3926835; 697224, 3926832; 697295, 3926840; 697350, 3926828; 697397, 3926797; 697454, 3926753; 697527, 3926722; 697618, 3926741; 697680, 3926735; 697776, 3926711; 697823, 3926696; 697912, 3926625; 697957, 3926609; 698020, 3926600; 698076, 3926603; 698138, 3926624; 698211, 3926670; 698391, 3926733; 698419, 3926707; 698439, 3926639; 698472, 3926600; 698525, 3926615; 698594, 3926640; 698602, 3926640; 698675, 3926640; 698752, 3926623; 698832, 3926590; 698874, 3926595; 698920, 3926617; 698966, 3926658; 699032, 3926745; 699087, 3926786; 699141, 3926803; 699210, 3926818; 699322, 3926907; 699354, 3926939; 699385, 3926978; 699398, 3926998; 699404, 3927007; 699417, 3927028; 699431, 3927091; 699497, 3927220; 699529, 3927273; 699568, 3927322; 699607, 3927356; 699642, 3927375; 699706, 3927418; 699792, 3927450; 699859, 3927461; 699948, 3927467; 700011, 3927488; 700050, 3927505; 700100, 3927513; 700155, 3927534; 700192, 3927562; 700215, 3927607; 700239, 3927672; 700273, 3927727; 700361, 3927791; 700372, 3927802; 700489, 3927536; 700563, 3927313; 700563, 3926966; returning to 700525, 3926590.

(ii) Note: Unit SLO-6 is depicted on Map M21—Unit SLO-5, SLO-6 and SLO-7—see paragraph (42)(ii):

(42) Unit SLO-7, San Luis Obispo County, California.

(i) From USGS 1:24,000 scale quadrangle San Luis Obispo, Morro Bay South, Lopez Mtn., Atascadero. Land bounded by the following UTM Zone 10, NAD27 coordinates (E,N): 711375, 3916303; 711503, 3916272; 711599, 3916278; 711661, 3916314; 711707, 3916333; 711757, 3916333; 711856, 3916306; 711957, 3916263; 712136, 3916212; 712250, 3916190; 712362, 3916160; 712500, 3916114; 712645, 3916053; 712709, 3916019; 712748, 3915990; 712788, 3915965; 712823, 3915937; 712840, 3915899; 712860, 3915839; 712861, 3915805; 712831, 3915739; 712826, 3915710; 712827, 3915671; 712851, 3915616; 712881, 3915576; 712910, 3915561; 712954, 3915545; 712984, 3915526; 712991, 3915457; 712981, 3915387; 712983, 3915282; 712995, 3915208; 713014, 3915134; 713056, 3915052; 713096, 3915024; 713180, 3914992; 713207, 3914959; 713275, 3914859; 713384, 3914729; 713433, 3914693; 713524, 3914650; 713561, 3914628; 713628, 3914554; 713660, 3914532; 713762, 3914490; 713883, 3914424; 713901, 3914406; 713909, 3914377; 713922, 3914263; 713940, 3914209; 714009, 3914124; 714046, 3914090; 714169, 3914016; 714216, 3914016; 714276, 3913999; 714425, 3913926; 714464, 3913898; 714509, 3913889; 714631, 3913900; 714755, 3913918; 714893, 3913918; 714965, 3913941; 714990, 3913951; 715001, 3913955; 715033, 3913968; 715093, 3914005; 715132, 3914045; 715142, 3914070; 715150, 3914112; 715146, 3914161; 715156, 3914213; 715180, 3914257; 715221, 3914296; 715266, 3914324; 715334, 3914343; 715418, 3914357; 715587, 3914394; 715729, 3914443; 715751, 3914462; 715813, 3914543; 715838, 3914544; 715862, 3914523; 715927, 3914418; 715955, 3914360; 716018, 3914258; 716053, 3914177; 716107, 3913983; 716133, 3913918; 716166, 3913872; 716185, 3913836; 716184, 3913798; 716160, 3913751; 716146, 3913695; 716147, 3913654; 716170, 3913623; 716266, 3913595; 716332, 3913585; 716462, 3913574; 716491, 3913552; 716513, 3913472; 716532, 3913419; 716565, 3913361; 716602, 3913323; 716623, 3913302; 716627, 3913298; 716677, 3913256; 716731, 3913195; 716783, 3913169; 716830, 3913185; 716922, 3913260; 716955, 3913247; 717064, 3913180; 717104, 3913138; 717141, 3913065; 717185, 3912951; 717212, 3912871; 717236, 3912812; 717270, 3912696; 717292, 3912663; 717321, 3912634; 717344, 3912599; 717341, 3912580; 717325, 3912554; 717328, 3912499; 717383, 3912384; 717409, 3912313; 717423, 3912255; 717468, 3912136; 717512, 3912067; 717537, 3912015; 717558, 3911935; 717596, 3911845; 717665, 3911751; 717716, 3911696; 717779, 3911589; 717805, 3911553; 717843, 3911508; 717860, 3911466; 717854, 3911413; 717786, 3911335; 717766, 3911299; 717758, 3911272; 717758, 3911254; 717726, 3911167; 717731, 3911141; 717755, 3911081; 717795, 3911029; 717845, 3910972; 717981, 3910806; 717993, 3910758; 718017, 3910626; 718052, 3910536; 718169, 3910401; 718215, 3910363; 718240, 3910306; 718192, 3910067; 718203, 3909972; 718203, 3909970; 718206, 3909962; 718287, 3909735; 718335, 3909652; 718434, 3909550; 718505, 3909488; 718540, 3909448; 718544, 3909442; 718558, 3909426; 718590, 3909381; 718629, 3909312; 718670, 3909254; 718783, 3909118; 718850, 3909031; 718887, 3908988; 718970, 3908869; 719018, 3908788; 719192, 3908551; 719223, 3908487; 719251, 3908417; 719274, 3908373; 719278, 3908366; 719278, 3908365; 719304, 3908329; 719338, 3908288; 719372, 3908258; 719425, 3908205; 719436, 3908195; 719441, 3908190; 719455, 3908184; 719504, 3908146; 719529, 3908120; 719562, 3908073; 719600, 3908028; 719647, 3907974; 719677, 3907946; 719697, 3907913; 719700, 3907869; 719710, 3907823; 719748, 3907764; 719802, 3907737; 719850, 3907729; 719881, 3907705; 719911, 3907677; 719991, 3907590; 720063, 3907521; 720152, 3907408; 720184, 3907370; 720204, 3907354; 720169, 3907336; 720106, 3907274; 720027, 3907209; 719997, 3907189; 719977, 3907176; 719961, 3907169; 719863, 3907126; 719827, 3907099; 719802, 3907049; 719756, 3906930; 719713, 3906887; 719677, 3906864; 719639, 3906828; 719605, 3906790; 719525, 3906734; 719431, 3906655; 719343, 3906531; 719271, 3906397; 719240, 3906353; 719187, 3906323; 719104, 3906320; 719044, 3906311; 719007, 3906298; 718920, 3906286; 718724, 3906291; 718661, 3906281; 718631, 3906271; 718587, 3906229; 718535, 3906102; 718494, 3906042; 718379, 3905952; 718293, 3905926; 718211, 3905954; 718127, 3906003; 718060, 3906026; 717993, 3906029; 717918, 3906014; 717766, 3905967; 717681, 3905971; 717607, 3905996; 717546, 3906007; 717477, 3906001; 717397, 3905986; 717257, 3905942; 717197, 3905906; 717172, 3905863; 717147, 3905798; 717124, 3905714; 717017, 3905776; 716918, 3905828; 716836, 3905876; 716745, 3905915; 716507, 3905968; 716435, 3905975; 716386, 3905988; 716315, 3906013; 716172, 3906099; 716107, 3906148; 716030, 3906217; 715971, 3906252; 715943, 3906264; 715923, 3906293; 715911, 3906321; 715910, 3906347; 715852, 3906428; 715812, 3906444; 715767, 3906447; 715633, 3906476; 715562, 3906525; 715483, 3906620; 715397, 3906710; 715296, 3906802; 715185, 3906910; 715105, 3906956; 715025, 3906969; 714953, 3906974; 714864, 3906968; 714760, 3906971; 714662, 3906991; 714577, 3907016; 714509, 3907044; 714467, 3907048; 714417, 3907027; 714355, 3906983; 714281, 3906926; 714202, 3906858; 714194, 3906870; 714006, 3907088; 713998, 3907327; 713998, 3907502; 713998, 3907698; 714114, 3907835; 714252, 3907944; 714325, 3908046; 714339, 3908177; 714310, 3908285; 714078, 3908351; 713933, 3908394; 713657, 3908402; 713461, 3908409; 713437, 3908423; 713294, 3908510; 713185, 3908685; 713185, 3908946; 713164, 3909142; 713084, 3909272; 712968, 3909381; 712917, 3909505; 713091, 3909766; 713113, 3909875; 713055, 3909926; 712823, 3909933; 712685, 3909933; 712561, 3910013; 712438, 3910078; 712322, 3910100; 712220, 3910042; 712060, 3909955; 711908, 3909962; 711748, 3910020; 711647, 3910027; 711545, 3909831; 711393, 3909759; 711255, 3909672; 710943, 3909606; 710865, 3909598; 710747, 3909585; 710536, 3909556; 710268, 3909476; 709985, 3909381; 709840, 3909243; 709948, 3909018; 710079, 3908808; 710086, 3908699; 710108, 3908561; 710108, 3908354; 710063, 3908380; 710006, 3908421; 709895, 3908522; 709806, 3908590; 709767, 3908623; 709730, 3908654; 709640, 3908770; 709536, 3908835; 709500, 3908879; 709469, 3908937; 709428, 3908982; 709362, 3909006; 709318, 3909005; 709250, 3909009; 709183, 3909029; 709115, 3909089; 709087, 3909114; 709041, 3909135; 709002, 3909145; 708906, 3909193; 708879, 3909216; 708827, 3909269; 708747, 3909336; 708705, 3909377; 708654, 3909438; 708525, 3909539; 708486, 3909557; 708447, 3909567; 708387, 3909576; 708312, 3909574; 708246, 3909580; 708197, 3909596; 708118, 3909653; 708048, 3909715; 707996, 3909754; 707944, 3909787; 707895, 3909804; 707844, 3909819; 707706, 3910003; 707656, 3910251; 707656, 3910498; 707656, 3910762; 707755, 3910911; 708261, 3910944; 708332, 3910891; 708626, 3910941; 708976, 3910911; 709142, 3911010; 709231, 3911070; 709340, 3911142; 709587, 3911241; 709736, 3911389; 709769, 3911637; 709554, 3911769; 709323, 3911769; 709274, 3911769; 708943, 3911686; 708734, 3911382; 708333, 3911241; 708118, 3911241; 708019, 3911455; 707920, 3911538; 707689, 3911505; 707458, 3911323; 707178, 3911323; 706798, 3911505; 706616, 3911670; 706484, 3911802; 706348, 3911971; 706420, 3912219; 706502, 3912461; 706642, 3912688; 706806, 3912809; 706759, 3912987; 706501, 3913106; 706220, 3913106; 705956, 3912759; 705775, 3912611; 705527, 3912512; 705428, 3912413; 705197, 3912495; 705049, 3912495; 704834, 3912380; 704702, 3912380; 704392, 3912375; 704391, 3912388; 704058, 3912594; 703760, 3912727; 703613, 3912792; 703365, 3913040; 703218, 3913236; 703167, 3913304; 702996, 3913512; 702936, 3913584; 702867, 3913654; 702871, 3913657; 703107, 3913880; 703307, 3914127; 703495, 3914433; 703636, 3914751; 703825, 3915022; 703845, 3915082; 703849, 3915093; 703873, 3915167; 703884, 3915198; 704084, 3915410; 704272, 3915587; 704318, 3915600; 704520, 3915658; 704743, 3915669; 705038, 3915563; 705308, 3915540; 705556, 3915540; 705564, 3915540; 705779, 3915540; 706180, 3915528; 706403, 3915540; 706437, 3915583; 706521, 3915693; 706721, 3915799; 706886, 3915940; 706956, 3916242; 706957, 3916246; 707181, 3916305; 707381, 3916364; 707569, 3916458; 707911, 3916658; 708028, 3916725; 708264, 3916859; 708617, 3916882; 709229, 3917118; 709453, 3917247; 709724, 3917400; 709884, 3917534; 709924, 3917476; 709952, 3917422; 709970, 3917343; 710001, 3917096; 710063, 3917051; 710127, 3917014; 710167, 3916981; 710221, 3916926; 710280, 3916882; 710335, 3916853; 710404, 3916829; 710568, 3916805; 710626, 3916793; 710704, 3916790; 710782, 3916778; 710848, 3916735; 710895, 3916681; 710926, 3916610; 710953, 3916560; 711034, 3916478; 711075, 3916453; 711235, 3916375; 711242, 3916372; 711263, 3916361; 711291, 3916347; 711304, 3916340; returning to 711375, 3916303.

(ii) Note: Unit SLO-7 is depicted on Map M21—Unit SLO-5, SLO-6 and SLO-7—which follows:

BILLING CODE 4310-55-P

BILLING CODE 4310-55-C

>

(43) Unit SLO-8, San Luis Obispo County, California.

(i) From USGS 1:24,000 scale quadrangle Pozo Summit, La Panza, Caldwell Mesa, Los Machos Hills. Land bounded by the following UTM Zone 10, NAD27 coordinates (E,N): 742342, 3910355; 742377, 3910329; 742444, 3910300; 742490, 3910289; 742528, 3910268; 742613, 3910177; 742672, 3910122; 742732, 3910097; 742793, 3910060; 742859, 3910036; 742886, 3910019; 742896, 3909995; 742970, 3910001; 742987, 3910011; 743049, 3909814; 743416, 3909965; 743654, 3909836; 744021, 3909620; 744518, 3909447; 744885, 3909015; 744885, 3908647; 745101, 3908669; 745404, 3908669; 745749, 3908669; 746009, 3908669; 746225, 3908647; 746246, 3908474; 746268, 3908345; 746506, 3908258; 746743, 3907826; 746789, 3907806; 747132, 3907653; 747345, 3907423; 747650, 3907244; 747910, 3907092; 747910, 3906919; 748076, 3906852; 748126, 3906832; 748385, 3906703; 748537, 3906616; 748796, 3906573; 749142, 3906487; 749639, 3906465; 749834, 3906249; 750071, 3906227; 750244, 3906033; 750719, 3905644; 750849, 3905277; 750904, 3904999; 750913, 3904952; 750913, 3904672; 751216, 3904477; 751285, 3904328; 751346, 3904196; 751475, 3904131; 751843, 3904131; 752059, 3904326; 752318, 3904542; 752599, 3904866; 752901, 3905104; 753182, 3905125; 753398, 3905125; 753658, 3905125; 754148, 3905082; 754143, 3905057; 754133, 3904979; 754112, 3904920; 754079, 3904874; 754047, 3904844; 754015, 3904826; 753979, 3904798; 753954, 3904740; 753951, 3904697; 753956, 3904595; 753991, 3904522; 754019, 3904473; 754074, 3904400; 754093, 3904371; 754119, 3904319; 754077, 3904256; 754060, 3904215; 754051, 3904138; 754032, 3904091; 754007, 3904050; 753994, 3903997; 753995, 3903925; 754009, 3903858; 754035, 3903764; 754040, 3903708; 754031, 3903672; 753973, 3903588; 753956, 3903558; 753943, 3903500; 753909, 3903420; 753871, 3903284; 753857, 3903265; 753829, 3903239; 753821, 3903212; 753821, 3903171; 753836, 3903077; 753836, 3903029; 753826, 3902991; 753795, 3902947; 753776, 3902935; 753763, 3902926; 753650, 3902872; 753600, 3902856; 753564, 3902833; 753536, 3902799; 753515, 3902744; 753502, 3902696; 753454, 3902617; 753435, 3902578; 753443, 3902543; 753506, 3902482; 753529, 3902435; 753528, 3902392; 753504, 3902362; 753471, 3902334; 753394, 3902280; 753368, 3902248; 753317, 3902154; 753283, 3902114; 753250, 3902082; 753203, 3902052; 753167, 3902044; 753108, 3902044; 753057, 3902009; 753017, 3901933; 752996, 3901873; 752983, 3901808; 752981, 3901741; 752968, 3901695; 752939, 3901650; 752924, 3901603; 752916, 3901539; 752920, 3901473; 752943, 3901406; 753012, 3901277; 753078, 3901197; 753148, 3901091; 753201, 3901053; 753280, 3901022; 753320, 3900993; 753360, 3900956; 753401, 3900906; 753429, 3900857; 753439, 3900816; 753444, 3900768; 753421, 3900721; 753400, 3900705; 753352, 3900652; 753309, 3900645; 753160, 3900670; 753099, 3900653; 753034, 3900625; 752954, 3900600; 752897, 3900587; 752857, 3900554; 752822, 3900504; 752797, 3900435; 752775, 3900352; 752736, 3900280; 752686, 3900236; 752665, 3900234; 752632, 3900231; 752533, 3900243; 752480, 3900225; 752440, 3900170; 752409, 3900112; 752370, 3900056; 752337, 3900019; 752289, 3899982; 752259, 3899969; 752240, 3899961; 752208, 3899942; 752205, 3899889; 752191, 3899775; 752182, 3899738; 752165, 3899703; 752151, 3899658; 752145, 3899616; 752132, 3899578; 752105, 3899557; 752084, 3899555; 752069, 3899553; 751966, 3899573; 751924, 3899589; 751881, 3899609; 751857, 3899621; 751714, 3899700; 751610, 3899752; 751541, 3899758; 751477, 3899746; 751430, 3899733; 751389, 3899731; 751282, 3899745; 751189, 3899746; 751130, 3899720; 751065, 3899718; 751005, 3899741; 750964, 3899769; 750934, 3899819; 750915, 3899954; 750890, 3900024; 750882, 3900109; 750857, 3900160; 750803, 3900191; 750751, 3900211; 750711, 3900234; 750665, 3900271; 750636, 3900333; 750626, 3900350; 750593, 3900368; 750551, 3900373; 750503, 3900369; 750471, 3900376; 750443, 3900390; 750382, 3900434; 750366, 3900458; 750349, 3900500; 750282, 3900543; 750258, 3900601; 750224, 3900668; 750209, 3900688; 750188, 3900687; 750165, 3900701; 750142, 3900723; 750124, 3900728; 750087, 3900722; 750051, 3900707; 750000, 3900718; 749947, 3900745; 749902, 3900761; 749877, 3900774; 749810, 3900855; 749730, 3900997; 749707, 3901031; 749682, 3901061; 749572, 3901128; 749534, 3901137; 749382, 3901213; 749315, 3901271; 749260, 3901313; 749177, 3901338; 749147, 3901372; 749120, 3901425; 749083, 3901460; 749044, 3901488; 749006, 3901529; 748916, 3901635; 748884, 3901682; 748881, 3901717; 748906, 3901802; 748919, 3901868; 748920, 3901927; 748895, 3902063; 748877, 3902111; 748835, 3902149; 748791, 3902164; 748687, 3902166; 748535, 3902237; 748496, 3902252; 748448, 3902277; 748352, 3902353; 748298, 3902403; 748262, 3902448; 748229, 3902499; 748180, 3902541; 748146, 3902548; 748108, 3902533; 748012, 3902470; 747951, 3902442; 747898, 3902431; 747864, 3902438; 747768, 3902480; 747717, 3902498; 747663, 3902536; 747645, 3902559; 747641, 3902628; 747627, 3902669; 747594, 3902716; 747560, 3902751; 747516, 3902788; 747455, 3902824; 747356, 3902846; 747308, 3902868; 747205, 3902929; 747152, 3902956; 747099, 3902976; 747070, 3902986; 746964, 3902975; 746888, 3902954; 746838, 3902933; 746793, 3902922; 746746, 3902918; 746679, 3902928; 746640, 3902928; 746574, 3902921; 746520, 3902931; 746410, 3902963; 746251, 3903088; 746211, 3903130; 746164, 3903194; 746123, 3903259; 746081, 3903296; 746039, 3903312; 745991, 3903320; 745896, 3903308; 745833, 3903337; 745792, 3903347; 745752, 3903349; 745712, 3903361; 745622, 3903417; 745569, 3903443; 745511, 3903488; 745478, 3903523; 745442, 3903572; 745413, 3903584; 745347, 3903572; 745254, 3903533; 745219, 3903524; 745169, 3903525; 745107, 3903563; 745059, 3903615; 745015, 3903690; 744979, 3903744; 744933, 3903782; 744889, 3903802; 744861, 3903832; 744846, 3903871; 744822, 3903910; 744798, 3903936; 744784, 3903975; 744787, 3904032; 744795, 3904065; 744765, 3904168; 744747, 3904279; 744720, 3904350; 744656, 3904437; 744608, 3904534; 744497, 3904711; 744449, 3904751; 744414, 3904770; 744375, 3904777; 744320, 3904773; 744259, 3904762; 744142, 3904734; 744063, 3904723; 744007, 3904729; 743949, 3904741; 743893, 3904738; 743813, 3904745; 743745, 3904760; 743688, 3904760; 743624, 3904749; 743511, 3904720; 743457, 3904713; 743419, 3904715; 743365, 3904747; 743306, 3904791; 743243, 3904822; 743182, 3904841; 743081, 3904839; 743013, 3904854; 742926, 3904904; 742861, 3904915; 742803, 3904918; 742752, 3904911; 742676, 3904893; 742699, 3904918; 742710, 3904942; 742711, 3904973; 742686, 3905086; 742673, 3905196; 742657, 3905250; 742626, 3905286; 742596, 3905294; 742551, 3905276; 742512, 3905239; 742476, 3905218; 742409, 3905213; 742343, 3905238; 742292, 3905243; 742244, 3905233; 742182, 3905238; 742114, 3905274; 742070, 3905267; 742036, 3905252; 741988, 3905239; 741927, 3905245; 741878, 3905244; 741849, 3905256; 741829, 3905289; 741771, 3905416; 741738, 3905480; 741711, 3905511; 741655, 3905547; 741608, 3905563; 741579, 3905591; 741545, 3905635; 741497, 3905662; 741443, 3905668; 741392, 3905683; 741342, 3905708; 741283, 3905727; 741235, 3905718; 741179, 3905691; 741120, 3905669; 741080, 3905637; 741064, 3905602; 741056, 3905573; 741033, 3905536; 740989, 3905505; 740934, 3905508; 740897, 3905505; 740859, 3905479; 740833, 3905444; 740794, 3905414; 740744, 3905420; 740699, 3905438; 740573, 3905508; 740522, 3905531; 740427, 3905595; 740339, 3905647; 740412, 3906098; 740412, 3906357; 740348, 3906530; 740218, 3906811; 739872, 3907156; 739743, 3907372; 739724, 3907424; 739656, 3907610; 739570, 3907805; 739440, 3908215; 739455, 3908624; 739463, 3908625; 739501, 3908636; 739597, 3908667; 739668, 3908710; 739781, 3908765; 739820, 3908802; 739826, 3908843; 739812, 3908974; 739815, 3909006; 739831, 3909034; 739875, 3909057; 739980, 3909071; 740090, 3909098; 740192, 3909165; 740220, 3909196; 740226, 3909229; 740228, 3909271; 740225, 3909328; 740236, 3909371; 740264, 3909401; 740327, 3909442; 740424, 3909492; 740464, 3909487; 740523, 3909462; 740561, 3909461; 740620, 3909471; 740682, 3909500; 740740, 3909546; 740782, 3909587; 740795, 3909637; 740797, 3909695; 740808, 3909756; 740811, 3909837; 740811, 3909852; 740844, 3909855; 740883, 3909850; 740928, 3909862; 740962, 3909886; 741024, 3909966; 741063, 3909995; 741127, 3910029; 741164, 3910063; 741190, 3910104; 741224, 3910131; 741281, 3910151; 741312, 3910192; 741329, 3910257; 741351, 3910302; 741373, 3910332; 741407, 3910358; 741453, 3910366; 741567, 3910363; 741625, 3910354; 741670, 3910357; 741719, 3910371; 741776, 3910397; 741813, 3910408; 741911, 3910427; 741959, 3910441; 742175, 3910446; 742199, 3910443; 742252, 3910428; 742306, 3910395; returning to 742342, 3910355.

(ii) Note: Unit SLO-8 (Map M22) follows:

BILLING CODE 4310-55-P

BILLING CODE 4310-55-C

(44) Unit STB-1, Santa Barbara County, California.

(i) From USGS 1:24,000 scale quadrangle Tepusquet Canyon, Manzanita Mtn., Foxen Canyon, Zaca Lake. Land bounded by the following UTM Zone 10, NAD27 coordinates (E,N): 760562, 3876097; 760672, 3876042; 760732, 3876046; 760958, 3876093; 761005, 3876093; 761065, 3876061; 761121, 3876024; 761287, 3875929; 761374, 3875918; 761428, 3875907; 761484, 3875882; 761612, 3875809; 761676, 3875762; 761783, 3875634; 761834, 3875595; 761915, 3875540; 761948, 3875494; 761987, 3875390; 762011, 3875342; 762040, 3875323; 762129, 3875309; 762187, 3875292; 762248, 3875260; 762302, 3875217; 762326, 3875187; 762339, 3875178; 762395, 3875163; 762422, 3875139; 762448, 3875099; 762484, 3875033; 762518, 3874997; 762585, 3874946; 762670, 3874870; 762715, 3874853; 762778, 3874840; 762885, 3874807; 763079, 3874758; 763098, 3874824; 763121, 3874875; 763145, 3874919; 763191, 3874968; 763219, 3874988; 763269, 3875006; 763311, 3875038; 763330, 3875069; 763359, 3875103; 763377, 3875138; 763397, 3875213; 763422, 3875236; 763459, 3875242; 763490, 3875256; 763558, 3875303; 763680, 3875366; 763752, 3875412; 763812, 3875437; 763865, 3875430; 763998, 3875386; 764027, 3875382; 764091, 3875360; 764181, 3875309; 764246, 3875299; 764307, 3875318; 764363, 3875306; 764423, 3875279; 764567, 3875164; 764635, 3875100; 764684, 3875040; 764725, 3875017; 764762, 3875023; 764788, 3875069; 764810, 3875120; 764832, 3875188; 764833, 3875331; 764845, 3875462; 764856, 3875531; 764884, 3875608; 764895, 3875633; 765005, 3875569; 765728, 3875247; 766130, 3874926; 766773, 3874765; 767255, 3874363; 767375, 3874303; 767354, 3874297; 767317, 3874268; 767239, 3874171; 767198, 3874124; 767147, 3874084; 767009, 3874063; 766889, 3873933; 766820, 3873884; 766725, 3873823; 766692, 3873794; 766678, 3873654; 766680, 3873615; 766796, 3873438; 766866, 3873352; 766870, 3873295; 766862, 3873237; 766878, 3873053; 766894, 3872987; 766910, 3872925; 766932, 3872882; 766958, 3872847; 766999, 3872805; 767102, 3872733; 767316, 3872635; 767518, 3872546; 767654, 3872523; 767696, 3872509; 767828, 3872501; 767908, 3872472; 768022, 3872422; 768065, 3872419; 768193, 3872391; 768265, 3872384; 768333, 3872362; 768406, 3872306; 768555, 3872207; 768617, 3872174; 768654, 3872134; 768690, 3872101; 768753, 3872050; 768758, 3872044; 768701, 3871873; 768701, 3871632; 768058, 3871310; 767557, 3871024; 767506, 3871044; 767443, 3871051; 767339, 3871050; 767275, 3871037; 767170, 3870973; 767134, 3870937; 766934, 3870909; 766863, 3869917; 766841, 3869893; 766837, 3869851; 766839, 3869810; 766834, 3869773; 766810, 3869721; 766790, 3869698; 766742, 3869666; 766702, 3869630; 766645, 3869555; 766590, 3869471; 766555, 3869382; 766551, 3869354; 766529, 3869305; 766520, 3869233; 766547, 3869170; 766555, 3869103; 766545, 3868985; 766558, 3868884; 766619, 3868842; 766746, 3868793; 766786, 3868763; 766860, 3868724; 766901, 3868694; 766939, 3868674; 766975, 3868627; 767035, 3868506; 767075, 3868399; 767084, 3868355; 767088, 3868298; 767080, 3868253; 767053, 3868209; 766975, 3868112; 766922, 3868028; 766843, 3867945; 766827, 3867905; 766817, 3867857; 766789, 3867800; 766763, 3867725; 766766, 3867689; 766807, 3867659; 766840, 3867652; 766887, 3867637; 766921, 3867615; 766960, 3867566; 767001, 3867455; 767023, 3867413; 767061, 3867318; 767054, 3867217; 767054, 3867104; 767042, 3867049; 767038, 3866988; 767043, 3866909; 767054, 3866846; 767078, 3866769; 767083, 3866726; 767083, 3866672; 767072, 3866620; 767068, 3866566; 767057, 3866520; 767053, 3866461; 767059, 3866402; 767053, 3866343; 767025, 3866312; 766926, 3866262; 766887, 3866217; 766871, 3866166; 766868, 3866104; 766898, 3865970; 766901, 3865924; 766875, 3865805; 766870, 3865757; 766875, 3865716; 766891, 3865657; 766912, 3865624; 766941, 3865608; 766960, 3865587; 766919, 3865529; 766910, 3865475; 766898, 3865426; 766872, 3865365; 766791, 3865224; 766761, 3865157; 766724, 3865095; 766666, 3865029; 766610, 3864974; 766449, 3864834; 766386, 3864749; 766325, 3864647; 766256, 3864564; 766178, 3864457; 766152, 3864402; 766128, 3864330; 766115, 3864280; 766088, 3864036; 766071, 3863939; 766045, 3863886; 765962, 3863772; 765862, 3863616; 765839, 3863515; 765817, 3863392; 765794, 3863346; 765737, 3863293; 765692, 3863267; 765665, 3863262; 765626, 3863255; 765589, 3863256; 765535, 3863258; 765391, 3863258; 765364, 3863228; 765346, 3863114; 765334, 3863067; 765339, 3863045; 765339, 3863011; 765331, 3862966; 765298, 3862911; 765270, 3862877; 765225, 3862803; 765173, 3862677; 765140, 3862612; 765098, 3862566; 765061, 3862519; 764983, 3862406; 764958, 3862357; 764907, 3862229; 764889, 3862160; 764868, 3862136; 764821, 3862176; 764738, 3862266; 764688, 3862308; 764649, 3862334; 764617, 3862365; 764582, 3862382; 764523, 3862402; 764482, 3862406; 764420, 3862387; 764294, 3862366; 764224, 3862343; 764081, 3862348; 764032, 3862342; 763982, 3862326; 763934, 3862306; 763876, 3862281; 763829, 3862267; 763723, 3862243; 763682, 3862227; 763590, 3862178; 763547, 3862176; 763492, 3862198; 763398, 3862253; 763360, 3862270; 763325, 3862282; 763295, 3862281; 763248, 3862256; 763169, 3862186; 763119, 3862157; 763029, 3862120; 762994, 3862098; 762910, 3862026; 762879, 3862024; 762877, 3861998; 762847, 3861939; 762827, 3861912; 762802, 3861888; 762779, 3861873; 762730, 3861831; 762617, 3861776; 762570, 3861741; 762519, 3861691; 762496, 3861657; 762469, 3861631; 762412, 3861611; 762337, 3861611; 762240, 3861600; 762204, 3861602; 762136, 3861666; 762105, 3861666; 761931, 3861582; 761883, 3861546; 761845, 3861487; 761788, 3861358; 761778, 3861302; 761781, 3861243; 761802, 3861179; 761844, 3861084; 761855, 3861036; 761850, 3860994; 761826, 3860947; 761812, 3860895; 761785, 3860737; 761750, 3860680; 761705, 3860676; 761645, 3860687; 761531, 3860701; 761440, 3860732; 761352, 3860769; 761294, 3860810; 761183, 3860863; 761112, 3860913; 761073, 3860928; 760959, 3860945; 760807, 3861013; 760750, 3861016; 760689, 3861024; 760636, 3861044; 760598, 3861036; 760570, 3860990; 760566, 3860969; 760433, 3861135; 760201, 3861135; 759910, 3861135; 759600, 3861135; 759271, 3861561; 758845, 3862084; 758806, 3862297; 758767, 3862569; 758748, 3862937; 758922, 3863150; 759290, 3863518; 759639, 3863731; 759717, 3863879; 759813, 3864060; 759852, 3864486; 760046, 3865087; 759813, 3865396; 759717, 3865648; 759717, 3865861; 759717, 3866229; 759717, 3866501; 759503, 3866869; 759310, 3867372; 759232, 3867663; 759174, 3867953; 758961, 3868554; 758942, 3868941; 758897, 3869361; 758919, 3869389; 758966, 3869403; 759025, 3869414; 759053, 3869424; 759088, 3869432; 759106, 3869467; 759111, 3869492; 759139, 3869528; 759207, 3869565; 759310, 3869599; 759375, 3869645; 759411, 3869690; 759474, 3869721; 759545, 3869745; 759610, 3869788; 759653, 3869858; 759707, 3869963; 759706, 3869989; 759715, 3870036; 759735, 3870074; 759731, 3870118; 759718, 3870155; 759701, 3870181; 759685, 3870224; 759658, 3870371; 759615, 3870533; 759606, 3870611; 759608, 3870729; 759605, 3870790; 759591, 3870865; 759577, 3870909; 759538, 3870988; 759493, 3871043; 759445, 3871083; 759371, 3871124; 759348, 3871149; 759312, 3871231; 759266, 3871363; 759246, 3871397; 759205, 3871457; 759155, 3871501; 759112, 3871558; 758993, 3871691; 758906, 3871763; 758840, 3871809; 758761, 3871833; 758719, 3871858; 758711, 3871907; 758723, 3871948; 758730, 3871970; 758736, 3872008; 758734, 3872039; 758710, 3872086; 758672, 3872124; 758622, 3872169; 758578, 3872208; 758526, 3872247; 758485, 3872299; 758432, 3872394; 758344, 3872524; 758330, 3872577; 758373, 3872701; 758384, 3872761; 758391, 3872774; 758392, 3872775; 758416, 3872815; 758465, 3872889; 758522, 3872989; 758560, 3873031; 758676, 3873160; 758692, 3873173; 758697, 3873177; 758715, 3873214; 758715, 3873252; 758735, 3873320; 758739, 3873356; 758755, 3873396; 758782, 3873425; 758824, 3873459; 758881, 3873479; 758949, 3873494; 759046, 3873498; 759112, 3873484; 759186, 3873455; 759241, 3873456; 759270, 3873464; 759406, 3873521; 759476, 3873537; 759557, 3873544; 759652, 3873586; 759706, 3873605; 759758, 3873638; 759829, 3873674; 759884, 3873711; 759924, 3873760; 759946, 3873815; 759966, 3873890; 759967, 3873943; 759948, 3873967; 759864, 3874007; 759827, 3874046; 759819, 3874091; 759832, 3874130; 759906, 3874205; 759935, 3874243; 759961, 3874293; 760002, 3874342; 760148, 3874412; 760181, 3874444; 760200, 3874490; 760195, 3874585; 760210, 3874639; 760252, 3874795; 760333, 3875007; 760331, 3875052; 760311, 3875096; 760270, 3875135; 760222, 3875191; 760185, 3875250; 760159, 3875353; 760146, 3875501; 760134, 3875544; 760132, 3875595; 760140, 3875630; 760179, 3875720; 760198, 3875800; 760204, 3875884; 760205, 3875956; 760198, 3876017; 760187, 3876054; 760186, 3876088; 760188, 3876129; 760198, 3876182; 760214, 3876232; 760250, 3876210; 760324, 3876192; 760515, 3876105; returning to 760562, 3876097.

(ii) Note: Unit STB-1 is depicted on Map M23—Unit STB-1 and STB-3—see paragraph (45)(ii):

(45) Unit STB-3, Santa Barbara County, California.

(i) From USGS 1:24,000 scale quadrangle Zaca Lake, Bald Mountain, Hurricane Deck, Figueroa Mtn. Land bounded by the following UTM Zone 11, NAD27 coordinates (E,N): 779569, 3859788; 780830, 3856380; 780798, 3856059; 780785, 3855692; 780964, 3855651; 781497, 3855489; 782018, 3855371; 782272, 3855332; 782552, 3855289; 783451, 3855077; 784454, 3854760; 784906, 3854659; 785271, 3854587; 785356, 3854549; 785706, 3854393; 785720, 3854382; 785748, 3854375; 785794, 3854357; 785828, 3854335; 785845, 3854320; 785869, 3854286; 785896, 3854223; 785922, 3854183; 786108, 3854079; 786150, 3854050; 786187, 3854013; 786209, 3853976; 786211, 3853945; 786188, 3853800; 786186, 3853753; 786202, 3853731; 786328, 3853643; 786374, 3853614; 786407, 3853588; 786481, 3853540; 786608, 3853489; 786670, 3853472; 786716, 3853443; 786805, 3853352; 786893, 3853274; 786918, 3853232; 786914, 3853182; 786863, 3853062; 786858, 3853034; 786886, 3853023; 786846, 3853020; 786791, 3853000; 786695, 3852939; 786566, 3852905; 786495, 3852866; 786442, 3852809; 786414, 3852755; 786376, 3852751; 786272, 3852491; 786251, 3852467; 786224, 3852426; 786210, 3852398; 786201, 3852370; 786190, 3852350; 785653, 3852350; 785091, 3852430; 784942, 3852430; 784658, 3852467; 784381, 3852431; 784060, 3852384; 783822, 3852228; 783616, 3852019; 783504, 3851579; 783484, 3851305; 783549, 3850983; 783607, 3850631; 783709, 3850284; 783790, 3850121; 783795, 3849955; 783805, 3849871; 783805, 3849457; 784046, 3848895; 784127, 3848252; 784127, 3847994; 784123, 3847981; 784079, 3847875; 784057, 3847841; 784028, 3847803; 784007, 3847767; 783991, 3847720; 783985, 3847664; 783946, 3847485; 783922, 3847351; 783901, 3847291; 783849, 3847192; 783833, 3847151; 783819, 3847100; 783835, 3847058; 783850, 3846990; 783867, 3846949; 783894, 3846921; 783912, 3846888; 783926, 3846824; 783953, 3846801; 783966, 3846726; 784129, 3846291; 784147, 3846185; 784154, 3846165; 784166, 3846145; 784185, 3846141; 784207, 3846083; 784850, 3846003; 784967, 3845885; 784978, 3845827; 784999, 3845780; 785055, 3845711; 785112, 3845654; 785180, 3845593; 785268, 3845521; 785310, 3845471; 785353, 3845427; 785401, 3845387; 785456, 3845347; 785507, 3845320; 785544, 3845305; 785590, 3845266; 785652, 3845185; 785692, 3845142; 785722, 3845105; 785775, 3845018; 785823, 3844966; 785856, 3844943; 785889, 3844927; 785923, 3844892; 785962, 3844866; 785972, 3844828; 785973, 3844722; 785957, 3844662; 785926, 3844628; 785865, 3844587; 785811, 3844568; 785720, 3844552; 785618, 3844524; 785571, 3844505; 785542, 3844485; 785458, 3844389; 785414, 3844330; 785381, 3844283; 785366, 3844253; 785355, 3844206; 785352, 3844138; 785342, 3844070; 785323, 3844010; 785268, 3843932; 785193, 3843857; 785142, 3843814; 785081, 3843782; 785036, 3843752; 784970, 3843694; 784937, 3843675; 784902, 3843645; 784883, 3843613; 784861, 3843561; 784828, 3843509; 784792, 3843476; 784701, 3843444; 784653, 3843413; 784623, 3843382; 784623, 3843348; 784662, 3843270; 784735, 3843080; 784784, 3842999; 784795, 3842960; 784813, 3842852; 784826, 3842810; 784825, 3842766; 784798, 3842733; 784783, 3842705; 784775, 3842671; 784772, 3842605; 784774, 3842547; 784792, 3842502; 784867, 3842383; 784943, 3842301; 784997, 3842208; 785047, 3842101; 785062, 3842051; 785073, 3842014; 785100, 3841923; 785078, 3841896; 785032, 3841876; 784999, 3841846; 784956, 3841732; 784949, 3841676; 784950, 3841619; 784973, 3841543; 784991, 3841469; 784987, 3841401; 784955, 3841351; 784932, 3841303; 784921, 3841263; 784867, 3841191; 784855, 3841132; 784860, 3841069; 784857, 3841023; 784827, 3840974; 784743, 3840899; 784610, 3840758; 784579, 3840710; 784557, 3840659; 784570, 3840594; 784598, 3840544; 784621, 3840485; 784649, 3840361; 784676, 3840311; 784693, 3840266; 784690, 3840209; 784651, 3840181; 784603, 3840159; 784450, 3840065; 784405, 3840031; 784388, 3839967; 784413, 3839913; 784447, 3839821; 784447, 3839784; 784404, 3839751; 784358, 3839756; 784315, 3839784; 784218, 3839868; 784163, 3839899; 784117, 3839911; 784019, 3839920; 783888, 3839897; 783808, 3839861; 783730, 3839807; 783691, 3839793; 783662, 3839789; 783574, 3839746; 783550, 3839719; 783521, 3839677; 783493, 3839631; 783454, 3839598; 783399, 3839588; 783347, 3839571; 783308, 3839543; 783228, 3839417; 783211, 3839379; 783198, 3839359; 783185, 3839320; 783181, 3839275; 783164, 3839238; 783115, 3839162; 783123, 3839108; 783200, 3839046; 783237, 3839010; 783256, 3838982; 783242, 3838931; 783208, 3838890; 783184, 3838837; 783179, 3838723; 783157, 3838655; 783101, 3838557; 782980, 3838414; 782943, 3838375; 782881, 3838344; 782829, 3838328; 782788, 3838323; 782660, 3838282; 782609, 3838260; 782557, 3838231; 782485, 3838231; 782398, 3838284; 782340, 3838310; 782245, 3838346; 782204, 3838352; 782218, 3838405; 782176, 3838517; 782128, 3838554; 782043, 3838595; 781968, 3838626; 781907, 3838664; 781759, 3838771; 781706, 3838817; 781541, 3838922; 781507, 3838911; 781490, 3838911; 781441, 3838912; 781369, 3838924; 781298, 3838928; 781246, 3838920; 781208, 3838909; 781172, 3838882; 781163, 3838866; 781101, 3838938; 781065, 3839116; 780973, 3839223; 780795, 3839329; 780602, 3839372; 780339, 3839408; 780182, 3839450; 780040, 3839450; 779841, 3839450; 779606, 3839628; 779527, 3839785; 779449, 3839999; 779271, 3840205; 779015, 3840369; 778759, 3840533; 778538, 3840732; 778346, 3840917; 778168, 3841180; 778004, 3841451; 777940, 3841622; 777904, 3841842; 777812, 3842006; 777698, 3842020; 777598, 3842020; 777508, 3842020; 777472, 3842020; 777449, 3842020; 777178, 3841956; 777104, 3841960; 777096, 3841960; 777102, 3841965; 777104, 3841968; 777135, 3842023; 777140, 3842083; 777139, 3842152; 777157, 3842216; 777203, 3842274; 777212, 3842291; 777214, 3842296; 777233, 3842332; 777261, 3842412; 777308, 3842471; 777365, 3842571; 777372, 3842629; 777421, 3842786; 777483, 3843077; 777493, 3843120; 777522, 3843207; 777599, 3843361; 777625, 3843422; 777692, 3843548; 777913, 3843798; 778017, 3843897; 778048, 3843938; 778095, 3844026; 778113, 3844067; 778083, 3844147; 778113, 3844185; 778148, 3844249; 778145, 3844317; 778124, 3844439; 778103, 3844480; 778059, 3844602; 778044, 3844653; 778033, 3844703; 778039, 3844753; 778065, 3844789; 778115, 3844794; 778167, 3844805; 778212, 3844829; 778248, 3844838; 778303, 3844869; 778425, 3845000; 778444, 3845024; 778583, 3845196; 778619, 3845233; 778654, 3845285; 778684, 3845388; 778696, 3845461; 778720, 3845538; 778858, 3845646; 778893, 3845687; 778913, 3845731; 778951, 3845874; 778986, 3845948; 779037, 3846011; 779084, 3846046; 779114, 3846077; 779130, 3846135; 779141, 3846190; 779145, 3846240; 779153, 3846258; 779110, 3846252; 779036, 3846255; 778994, 3846253; 778943, 3846246; 778790, 3846220; 778698, 3846197; 778642, 3846199; 778533, 3846254; 778471, 3846271; 778436, 3846272; 778397, 3846267; 778321, 3846272; 778259, 3846301; 778201, 3846348; 778112, 3846402; 778004, 3846455; 777978, 3846481; 777941, 3846491; 777895, 3846531; 777876, 3846561; 777840, 3846601; 777738, 3846655; 777698, 3846685; 777664, 3846717; 777583, 3846835; 777486, 3846959; 777461, 3847015; 777457, 3847062; 777433, 3847111; 777384, 3847158; 777370, 3847192; 777365, 3847314; 777349, 3847370; 777282, 3847500; 777193, 3847584; 777161, 3847608; 776989, 3847697; 776902, 3847753; 776865, 3847791; 776812, 3847876; 776792, 3847917; 776725, 3848005; 776659, 3848097; 776558, 3848189; 776509, 3848251; 776471, 3848316; 776424, 3848382; 776371, 3848447; 776319, 3848497; 776264, 3848533; 776123, 3848615; 776070, 3848650; 776032, 3848709; 776021, 3848726; 776017, 3848783; 776036, 3848844; 776140, 3849086; 776198, 3849201; 776247, 3849256; 776183, 3849362; 776136, 3849418; 776120, 3849455; 776143, 3849509; 776174, 3849537; 776266, 3849584; 776268, 3849678; 776135, 3849889; 776004, 3850068; 775848, 3850206; 775740, 3850315; 775202, 3850892; 775139, 3850948; 775055, 3851153; 774842, 3851265; 774756, 3851294; 774652, 3851350; 774510, 3851451; 774262, 3851242; 774251, 3851257; 774198, 3851307; 774051, 3851377; 774038, 3851378; 774031, 3851422; 774017, 3851473; 773980, 3851518; 773936, 3851565; 773870, 3851671; 773815, 3851790; 773751, 3851901; 773718, 3851971; 773599, 3852194; 773575, 3852267; 773571, 3852336; 773603, 3852408; 773626, 3852476; 773624, 3852523; 773610, 3852585; 773430, 3852674; 773368, 3852695; 773221, 3852782; 773067, 3852855; 772873, 3852917; 772721, 3852969; 772673, 3853005; 772634, 3853088; 772605, 3853117; 772511, 3853148; 772353, 3853186; 772208, 3853230; 772049, 3853270; 771864, 3853365; 771793, 3853409; 771744, 3853433; 771691, 3853464; 771649, 3853511; 771580, 3853553; 771501, 3853580; 771424, 3853591; 771356, 3853605; 771307, 3853628; 771252, 3853669; 771165, 3853747; 771112, 3853780; 771048, 3853805; 770958, 3853832; 770897, 3853860; 770842, 3853900; 770806, 3853935; 770774, 3853996; 770741, 3854111; 770714, 3854160; 770638, 3854252; 770618, 3854291; 770601, 3854307; 770571, 3854315; 770546, 3854334; 770526, 3854367; 770519, 3854405; 770520, 3854451; 770527, 3854520; 770526, 3854601; 770519, 3854656; 770479, 3854798; 770484, 3854876; 770502, 3854973; 770509, 3855076; 770516, 3855119; 770517, 3855184; 770502, 3855237; 770498, 3855244; 770479, 3855285; 770454, 3855324; 770354, 3855455; 770223, 3855580; 770208, 3855631; 770217, 3855682; 770277, 3855831; 770278, 3855888; 770264, 3855983; 770246, 3856060; 770248, 3856093; 770282, 3856158; 770318, 3856214; 770351, 3856251; 770418, 3856292; 770434, 3856314; 770455, 3856359; 770468, 3856407; 770478, 3856473; 770488, 3856593; 770486, 3856654; 770492, 3856708; 770510, 3856768; 770525, 3856800; 770547, 3856822; 770634, 3856858; 770677, 3856883; 770709, 3856911; 770783, 3856955; 770866, 3857023; 770963, 3857079; 770999, 3857112; 771011, 3857137; 771005, 3857165; 770983, 3857198; 770924, 3857263; 770875, 3857303; 770844, 3857348; 770841, 3857387; 770816, 3857469; 770756, 3857546; 770696, 3857635; 770591, 3857709; 770536, 3857783; 770432, 3857838; 770372, 3857882; 770322, 3857893; 770184, 3857908; 770111, 3857906; 770034, 3857903; 769904, 3857876; 769856, 3857860; 769786, 3857861; 769677, 3857934; 769580, 3857966; 769430, 3857996; 769358, 3858004; 769295, 3858019; 769225, 3858043; 769193, 3858078; 769188, 3858143; 769198, 3858244; 769217, 3858321; 769214, 3858418; 769191, 3858477; 769162, 3858527; 769125, 3858572; 769045, 3858647; 768994, 3858713; 768958, 3858776; 768930, 3858836; 768904, 3858904; 768882, 3858990; 768887, 3859001; 768927, 3859052; 768949, 3859087; 768984, 3859195; 768993, 3859243; 768990, 3859285; 768976, 3859353; 768975, 3859421; 768985, 3859494; 768986, 3859621; 768973, 3859733; 768950, 3859824; 768942, 3859847; 769055, 3859907; 769200, 3860391; 769683, 3860633; 769780, 3860898; 769973, 3861140; 770409, 3861237; 770820, 3861334; 771134, 3861503; 771313, 3861655; 771312, 3861632; 771360, 3861567; 771440, 3861509; 771443, 3861506; 771505, 3861448; 771552, 3861391; 771589, 3861343; 771622, 3861292; 771666, 3861192; 771705, 3861144; 771744, 3861123; 771787, 3861112; 771841, 3861091; 771902, 3861049; 771971, 3860990; 772023, 3860938; 772087, 3860856; 772132, 3860771; 772182, 3860704; 772251, 3860668; 772351, 3860636; 772385, 3860618; 772397, 3860587; 772391, 3860550; 772391, 3860486; 772403, 3860416; 772408, 3860366; 772427, 3860315; 772494, 3860258; 772550, 3860217; 772595, 3860173; 772617, 3860101; 772609, 3860021; 772584, 3859951; 772563, 3859905; 772561, 3859867; 772560, 3859857; 772616, 3859692; 772630, 3859635; 772606, 3859516; 772617, 3859466; 772620, 3859399; 772638, 3859331; 772664, 3859233; 772675, 3859142; 772660, 3859072; 772625, 3858987; 772625, 3858986; 772604, 3858916; 772580, 3858816; 772587, 3858807; 772618, 3858826; 772725, 3858890; 772892, 3859004; 772966, 3859040; 773042, 3859067; 773109, 3859099; 773152, 3859132; 773215, 3859198; 773245, 3859220; 773299, 3859241; 773393, 3859273; 773463, 3859303; 773540, 3859330; 773622, 3859353; 773678, 3859361; 773731, 3859358; 773762, 3859347; 773815, 3859322; 773901, 3859303; 774033, 3859249; 774108, 3859260; 774235, 3859359; 774270, 3859379; 774364, 3859507; 774376, 3859507; 774622, 3859561; 774835, 3859702; 775074, 3859990; 775171, 3860350; 775238, 3860783; 775327, 3861323; 775448, 3861811; 775571, 3862104; 775767, 3862208; 776046, 3862295; 776386, 3862426; 776654, 3862605; 776656, 3862530; 776540, 3862302; 776365, 3862054; 776256, 3861814; 776212, 3861520; 776366, 3861246; 776582, 3861046; 776934, 3860942; 777351, 3860859; 777823, 3860691; 778321, 3860484; 778838, 3860217; 779218, 3859976; 779417, 3859870; returning to 779569, 3859788.

(ii) Note: Unit STB-2 is depicted on Map M23—Unit STB-1 and STB-3—which follows:

BILLING CODE 4310-55-P

BILLING CODE 4310-55-C

(46) Unit STB-2, Santa Barbara County, California.

(i) From USGS 1:24,000 scale quadrangle Casmalia. Land bounded by the following UTM Zone 10, NAD27 coordinates (E,N): 723552, 3857306; 723810, 3857151; 723856, 3857159; 724032, 3856791; 723903, 3856582; 723735, 3856310; 723730, 3856302; 724301, 3856752; 724330, 3856774; 724330, 3856774; 724442, 3856585; 724528, 3856295; 724547, 3856061; 724471, 3855670; 724353, 3855377; 724196, 3855173; 724037, 3855042; 723768, 3854943; 723533, 3854936; 723263, 3854874; 722977, 3854757; 722818, 3854607; 722625, 3854420; 722226, 3853830; 721909, 3853531; 721607, 3853341; 721249, 3853221; 720889, 3853138; 720614, 3853238; 720324, 3853266; 720161, 3853243; 719786, 3853069; 719559, 3852808; 719314, 3852530; 719179, 3852182; 719080, 3851872; 719012, 3851725; 718799, 3851592; 718421, 3851508; 718057, 3851551; 717602, 3851646; 717325, 3851800; 717246, 3851880; 717252, 3851940; 717255, 3852002; 717264, 3852034; 717281, 3852079; 717288, 3852104; 717306, 3852143; 717331, 3852218; 717345, 3852251; 717375, 3852314; 717383, 3852336; 717396, 3852391; 717405, 3852403; 717442, 3852533; 717447, 3852559; 717448, 3852593; 717442, 3852651; 717453, 3852701; 717479, 3852756; 717494, 3852799; 717510, 3852943; 717517, 3852977; 717526, 3853002; 717531, 3853032; 717537, 3853069; 717546, 3853110; 717570, 3853269; 717588, 3853335; 717602, 3853406; 717630, 3853506; 717640, 3853539; 717648, 3853556; 717658, 3853605; 717712, 3853788; 717725, 3853868; 717738, 3853930; 717894, 3853952; 718284, 3854235; 718563, 3854587; 718697, 3854935; 718685, 3855350; 718691, 3855748; 718963, 3856317; 719303, 3856472; 719788, 3856595; 720243, 3856519; 720593, 3856330; 720943, 3856124; 721451, 3856103; 721902, 3856153; 722202, 3856415; 722302, 3856726; 722440, 3856929; 722724, 3857118; 723119, 3857257; returning to 723552, 3857306.

(ii) Note: Unit SLO-2 (Map M24) follows:

BILLING CODE 4310-55-P

BILLING CODE 4310-55-C

(47) Unit STB-4, Santa Barbara County, California.

(i) From USGS 1:24,000 scale quadrangle Lompoc Hills, Tranquillon Mtn. Land bounded by the following UTM Zone 10, NAD27 coordinates (E,N): 731548, 3828414; 731631, 3828340; 731725, 3828302; 731818, 3828284; 731970, 3828271; 732061, 3828237; 732151, 3828210; 732411, 3828217; 732482, 3828211; 732577, 3828173; 732753, 3828066; 732831, 3828031; 732925, 3827998; 732988, 3827969; 733060, 3827929; 733104, 3827883; 733144, 3827820; 733182, 3827777; 733281, 3827712; 733316, 3827677; 733338, 3827632; 733373, 3827572; 733460, 3827544; 733590, 3827560; 733679, 3827587; 733733, 3827609; 733774, 3827615; 733813, 3827600; 733880, 3827547; 733955, 3827496; 734142, 3827411; 734240, 3827371; 734329, 3827341; 734401, 3827309; 734461, 3827273; 734488, 3827244; 734507, 3827177; 734511, 3827084; 734524, 3827005; 734567, 3826941; 734659, 3826858; 734725, 3826825; 734755, 3826822; 734799, 3826810; 734838, 3826787; 734874, 3826750; 734904, 3826681; 734936, 3826576; 734963, 3826511; 734997, 3826441; 735013, 3826386; 735031, 3826308; 735035, 3826244; 735049, 3826177; 735077, 3826100; 735094, 3826035; 735100, 3825867; 735126, 3825805; 735166, 3825748; 735230, 3825699; 735276, 3825653; 735323, 3825580; 735374, 3825521; 735470, 3825486; 735581, 3825437; 735659, 3825398; 735728, 3825374; 735773, 3825355; 735839, 3825334; 735892, 3825308; 735950, 3825253; 736011, 3825180; 736056, 3825108; 736067, 3825041; 736068, 3824966; 736047, 3824895; 736007, 3824849; 735946, 3824795; 735860, 3824725; 735748, 3824677; 735579, 3824624; 735520, 3824562; 735490, 3824485; 735470, 3824349; 735467, 3824220; 735423, 3824057; 735383, 3823999; 735307, 3823965; 735198, 3823985; 735083, 3824069; 735011, 3824092; 734952, 3824057; 734911, 3823997; 734873, 3823877; 734837, 3823821; 734757, 3823788; 734439, 3823681; 734370, 3823633; 734340, 3823582; 734339, 3823439; 734322, 3823311; 734288, 3823155; 734241, 3823031; 734162, 3822886; 734038, 3822733; 733960, 3822628; 733908, 3822522; 733859, 3822409; 733804, 3822337; 733764, 3822290; 733700, 3822229; 733610, 3822158; 733592, 3822135; 733620, 3822078; 733622, 3821974; 733633, 3821873; 733672, 3821769; 733760, 3821640; 733809, 3821601; 733983, 3821490; 734059, 3821447; 734138, 3821389; 734241, 3821294; 734300, 3821224; 734349, 3821148; 734388, 3821045; 734413, 3820953; 734434, 3820848; 734439, 3820745; 734423, 3820661; 734395, 3820592; 734325, 3820574; 734149, 3820615; 734055, 3820617; 733815, 3820591; 733705, 3820588; 733584, 3820587; 733409, 3820591; 733328, 3820601; 733201, 3820643; 733075, 3820689; 732981, 3820758; 732779, 3820930; 732703, 3821014; 732606, 3821109; 732500, 3821165; 732200, 3821183; 732051, 3821221; 731910, 3821231; 731773, 3821215; 731671, 3821197; 731567, 3821184; 731427, 3821206; 731306, 3821218; 731053, 3821259; 730929, 3821244; 730834, 3821228; 730762, 3821261; 730655, 3821331; 730572, 3821371; 730442, 3821394; 730298, 3821394; 730148, 3821386; 730039, 3821421; 729978, 3821470; 729938, 3821539; 729891, 3821611; 729841, 3821675; 729724, 3821725; 729584, 3821732; 729535, 3821739; 729488, 3821739; 729398, 3821715; 729370, 3821711; 729344, 3821701; 729316, 3821686; 729279, 3821634; 729276, 3821643; 729279, 3821655; 729286, 3821670; 729287, 3821674; 729288, 3821676; 729287, 3821680; 729289, 3821697; 729285, 3821720; 729285, 3821730; 729291, 3821747; 729290, 3821759; 729284, 3821761; 729279, 3821762; 729275, 3821762; 729275, 3821762; 729271, 3821762; 729257, 3821755; 729254, 3821744; 729254, 3821744; 729247, 3821728; 729248, 3821691; 729247, 3821691; 729238, 3821701; 729227, 3821721; 729218, 3821735; 729200, 3821754; 729180, 3821780; 729160, 3821801; 729140, 3821823; 729094, 3821885; 729061, 3821939; 729039, 3821967; 729001, 3822054; 728984, 3822106; 728983, 3822111; 728975, 3822144; 728954, 3822195; 728934, 3822226; 728916, 3822241; 728897, 3822263; 728880, 3822289; 728819, 3822367; 728753, 3822461; 728741, 3822492; 728729, 3822510; 728718, 3822541; 728704, 3822562; 728667, 3822604; 728629, 3822638; 728614, 3822658; 728602, 3822671; 728636, 3822701; 728692, 3822734; 728739, 3822770; 728914, 3822887; 729126, 3823023; 729163, 3823067; 729307, 3823192; 729359, 3823252; 729393, 3823307; 729428, 3823330; 729540, 3823417; 729611, 3823460; 729689, 3823514; 729775, 3823614; 729864, 3823727; 729986, 3823859; 730079, 3823967; 730189, 3824117; 730325, 3824258; 730375, 3824295; 730482, 3824376; 730656, 3824525; 730715, 3824569; 730770, 3824723; 730794, 3824914; 730779, 3825134; 730795, 3825226; 730830, 3825306; 730844, 3825381; 730840, 3825483; 730814, 3825588; 730783, 3825669; 730736, 3825725; 730674, 3825779; 730616, 3825809; 730522, 3825823; 730464, 3825847; 730415, 3825878; 730357, 3825916; 730283, 3825952; 730219, 3826012; 730157, 3826053; 729956, 3826140; 729839, 3826171; 729789, 3826181; 729715, 3826187; 729664, 3826177; 729598, 3826175; 729545, 3826196; 729514, 3826233; 729485, 3826260; 729451, 3826308; 729421, 3826334; 729373, 3826364; 729282, 3826432; 729188, 3826525; 729165, 3826598; 729180, 3826654; 729211, 3826725; 729216, 3826827; 729225, 3826903; 729233, 3826936; 729259, 3826975; 729277, 3826991; 729288, 3827064; 729299, 3827090; 729331, 3827125; 729424, 3827244; 729473, 3827299; 729519, 3827339; 729557, 3827377; 729552, 3827430; 729552, 3827438; 729520, 3827481; 729486, 3827493; 729475, 3827497; 729414, 3827528; 729404, 3827537; 729371, 3827572; 729366, 3827576; 729311, 3827671; 729277, 3827710; 729251, 3827712; 729217, 3827700; 729165, 3827705; 729115, 3827740; 729083, 3827786; 729069, 3827841; 729064, 3827885; 729102, 3827905; 729120, 3827920; 729135, 3827930; 729167, 3827968; 729244, 3828071; 729256, 3828084; 729386, 3828164; 729443, 3828188; 729518, 3828204; 729585, 3828203; 729668, 3828194; 729771, 3828199; 729868, 3828230; 729916, 3828251; 729967, 3828263; 730048, 3828268; 730093, 3828281; 730133, 3828335; 730162, 3828390; 730232, 3828426; 730319, 3828420; 730640, 3828369; 730754, 3828356; 730845, 3828360; 730910, 3828407; 730961, 3828526; 730978, 3828604; 731006, 3828783; 731025, 3828817; 731042, 3828827; 731096, 3828820; 731149, 3828804; 731183, 3828800; 731218, 3828769; 731258, 3828725; 731399, 3828562; returning to 731548, 3828414.

(ii) Note: Unit STB-4 is depicted on Map M25—Unit STB-4, STB-5, and STB-6—see paragraph (49)(ii):

(48) Unit STB-5, Santa Barbara County, California.

(i) From USGS 1:24,000 scale quadrangle Santa Rosa Hills, Solvang, Gaviota. Land bounded by the following UTM Zone 10, NAD27 coordinates (E,N): 754082, 3828621; 754118, 3828615; 754173, 3828633; 754220, 3828624; 754272, 3828592; 754314, 3828559; 754353, 3828538; 754484, 3828518; 754530, 3828525; 754594, 3828524; 754651, 3828519; 754785, 3828523; 754931, 3828518; 754993, 3828513; 755077, 3828500; 755167, 3828497; 755206, 3828493; 755239, 3828478; 755300, 3828431; 755354, 3828343; 755414, 3828288; 755514, 3828237; 755575, 3828212; 755697, 3828189; 755742, 3828169; 755779, 3828121; 755795, 3828053; 755823, 3827856; 755872, 3827690; 755879, 3827637; 755871, 3827582; 755856, 3827548; 755833, 3827517; 755821, 3827482; 755964, 3827406; 756196, 3827235; 756251, 3827151; 756293, 3827116; 756352, 3827096; 756432, 3827081; 756511, 3827052; 756572, 3827024; 756595, 3827008; 756607, 3826989; 756593, 3826908; 756601, 3826836; 756642, 3826704; 756664, 3826658; 756695, 3826612; 756716, 3826559; 756734, 3826502; 756743, 3826460; 756728, 3826416; 756673, 3826343; 756612, 3826255; 756595, 3826204; 756591, 3826150; 756657, 3826032; 756675, 3825969; 756682, 3825835; 756701, 3825778; 756736, 3825736; 756792, 3825702; 756846, 3825651; 756876, 3825582; 756865, 3825496; 756836, 3825427; 756812, 3825346; 756798, 3825268; 756775, 3825217; 756738, 3825157; 756716, 3825102; 756705, 3824964; 756691, 3824887; 756670, 3824819; 756638, 3824748; 756583, 3824656; 756610, 3824645; 756698, 3824674; 756802, 3824697; 756889, 3824704; 756924, 3824697; 756944, 3824678; 756984, 3824632; 757059, 3824498; 757105, 3824442; 757173, 3824401; 757246, 3824379; 757320, 3824330; 757409, 3824289; 757484, 3824269; 757560, 3824260; 757646, 3824240; 757707, 3824213; 757802, 3824191; 757982, 3824075; 758062, 3824046; 758124, 3824052; 758249, 3824092; 758314, 3824108; 758418, 3824147; 758483, 3824146; 758654, 3824109; 758850, 3824093; 758956, 3824097; 759051, 3824062; 759185, 3823989; 759249, 3823946; 759313, 3823888; 759347, 3823839; 759356, 3823826; 759386, 3823760; 759454, 3823577; 759476, 3823527; 759504, 3823482; 759539, 3823435; 759563, 3823388; 759569, 3823334; 759549, 3823205; 759548, 3823115; 759560, 3822980; 759577, 3822909; 759608, 3822862; 759702, 3822762; 759734, 3822723; 759768, 3822693; 759786, 3822680; 759770, 3822666; 759723, 3822603; 759662, 3822500; 759614, 3822411; 759559, 3822335; 759491, 3822264; 759416, 3822231; 759241, 3822192; 759119, 3822133; 759019, 3822099; 758838, 3822045; 758745, 3822025; 758632, 3822012; 758504, 3822005; 758378, 3821985; 758273, 3821957; 758063, 3821887; 757982, 3821846; 757890, 3821808; 757717, 3821772; 757632, 3821751; 757478, 3821685; 757411, 3821638; 757347, 3821574; 757296, 3821514; 757240, 3821447; 757147, 3821324; 757090, 3821271; 757041, 3821249; 756993, 3821240; 756937, 3821233; 756866, 3821231; 756817, 3821205; 756801, 3821170; 756798, 3821138; 756810, 3821084; 756808, 3821052; 756780, 3821028; 756739, 3820984; 756708, 3820944; 756686, 3820890; 756686, 3820847; 756722, 3820735; 756728, 3820682; 756716, 3820605; 756716, 3820604; 756691, 3820549; 756682, 3820508; 756657, 3820451; 756595, 3820350; 756510, 3820230; 756428, 3820163; 756394, 3820122; 756369, 3820116; 756331, 3820122; 756251, 3820142; 756216, 3820140; 756183, 3820109; 756146, 3820057; 755960, 3819953; 755931, 3819925; 755920, 3819839; 755906, 3819802; 755807, 3819648; 755758, 3819606; 755680, 3819578; 755619, 3819539; 755491, 3819406; 755361, 3819294; 755309, 3819235; 755303, 3819232; 755267, 3819219; 755213, 3819209; 755176, 3819185; 755145, 3819127; 755130, 3819055; 755128, 3819000; 755084, 3818876; 755095, 3818808; 755118, 3818721; 755131, 3818630; 755126, 3818560; 755034, 3818437; 754978, 3818336; 754918, 3818167; 754900, 3818117; 754896, 3818107; 754886, 3818083; 754873, 3818051; 754815, 3817931; 754811, 3817925; 754791, 3817894; 754786, 3817886; 754756, 3817858; 754712, 3817826; 754608, 3817875; 754588, 3817888; 754545, 3817914; 754541, 3817917; 754493, 3817957; 754396, 3818054; 754353, 3818081; 754317, 3818093; 754229, 3818143; 754166, 3818168; 754144, 3818177; 753944, 3818236; 753795, 3818299; 753758, 3818333; 753721, 3818382; 753669, 3818441; 753651, 3818471; 753620, 3818490; 753591, 3818499; 753539, 3818527; 753474, 3818553; 753351, 3818570; 753265, 3818593; 753200, 3818625; 753158, 3818667; 753150, 3818721; 753147, 3818770; 753135, 3818806; 753113, 3818848; 753102, 3818881; 753064, 3818997; 753015, 3819109; 753013, 3819157; 753035, 3819193; 753041, 3819208; 753061, 3819257; 753069, 3819305; 753079, 3819321; 753096, 3819346; 753142, 3819383; 753191, 3819415; 753255, 3819449; 753342, 3819518; 753377, 3819564; 753385, 3819620; 753370, 3819674; 753341, 3819734; 753304, 3819778; 753222, 3819850; 753176, 3819898; 753170, 3819941; 753175, 3819997; 753190, 3820056; 753215, 3820106; 753236, 3820136; 753228, 3820151; 753174, 3820178; 753131, 3820213; 753050, 3820296; 753042, 3820304; 752987, 3820348; 752979, 3820397; 752999, 3820435; 753002, 3820447; 753010, 3820486; 752999, 3820524; 752996, 3820536; 752975, 3820584; 752957, 3820648; 752955, 3820691; 752961, 3820749; 753013, 3820849; 753024, 3820878; 753038, 3820916; 753049, 3820948; 753074, 3820999; 753111, 3821058; 753130, 3821082; 753160, 3821141; 753184, 3821200; 753220, 3821252; 753249, 3821315; 753329, 3821454; 753393, 3821515; 753485, 3821558; 753567, 3821609; 753614, 3821664; 753610, 3821703; 753589, 3821730; 753551, 3821763; 753478, 3821799; 753467, 3821801; 753414, 3821810; 753341, 3821827; 753304, 3821865; 753285, 3821924; 753263, 3821975; 753219, 3822054; 753191, 3822091; 753146, 3822124; 753039, 3822189; 752961, 3822212; 752904, 3822213; 752836, 3822206; 752752, 3822190; 752711, 3822177; 752675, 3822165; 752604, 3822156; 752592, 3822158; 752546, 3822165; 752457, 3822164; 752416, 3822171; 752336, 3822171; 752269, 3822198; 752121, 3822276; 752044, 3822295; 751885, 3822284; 751841, 3822309; 751808, 3822354; 751740, 3822395; 751659, 3822421; 751571, 3822432; 751465, 3822435; 751345, 3822432; 751259, 3822422; 751191, 3822409; 751109, 3822387; 750965, 3822371; 750881, 3822355; 750711, 3822281; 750560, 3822292; 750454, 3822312; 750371, 3822319; 750315, 3822333; 750278, 3822344; 750250, 3822356; 750231, 3822360; 750225, 3822383; 750212, 3822413; 750179, 3822461; 750132, 3822522; 750078, 3822570; 750032, 3822621; 750007, 3822667; 750010, 3822725; 750027, 3822775; 750066, 3822856; 750093, 3822890; 750152, 3822912; 750213, 3822944; 750239, 3822986; 750268, 3823084; 750312, 3823089; 750434, 3823080; 750485, 3823086; 750577, 3823091; 750652, 3823110; 750690, 3823155; 750716, 3823220; 750714, 3823288; 750690, 3823335; 750608, 3823419; 750501, 3823518; 750439, 3823592; 750348, 3823715; 750335, 3823770; 750371, 3823840; 750426, 3823901; 750456, 3823947; 750458, 3824011; 750467, 3824102; 750488, 3824163; 750536, 3824219; 750596, 3824256; 750717, 3824252; 750780, 3824259; 750804, 3824283; 750820, 3824317; 750839, 3824376; 750844, 3824468; 750834, 3824582; 750806, 3824706; 750807, 3824796; 750826, 3824870; 750857, 3824955; 750913, 3825079; 750944, 3825166; 750948, 3825215; 750944, 3825300; 750926, 3825433; 750875, 3825585; 750867, 3825644; 750875, 3825695; 750896, 3825759; 750921, 3825810; 750964, 3825912; 750975, 3825968; 750978, 3826048; 750994, 3826175; 751023, 3826238; 751031, 3826304; 751047, 3826363; 751078, 3826424; 751111, 3826462; 751147, 3826518; 751162, 3826568; 751161, 3826631; 751167, 3826702; 751194, 3826784; 751222, 3826843; 751257, 3826992; 751298, 3827055; 751357, 3827114; 751377, 3827152; 751406, 3827294; 751444, 3827363; 751480, 3827388; 751566, 3827409; 751732, 3827410; 751815, 3827425; 751922, 3827466; 752065, 3827481; 752145, 3827504; 752206, 3827500; 752251, 3827481; 752438, 3827464; 752473, 3827456; 752493, 3827446; 752505, 3827471; 752553, 3827613; 752582, 3827645; 752627, 3827679; 752676, 3827740; 752750, 3827870; 752768, 3827890; 752799, 3827907; 752841, 3827943; 752869, 3827994; 752992, 3828140; 753043, 3828218; 753111, 3828351; 753129, 3828410; 753139, 3828454; 753153, 3828494; 753196, 3828533; 753238, 3828558; 753276, 3828572; 753344, 3828583; 753438, 3828636; 753511, 3828663; 753588, 3828705; 753656, 3828716; 753718, 3828722; 753846, 3828746; 753902, 3828744; 753944, 3828711; 753974, 3828673; 754008, 3828652; returning to 754082, 3828621.

(ii) Note: Unit STB-5 is depicted on Map M25—Unit STB-4, STB-5, and STB-6—see paragraph (49)(ii):

(49) Unit STB-6, Santa Barbara County, California.

(i) From USGS 1:24,000 scale quadrangle Santa Ynez, Solvang, Gaviota, Tajiguas. Land bounded by the following UTM Zone 10, NAD27 coordinates (E,N): 770986, 3825640; 771043, 3825632; 771105, 3825658; 771147, 3825680; 771193, 3825688; 771256, 3825673; 771349, 3825620; 771424, 3825566; 771613, 3825452; 771711, 3825403; 771789, 3825385; 771858, 3825355; 771983, 3825292; 772104, 3825203; 772092, 3825193; 772066, 3825149; 772038, 3825075; 772006, 3824926; 771995, 3824856; 771984, 3824806; 771961, 3824744; 771949, 3824690; 771949, 3824632; 771945, 3824561; 771920, 3824424; 771907, 3824379; 771903, 3824212; 771893, 3824187; 771832, 3824123; 771816, 3824079; 771797, 3823977; 771794, 3823949; 771803, 3823910; 771803, 3823865; 771756, 3823816; 771714, 3823789; 771692, 3823753; 771692, 3823706; 771673, 3823665; 771646, 3823619; 771632, 3823581; 771638, 3823456; 771635, 3823364; 771645, 3823303; 771652, 3823204; 771634, 3823189; 771599, 3823198; 771498, 3823201; 771455, 3823162; 771432, 3823131; 771416, 3823090; 771416, 3822976; 771402, 3822958; 771370, 3822930; 771341, 3822894; 771315, 3822829; 771304, 3822770; 771260, 3822634; 771241, 3822586; 771176, 3822557; 771136, 3822552; 771058, 3822573; 771008, 3822571; 770973, 3822555; 770933, 3822546; 770869, 3822540; 770824, 3822528; 770755, 3822501; 770610, 3822491; 770470, 3822451; 770389, 3822450; 770117, 3822424; 770036, 3822398; 769972, 3822361; 769943, 3822327; 769948, 3822289; 769999, 3822245; 770019, 3822177; 770022, 3822094; 770018, 3822041; 769955, 3821903; 769939, 3821829; 769951, 3821742; 769989, 3821659; 770004, 3821609; 770006, 3821600; 770000, 3821561; 769988, 3821525; 769983, 3821498; 769983, 3821464; 769990, 3821378; 769995, 3821161; 770014, 3821021; 770018, 3820930; 770000, 3820847; 769967, 3820776; 769943, 3820714; 769923, 3820628; 769921, 3820572; 769954, 3820471; 769972, 3820390; 769971, 3820303; 769956, 3820217; 769953, 3820056; 769944, 3819984; 769908, 3819859; 769911, 3819814; 769941, 3819754; 769971, 3819719; 769993, 3819678; 769983, 3819612; 769914, 3819513; 769905, 3819442; 769917, 3819324; 769937, 3819047; 769923, 3819005; 769899, 3818977; 769869, 3818932; 769841, 3818859; 769841, 3818772; 769822, 3818655; 769789, 3818588; 769753, 3818532; 769729, 3818476; 769727, 3818402; 769744, 3818341; 769775, 3818167; 769776, 3818105; 769742, 3818036; 769684, 3817977; 769624, 3817885; 769563, 3817740; 769489, 3817584; 769464, 3817521; 769461, 3817514; 769454, 3817475; 769449, 3817450; 769447, 3817438; 769432, 3817327; 769365, 3817343; 769292, 3817348; 769196, 3817362; 769179, 3817362; 769171, 3817354; 769148, 3817357; 769131, 3817356; 769024, 3817338; 768964, 3817318; 768855, 3817269; 768821, 3817242; 768813, 3817217; 768814, 3817204; 768822, 3817175; 768823, 3817174; 768823, 3817170; 768825, 3817164; 768839, 3817145; 768823, 3817135; 768782, 3817125; 768766, 3817114; 768738, 3817108; 768629, 3817114; 768615, 3817114; 768590, 3817102; 768542, 3817110; 768514, 3817103; 768462, 3817105; 768402, 3817103; 768375, 3817103; 768345, 3817105; 768333, 3817111; 768329, 3817113; 768318, 3817114; 768314, 3817113; 768273, 3817103; 768189, 3817097; 768161, 3817092; 768087, 3817093; 768055, 3817101; 768021, 3817099; 767983, 3817091; 767942, 3817100; 767885, 3817085; 767780, 3817095; 767721, 3817079; 767676, 3817079; 767667, 3817074; 767655, 3817072; 767583, 3817072; 767510, 3817064; 767436, 3817068; 767420, 3817064; 767383, 3817070; 767345, 3817080; 767325, 3817085; 767235, 3817085; 767152, 3817106; 767018, 3817132; 766958, 3817125; 766933, 3817129; 766886, 3817147; 766845, 3817154; 766699, 3817193; 766615, 3817225; 766466, 3817305; 766451, 3817321; 766413, 3817349; 766318, 3817394; 766308, 3817404; 766263, 3817429; 766218, 3817432; 766217, 3817432; 766188, 3817421; 766183, 3817405; 766171, 3817399; 766161, 3817398; 766118, 3817417; 766074, 3817443; 766060, 3817458; 766009, 3817484; 765917, 3817529; 765819, 3817563; 765789, 3817578; 765752, 3817587; 765700, 3817607; 765593, 3817656; 765458, 3817701; 765448, 3817712; 765430, 3817722; 765351, 3817763; 765297, 3817786; 765210, 3817835; 765170, 3817850; 765150, 3817858; 765116, 3817875; 765063, 3817892; 765019, 3817913; 764939, 3817937; 764937, 3817937; 764923, 3817943; 764917, 3817944; 764850, 3817968; 764822, 3817974; 764805, 3817982; 764761, 3818001; 764697, 3818030; 764656, 3818040; 764644, 3818044; 764630, 3818047; 764612, 3818113; 764574, 3818200; 764542, 3818245; 764517, 3818290; 764496, 3818359; 764443, 3818601; 764412, 3818704; 764347, 3818877; 764305, 3818942; 764226, 3819041; 764207, 3819094; 764179, 3819227; 764168, 3819357; 764157, 3819420; 764122, 3819564; 764111, 3819628; 764074, 3819693; 764032, 3819796; 763999, 3819833; 763967, 3819861; 763919, 3819876; 763876, 3819904; 763843, 3819932; 763806, 3819977; 763796, 3820002; 763791, 3820061; 763809, 3820151; 763812, 3820203; 763842, 3820301; 763843, 3820358; 763850, 3820405; 763838, 3820456; 763802, 3820491; 763690, 3820555; 763638, 3820590; 763604, 3820619; 763553, 3820667; 763553, 3820667; 763531, 3820731; 763529, 3820782; 763522, 3820847; 763521, 3820920; 763529, 3820969; 763549, 3821013; 763552, 3821048; 763550, 3821080; 763543, 3821167; 763534, 3821223; 763521, 3821275; 763523, 3821324; 763516, 3821385; 763495, 3821485; 763479, 3821560; 763457, 3821666; 763458, 3821701; 763466, 3821743; 763474, 3821776; 763507, 3821899; 763537, 3821961; 763548, 3822045; 763533, 3822122; 763492, 3822247; 763462, 3822317; 763452, 3822372; 763447, 3822459; 763467, 3822531; 763519, 3822629; 763520, 3822703; 763505, 3822742; 763477, 3822787; 763467, 3822840; 763476, 3822881; 763483, 3822952; 763468, 3823003; 763445, 3823063; 763419, 3823170; 763427, 3823225; 763456, 3823293; 763460, 3823351; 763452, 3823387; 763428, 3823454; 763433, 3823483; 763430, 3823512; 763417, 3823541; 763406, 3823592; 763410, 3823628; 763481, 3823637; 763658, 3823625; 763752, 3823639; 763838, 3823641; 763849, 3823641; 763990, 3823602; 764058, 3823596; 764116, 3823604; 764232, 3823574; 764292, 3823570; 764328, 3823589; 764364, 3823615; 764401, 3823634; 764460, 3823656; 764509, 3823694; 764574, 3823707; 764685, 3823688; 764801, 3823690; 764911, 3823695; 765027, 3823718; 765253, 3823800; 765301, 3823821; 765503, 3823889; 765650, 3823931; 765723, 3823965; 765792, 3824005; 765865, 3824072; 765966, 3824135; 766073, 3824246; 766100, 3824289; 766140, 3824384; 766151, 3824399; 766244, 3824449; 766447, 3824529; 766503, 3824570; 766568, 3824626; 766647, 3824711; 766711, 3824765; 766800, 3824835; 766867, 3824880; 766919, 3824904; 767072, 3824931; 767108, 3824934; 767160, 3824919; 767242, 3824882; 767278, 3824884; 767302, 3824918; 767313, 3824958; 767343, 3825132; 767375, 3825247; 767394, 3825330; 767423, 3825369; 767455, 3825392; 767543, 3825435; 767578, 3825449; 767592, 3825447; 767631, 3825444; 767759, 3825329; 767795, 3825260; 767822, 3825190; 767841, 3825153; 767882, 3825112; 767937, 3825085; 768006, 3825056; 768081, 3825041; 768167, 3825010; 768209, 3824974; 768245, 3824920; 768302, 3824816; 768351, 3824764; 768400, 3824740; 768477, 3824724; 768565, 3824722; 768601, 3824751; 768610, 3824820; 768601, 3824920; 768592, 3824987; 768596, 3825042; 768604, 3825069; 768631, 3825100; 768728, 3825105; 768811, 3825096; 769010, 3825043; 769015, 3825040; 769080, 3825010; 769143, 3824997; 769196, 3825003; 769246, 3825032; 769311, 3825060; 769355, 3825067; 769415, 3825077; 769466, 3825106; 769512, 3825159; 769548, 3825210; 769584, 3825243; 769626, 3825243; 769700, 3825210; 769776, 3825146; 769833, 3825128; 769903, 3825144; 769994, 3825206; 770038, 3825244; 770057, 3825260; 770088, 3825284; 770131, 3825290; 770225, 3825257; 770245, 3825252; 770317, 3825230; 770373, 3825234; 770424, 3825258; 770433, 3825262; 770497, 3825321; 770546, 3825386; 770568, 3825431; 770590, 3825492; 770605, 3825543; 770644, 3825672; 770666, 3825732; 770688, 3825762; 770772, 3825777; 770837, 3825767; 770873, 3825752; 770909, 3825726; 770940, 3825680; 770968, 3825656; returning to 770986, 3825640.

(ii) Note: Unit STB-6 is depicted on Map M25—Unit STB-4, STB-5, and STB-6—which follows:

BILLING CODE 4310-55-P

BILLING CODE 4310-55-C

(50) Unit STB-7, Santa Barbara County, California.

(i) From USGS 1:24,000 scale quadrangle San Marcos Pass, Little Pine Mtn., Hildreth Peak, Carpinteria, White Ledge Peak. Land bounded by the following UTM Zone 11, NAD27 coordinates (E,N): 811543, 3830835; 811642, 3830073; 811658, 3829782; 811707, 3829105; 811672, 3828780; 811574, 3828614; 811315, 3828385; 811202, 3828220; 811161, 3828101; 811194, 3827969; 811324, 3827589; 811374, 3827369; 811382, 3827119; 811335, 3826704; 811311, 3826512; 811390, 3826337; 811577, 3826018; 811896, 3825703; 812106, 3825591; 812373, 3825554; 812711, 3825609; 813119, 3825783; 813350, 3825981; 813555, 3826519; 813644, 3827038; 813777, 3827528; 813942, 3827932; 814152, 3828336; 814406, 3828742; 814695, 3828957; 815148, 3829103; 815381, 3829061; 815815, 3828941; 816125, 3828755; 816364, 3828393; 816517, 3828006; 816613, 3827705; 816774, 3827063; 816784, 3826717; 816712, 3826154; 816587, 3825870; 816430, 3825688; 816345, 3825568; 816303, 3825478; 816364, 3825421; 816612, 3825517; 817005, 3825735; 817472, 3825926; 817824, 3826010; 818225, 3825933; 818808, 3825685; 819142, 3825370; 819178, 3825164; 819191, 3824707; 819141, 3824396; 819150, 3824086; 819442, 3823711; 819930, 3823400; 820392, 3823251; 820643, 3823243; 820969, 3823194; 821091, 3823079; 821245, 3822848; 821355, 3822645; 821449, 3822470; 821584, 3822386; 821895, 3822365; 822129, 3822431; 822379, 3822483; 822572, 3822429; 822723, 3822316; 822788, 3822126; 822856, 3821803; 822954, 3821511; 823049, 3821278; 823265, 3820974; 823454, 3820567; 823672, 3820189; 823754, 3819903; 823637, 3819977; 823574, 3820008; 823423, 3820066; 823354, 3820078; 823275, 3820086; 823248, 3820085; 823185, 3820159; 822963, 3820197; 822859, 3820194; 822760, 3820058; 822638, 3819685; 822535, 3819473; 822510, 3819503; 822487, 3819512; 822458, 3819511; 822389, 3819489; 822310, 3819469; 822218, 3819469; 822154, 3819460; 822095, 3819442; 822040, 3819400; 821981, 3819361; 821928, 3819350; 821868, 3819354; 821758, 3819370; 821692, 3819369; 821610, 3819346; 821537, 3819321; 821497, 3819318; 821454, 3819344; 821435, 3819382; 821415, 3819388; 821400, 3819400; 821286, 3819431; 821233, 3819437; 821182, 3819460; 821129, 3819476; 821042, 3819491; 820991, 3819542; 820969, 3819699; 820930, 3819736; 820926, 3819737; 820965, 3819828; 820884, 3820062; 820700, 3820293; 820432, 3820373; 820137, 3820365; 819960, 3820345; 819757, 3820235; 819525, 3820066; 819353, 3819914; 819252, 3819822; 819091, 3819758; 818855, 3819766; 818437, 3819902; 817898, 3820181; 817360, 3820386; 817000, 3820568; 816791, 3820635; 816524, 3820672; 816365, 3820579; 816208, 3820397; 816037, 3820185; 815893, 3820063; 815747, 3819985; 815372, 3819900; 815076, 3819906; 814660, 3819997; 814331, 3820150; 814057, 3820422; 813942, 3820802; 813933, 3821127; 814014, 3821380; 814079, 3821662; 814070, 3821972; 813974, 3822220; 813819, 3822466; 813637, 3822653; 813501, 3822752; 813308, 3822790; 813175, 3822772; 812871, 3822586; 812438, 3822248; 811946, 3821909; 811686, 3821710; 811466, 3821630; 811186, 3821622; 810738, 3821785; 810332, 3822039; 810118, 3822284; 810039, 3822473; 809999, 3822811; 809947, 3823075; 809837, 3823308; 809342, 3823574; 808865, 3823722; 808464, 3823784; 808049, 3823831; 807679, 3823879; 807335, 3824016; 807096, 3824098; 806905, 3824077; 806730, 3823999; 806587, 3823862; 806444, 3823680; 806242, 3823527; 806147, 3823490; 806038, 3823447; 805714, 3823393; 805206, 3823463; 805181, 3823466; 804896, 3823590; 804579, 3823832; 804409, 3824092; 804372, 3824357; 804366, 3824549; 804289, 3824664; 804140, 3824689; 803816, 3824680; 803552, 3824598; 803229, 3824545; 803000, 3824508; 802539, 3824598; 801913, 3824801; 801509, 3824981; 801165, 3825133; 800999, 3825261; 800893, 3825361; 800784, 3825520; 800599, 3825809; 800433, 3825908; 800196, 3825945; 800006, 3825895; 799698, 3825798; 799435, 3825701; 799289, 3825667; 798995, 3825615; 798612, 3825589; 798229, 3825548; 797934, 3825539; 797670, 3825487; 797465, 3825407; 797245, 3825356; 797055, 3825306; 796952, 3825289; 796819, 3825285; 796656, 3825309; 796550, 3825395; 796429, 3825509; 796367, 3825600; 796182, 3825871; 796046, 3825970; 795898, 3825995; 795676, 3825989; 795441, 3825967; 795146, 3825943; 794969, 3825938; 794806, 3825963; 794599, 3825957; 794378, 3825950; 794250, 3825909; 794173, 3825885; 793938, 3825849; 793674, 3825796; 793394, 3825759; 793069, 3825764; 792800, 3825816; 792475, 3825879; 792237, 3825946; 791923, 3826084; 791785, 3826161; 791773, 3826168; 791651, 3826297; 791530, 3826382; 791410, 3826452; 791322, 3826450; 791236, 3826359; 791150, 3826253; 791033, 3826220; 790873, 3826141; 790652, 3826135; 790406, 3826144; 790048, 3826281; 789783, 3826450; 789717, 3826492; 789579, 3826650; 789408, 3826955; 789362, 3827222; 789436, 3827267; 789554, 3827638; 789605, 3827976; 789605, 3828297; 789586, 3828324; 789709, 3828455; 790088, 3828614; 790573, 3828687; 791074, 3828746; 791694, 3828735; 792243, 3828663; 792704, 3828544; 793001, 3828494; 793237, 3828471; 793470, 3828611; 793669, 3828868; 793795, 3829078; 793981, 3829290; 794213, 3829444; 794498, 3829583; 794504, 3829586; 794752, 3829681; 795091, 3829692; 795449, 3829584; 795840, 3829345; 796023, 3829159; 796116, 3829014; 796137, 3828778; 796184, 3828706; 796245, 3828619; 796319, 3828622; 796482, 3828612; 796631, 3828572; 796841, 3828460; 797112, 3828276; 797322, 3828150; 797634, 3828085; 798063, 3828054; 798714, 3828014; 799394, 3828004; 799909, 3828049; 800915, 3828094; 801538, 3828009; 802044, 3827891; 802480, 3827609; 802831, 3827221; 803119, 3826964; 803390, 3826795; 803793, 3826644; 804181, 3826508; 804765, 3826245; 805258, 3826053; 805689, 3825948; 805895, 3825998; 806062, 3826073; 806128, 3826102; 806142, 3826109; 806360, 3826248; 806618, 3826506; 806873, 3826868; 806979, 3827284; 806969, 3827608; 806913, 3828020; 806668, 3828308; 806128, 3828587; 805546, 3828820; 805410, 3828920; 805059, 3829278; 804734, 3829799; 804576, 3830134; 804538, 3830428; 804575, 3830665; 804789, 3830937; 804946, 3831133; 805221, 3831304; 805442, 3831378; 805677, 3831480; 805876, 3831495; 806075, 3831487; 806237, 3831463; 806364, 3831436; 806579, 3831368; 806755, 3831290; 806919, 3831168; 807015, 3831062; 807052, 3830827; 807014, 3830604; 807049, 3830428; 807157, 3830255; 807400, 3830040; 807760, 3829830; 808117, 3829766; 808351, 3829847; 808578, 3830134; 808718, 3830419; 808843, 3830659; 808886, 3830658; 809102, 3831067; 809293, 3831224; 809848, 3831545; 810064, 3831631; 810256, 3831709; 810637, 3831698; 810718, 3831664; 810978, 3831556; 811368, 3831220; returning to 811543, 3830835.

(ii) Note: Unit STB-7 (Map M26) follows:

BILLING CODE 4310-55-P

BILLING CODE 4310-55-C

(51) Unit VEN-1, Ventura County, California.

(i) From USGS 1:24,000 scale quadrangle Wheeler Springs, Matilija. Land bounded by the following UTM Zone 11, NAD27 coordinates (E,N): 837608, 3825140; 837642, 3825101; 837705, 3825043; 837854, 3824934; 837879, 3824892; 837909, 3824857; 837952, 3824839; 838090, 3824793; 838181, 3824789; 838248, 3824793; 838327, 3824774; 838409, 3824727; 838449, 3824655; 838474, 3824597; 838539, 3824480; 838540, 3824427; 838550, 3824344; 838555, 3824272; 838581, 3824232; 838615, 3824199; 838647, 3824180; 838785, 3824140; 838859, 3824081; 838993, 3824006; 839082, 3823992; 839186, 3823992; 839304, 3823947; 839408, 3823858; 839483, 3823739; 839601, 3823606; 839601, 3823606; 839617, 3823578; 839675, 3823472; 839705, 3823413; 839750, 3823354; 839824, 3823294; 839957, 3823279; 840009, 3823240; 840012, 3823238; 840076, 3823190; 840224, 3823027; 840284, 3822997; 840521, 3822997; 840684, 3822908; 840848, 3822894; 840981, 3822923; 841144, 3822997; 841233, 3823012; 841367, 3822938; 841382, 3822805; 841382, 3822627; 841308, 3822508; 841248, 3822389; 841189, 3822270; 841026, 3822241; 840892, 3822226; 840818, 3822078; 840803, 3821974; 840747, 3821909; 840744, 3821905; 840714, 3821870; 840684, 3821796; 840684, 3821692; 840699, 3821558; 840699, 3821499; 840699, 3821440; 840699, 3821351; 840699, 3821202; 840744, 3821084; 840744, 3821083; 840833, 3820876; 840640, 3820861; 840521, 3820861; 840254, 3820713; 840046, 3820668; 840010, 3820643; 840005, 3820641; 839913, 3820579; 839779, 3820460; 839631, 3820342; 839512, 3820267; 839364, 3820178; 839215, 3820134; 839067, 3820089; 838830, 3820015; 838592, 3820015; 838474, 3820015; 838266, 3820030; 838147, 3820208; 838058, 3820267; 837895, 3820327; 837687, 3820327; 837568, 3820253; 837509, 3820282; 837494, 3820431; 837465, 3820520; 837450, 3820609; 837390, 3820609; 837361, 3820623; 837346, 3820683; 837316, 3820772; 837287, 3820891; 837287, 3821009; 837227, 3821113; 837153, 3821217; 837155, 3821222; 837134, 3821210; 837106, 3821215; 837070, 3821211; 837005, 3821213; 836844, 3821256; 836715, 3821317; 836683, 3821322; 836530, 3821293; 836422, 3821283; 836390, 3821273; 836328, 3821263; 836264, 3821260; 836173, 3821270; 836109, 3821316; 836058, 3821336; 835988, 3821358; 835846, 3821417; 835808, 3821444; 835720, 3821487; 835634, 3821499; 835541, 3821529; 835471, 3821537; 835410, 3821530; 835327, 3821530; 835267, 3821544; 835187, 3821554; 835123, 3821548; 835018, 3821519; 834959, 3821522; 834880, 3821561; 834751, 3821613; 834611, 3821624; 834501, 3821581; 834469, 3821560; 834419, 3821509; 834348, 3821462; 834284, 3821383; 834252, 3821367; 834111, 3821331; 834062, 3821326; 833947, 3821292; 833900, 3821296; 833852, 3821311; 833813, 3821331; 833767, 3821341; 833703, 3821377; 833634, 3821382; 833556, 3821395; 833465, 3821395; 833400, 3821401; 833361, 3821393; 833348, 3821389; 833348, 3821477; 833289, 3821814; 833260, 3822122; 833260, 3822488; 833260, 3822723; 833275, 3822753; 833333, 3822869; 833465, 3822987; 833514, 3823061; 833553, 3823118; 833582, 3823309; 833743, 3823455; 833911, 3823623; 833919, 3823631; 833978, 3823807; 833992, 3824129; 833992, 3824155; 833992, 3824335; 834051, 3824569; 834227, 3824686; 834388, 3824818; 834446, 3824965; 834599, 3825141; 834605, 3825142; 834708, 3825183; 834777, 3825218; 834846, 3825244; 835006, 3825280; 835082, 3825290; 835238, 3825296; 835323, 3825280; 835392, 3825263; 835439, 3825244; 835535, 3825191; 835605, 3825159; 835666, 3825148; 835778, 3825150; 835919, 3825145; 835959, 3825131; 836006, 3825107; 836055, 3825104; 836174, 3825107; 836273, 3825118; 836381, 3825149; 836456, 3825189; 836574, 3825237; 836669, 3825271; 836728, 3825297; 836846, 3825328; 836993, 3825371; 837057, 3825385; 837100, 3825417; 837138, 3825477; 837178, 3825523; 837233, 3825562; 837353, 3825617; 837401, 3825649; 837442, 3825670; 837480, 3825681; 837502, 3825695; 837513, 3825712; 837550, 3825580; 837560, 3825486; 837570, 3825256; 837584, 3825186; returning to 837608, 3825140.

(ii) Note: Unit VEN-1 is depicted on Map M27—Unit VEN-1 and VEN-2—see paragraph (52)(ii):

(52) Unit VEN-2, Ventura County, California.

(i) From USGS 1:24,000 scale quadrangle Matilija, Ojai, Ventura. Land bounded by the following UTM Zone 11, NAD27 coordinates (E,N): 844594, 3816280; 844644, 3816240; 844712, 3816268; 844762, 3816280; 844824, 3816280; 844885, 3816280; 844941, 3816280; 845008, 3816280; 845070, 3816280; 845131, 3816274; 845182, 3816274; 845226, 3816274; 845266, 3816257; 845310, 3816235; 845333, 3816196; 845350, 3816162; 845378, 3816134; 845445, 3816106; 845517, 3816005; 845545, 3815972; 845545, 3815888; 845534, 3815832; 845517, 3815798; 845456, 3815748; 845445, 3815709; 845434, 3815658; 845411, 3815586; 845411, 3815519; 845355, 3815435; 845327, 3815367; 845299, 3815317; 845277, 3815311; 845198, 3815306; 845109, 3815244; 845073, 3815219; 845047, 3815211; 845021, 3815180; 844997, 3815133; 844957, 3815057; 844910, 3814996; 844863, 3814920; 844844, 3814904; 844836, 3814900; 844832, 3814898; 844827, 3814896; 844821, 3814894; 844816, 3814892; 844810, 3814891; 844804, 3814890; 844801, 3814890; 844800, 3814890; 844734, 3814819; 844689, 3814757; 844633, 3814696; 844572, 3814645; 844521, 3814623; 844449, 3814606; 844415, 3814556; 844281, 3814466; 844253, 3814405; 844219, 3814304; 844214, 3814254; 844180, 3814198; 844197, 3814153; 844247, 3814108; 844279, 3814086; 844300, 3814084; 844309, 3814075; 844394, 3813896; 844426, 3813780; 844359, 3813574; 844296, 3813471; 844296, 3813391; 844314, 3813310; 844327, 3813265; 844327, 3813264; 844323, 3813264; 844277, 3813240; 844238, 3813212; 844220, 3813185; 844204, 3813146; 844186, 3813036; 844158, 3813018; 844085, 3813032; 844019, 3813037; 843964, 3813027; 843917, 3812984; 843891, 3812925; 843883, 3812880; 843855, 3812844; 843809, 3812841; 843684, 3812863; 843652, 3812857; 843631, 3812821; 843636, 3812683; 843623, 3812594; 843603, 3812556; 843575, 3812531; 843502, 3812514; 843428, 3812532; 843385, 3812532; 843348, 3812513; 843310, 3812394; 843273, 3812355; 843208, 3812350; 843013, 3812439; 842960, 3812441; 842918, 3812419; 842899, 3812375; 842900, 3812331; 842918, 3812245; 842929, 3812206; 842945, 3812168; 842968, 3812126; 842974, 3812087; 842952, 3812055; 842918, 3812029; 842824, 3811937; 842778, 3811920; 842734, 3811934; 842644, 3812000; 842591, 3812025; 842534, 3812033; 842487, 3812025; 842436, 3811982; 842325, 3811814; 842298, 3811809; 842227, 3811817; 842158, 3811809; 842014, 3811709; 841985, 3811654; 841972, 3811647; 841919, 3811609; 841861, 3811576; 841724, 3811547; 841680, 3811524; 841643, 3811484; 841614, 3811440; 841607, 3811386; 841608, 3811317; 841570, 3811276; 841501, 3811274; 841443, 3811267; 841417, 3811233; 841383, 3811113; 841381, 3811053; 841386, 3810985; 841385, 3810934; 841374, 3810905; 841348, 3810878; 841277, 3810822; 841256, 3810791; 841255, 3810600; 841234, 3810521; 841198, 3810440; 841174, 3810373; 841148, 3810211; 841096, 3810118; 841013, 3810048; 840789, 3810001; 840708, 3809964; 840673, 3809941; 840652, 3809913; 840549, 3809825; 840506, 3809778; 840472, 3809732; 840408, 3809623; 840365, 3809584; 840333, 3809569; 840305, 3809568; 840259, 3809617; 840240, 3809654; 840143, 3809749; 840112, 3809804; 840051, 3809847; 839990, 3809883; 839945, 3809922; 839914, 3809960; 839895, 3810008; 839868, 3810120; 839870, 3810185; 839864, 3810325; 839861, 3810354; 839835, 3810368; 839833, 3810369; 839828, 3810372; 839823, 3810375; 839818, 3810378; 839814, 3810382; 839809, 3810386; 839806, 3810391; 839802, 3810395; 839799, 3810400; 839799, 3810400; 839779, 3810432; 839738, 3810460; 839722, 3810459; 839642, 3810380; 839640, 3810372; 839622, 3810277; 839621, 3810115; 839621, 3810113; 839621, 3810107; 839621, 3810106; 839599, 3809909; 839599, 3809905; 839597, 3809899; 839596, 3809893; 839594, 3809888; 839592, 3809882; 839589, 3809877; 839586, 3809872; 839583, 3809867; 839579, 3809862; 839576, 3809858; 839571, 3809853; 839567, 3809850; 839562, 3809846; 839557, 3809843; 839552, 3809840; 839547, 3809837; 839542, 3809835; 839536, 3809833; 839530, 3809831; 839525, 3809830; 839519, 3809829; 839513, 3809829; 839507, 3809829; 839501, 3809829; 839495, 3809830; 839489, 3809831; 839484, 3809833; 839478, 3809835; 839473, 3809837; 839467, 3809839; 839462, 3809842; 839457, 3809846; 839453, 3809849; 839448, 3809853; 839444, 3809857; 839440, 3809862; 839437, 3809866; 839433, 3809871; 839430, 3809876; 839428, 3809881; 839425, 3809887; 839423, 3809892; 839422, 3809898; 839421, 3809904; 839420, 3809910; 839420, 3809916; 839420, 3809922; 839420, 3809927; 839420, 3809929; 839441, 3810121; 839442, 3810286; 839442, 3810288; 839443, 3810294; 839443, 3810300; 839444, 3810302; 839463, 3810407; 839464, 3810411; 839464, 3810412; 839473, 3810448; 839474, 3810452; 839476, 3810458; 839478, 3810463; 839481, 3810469; 839484, 3810474; 839487, 3810479; 839490, 3810483; 839494, 3810488; 839497, 3810491; 839610, 3810602; 839611, 3810603; 839616, 3810607; 839621, 3810611; 839625, 3810614; 839630, 3810617; 839636, 3810619; 839641, 3810622; 839642, 3810622; 839680, 3810636; 839684, 3810638; 839690, 3810639; 839696, 3810640; 839702, 3810641; 839708, 3810642; 839712, 3810642; 839765, 3810641; 839767, 3810641; 839773, 3810641; 839779, 3810640; 839784, 3810639; 839790, 3810637; 839796, 3810635; 839801, 3810633; 839807, 3810631; 839812, 3810628; 839815, 3810625; 839896, 3810570; 839897, 3810569; 839902, 3810565; 839907, 3810562; 839911, 3810557; 839915, 3810553; 839918, 3810548; 839922, 3810543; 839922, 3810543; 839938, 3810517; 839938, 3810517; 839945, 3810534; 839944, 3810547; 839943, 3810548; 839941, 3810554; 839939, 3810559; 839937, 3810565; 839937, 3810565; 839909, 3810688; 839891, 3810736; 839889, 3810741; 839888, 3810746; 839886, 3810752; 839886, 3810756; 839875, 3810845; 839875, 3810847; 839874, 3810853; 839874, 3810859; 839875, 3810865; 839875, 3810870; 839876, 3810874; 839895, 3810971; 839896, 3810973; 839897, 3810979; 839899, 3810985; 839902, 3810990; 839904, 3810995; 839907, 3811000; 839909, 3811004; 839943, 3811054; 839944, 3811055; 839948, 3811060; 839952, 3811064; 839956, 3811068; 839960, 3811072; 839963, 3811074; 840022, 3811120; 840024, 3811121; 840029, 3811125; 840034, 3811127; 840040, 3811130; 840045, 3811132; 840047, 3811133; 840080, 3811145; 840083, 3811146; 840089, 3811147; 840095, 3811148; 840100, 3811149; 840106, 3811150; 840112, 3811150; 840114, 3811150; 840145, 3811148; 840149, 3811148; 840155, 3811147; 840160, 3811146; 840166, 3811145; 840172, 3811143; 840152, 3811227; 840151, 3811233; 840151, 3811238; 840151, 3811239; 840138, 3811360; 840138, 3811366; 840138, 3811372; 840138, 3811378; 840139, 3811384; 840140, 3811389; 840142, 3811395; 840144, 3811401; 840146, 3811406; 840146, 3811407; 840153, 3811422; 840156, 3811427; 840158, 3811432; 840162, 3811437; 840165, 3811442; 840169, 3811446; 840173, 3811450; 840174, 3811450; 840211, 3811485; 840215, 3811489; 840219, 3811492; 840224, 3811496; 840228, 3811498; 840309, 3811543; 840338, 3811573; 840392, 3811654; 840506, 3811850; 840507, 3811852; 840510, 3811857; 840514, 3811861; 840518, 3811866; 840522, 3811870; 840526, 3811874; 840531, 3811877; 840536, 3811881; 840541, 3811884; 840541, 3811884; 840634, 3811933; 840639, 3811936; 840644, 3811938; 840650, 3811940; 840655, 3811941; 840658, 3811942; 840927, 3811998; 840894, 3812043; 840891, 3812048; 840888, 3812053; 840886, 3812058; 840883, 3812064; 840881, 3812069; 840881, 3812071; 840869, 3812111; 840868, 3812115; 840867, 3812121; 840866, 3812127; 840866, 3812133; 840866, 3812139; 840866, 3812141; 840869, 3812195; 840869, 3812198; 840870, 3812204; 840871, 3812210; 840873, 3812215; 840874, 3812221; 840876, 3812224; 840920, 3812332; 840921, 3812335; 840924, 3812340; 840927, 3812345; 840930, 3812350; 840933, 3812355; 840934, 3812355; 840990, 3812423; 840993, 3812428; 840997, 3812432; 841002, 3812436; 841007, 3812439; 841011, 3812443; 841017, 3812445; 841018, 3812446; 841070, 3812473; 841074, 3812476; 841080, 3812478; 841082, 3812479; 841246, 3812536; 841261, 3812544; 841267, 3812552; 841281, 3812590; 841283, 3812595; 841286, 3812600; 841289, 3812605; 841292, 3812610; 841295, 3812615; 841299, 3812619; 841331, 3812654; 841335, 3812658; 841340, 3812662; 841344, 3812665; 841349, 3812669; 841354, 3812672; 841360, 3812674; 841363, 3812676; 841423, 3812700; 841425, 3812701; 841431, 3812703; 841436, 3812705; 841442, 3812706; 841448, 3812707; 841450, 3812707; 841662, 3812724; 841678, 3812753; 841689, 3812790; 841680, 3812957; 841680, 3812958; 841680, 3812964; 841681, 3812970; 841681, 3812975; 841687, 3813016; 841688, 3813017; 841689, 3813023; 841690, 3813029; 841692, 3813034; 841694, 3813040; 841697, 3813045; 841698, 3813047; 841765, 3813166; 841767, 3813170; 841768, 3813171; 841929, 3813421; 841931, 3813425; 841935, 3813429; 841939, 3813434; 841943, 3813438; 841944, 3813439; 841946, 3813446; 841950, 3813590; 841950, 3813590; 841950, 3813596; 841951, 3813602; 841952, 3813608; 841954, 3813613; 841956, 3813619; 841958, 3813624; 841960, 3813630; 841963, 3813635; 841964, 3813636; 841981, 3813662; 841984, 3813666; 841987, 3813670; 841991, 3813675; 841995, 3813679; 842000, 3813683; 842004, 3813686; 842006, 3813688; 842053, 3813720; 842056, 3813722; 842061, 3813725; 842067, 3813728; 842072, 3813730; 842073, 3813730; 842234, 3813790; 842278, 3813827; 842307, 3813870; 842334, 3813942; 842360, 3814038; 842360, 3814040; 842362, 3814046; 842363, 3814046; 842400, 3814144; 842402, 3814149; 842404, 3814154; 842407, 3814160; 842411, 3814164; 842411, 3814164; 842459, 3814233; 842462, 3814237; 842466, 3814242; 842466, 3814242; 842521, 3814301; 842580, 3814448; 842582, 3814451; 842584, 3814456; 842587, 3814461; 842590, 3814466; 842594, 3814471; 842598, 3814475; 842600, 3814477; 842661, 3814539; 842677, 3814578; 842715, 3814735; 842717, 3814740; 842718, 3814746; 842721, 3814751; 842722, 3814754; 842876, 3815065; 842877, 3815067; 842880, 3815072; 842884, 3815077; 842887, 3815082; 842891, 3815086; 842891, 3815086; 842957, 3815157; 842961, 3815162; 842966, 3815165; 842970, 3815169; 842975, 3815172; 842980, 3815175; 842980, 3815175; 843232, 3815311; 843254, 3815328; 843253, 3815332; 843188, 3815444; 843186, 3815446; 843184, 3815452; 843182, 3815457; 843180, 3815463; 843178, 3815468; 843177, 3815474; 843176, 3815480; 843176, 3815486; 843176, 3815492; 843176, 3815498; 843177, 3815503; 843178, 3815509; 843179, 3815515; 843181, 3815520; 843195, 3815558; 843195, 3815559; 843197, 3815565; 843200, 3815570; 843203, 3815575; 843206, 3815580; 843210, 3815585; 843214, 3815589; 843253, 3815631; 843257, 3815636; 843261, 3815639; 843264, 3815641; 843288, 3815639; 843325, 3815639; 843359, 3815639; 843404, 3815642; 843475, 3815647; 843540, 3815659; 843619, 3815664; 843704, 3815669; 843752, 3815676; 843789, 3815695; 843817, 3815724; 843866, 3815732; 843888, 3815746; 843884, 3815777; 843913, 3815827; 843928, 3815865; 843942, 3815896; 843936, 3815945; 843934, 3815959; 843934, 3815998; 843934, 3816044; 843934, 3816089; 843939, 3816126; 843970, 3816174; 844016, 3816205; 844061, 3816233; 844089, 3816245; 844129, 3816256; 844188, 3816282; 844237, 3816307; 844276, 3816310; 844316, 3816324; 844350, 3816350; 844387, 3816392; 844429, 3816420; 844457, 3816440; 844474, 3816454; 844485, 3816470; 844488, 3816470; 844494, 3816470; 844500, 3816468; 844506, 3816467; 844511, 3816465; 844517, 3816463; 844522, 3816460; 844527, 3816457; 844532, 3816454; 844537, 3816450; 844541, 3816447; 844545, 3816442; 844549, 3816438; 844553, 3816433; 844556, 3816428; 844559, 3816423; 844562, 3816418; 844564, 3816413; 844566, 3816407; 844567, 3816401; 844569, 3816396; 844569, 3816390; 844570, 3816384; 844570, 3816378; 844570, 3816372; 844569, 3816366; 844568, 3816360; 844566, 3816355; 844564, 3816349; 844562, 3816344; 844559, 3816338; 844557, 3816333; 844555, 3816330; 844561, 3816324; returning to 844594, 3816280.

(ii) Note: Unit VEN-2 is depicted on Map M27—Unit VEN-1 and VEN-2—which follows:

BILLING CODE 4310-55-P

BILLING CODE 4310-55-C

(53) Unit VEN-3; Ventura County, California.

(i) From USGS 1:24,000 scale quadrangle Cobblestone Mtn., Whitaker Peak. Land bounded by the following UTM Zone 11, NAD27 coordinates (E,N): 889722, 3834648; 889736, 3834553; 889953, 3834430; 890062, 3834321; 890212, 3834209; 890225, 3834199; 890389, 3834145; 890538, 3834077; 890851, 3833941; 891001, 3833709; 891042, 3833600; 891246, 3833437; 891532, 3833287; 891592, 3833268; 891585, 3833256; 891479, 3833002; 891479, 3832747; 891585, 3832514; 891595, 3832484; 891669, 3832281; 891542, 3832048; 891457, 3831815; 891457, 3831412; 891457, 3831137; 891457, 3830925; 891182, 3830522; 890822, 3830522; 890567, 3830332; 890567, 3830056; 890567, 3829696; 890673, 3829463; 890970, 3829441; 890906, 3829230; 890779, 3828954; 890758, 3828721; 890758, 3828382; 890440, 3828339; 890272, 3828053; 890059, 3827640; 890059, 3827407; 889889, 3827259; 889790, 3827093; 889719, 3826975; 889707, 3826983; 889611, 3827021; 889566, 3827043; 889544, 3827069; 889531, 3827105; 889517, 3827167; 889496, 3827231; 889452, 3827290; 889389, 3827333; 889336, 3827384; 889305, 3827450; 889304, 3827453; 889303, 3827459; 889289, 3827525; 889261, 3827575; 889222, 3827618; 889062, 3827734; 889019, 3827777; 888953, 3827867; 888953, 3827867; 888942, 3827882; 888892, 3827956; 888850, 3827999; 888811, 3828021; 888765, 3828029; 888712, 3828033; 888643, 3828032; 888589, 3828035; 888543, 3828054; 888538, 3828055; 888485, 3828076; 888369, 3828152; 888287, 3828188; 888176, 3828226; 888078, 3828269; 887957, 3828329; 887810, 3828423; 887755, 3828447; 887698, 3828442; 887646, 3828443; 887583, 3828460; 887470, 3828500; 887465, 3828503; 887427, 3828527; 887411, 3828543; 887378, 3828604; 887330, 3828653; 887292, 3828674; 887250, 3828683; 887209, 3828703; 887167, 3828712; 887109, 3828731; 887077, 3828734; 887151, 3828961; 887273, 3829247; 887450, 3829369; 887504, 3829546; 887504, 3829832; 887572, 3830036; 887545, 3830145; 887382, 3830199; 887164, 3830308; 887137, 3830362; 887028, 3830417; 886879, 3830485; 886729, 3830580; 886579, 3830648; 886375, 3830716; 886266, 3831111; 886035, 3831274; 885899, 3831288; 885709, 3831301; 885518, 3831301; 885341, 3831356; 885164, 3831437; 885151, 3831614; 885096, 3831723; 884919, 3831737; 884743, 3831900; 884675, 3832104; 884552, 3832158; 884334, 3832322; 884239, 3832362; 884171, 3832471; 883994, 3832566; 883763, 3832811; 883709, 3832961; 883695, 3833151; 883790, 3833328; 883491, 3833927; 883273, 3834090; 883382, 3834253; 883600, 3834430; 883790, 3834485; 883954, 3834512; 884117, 3834512; 884253, 3834485; 884389, 3834471; 884566, 3834471; 884770, 3834458; 884988, 3834458; 885151, 3834458; 885341, 3834430; 885518, 3834430; 885736, 3834430; 885994, 3834430; 886321, 3834498; 886933, 3834539; 887205, 3834403; 887328, 3834403; 887532, 3834240; 887544, 3834257; 887613, 3834349; 887872, 3834349; 888076, 3834444; 888280, 3834621; 888525, 3834689; 888824, 3834621; 889028, 3834716; 889341, 3834947; 889491, 3835002; 889640, 3835002; 889722, 3834879; 889722, 3834743; returning to 889722, 3834648.

(ii) Note: Unit VEN-3 is depicted on Map M28—Unit VEN-3 and LOS-1—see paragraph (54)(ii):

(54) Unit LOS-1, Los Angeles County, California.

(i) From USGS 1:24,000 scale quadrangle Warm Springs Mountain, Green Valley. Land bounded by the following UTM Zone 11, NAD27 coordinates (E,N): 909672, 3827197; 909460, 3827183; 908957, 3827270; 908956, 3827270; 908613, 3827329; 908613, 3827528; 908732, 3827634; 908772, 3827845; 908930, 3828017; 908970, 3828176; 909089, 3828362; 909169, 3828706; 909288, 3829010; 909288, 3829196; 909169, 3829275; 909182, 3829434; 909222, 3829606; 909407, 3829633; 909486, 3829871; 909486, 3829964; 909394, 3830096; 909354, 3830308; 909513, 3830573; 909592, 3830890; 909698, 3831089; 909751, 3831433; 909910, 3831645; 910056, 3831830; 910135, 3832042; 910201, 3832267; 910281, 3832386; 910334, 3832532; 910413, 3832889; 910691, 3833114; 911711, 3833657; 911922, 3833737; 912174, 3833829; 912518, 3833909; 912902, 3834068; 913167, 3834081; 913604, 3834107; 913882, 3834041; 913917, 3834003; 913968, 3833948; 914041, 3833869; 914119, 3833818; 914160, 3833791; 914345, 3833670; 914403, 3833604; 914455, 3833544; 914517, 3833472; 914491, 3833273; 914477, 3833088; 914458, 3833058; 914457, 3833058; 914375, 3832935; 914357, 3832908; 914345, 3832889; 914173, 3832797; 913961, 3832638; 913630, 3832360; 913458, 3832161; 912995, 3831830; 912770, 3831658; 912584, 3831473; 912478, 3831287; 912425, 3831115; 912320, 3830983; 912174, 3830811; 912081, 3830559; 912028, 3830400; 912002, 3830228; 911856, 3830043; 911737, 3829884; 911578, 3829699; 911433, 3829447; 911115, 3829077; 911009, 3828971; 910929, 3828772; 910837, 3828441; 910744, 3828110; 910612, 3827845; 910400, 3827528; 910095, 3827223; 909986, 3827216; 909973, 3827216; returning to 909672, 3827197.

(ii) Note: Unit LOS-1 is depicted on Map M28—Unit VEN-3 and LOS-1—which follows:

BILLING CODE 4310-55-P

BILLING CODE 4310-55-C

(55) Unit VEN-4, Ventura County, California.

(i) From USGS 1:24,000 scale quadrangle Calabasas. Land bounded by the following UTM Zone 11, NAD27 coordinates (E,N): 899260, 3792780; 899269, 3792341; 899271, 3792289; 899274, 3792130; 899282, 3791776; 899351, 3790160; 899387, 3789294; 897330, 3789240; 896183, 3789194; 896137, 3789194; 896134, 3789194; 896131, 3789196; 896109, 3789195; 896104, 3789194; 895982, 3789189; 895982, 3789189; 895980, 3789195; 895953, 3789402; 895961, 3789404; 896201, 3789495; 896208, 3789616; 896103, 3789653; 896099, 3789667; 896085, 3789717; 896032, 3789763; 896028, 3789785; 896015, 3789854; 895941, 3789898; 895812, 3790075; 895770, 3790185; 895733, 3790192; 895705, 3790200; 895653, 3790333; 895682, 3790410; 895672, 3790492; 895613, 3790598; 895613, 3790675; 895579, 3790719; 895602, 3790853; 895636, 3790892; 895649, 3790906; 895618, 3790990; 895605, 3791026; 895859, 3791213; 895850, 3791451; 895997, 3791667; 896034, 3791978; 896036, 3791986; 896068, 3792126; 896100, 3792140; 896328, 3792238; 896351, 3792233; 896416, 3792259; 896500, 3792312; 896720, 3792313; 896781, 3792288; 896824, 3792288; 896859, 3792293; 896971, 3792344; 897000, 3792353; 897054, 3792392; 897080, 3792419; 897107, 3792440; 897231, 3792517; 897264, 3792545; 897306, 3792570; 897458, 3792664; 897591, 3792609; 897679, 3792610; 897729, 3792605; 897784, 3792588; 897838, 3792560; 897897, 3792541; 897951, 3792534; 898097, 3792625; 899251, 3792779; returning to 899260, 3792780.

(ii) Note: Unit VEN-4 (Map M29) follows:

BILLING CODE 4310-55-P

BILLING CODE 4310-55-C

(56) Unit RIV-1, Riverside County, California.

(i) From USGS 1:24,000 scale quadrangle Wildomar, Murrieta, Fallbrook. Land bounded by the following UTM Zone 11, NAD27 coordinates (E,N): 103373, 3728915; 103371, 3728747; 103370, 3728602; 103370, 3728505; 103370, 3728384; 103372, 3728382; 103380, 3728375; 103394, 3728487; 103405, 3728580; 103422, 3728654; 103440, 3728654; 103446, 3728608; 103466, 3728510; 103476, 3728351; 103488, 3728249; 103492, 3728212; 103509, 3728221; 103515, 3728258; 103527, 3728333; 103538, 3728100; 103558, 3727941; 103568, 3727830; 103574, 3727718; 103588, 3727559; 103596, 3727494; 103586, 3727354; 103562, 3727075; 103561, 3727051; 103559, 3727100; 103557, 3727167; 103556, 3727178; 103552, 3727166; 103548, 3727130; 103543, 3727115; 103543, 3727082; 103543, 3727042; 103540, 3726844; 103550, 3726824; 103555, 3726803; 103557, 3726792; 103558, 3726784; 103559, 3726772; 103563, 3726808; 103565, 3726736; 103591, 3726494; 103602, 3726427; 103615, 3726346; 103630, 3726185; 103639, 3726105; 103655, 3726091; 103663, 3725984; 103688, 3725863; 103690, 3725849; 103693, 3725821; 103693, 3725821; 103700, 3725742; 103709, 3725648; 103732, 3725446; 103743, 3725379; 103753, 3725258; 103765, 3725258; 103767, 3725258; 103782, 3725299; 103787, 3725285; 103784, 3725109; 103784, 3725109; 103783, 3725070; 103783, 3724923; 103786, 3724868; 103786, 3724868; 103786, 3724865; 103784, 3724829; 103784, 3724829; 103782, 3724794; 103782, 3724794; 103782, 3724789; 103776, 3724736; 103768, 3724736; 103764, 3724669; 103762, 3724594; 103762, 3724583; 103756, 3724493; 103756, 3724431; 103756, 3724354; 103756, 3724297; 103756, 3724218; 103756, 3724211; 103755, 3724121; 103746, 3724073; 103734, 3724130; 103734, 3724130; 103721, 3724135; 103700, 3724106; 103697, 3724045; 103697, 3724044; 103696, 3723988; 103694, 3723901; 103702, 3723686; 103712, 3723519; 103725, 3723391; 103733, 3723305; 103730, 3723119; 103720, 3723109; 103716, 3723095; 103716, 3723095; 103711, 3723077; 103702, 3723044; 103694, 3722932; 103689, 3722834; 103689, 3722830; 103678, 3722671; 103667, 3722662; 103667, 3722774; 103660, 3722895; 103654, 3722949; 103650, 3722988; 103642, 3722988; 103641, 3722988; 103632, 3722867; 103627, 3722783; 103620, 3722802; 103615, 3722904; 103613, 3723063; 103608, 3723147; 103595, 3723147; 103590, 3722979; 103588, 3722839; 103579, 3722765; 103572, 3722746; 103561, 3722802; 103547, 3722876; 103532, 3722876; 103532, 3722876; 103524, 3722774; 103524, 3722681; 103524, 3722681; 103524, 3722616; 103521, 3722420; 103509, 3722243; 103496, 3722150; 103496, 3721973; 103487, 3721898; 103467, 3721889; 103452, 3722001; 103441, 3722075; 103439, 3722084; 103428, 3722103; 103404, 3722038; 103397, 3721805; 103401, 3721693; 103403, 3721673; 103412, 3721572; 103402, 3721535; 103385, 3721535; 103382, 3721535; 103382, 3721535; 103368, 3721525; 103363, 3721618; 103351, 3721740; 103344, 3721833; 103337, 3721898; 103333, 3721991; 103327, 3722112; 103320, 3722163; 103314, 3722206; 103306, 3722206; 103306, 3722206; 103296, 3722206; 103285, 3722206; 103267, 3722206; 103253, 3722112; 103250, 3722112; 103241, 3722112; 103223, 3722112; 103223, 3722112; 103222, 3722112; 103207, 3722056; 103201, 3721955; 103196, 3721870; 103194, 3721712; 103194, 3721563; 103195, 3721441; 103182, 3721385; 103172, 3721367; 103145, 3721367; 103125, 3721451; 103119, 3721482; 103115, 3721504; 103104, 3721563; 103088, 3721572; 103080, 3721563; 103070, 3721553; 103066, 3721510; 103061, 3721460; 103039, 3721460; 103020, 3721460; 103001, 3721441; 102965, 3721236; 102953, 3721236; 102940, 3721302; 102935, 3721402; 102935, 3721402; 102934, 3721423; 102939, 3721637; 102939, 3721674; 102939, 3721768; 102949, 3721954; 102949, 3722140; 102949, 3722299; 102949, 3722427; 102949, 3722427; 102949, 3722466; 102949, 3722581; 102949, 3722616; 102949, 3722635; 102952, 3722766; 102953, 3722811; 102959, 3722889; 102959, 3722889; 102963, 3722932; 102965, 3723100; 102967, 3723231; 102973, 3723389; 102967, 3723613; 102967, 3723808; 102967, 3723976; 102959, 3724088; 102953, 3724330; 102953, 3724535; 102953, 3724722; 102953, 3724899; 102958, 3725048; 102967, 3725160; 102972, 3725290; 102972, 3725458; 102974, 3725598; 102982, 3725793; 102988, 3725952; 102999, 3726073; 103000, 3726110; 103015, 3726315; 103022, 3726502; 103027, 3726623; 103039, 3726679; 103050, 3726641; 103050, 3726511; 103058, 3726269; 103072, 3726119; 103078, 3726045; 103081, 3726008; 103089, 3725998; 103111, 3726064; 103124, 3726138; 103137, 3726194; 103158, 3726231; 103172, 3726371; 103191, 3726371; 103206, 3726390; 103220, 3726390; 103227, 3726548; 103234, 3726809; 103234, 3726958; 103234, 3727051; 103222, 3727210; 103214, 3727275; 103213, 3727331; 103206, 3727461; 103196, 3727499; 103183, 3727499; 103175, 3727499; 103167, 3727592; 103162, 3727732; 103156, 3727769; 103147, 3727769; 103136, 3727732; 103129, 3727732; 103120, 3727788; 103112, 3727862; 103112, 3727965; 103117, 3728095; 103126, 3728179; 103129, 3728291; 103128, 3728384; 103122, 3728542; 103120, 3728636; 103126, 3728766; 103140, 3728878; 103155, 3728943; 103163, 3729046; 103171, 3729092; 103186, 3729074; 103190, 3728952; 103203, 3728906; 103213, 3728850; 103227, 3728831; 103241, 3728831; 103249, 3728878; 103256, 3729018; 103256, 3729241; 103268, 3729372; 103279, 3729512; 103290, 3729595; 103302, 3729595; 103309, 3729437; 103314, 3729342; 103316, 3729316; 103325, 3729288; 103335, 3729223; 103352, 3729204; 103366, 3729138; 103368, 3729130; returning to 103373, 3728915.

(ii) Note: Unit RIV-1 is depicted on Map M30—Unit RIV-1 and RIV-2—see paragraph (57)(ii):

(iii) Note: Unit RIV-1 (Map M30) follows:

Dated: October 24, 2005.
Craig Manson,
Assistant Secretary of Fish and Wildlife and Parks.

[FR Doc. 05-21594 Filed 11-2-05; 8:45 am]

BILLING CODE 4310-55-C